DEPARTMENT OF HOUSING AND URBAN DEVELOPMENT

[Docket No. FR-4900-N-01]

Notice of HUD's Fiscal Year (FY) 2004, Notice of Funding Availability (NOFA), Policy Requirements and General Section to the SuperNOFA for HUD's Discretionary Programs

AGENCY: Office of the Secretary, HUD.

ACTION: Notice of HUD's FY2004 NOFA Policy Requirements and General Section to the FY2004 SuperNOFA for HUD's Discretionary Programs (Notice).

Overview Information

A. Federal Agency Name: Department of Housing and Urban Development (HUD), Office of the Secretary.

B. Funding Opportunity Title: Policy requirements applicable to all HUD federal financial assistance programs issued through a NOFA during FY2004.

C. Announcement Type: Initial announcement of the general policy requirements that apply to all HUD federal financial assistance NOFAs for FY2004 issued simultaneously with and after the publication of this Notice.

D. Funding Opportunity Number: FR 4900-N-01.

E. Catalog of Federal Domestic Assistance (CFDA) Number: A CFDA number is provided for each HUD federal financial assistance program. When using the www.Grants.gov Web site you will be asked for the CFDA number. Please refer to the Program NOFA for the CFDA number assigned to the program.

F. Dates: The key dates that apply to all HUD federal financial assistance made available through HUD's FY2004 NOFAs are found in each individual Program NOFA.

G. Optional, Additional Overview Content Information: HUD's general policy requirements set forth in this Notice apply to all HUD federal financial assistance made available through HUD's FY2004 NOFAs. These policies cover those NOFAs issued through this SuperNOFA as well as those issued after publication of the SuperNOFA in the Federal Register.

Full Text of Announcement

I. Funding Opportunity Description

This Notice provides information regarding the Department of Housing and Urban Development's (HUD's) FY2004 policy requirements applicable to all of HUD's federal financial assistance programs announced through NOFAs published along with this Notice and any subsequent NOFAs published for FY2004. Each Program NOFA that is part of this SuperNOFA will provide a description of the specific requirements for the program for which funding is made available and each will refer to applicable policies contained in this Notice. Each Program NOFA will also describe any additional procedures and requirements that apply to the individual Program NOFA, including a description of the eligible applicants, eligible activities, threshold requirements, factors for award, and any additional program requirements or limitations. To ensure that you are able to adequately address all of the application requirements for any program for which you intend to apply, please be sure you carefully read both this Notice of HUD's NOFA policy requirements and the individual Program NOFAs to ensure you respond to all the requirements for all programs for which you will be seeking funding.

II. Award Information

Funding Available. Each Program NOFA will identify the amount and source of funds available in FY2004, as provided by HUD appropriations and other relevant authority. The FY2004 SuperNOFA contains 50 funding opportunities composed of programs and program components totaling approximately $2.3 billion. As a service to our customers, Attachment A of this notice contains a chart of the funds being made available in HUD's SuperNOFA for FY2004. If HUD recaptures funds in any program, HUD reserves the right to increase the available funding for the applicable program by those amounts. Note that additional NOFAs may be issued separately from the issuance of the FY2004 SuperNOFA.

III. Eligibility Information

A. Eligible Applicants: The individual Program NOFAs describe the eligible applicants and eligible activities for each program.

B. Cost Sharing or Matching: The individual Program NOFAs describe the applicable cost sharing, matching requirements, or leveraging requirements related to each program, if any.

C. Other:

Requirements and Procedures Applicable to All Programs

Except as may be modified in the individual Program NOFAs in FY2004, the requirements, procedures and principles listed below apply to all programs in FY2004 for which funding is announced via NOFA and published in the Federal Register simultaneously with or after the publication of this Notice. Please read the individual Program NOFAs for additional requirements or information.

1. Statutory and Regulatory Requirements. To be eligible for funding under HUD NOFAs issued during FY2004, you, the applicant, must meet all statutory and regulatory requirements applicable to the program or programs for which you seek funding. If you need copies of the program regulations, they are available from the NOFA Information Center or through the www.hud.gov/grants/index.cfm Web site. See the individual Program NOFAs for instructions on how HUD will respond to proposed activities that are ineligible. With the exception of the Section 202 Supportive Housing for the Elderly program and the Section 811 Supportive Housing for Persons with Disabilities program, HUD may also eliminate the ineligible activities from funding consideration and reduce funding amounts accordingly.

2. Threshold Requirements

a. Ineligible Applicants. HUD will not consider an application from an ineligible applicant.

b. Dun and Bradstreet Data Universal Numbering System (DUNS) Number Requirement. Beginning in federal FY2004, any applicant seeking funding directly from HUD or other federal agencies must obtain a DUNS number and include the number in its Application for Federal Assistance submission. Failure to provide a DUNS number will prevent you from obtaining an award. Individuals who personally apply for federal financial assistance, apart from any governmental, business or nonprofit organization they may represent, are excluded from the requirement to obtain a DUNS number. This policy is pursuant to the Office of Management and Budget (OMB) Policy issued in the Federal Register on June 27, 2003 (68 FR 38402). HUD's regulation implementing the DUNS Number requirement for its programs was issued in the Federal Register on March 26, 2004 (69 FR 15671). A copy of the OMB Federal Register notice and HUD's regulation implementing the DUNS number can be found on HUD's Web site at http://www.hud.gov/offices/adm/grants/duns.cfm. Failure to provide a DUNS number with the application submission will be treated as a technical deficiency to the application. If the DUNS number is not provided within the cure period (see Section V.B.4., Corrections to Deficient Applications), the application will not be funded. The www.grants.gov Web site URL at http://www.grants.gov/GetStarted provides step-by-step instructions for obtaining a DUNS number as well as procedures for registering in the Central Contractor Registry and E-Authentication. The registration in the Central Contractor Registry and receiving credentials from the Grants.gov E-Authentication provider are not necessary for submitting a paper copy application to HUD; only the DUNS number is required. Central Contractor Registration and E-Authentication is required for submittal of electronic grant applications through the Grants.gov portal. For FY2004, HUD is maintaining its policy of accepting paper copies of the application sent directly to HUD. However, it is HUD's intent to move to electronic submission of all applications in FY2005.

c. Compliance with Fair Housing and Civil Rights Laws.

(1) Applicants must comply with all applicable fair housing and civil rights requirements in 24 CFR 5.105(a). In addition to these requirements, there may be program-specific threshold requirements identified in the individual Program NOFAs.

(2) If you, the applicant:

(a) Have been charged with an on-going systemic violation of the Fair Housing Act; or

(b) Are a defendant in a Fair Housing Act lawsuit filed by the Department of Justice alleging an on-going pattern or practice of discrimination; or

(c) Have received a letter of findings identifying ongoing systemic noncompliance under Title VI of the Civil Rights Act of 1964, Section 504 of the Rehabilitation Act of 1973, or Section 109 of the Housing and Community Development Act of 1974; and

(d) The charge, lawsuit or letter of findings referenced in subpart (a), (b), or (c) above has not been resolved to HUD's satisfaction before the application deadline, then you are ineligible and HUD will not rate and rank your application. HUD will determine if actions to resolve the charge, lawsuit or letter of findings taken prior to the application deadline are sufficient to resolve the matter.

Examples of actions that would normally be considered sufficient to resolve the matter include, but are not limited to:

(i) A voluntary compliance agreement signed by all parties in response to a letter of findings;

(ii) A HUD-approved conciliation agreement signed by all parties;

(iii) A consent order or consent decree; or

(iv) An issuance of a judicial ruling or a HUD Administrative Law Judge's decision.

d. Conducting Business in Accordance with Core Values and Ethical Standards. Entities subject to 24 CFR parts 84 and 85 (most nonprofit organizations and state, local, and tribal governments or government agencies or instrumentalities that receive federal awards of financial assistance) are required to develop and maintain a written code of conduct (see 24 CFR 84.42 and 85.36(b)(3)). Consistent with regulations governing specific programs, your code of conduct must prohibit real and apparent conflicts of interest that may arise among officers, employees, or agents; prohibit the solicitation and acceptance of gifts or gratuities by your officers, employees, and agents for their personal benefit in excess of minimal value; and, outline administrative and disciplinary actions available to remedy violations of such standards. If awarded assistance under a HUD Program NOFA announced in FY2004, you will be required, prior to entering into an agreement with HUD, to submit a copy of your code of conduct and describe the methods you will use to ensure that all officers, employees, and agents of your organization are aware of your code of conduct. Failure to meet the requirement for a code of conduct will prohibit you from receiving an award of funds from HUD.

e. Delinquent Federal Debts. Consistent with the purpose and intent of 31 U.S.C. 3720B and 28 U.S.C. 3201(e), no award of federal funds will be made to an applicant that has an outstanding delinquent federal debt unless (1) the delinquent account is paid in full, (2) a negotiated repayment schedule is established and the repayment schedule is not delinquent, or (3) other arrangements satisfactory to HUD are made prior to the deadline submission date.

f. Pre-Award Accounting System Surveys. HUD may arrange for a pre-award survey of the applicant's financial management system in cases where the recommended applicant has no prior federal support, HUD's program officials have reason to question whether the applicant's financial management system meets federal financial management standards, or the applicant is considered a high risk based upon past performance or financial management findings. HUD will not disburse funds to any applicant that does not have a financial management system that meets federal standards.

g. Name Check Review. Recommended applicants are subject to a name check review process. Name checks are intended to reveal matters that significantly reflect on the applicant's management and financial integrity, or if any key individual has been convicted or is presently facing criminal charges. If the name check reveals significant adverse findings that reflect on the business integrity or responsibility of the applicant or key individual, HUD reserves the right to (1) deny funding or consider suspension or termination of an award immediately for cause, (2) require the removal of any key individual from association with management or implementation of the award, and (3) make appropriate provisions or revisions with respect to the method of payment or financial reporting requirements.

h. False Statements. A false statement in an application is grounds for denial or termination of an award and grounds for possible punishment as provided in 18 U.S.C. 1001.

i. Prohibition Against Lobbying Activities. You, the applicant, are subject to the provisions of Section 319 of Public Law 101-121 (approved October 23, 1989) (31 U.S.C. 1352) (the Byrd Amendment), which prohibits recipients of federal contracts, grants, or loans from using appropriated funds for lobbying the executive or legislative branches of the federal government in connection with a specific contract, grant, or loan. In addition, you must disclose, using Standard Form LLL “Disclosure of Lobbying Activities,” any funds, other than federally appropriated funds, that will be or have been used to influence federal employees, Members of Congress, and congressional staff regarding specific grants or contracts. Federally recognized Indian tribes and tribally designated housing entities (TDHEs) established by federally recognized Indian tribes as a result of the exercise of the tribe's sovereign power are excluded from coverage of the Byrd Amendment, but Indian tribes and TDHEs established under only state law must comply with this requirement.

j. Debarment and Suspension. In accordance with 24 CFR part 24, no award of federal funds may be made to applicants that are presently debarred or suspended, or proposed to be debarred or suspended, from doing business with the federal government. This requirement applies to all lower tier covered transactions and to all solicitations for lower tier covered transactions. The prohibition includes the following:

(1) Having principals who, within the previous three years, have been convicted of or had a civil judgment rendered against them for commission of fraud or a criminal offense in connection with obtaining, attempting to obtain, or performing a public (federal, state or local) transaction, violation of federal or state anti-trust statutes or commission of embezzlement, theft, forgery, bribery, falsification or destruction of records, making false statements or receiving stolen property; and

(2) Charges or indictments by a governmental entity (federal, state and local) for commission of any of the above violations.

3. Other Threshold Requirements

The individual Program NOFAs for which you are applying may specify other threshold requirements. Additional threshold requirements may be identified in the discussion of “eligibility” requirements in the individual Program NOFAs. If a Program NOFA requires a certification of consistency with the Consolidated Plan and the applicant fails to provide a certification, or the certification provided identifies the proposed activities as inconsistent with the impacted area's consolidated plan, HUD, upon review of the facts, may deny funding for an application based upon the inconsistency.

4. Additional Non-discrimination and Other Requirements

You, the applicant, and your subrecipients must comply with:

a. The Americans with Disabilities Act of 1990 (42 U.S.C. 1201 et seq.), the Age Discrimination Act of 1974 (42 U.S.C. 6101 et seq.), and Title IX of the Education Amendments Act of 1972 (20 U.S.C. 1681 et seq.).

b. Affirmatively Furthering Fair Housing. Under Section 808(e)(5) of the Fair Housing Act, HUD is obliged to affirmatively further fair housing. HUD requires the same of its funding recipients. If you are a successful applicant, you will have a duty to affirmatively further fair housing opportunities for classes protected under the Fair Housing Act. Protected classes include race, color, national origin, religion, sex, disability, and familial status. Unless otherwise instructed in the individual Program NOFA, your application must include specific steps to:

(1) Overcome the effects of impediments to fair housing choice that were identified in the jurisdiction's Analysis of Impediments (AI) to Fair Housing Choice;

(2) Remedy discrimination in housing; or

(3) Promote fair housing rights and fair housing choice.

Further, you, the applicant, have a duty to carry out the specific activities provided in your responses to the individual Program NOFA rating factors that address affirmatively furthering fair housing. These requirements apply to all HUD programs announced via a NOFA, unless specifically excluded in the individual Program NOFA.

c. Economic Opportunities for Low- and Very Low-Income Persons (Section 3). Certain programs to be issued during FY2004 require recipients of assistance to comply with Section 3 of the Housing and Urban Development Act of 1968 (Section 3), 12 U.S.C. 1701u (Economic Opportunities for Low- and Very Low-Income Persons in Connection with Assisted Projects) and the HUD regulations at 24 CFR part 135, including the reporting requirements at subpart E. Section 3 requires recipients to ensure that, to the greatest extent feasible, training, employment, and other economic opportunities will be directed to low- and very-low income persons, particularly those who are recipients of government assistance for housing, and business concerns that provide economic opportunities to low- and very low-income persons. Review the individual Program NOFAs to determine if Section 3 applies to the program for which you are seeking funding.

d. Ensuring the Participation of Small Businesses, Small Disadvantaged Businesses, and Women-Owned Businesses. HUD is committed to ensuring that small businesses, small disadvantaged businesses, and women-owned businesses participate fully in HUD's direct contracting and in contracting opportunities generated by HUD financial assistance. Too often, these businesses still experience difficulty accessing information and successfully bidding on federal contracts. State, local, and tribal governments are required by 24 CFR 85.36(e) and nonprofit recipients of assistance (grantees and sub-grantees) by 24 CFR 84.44(b) to take all necessary affirmative steps in contracting for the purchase of goods or services to assure that minority firms, women's business enterprises, and labor surplus area firms are used whenever possible or as specified in the individual Program NOFAs.

e. Relocation. The relocation requirements of the Uniform Relocation Assistance and Real Property Acquisition Policies Act of 1970, as amended, and the implementing government-wide regulation at 49 CFR part 24 cover any person who moves permanently from real property or moves personal property from real property directly because of acquisition, rehabilitation, or demolition for an activity undertaken with HUD assistance. Some HUD program regulations also cover persons who are temporarily relocated. For example, 24 CFR 570.606(b)(2)(i)(D)(1), (2) and (3) provide guidance on temporary relocation for the CDBG program. Applicants should review the regulations for the programs for which they are applying when planning their project.

f. Executive Order 13166, Improving Access to Services for Persons With Limited English Proficiency (LEP). Executive Order 13166 seeks to improve access to federally assisted services, programs and benefits for individuals with limited English proficiency. Applicants obtaining an award from HUD must seek to provide access to program benefits and information to LEP individuals through translation and interpretive services in accordance with LEP Guidance published on December 19, 2003 (68 FR 70967). For assistance and information regarding your LEP obligation, go to www.LEP.gov.

g. Executive Order 13279, Equal Protection of the Laws for Faith-Based and Community Organizations. HUD is committed to full implementation of Executive Order 13279. The Executive Order established fundamental principles and policymaking criteria to guide federal agencies in formulating and developing policies that have implications for faith-based and community organizations to ensure the equal protection for these organizations in social services programs receiving federal financial assistance. Consistent with this order, HUD has undertaken a review of all policies and regulations that have implications for faith-based and community organizations and has established a policy priority to provide full and equal access to grassroots faith-based and other community-based organizations in HUD program implementation. In addition, on September 30, 2003 (68 FR 56396), HUD issued a final rule to remove barriers to the participation of faith-based organizations in the following HUD programs:

• HOME Investment Partnerships (24 CFR part 92);

• Community Development Block Grants (CDBG) (24 CFR part 570);

• HOPE for Homeownership of Single Family Homes (HOPE 3) (24 CFR part 572);

• Housing Opportunities for Persons With AIDS (HOPWA) (24 CFR part 574);

• Emergency Shelter Grants (ESG) (24 CFR part 576);

• Shelter Plus Care (24 CFR part 582);

• Supportive Housing (24 CFR part 583); and

• Youthbuild (24 CFR part 585).

Copies of the regulatory changes can be found at: http://www.hud.gov/grants/index.cfm.

h. Accessible Technology. The Rehabilitation Act Amendments of 1998 (the Act) applies to electronic information technology (EIT) used by HUD for transmitting, receiving, using, or storing information to carry out the responsibilities of any federal funds awarded. The Act's coverage includes, but is not limited to, computers (hardware, software, word-processing, email, and web pages), facsimile machines, copiers, and telephones. Consistent with the principles of the Act, HUD requires the same of its funding recipients. If you are a successful applicant, you will be required when developing, procuring, maintaining, or using EIT, to ensure that the EIT allows employees with disabilities and members of the public with disabilities to have access to and use of information and data that is comparable to the access and use of information and data by employees and members of the public who do not have disabilities. If these standards impose a hardship on a funding recipient, a recipient may provide an alternative means to allow the individual to use the information and data. However, no recipient will be required to provide information services to a person with disabilities at any location other than a location at which the information services are generally provided.

i. Procurement of Recovered Materials. State agencies and agencies of a political subdivision of a state that are using assistance under a HUD Program NOFA for procurement, and any person contracting with such an agency with respect to work performed under an assisted contract, must comply with the requirements of Section 6002 of the Solid Waste Disposal Act, as amended by the Resource Conservation and Recovery Act.

In accordance with Section 6002, these agencies and persons must procure items designated in guidelines of the Environmental Protection Agency (EPA) at 40 CFR part 247 that contain the highest percentage of recovered materials practicable, consistent with maintaining a satisfactory level of competition, where the purchase price of the item exceeds $10,000 or the value of the quantity acquired in the preceding fiscal year exceeded $10,000; must procure solid waste management services in a manner that maximizes energy and resource recovery; and must have established an affirmative procurement program for procurement of recovered materials identified in the EPA guidelines.

j. Participation in HUD-Sponsored Program Evaluation. As a condition of the receipt of financial assistance under a HUD Program NOFA, all successful applicants will be required to cooperate with all HUD staff or contractors performing HUD-funded research and evaluation studies.

k. Executive Order 13202, Preservation of Open Competition and Government Neutrality Towards Government Contractors' Labor Relations on Federal and Federally Funded Construction Projects. Compliance with HUD regulations at 24 CFR 5.108 that implement Executive Order 13202 is a condition of receipt of assistance under a HUD Program NOFA.

l. Salary Limitation for Consultants. FY2004 funds may not be used to pay or to provide reimbursement for payment of the salary of a consultant whether retained by the federal government or the grantee at more than the daily equivalent of the rate paid for level IV of the Executive Schedule, unless specifically authorized by law.

m. OMB Circulars and Government-wide Regulations Applicable to Financial Assistance Programs. Certain OMB circulars also apply to HUD programs in this SuperNOFA. The policies, guidance, and requirements of OMB Circular A-87 (Cost Principles Applicable to Grants, Contracts and Other Agreements with State and Local Governments), OMB Circular A-21 (Cost Principles for Education Institutions), OMB A-122 (Cost Principles for Nonprofit Organizations), OMB Circular A-133 (Audits of States, Local Governments, and Non-Profit Organizations), and the regulations at 24 CFR part 84 (Grants and Agreements with Institutions of Higher Education, Hospitals, and other Non-Profit Organizations), and 24 CFR part 85 (Administrative Requirements for Grants and Cooperative Agreements to state, local, and federally recognized Indian tribal governments), may apply to the award, acceptance, and use of assistance under the individual Program NOFAs of this SuperNOFA, and to the remedies for noncompliance, except when inconsistent with the provisions of the Consolidated Appropriations Act, 2004 (Public Law 108-199, approved January 23, 2004), other federal statutes or regulations, or the provisions of this SuperNOFA Notice. Compliance with additional OMB Circulars or government-wide regulations may be specified for a particular program in the Program Section of the Super NOFA. Copies of the OMB Circulars may be obtained from EOP Publications, Room 2200, New Executive Office Building, Washington, DC 20503, telephone (202) 395-3080 (this is not a toll-free number) or (800) 877-8339 (TTY Federal Information Relay Service); or, from the Web site, http://www.whitehouse.gov/omb/circulars/index.html.

n. Environmental Requirements. If you become a recipient under one of the FY2004 HUD programs in this SuperNOFA that assist physical development activities or property acquisition, you are generally prohibited from acquiring, rehabilitating, converting, demolishing, leasing, repairing or constructing property, or committing or expending HUD or non-HUD funds for these types of program activities, until one of the following has occurred:

(1) HUD has completed an environmental review in accordance with 24 CFR part 50; or

(2) For programs subject to 24 CFR part 58, HUD has approved a recipient's Request for Release of Funds (Form HUD 7015.15) following a Responsible Entity's completion of an environmental review.

You, the applicant, should consult the individual Program NOFA for the program(s) for which you are interested in applying to determine the procedures for, timing of, and any exclusions from environmental review under a particular program. For applicants applying for funding under the Section 202 Supportive Housing for the Elderly program or Section 811 Supportive Housing for Persons with Disabilities program, please note the environmental review requirements for these programs.

o. Conflicts of Interest. If you are a consultant or expert who is assisting HUD in rating and ranking applicants for funding under this SuperNOFA or future NOFAs published in FY2004, you are subject to 18 U.S.C. 208, the federal criminal conflict of interest statute, and the Standards of Ethical Conduct for Employees of the Executive Branch regulation published at 5 CFR part 2635. As a result, if you have assisted or plan to assist applicants with preparing applications for programs in this SuperNOFA or NOFAs published in FY2004, you may not serve on a selection panel and you may not serve as a technical advisor to HUD. All individuals involved in rating and ranking HUD FY2004 NOFAs either published simultaneously with this Notice or after the publication of this Notice, including experts and consultants, must avoid conflicts of interest or the appearance of conflicts. Individuals involved in the rating and ranking of applications must disclose to HUD's General Counsel or HUD's Ethics Law Division the following information, if applicable: how the selection or non-selection of any applicant under a FY2004 this Super NOFA will affect the individual's financial interests, as provided in 18 U.S.C. 208, or how the application process involves a party with whom the individual has a covered relationship under 5 CFR 2635.502. The individual must disclose this information prior to participating in any matter regarding a FY2004 NOFA published subsequent to the date of this Notice. If you have questions regarding these provisions or if you have questions concerning a conflict of interest, you may call the Office of General Counsel, Ethics Law Division, at (202) 708-3815.

p. Drug-Free Workplace. If you receive an award of funds from HUD, you are required to provide a drug-free workplace. Compliance with this requirement means that you will:

(1) Publish a statement notifying employees that it is unlawful to manufacture, distribute, dispense, possess, or use a controlled substance in the applicant's workplace and that such activities are prohibited. The statement must specify the actions that will be taken against employees for violation of this prohibition. The statement must also notify employees that as a condition of employment under the federal award that they are required to abide by the terms of the statement and that each employee must agree to notify the employer in writing of any violation of a criminal drug statute occurring in the workplace no later than five calendar days after such violation.

(2) Establish an on-going drug-free awareness program to inform employees about:

(a) The dangers of drug abuse in the workplace;

(b) The applicant's policy of maintaining a drug-free workplace; and

(c) Any available drug counseling, rehabilitation, or employee maintenance programs; and

(d) The penalties that may be imposed upon employees for drug abuse violations occurring in the workplace.

(3) Notify the federal agency in writing within 10 calendar days after receiving notice from an employee of a drug abuse conviction or otherwise receiving actual notice of a drug abuse conviction. The notification must be provided in writing to HUD's Office of Departmental Grants Management and Oversight, Department of Housing and Urban Development, 451 Seventh Street, SW, Room 3156, Washington DC 20410-3000, along with the following information:

(a) The program title and award number for each HUD award covered;

(b) The HUD staff contact name, phone, and fax number; and

(c) A grantee contact name, phone, and fax number.

(4) Require that each employee engaged in the performance of the federally funded award be given a copy of the drug-free workplace statement required in item (1) and notify the employee that one of the following actions will be taken against the employee within 30 calendar days of receiving notice of any drug abuse conviction:

(a) Institution of a personnel action against the employee, up to and including termination consistent with requirements of the Rehabilitation Act of 1973, as amended; or

(b) Requiring that the employee participate satisfactorily in a drug abuse assistance or rehabilitation program approved for such purposes by a federal, state, or local health, law enforcement, or other appropriate agency.

q. Safeguarding Resident/Client Files. In maintaining resident files, HUD funding recipients shall observe state and local laws concerning the disclosure of records that pertain to individuals. Further, recipients are required to adopt and take, reasonable measures to ensure that resident/client files are safeguarded.

IV. Application and Submission Information

A. Addresses to Request Application Package

This section describes how you may obtain application forms, additional information about the HUD Program NOFAs, and technical assistance. Copies of the published NOFAs and application forms for HUD programs announced through NOFA may be downloaded from the Grants.gov Web site at http://www.grants.gov/FIND or you may call HUD's NOFA Information Center at 800-HUD-8929. Persons with hearing or speech impairments may call 800-HUD-2209.

1. Application Kits. There are no application kits for HUD programs this year. All the information you need to apply will be in the NOFA and available on http://www.grants.gov/Find. In response to concerns about the length of time it takes for the publication and dissemination of application kits, HUD has made an effort to improve the readability of its NOFAs and publish all required forms and formats for application submission in the Federal Register. As a result of this effort, you will not have to wait for an application kit to begin to prepare your application for funding. HUD is continuing to streamline programs and application submission requirements and encourages the applicant community to offer additional suggestions. Please pay attention to the submission requirements and format for submission specified in each Program NOFA to ensure that you have submitted all required elements of your application.

The published Federal Register document is the official document that HUD uses to evaluate applications. Therefore, if there is a discrepancy between any materials published by HUD in its Federal Register publications and other information provided in paper copy or on www.Grants.gov/Find, the Federal Register publication prevails. Please be sure to review your application submission against the requirements in the Federal Register file of the NOFA or NOFAs to which you are responding by application. Paper copies of these documents can be obtained from the NOFA Information Center by calling 800-HUD-8929; persons with speech or hearing impairments may call 800-HUD-2209.

2. Guidebook and Further Information. A guidebook to HUD programs titled “Connecting with Communities: A User's Guide to HUD Programs and the FY2004 NOFA Process” is available from the NOFA Information Center and the HUD Web site at www.hud.gov/grants/index.cfm. The guidebook provides a brief description of all HUD programs, eligible applicants for the programs, and examples of how programs can work in combination to serve local community needs. You may also request general information, paper copies of this Notice of HUD NOFA policy requirements, any Program NOFA, and applications. This information may be obtained by calling the NOFA Information Center at 800-HUD-8929 or 800-HUD-2209 (TTY) between the hours of 9 a.m. and 8 p.m. (Eastern Time), Monday through Friday, except on federal holidays.

When requesting information, please refer to the name of the document or Program NOFA in which you are interested. Be sure to provide your name, address (including zip code), and telephone number (including area code). To ensure sufficient time to prepare your application, copies of this Notice of HUD NOFA policy requirements and individual Program NOFAs will be available immediately following publication of these documents. The NOFA Information Center opens for business simultaneously with the publication of this Notice of HUD NOFA policy requirements. You can also obtain information on this Notice of HUD NOFA policy requirements and download application information for HUD programs issued through NOFAs during FY2004 through the www.Grants.gov/find Web site.

3. For Technical Assistance. Before the application due date, HUD staff will be available to provide you with general guidance and technical assistance about this Notice of HUD NOFA policy requirements or about individual Program NOFAs. However, HUD staff is not permitted to assist in preparing your application. Following selection of applicants, but before announcement of awards is made, HUD staff is available to assist in clarifying or confirming information that is a prerequisite to the offer of an award or Annual Contributions Contract (ACC) by HUD.

B. Content and Form of Application Submission

Be sure to read and follow the application submission requirements published in the individual Program NOFA or NOFAs to which you are responding by application. Beginning FY2004, when you sign your application submission you are agreeing to assurances and certifications (HUD 424B).

Forms, Certifications, and Assurances. You, the applicant, are required to submit signed copies of the standard forms, certifications, and assurances listed in this section, unless the requirements in the individual Program NOFAs specify otherwise. In addition, the individual Program NOFAs may specify additional forms, certifications, assurances, or other information that may be required for a particular program. The HUD standard forms, certifications, and assurances are:

• Application for Federal Assistance (SF-424);

• Survey on Ensuring Equal Opportunity for Applicants (SF-424 Supplement);

• Assurances Non-Construction Programs (HUD-424B);

• Grant Application Detailed Budget (HUD-424-CB);

• Grant Application Detailed Budget Worksheet (HUD-424-CBW);

• Disclosure of Lobbying Activities (SF-LLL);

• Applicant/Recipient Disclosure/Update Report (HUD-2880);

• Certification of Consistency with RC/EZ/EC Strategic Plan (HUD-2990) if applicable;

• Certification of Consistency with the Consolidated Plan (HUD-2991) if applicable;

• Acknowledgment of Application Receipt (HUD-2993);

• Client Comments and Suggestions (HUD 2994) (Optional);

• Program Outcome Logic Model (HUD-96010).

• Form HUD 52515, Funding Application for the Housing Choice Voucher Program.

• Race and Ethnic Data Reporting Form (HUD-27061).

• America's Affordable Communities Initiative (HUD-27300).

Copies of these standard forms and the Funding Application for the Housing Choice Voucher Program (HUD-52515) are included in Appendix A to this General Section. Copies of program forms required to be submitted to meet specific program requirements will be included with each Program NOFA.

C. Submission Dates and Times

Each Program NOFA will identify a specific due date for application submission. You, the applicant, must submit a completed application to HUD on or before the respective program's established application due date. Application due dates can be found under the section labeled “Submission Dates and Times” of each HUD NOFA issued in FY2004. Appendix B also provides a funding chart which identifies the programs in HUD's SuperNOFA along with the application due dates.

D. Intergovernmental Review

Executive Order 12372, Intergovernmental Review of Federal Programs, was issued to foster intergovernmental partnership and strengthen federalism by relying on state and local processes for the coordination and review of federal financial assistance and direct federal development. HUD implementing regulations are published at 24 CFR part 52. The order allows each state to designate an entity to perform a state review function. The official listing of State Points of Contact (SPOC) for this review process can be found at http://www.whitehouse.gov/omb/grants/spoc.html. States not listed on the Web site have chosen not to participate in the intergovernmental review process and, therefore, do not have a SPOC. If your state has a SPOC, you should contact the SPOC to see if it is interested in reviewing your application prior to submission to HUD.

Please make sure that you allow ample time for this review process when developing and submitting your applications. If your state does not have a SPOC, send your applications directly to HUD.

E. Funding Restrictions

The individual Program NOFAs will describe any funding restrictions that apply to each program.

F. Other Submission Requirements

1. Delivery and Receipt Procedures. The following procedures apply to the delivery and receipt of applications in HUD Headquarters, the Grants Management Center (GMC), the University Partnerships Clearinghouse, and field offices. Please read the following instructions carefully and completely, as failure to comply with these procedures may disqualify your application. HUD's delivery and receipt policies are:

a. Hand deliveries will be permitted. Hand delivered packages must be received at HUD Headquarters, the Public and Indian Housing Grants Management Center (GMC), or the University Partnership Clearinghouse no later than 5 p.m. EST, Monday through Friday, except for federal holidays. Hand delivered packages to the HUD Field Offices must be received no later than 4 p.m. local time for the office receiving the application. However, if HUD staff is not available to accept your package or the courier service is not allowed to enter the building to deliver the package due to security or other reasons, the package will be determined not delivered and not accepted by HUD. In such instances, HUD recommends that, you, the applicant, or your agent take your package to the nearest post office and follow the mailing instructions for postal service timely delivery. HUD will not take responsibility for ensuring that staff is available to take your package and will not breach security measures in order to accept an undeliverable package.

b. HUD will not accept or consider any applications sent by facsimile.

c. HUD urges applicants sending packages by courier to the Robert C. Weaver Headquarters Building, the University Partnerships Clearinghouse, or the Public and Indian Housing Grants Management Center (GMC), to use the following courier services, as these services have unescorted access to these buildings: DHL, Falcon Carrier, Federal Express (FedEx), and United Parcel Service (UPS). Packages may be mailed using the United States Postal Service. Mailed applications will be accepted as being timely submitted if they are received at the designated HUD location (including the room number specified for receipt) not later than 15 days after the due date and time, and show a postmark of having been delivered to the postal facility for mailing by 12:00 midnight local time on the application due date. If the Postal Service does not normally postmark large packages, the proof of timely submission shall be receipt within 15 days at the designated HUD facility and, upon request by a HUD official, proof of mailing using USPS Form 3817 (Certificate of Mailing) or a receipt from the Postal Service which contains the post office name, location, and date and time of mailing. For submission through the United States Postal Service, no other proof of timely submission will be accepted.

d. Applications mailed to a location or office that is not designated for receipt of the application, which results in the designated office not receiving your application in accordance with the requirements for timely submission, will cause your application to be considered late and ineligible to receive funding consideration. HUD will not be responsible for directing packages to the appropriate office.

Applicants should pay close attention to these submission and timely receipt instructions as they can make a difference in whether HUD will accept your application for funding consideration. Please remember that mail sent to federal facilities is screened prior to delivery, so please allow sufficient time for your package to be delivered. If an application is received late because of the processing time required for the screening, it will not be considered for funding.

2. Proof of Timely Submission. Proof of timely submission of an application is specified below.

a. In the case of packages sent to HUD via a delivery service, other than the United States Postal Service, timely submission shall be evidenced via a delivery service receipt indicating that the application was delivered to a carrier service at least 24 hours prior to the application deadline, and, if applicable, that through no fault of the applicant, the delivery could not be made on or before the application due date. Couriers turned away from a HUD facility due to security issues will not be considered as meeting the requirement of “no fault of the applicant,” because applicants have been advised that delivery delays can arise when using courier services, resulting in a late application submission.

b. For packages submitted via the United States Postal Service, proof of timely submission shall be a postmark not later than the application due date or receipt not later than five days after the application due date at the designated HUD facility and, upon request by a HUD official, proof of mailing using USPS Form 3817 (Certificate of Mailing) or a receipt from the Post Office which contains the post office name, location, and date and time of mailing. For submission through the United States Postal Service, no other proof of timely submission will be accepted. Applications not meeting the timely submission requirements will not be considered for funding.

3. Addresses. You, the applicant, must submit a complete application and the required number of copies to the locations identified in the Program NOFA or NOFAs to which you are responding by application. When submitting your application, you must refer to the name of the program for which you are applying and include the correct room number to ensure your application is properly directed. Addresses for deliveries to HUD's Robert C. Weaver Headquarters Building, the University Partnerships Clearinghouse, or the Public and Indian Housing Grants Management Center (GMC) are identified in each Program NOFA, as well as the consolidated chart of funding opportunities for programs in the SuperNOFA. Addresses for field office locations are contained in Appendix C of this General Section, “List of HUD Field Offices.”

For applications directed to the Office of Native American Programs (ONAP), please be sure to use the addresses provided in Appendix D of this General Section, “List of Office of Native American Programs Field Offices.” For the Section 202 Supportive Housing for the Elderly, Section 811 Supportive Housing for Persons with Disabilities, Assisted Living Conversion for Eligible Multifamily Projects, and the Service Coordinators in Multifamily Housing programs, please see the Program NOFAs for the applicable field office listing.

Please be sure to include the Program NOFA name and room number on your submission package.

4. Copies of Applications. Each Program NOFA may specify, that to facilitate the review of your application, one or more copies of the application also must be sent to an additional HUD location (for example, the original application to HUD Headquarters and a copy to the HUD field office). If you are required to submit an application to HUD Headquarters, the University Partnerships Clearinghouse, or the GMC, as well as field offices, the determination that your application was received on time will be made solely on receipt of the application at HUD Headquarters, the University Partnerships Clearinghouse, or the GMC, as applicable. If an application received on time at HUD Headquarters, the University Partnerships Clearinghouse, or GMC is not complete, but a complete copy was submitted and received on time at a HUD field office, HUD may conduct its review using the field office copy. See the information in the, “Mailing and Receipt Procedures” and “Proof of Timely Submission” sections above for additional information. If you do not submit the required number of copies HUD may request that you provide the additional copies to the appropriate HUD office(s) in accordance with the procedures described in Section V.B.4 of this Notice, “Corrections to Deficient Applications.” In some Program NOFAs failure to submit the required number of copies may disqualify your application, so please read each NOFA carefully.

5. Electronic Submission of Packages using Grants.gov. For FY2005, HUD intends to have applications submitted via the federal government's new electronic application portal called Grants.gov. Applicants are urged to become familiar with the Grants.gov Web site and to follow the steps under “Get Started” so that you will be prepared to apply on line for HUD and other federal agency programs.

For FY2004, paper copy applications will be considered by HUD to be the official application submission. HUD urges all applicants to become familiar with the Grants.gov site (www.grants.gov) and register to receive funding opportunity notifications, as well as to apply on line for funding. Registration to apply on line via Grants.gov requires obtaining a DUNS number, as well as registering in the Central Contractor Registry. To apply on line, applicants will also need to follow the requirements for E-Authentication. The Grants.gov site provides instructions on how to get a DUNS number, as well as registration and E-Authentication procedures. The Grants.gov Web site provides a customer support line (800-518-GRANTS) to address Grants.gov technology issues. HUD will establish a help line to address questions on program issues. Individuals who personally apply for federal financial assistance, apart from any business or nonprofit organization they may operate, are excluded from the requirement to obtain a DUNS number.

Paper copy submission will not apply to two programs that HUD is piloting for electronic applications through Grants.gov/Find and Grants.gov/APPLY. The two programs are the Housing Counseling Training and FY2003 Capacity Building Grants. These are issued outside the SuperNOFA.

V. Application Review Information

A. Criteria

1. Factors for Award Used to Evaluate and Rate Applications. For each Program NOFA, the points awarded for the rating factors total 100. Depending upon the program for which you, the applicant, are seeking funding, the funding opportunity may provide for up to four bonus points as provided below:

a. RC/EZ/EC. HUD's FY2004 NOFAs provide for the award of two bonus points for eligible activities/projects that the applicant proposes to located in federally designated Empowerment Zones (EZs), Enterprise Communities (ECs), Urban Enhanced Enterprise Communities (EECs), or Renewal Communities (RCs), are intended to serve the residents of these areas, and are certified to be consistent with the area's strategic plan. (For ease of reference in this Notice, all of the federally designated areas are collectively referred to as “RC/EZ/ECs” and residents of any of these federally designated areas as “RC/EZ/EC residents.”) The individual funding announcements will indicate if the bonus points are available under the program. This Notice contains a certification that must be completed for the applicant to be considered for RC/EZ/EC bonus points. A list of RC/EZ/ECs is available is included in this Notice as Appendix E and can also be obtained from the NOFA Information Center, and at www.grants.gov /Find under the program you are seeking funding. Applicants can determine if their program/project activities are located in one of these designated areas by using the locator on HUD's Web site at http://hud.esri.com/egis/cpd/rcezec/welcom.htm#.

b. Brownfields Showcase Communities. In the Brownfields Economic Development Initiative (BEDI) competition, two bonus points are available for federally designated Brownfields Showcase Communities. (Please see the FY2004 BEDI program NOFA for additional information.) The designation of Brownfields Showcase Communities is a federal agency initiative sponsored by twenty federal agencies including HUD. A list of the federally designated RC/EZ/ECs, Enhanced ECs, and Brownfields Showcase Communities is available from the NOFA Information Center or through HUD's Web site at http://www.hud.gov.

2. The Five Standard Rating Factors for FY2004. HUD has established the following five factors as the standard factors for awarding the majority of its FY2004 Program NOFAs. Additional details about the five rating factors and the maximum points for each factor are provided in the Program NOFAs. For a specific funding opportunity, HUD may modify these factors to take into account explicit program needs or statutory or regulatory limitations. You, the applicant, should carefully read the factors for award as described in the Program NOFA to which you responding by application. The standard factors for award, except as modified in the Program NOFAs, are:

Factor 1: Capacity of the Applicant and Relevant Organizational Staff.

Factor 2: Need/Extent of the Problem.

Factor 3: Soundness of Approach.

Factor 4: Leveraging Resources.

Factor 5: Achieving Results and Program Evaluation.

The Continuum of Care Homeless Assistance Programs have only two factors that receive points: Need and Continuum of Care.

B. Reviews and Selection Process

1. HUD's Strategic Goals

Implementing HUD's Strategic Framework and Demonstrating Results. HUD is committed to ensuring that programs result in the achievement of HUD's strategic mission. To support this effort, grant applications submitted for HUD programs will be rated on how well they tie proposed outcomes to HUD's policy priorities and Annual Goals and Objectives, as well as the quality of the applicant's proposed Evaluation and Monitoring Plans. HUD's Strategic Framework establishes the following Goals and Objectives for the Department:

a. Increase Homeownership Opportunities:

(1) Expand national homeownership opportunities.

(2) Increase minority homeownership.

(3) Make the home buying process less complicated and less expensive.

(4) Fight practices that permit predatory lending.

(5) Help HUD-assisted renters become homeowners.

(6) Keep existing homeowners from losing their homes.

b. Promote Decent Affordable Housing:

(1) Expand access to affordable rental housing.

(2) Improve the physical quality and management accountability of public and assisted housing.

(3) Increase housing opportunities for the elderly and persons with disabilities.

(4) Help HUD-assisted renters make progress toward self-sufficiency.

c. Strengthen Communities:

(1) Improve economic conditions in distressed communities.

(2) Make communities more livable.

(3) End chronic homelessness.

(4) Mitigate housing conditions that threaten health.

d. Ensure Equal Opportunity in Housing:

(1) Resolve discrimination complaints on a timely basis.

(2) Promote public awareness of Fair Housing laws.

(3) Improve housing accessibility for persons with disabilities.

e. Embrace High Standards of Ethics, Management, and Accountability:

(1) Rebuild HUD's human capital and further diversify its workforce.

(2) Improve HUD's management, internal controls and systems, and resolve audit issues.

(3) Improve accountability, service delivery, and customer service of HUD and our partners.

(4) Ensure program compliance.

f. Promote Participation of Grassroots Faith-Based and Other Community-Based Organizations:

(1) Reduce regulatory barriers to participation by grassroots faith-based and other community-based organizations.

(2) Conduct outreach to inform potential partners of HUD opportunities.

(3) Expand technical assistance resources deployed to grassroots faith-based and other community-based organizations.

(4) Encourage partnerships between grassroots faith-based and other community-based organizations and HUD's traditional grantees.

You can find out about HUD's Strategic Framework and Annual Performance Plans at http://www.hud.gov/offices/cfo/reports/cforept.cfm.

2. Policy Priorities. HUD encourages applicants to undertake specific activities that will assist the Department in implementing its policy priorities and which help the Department achieve its goals for FY2004 and beyond, when the majority of funding recipients will be reporting programmatic results and achievements. Applicants that include work activities that specifically address one or more of these policy priorities will receive higher rating scores than applicants that do not address these HUD priorities. Each NOFA issued in FY2004 will specify which priorities relate to a particular program and how many points will be awarded for addressing those priorities.

a. Providing Increased Homeownership and Rental Opportunities for Low- and Moderate-Income Persons, Persons with Disabilities, the Elderly, Minorities, and Families with Limited English Proficiency. Too often, these individuals and families are shut out of the housing market through no fault of their own. Often developers of housing, housing counseling agencies, and other organizations engaged in the housing industry must work aggressively to open up the realm of homeownership and rental opportunities to low- and moderate-income persons, persons with disabilities, the elderly, minorities, or families with limited English proficiency. Many of these families are anxious to have a home of their own but are not aware of the programs and assistance that are available. Applicants are encouraged to address the housing, housing counseling, and other related supportive services needs of these individuals and coordinate their proposed activities with funding available through HUD's affordable housing programs and home loan programs.

Proposed activities support strategic goals a, b, and d.

b. Improving our Nation's Communities. HUD wants to improve the quality of life for those living in distressed communities. Applicants are encouraged to include activities which:

(1) Bring private capital into distressed communities;

(a) Finance business investments to grow new businesses;

(b) Maintain and expand existing businesses;

(c) Create a pool of funds for new small and minority-owned businesses; and

(d) Create decent jobs for low-income persons.

(2) Improve the environmental health and safety of families living in public and privately-owned housing by including activities which:

(a) Coordinate lead hazard reduction programs with weatherization activities funded by state and local governments and the federal government; and

(b) Reduce or eliminate health related hazards in the home caused by toxic agents such as molds and other allergens, carbon monoxide, and other hazardous agents and conditions.

(3) Make communities more livable by:

(a) Providing public and social services; and

(b) Improving infrastructure and community facilities.

Activities support strategic goals b, c, and d.

c. Encouraging Accessible Design Features. As described in Section III.C.2.c., applicants must comply with applicable civil rights laws including the Fair Housing Act, Section 504 of the Rehabilitation Act of 1973, and the Americans with Disabilities Act. These laws, and the regulations implementing them, provide for nondiscrimination based on disability and require housing and other facilities to incorporate certain features intended to provide for their use and enjoyment by persons with disabilities. HUD is encouraging applicants to add accessible design features beyond those required under civil rights laws and regulations. These features would eliminate many other barriers limiting the access of persons with disabilities to housing and other facilities. Copies of the Uniform Federal Accessibility Standards (UFAS) are available from the NOFA Information Center (800-HUD-8929 or 800-HUD-2209 (TTY)) and also from the Office of Fair Housing and Equal Opportunity, U.S. Department of Housing and Urban Development, Room 5230, 451 Seventh Street, SW., Washington, DC 20410-2000, (202) 755-5404 or 800-877 8339 (TTY Federal Information Relay Service).

Accessible design features are intended to promote visitability and incorporate features of universal design as described below:

(1) Visitability in New Construction and Substantial Rehabilitation. Applicants are encouraged to incorporate visitability standards where feasible in new construction and substantial rehabilitation projects. Visitability standards allow a person with mobility impairments access into the home, but do not require that all features be made accessible. Visitability means that there is at least one entrance at grade (no steps), approached by an accessible route, such as a sidewalk, and that the entrance door and all interior passage doors are at least 2 feet 10 inches wide, allowing 32 inches of clear passage space. A visitable home also serves persons without disabilities, such as a mother pushing a stroller or a person delivering a large appliance. More information about visitability is available at http://www.concretechange.org.

Activities support strategic goals b, c, and d.

(2) Universal Design. Applicants are encouraged to incorporate universal design in the construction or rehabilitation of housing, retail establishments, and community facilities funded with HUD assistance. Universal design is the design of products and environments to be usable by all people to the greatest extent possible, without the need for adaptation or specialized design. The intent of universal design is to simplify life for everyone by making products, communications, and the built environment more usable by as many people as possible at little or no extra cost. Universal design benefits people of all ages and abilities. In addition to any applicable required accessibility features under Section 504 of the Rehabilitation Act of 1973 or the design and construction requirements of the Fair Housing Act, the Department encourages applicants to incorporate the principles of universal design when developing housing, community facilities, and electronic communication mechanisms or when communicating with community residents at public meetings or events.

HUD believes that by creating housing that is accessible to all, it can increase the supply of affordable housing for all, regardless of ability or age. Likewise, creating places where people work, train, and interact which are useable and open to all residents increases opportunities for economic and personal self-sufficiency. More information on Universal Design is available from the Center for Universal Design, at http://www.design.ncsu.edu:8120/cud/, or the Resource Center on Accessible Housing and Universal Design, at http://www.abledata.com/Site_2/accessib.htm.

Activities support strategic goals a, b, c, and d.

d. Providing Full and Equal Access to Grassroots Faith-Based and Other Community-Based Organizations in HUD Program Implementation.

(1) HUD encourages nonprofit organizations, including grassroots faith-based and other community-based organizations, to participate in the vast array of programs for which funding is available through HUD's programs. HUD also encourages states, units of local government, universities, colleges, and other organizations to partner with grassroots organizations, e.g., civic organizations, faith communities, and grassroots faith-based and other community-based organizations that have not been effectively utilized. These grassroots organizations have a strong history of providing vital community services such as assisting the homeless and preventing homelessness, counseling individuals and families on fair housing rights, providing elderly housing opportunities, developing first-time homeownership programs, increasing homeownership and rental housing opportunities in neighborhoods of choice, developing affordable and accessible housing in neighborhoods across the country, creating economic development programs, and supporting the residents of public housing facilities. HUD wants to make its programs more effective, efficient, and accessible by expanding opportunities for grassroots organizations to participate in developing solutions for their own neighborhoods. Additionally, HUD encourages applicants to include these grassroots faith-based and other community-based organizations in their workplans. Applicants, their partners, and participants must review the individual FY2004 HUD program announcements to determine whether they are eligible to apply for funding directly or whether they must establish a working relationship with an eligible applicant in order to participate in a HUD funding opportunity. Grassroots faith-based and other community-based organizations, and applicants that currently or propose to partner, fund, subgrant, or subcontract with grassroots organizations (including grassroots faith-based or other community-based nonprofit organizations eligible under applicable program regulations) in conducting their work programs will receive higher rating points as specified in the individual FY2004 HUD program announcements.

(2) Definition of Grassroots Organizations:

(a) HUD will consider an organization a “grassroots organization” if the organization is headquartered in the local community to which it provides services; and,

(i) Has a social services budget of $300,000 or less, or

(ii) Has six or fewer full-time equivalent employees.

(b) Local affiliates of national organizations are not considered “grassroots.” Local affiliates of national organizations are encouraged, however, to partner with grassroots organizations but must demonstrate that they are currently working with a grassroots organization (e.g., having a faith community or civic organization, or other charitable organization provide volunteers).

(c) The cap provided in paragraph (2)(a)(i) above includes only that portion of an organization's budget allocated to providing social services. It does not include other portions of the budget such as salaries and expenses not directly expended in the provision of social services.

Activities support strategic goal f.

e. Participation of Minority-Serving Institutions in HUD Programs. Pursuant to Executive Orders 13256, “President's Board of Advisors on Historically Black Colleges and Universities,” 13230, “President's Advisory Commission on Educational Excellence for Hispanic Americans,” 13216, “Increasing Participation of Asian Americans and Pacific Islanders in Federal Programs,” and 13270, “Tribal Colleges and Universities,” HUD is strongly committed to broadening the participation of Minority-Serving Institutions (MSIs) in its programs. HUD is interested in increasing the participation of MSIs in order to advance the development of human potential, strengthen the nation's capacity to provide high quality education, and increase opportunities for MSIs to participate and benefit from federal financial assistance programs. HUD encourages all applicants and recipients to include meaningful participation of MSIs in their work programs. A listing of MSIs can be found on the Department of Education Web site at http://www.ed.gov/about/offices/list/ocr/edlite-minorityinst.html or HUD's Web site at http://www.hud.gov/grants/index.cfm.

Activities support strategic goals c and d.

f. Ending Chronic Homelessness within 10 Years. President Bush has set a national goal to end chronic homelessness within 10 years. Secretary Alphonso Jackson has embraced this goal and has pledged that HUD's grant programs will be used to support the President's goal and more adequately meet the needs of chronically homeless individuals. A person experiencing chronic homelessness is defined as an unaccompanied individual with a disabling condition who has been continuously homeless for a year or more or has experienced four or more episodes of homelessness over the last three years. Applicants are encouraged to target assistance to chronically homeless persons by undertaking activities that will result in:

(1) Creation of affordable group homes or rental housing units;

(2) Establishment of a set-aside of units of affordable housing for the chronically homeless;

(3) Establishment of substance abuse treatment programs targeted to the homeless population;

(4) Establishment of job training programs that will provide opportunities for economic self-sufficiency;

(5) Establishment of counseling programs that assist homeless persons in finding housing, financial management, anger management, and building interpersonal relationships;

(6) Provision of supportive services, such as health care assistance that will permit homeless individuals to become productive members of society;

(7) Provision of service coordinators or one-stop assistance centers that will ensure that chronically homeless persons have access to a variety of social services.

Applicants that are developing programs to meet the goals set in this policy priority should be mindful of the requirements of the regulations implementing Section 504 of the Rehabilitation Act, in particular, 24 CFR 8.4(b)(1)(iv), 8.4(c)(1) and 8.4(d).

Activities support strategic goals b and c.

g. Removal of Regulatory Barriers to Affordable Housing.

On March 22, 2004 (69 FR 13450), HUD published a final notice announcing its intention to establish the Removal of Regulatory Barriers to Affordable Housing policy priority in the majority of its FY2004 NOFAs. In the March 22, 2004, notice, HUD advised that applicants would be required to respond to a series of evaluative questions in order to receive the rating points associated with this priority. On April 21, 2004 (69 FR 21663), HUD published a correction to Question 5 in PART A of the questionnaire. In the April 21, 2004, notice, HUD also responded to questions that arose after the publication of the March 22, 2004, notice. Through this initiative, HUD is seeking input into how it can more effectively work with the public and private sectors to remove regulatory barriers to affordable housing. The March 22, 2004, notice, as clarified in the April 21, 2004, notice, addresses how HUD will evaluate the effectiveness of state and local government efforts to remove regulatory barriers to affordable housing.

Increasing the affordablity of rental and homeownership housing continues to be a high priority of the Department. Over the last 15 years, there has been increased recognition that unnecessary, duplicative, excessive, or discriminatory public processes often significantly increase the cost of housing development and rehabilitation. Often referred to as “regulatory barriers to affordable housing,” many public statutes, ordinances, regulatory requirements, or processes and procedures significantly impede the development or availability of affordable housing without providing a commensurate or demonstrable health or safety benefit. “Affordable housing” is decent quality housing that low-, moderate- and middle-income families can afford to buy or rent without spending more than 30 percent of their income; spending more than 30 percent of income on shelter may require families to sacrifice other necessities of life.

Addressing these barriers to housing affordability is a necessary component of any overall national housing policy. However, addressing such barriers must be viewed as a complement, not a substitute, for other efforts to meet affordable housing needs. For many families, federal, state, and local subsidies are fundamental tools for meeting these affordable needs. In many instances, however, other sometimes well-intentioned public policies work at cross-purposes with subsidy programs by imposing significant constraints. From zoning that keeps out affordable housing, especially multifamily housing, to other regulations and requirements that unnecessarily raise the costs of construction, the need to address this issue is clear. For example, affordable rehabilitation is often constrained by outmoded building codes that require excessive renovation. Barrier removal will not only make it easier to find and get approval for affordable housing sites but it will also allow available subsidies to go further in meeting these needs. For housing for moderate-income families often referred to as “work force” housing, barrier removal can be the most essential component of meeting housing needs.

Under this policy priority, higher rating points are available to (1) governmental applicants that are able to demonstrate successful efforts in removing regulatory barriers to affordable housing, and (2) nongovernmental applicants that are associated with jurisdictions that have undertaken successful efforts in removing barriers. To obtain the policy priority points for efforts to successfully remove regulatory barriers, applicants must complete form HUD 27300, “Questionnaire for HUD's Initiative on Removal of Regulatory Barriers.” A copy of HUD's notice entitled, “America's Affordable Communities Initiative, HUD's Initiative on Removal of Regulatory Barriers: Announcement of Incentive Criteria on Barrier Removal in HUD's FY2004 Competitive Funding Allocations” (AACI notice) can be found on HUD's Web site at http://www.hud.gov/grants/index.cfm.

Local jurisdictions and counties with land use and building regulatory authority applying for funding, as well as housing authorities, nonprofit organizations, and other qualified applicants applying for funding for a project located in these jurisdictions, are invited to answer the 20 questions in PART A of form HUD 27300. For those applications in which regulatory authority is split between jurisdictions (e.g., county and town) the applicant should answer the question for that jurisdiction that has regulatory authority over the issue at question. An applicant that scores at least five in Column 2 will receive one point in the NOFA evaluation. An applicant that scores 10 or greater in Column 2 will receive a total of two points in the evaluation.

State agencies or departments applying for funding, as well as housing authorities, nonprofit organizations and other qualified applicants applying for funds for projects located in unincorporated areas or areas otherwise not covered in PART A are invited to answer the 15 questions in PART B. Under PART B an applicant that scores at least four in Column 2 will receive one point in the NOFA evaluation. Under PART B an applicant that scores eight or greater will receive a total of two points in the respective evaluation. Applicants that will be providing services in multiple jurisdictions may choose to address the questions in either PART A or PART B for that jurisdiction in which the preponderance of services will be performed if an award is made. In no case will an applicant receive for this policy priority greater than two points for barrier removal activities. An applicant that is a tribe or tribally designated housing entity (TDHE) may choose to complete either PART A or PART B based upon a determination by the tribe or TDHE as to whether the tribe's or the TDHE's association with the local jurisdiction or the state would be the more advantageous for its application.

Note: Upon completion of all NOFA evaluations, grant selections, and awards, it is HUD's intent to add relevant data obtained from this evaluative factor to the database on state and local regulatory reform actions maintained at the Regulatory Barrier Clearinghouse Web site at www.huduser.org.rbc/ used by states, localities, and housing providers to identify regulatory barriers and learn of exemplary local efforts at regulatory reform.

Form HUD-27300 can be found in the appendix to this General Section. A limited number of questions on form HUD-27300 expressly request the applicant to provide brief documentation with its response. Other questions require that, for each affirmative statement made, the applicant supply a reference, URL, or brief statement indicating where the back-up information may be found, and a point of contact, including a telephone number or e-mail address. Applicants are encouraged to read the March 22, 2004 and April 21, 2004, America's Affordable Communities Initiative notice, as well as this General Section of the SuperNOFA, to obtain an understanding of this policy priority and how it can impact their score. HUD also will provide a satellite broadcast on this subject as part of its SuperNOFA Training. The SuperNOFA webcast schedule can be found on HUD's Web site at http://www.hud.gov/webcasts/index.cfm.

Activities support strategic goals a and b.

3. Threshold Compliance. Only applications that meet all of the threshold requirements will be eligible to be rated and ranked.

4. Corrections to Deficient Applications. After the application due date, HUD may not, consistent with its regulations in 24 CFR part 4, subpart B, consider any unsolicited information you, the applicant, may want to provide. HUD may contact you to clarify an item in your application or to correct technical deficiencies. HUD may not seek clarification of items or responses that improve the substantive quality of your response to any rating factors. In order not to unreasonably exclude applications from being rated and ranked, HUD may contact applicants to ensure proper completion of the application and will do so on a uniform basis for all applicants.

Examples of curable (correctable) technical deficiencies include inconsistencies in the funding request, a failure to submit the proper certifications or failure to submit an application that contains an original signature by an authorized official. In each case, HUD will notify you in writing by describing the clarification or technical deficiency. HUD will notify applicants by facsimile or by USPS, return receipt requested. Clarifications or corrections of technical deficiencies in accordance with the information provided by HUD must be submitted within 14 calendar days of the date of receipt of the HUD notification. (If the due date falls on a Saturday, Sunday, or federal holiday, your correction must be received by HUD on the next day that is not a Saturday, Sunday, or federal holiday.) If the deficiency is not corrected within this time period, HUD will reject the application as incomplete and it will not be considered for funding. In order to meet statutory deadlines for the obligation of funds or for timely completion of the review process, Program NOFAs may reduce the number of days for submitting a response to a HUD clarification or correction to a technical deficiency. Please be sure to carefully read each Program NOFA for any additional information and instructions.

5. Rating Panels. To review and rate applications, HUD may establish panels which may include persons not currently employed by HUD. HUD may include these non-HUD employees to obtain certain expertise and outside points of view, including views from other federal agencies.

6. Rating. HUD will evaluate and rate all applications for funding that meet the threshold requirements. HUD will consider the following when rating your application(s):

a. Past Performance. In evaluating applications for funding, HUD will take into account applicants' past performance in managing funds, including, but not limited to, the ability to account for funds appropriately; timely use of funds received either from HUD or other federal, state, or local programs; meeting performance targets for completion of activities and receipt of promised matching or leveraged funds; and number of persons to be served or targeted for assistance. HUD may consider information available from HUD's records, the name check review, or public sources, such as newspapers, Inspector General or Government Accounting Office Reports or Findings, or hotline complaints that have been proven to have merit.

b. Deducting Points for Poor Performance. In evaluating past performance, HUD may elect to deduct points from the rating score or establish threshold levels as specified under the Factors for Award in the individual Program NOFAs.

7. Ranking. HUD will rank applicants within each program or, for Continuum of Care applicants, across the three programs identified in the Continuum of Care NOFA. HUD will rank applicants only against those applying for the same program funding.

Where there are set-asides within a program competition, you, the applicant, will compete against only those applicants in the same set-aside competition.

C. Anticipated Announcement and Award Dates

The individual Program NOFAs will provide the applicable information regarding this subject.

VI. Award Administration Information

A. Award Notices

1. Negotiation. After HUD has rated and ranked all applications and made selections, HUD may require, depending upon the program, that a selected applicant participate in negotiations to determine the specific terms of the funding agreement and budget. In cases where HUD cannot successfully conclude negotiations with a selected applicant or a selected applicant fails to provide HUD with requested information, an award will not be made to that applicant. In such an instance, HUD may offer an award and proceed with negotiations with the next highest-ranking applicant.

2. Adjustments to Funding:

a. HUD reserves the right to fund less than the full amount requested in your application to ensure the fair distribution of funds and ensure that the purposes or requirements of a specific program are met.

b. HUD will not fund any portion of your application that is not eligible for funding under specific program statutory or regulatory requirements; does not meet the requirements of this Notice; or may be duplicative of other funded programs or activities from prior year awards or other selected applicants. Only the eligible portions of your application (including non-duplicative portions) may be funded.

c. If funds remain after funding the highest-ranking applications, HUD may fund all or part of the next highest-ranking application in a given program. If you, the applicant, turn down an award offer, HUD will make an offer of funding to the next highest-ranking application.

d. If funds remain after all selections have been made, remaining funds may be made available within the current fiscal year for other competitions within the program area or held-over for future competitions.

3. Funding Errors. In the event HUD commits an error that, when corrected, would result in selection of an otherwise eligible applicant during the funding round of a Program NOFA, HUD may select that applicant when sufficient funds become available.

4. Performance and Compliance Actions of Funding Recipients. HUD will measure and address the performance and compliance actions of funding recipients in accordance with the applicable standards and sanctions of their respective programs.

5. Debriefing. For a period of at least 120 days, beginning 30 days after the awards for assistance are publicly announced, HUD will provide to a requesting applicant a debriefing related to its application. All debriefing requests must be made in writing or by email by the authorized official whose signature appears on the SF-424 or his or her successor in office, and submitted to the person or organization identified as the Contact under the section entitled “Agency Contact(s)” in the individual Program NOFAs under which you applied for assistance. Information provided during a debriefing will include, at a minimum, the final score you received for each rating factor, final evaluator comments for each rating factor, and the final assessment indicating the basis upon which assistance was provided or denied.

B. Administrative and National Policy Requirements

See Section III.C. of this Notice regarding related requirements.

C. Reporting

The individual Program NOFAs will identify applicable reporting requirements related to each program, including racial and ethnic data collection requirements based upon the OMB standards for federal data on race and ethnicity, dated August 13, 2002. The reporting shall include submission of a completed Logic Model indicating results achieved against the proposed output goal(s) and proposed outcome(s) which you stated in your approved application and agreed upon by HUD. The submission of the Logic Model and required information should be in accord with the reporting time frames identified in each Program NOFA.

VII. Agency Contact(s)

The individual Program NOFAs will identify the applicable agency contacts related to each program. Questions regarding this Notice should be directed to Dorthera (Rita) Yorkshire or Eric Gauff, in HUD's Office of Departmental Grants Management, at 202-708-0667. Persons with speech or hearing impairments may contact Ms. Yorkshire or Mr. Gauff using the toll-free Federal Relay Service at 800-877-8339. Questions regarding specific program requirements should be directed to the agency contacts identified in each Program NOFA.

VIII. Other Information

A. Grants.gov and Pub. L. 106-107 Streamlining Activities

The Federal Financial Assistance Management Improvement Act of 1999 (Pub. L. 106-107) directs each federal agency to develop and implement a plan that, among other things, streamlines and simplifies the application, administrative, and reporting procedures for federal financial assistance programs administered by the agency. This law also requires the Director of OMB to direct, coordinate, and assist federal agencies in establishing (1) a common application and reporting system and (2) an interagency process for addressing ways to streamline and simplify federal financial assistance application and administrative procedures and reporting requirements for program applicants.

HUD is working with the 26 federal grant-making agencies on President George W. Bush's Grants.gov “FIND and APPLY” Initiative. This Initiative is an effort by federal agencies to develop a common electronic application and reporting system for federal financial assistance. This system will provide “one-stop shopping” for funding opportunities for all federal programs. This system is being developed in response to public and government concerns that it is difficult for organizations to know all the funding available from the federal government and how to apply for funding. It also is an effort by the federal government to develop common application requirements, further streamlining the application process, making it easier for you, our customers, to apply for funding.

The first segment of the Grants.gov Initiative focuses on allowing the public to easily FIND funding opportunities and then APPLY via Grants.gov. Funding decisions will still be under the control of the federal agency sponsoring the program funding opportunity. In FY2004, HUD is posting all of its funding notices on www.Grants.gov/FIND with links to HUD's Web site for copies of the NOFA sections and form-fillable forms which applicants can download and complete for submission of paper copy applications. During FY2004, HUD applicants will be able to continue to submit paper copies of their application to HUD for funding consideration and, in fact, the paper copy will be the official copy to submit to the Department. To find out more about Grants.gov, please go to its Web site and look at the Tutorials and Getting Started information. It is HUD's intent to move to a fully electronic application system in FY2005, so becoming familiar with the functionality of the Grants.gov Web site would benefit the applicant community.

B. Paperwork Reduction Act Statement

The information collection requirements in this Notice have been approved by OMB under the Paperwork Reduction Act of 1995 (44 U.S.C. 3501-3520). In accordance with the Paperwork Reduction Act, HUD may not conduct or sponsor, and a person is not required to respond to, a collection of information unless the collection displays a valid OMB control number. Each Program NOFA will identify its applicable OMB control number.

C. Authority

HUD's authority for making funding available under its FY2004 programs is identified in each Program NOFA under the section entitled “Funding Opportunity Description.”

D. Environmental Impact

A Finding of No Significant Impact with respect to the environment has been made for this Notice in accordance with HUD regulations at 24 CFR part 50 that implement Section 102(2)(C) of the National Environmental Policy Act of 1969 (42 U.S.C. 4332(2)(C)). The Finding of No Significant Impact is available for public inspection between 8 a.m. and 5 p.m. in the Office of the General Counsel, Regulations Division, Room 10276, Department of Housing and Urban Development, 451 Seventh Street, SW., Washington, DC 20410-0500.

E. Executive Orders and Congressional Intent

1. Executive Order 13132, Federalism. Executive Order 13132 prohibits, to the extent practicable and permitted by law, an agency from promulgating policies that have federalism implications and either impose substantial direct compliance costs on state and local governments and are not required by statute, or preempt state law, unless the relevant requirements of section 6 of the executive order are met. This Notice does not have federalism implications and does not impose substantial direct compliance costs on state and local governments or preempt state law within the meaning of the executive order.

2. Sense of Congress. It is the sense of Congress, as published in Division G of the Consolidated Appropriations Act, 2004 (Public Law 108-199, approved January 23, 2004), that, to the greatest extent practicable, all equipment and products purchased with funds made available in the Consolidated Appropriations Act, 2004, should be American-made.

F. Public Access, Documentation and Disclosure

Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992, HUD published a notice that also provides information on the implementation of Section 102 (57 FR 1942). The documentation, public access, and disclosure requirements of Section 102 apply to assistance awarded under individual NOFAs published as part of HUD's SuperNOFA or thereafter, as follows:

1. Documentation, public access, and disclosure requirements. HUD will ensure that documentation and other information regarding each application submitted pursuant to its FY2004 NOFAs published in the FY2004 SuperNOFA or NOFAs published thereafter, are sufficient to indicate the basis upon which assistance was provided or denied. This material, including any letters of support, will be made available for public inspection for a five-year period beginning not less than 30 days after the award of the assistance. Material will be made available in accordance with the Freedom of Information Act (5 U.S.C. 552) and HUD's implementing regulations (24 CFR part 15).

2. HUD Form 2880. HUD will also make available to the public for five years all applicant disclosure reports (HUD Form 2880) submitted in connection with an FY2004 NOFA. Update reports (also reported on HUD Form 2880) will be made available along with the applicant disclosure reports, but in no case for a period of less than three years. All reports, both applicant disclosures and updates, will be made available in accordance with the Freedom of Information Act (5 U.S.C. 552) and HUD's implementing regulations (24 CFR part 5).

3. Publication of Recipients of HUD Funding. HUD's regulations at 24 CFR part 4 provide that HUD will publish a notice in the Federal Register to notify the public of all funding decisions made by the Department to provide:

a. Assistance subject to Section 102(a) of the HUD Reform Act; and

b. Assistance provided through grants or cooperative agreements on a discretionary (non-formula, non-demand) basis, but that is not provided on the basis of a competition.

G. Section 103 of the HUD Reform Act

HUD's regulations implementing Section 103 of the HUD Reform Act, codified at 24 CFR part 4, subpart B apply to this funding competition. The regulations continue to apply until the announcement of the selection of successful applicants. HUD employees involved in the review of applications and in the making of funding decisions are prohibited by the regulations from providing advance information to any person (other than an authorized employee of HUD) concerning funding decisions or from otherwise giving any applicant an unfair competitive advantage. Persons who apply for assistance should confine their inquiries to the subject areas permitted under 24 CFR part 4.

Applicants or employees who have ethics-related questions should contact the HUD Ethics Law Division at 202-708-3815. (This is not a toll-free number.) The TTY number for persons with speech or hearing impairment is 800-877-8339. HUD employees who have specific program questions should contact the appropriate field office counsel or Headquarters counsel for the program to which the question pertains.

H. The FY2004 HUD NOFA Process and Future HUD Funding Processes

Each year, HUD strives to improve its NOFA process. The FY2004 NOFAs have been revised based upon comments received during the FY2003 funding process. HUD continues to welcome comments and feedback from applicants and other members of the public on how HUD may further improve its competitive funding process. In FY2004, as part of Public Law 106-107 streamlining efforts and the interagency eGrants Initiative, HUD is making considerable changes to the format and presentation of its funding notices. HUD is continually striving to ensure effective communication with HUD program funding recipients and potential funding recipients. HUD has been posting pertinent documents related to these efforts on its website. HUD encourages you to visit HUD's website on an ongoing basis to keep abreast of the latest developments. HUD's website address for information on the Grants.gov Initiative is http://www.hud.gov/offices/adm/grants/egrants/egrants.cfm.

Information on Grant streamlining activities can be found at http://www.hud.gov/offices/adm/grants/pl-106107/pl106-107.cfm.

The programs for which funding is available in the FY2004 SuperNOFA is published simultaneously with this policy Notice and follows this section and its appendices.

Dated: April 22, 2004.
Alphonso Jackson,
Secretary.

BILLING CODE 4210-32-P

COMMUNITY DEVELOPMENT TECHNICAL ASSISTANCE

Overview Information

A. Federal Agency Name. Department of Housing and Urban Development, Office of Community Planning and Development.

B. Funding Opportunity Title. Community Development Technical Assistance (CD-TA).

C. Announcement Type. Initial Announcement.

D. Funding Opportunity Number. The Federal Register number for this NOFA is FR-4900-N-12. The OMB approval number for this program is 2506-0166 for HOME Investment Partnerships Program (HOME), HOME Investment Partnerships Program for Community Housing Development Organizations [CHDO (HOME)], McKinney-Vento Homeless Assistance (Homeless), and Community Development Block Grants (CDBG), 2506-0133 for Housing Opportunities for Persons With AIDS (HOPWA), and 2506.0142 for Youthbuild.

E. Catalog of Federal Domestic Assistance (CFDA) Numbers. The HOME and CHDO (HOME) CFDA numbers are 14.239; Homeless is 14.235; HOPWA is 14.241; CDBG Entitlement Grants is 14.218; CDBG for Small Cities Program is 14.219; CDBG for States is 14.228; CDBG for Insular Areas is 14.225; CDBG—Section 108 is 14.248; Youthbuild is 14.243.

F. Dates. The application due date is July 8, 2004.

G. Additional Overview and Content Information. Applicants interested in providing technical assistance to entities participating in HUD's community development programs should carefully review the General Section of the SuperNOFA and the information listed in this CD-TA NOFA. Funds are available to provide technical assistance for six separate program areas: HOME, CHDO (HOME), Homeless, HOPWA, CDBG, and Youthbuild. Applicants may apply for one, two, three, four, five, or all six CD-TA program areas. The application is contained in this CD-TA NOFA at Section IV.B. Approximately $36.8 million is available. No cost sharing is required. Grants will be administered under cooperative agreements with significant HUD involvement (see Section II.C of this NOFA).

Full Text of Announcement

I. Funding Opportunity Description

A. CD-TA Purpose. The purpose of the CD-TA program is to provide assistance to achieve the highest level of performance and results for six separate community development program areas: (1) HOME; (2) CHDO (HOME); (3) Homeless; (4) HOPWA; (5) CDBG; and (6) Youthbuild. Information about the six community development programs and their missions, goals, and activities can be found on the HUD Web site at www.hud.gov.

B. Description of National TA and Local TA. There are two types of technical assistance (TA) funding available in this NOFA: National TA and Local TA.

National TA activities are those that address, at a nationwide level, one or more of the CD-TA program activities and/or priorities identified in Section III.C. of this NOFA. National TA activities may include the development of written products, development of on-line materials, development of training courses, delivery of training courses previously approved by HUD, organization and delivery of workshops and conferences, and delivery of direct TA as part of a national program. Applicants for National TA must also be willing to work in any HUD field office area, although work in the field office areas is likely to be a negligible portion of National TA activities. National TA activities are administered by a Government Technical Representative (GTR) and Government Technical Monitor (GTM) at HUD Headquarters.

Local TA activities also must address the CD-TA program activities and/or priorities identified in this NOFA, however the Local TA is targeted to the specific needs of the HUD community development program recipients in the field office area in which the TA is proposed. Local TA activities are limited to the development of need assessments, direct TA to HUD community development program recipients, organization and delivery of workshops and conferences, and customization and delivery of previously HUD-approved trainings. Local TA will be administered by a GTR and GTM in the respective HUD field office. Please note that the Pooled Local HOME and Homeless TA (described in Section II.A. below) are Local TA carried out in field office jurisdictions and directed by field office GTRs and GTMs.

C. Authority. HOME TA is authorized by the HOME Investment Partnerships Act (42 U.S.C. 12781-12783); 24 CFR part 92. CHDO (HOME) TA is authorized by the HOME Investment Partnerships Act (42 U.S.C. 12773); 24 CFR part 92. For the McKinney-Vento Act Homeless Assistance Programs TA, the Supportive Housing Program is authorized under 42 U.S.C. 11381 et seq.; 24 CFR 583.140; Emergency Shelter Grants, Section 8 Moderate Rehabilitation Single Room Occupancy Program, and Shelter Plus Care TA are authorized by the FY2004 HUD Appropriations Act. HOPWA TA is authorized under the FY2004 HUD Appropriations Act. CDBG TA is authorized under Title I of the Housing and Community Development Act of 1974 (42 U.S.C. 5301-5320); 24 CFR 570.402. Youthbuild TA is authorized under Title IV of the Cranston-Gonzalez National Affordable Housing Act, as amended by the Housing and Community Development Act of 1992 (42 U.S.C. 12899); 24 CFR part 585.

II. Award Information

A. Available Funds. Approximately $36.8 million is available for the CD-TA program. Additional funds may become available as a result of recapturing unused funds. This chart shows how the funds are divided among National TA and Local TA activities:

Program | National TA | Local TA | Pooled local TA
HOME | $3,500,000 | $2,845,000 | $3,245,250
CHDO (HOME) | 1,600,000 | 5,392,250 | 0
Homeless | 6,600,000 | 2,941,000 | 1,000,000
HOPWA | 2,000,000 | 0 | 0
CDBG | Up to 1,500,000 | 0 | 0
Youthbuild | 6,211,325 | 0 | 0

The Local TA funds are divided among HUD's field office jurisdictions for the HOME, CHDO (HOME), and Homeless programs. No Local TA funds are available for HOPWA, CDBG, or Youthbuild.

For the HOME and Homeless Local TA, field offices were given the option to either accept applications directly for their local CD-TA funds or to place their funds into a pooled account and choose from the pooled account selectees. Field offices participating in the pooled account will receive assistance from selected TA providers serving the pooled account jurisdictions. Consequently, applicants proposing TA services to the members of the pool must be willing to provide coverage to all the field office jurisdictions in the pool. An applicant for Pooled Local TA should take this requirement into account when determining its funding request. Applicants for Pooled Local TA are encouraged to partner with other TA providers to expand the coverage of the application. The lead organization in the TA partnership should submit the application reflecting the joint efforts of the TA partnership.

The chart below shows the amounts available in dollars for Local TA by CD-TA program:

—
Local TA area | HOME | Pooled HOME | CHDO (Home) | Homeless | Pooled homeless
Alabama | 0 | 165,000 | 48,000 | 0 | 30,000
Alaska | 40,000 | 0 | 35,000 | 30,000 | 0
Arkansas | 20,000 | 0 | 60,000 | 40,000 | 0
California—Northern and Arizona, Nevada | 250,000 | 0 | 200,000 | 200,000 | 0
California—Southern | 300,000 | 0 | 250,000 | 250,000 | 0
Caribbean | 0 | 100,000 | 200,000 | 0 | 40,000
Colorado and Montana, North Dakota, South Dakota, Utah, Wyoming | 170,000 | 0 | 170,000 | 0 | 150,000
Connecticut | 55,000 | 0 | 55,000 | 40,000 | 0
District of Columbia area | 0 | 100,000 | 60,000 | 50,000 | 0
Florida—Southern | 60,000 | 0 | 60,000 | 70,000 | 0
Florida—Northern | 150,000 | 0 | 100,000 | 0 | 180,000
Georgia | 0 | 140,000 | 0 | 0 | 60,000
Hawaii | 75,000 | 0 | 25,000 | 40,000 | 0
Illinois | 0 | 250,000 | 525,000 | 225,000 | 0
Indiana | 100,000 | 0 | 230,000 | 0 | 40,000
Kansas and Missouri—Western | 0 | 50,000 | 50,000 | 0 | 40,000
Missouri—Eastern | 85,000 | 0 | 85,000 | 85,000 | 0
Kentucky | 0 | 150,000 | 150,000 | 60,000 | 0
Louisiana | 0 | 100,000 | 100,000 | 0 | 40,000
Maryland, except District of Columbia area | 0 | 60,000 | 30,000 | 0 | 60,000
Massachusetts, Maine, New Hampshire, Rhode Island, Vermont | 300,000 | 0 | 250,000 | 300,000 | 0
Michigan | 250,000 | 0 | 250,000 | 138,000 | 0
Minnesota | 125,000 | 0 | 125,000 | 125,000 | 0
Mississippi | 0 | 111,250 | 156,250 | 0 | 50,000
Nebraska and Iowa | 0 | 40,000 | 90,000 | 20,000 | 40,000
New Jersey | 0 | 250,000 | 125,000 | 0 | 80,000
New Mexico | 200,000 | 0 | 200,000 | 50,000 | 0
New York—Downstate | 0 | 200,000 | 150,000 | 310,000 | 0
New York—Upstate | 0 | 85,000 | 70,000 | 0 | 57,000
North Carolina | 0 | 125,000 | 225,000 | 0 | 80,000
Ohio | 365,000 | 0 | 290,000 | 180,000 | 0
Oklahoma | 0 | 35,000 | 35,000 | 0 | 40,000
Oregon and Idaho | 0 | 100,000 | 100,000 | 26,000 | 0
Pennsylvania—Eastern | 0 | 75,000 | 100,000 | 0 | 75,000
Pennsylvania—Western and West Virginia | 145,000 | 0 | 158,000 | 102,000 | 0
South Carolina | 75,000 | 0 | 0 | 50,000 | 0
Tennessee | 0 | 150,000 | 150,000 | 60,000 | 0
Texas—Northern | 0 | 600,000 | 150,000 | 140,000 | 0
Texas—Southern | 80,000 | 0 | 0 | 50,000 | 0
Virginia, except District of Columbia area | 0 | 75,000 | 50,000 | 0 | 40,000
Washington | 0 | 84,000 | 35,000 | 0 | 48,000
Wisconsin | 0 | 200,000 | 250,000 | 150,000 | 0

B. Performance Period. The awards are for a period of up to 36 months. HUD, however, reserves the right to withdraw funds from a specific TA provider if HUD determines that the urgency of need for the assistance is greater in other field office jurisdictions or the need for assistance is not commensurate with the award.

C. Terms of Award. HUD will enter into a cooperative agreement with selected applicants for the performance period. Because CD-TA awards are made as cooperative agreements, implementation entails significant HUD involvement. Significant HUD involvement is required in all aspects of TA planning, delivery, and follow-up.

In addition to the requirements listed in the General Section of the SuperNOFA, selected applicants are subject to the following requirements:

1. Demand/Response System. All CD-TA awardees must operate within the structure of the demand-response system. Under the demand-response system, TA providers are required to:

a. When requested by a GTR, market the availability of their services to existing and potential recipients within the jurisdictions in which the assistance will be delivered;

b. Respond to requests for assistance from the GTR;

c. When requested by a GTR, conduct a needs assessment to identify the type and nature of the assistance needed by the recipient of the assistance;

d. Obtain the local HUD field office's approval before responding to direct requests for technical assistance from HOME Participating Jurisdictions (PJs), Community Housing Development Organizations (CHDOs), and McKinney-Vento Act Homeless Assistance, HOPWA, and CDBG; and

e. For CHDO (HOME) TA providers, secure a letter from a PJ stating that a CHDO, or prospective CHDO to be assisted by the provider, is a recipient or intended recipient of HOME funds and indicating, at its option, subject areas of assistance that are most important to the PJ.

2. Training. When conducting training sessions as part of its CD-TA activities, CD-TA providers are required to:

a. Design the course materials as “step-in” packages so that HUD or other CD-TA providers may independently conduct the course on their own;

b. Make the course materials available to the GTR in sufficient time for review (minimum of three weeks) and receive concurrence from the GTR on the content and quality prior to delivery;

c. Provide all course materials in an electronic format that will permit wide distribution among TA providers, field offices, and HUD grantees;

d. Arrange for joint delivery of the training with HUD participation when requested by the GTR;

e. Deliver HUD-approved training courses that have been designed and developed by others on a “step-in” basis when requested; and

f. Send trainers to approved “train-the-trainers” sessions. The costs associated with attending these required sessions are eligible under the cooperative agreement.

3. Field Office Involvement under National TA awards. When National TA providers are undertaking activities in field office jurisdictions, the National TA providers must work cooperatively with HUD field offices. Providers must notify the applicable HUD field office of the planned activities; consider the views or recommendations of that office, if any; follow those recommendations, to the degree practicable; and report to the applicable field office on the accomplishments of the assistance.

III. Eligibility Information

A. Eligible Applicants. The eligible applicants for each of the six CD-TA programs are listed in the chart below. In accordance with the President's faith-based initiative, HUD welcomes the participation of eligible faith-based and community organizations in the CD-TA programs.

Program | Eligible applicants
HOME | A for-profit or nonprofit professional and technical services company or firm that has demonstrated knowledge of the HOME program and the capacity to provide technical assistance services;
| A HOME Participating Jurisdiction (PJ);
| A public purpose organization, established pursuant to state or local legislation, responsible to the chief elected officer of a PJ;
| An agency or authority established by two or more PJs to carry out activities consistent with the purposes of the HOME program; or a national or regional nonprofit organization that has membership comprised predominately of entities or officials of entities of PJs or PJs' agencies or established organizations.
CHDO (HOME) | A public or private nonprofit intermediary organization that customarily provides services, in more than one community, related to the provision of decent housing that is affordable to low-income and moderate-income persons or related to the revitalization of deteriorating neighborhoods; has demonstrated experience in providing a range of assistance (such as financing, technical assistance, construction and property management assistance) to CHDOs or similar organizations that engage in community revitalization; and has demonstrated the ability to provide technical assistance and training for community-based developers of affordable housing.
| Note: Any organization funded to assist CHDOs under CD-TA may not undertake CHDO set-aside activities itself within its service area while under cooperative agreement with HUD.
Homeless | A state;
| A unit of general local government;
| A public housing authority; or
| A public or private nonprofit or for-profit organization, including educational institutions and area-wide planning organizations.
HOPWA | A for-profit or nonprofit organization;
| A state; or
| A unit of general local government.
CDBG | A state;
| A unit of general local government;
| A national or regional nonprofit organization that has membership comprised predominately of entities or officials of entities of CDBG recipients;
| A for-profit or nonprofit professional and technical services company or firm that has demonstrated knowledge of the CDBG program and the capacity to provide technical assistance services; or
| A public or private nonprofit or for-profit organization, including educational institutions and area-wide planning organizations.
Youthbuild | A public or private nonprofit agency that has significant prior experience in the operation of projects similar to the Youthbuild program and that has the capacity to provide effective technical assistance.

Applicants must also meet the threshold requirements of the General Section of the SuperNOFA, including the Civil Rights threshold at Section III(C).

A consortium of organizations may apply for one or more CD-TA programs, but one organization must be designated as the applicant.

Applicants may propose assistance using in-house staff, consultants, sub-contractors, sub-recipients, and local organizations with the requisite experience and capabilities. Where appropriate, applicants should make use of TA providers located in the field office jurisdiction receiving services. This draws upon local expertise and persons familiar with the opportunities and resources available in the area to be served while reducing travel and other costs associated with delivering the proposed TA services.

B. Cost Sharing or Matching. None.

C. Other:

1. Eligible Activities and Priorities. Funds may be used to provide TA to prospective applicants, applicants, grantees, and project sponsors of the HOME, CHDO (HOME), Homeless, HOPWA, CDBG, and Youthbuild programs. The TA activities may include but are not limited to written information such as papers, manuals, guides, and brochures; assistance to individual communities; needs assessments; and training. The priority TA areas for each of the six program areas are:

a. HOME TA. By statute, HUD may provide HOME program technical assistance to meet specified objectives. From these objectives, HUD has identified four HOME program technical assistance priorities for FY2004. These priorities are:

(1) Improve the ability of PJs to design and implement housing programs that reflect sound underwriting, management, and fiscal controls; demonstrate measurable outcomes in the use of public funds; and provide accurate and timely reporting of HOME program accomplishments.

(2) Encourage public-private partnerships that yield an increase in the amount of private dollars leveraged for HOME-assisted projects and result in an increase in the commitment and production of HOME-assisted units.

(3) Assist PJs in developing strategies that ameliorate the affordability gap between rapidly increasing housing costs and the less rapid growth in incomes among low-income households, especially among underserved populations (e.g., residents of the Colonias, homeless persons, and persons with disabilities).

(4) Assist PJs in developing strategies that increase and help sustain homeownership opportunities for low-income households—particularly low-income, minority households—and directly result in the commitment and completion of HOME-assisted units.

b. CHDO (HOME) TA:

(1) By statute, HUD may provide HOME program technical assistance to meet specified objectives. From these objectives, HUD has identified three CHDO-specific technical assistance priorities for FY2004. These priorities are:

(a) Assist new CHDOs and potential CHDOs develop the organizational capacity to own, develop, and sponsor HOME-assisted projects. A new CHDO is defined as a nonprofit organization that within three years of the publication of this NOFA was determined by a PJ to qualify as a CHDO. A potential CHDO is defined as a nonprofit organization that is expected by the PJ to qualify as a CHDO and is expected to enter into a written agreement with that PJ to own, develop, or sponsor HOME-assisted housing within 24 months of the PJ determining the organization qualifies as a CHDO. HUD welcomes the participation of otherwise eligible faith-based and community organizations.

(b) Improve the HOME program production and performance of existing CHDOs in the areas of:

(i) Program design and management, including underwriting, project financing, property management, and compliance; and

(ii) Organizational management and capacity, including fiscal controls, board development, contract administration, and compliance systems.

(c) Provide organizational support, technical assistance, and training to community groups for the establishment of community land trusts, as defined in section 233(f) of the Cranston-Gonzales National Affordable Housing Act.

(2) Additional CHDO (HOME) Eligible Activities are:

(a) Under the “Pass-Through” provision, CD-TA providers may propose to fund various operating expenses for eligible CHDOs that own, develop, or sponsor HOME-assisted housing. Such operating expenses may include reasonable and necessary costs for the operation of the CHDO including salaries, wages, and other employee compensation and benefits; employee education, training and travel; rent; utilities; communication costs; taxes; insurance; equipment, materials, and supplies.

(b) CD-TA providers must establish written criteria for selection of CHDOs receiving pass-through funds. PJs must designate the organizations as CHDOs; and generally, the organizations should not have been in existence more than three years. CD-TA providers must enter into an agreement with the CHDO that the agreement and pass-through funding may be terminated at the discretion of HUD if no written legally binding agreement to provide assistance for a specific housing project (for acquisition, rehabilitation, new construction, or tenant-based rental assistance) has been made by the PJ with the CHDO within 24 months of initially receiving pass-through funding. The pass-through amount, when combined with other capacity building and operating support available through the HOME program, cannot exceed the greater of 50 percent of the CHDO's operating budget for the year in which it receives funds, or $50,000 annually.

c. Homeless TA. Homeless TA funds are available to provide McKinney-Vento Homeless Assistance Act-funded grantees, project sponsors, and potential recipients with skills and knowledge needed to develop and operate projects and activities. TA activities are focused on these priorities:

(1) Facilitate the exchange of information between community organizations to develop and implement a community-wide discharge plan for individuals exiting publicly-funded institutions (e.g., criminal justice system, foster care system, mental health system) so that these individuals do not become homeless.

(2) Improve the ability of eligible applicants to develop and operate permanent housing projects for chronically homeless persons.

(3) Develop materials on effective grant administration for grantees and sponsors.

(4) Improve the ability of eligible grantees and sponsors in reaching out to chronically homeless persons.

(5) Improve the ability of grantees and sponsors in coordinating services available through mainstream resources with housing units available for homeless persons.

(6) Facilitate the formation of metropolitan, regional, and statewide Homeless Management Information Systems (HMIS) and improve the ability of communities to prepare data for their Annual Homeless Assessment Reports.

(7) Develop materials on effective grant management for Emergency Shelter Grants (ESG) recipients, including guidance on IDIS implementation.

(A person experiencing chronic homelessness is defined as an unaccompanied individual with a disabling condition who has been continuously homeless for a year or more or has experienced four or more sustained episodes of homelessness over the last three years.)

d. HOPWA TA. HOPWA TA funds are available to provide grantees, project sponsors, and potential recipients with the skills and knowledge to effectively develop, operate, and support HOPWA-eligible project activities that result in measurable performance outputs and outcomes. TA activities focused are on these priorities:

(1) Improve the ability of grantees to develop comprehensive housing strategies, through collaborative public and private partnerships, that coordinate the use of mainstream resources and promote the long-term sustainability of HOPWA-assisted rental housing programs.

(2) Identify and train grantees and project sponsors on successful examples of how local or regional employment and re-entry discharge planning programs and efforts can complement the overall delivery and effectiveness of housing and supportive services which result in greater client self-sufficiency and independence.

(3) Develop materials and training for grantees and project sponsors (a) on implementing and achieving long-term performance outcome measures that promote housing stability, reduce the risk of homelessness, and improve access to care and (b) on implementing sound fiscal and financial management practices.

(4) Develop materials that promote the utilization and coordination of Homeless Management Information Systems in the provision of HOPWA-assisted housing and supportive services for homeless and chronically homeless persons served under this program.

(5) Provide direct TA for local HOPWA programs in coordination with HUD field office oversight of those HOPWA-funded projects. It is estimated that up to 40 percent of HOPWA TA funds will be made available for this purpose.

e. CDBG TA. HUD may provide CDBG program technical assistance to meet specified objectives, in particular the facilitating of skills and knowledge in planning, developing, and administering activities under the CDBG program for recipients and other entities that may need but do not possess such skill and knowledge, including measuring programs and activities under the CDBG program. Technical assistance funds will support local and state grantees' efforts in these areas as well as support for efforts to streamline the Consolidated Plan, program management, and analytical support of information for performance measurement. TA activities are focused on the following priorities:

(1) Assist grantees' efforts to streamline the Consolidated Plan, making it more results-oriented and useful to communities in assessing their own progress toward addressing the problems of low-income areas in their communities.

(2) Improve CDBG recipient understanding of performance measurement from a national programmatic perspective.

(3) Improve recipient knowledge and skills to develop and implement local CDBG performance measurement systems.

(4) Assist recipients' development of local CDBG performance measurement systems.

(5) Develop model, local protocols that ensure accurate, required program recordkeeping and performance data by recipients, subrecipients and sub-grantees.

(6) Develop materials on effective grant administration for grantees, subrecipients, and sub-grantees.

(7) Improve CDBG and Section 108 program knowledge through program-specific recipient training.

f. Youthbuild TA. Youthbuild TA funds are available to provide appropriate training, information, and technical assistance to federally funded Youthbuild programs and to HUD in the management, supervision, and coordination of such Youthbuild programs. TA activities are focused on the following priorities:

(1) Improve the management and implementation of Youthbuild programs by providing on-site and telephone assistance, preparing appropriate instruction materials, and conducting training workshops on key aspects of the Youthbuild program.

(2) Improve Youthbuild program applications by providing assistance to eligible applicants in the preparation of their grant applications, giving priority to community-based organizations in the provision of this assistance.

(3) Strengthen Youthbuild program design by facilitating peer-to-peer assistance for Youthbuild grantee staff and disseminating best program practices that are identified through training workshops, peer-to-peer assistance, and on-site TA.

(4) Assist HUD in the management, supervision, and coordination of Youthbuild programs by preparing handbooks or printed materials to provide guidance to Youthbuild grantees and by collecting and analyzing performance evaluation data from Youthbuild grantees.

2. DUNS Requirement. Refer to the General Section of the SuperNOFA for information regarding the DUNS requirement. Applicants need to obtain a DUNS number to receive an award from HUD.

3. Other Eligibility Requirements. All applicants requesting funding from programs under this NOFA must be in compliance with the applicable threshold requirements found in the General Section of the SuperNOFA. Applicants that do not meet these requirements will be ineligible for funding.

4. False Statements. An applicant's false statement in an application is grounds for denial or termination of an award and grounds for possible punishment as provided in 18 U.S.C. 1001.

IV. Application and Submission Information

A. Addresses to Request Application Package. See the General Section of the SuperNOFA.

B. Content and Form of Application Submission. Applicants must submit a completed application for each National TA and Local TA area and program for which they are applying. For example, an applicant for National TA for HOME, for Local TA in three field office jurisdictions, and for HOME Pooled Local TA would submit five separate and distinct applications.

A completed application consists of an application submitted by an authorized official of the organization and containing all relevant sections of the application, as shown in the checklist below in Section IV.B.4.

1. Number of Copies. Applicants for National TA must submit two copies of their application to HUD Headquarters. Applicants for Pooled Local TA must submit two copies of their application to HUD Headquarters. Applicants for Local TA must submit one copy of their application to HUD Headquarters and must also send one copy of their application to the HUD field office in which their organization is applying. See Section VII.C. of the CD-TA NOFA for information on field office addresses.

2. Page Limitation. Narratives addressing Factors 1-5 are limited to no more than 25 typed pages. That is, reviewers will not review more than 25 pages for all five factors combined, except that the page limit does not include the Form HUD-96010, Logic Model.

3. Prohibition on Attachments. Attachments are prohibited. Reviewers will not consider resumes, charts, letters, or any other documents attached to the application.

4. Checklist for Application Submission. Assemble the application in the following order. Please enter page numbers on the narrative pages of the application.

—SF-424, Application for Federal Assistance (from General Section of SuperNOFA)

—An Application Cover Page indicating in bold (a) the type of TA proposed in the application whether HOME National, HOME Local, HOME Pooled, CHDO National, CHDO Local, Homeless National, Homeless Local, Homeless Pooled, HOPWA National, CDBG National, or Youthbuild National; (b) the amount of funds requested in the application; and (c) for Local TA, the jurisdiction proposed in the application.

—Narrative addressing Factor 1

—Narrative addressing Factor 2

—Narrative addressing Factor 3

—Narrative addressing Factor 4

—Narrative addressing Factor 5

—HUD-96010, Logic Model

—HUD-424-CB, Grant Application Detailed Budget Form (from General Section of SuperNOFA)

—HUD-424-CBW, Detailed Budget Worksheet for Non-Construction Projects (from General Section of SuperNOFA)

—If applying for CHDO (HOME) TA, statement as to whether the organization proposes to pass through funds to new CHDOs.

—If applying for the CHDO (HOME) TA, a certification as to whether the organization qualifies as a primarily single-state provider under section 233(e) of the Cranston-Gonzales Affordable Housing Act.

—HUD-424 B, Assurances—Non-Construction Programs (from General Section of SuperNOFA)

—SF-LLL, Disclosure of Lobbying Activities (from General Section of SuperNOFA)

—HUD-2880, Applicant/Recipient Disclosure/Update Report (from General Section of SuperNOFA)

C. Submission Dates and Times. The application is due to HUD on July 8, 2004.

D. Intergovernmental Review. Intergovernmental review is not applicable to CD-TA applications.

E. Funding Restrictions. An organization may not provide assistance to itself. An organization may not provide assistance to another organization with which it contracts or sub-awards funds to carry out activities under the TA award.

Funding from HOME and from CHDO (HOME) TA to any single eligible organization (excluding funds for organizational support and housing education “passed through” to CHDOs), whether as an applicant or sub-recipient is limited to not more than 20 percent of the operating budget of the recipient organization for any one-year period of each cooperative agreement. In addition, funding under either HOME or CHDO (HOME) TA to any single organization is limited to 20 percent of the $17,894,000 made available for HOME and CHDO (HOME) TA in FY2004.

Not less than 40 percent of the approximately $6,992,250 for CHDO (HOME) shall be made available for eligible TA providers that have worked primarily in one state. HUD will consider an applicant as a primarily single state TA provider if it can document that more than 50 percent of its past activities in working with CHDOs or similar nonprofit and other organizations (on the production of affordable housing, revitalization of deteriorating neighborhoods, and/or the delivery of technical assistance to these groups) was confined to the geographic limits of a single state.

No fee or profit may be paid to any recipient or sub-recipient of an award under this CD-TA NOFA.

F. Other Submission Requirements:

Addresses for Submitting Applications. Submit applications to: HUD Headquarters; Robert C. Weaver Federal Building; 451 Seventh Street, SW., Room 7251; Washington, DC 20410; ATTENTION: CD-TA.

Submit applications for Local TA to the appropriate field office(s) at the address(es) shown in Section VII.C. of this NOFA. Please mark the package ATTENTION: CD-TA.

The General Section of the SuperNOFA describes application submission procedures and how applicants may obtain proof of timely submission.

V. Application Review Information

A. Criteria. The maximum number of points to be awarded for a CD-TA application is 100. The minimum score for an application to be considered for funding is 75 with a minimum of 20 points on Factor 1. The CD-TA program is not subject to bonus points, as described in the General Section of the SuperNOFA.

Points are assigned on five factors. Factor 1 relates to the capacity of the applicant and its relevant organizational experience. Rating of the “applicant” or the “applicant's organization and staff” includes any sub-contractors, consultants, and sub-recipients which are firmly committed to the project. In responding to Factor 1, applicants should specify the experience, knowledge, skills, and abilities of the applicant's organization and staff, and any persons and organizations firmly committed to the project.

When addressing Factors 2-5, applicants should discuss the specific TA projects, activities, tasks, etc., that will be carried out during the term of the cooperative agreement. Applicants should provide relevant examples to support the proposal, where appropriate. Applicants should also be specific when detailing the communities, populations, and organizations that they propose to serve and the specific outcomes expected as a result of the TA.

Rating Factor 1: Capacity of the Applicant and Relevant Organizational Experience (30 points) (Minimum for Funding Eligibility—20 Points)

a. (10 points) Recent and successful experience of the applicant's organization in providing TA in all activities and to all entities for the CD-TA program applied for.

In rating this factor, HUD will consider the extent to which the application demonstrates experience within the last four years of providing TA related to the CD-TA achievement of positive outcomes.

b. (10 points) A comprehensive and efficient management plan which considers providing TA under the demand/response system and, for applicants proposing to serve more than one geographic area, experience in managing work that requires coordination with other entities or parts of the organization.

In rating this factor, HUD will consider the extent to which the application demonstrates there is a plan to manage TA assignments under the demand/response system cost effectively and, for applicants proposing to serve more than one geographic area, the ability to manage multiple TA assignments simultaneously and cost effectively.

c. (10 points) Knowledgeable key personnel skilled in providing TA in all activities and to all entities for the CD-TA program applied for. A sufficient quantity of staff or ability to procure qualified experts or professionals with the knowledge, skills, and abilities to deliver the proposed level of TA in the proposed service area in a timely and effective fashion; ability to provide CD-TA in a geographic area larger than a single city or county.

In rating this factor, HUD will consider the extent to which the application demonstrates the organization has an adequate number of key staff or ability to procure individuals with the knowledge of effective TA approaches and knowledge of the CD-TA program applied for and the ability to apply the knowledge to achieve positive TA outcomes.

Rating Factor 2: Need/Extent of the Problem (10 Points)

a. For National TA applications: Sound and extensive understanding of need for TA in relation to the eligible activities and priorities listed in Section III C. of the CD-TA NOFA as demonstrated by objective information and/or data, such as information from HOME Snapshots.

b. For Local TA applications: Sound and extensive understanding of high priority needs for TA in the jurisdiction as demonstrated by objective information and/or data, such as information from HOME Snapshots.

c. For Local Pooled TA applications: Sound and extensive understanding of the high priority needs for TA of three jurisdictions in the pool as demonstrated by objective information and/or data, such as information from HOME Snapshots. (Applicants may choose any three in the pool; these serve as examples of the applicant's understanding of need.)

In rating this factor, HUD will evaluate the extent to which the application demonstrates an understanding of the specific needs for TA and supports the description of need with reliable, program-specific, quantitative information. Applicants for HOME should at a minimum draw on HOME Snapshot information to demonstrate PJs' need, in an area or nationwide, for additional training and capacity building. See http://www.hud.gov/offices/cpd/affordablehousing/programs/home/snapshot/index.cfm.

Rating Factor 3: Soundness of Approach (40 Points)

a. (25 points) For National TA applications: A sound approach for addressing the need for TA in relation to the priorities listed in Section IIIC. of this CD-TA NOFA.

For Local TA applications: A sound approach for addressing high priority needs for TA in the jurisdiction.

For Local Pooled TA applications: A sound approach for addressing the high priority needs for TA described in Factor 2 of three jurisdictions participating in the pool. (Applicants should use the same three jurisdictions as in Factor 2.)

In rating this factor, HUD will evaluate the extent to which the application presents and supports a detailed, feasible, practical approach for addressing TA needs (Local TA applications and Pooled Local TA applications) or CD-TA program priorities (National TA applications).

b. (10 points) A cost-effective work plan for designing, organizing, managing, and carrying out the proposed TA activities.

In rating this factor, HUD will evaluate the extent to which the application demonstrates the efficiency of proposed activities and the effectiveness of operation in achieving positive outcomes.

c. (5 points) An effective assistance program to specific disadvantaged communities, populations, and/or organizations which previously have been underserved and have the potential to participate in the CD-TA program.

In rating this factor, HUD will evaluate the extent to which the application demonstrates an effective approach for involving previously underserved communities, populations, and organizations with potential, and a practical strategy for engaging participation in the CD-TA program.

Rating Factor 4: Leveraging Resources (10 Points)

An efficient practical method to transfer manuals, guides, assessment forms, other work products, models, and lessons learned in its CD-TA activities to other grantees and/or program beneficiaries.

In rating this factor, HUD will evaluate the extent to which the application demonstrates a cost-effective means of sharing resources developed under the CD-TA activities with a wide audience.

Rating Factor 5: Achieving Results and Program Evaluation (10 Points)

a. (5 points) An effective, quantifiable, outcome-oriented evaluation plan for measuring performance using the Logic Model with specific outcome measures and benchmarks, including—for HOME applicants—targets for improving PJs’ HOME Snapshot indicators and rankings.

In rating this factor, HUD will evaluate the extent to which the application has an evaluation plan that is specific, measurable, and appropriate in relation to the activities proposed.

b. (5 points) Successful past performance in administering HUD CD-TA programs or, for applicants new to HUD's CD-TA Programs, demonstrate successful past performance in providing TA in other community development programs. Applicants should include, as applicable, increases in CPD or community development program accomplishments as a result of TA (e.g., number of homeless people or persons with HIV/AIDS receiving housing and services, efficiency or effectiveness of administration of CPD or community development programs, number of affordable housing units, HOME Snapshot indicators, timeliness of use of CPD or community development program funds).

In rating this factor, HUD will evaluate the extent to which the application demonstrates past performance that is timely and in the delivery of community development TA. HUD will also consider past performance of current CD-TA providers, including financial and other information in HUD's files.

B. Review and Selection Process:

1. Review Types. Two types of reviews will be conducted. First, HUD will review each application to determine whether it meets threshold eligibility requirements. Second, HUD will review and assign scores to applications using the Factors for Award noted in Section V.A.

2. Rank Order. Once rating scores are assigned, rated applications submitted for each National TA program, for each Local TA program, and for each Pooled Local TA program will be listed in rank order. Applications within the fundable range (score of 75+ points with 20+ points for Factor 1) may then be funded in rank order under the CD-TA program and service area for which they applied. Applicants for Pooled Local TA may not necessarily be funded in rank order since the amount of their awards, if any, will be determined by totaling the amounts assigned to them by the individual field offices participating in the pool. A field office participating in a pooled account may distribute some or all of its amount to any applicant for pooled funds that scores in the fundable range.

3. Threshold Eligibility Requirements. All applicants requesting CD-TA must be in compliance with the applicable threshold requirements found in the General Section of the SuperNOFA and the eligibility requirements listed in Section III of this NOFA in order to be reviewed, scored, and ranked. Applications that do not meet these requirements and applications that were received after the submission deadline (see Section IV.F. of the General Section of the SuperNOFA) will be considered ineligible for funding and will be disqualified.

4. Award Adjustment. In addition to the funding adjustment authority provided for in the General Section of the SuperNOFA, HUD reserves the right to adjust funding amounts for each CD-TA selectee. The amounts listed in the charts in Section II.A are provided to assist applicants to develop Local TA, Local Pooled TA, or National TA budgets and do not represent the exact amounts to be awarded. Once TA applicants are selected for award, HUD will determine the total amount to be awarded to any selected applicant based upon the size and needs of each of the selected applicant's service areas, the funds available for that area and CD-TA program, the number of other CD-TA applicants selected in that area or CD-TA program, and the scope of the TA to be provided.

Additionally, HUD may reduce the amount of funds allocated for field office jurisdictions to fund National CD-TA providers and other CD-TA providers for activities that cannot be fully budgeted for or estimated by HUD Headquarters or field offices at the time this NOFA was published. HUD may also require selected applicants, as a condition of funding, to provide coverage on a geographically broader basis than proposed in order to supplement or strengthen the CD-TA network in terms of the size of the area covered and types and scope of TA proposed.

If funds remain after all selections have been made, the remaining funds may be distributed among field offices proportionately for Local TA and/or used for National TA, or made available for other CD-TA program competitions.

VI. Award Administration Information

A. Award Notices. Successful applicants will receive notification from HUD in writing. Such notification is not an authorization to begin performance. Unsuccessful applicants will also receive notification from HUD in writing.

After selection, HUD requires that all selected applicants participate in negotiations to determine the specific terms of the cooperative agreement, including the TADP and budget. Costs may be denied or modified if HUD determines that they are not allowable, allocable, and/or reasonable. In cases where HUD cannot successfully conclude negotiations with a selected applicant or a selected applicant fails to provide HUD with requested information, an award will not be made to that applicant. In this instance, HUD may offer an award, and proceed with negotiations with the next highest-ranking applicant.

After selection for funding but prior to executing the cooperative agreement, the selected applicant must develop in consultation with the GTR, a TADP for each National TA and each Local TA award. The TADP must be approved by the GTR and delineate the tasks for each CD-TA program the applicant will undertake during the performance period. The TADP must specify the location of the proposed CD-TA activities, the amount of CD-TA funding and proposed activities by location, the improved program performance or other results expected from the CD-TA activities, and the methodology to be used for measuring the success of the CD-TA. A detailed time schedule for delivery of the activities, budget summary, budget-by-task, and staffing plan must be included in the TADP. Prior to undertaking individual tasks, the selected applicant generally prepares a technical plan for assistance (TPA) for approval by the GTR. The TPA must be consistent with the approved TADP.

B. Administrative and National Policy Requirements. After selection for funding but prior to award, applicants must submit financial and administrative information to comply with applicable requirements. These requirements are found in 24 CFR part 84 for all organizations except states and local governments whose requirements are found at 24 CFR part 85. Cost principles requirements are found at OMB Circular A-122 for nonprofit organizations, OMB Circular A-21 for institutions of higher education, OMB Circular A-87 for states and local governments, and at 48 CFR 31.2 for commercial organizations. Applicants must submit a certification from an Independent Public Accountant or the cognizant government auditor, stating that the applicant's financial management system meets prescribed standards for fund control and accountability.

Activities under this program are excluded from environmental review under 24 CFR 50.19(b)(9).

The requirements to Affirmatively Further Fair Housing do not apply.

C. Reporting. CD-TA awardees will be required to report to the GTR on, at a minimum, a quarterly basis unless otherwise specified in the approved TADP. For each reporting period, as part of the required report to HUD, grant recipients must include a completed Logic Model (form HUD 96010), which identifies output and outcome achievements.

VII. Agency Contacts

A. For Assistance. Applicants may contact HUD Headquarters at 202-708-3176, or they may contact the HUD field office serving their area shown in Section VII.C. Persons with hearing and speech challenges may access the above numbers via TTY (text telephone) by calling the Federal Relay Service at 800-877-8339 (this is a toll-free number). Information may also be obtained through the HUD website on the Internet at www.hud.gov.

B. Satellite Broadcast. HUD will hold an informational satellite broadcast for potential applicants to learn more about the CD-TA programs and preparation of the application. For information about the date and time of the broadcast, consult the HUD website at: www.hud.gov.

C. List of Field Office Addresses. For a listing of the HUD field office addresses to which applicants send Local TA applications, please use the following Internet address: http://www.hud.gov/offices/cpd/about/staff/fodirectors/index.cfm. At the site, click on the map to get to the field office address and other contact information.

VIII. Other Information

A. Paperwork Reduction Act

The information collection requirements contained in this document have been approved by the Office of Management and Budget (OMB) under the Paperwork Reduction Act of 1995 (44 U.S.C. 3501-3520) and assigned OMB control numbers 2506-0166 and 2506-0133. In accordance with the Paperwork Reduction Act, HUD may not conduct or sponsor, and a person is not required to respond to, a collection of information unless the collection displays a currently valid OMB control number. Public reporting burden for the collection of information is estimated to average 60 hours for the application and grant administration. This includes the time for collecting, reviewing, and reporting the data. The information will be used for grantee selection and monitoring the administration of funds. Response to this request for information is required in order to receive the benefits to be derived.

B. HUD Reform Act

The provisions of the HUD Reform Act of 1989 that apply to the CD-TA program are explained in the General Section of the SuperNOFA.

BILLING CODE 4210-32-P

BILLING CODE 4210-32-C

2. Award Information: In Fiscal Year (FY) 2004, approximately $10.4 million has been appropriated by the Consolidated Appropriations Act, 2004 (Pub. L. 108-199, approved January 23, 2004, 118 Stat. 3), of which up to $1.98 million has been allocated to provide technical assistance. In addition, $614,000 in previously unexpended funds is being made available for this program. HUD will award two kinds of grants under this program; Previously Unfunded HBCU Grants and Previously Funded HBCU Grants.

a. Previously Unfunded HBCU Grants will be awarded to applicants who have never received an HBCU grant. The maximum amount a Previously Unfunded HBCU or First Time applicant can request for award is $340,000 for a three-year (36 months) grant performance period.

b. Previously Funded HBCU Grants will be awarded to applicants that have received funding under previous HBCU grant competitions. The maximum amount an applicant can request for award is $550,000 for a three-year (36 months) grant performance period. In order to ensure that Previously Unfunded or First Time HBCU applicants receive awards in this competition, approximately $1.4 million has been made available to fund Previously Unfunded HBCU applicants. In addition, approximately, $7.6 million will be made available to Previously Funded HBCU applicants. (See Appendix C of this NOFA for a list of Previously Funded and Unfunded HBCUs). If funding remains after all eligible Previously Unfunded or First Time HBCU applicants are awarded, the remaining funds will be made available to fund eligible Previously Funded applicants.

3. Eligible Applicants: Historically Black Colleges and Universities of higher education that meet the definition of Historically Black Colleges and Universities as determined by the Department of Education in 34 CFR 608.2 in accordance with that Department's responsibilities under Executive Order 13256, dated February 12, 2002, are eligible to apply for funding under this program. Applicants must be accredited by a national or regional accrediting agency recognized by the U.S. Department of Education.

Full Text of Announcement

I. Funding Opportunity Description

The purpose of the Historically Black Colleges and Universities (HBCU) Program is to assist Historically Black Colleges and Universities of higher education expand their role and effectiveness in addressing community development needs in their localities, including neighborhood revitalization, housing, and economic development, principally for persons of low- and moderate-income, consistent with the purpose of the Title I of Housing and Community Development Act of 1974, as amended.

A. For the purposes of this program, the term “locality” includes any city, county, township, parish, village, or other general political subdivision of a state, or the U.S. Virgin Islands where the institution is located.

B. A “target area” is the area within the locality in which the institution will implement its proposed HBCU grant. If an institution wants to provide services/activities in a location other than the target area of that institution an applicant must provide justification for why they want to do so.

C. Listed below are major modifications from the Fiscal Year (FY) 2003 program-funding announcement:

1. This program has a separate NOFA and is no longer a part of the combined Office of Universities Partnerships Program NOFA;

2. All applications must be mailed to: University Partnerships Clearinghouse; c/o Danya International; 8737 Colesville Road, Suite 1200; Silver Spring, MD 20910;

3. Points will no longer be assigned to the budget. However, a budget narrative must be submitted that addresses the total dollar amount reflected on the HUD-424-CB and HUD-40076-HBCU forms for the entire three-year grant performance period;

4. Applicants no longer have to request a minimum amount of funding. However, the maximum amount a Previously Funded applicant can request for award is $550,000 and the maximum amount a Previously Unfunded or First Time applicant can request for award is $340,000 for a three-year (36 months) grant performance period;

5. Institutions with two or more active HBCU grants that have drawn down less than 50 percent of the funding for each active grant three weeks (not two weeks as stated in the FY02 NOFA) prior to the program's application due date are ineligible to apply for funds under this NOFA. It is the applicant's responsibility to make sure this requirement is met; and

6. Only one application can be submitted per institution.

D. HUD's authority for making funding available under this NOFA is the Consolidated Appropriations Act, 2004 (Pub. L. 108-199, approved January 23, 2004; 118 Stat. 3). This program is being implemented through this NOFA and the policies governing its operation are contained herein.

II. Award Information

In Fiscal Year (FY) 2004, approximately $10.4 million has been appropriated by the Consolidated Appropriations Act, 2004 (Pub. L. 108-199, approved January 23, 2004; 118 Stat. 3), of which up to $1.98 million has been allocated to provide technical assistance. In addition, $614,000 in previously unexpended funds is being made available for this program. HUD will award two kinds of grants under this program, Previously Unfunded or First Time HBCU Grants and Previously Funded HBCU Grants.

A. Previously Unfunded or First Time HBCU Grants will be awarded to applicants who have never received an HBCU grant. The maximum amount a Previously Unfunded or First Time HBCU applicant can request for award is $340,000 for a three-year (36 months) grant performance period.

B. Previously Funded HBCU Grants will be awarded to applicants that have received funding under previous HBCU grant competitions. The maximum amount an applicant can request for award is $550,000 for a three-year (36 months) grant performance period.

In order to ensure that Previously Unfunded HBCU applicants receive awards in this competition, approximately $1.4 million will be made available to fund Previously Unfunded or First Time HBCU applicants. Approximately $7.6 million will be made available to Previously Funded HBCU applicants that have received funding under previous HBCU competitions. If funding remains after all eligible Previously Unfunded or First Time HBCU applicants are awarded, the remaining funds will be made available to fund eligible Previously Funded applicants. (See Appendix C of this NOFA for a list of Previously Funded and Unfunded HBCUs).

III. Eligibility Information

A. Eligible Applicants

Historically Black Colleges and Universities of higher education as determined by the U.S. Department of Education in 34 CFR 608.2 in accordance with that Department's responsibilities under Executive Order 13256, dated February 12, 2002, are eligible to apply for funding under this program. All applicants must be accredited by a national or regional accrediting agency recognized by the U.S. Department of Education.

B. Cost Sharing or Matching

None required.

C. Other

1. Eligible Activities

Eligible activities are listed in 24 CFR part 570, subpart C, particularly 570.201 through 570.206. Information regarding these activities can be found at: www.hudclips.org.

a. Examples of eligible activities include, but are not limited to:

(1) Acquisition of real property;

(2) Clearance and demolition;

(3) Rehabilitation of residential structures including lead-based paint hazard evaluation and reduction; and encouraging accessible design features in accordance with the requirements of section 504 of the Rehabilitation Act of 1973;

(4) Special economic development activities described at 24 CFR 570.203 and assistance to facilitate economic development by providing technical or financial assistance for the establishment, stabilization, and expansion of microenterprises, including minority enterprises;

(5) Assistance to community-based development organizations (CBDO) to carry out a CDBG neighborhood revitalization, community economic development, or energy conservation projects, in accordance with 24 CFR 570.204. This could include activities in support of a HUD-approved local entitlement grantee, CDBG Neighborhood Revitalization Strategy (NRS) or HUD-approved State CDBG Community Revitalization Strategy (CRS);

(6) Public service activities such as those general support activities that can help to stabilize a neighborhood and contribute to sustainable redevelopment of the area, including but not limited to such activities as those concerned with employment, crime prevention, child care, health, drug abuse, education, fair housing counseling, energy conservation, homebuyer down payment assistance, or recreational needs; and

(7) Payments of reasonable grant administrative costs related to planning and execution of the project (e.g., preparation/submission of HUD reports). Detailed explanations of these costs are provided in the OMB circulars that can be accessed at the White House Web site, www.whitehouse.gov/omb/circulars/index.html.

b. Eligible activities that may be funded under this program are those eligible activities that meet both the Community Development Block Grant (CDBG) Program national objective and the CDBG eligibility requirements.

c. The three national objectives of the Community Development Block Grant program are:

(1) Benefit to low- or moderate-income persons;

(2) Aid in the prevention or elimination of slums or blight; and

(3) Meet other community development needs having a particular urgency because existing conditions pose a serious and immediate threat to the health and welfare of the community, and other financial resources are not available to meet such needs. Criteria for determining whether an activity addresses one or more objectives are provided at 24 CFR 570.208.

d. The CDBG publication entitled “Community Development Block Grant Program Guide to National Objectives and Eligible Activities for Entitlement Communities” describes the regulations, and a copy can be obtained from HUD's NOFA Information Center at 800-HUD-8929 or 800-HUD-2209 for the hearing-impaired.

2. Threshold Requirements Applicable to all Applicants

All applicants must comply with the threshold requirements as defined in the General Section of the SuperNOFA and the requirements listed below to be evaluated, rated, and ranked. Applications that do not meet these requirements will be considered ineligible for funding and will be disqualified:

a. The applicant must meet the eligibility requirements as defined in Section III.A. Eligible Applicants.

b. The maximum amount a Previously Unfunded or First Time HBCU applicant can request for award is $340,000. The maximum amount a Previously Funded HBCU applicant can request for award is $550,000.

c. No more than 15 percent of the total grant amount can be used for public service activities that benefit low- and moderate-income persons. Therefore, at least 85 percent of the grant amount requested must be used for activities qualifying under an eligibility category other than public services (as described at 24 CFR 570.201(e)). If an applicant proposes an activity that otherwise is eligible, it may not be funded if state or local law requires that it be carried out by a governmental entity.

d. Applicants must ensure that not less than 51 percent of the aggregated expenditures of the grant benefit low- and moderate-income persons under the criteria specified in 24 CFR 570.208(a) or 570.208(d)(5) or (6).

e. Institutions with two or more active HBCU grants who have drawn down less than 50 percent of the funding for each active grant three weeks prior to the program's application due date are ineligible to apply for a grant under this NOFA. It is the applicant's responsibility to make sure this requirement is met.

f. Only one application can be submitted per institution.

g. Applicants must receive a minimum score of 75 points to be considered for funding.

h. An applicant must have a DUNS number to receive HUD grant funds. (The General Section of the SuperNOFA provides information regarding the DUNS requirement).

3. Program Requirements

In addition to the program requirements listed in the General Section of the SuperNOFA, applicants must meet the following program requirements:

a. All funds awarded under this program must be spent during a three-year (36 months) grant performance period.

b. Applicants that claim leveraging from any source, including their own institution, must provide letters of firm commitment, memoranda of understanding, or agreements evidencing the extent and firmness of the commitment of leveraging from other federal (e.g., Department of Education, AmeriCorps Programs, etc.), state, local governments, and other private sources (including the applicant's own resources). These documents must be dated no earlier than the date of this published NOFA and follow the outline provided in Section V, Application Review Information, “Factor 4: Leveraging Resources” of this NOFA.

c. Site Control. Where grant funds will be used for acquisition, rehabilitation, or new construction an applicant must demonstrate site control. Funds may be recaptured or deobligated from applicants that cannot demonstrate control of a suitable site within one year after the initial notification of award.

d. Environmental Requirements. Selection for award does not constitute approval of any proposed sites. Following selection for award, HUD will perform an environmental review of activities proposed for assistance in accordance with 24 CFR part 50. The results of the environmental review may require that proposed activities be modified or proposed sites be rejected. Applicants are particularly cautioned not to undertake or commit funds for acquisition or development of proposed properties prior to HUD approval of specific properties or areas. An application constitutes an assurance that the institution will assist HUD to comply with part 50; will supply HUD with all available and relevant information to perform an environmental review for each proposed property; will carry out mitigating measures required by HUD or select alternate property; and will not acquire, rehabilitate, convert, demolish, lease, repair, or construct property, and not commit or expend HUD or local funds for these program activities with respect to any eligible property until HUD's written approval of the property is received. In supplying HUD with environmental information, applicants should use the same guidance as provided in the HUD Notice CPD-99-01 entitled “Field Environmental Review Processing for HUD Colonias Initiative (HCI) Grants” issued January 27, 1999.

The General Section of the SuperNOFA provides further discussion of the environmental requirements. Further information and assistance on HUD's environmental requirements is available at http://www.hud.gov/offices/cpd/energyenviron/environment/index.cfm.

e. Labor Standards. Institutions and their sub-grantees, contractors and subcontractors must comply with the labor standards (Davis-Bacon) requirements referenced in 24 CFR 570.603.

IV. Application and Submission Information

A. Addresses To Request Application Package

Applicants may request general information, copies of the General Section and Program Sections of the SuperNOFA from the NOFA Information Center 800-HUD-8929 or 800-HUD-2209 (TTY) between the hours of 9 a.m. and 8 p.m. (Eastern Time) Monday through Friday, except on federal holidays. When requesting information, please refer to the Historically Black Colleges and Universities Program. Be sure to provide your name, address (including zip code), and telephone number (including area code). To ensure sufficient time to prepare an application, requests for copies of the NOFA can be made immediately following publication of the SuperNOFA. The NOFA Information Center opens for business simultaneously with the publication of HUD's 2004 NOFA. Applicants can also obtain information on the SuperNOFA and download applications through the HUD Web site, http://www.hud.gov.

B. Content and Form of Application Submission

A complete application package must include an original signed application, three copies, and one computer disk of the application (in Word 6.0 or higher) of the items listed below. (The computer disk must include the narrative portion of the application, and all required forms. Forms can be downloaded from the following Web site http//:www.hud.gov.) In order to recycle paper, applications must not be submitted in bound form; binder clips or loose-leaf binders are acceptable. Please do not use colored paper. Applications must be submitted on 8½ by 11-inch paper, double-spaced on one side of the paper, with one-inch margins (from top, bottom, left and right) and printed in a standard Times New Roman 12-point font. Each page must include the applicant's name and be numbered. Each section must be tabbed sequentially. The application narrative, including tables, and maps, must not exceed 75 pages (excluding forms, budget narrative, assurances, commitment letters, memoranda of understanding, agreements and abstract). The double-spacing requirement applies to the application narrative (excluding the abstract, table, maps, budget narrative, commitment letters, memoranda of understanding and agreements). Please note that although submitting pages in excess of the page limit will not disqualify an application, HUD will not consider the information on any excess pages. This may result in a lower score or failure to meet a threshold requirement. Except where a particular form may direct otherwise, all forms included in an application, as well as the transmittal letter, must be signed by the Chief Executive Officer (this is generally the President or Provost) or an official authorized legally to make a commitment on behalf of the institution. If a designee signs, the application must contain a copy of the official designation of signatory authority.

Please include in your application each item in the order listed below:

1. SF-424, Application for Federal Assistance. Instructions for completing this form are found on the back of the first page of the form. Please remember the following:

a. The full grant amount (entire three-years) should be entered, not the amount for just one year;

b. Include the name, title, address, telephone number, facsimile number, and email address of the designated contact. This is the person who will receive the reviewers' comments; therefore, please ensure the accuracy of the information;

c. The Employer Identification/Tax ID number;

d. The DUNS Number;

e. The Catalog of Federal Domestic Assistance Number for this program is 14.520;

f. The project's proposed start date and completion date. For the purpose of this application, the program start date should be October 1, 2004; and

g. The signature of an authorized official (an individual who has the authority to make a binding commitment on behalf of the institution).

2. Transmittal Letter. The letter should contain a statement that the institution is an eligible applicant because it is a two-or four-year fully accredited institution. This letter should state the name of the accrediting agency, and that the accrediting agency is recognized by the U.S. Department of Education. Applicants can also use the transmittal letter as one way to demonstrate the President's commitment to the institutionalization of the program. The Chief Executive Officer (usually the President or Provost) of the institution must sign this letter. If the Chief Executive Officer has delegated this responsibility to another official, that person may sign, but a copy of the delegation of authority must be included or clearly stated in the letter.

3. Application Checklist. Applicants must include the completed checklist in their application. On the checklist, applicants must indicate the page number where each of the items can be found in the application (See Appendix A).

4. Abstract. Applicants must include no more than a two-page summary of the proposed project. Please include the following:

a. A clear description of the proposed project activities, the target population that will be assisted, and the impact this project will have on the institution;

b. The designated contact person, including phone number, facsimile number, and email address (This is the person who will receive the reviewers' comments; therefore, please ensure the accuracy of the information);

c. University's name, department, mailing address, telephone number, facsimile number, and email address; and

d. The principal investigator, if different from the designated contact person, for the project, including phone number, facsimile number, and email address.

5. Narrative statement addressing the Factors for Award. HUD will use the narrative response to the “Factors for Award” to evaluate, rate, and rank applications. The statement and work plan are the main source of information. Applicants are advised to review each factor carefully for program specific requirements. The response to each factor should be concise and contain only information relevant to the factor, but detailed enough to address each factor fully. Please do not repeat material in response to the five factors; instead, focus on how well the proposal responds to each of the factors. In factors where there are subfactors each subfactor must be presented separately, with the short title of the subfactor presented. Make sure to address each subfactor and provide sufficient information about every element of the subfactor.

6. Budget. The budget submission must be placed behind the narrative statement addressing the “Factors for Award” and include the following forms:

a. Budget Forms.

(1) HUD-424-CB, “Grant Application Detailed Budget.” This budget form shows the total budget by year and by line item for the program activities to be carried out with the proposed HUD grant. Each year of the program should be presented separately. Applicants must also submit this form to reflect the total cost for the entire grant performance period (Grand Total).

(2) HUD-40076-HBCU, “Response Sheet, Budget-By-Activity''—This form must be used to document the entire three-year grant performance period. The form should include a listing of tasks to be completed for each activity necessary to be performed to implement the program, the overall costs for each activity, and the cost from each funding source. The budget-by-activity should clearly indicate the HUD grant amount and identify the source and dollar amount of the leveraged funds, if any.

Make sure that the amount shown on the SF-424, HUD-424-CB, HUD-40076-HBCU forms and all other required program forms is consistent and the budget totals are correct. Remember to check addition in totaling the categories on all forms so that all items are included in the total. All budget forms must be completed in full. If an application is selected for award, the applicant may be required to provide greater specificity to the budget during grant agreement negotiations.

b. Budget Narrative. A narrative must be submitted that explains how the applicant arrived at the cost estimates for any line item over $5,000. For example, an applicant proposes to construct a building using HUD funding totaling $200,000. The following costs estimate reflects this total. Foundation cost $75,000, electrical work $40,000, plumbing work $40,000, finishing work $35,000, and landscaping $10,000. The proposed cost estimates should be reasonable for the work to be performed and consistent with rates established for the level of expertise required to perform the work proposed in the geographical area. When necessary, quotes from various vendors or historical data should be used and included. When an applicant proposes to use a consultant, the applicant must indicate whether there is a formal agreement or written procurement policy. For each consultant, please provide the name, if known, hourly or daily rate, and the estimated time on the project. Applicants must submit a cost estimate from a qualified firm (e.g., Architectural or Engineering), vendor, and/or qualified individual (e.g., independent architect) other than the institution for projects that involve rehabilitation of residential, commercial and/or industrial structures; and/or acquisition, construction, or installation of public facilities and improvements. Such an entity must be involved in the business of housing rehabilitation, construction and/or management. Equipment and contracts cannot be presented as a total estimated figure. For equipment, applicants must provide a list by type and cost for each item. Applicants using contracts must provide an individual description and cost estimate for each contract.

c. Indirect costs. Indirect costs, if applicable, are allowable based on an established approved indirect cost rate. Applicants should include a copy of their indirect cost rate agreement with their application. Applicants who are selected for funding that do not have an approved indirect cost rate agreement (established by the cognizant federal agency, Certified Public Account, or auditor) will be required to establish a rate. In such cases, HUD will issue an award with a provisional rate and enter into an agreement to have one established.

d. Audits. Applicants must ensure that their most current A-133 audit is on file at the Federal Audit Clearinghouse. Grantees that expend $500,000 or more in federal financial assistance in a single year (this can be program year or fiscal year) must be audited in accordance with the OMB requirements as established in 24 CFR parts 84 and 85. Additional information regarding this requirement at the following Web site: http:// harvester.census.gov/sac.

7. Appendix. Applicants must place all letters of commitment, memoranda of understanding and agreements for funds/resources in response to Factor 4 in this section. An applicant may not submit general support letters or resumes or other back-up materials (unless an applicant is willing to have the additional material count toward the page limits).

C. Submission Dates and Times

A complete application package is due on or before June 25, 2004. Please see the General Section of the SuperNOFA for application submission, delivery, and timely receipt requirements.

D. Intergovernmental Review

This program is excluded from an Intergovernmental Review.

E. Funding Restrictions

Ineligible CDBG Activities are listed at 24 CFR 570.207. Funding may only be provided to applicants that meet the standards for eligible applicants in Section III.A.

F. Other Submission Requirements

1. Complete Application Package

This package must be submitted to the following address: University Partnerships Clearinghouse; c/o Danya International; 8737 Colesville Road, Suite 1200; Silver Spring, MD 20910. When submitting an application package, also please include the following information on the outside of the envelope:

a. Office of University Partnerships;

b. Historically Black Colleges and Universities Program; and

c. Applicant's name and mailing address (including ZIP code).

Applicants must refer to the General Section of this SuperNOFA for detailed requirements governing application submission and receipt. Applicants must also send a copy of their application to the Directors of the Office of Community Planning and Development (CPD) in the appropriate HUD field office. The address for each field office is listed in the General Section of this NOFA.

2. Forms, Certifications, and Assurances

The following certifications and assurances must be included in all application packages. These forms must be signed by the Chief Executive Officer (or official designee) of the institution and can be downloaded from the HUD Web site at www.hud.gov.

a. Application for Federal Assistance (SF-424).

b. Applicant Assurances and Certifications (HUD-424-B).

c. Grant Application Detailed Budget (HUD-424-CB).

d. Disclosure of Lobbying Activities (SF-LLL).

e. America's Affordable Communities Initiative Removal of Regulatory Barriers (HUD-27300), if applicable.

f. Applicant/Recipient Disclosure/Update Report (HUD-2880).

g. Certification of Consistency with the Consolidated Plan (HUD-2991).

h. Certification of Consistency with the EZ/EC/RC Strategic Plan (HUD-2990). Must be signed by the certifying official of the EZ/EC/RC. The General Section of the SuperNOFA provides procedures and guidelines required to certify that proposed grant activities are being conducted in the EZ/EC/RC that serve the residents of these areas, and are certified to be consistent with the area's strategic plan.

i. Budget-By-Activity (HUD-40076-HBCU).

j. Response Sheet-Performance Narrative only (HUD 40076-HBCU).

k. Program Logic Model (HUD-96010).

l. Survey on Equal Opportunity (HUD-32004).

m. Acknowledgment of Receipt of Application (HUD-2993). To confirm that HUD has received the application package, please complete this form. Applicants are not required to include this form, but it is recommended that an applicant do so.

n. Client Comments and Suggestions (HUD-2994). This form is included to solicit information from the most valuable source, the applicant. The changes that we have instituted this year are designed to make things easier for the applicant. If applicants complete and submit this form, it will help us to assess whether the changes have had the intended results. It will also guide us in our continuing efforts to improve the competitive grant process. Applicants are not required to complete this form.

V. Application Review Information

A. Criteria

1. Rating Factor 1: Capacity of the Applicant and Relevant Organizational Experience (25 Points)

This factor addresses the extent to which the institution has the organizational resources necessary to successfully implement the proposed activities in a timely manner. In rating this factor, HUD will consider the extent to which the proposal demonstrates:

a. Knowledge and Experience—For Previously Unfunded or First Time Applicants (25 Points) For Previously Funded Applicants (10 Points). The knowledge and experience of the overall project director and staff, including the day-to-day program manager, consultants (including technical assistance providers), and contractors in planning and managing this kind of program. Experience will be judged in terms of recent and relevant knowledge and skills of the staff to undertake eligible program activities. HUD will consider experience within the last five years to be recent and experience pertaining to specific activities and producing specific accomplishments to be relevant. The following categories will be evaluated:

(1) Undertaking specific successful community development projects with community-based organizations or local governments; and

(2) Providing leadership in solving community problems that have a direct bearing on the proposed activities.

b. Past Performance (15 points) Previously Funded Grant Applicants Only. This subfactor will evaluate the extent to which an applicant has performed successfully under all previously completed and open HUD HBCU grant(s). Applicants must demonstrate this by providing the following information on the HUD-40076-HBCU—Response Sheet: (Performance Narrative only) for each HBCU grant they have received:

(1) A detailed list outlining the achievement of specific measurable objectives and outcomes consistent with the approved timeline/work plan in previous grants;

(2) Comparison of proposed leveraged funds and/or resources in a previous grant with what was actually leveraged; and

(3) A list of all HUD/HBCU grants received, including the dollar amount awarded and the amount expended as of the date of this application.

The HUD-40076-HBCU “Response Sheet” (Performance Narrative only) form is located in Appendix C at the end of this NOFA). The form should be filled out completely and placed under this section.

2. Rating Factor 2: Need/Extent of the Problem (10 Points)

This factor addresses the extent to which there is a need for funding the proposed program activities and an indication of the importance of meeting the need(s) in the target area. The need(s) described must be relevant to the activities for which funds are being requested. The proposal will be evaluated on the extent to which the level of need for the proposed activities and the importance of meeting the need(s) are documented.

Applicants must use statistics or other analyses contained in at least one or more current data sources that are sound and reliable. The data provided must be current and specific to the area where the proposed project activities will be carried out. Sources for localized data can be found at www.ffiec.gov or www.econdata.com.

In rating this factor, HUD will consider data collected within the last five years to be current. To the extent that the targeted community's Five Year Consolidated Plan and Analysis of Impediments to Fair Housing Choice (AI) identify the level of the problem and the urgency in meeting the need, applicants should include references to these documents in response to this factor.

If the proposed activities are not covered under the scope of the Consolidated Plan and Analysis of Impediments to Fair Housing Choice (AI), indicate this clearly in the proposal and use other sound data sources to identify the level of need and the urgency in meeting the need. Other reliable data sources include, but are not limited to Census reports, HUD Continuum of Care gap analysis and its E-MAP (http://www.hud.gov/emaps), law enforcement agency crime reports, Public Housing Agencies' Comprehensive Plans, community needs analyses such as provided by the United Way, the applicant's institution, and other sound and reliable sources. Needs in terms of fulfilling court orders or consent decrees, settlements, conciliation agreements, and voluntary compliance agreements may also be addressed.

3. Rating Factor 3: Soundness of Approach (45 Points)

This factor addresses the quality and effectiveness of the proposed work plan, the commitment of the institution to sustain the proposed activities, and actions regarding HUD's priorities, goals and objectives, and affirmatively furthering fair housing.

This factor will be evaluated based on the extent to which the proposed work plan demonstrates the following:

a. (35 Points) Quality of the Work Plan. This subfactor will be evaluated on the extent to which an applicant provides a clear outline of the proposed project and anticipated accomplishments.

(1) Specific Services and/or Activities. The work plan must describe all proposed activities and major tasks required to successfully implement the proposed project. HUD will consider the probability of success of the program, the significance of the tasks identified, how realistic are the proposed time frames, and who will be responsible for completing each proposed activity.

(a) Describe each proposed activity and the task required to successfully implement and complete the proposed activities in measurable terms (e.g., the number of persons to be trained and employed; houses to be rehabilitated; or minority-owned businesses to be started, etc.);

(b) For each activity describe how the activity meets a CDBG national objective;

(c) Include target completion dates for each activity/task (in 6-month intervals, up to thirty-six (36) months); and

(d) Identify the staff member, as described in Factor 1, who will be responsible for completing each activity/task.

(2) Describe how each proposed activity will:

(a) Expand the role of the institution in its community;

(b) Alleviate and/or fulfill the needs identified in Factor 2;

(c) Relate to and not duplicate other activities in the target area. Duplicative effort will be acceptable only if an applicant can demonstrate through documentation that there is a population in need that is not being served; and

(d) Involve and empower citizens of the target area of the proposed project (particularly through a committee that is representative of the target community).

b. (2 Points) Involvement of the Faculty and Students. The applicant must describe the extent to which it proposes to integrate the institution's students and faculty into proposed project activities.

c. (3 Points) HUD Policy Priorities. HUD encourages applicants to undertake specific activities that will assist the Department in implementing its policy priorities and which will help the Department achieve its goals and objectives in FY2005, when the majority of grant recipients will be reporting programmatic results and achievements. In addressing this subfactor, HUD will evaluate the extent to which a program will further and support HUD's priorities. The quality of the responses provided to one or more of HUD's priorities will determine the score an applicant can receive. Applicants must describe how each policy priority selected will be addressed. Applicants that just list a priority will receive no points. Each policy priority addressed has a point value of one point with the exception of the policy priority to remove regulatory barriers to affordable housing, which has a point value of up to 2 points. The total number of points available to applicants that address policy priorities is 3. It is up to the applicant to determine which of the policy priorities they elect to address to receive the available 3 points. To receive points for efforts to remove regulatory barriers to affordable housing, an applicant must submit the completed questionnaire found in the General Section (Form HUD-27300). For the full list and explanation of each policy priority, please refer to the General Section of this SuperNOFA.

d. (5 Points) Affirmatively Furthering Fair Housing. This subfactor will be evaluated on the extent to which an applicant describes how it proposes to undertake activities designed to affirmatively further fair housing, for example:

(1) Working with other entities in the community to overcome impediments to fair housing, such as discrimination in the sale or rental of housing or in advertising, provision of brokerage services or lending;

(2) Promoting fair housing choice through the expansion of homeownership opportunities and improved quality of services for minorities, families with children, and persons with disabilities; or

(3) Providing housing mobility counseling services.

4. Rating Factor 4: Leveraging Resources (10 Points)

This factor addresses the ability of the applicant to secure resources that can be combined with HUD's grant funds to achieve the program's purpose.

In evaluating this factor, HUD will consider the extent to which the applicant established partnerships with other entities to secure additional resources to increase the effectiveness of the proposed project activities. Resources may include funding or in-kind contributions, such as services or equipment, allocated to the purpose(s) of the grant. Resources may be provided by governmental entities, public or private nonprofit organizations, for-profit private organizations, or other entities. Applicants may also establish partnerships with other program funding recipients to coordinate the use of resources in the target area. Overhead and other institutional costs (e.g., salaries, indirect costs, etc.) that the institution has waived may be counted. Examples of potential sources for outside assistance include:

• Federal, state, and local governments.

• Public Housing Agencies.

• Local or national nonprofit organizations.

• Financial Institutions and/or private businesses.

• Foundations.

• Faith-based and other community-based organizations.

For each cash or in-kind contribution to the program a letter of commitment, memorandum of understanding, or agreement must be provided that shows the extent and firmness of the commitment of leveraged funds (including any commitment of resources from the applicant's own institution) in order for these resources to count in determining points under this factor. Resources will not be counted for which there is no commitment letter, memorandum of understanding, or agreement, nor quantified level of commitment. Letters, memoranda of understanding, or agreements must be submitted from the provider on the provider's letterhead and be included with the application package (Applicants must place all letters, memoranda of understanding, or agreements in the Appendix). The date of the letter, memorandum of understanding, or agreement from the CEO of the provider organization must be dated no earlier than the date of this published SuperNOFA. Applications that do not include evidence of leveraging as described below will receive zero (0) points for this Factor.

a. A firm commitment letter, memorandum of understanding, or agreement must address the following:

(1) The cash amount contributed or dollar value of the in-kind goods and/or services committed;

(2) A specific description of how each contribution is to be used;

(3) The date the contribution will be made available and a statement that describes the duration of the contribution;

(4) Any terms or conditions affecting the commitment, other than receipt of a HUD grant; and

(5) The signature of the appropriate executive officer authorized to commit the funds and/or goods and/or services. Please remember that only items eligible for funding under this program can be considered.

5. Rating Factor 5: Achieving Results and Program Evaluation (10 Points)

This factor reflects HUD's goal to embrace high standards of management and accountability. It measures the applicant's commitment to assess their performance to achieve the program's proposed objectives and goals. Applicants are required to develop an effective, quantifiable, outcome oriented evaluation plan for measuring performance and determining that objectives and goals have been achieved.

“Outcomes” are benefits accruing to institutions of higher education and/or communities during or after participation in the HBCU program. Applicants must clearly identify the outcomes to be measured and achieved. Examples of outcomes include increased employment opportunities in the target community by a certain percentage, increased incomes/wages or other assets for persons trained, or enhanced family stability through the creation of affordable housing opportunities (e.g., increased assets to families and communities through the development of affordable housing).

In addition, applicants must establish interim benchmarks and outputs that lead to the ultimate achievement of outcomes. “Outputs” are the direct products of the program's activities. Examples of outputs are the number of new affordable housing units, the number of homes that have been renovated, the number of facilities that been constructed or rehabilitated. Outputs should produce outcomes for the program. At a minimum, an applicant must address the following activities in the evaluation plan:

a. Measurable objectives to be accomplished (e.g., the number of persons to be trained and employed; houses to be built pursuant to 24 CFR 570.207 or rehabilitated; minority-owned businesses to be started);

b. Measurable impacts the grant will have on the community in general and the target area or population; and

c. The impact the grant will have on assisting the university to obtain additional resources to continue this type of work at the end of the grant performance period.

This information must be placed under this section on a HUD-96010, Program Outcome Logic Model form. (Applicants may use as many copies of this form as required. It will not be included in the page count requirement.) A narrative is not required; however, if a narrative is provided, those pages will be included in the page count. Additional information on this form and how to use it can be found in the General Section of the SuperNOFA.

B. Review and Selection Process

1. Application Selection Process

Two types of reviews will be conducted:

a. A threshold review to determine an applicant's basic eligibility; and

b. A technical review for all applications that pass the threshold review to rate and rank the application based on the “Factors for Award” listed in Section V.A.

Only those applications that pass the threshold review will receive a technical review and be rated and ranked.

2. Rating Panels

To review and rate applications HUD may establish panels which may include experts or consultants not currently employed by HUD. These individuals may be included to obtain certain expertise.

3. Ranking

HUD will fund applications in rank order, until all available program funds are awarded. In order to be funded, an applicant must receive a minimum score of 75 points out of a possible 100 points for Factors 1 through 5. In addition, two bonus points may be awarded for RC/EZ/EC, as described in the General Section of the SuperNOFA. If two or more applications have the same number of points, the application with the most points for Factor 3, Soundness of Approach, shall be selected. If there is still a tie, the application with the most points for Factor 1, Capacity of the Applicant and Relevant Organizational Experience shall be selected. HUD reserves the right to make selections out of rank order to provide for geographic distribution of grantees. HUD also reserves the right to reduce the amount of funding requested in order to fund as many highly ranked applications as possible. Additionally, if funds remain after funding the highest ranked applications, HUD may fund part of the next highest-ranking application. If an applicant turns down the award offer, HUD will make the same determination for the next highest-ranking application. If funds remain after all selections have been made, the remaining funds will be carried over to the next funding cycle competition.

4. Correction to Deficient Applications

The General Section of the SuperNOFA provides the procedures for correction to deficient applications.

C. Anticipated Announcement and Award Dates

Announcements of awards are anticipated on or before September 30, 2004.

VI. Award Administration Information

A. Award Notice

After all selections have been made, HUD will notify all winning applications in writing. HUD may require winning applicants to participate in additional negotiations before receiving an official award. For further discussion on this matter, please refer to the General Section of the SuperNOFA.

B. Administrative and National Policy Requirements

The provisions of the HUD Reform Act of 1989 that apply to this NOFA are explained in the General Section of the SuperNOFA.

1. Debriefing

The General Section of the SuperNOFA provides the procedures for requesting a debriefing. All requests for debriefings must be made in writing and submitted to: Armand Carriere; Office of University Partnerships; Robert C. Weaver Federal Building; 451 Seventh Street, SW., Room 8106; Washington, DC 20410. Applicants may also write to Mr. Carriere via email at Armand_W._Carriere@hud.gov.

2. Administrative

Grants awarded under this NOFA will be governed by the provisions of 24 CFR part 84 (Grants and Agreements with Institutions of Higher Education, Hospitals and Other Non-Profit Organizations), A-21 (Cost Principles for Education Institutions) and A-133 (Audits of States, Local Governments, and Non-Profit Organizations). Applicants can access the OMB circulars at the White House Web site at www.whitehouse.gov/omb/circulars/index.html.

3. OMB Circulars and Governmentwide Regulations Applicable to Financial Assistance Programs

The General Section of the SuperNOFA provides discussion of OMB circulars and governmentwide regulation.

4. Executive Order 13202, Preservation of Open Competition and Government Neutrality Towards, Government Contractor's Labor Relations on Federal and Federally Funded Construction Projects

See the General Section of the SuperNOFA for further discussion.

5. Economic Opportunities for Low- and Very Low-Income Persons (Section 3)

The provisions of Section 3 of the Housing and Urban Development Act of 1968 (12 U.S.C. 1701u) apply to this NOFA. Regulations may be found at 24 CFR part 135.

6. Conflicts of Interest

See the General Section of the SuperNOFA for further discussion.

C. Reporting

All grant recipients under this NOFA are required to submit semi-annual progress reports. The progress reports shall consist of two components, a narrative that must reflect the activities undertaken during the reporting period and a financial report that reflects costs incurred during the reporting as well as a cumulative summary.

For each reporting period, as part of the required report to HUD, grant recipients must include a completed Logic Model (Form HUD-96010), which identifies output and outcome achievements.

VII. Agency Contacts

Applicants may contact Ophelia Wilson at (202) 708-3061, extension 4390 or Susan Brunson at (202) 708-3061, extension 3852. Persons with speech or hearing impairments may call the Federal Information Relay Service (TTY) at (800) 877-8339. Except for the “800” number, these numbers are not toll-free. Applicants may also reach Ms. Wilson via email at Ophelia_Wilson@hud.gov, and/or Ms. Brunson at Susan_S._Brunson@hud.gov.

VIII. Other Information

Paperwork Reduction Act

The information collection requirements contained in this document have been approved by the Office of Management and Budget (OMB) under the Paperwork Reduction Act of 1995 (44 U.S.C. 3501-3520) and assigned OMB control number 2528-0122. In accordance with the Paperwork Reduction Act, HUD may not conduct or sponsor, and a person is not required to respond to, a collection of information unless the collection displays a currently valid OMB control number. Public reporting burden for the collection of information is estimated to average 356 hours per annum per respondent for the application and grant administration. This includes the time for collecting, reviewing, and reporting the data for the application, quarterly, semi-annual and final reports. The information will be used for grantee selection and monitoring the administration of funds. Response to this request for information is required in order to receive the benefits to be derived.

Appendix C

Historically Black Colleges and Universities, Previously Unfunded By HUD During Fiscal Years 1991-2003

Alabama

Concordia College

Selma University

Trenholm State Technical College

Florida

Florida Memorial College

Georgia

Morehouse School of Medicine

Paine College

Maryland

University of Maryland Eastern Shore

Michigan

Lewis College of Business

Mississippi

Mary Holmes College

Ohio

Wilberforce University

Pennsylvania

Cheyney University of Pennsylvania

South Carolina

Clinton Junior College

Denmark Technical College

Morris College

Tennessee

Knoxville College

Texas

Southwestern Christian College

Historically Black Colleges and Universities, Previously Funded By HUD During Fiscal Years 1991-2003

Alabama

Alabama A&M University

Alabama State University

Bishop State Community College

Gadsden State Community College

J.F. Drake Technical College

Lawson State Community College

Miles College

Oakwood College

Stillman College

Talladega College

Tuskegee University

C.A. Fredd Technical College

Arkansas

Arkansas Baptist College

Philander Smith College

Shorter College

University of Arkansas at Pine Bluff

Delaware

Delaware State University

District of Columbia

Howard University

University of the District of Columbia

Florida

Bethune-Cookman College

Edward Waters College

Florida A&M University

Georgia

Albany State University

Clark Atlanta University

Fort Valley State University

Interdenominational Theological Center

Morehouse College

Morris Brown College

Savannah State University

Spelman College

Kentucky

Kentucky State University

Louisiana

Dillard University

Grambling State University

Southern University A & M College System at Baton Rouge

Southern University at Shreveport

Southern University at New Orleans

Xavier University of New Orleans

Maryland

Bowie State University

Coppin State College

Morgan State University

Mississippi

Alcorn State University

Coahoma Community College

Jackson State University

Mississippi Valley State University

Rust College

Tougaloo College

Hinds Community College

Missouri

Harris-Stowe State College

Lincoln University

North Carolina

Barber-Scotia College

Bennett College

Elizabeth City State University

Fayetteville State University

Johnson C. Smith University

North Carolina A&T State University

North Carolina Central University

St. Augustine's College

Shaw University

Winston Salem State University

Ohio

Central State University

Oklahoma

Langston University

Pennsylvania

Lincoln University

South Carolina

Allen University

Benedict College

Claflin College

South Carolina State University

Voorhees College

Tennessee

Fisk University

Lemoyne-Owen College

Meharry Medical College

Tennessee State University

Lane College

Texas

Huston-Tillotson College

Jarvis Christian College

Paul Quinn College

Prairie View A&M University

Saint Philip's College

Texas Southern University

Texas College

Wiley College

Virginia

Hampton University

Norfolk State University

Saint Paul's College

Virginia State University

Virginia Union University

West Virginia

West Virginia State University

Bluefield State College

U.S. Virgin Islands

University of the Virgin Islands

BILLING CODE 4210-32-P

The Hispanic-Serving Institutions Assisting Communities (HSIAC) Program

Overview Information

A. Federal Agency Name: Department of Housing and Urban Development, Office of Policy Development and Research, Office of University Partnerships.

B. Funding Opportunity Title: Hispanic-Serving Institutions Assisting Communities (HSIAC) Program.

C. Announcement Type: Initial announcement.

D. Funding Opportunity Numbers: The Federal Register Number for this NOFA is FR-4900-24. The OMB Approval Number for this program is 2528-0198.

E. Catalog of Federal Domestic Assistance (CFDA) Number: The CDFA Number for this program is 14.514.

F. Dates: The application due date is June 25, 2004. Please see the General Section of the SuperNOFA for application submission, delivery and timely receipt requirements.

G. Additional Overview Content Information:

1. Purpose of the Program: The Hispanic-Serving Institutions Assisting Communities (HSIAC) Program assists Hispanic-Serving Institutions (HSI) of higher education expand their role and effectiveness in addressing community development needs in their localities, including neighborhood revitalization, housing, and economic development, principally for persons of low- and moderate-income, consistent with the purposes of Title I of the Housing and Community Development Act of 1974, as amended.

2. Award Information: In Fiscal Year (FY) 2004, approximately $6.95 million has been appropriated for this program by the Consolidated Appropriations Act, 2004 (Pub.L. 108-199; approved January 23, 2004; 118 Stat. 3). The maximum amount an applicant can request for award is $600,000 for a three-year (36 months) grant performance period.

3. Eligible Applicants: Nonprofit Hispanic-Serving Institutions of higher education that meet the definition of an HSI established in Title V of the 1998 Amendments to the Higher Education Act of 1965 (Pub. L. 105-244; enacted October 7, 1998) are eligible to apply for funding under this program. In order to meet this definition, at least 25 percent of the full-time undergraduate students enrolled in an institution must be Hispanic and not less than 50 percent of these Hispanic students must be low-income individuals. Institutions are not required to be on the list of eligible HSIs prepared by the U.S. Department of Education. However, an institution that is not on the list is required to provide a statement in the application that the institution meets the U.S. Department of Education's statutory definition of an HSI. HUD intends to fund at least two eligible HSIAC applications (applications that received a minimum score of 75 points) that serve Colonias (as defined in the General Section of this SuperNOFA). While it is not necessary for the institution to be located in a Colonias, all program activities must be directed to the Colonias and its residents. If less than two fundable applications are eligible for award these funds will be made available to award additional HSIAC grants.

Full Text of Announcement

I. Funding Opportunity Description

The purpose of the Hispanic Serving Institutions Assisting Communities (HSIAC) Program is to assist Hispanic Serving Institutions (HSI) of higher education expand their role and effectiveness in addressing community development needs in their localities, including neighborhood revitalization, housing and economic development, principally for persons of low- and moderate-income consistent with the purpose of the Title I of the Housing and Community Development Act of 1974, as amended.

A. For the purpose of this program, the term “locality” includes any city, county, township, parish, village, or other general political subdivision of a state, Puerto Rico, or the U.S. Virgin Islands where the institution is located.

B. A “target area” is the area within the locality in which the institution will implement its proposed HSIAC grant.

C. Listed below are major modifications from the Fiscal Year (FY) 2003 program-funding announcement:

1. This program has a separate NOFA and is no longer a part of the combined Office of Universities Partnerships Program NOFA;

2. All applications must be submitted to: University Partnerships Clearinghouse; c/o Danya International; 8737 Colesville Road, Suite 1200; Silver Spring, MD 20910;

3. Points will no longer be assigned to the budget. However, a budget narrative must be submitted that addresses the total dollar amount reflected on the HUD-424-CB for the entire three-year grant performance period; and

4. Applicants must have drawn down at least 75 percent of the previous grant three weeks prior (not two weeks as stated in the FY 02 NOFA) to the program's application due date to be eligible to apply for funding under this NOFA. It is the applicant's responsibility to make sure this requirement is met.

D. HUD's authority for making this funding available under this NOFA is the Consolidated Appropriations Act, 2004 (Pub. L. 108-199, approved January 23, 2004, 118 Stat. 3). This program is being implemented through this NOFA and the policies governing its operation are contained herein.

II. Award Information

In Fiscal Year (FY) 2004, approximately $6.95 million has been appropriated by the Consolidated Appropriations Act, 2004 (Pub. L. 108-199, January 23, 2004, 118 Stat. 3). The maximum amount an applicant can request for award is $600,000 for a three-year (36 months) grant performance period.

III. Eligibility Information

A. Eligible Applicants

Nonprofit Hispanic-serving institutions of higher education that meet the definition of an HIS of higher education established in Title V of the 1998 Amendments to the Higher Education Act of 1965 (Pub. L. 105-244; enacted October 7, 1998) are eligible to apply for funding under this program. In order to meet this definition, at least 25 percent of the full-time undergraduate students enrolled in an institution must be Hispanic and not less than 50 percent of these Hispanic students must be low-income individuals. Institutions are not required to be on the list of eligible HSIs prepared by the U.S. Department of Education. However, an institution that is not on the list is required to provide a statement in the application that the institution meets the U.S. Department of Education's statutory definition of an HSI. HUD intends to fund at least two eligible HSIAC applications that serve Colonias (as defined in the General Section of the SuperNOFA). While it is not necessary for the institution to be located in a Colonias, all program activities must be directed to the Colonias and its residents. If fewer than two applications are eligible for award these funds will be made available to award additional HSIAC grants.

B. Cost Sharing or Matching

None Required.

C. Other

1. Eligible Activities

Eligible activities are listed in 24 CFR part 570, subpart C, particularly 570.201 through 570.206. Information regarding these activities can be found at: www.hudclips.org.

a. Examples of eligible activities include, but are not limited to:

(1) Acquisition of real property;

(2) Clearance and demolition;

(3) Rehabilitation of residential structures including lead-based paint hazard evaluation and reduction; and encouraging accessible design features in accordance with the requirements of section 504 of the Rehabilitation Act of 1973;

(4) Facilities and improvements, such as water and sewer facilities and streets; including lead-based paint hazard evaluation and reduction; and encouraging compliance accessible with the design and construction requirements of Section 504 of the Rehabilitation Act of 1973 and the Fair Housing Act;

(5) Relocation payments and other assistance for permanently and temporarily relocated individuals, families, businesses, nonprofit organizations, and farm operations where the assistance is:

(a) Required under the provisions of 24 CFR 570.606(b) or (c); or

(b) Determined by the grantee to be appropriate under the provisions of 24 CFR 570.606(d);

(6) Direct homeownership assistance to low- and moderate-income persons, as provided in section 105(a)(25) of the Housing and Community Development Act of 1974;

(7) Special economic development activities described at 24 CFR 570.203 and assistance to facilitate economic development by providing technical or financial assistance for the establishment, stabilization, and expansion of microenterprises, including minority enterprises;

(8) Assistance to community-based development organizations (CBDO) to carry out a CDBG neighborhood revitalization, community economic development, or energy conservation project, in accordance with 24 CFR 570.204. This could include activities in support of a HUD-approved local entitlement grantee, CDBG Neighborhood Revitalization Strategy (NRS) or HUD-approved State CDBG Community Revitalization Strategy (CRS);

(9) Public service activities such as general support activities that can help to stabilize a neighborhood and contribute to sustainable redevelopment of the area, including but not limited to such activities as those concerned with employment, crime prevention, child care, health, drug abuse, education, fair housing counseling, energy conservation, homebuyer down payment assistance, or recreational needs;

(10) Up to 20 percent of the grant for payments of reasonable grant administrative costs related to planning and execution of the project (e.g., preparation/submission of HUD reports). Detailed explanations of these costs are provided in the OMB circulars that can be accessed at the White House Web site at: www.whitehouse.gov/omb/circulars/index.html;

(11) Fair housing services designed to further the fair housing objectives of the Fair Housing Act (42 U.S.C. 3601-20) by making all persons, without regard to race, color, religion, sex, national origin, familial status and/or disability aware of the range of housing opportunities available to them; and

(12) Activities designed to promote training and employment opportunities (e.g., Neighborhood Networks in federally assisted or insured housing and employment opportunities for lower income persons in connection with Assisted Projects).

b. Eligible activities that may be funded under this program are those activities that meet both a Community Development Block Grant (CDBG) Program national objective and the CDBG eligibility requirements.

c. The three national objectives of the Community Development Block Grant program are:

(1) Benefit to low- or moderate-income persons;

(2) Aid in the prevention or elimination of slums or blight; and

(3) Meet other community development needs having a particular urgency because existing conditions pose a serious and immediate threat to the health and welfare of the community, and other financial resources are not available to meet such needs. Criteria for determining whether an activity addresses one or more of these objectives are provided at 24 CFR 570.208.

d. The CDBG publication entitled “Community Development Block Grant Program Guide to National Objectives and Eligible Activities for Entitlement Communities” describes the regulations, and a copy can be obtained from HUD's NOFA Information Center at 800-HUD-8929 or 800-HUD-2209 for the hearing-impaired.

2. Threshold Requirements Applicable to All Applicants

All applicants must comply with the threshold requirements as defined in the General Section of the SuperNOFA and the requirements listed below to be evaluated, rated, and ranked.

Applications that do not meet these requirements will be considered ineligible for funding and will be disqualified:

a. The applicant must meet the eligibility requirements as defined in Section III.A, Eligible Applicants.

b. The maximum amount an applicant can request for award is $600,000.

c. In order to meet the definition of a HSIAC, at least 25 percent of the full-time undergraduate student enrolled in an institution must be Hispanic and not less than 50 percent of these Hispanic students must be low-income individuals.

d. Applicants must ensure that not less than 51 percent of the aggregated expenditures of a grant benefit low- and moderate-income persons under the criteria specified in 24 CFR 570.208(a) or 570.208(d)(5) or (6).

e. An individual campus that is one of several campuses of the same institution may apply separately from the other campus as long as the applicant's campus has a separate administrative and budget structure.

f. Only one application can be submitted per campus.

g. Institutions that received an HSIAC grant in FY2003 are not eligible to submit an application under this NOFA. If an institution received an HSIAC grant in FY2000, FY2001, or FY2002, the institution may apply under this NOFA as long as it: (a) Propose a different activity (activities) in their current project location, or propose replicating their current project in a new location and (b) have drawn down at least 75 percent of the previous grant three-weeks prior to this program's application due date. It is the applicant's responsibility to make sure that this requirement is met.

h. Applicants must receive a minimum score of 75 points to be considered for funding.

i. An applicant must have a DUNS number to receive HUD grant funds. (The General Section of the SuperNOFA provides information regarding the DUNS requirement.)

3. Program Requirements

In addition to the program requirements listed in the General Section of this SuperNOFA, applicants must meet the following program requirements:

a. All funds awarded under this program must be spent during a three-year (36 months) grant performance period.

b. Applicants that claim leveraging from any source, including their own institution, must provide letters of firm commitment, memoranda of understanding, or agreements evidencing the extent and firmness of commitment of leveraging from other federal (e.g., Department of Labor, AmeriCorps Programs), state, local, and other private sources (including the applicant's own resources). These documents must be dated no earlier than the date of this published NOFA and follow the outline provided for this program in Section V, Application Review Information “Factor 4: Leveraging Resources” of this NOFA.

c. Site Control. Where grant funds will be used for acquisition, rehabilitation, or new construction an applicant must demonstrate site control. Funds may be recaptured or deobligated from applicants that cannot demonstrate control of a suitable site within one year after the initial notification of award.

d. Environmental Requirements. Selection for award does not constitute approval of any proposed sites. Following selection for award, HUD will perform an environmental review of activities proposed for assistance in accordance with 24 CFR part 50. The results of the environmental review may require that proposed activities be modified or proposed sites be rejected. Applicants are particularly cautioned not to undertake or commit funds for acquisition or development of proposed properties prior to HUD approval of specific properties or areas. An application constitutes an assurance that the institution will assist HUD to comply with part 50; will supply HUD with all available and relevant information to perform an environmental review for each proposed property; will carry out mitigating measures required by HUD or select alternate property; and will not acquire, rehabilitate, convert, demolish, lease, repair, or construct property, and not commit or expend HUD or local funds for these program activities with respect to any eligible property until HUD's written approval of the property is received. In supplying HUD with environmental information, applicants should use the same guidance as provided in the HUD Notice CPD-99-01 entitled “Field Environmental Review Processing for HUD Colonias Initiative (HCI) Grants” issued January 27, 1999. The General Section of the SuperNOFA provides further discussion of the environmental requirements. Further information and assistance on HUD's environmental requirements is available at: http://www.hud.gov/offices/cpd/energyenviron/environment/index.cfm.

e. Labor Standards. Institutions and their sub-grantees, contractors, and subcontractors must comply with the labor standards (Davis-Bacon) requirements referenced in 24 CFR 570.603.

IV. Application and Submission Information

A. Addresses To Request Application Package

Applicants may request general information, copies of the General Section, and Program Sections of the SuperNOFA from the NOFA Information Center by calling 800-HUD-8929 or 800-HUD-2209 (TTY) between the hours of 9 a.m. and 8 p.m. (Eastern Time) Monday through Friday, except on federal holidays. When requesting information, please refer to the Hispanic-Serving Institutions Assisting Communities Program. Be sure to provide your name, address (including ZIP code), and telephone number (including area code). To ensure sufficient time to prepare an application, requests for copies of this NOFA can be made immediately following publication of the SuperNOFA. The NOFA Information Center opens for business simultaneously with the publication of HUD's 2004 NOFA. Applicants can also obtain information on this SuperNOFA and download application information for this SuperNOFA through the HUD Web site, www.hud.gov.

B. Content and Form of Application Submission

A complete application package must include an original signed application, three copies, and one computer disk of the application (in Word 6.0 or higher) of the items listed below. (The computer disk must include the narrative portion of the application and all required forms. Forms can be downloaded from the Web site, http//:www.hud.gov.) In order to recycle paper, applications must not be submitted in bound form; binder clips or loose-leaf binders are acceptable. Please do not use colored paper. Applications must be submitted on 8½ by 11-inch paper, double-spaced on one side of the paper, with one-inch margins (from top, bottom, left and right) and printed in a standard Times New Roman 12-point font. Each page must include the applicant's name and be numbered. Each section must be tabbed sequentially. The application narrative, tables, and maps, must not exceed 75 pages (excluding forms, budget narrative, assurances, commitment letters, memoranda of understanding, agreements, and abstract). The double-spacing requirement applies to the application narrative (excluding the abstract, tables, maps, budget narrative, commitment letters, memoranda of understanding, and agreements). Please note that although submitting pages in excess of the page limit will not disqualify an application, HUD will not consider the information on any excess pages. This may result in a lower score or failure to meet a threshold requirement. Except where a particular form may direct otherwise, all forms included in an application, as well as the transmittal letter, must be signed by the Chief Executive Officer (this is generally the President or Provost) or an official authorized legally to make a commitment on behalf of the institution. If a designee signs, the application must contain a copy of the official designation of signatory authority.

Please include in your application each item in the order listed below:

1. SF-424, Application for Federal Assistance. Instructions for completing this form are found on the back of the first page of the form. Please remember the following:

a. The full grant amount (entire three years) should be entered, not the amount for just one year;

b. Include the name, title, address, telephone number, facsimile number, and email address of the designated contact. This is the person who will receive the reviewers' comments; therefore, please ensure the accuracy of the information;

c. The Employer Identification/Tax ID;

d. The DUNS Number;

e. The Catalog of Federal Domestic Assistance Number for this program is 14.514;

f. The project's proposed start date and completion date. For the purpose of this application, the program start date should be October 1, 2004; and

g. The signature of an authorized official (an individual who has the authority to make a binding commitment on behalf of the institution).

2. Transmittal Letter. The letter must contain a statement that the institution is an eligible institution because it is a two-or four-year fully accredited institution. The letter should state the name of the accrediting agency, and that the accrediting agency is recognized by the U.S. Department of Education. Applicants may also use the transmittal letter as one way to demonstrate the President's commitment to the institutionalization of the program. The Chief Executive Officer (usually the President or Provost) of the institution must sign this letter. If the Chief Executive Officer has delegated this responsibility to another official, that person may sign, but a copy of the delegation of authority must be included or clearly stated in the letter.

3. Application Checklist. Applicants must include the completed checklist in their application. On the checklist, the applicant must indicate the page number where each of the items can be found in the application (See Appendix A).

4. Abstract. Applicants must include no more than a two-page summary of the proposed project. Please include the following:

a. A clear description of the proposed project activities, the target population that will be assisted, and the impact this project will have on the institution;

b. The designated contact person, including phone number, facsimile number, and email address (This is the person who will receive the reviewers' comments; therefore, please ensure the accuracy of the information);

c. University's name, department, mailing address, telephone number, facsimile number, and email address; and

d. The principal investigator, if different from the designated contact person, for the project, including phone number, facsimile number, and email address.

5. Narrative statement addressing the Factors for Award. HUD will use the narrative response to the “Factors for Award” to evaluate, rate, and rank applications. The statement and work plan are the main source of information. Applicants are advised to review each factor carefully for program specific requirements. The response to each factor should be concise and contain only information relevant to the factor, but detailed enough to address each factor fully. Please do not repeat material in response to the five factors; instead, focus on how well the proposal responds to each of the factors. In factors where there are subfactors, each subfactor must be presented separately, with the short title of the subfactor presented. Make sure to address each subfactor and provide sufficient information about every element of the subfactor.

6. Budget. The budget submission must be placed behind the narrative statement addressing the “Factors for Award” and include the following form:

a. HUD-424-CB, “Grant Application Detailed Budget.” This budget form shows the total budget by year and by line item for the program activities to be carried out with the proposed HUD grant. Each year of the program should be presented separately. Applicants must also submit this form to reflect the total cost for the entire grant performance period (Grand Total).

Make sure that the amount shown on the SF-424, the HUD-424-CB, and on all other required program forms is consistent and the budget totals are correct. Remember to check addition in totaling the categories on the HUD-424-CB form so that all items are included in the total. If there is an inconsistency between any of the forms required, the HUD-424-C will be used. All budget forms must be completed in full. If an application is selected for award, the applicant may be required to provide greater specificity to the budget during grant agreement negotiations.

b. Budget Narrative. A narrative must be submitted that explains how the applicant arrived at the cost estimates for any line item over $5,000. For example, an applicant proposes to construct a building using HUD funding totaling $200,000. The following costs estimate reflects this total. Foundation cost $75,000, electrical work $40,000, plumbing work $40,000, finishing work $35,000, and landscaping $10,000. The proposed cost estimates should be reasonable for the work to be performed and consistent with rates established for the level of expertise required to perform the work proposed in the geographical area. When necessary, quotes from various vendors or historical data should be used and included. All direct labor or salaries must be supported with mandated city/state pay scales, the Davis-Bacon rate, (if applicable) or other documentation. When an applicant proposes to use a consultant, the applicant must indicate whether there is a formal agreement or written procurement policy. For each consultant, please provide the name, if known, hourly or daily rate, and the estimated time on the project. Applicants must submit a cost estimate from a qualified firm (e.g., Architectural or Engineering), vendor, and/or qualified individual (e.g., independent architect) other than the institution for projects that involve rehabilitation of residential, commercial and/or industrial structures; and/or acquisition, construction, or installation of public facilities and improvements. Such an entity must be involved in the business of housing rehabilitation, construction and/or management. Equipment and contracts cannot be presented as a total estimated figure. For equipment, applicants must provide a list by type and cost for each item. Applicants using contracts must provide an individual description and cost estimate for each contract.

c. Indirect costs. Indirect costs, if applicable, are allowable based on an established approved indirect cost rate. Applicants should include a copy of their indirect cost rate agreement with their application. Applicants who are selected for funding that do not have an approved indirect cost rate agreement (established by the cognizant federal agency, Certified Public Account, or auditor) will be required to establish a rate. In such cases, HUD will issue an award with a provisional rate and enter into an agreement to have one established.

d. Audits. Applicants must ensure that their most current A-133 audit is on file at the Federal Audit Clearinghouse. Grantees that expend $500,000 or more in federal financial assistances in a single year (this can be program year or fiscal year) must be audited in accordance with the OMB requirements as established in 24 CFR parts 84 and 85. Applicants can access additional information regarding this requirement at the following Web site, http://harvester.census.gov/sac.

7. Appendix. Applicants must place all letters of commitment, memoranda of understanding, and agreements for funds/resources in response to Factor 4 in this section. An applicant may not submit general support letters or resumes or other back-up materials (unless an applicant is willing to have the additional material count toward the page limits).

C. Submission Dates and Times

A complete application package is due on or before June 25, 2004. Please see the General Section of the SuperNOFA for application submission, delivery and timely receipt requirements.

D. Intergovernmental Review

This program is excluded from an Intergovernmental Review.

E. Funding Restrictions

Ineligible CDBG Activities are listed at 24 CFR 570.207. Funding may only be provided to applicants that meet the standards for eligible applicants in Section III. A.

F. Other Submission Requirements

1. Complete Application Package

This package must be submitted to the following address: University Partnerships Clearinghouse; c/o Danya International; 8737 Colesville Road, Suite 1200; Silver Spring, MD 20910. When submitting an application package, include the following information on the outside of the envelope:

a. Office of University Partnerships;

b. Hispanic Serving-Institutions Assisting Communities Program; and

c. Applicant's name and mailing address (including zip code). Applicants must refer to the General Section of this SuperNOFA for detailed requirements governing application submission and receipt.

2. Forms, Certifications, and Assurances

The following certifications and assurances must be included in all application packages. These forms must be signed by the Chief Executive Officer (or official designee) of the institution and can be downloaded from: http://www.hud.gov.

a. Application for Federal Assistance (SF-424).

b. Applicant Assurances and Certifications (HUD-424-B).

c. Grant Application Detailed Budget (HUD-424-CB).

d. Disclosure of Lobbying Activities (SF-LLL).

e. America's Affordable Communities Initiative Removal of Regulatory Barriers (HUD-27300), if applicable.

f. Applicant/Recipient Disclosure/Update Report (HUD-2880).

g. Certification of Consistency with the Consolidated Plan (HUD-2991).

h. Certification of Consistency with the EZ/EC/RC Strategic Plan (HUD-2990). Must be signed by the certifying official of the EZ/EC/RC. The General Section of the SuperNOFA provides procedures and guidelines required to certify that proposed grant activities are being conducted in the EZ/EC/RC that serve the residents of these areas, and are certified to be consistent with the area's strategic plan.

i. Program Logic Model (HUD-96010).

j. Survey on Equal Opportunity (HUD-32004).

k. Acknowledgment of Receipt of Application (HUD-2993). To confirm that HUD has received the application package, please complete this form. Applicants are not required to include this form, but it is recommended that an applicant do so.

l. Client Comments and Suggestions (HUD-2994). This form is included to solicit information from the most valuable source, the applicant. The changes that we have instituted this year are designed to make things easier for the applicant. If applicants complete and submit this form, it will help us to assess whether the changes have had the intended results. It will also guide us in our continuing efforts to improve the competitive grant process. Applicants are not required to complete this form.

V. Application Review Information

A. Criteria

1. Rating Factor 1: Capacity of the Applicant and Relevant Organizational Experience (25 Points). This factor addresses the extent to which the applicant has the organizational resources necessary to successfully implement the proposed activities in a timely manner. In rating this factor, HUD will consider the extent to which the proposal demonstrates:

a. Knowledge and Experience—For Previously Unfunded or First Time Applicants (25 Points) For Previously Funded Applicants (10 Points). The knowledge and experience of the overall project director and staff, including the day-to-day program manager, consultants (including technical assistance providers), and contractors in planning and managing this kind of program. Experience will be judged in terms of recent and relevant knowledge and skills of the staff to undertake eligible program activities. HUD will consider experience within the last 5 years to be recent and experience pertaining to specific activities and producing specific accomplishments to be relevant. The following categories will be evaluated:

(1) Undertaking specific successful community development projects with community-based organizations or local governments; and

(2) Providing leadership in solving community problems that have a direct bearing on the proposed activities.

b. Past Performance (15 Points) For Previously Funded Grant Applicants Only. This subfactor will evaluate the extent to which an applicant has performed successfully under all previously completed and open grants HUD HSIAC grant(s). Applicants must be demonstrate this by providing the following information:

(1) A detailed list outlining the achievement of specific measurable objectives and outcomes consistent with the approved timeline/work plan in previous grants;

(2) Comparison of the proposed required leveraged funds and/or resources in previous grants with what was actually leveraged; and

(3) A list of all HUD/HSIAC grants received, including the dollar amount awarded and the amount expended as of the date of this application.

2. Rating Factor 2: Need/Extent of the Problem (10 Points). This factor addresses the extent to which there is a need for funding the proposed program activities and an indication of the importance of meeting the need(s) in the target area. The need(s) described must be relevant to the activities for which funds are being requested. The proposal will be evaluated on the extent to which the level of need for the proposed activities and the importance of meeting the need(s) are documented.

Applicants must use statistics or other analyses contained in at least one or more current data sources that are sound and reliable. The data provided must be current and specific to the area where the proposed project activities will be carried out. Sources for localized data can be found at www.ffiec.gov or www.econdata.com.

In rating this factor, HUD will consider data collected within the last five years to be current. To the extent that the targeted community's Five Year Consolidated Plan and Analysis of Impediments to Fair Housing Choice (AI) identify the level of the problem and the urgency in meeting the need, applicants should include references to these documents in the response to this factor.

Other reliable data sources include, but are not limited to Census reports, HUD Continuum of Care gap analysis and its E-MAP (www.hud.gov/emaps), law enforcement agency crime reports, Public Housing Agencies' Comprehensive Plans, community needs analyses such as provided by the United Way, the applicant's institution, and other sound and reliable appropriate sources. Needs in terms of fulfilling court orders or consent decrees, settlements, conciliation agreements, and voluntary compliance agreements may also be addressed.

3. Rating Factor 3: Soundness of Approach (43 Points). This factor addresses the quality and effectiveness of the proposed work plan, the commitment of the institution to sustain the proposed activities, actions regarding HUD's priorities, goals and objectives, and affirmatively furthering fair housing

This factor will be evaluated based on the extent to which the proposed work plan demonstrates the following:

a. (32 Points) Quality of the Work Plan. This subfactor will be evaluated on the extent to which an applicant provides a clear outline of the proposed project and anticipated accomplishments.

(1) Specific Services and/or Activities. The work plan must describe all proposed activities and major tasks required to successfully implement the proposed project. HUD will consider the probability of success of the program, the significance of the tasks identified, how realistic are the proposed time frames, and who will be responsible for completing each proposed activity.

(a) Describe each proposed activity and the tasks required to successfully implement and complete the proposed activities in measurable terms (e.g., the number of persons to trained and employed; houses to be built or rehabilitated; or minority owned businesses to be started, etc.);

(b) List the CDBG national objective each proposed activity is designed to address and how this will be accomplished;

(c) Include target completion dates for each activity/task (in 6 month intervals, up to 36 months); and

(d) Identify the staff member, as described in Factor 1, who will be responsible for completing each activity/task.

(2) Describe how each proposed activity will:

(a) Expand the role of the institution in its community;

(b) Alleviate and/or fulfill the needs identified in Factor 2;

(c) Relate to and not duplicate other activities in the target area. Duplicative effort will be acceptable only if an applicant can demonstrate through documentation that there is a population in need that is not being served; and

(d) Involve and empower citizens of the target area the proposed project.

b. (5 Points) Involvement of the Faculty and Students. The applicant must describe the extent to which it proposes to integrate the institution's students and faculty into proposed project activities.

c. (3 Points) HUD Policy Priorities. HUD encourages applicants to undertake specific activities that will assist the Department in implementing its policy priorities and which will help the Department achieve its goals and objectives in FY2005, when the majority of grant recipients will be reporting programmatic results and achievements. In addressing this factor, HUD will evaluate the extent to which a program will further and support HUD's priorities. The quality of the responses provided to one or more of HUD's priorities will determine the score an applicant can receive. Applicants must describe how each policy priority selected will be addressed.

Applicants that just list a priority will receive no points. Each policy priority addressed has a point value of one point with the exception of the policy priority to remove regulatory barriers to affordable housing, which has a point value of up to 2 points. The total number of points available to applicants that address policy priorities is 3. It is up to the applicant to determine which of the policy priorities they elect to address to receive the available 3 points. To receive points for efforts to remove regulatory barriers to affordable housing, an applicant must submit the completed questionnaire found in the General Section. (Form HUD-27300). For the full list and explanation of each policy priority, please refer to the General Section of this SuperNOFA.

d. (3 Points) Affirmatively Furthering Fair Housing. This subfactor will be evaluated on the extent to which an applicant describes how it proposes to undertake activities designed to affirmatively further fair housing, for example:

(1) Working with other entities in the community to overcome impediments to fair housing, such as discrimination in the sale or rental of housing or in advertising, provision of brokerage services or lending;

(2) Promoting fair housing choice through the expansion of homeownership opportunities and improved quality of services for minorities, families with children, and persons with disabilities; or

(3) Providing housing mobility counseling services.

4. Rating Factor 4: Leveraging Resources (10 Points). This factor addresses the ability of the applicant to secure resources that can be combined with HUD's grant funds to achieve the program's purpose.

In evaluating this factor, HUD will consider the extent to which the applicant established partnerships with other entities to secure additional resources to increase the effectiveness of the proposed project activities. Resources may include funding or in-kind contributions, such as services or equipment, allocated to the purpose(s) of the grant. Resources may be provided by governmental entities, public or private nonprofit organizations, for-profit private organizations, or other entities. Applicants may also establish partnerships with other program funding recipients to coordinate the use of resources in the target area. Overhead and other institutional costs (e.g., salaries, indirect costs, etc.) that the institution has waived may be counted.

Examples of potential sources for outside assistance includes:

• Federal, state, and local governments.

• Public Housing Authorities.

• Local or national nonprofit organizations.

• Financial Institutions and/or private businesses.

• Foundations.

• Faith-based and other community-based organizations.

For each cash or in-kind contribution to the program a letter of commitment, memorandum of understanding, or agreement must be provided that shows the extent and firmness of the commitment of leveraged funds (including any commitment of resources from the applicant's own institution) in order for these resources to count in determining points under this factor. Resources will not be counted for which there is no commitment letter, memorandum of understanding, or agreement, nor quantified level of commitment. Letters, memoranda of understanding, or agreements must be submitted from the provider on the provider's letterhead and be included with the application package (Applicants must place all letters, memoranda of understanding, or agreements in the Appendices). The date of the letter, memorandum of understanding, or agreement from the CEO of the provider organization must be dated no earlier than the date of this published SuperNOFA. Applications that do not include evidence of leveraging will receive zero (0) points for this Factor.

a. A firm commitment letter, memorandum of understanding, or agreement must address the following:

(1) The cash amount contributed or dollar value of the in-kind goods and /or services committed;

(2) A specific description of how the contribution is to be used;

(3) The date the contribution will be made available and a statement that describes the duration of the contribution;

(4) Any terms or conditions affecting the commitment, other than receipt of a HUD grant; and

(5) The signature of the appropriate executive officer authorized to commit the funds and/or goods and/or services. Please remember that only items eligible for funding under this program can be counted.

5. Rating Factor 5: Achieving Results and Program Evaluation (12 Points). This factor reflects HUD's goal to embrace high standards of management and accountability. It measures the applicant's commitment to assess their performance to achieve the program's proposed objectives and goals. Applicants are required to develop an effective, quantifiable, outcome oriented evaluation plan for measuring performance and determining that objectives and goals have been achieved.

“Outcomes” are benefits accruing to institutions of higher education and/or communities during or after participation in the HSIAC program. Applicants must clearly identify the outcomes to be measured and achieved. Examples of outcomes include increased employment opportunities in the target community by a certain percentage, or enhanced family stability through the creation of affordable housing opportunities.

In addition, applicants must establish interim benchmarks and outputs that lead to the ultimate achievement of outcomes. “Outputs” are the direct products of the program's activities. Examples of outputs are the number of new affordable housing units, the number of homes that have been renovated, the number of community facilities that been constructed or rehabilitated. Outputs should produce outcomes for the program. At a minimum an applicant must address the following activities in the evaluation plan:

a. Measurable objectives to be accomplished, e.g., the number of persons to be trained and employed; houses to be built (pursuant to 24 CFR 570.207) or rehabilitated; minority-owned businesses to be started;

b. Measurable impacts the grant will have on the community in general and the target area or population; and

c. The impact the grant will have on assisting the university to obtain additional resources to continue this type of work at the end of the grant performance period.

This information must be placed under this section on a HUD-96010, Program Outcome Logic Model form. (Applicants may use as many copies of this form as required. It will not be included in the page count requirement). A narrative is not required; however, if a narrative is provided, those pages will be included in the page count. Additional information on this form and how to use it can be found in the General Section of this SuperNOFA.

B. Review and Selection Process

1. Application Selection Process

Two types of reviews will be conducted:

a. A threshold review to determine an applicant's basic eligibility; and

b. A technical review for all applications that pass the threshold review to rate and rank the application based on the “Factors for Award” listed in Section V, A. above.

Only those applications that pass the threshold review will receive a technical review and be rated and ranked.

2. Rating Panels. To review and rate applications, HUD may establish panels, which may include experts or consultants not currently employed by HUD. These individuals may be included to obtain certain expertise.

3. Ranking. HUD will fund applications in rank order, until all available program funds are awarded. In order to be funded, an applicant must receive a minimum score of 75 points out of a possible 100 points for Factors 1 through 5. In addition, two bonus points may be awarded for RC/EZ/EC, as described in the General Section of the SuperNOFA. If two or more applications have the same number of points, the application with the most points for Factor 3, Soundness of Approach, shall be selected. If there is still a tie, the application with the most points for Factor 1, Capacity of the Applicant and Relevant Organizational Experience, shall be selected. HUD reserves the right to make selections out of rank order to provide for geographic distribution of grantees. HUD also reserves the right to reduce the amount of funding requested in order to fund as many highly ranked applications as possible. Additionally, if funds remain after funding the highest ranked applications, HUD may fund part of the next highest-ranking application. If an applicant turns down the award offer, HUD will make the same determination for the next highest-ranking application. If funds remain after all selections have been made, the remaining funds will be carried over to the next funding cycle's competition.

4. Correction to Deficient Applications. The General Section of the SuperNOFA provides the procedures for correction to deficient applications.

C. Anticipated Announcement and Award Dates

Announcements of awards are anticipated on or before September 30, 2004.

VI. Award Administration Information

A. Award Notice

After all selections have been made, HUD will notify all winning applicants in writing. HUD may require winning applicants to participate in additional negotiations before receiving an official award. For further discussion on this matter, please refer to the General Section of the SuperNOFA.

B. Administrative and National Policy Requirements

The provisions of the HUD Reform Act of 1989 that apply to this NOFA are explained in the General Section of the SuperNOFA.

1. Debriefing:

The General Section of the SuperNOFA provides the procedures for requesting a debriefing. All requests for debriefings must be made in writing and submitted to: Armand Carriere; Office of University Partnerships; Robert C. Weaver Federal Building; 451 Seventh Street, SW., Room 8106; Washington, DC 20410. Applicants may also write to Mr. Carriere via e-mail at Armand_W._Carriere@hud.gov.

2. Administrative:

Grants awarded under this NOFA will be governed by the provisions of 24 CFR part 84 (Grants and Agreements with Institutions of Higher Education, Hospitals and Other Non-Profit Organizations), A-21 (Cost Principles for Education Institutions) and A-133 (Audits of States, Local Governments, and Non-Profit Organizations). Applicants can access the OMB circulars at the White House website at www.whitehouse.gov/omb/circulars/index.html.

3. OMB Circulars and Governmentwide Regulations Applicable to Financial Assistance Programs:

The General Section of this SuperNOFA provides further discussion on this matter.

4. Executive Order 13202, Preservation of Open Competition and Government Neutrality Towards, Government Contractor's Labor Relations on Federal and Federally Funded Construction Projects: See the General Section of the SuperNOFA for further discussion.

5. Economic Opportunities for Low- and Very Low-Income Persons (Section 3)

The provisions of Section 3 of the Housing and Urban Development Act of 1968 (12 U.S.C. 1701u) apply to this NOFA. Regulations may be found at 24 CFR part 135.

6. Executive Order 13166, Improving Access to Services For Persons With Limited English Proficiency (LEP):

See the General Section of the SuperNOFA for further discussion.

7. Conflicts of Interest:

See the General Section of this SuperNOFA for further discussion.

C. Reporting

All grant recipients under this NOFA are required to submit semi-annual progress reports. The progress reports shall consist of two components, a narrative that must reflect the activities undertaken during the reporting period and a financial report that reflects costs incurred during the reporting period as well as a cumulative summary.

For each reporting period, as part of the required report to HUD, grant recipients must include a completed Logic Model (form HUD 96010), which identifies output and outcome achievements.

VII. Agency Contacts

Applicants may contact Madlyn Wohlman-Rodriguez at (202) 708-3061, extension 5939 or Susan Brunson, at (202) 708-3061, extension 3852. Persons with speech or hearing impairments may call the Federal Information Relay Service (TTY) at (800) 877-8339. Except for the “800” number, these numbers are not toll-free. Applicants may also reach Ms. Rodriguez via e-mail at Madlyn_S._Wohlman-Rodriguez@hud.gov, and/or Ms. Brunson at Susan_S._Brunson@hud.gov.

VIII. Other Information

Paperwork Reduction Act

The information collection requirements contained in this document have been approved by the Office of Management and Budget (OMB) under the Paperwork Reduction Act of 1995 (44 U.S.C. 3501-3520) and assigned OMB control number 2528-0198. In accordance with the Paperwork Reduction Act, HUD may not conduct or sponsor, and a person is not required to respond to, a collection of information unless the collection displays a currently valid OMB control number. Public reporting burden for the collection of information is estimated to average 59 hours per annum per respondent for the application and grant administration. This includes the time for collecting, reviewing, and reporting the data for the application semi-annual and final reports. The information will be used for grantee selection and monitoring the administration of funds. Response to this request for information is required in order to receive the benefits to be derived.

BILLING CODE 4210-32-P

The Alaska Native/Native Hawaiian Institutions Assisting Communities (AN/NHIAC) Program

Overview Information

A. Federal Agency Name: Department of Housing and Urban Development, Office of Policy Development and Research, Office of University Partnerships.

B. Funding Opportunity Title: Alaska Native/Native Hawaiian Institutions Assisting Communities (AN/NHIAC) Program.

C. Announcement Type: Initial announcement.

D. Funding Opportunity Numbers: The Federal Register Number for this NOFA is FR-4900-N-23. The OMB Approval Number for this program is 2528-0205.

E. Catalog of Federal Domestic Assistance (CFDA) Number: The CFDA Number for this program is 14.515.

F. Dates: The application due date shall be on or before July 9, 2004. Please see the General Section of the SuperNOFA for application submission, delivery, and timely, receipt requirements.

G. Additional Overview Content Information:

1. Purpose of the Program: The Alaska Native/Native Hawaiian Institutions Assisting Communities (AN/NHIAC) Program assists Alaska Native/Native Hawaiian Institutions (AN/NHI) of higher education expand their role and effectiveness in addressing community development needs in their localities, including neighborhood revitalization, housing, and economic development, principally for persons of low- and moderate-income, consistent with the purposes of Title I of the Housing and Community Development Act of 1974, as amended.

2. Award Information: In Fiscal Year (FY) 2004, approximately $3.479 million has been appropriated for this program by the Consolidated Appropriations Act, 2004 (Pub. L. 108-199, approved January 23, 2004, 118 Stat. 3), plus $3.1 million in previously unexpended funds are being made available for this program. The maximum amount an applicant can request for award is $800,000 for a three-year (36 months) grant performance period.

Approximately $3.2 million is being made available for ANIs and $3.2 million is being made available for NHIs. If funding remains after all eligible ANI applicants are awarded, the remaining funds will be made available to fund eligible NHI applicants. If funding remains after all eligible NHI applicants are awarded, the remaining funds will be made available to fund eligible ANI applicants.

3. Eligible Applicants: Nonprofit Alaska Native and Native Hawaiian Institutions of higher education that meet the definitions of Alaska Native and Native Hawaiian Institutions of higher education established in Title III, Part A, Section 317 of the Higher Education Act of 1965, as amended by the Higher Education Amendments of 1998 (Pub. L. 105-244; approved October 7, 1998) are eligible to apply for funding under this program. Institutions are not required to be on the list of eligible AN/NHIs prepared by the U.S. Department of Education. However, an institution that is not on the list is required to provide a statement in the application that the institution meets the U.S. Department of Education's statutory definition of an AN/NHI institution.

Full Text of Announcement

I. Funding Opportunity Description

The purpose of the Alaska Native/Native Hawaiian Institutions Assisting Communities (AN/NHIAC) Program is to assist Alaska Native/Native Hawaiian Institutions (AN/NHI) of higher education expand their role and effectiveness in addressing community development needs in their localities, including neighborhood revitalization, housing, and economic development, principally for persons of low- and moderate-income, consistent with the purposes of Title I of the Housing and Community Development Act of 1974, as amended. Listed below are major modifications from the Fiscal Year (FY) 2003 program-funding announcement:

1. This program has a separate NOFA and is no longer a part of the combined Office of Universities Partnerships Program NOFA.

2. All applications must be mailed to: University Partnerships Clearinghouse; c/o Danya International; 8737 Colesville Road, Suite 1200; Silver Spring, MD 20910.

3. Points will no longer be assigned to the budget. However, a budget narrative must be submitted that addresses the total dollar amount reflected on the HUD-424-CB for the entire three-year grant performance period.

4. If an applicant is one of several campuses of the same institution, the applicant may apply separately from the other campuses as long as each campus has a separate administrative structure and budget and meets the enrollment test.

5. Applicants can only submit one application per campus.

HUD's authority for making funding available under this NOFA is the Consolidated Appropriations Act, 2004 (Pub. L. 108-199, approved January 23, 2004, 118 Stat. 3). This program is being implemented through this NOFA and the policies governing its operation are contained herein.

II. Award Information

In Fiscal Year (FY) 2004, approximately $3.479 million has been appropriated for this program by the Consolidated Appropriations Act, 2004 (Pub. L. 108-199, January 23, 2004, 118 Stat. 3), plus $3.1 million in previously unexpended funds are being made available for this program. HUD will award two kinds of grants under this program, grants to Alaska Native Institutions (ANI) and grants to Native Hawaiian Institutions (NHI). The maximum amount an applicant can request for award is $800,000 for a three-year (36 months) grant performance period. Approximately $3.2 million is being made available for ANIs. If funding remains after all eligible ANI applicants are awarded, the remaining funds will be made available to fund eligible NHI applicants. Approximately $3.2 million is being made available for NHIs. If funding remains after all eligible NHI applicants are awarded, the remaining funds will be made available to award eligible ANI applicants.

III. Eligibility Information

A. Eligible Applicants

Nonprofit Alaska Native and Native Hawaiian institutions of higher education that meet the definitions of Alaska Native and Native Hawaiian institutions of higher education established in Title III, Part A, Section 317 of the Higher Education Act of 1965, as amended by the Higher Education Amendments of 1998 (Pub. L.105-244; enacted October 7, 1998) are eligible to apply for funding under this program. Institutions are not required to be on the list of eligible AN/NHIs prepared by the U.S. Department of Education. However, an institution that is not on the list is required to provide a statement in the application that the institution meets the U.S. Department of Education's statutory definition of an AN/NHI institution. If an applicant is one of several campuses of the same institution, the applicant may apply separately from the other campuses as long as each campus has a separate administrative structure and budget and meets the enrollment test.

B. Cost Sharing or Matching

None Required.

C. Other

1. Eligible Activities

Eligible activities are listed in 24 CFR part 570, subpart C, particularly § 570.201 through § 570.206. Information regarding these activities can be found at: www.hudclips.org.

a. Examples of eligible activities include, but are not limited to:

(1) Acquisition of real property;

(2) Clearance and demolition;

(3) Rehabilitation of residential structures, including lead-based paint hazard evaluation and reduction, and encouraging accessible design features in accordance with the requirements of section 504 of the Rehabilitation Act of 1973;

(4) Acquisition, construction, reconstruction, rehabilitation, or installation of public facilities and improvements, such as water and sewer facilities and streets; including lead-based paint hazard evaluation and reduction; and encouraging compliance accessible with the design and construction requirements of Section 504 of the Rehabilitation Act of 1973 and the Fair Housing Act;

(5) Direct homeownership assistance to low- and moderate-income persons, as provided in section 105(a)(25) of the Housing and Community Development Act of 1974;

(6) Special economic development activities described at 24 CFR 570.203 and assistance to facilitate economic development by providing technical or financial assistance for the establishment, stabilization, and expansion of microenterprises, including minority enterprises;

(7) Assistance to community-based development organizations (CBDO) to carry out CDBG neighborhood revitalization, community economic development, or energy conservation projects, in accordance with 24 CFR 570.204. This could include activities in support of a HUD-approved local entitlement grantee, CDBG Neighborhood Revitalization Strategy (NRS) or HUD-approved State CDBG Community Revitalization Strategy (CRS);

(8) Public service activities such as general support activities that can help to stabilize a neighborhood and contribute to sustainable redevelopment of the area, including but not limited to such activities as those concerned with employment, crime prevention, child care, health, drug abuse, education, fair housing counseling, energy conservation, homebuyer down payment assistance, or recreational needs;

(9) Fair housing services designed to further the fair housing objectives of the Fair Housing Act (42 U.S.C. 3601-20) by making all persons, without regard to race, color, religion, sex, national origin, family status, and/or disability aware of the range of housing opportunities available to them;

(10) Up to 20 percent of the grant for payments of reasonable grant administrative costs related to planning and execution of the project (e.g., preparation/submission of HUD reports). Detailed explanations of these costs are provided in the OMB circulars that can be accessed at the White House Web site at: www.whitehouse.gov/omb/circulars/index.html; and

(11) Activities designed to promote training and employment opportunities (e.g., Neighborhood Networks in federally assisted or insured housing and employment opportunities for lower income persons in connection with assisted projects).

b. Eligible activities that may be funded under this program are those activities that meet both the Community Development Block Grant (CDBG) Program national objective and the CDBG eligibility requirements.

c. The three national objectives of the Community Development Block Grant program are:

(1) Benefit to low- or moderate-income persons;

(2) Aid in the prevention or elimination of slums or blight; and

(3) Meet other community development needs having a particular urgency because existing conditions pose a serious and immediate threat to the health and welfare of the community, and other financial resources are not available to meet such needs.

Criteria for determining whether an activity addresses one or more of these objectives are provided at 24 CFR 570.208.

d. The CDBG publication entitled “Community Development Block Grant Program Guide to National Objectives and Eligible Activities for Entitlement Communities” describes the regulations, and a copy can be obtained from HUD's NOFA Information Center at 800-HUD-8929 or 800-HUD-2209 for the hearing- or speech-impaired.

2. Threshold Requirements Applicable to all Applicants.

All applicants must comply with the threshold requirements as defined in the General Section of the SuperNOFA and the requirements listed below to be evaluated, rated, and ranked. Applications that do not meet these requirements will be considered ineligible for funding and will be disqualified:

a. The applicant must meet the eligibility requirements as defined in Section III.A, “Eligible Applicants”.

b. The maximum amount an applicant can request for award is $800,000.

c. In order to meet the definition of an Alaska Native Institution, at least 20 percent of the undergraduate headcount enrollment must be Alaska Native students. If an applicant is a Native Hawaiian institution, in order to meet this definition, at least 10 percent of the undergraduate headcount enrollment must be Native Hawaiian students.

d. Applicants must ensure that not less than 51 percent of the aggregated expenditures of a grant benefit low- and moderate-income persons under the criteria specified in 24 CFR 570.208(a) or 570.208(d)(5) or (6).

e. An individual campus that is one of several campuses of the same institution may apply separately from the other campus as long as the applicant's campus has a separate administrative and budget structure.

f. Only one application can be submitted per campus.

g. Institutions that received grants in FY2003 are not eligible to submit an application under this NOFA.

h. Applicants must receive a minimum score of 75 points to be considered for funding.

i. An applicant must have a DUNS number to receive HUD grant funds. (The General Section of the SuperNOFA provides information regarding the DUNS requirement).

3. Program Requirements.

In addition to the program requirements listed in the General Section of the SuperNOFA, applicants must meet the following program requirements:

a. All funds awarded under this program must be spent during a three-year (36 months) grant performance period.

b. Applicants that claim leveraging from any source, including their own institution, must provide letters of firm commitment, memoranda of understanding, or agreements evidencing the extent and firmness of the commitment of leveraging from other federal (e.g., Department of Education, AmeriCorps Programs, etc.), state, local governments, and other private sources (including the applicant's own resources). These documents must be dated no earlier than the date of this published NOFA and follow the outline provided for this program in Section V, Application Review Information, “Factor 4: Leveraging Resources” of this NOFA.

c. Site Control. Where grant funds will be used for acquisition, rehabilitation, or new construction an applicant must demonstrate site control. Funds may be recaptured or deobligated from applicants that cannot demonstrate control of a suitable site within one year after the initial notification of award.

d. Environmental Requirements. Selection for award does not constitute approval of any proposed sites. Following selection for award, HUD will perform an environmental review of activities proposed for assistance in accordance with 24 CFR part 50. The results of the environmental review may require that proposed activities be modified or proposed sites be rejected. Applicants are particularly cautioned not to undertake or commit funds for acquisition or development of proposed properties prior to HUD approval of specific properties or areas. An application constitutes an assurance that the institution will assist HUD to comply with part 50; will supply HUD with all available and relevant information to perform an environmental review for each proposed property; will carry out mitigating measures required by HUD or select alternate property; and will not acquire, rehabilitate, convert, demolish, lease, repair, or construct property, and not commit or expend HUD or local funds for these program activities with respect to any eligible property until HUD's written approval of the property is received. In supplying HUD with environmental information, applicants should use the same guidance as provided in the HUD Notice CPD-99-01 entitled “Field Environmental Review Processing for HUD Colonias Initiative (HCI) Grants” issued January 27, 1999. The General Section of the SuperNOFA provides further discussion of the environmental requirements. Further information and assistance on HUD's environmental requirements is available at: http://www.hud.gov/offices/cpd/energyenviron/environment/index.cfm.

e. Labor Standards. Institutions and their subgrantees, contractors, and subcontractors must comply with the labor standards (Davis-Bacon) requirements referenced in 24 CFR 570.603.

IV. Application and Submission Information

A. Addresses To Request Application Package

Applicants may request general information, copies of the General Section and Program Sections of the SuperNOFA from the NOFA Information Center, 800-HUD-8929 or 800-HUD-2209 (TTY) between the hours of 9 a.m. and 8 p.m. (Eastern Time) Monday through Friday, except on Federal holidays. When requesting information, please refer to the Alaska Native/Native Hawaiian Institutions Assisting Communities Program. Be sure to provide your name, address (including ZIP code), and telephone number (including area code). To ensure sufficient time to prepare an application, requests for copies of the NOFA can be made immediately following publication of the SuperNOFA. The NOFA Information Center opens for business simultaneously with the publication of HUD's 2004 NOFA. Applicants can also obtain information on the SuperNOFA and download application information for it through the HUD Web site at http://www.hud.gov.

B. Content and Form of Application Submission

1. Complete Application. A complete application package must include an original signed application, three copies, and one computer disk of the application (in Word 6.0 or higher) of the items listed below. (The computer disk must include the narrative portion of the application, and all required forms. Forms can be downloaded from the following Web site http://www.hud.gov.) In order to recycle paper, applications must not be submitted in bound form; binder clips or loose-leaf binders are acceptable. Please do not use colored paper. Applications must be submitted on 8½ by 11-inch paper, double-spaced on one side of the paper, with one-inch margins (from top, bottom, left and right) and printed in a standard Times New Roman 12-point font. Each page must include the applicant's name and be numbered. Each section must be tabbed sequentially. The application narrative, tables, and maps, must not exceed 75 pages (excluding forms, budget narrative, assurances, commitment letters, memoranda of understanding, agreements, and abstract). The double-spacing requirement applies to the application narrative (excluding the abstract, tables, maps, budget narrative, commitment letters, memoranda of understanding, and agreements). Please note that although submitting pages in excess of the page limit will not disqualify an application, HUD will not consider the information on any excess pages. This may result in a lower score or failure to meet a threshold requirement. Except where a particular form may direct otherwise, all forms included in an application, as well as the transmittal letter, must be signed by the Chief Executive Officer (this is generally the President or Provost) or an official authorized legally to make a commitment on behalf of the institution. If a designee signs, the application must contain a copy of the official designation of signatory authority.

Please include in your application each item in the order listed below:

1. SF-424, Application for Federal Assistance. Instructions for completing this form are found on the back of the first page of the form. Please remember the following:

a. The full grant amount (entire three years) should be entered, not the amount for just one year;

b. Include the name, title, address, telephone number, facsimile number, and email address of the designated contact. This is the person who will receive the reviewers' comments; therefore, please ensure the accuracy of the information;

c. The Employer Identification/Tax ID number;

d. The DUNS Number;

e. The Catalog of Federal Domestic Assistance Number for this program is 14.515;

f. The project's proposed start date and completion date. For the purpose of this application, the program start date should be October 1, 2004; and

g. The signature of an authorized official (an individual who has the authority to make a binding commitment on behalf of the institution).

2. Transmittal Letter. The letter should contain a statement that the institution is an eligible institution because it is a two- or four-year fully accredited institution. This letter should state the name of the accrediting agency, and that the accrediting agency is recognized by the U.S. Department of Education. Applicants can also use the transmittal letter as one way to demonstrate the President's commitment to the institutionalization of the program. The Chief Executive Officer (usually the President or Provost) of the institution must sign this letter. If the Chief Executive Officer has delegated this responsibility to another official, that person may sign, but a copy of the delegation of authority must be included or clearly stated in the letter.

3. Application Checklist. Applicants must include the completed checklist in their application. On the checklist, applicants must indicate the page number where each of the items can be found in the application (See Appendix A).

4. Abstract. Applicants must include no more than a two-page summary of the proposed project. Please include the following:

a. A clear description of the proposed project activities, the target population that will be assisted, and the impact this project will have on the institution;

b. The designated contact person, including phone number, facsimile number, and e-mail address. (This is the person who will receive the reviewers' comments; therefore, please ensure the accuracy of the information);

c. University's name, campus, mailing address, telephone number, facsimile number, and email address; and

d. The principal investigator, if different from the designated contact person, for the project, including phone number, facsimile number, and email address.

5. Narrative statement addressing the Factors for Award. HUD will use the narrative response to the “Factors for Award” to evaluate, rate, and rank applications. The statement and work plan are the main source of information. Applicants are advised to review each factor carefully for program specific requirements. The response to each factor should be concise and contain only information relevant to the factor, but detailed enough to address each factor fully. Please do not repeat material in response to the five factors; instead, focus on how well the proposal responds to each of the factors. In factors where there are subfactors, each subfactor must be presented separately, with the short title of the subfactor presented. Make sure to address each subfactor and provide sufficient information about every element of the subfactor.

6. Budget. The budget submission must be placed behind the narrative statement addressing the “Factors for Award” and include the following form:

a. HUD-424-CB, “Grant Application Detailed Budget.” This budget form shows the total budget by year and by line item for the program activities to be carried out with the proposed HUD grant. Each year of the program should be presented separately. Applicants must also submit this form to reflect the total cost for the entire grant performance period (Grand Total).

Make sure that the amount shown on Form SF-424, the HUD-424-CB and on all other required program forms is consistent and the budget totals are correct. Remember to check addition in totaling the categories on the Form HUD-424-CB so that all items are included in the total. All budget forms must be completed in full. If an application is selected for award, the applicant may be required to provide greater specificity to the budget during grant agreement negotiations.

b. Budget Narrative. A narrative must be submitted that explains how the applicant arrived at the cost estimates for any line item over $5,000. For example, an applicant proposes to construct a building using HUD funding totaling $200,000. The following costs estimate reflects this total. Foundation cost $75,000, electrical work $40,000, plumbing work $40,000, finishing work $35,000, and landscaping $10,000. The proposed cost estimates should be reasonable for the work to be performed and consistent with rates established for the level of expertise required to perform the work proposed in the geographical area. When necessary, quotes from various vendors or historical data should be used and included. When an applicant proposes to use a consultant, the applicant must indicate whether there is a formal agreement or written procurement policy. For each consultant, please provide the name, if known, hourly or daily rate, and the estimated time on the project. Applicants must submit a cost estimate from a qualified firm (e.g., Architectural or Engineering), vendor, and/or qualified individual (e.g., independent architect) other than the institution for projects that involve rehabilitation of residential, commercial and/or industrial structures; and/or acquisition, construction, or installation of public facilities, and improvements. Such an entity must be involved in the business of housing rehabilitation, construction, and/or management. Equipment and contracts cannot be presented as a total estimated figure. For equipment, applicants must provide a list by type and cost for each item. Applicants using contracts must provide an individual description and cost estimate for each contract.

c. Indirect costs. Indirect costs, if applicable, are allowable based on an established approved indirect cost rate. Applicants should include a copy of their indirect cost rate agreement with their application. Applicants who are selected for funding that do not have an approved indirect cost rate agreement (established by the cognizant federal agency, Certified Public Account, or auditor) will be required to establish a rate. In such cases, HUD will issue an award with a provisional rate and enter into an agreement to have one established.

d. Audits. Applicants must ensure that their most current A-133 audit is on file at the Federal Audit Clearinghouse. Grantees that expend $500,000 or more in federal financial assistance in a single year (this can be program year or fiscal year) must be audited in accordance with the OMB requirements as established in 24 CFR parts 84 and 85. Additional information regarding this requirement can be accessed at the following Web site: http://harvester.census.gov/sac.

7. Appendix. Applicants must place all letters of commitment, memoranda of understanding, and agreements for funds/resources in response to Factor 4 in this section. An applicant may not submit general support letters or resumes or other back-up materials (unless an applicant is willing to have the additional material count towards the page limits).

C. Submission Dates and Times

A complete application package is due on or before July 9, 2004. Please see the General Section of the SuperNOFA for application submission, delivery, and timely receipt requirements.

D. Intergovernmental Review

This program is excluded from an Intergovernmental Review.

E. Funding Restrictions

Ineligible CDBG Activities are listed at 24 CFR 570.207. Funding may only be provided to applicants that meet the standards for eligible applicants in Section III.A.

F. Other Submission Requirements

1. Complete Application Package

This package must be submitted to the following address: University Partnerships Clearinghouse; c/o Danya International; 8737 Colesville Road, Suite 1200; Silver Spring, MD 20910. When submitting an application package, include the following information on the outside of the envelope:

a. Office of University Partnerships;

b. Alaska Native/Native Hawaiian Institutions Assisting Communities Program; and

c. Applicant's name and mailing address (including ZIP code). Applicants must refer to the General Section of the SuperNOFA for detailed requirements governing application submission and receipt.

2. Forms, Certifications, and Assurances

The following certifications and assurances must be included in all application packages. These forms must be signed by the Chief Executive Officer (or official designee) of the institution and can be downloaded from the HUD Web site at http://www.hud.gov.

a. Application for Federal Assistance (SF-424).

b. Applicant Assurances and Certifications (HUD-424-B).

c. Grant Application Detailed Budget (HUD-424-CB).

d. Disclosure of Lobbying Activities (SF-LLL).

e. America's Affordable Communities Initiative Removal of Regulatory Barriers (HUD-27300), if applicable.

f. Applicant/Recipient Disclosure/Update Report (HUD-2880).

g. Certification of Consistency with the Consolidated Plan (HUD-2991).

h. Certification of Consistency with the EZ/EC/RC Strategic Plan (HUD-2990). Must be signed by the certifying official of the EZ/EC/RC. The General Section of the SuperNOFA provides procedures and guidelines required to certify that proposed grant activities are being conducted in the EZ/EC/RC that serve the residents of these areas, and are certified to be consistent with the area's strategic plan.

i. Program Logic Model (HUD-96010).

j. Survey on Equal Opportunity (HUD-32004).

k. Acknowledgment of Receipt of Application (HUD-2993). To confirm that HUD has received the application package, please complete this form. Applicants are not required to include this form, but it is recommended that an applicant do so.

l. Client Comments and Suggestions (HUD-2994). This form is included to solicit information from the most valuable source, the applicant. The changes that we have instituted this year are designed to make things easier for the applicant. If applicants complete and submit this form, it will help us to assess whether the changes have had the intended results. It will also guide us in our continuing efforts to improve the competitive grant process. Applicants are not required to complete this form.

V. Application Review Information

A. Criteria

1. Rating Factor 1: Capacity of the Applicant and Relevant Organizational Experience (25 Points). This factor addresses the extent to which the applicant has the organizational resources necessary to successfully implement the proposed activities in a timely manner. In rating this factor, HUD will consider the extent to which the proposal demonstrates:

a. Knowledge and Experience For Previously Unfunded or First Time Applicants (25 Points) For Previously Funded Applicants. The knowledge and experience of the overall project director and staff, including the day-to-day program manager, consultants (including technical assistance providers), and contractors in planning and managing this kind of project. Experience will be judged in terms of recent and relevant knowledge and skills of the staff to undertake eligible program activities. HUD will consider experience within the last five years to be recent and experience pertaining to specific activities and producing specific accomplishments to be relevant. The following categories will be evaluated:

(1) Undertaking specific successful community development projects with community based organizations or local governments; and

(2) Providing leadership in solving community problems.

b. Past Performance (15 Points) For Previously Funded Applicants Only. This subfactor will evaluate the extent to which an applicant has performed successfully under all previously completed and open HUD AN/NHIA grant(s). Applicants must demonstrate this by providing the following information:

(1) A detailed list outlining the achievement of specific measurable objectives and outcomes consistent with the approved timeline/work plan in previous grants; and

(2) Comparison of proposed leveraged funds and/or resources in previous grants to what was actually leveraged.

(3) A list of all HUD/AN/NHIAC grants received, including the dollar amount awarded and the amount expended as of the date of this application.

2. Rating Factor 2: Need/Extent of the Problem (10 Points). This factor addresses the extent to which there is a need for funding the proposed program activities and an indication of the importance of meeting the need(s) in the target area. The need(s) described must be relevant to the activities for which funds are being requested. The proposal will be evaluated on the extent to which the level of need for the proposed activities and the importance of meeting the need(s) are documented. Applicants must use statistics and analyses contained in at least one or more current data sources that are sound and reliable. The data provided must be current and specific to the area where the proposed project activities will be carried out. Sources for localized data can be found at: www.ffiec.gov or www.econdatata.com.

In rating this factor, HUD will consider data collected within the last five years to be current. To the extent that the targeted community's Five (5) Year Consolidated Plan and Analysis of Impediments to Fair Housing Choice (AI) identify the level of the problem and the urgency in meeting the need, applicants should include references to these documents in the response to this factor.

Other reliable data sources include, but are not limited to Census reports, HUD Continuum of Care gap analysis and its E-MAP (http://www.hud.gov/emaps), law enforcement agency crime reports, Public Housing Agencies' Comprehensive Plans, community needs analyses such as provided by the United Way, the applicant's institution, and other sound and reliable sources. Needs in terms of fulfilling court orders or consent decrees, settlements, conciliation agreements, and voluntary compliance agreements may also be addressed.

3. Rating Factor 3: Soundness of Approach (45 Points). This factor addresses the quality and effectiveness of the proposed work plan, the commitment of the institution to sustain the proposed activities, actions regarding HUD's priorities, goals and objectives, and affirmatively furthering fair housing. This factor will be evaluated based on the extent to which the proposed work plan demonstrates the following.

a. (35 Points) Quality of the Work Plan. This subfactor will be evaluated on the extent to which an applicant provides a clear outline of the proposed project and anticipated accomplishments.

(1) Specific Services and/or Activities. The work plan must describe all proposed activities and major tasks required to successfully implement the proposed project. HUD will consider the probability of success of the program, the significance of the tasks identified, how realistic are the proposed time frames, and who will be responsible for completing each proposed activity.

(a) Applicants must provide a clear description of the proposed activities and address the following:

(i) Describe each proposed activity to successfully implement and complete the proposed project in measurable terms (e.g., the number of homes that will be renovated);

(ii) List the CDBG national objective each proposed activity is designed to address and how this will be accomplished;

(b) Outline the major required tasks (in sequential order) to successfully implement and complete the proposed project activities. Including the target completion dates for these tasks (in six month intervals, up to 36 months); and

(c) Identify the staff member, as described in Factor 1, who will be responsible and accountable for completing each task.

(2) Describe how each proposed activity will:

(a) Expand the role of the institution in its community;

(b) Alleviate and/or fulfill the needs identified in Factor 2;

(c) Relate to and not duplicate other activities in the target area. Duplicative effort will be acceptable only if an applicant can demonstrate through documentation that there is a population in need that is not being served; and

(d) Involve and empower citizens of the target area the proposed project.

b. (4 Points) Involvement of the faculty and students. The applicant must describe the extent to which it proposes to integrate the institution's students and faculty into proposed project activities.

c. (3 Points) HUD Policy Priorities. HUD encourages applicants to undertake specific activities that will assist the Department in implementing its policy priorities and which help the Department achieve its goals and objectives in FY2005, when the majority of grant recipients will be reporting programmatic results and achievements. In addressing this factor, HUD will evaluate the extent to which a program will further and support HUD's priorities. The quality of the responses provided to one or more of HUD's priorities will determine the score an applicant can receive. Applicants must describe how each policy priority selected will be addressed. Applicants that just list a priority will receive no points. Each policy priority addressed has a point value of one point with the exception of the policy priority to remove regulatory barriers to affordable housing, which has a point value of up to 2 points. The total number of points available to applicants that address policy priorities is 3. It is up to the applicant to determine which of the policy priorities they elect to address to receive the available 3 points. To receive points for efforts to remove regulatory barriers to affordable housing, an applicant must submit the completed questionnaire found in the General Section. (Form HUD-27300). For the full list and explanation of each policy priority, please refer to the General Section of this SuperNOFA.

d. (3 Points) Affirmatively Furthering Fair Housing. This subfactor will be evaluated on the extent to which an applicant describes how it proposes to undertake activities designed to affirmatively further fair housing, for example:

(1) Working with other entities in the community to overcome impediments to fair housing, such as discrimination in the sale or rental of housing or in advertising, provision of brokerage services or lending;

(2) Promoting fair housing choice through the expansion of homeownership opportunities and improved quality of services for minorities, families with children, and persons with disabilities; or

(3) Providing housing mobility counseling services.

4. Rating Factor 4: Leveraging Resources (10 Points) This factor addresses the ability of the applicant to secure resources that can be combined with HUD's grant funds to achieve the program's purpose.

In evaluating this factor, HUD will consider the extent to which the applicant established partnerships with other entities to secure additional resources to increase the effectiveness of the proposed project activities. Resources may include funding or in-kind contributions, such as services or equipment, allocated to the purpose(s) of the grant. Resources may be provided by governmental entities, public or private nonprofit organizations, for-profit private organizations, or other entities. Applicants may also establish partnerships with other program funding recipients to coordinate the use of resources in the target area. Overhead and other institutional costs (e.g., salaries, indirect costs, etc.) that the institution has waived may be counted. Examples of potential sources for outside assistance includes:

• Federal, State, and local governments.

• Public Housing Agencies.

• Local or national nonprofit organizations.

• Financial Institutions and/or private businesses.

• Foundations.

• Faith-based and other community-based organizations.

For each cash or in-kind contribution to the program a letter of commitment, memorandum of understanding, or agreement must be provided that shows the extent and firmness of the commitment of leveraged funds (including any commitment of resources from the applicant's own institution) in order for these resources to count in determining points under this factor. Resources will not be counted for which there is no commitment letter, memorandum of understanding, or agreement, nor quantified level of commitment. Letters, memoranda of understanding, or agreements must be submitted from the provider on the provider's letterhead and be included with the application package. (Applicants must place all letters, memoranda of understanding, or agreements in the Appendices). The date of the letter, memorandum of understanding, or agreement from the CEO of the provider organization must be dated no earlier than the date of this published SuperNOFA. Applications that do not include evidence of leveraging as described below will receive zero (0) points for this Factor.

a. A firm commitment letter, memorandum of understanding, or agreement must address the following:

(1) The cash amount contributed or dollar value of the in-kind goods and/or services committed;

(2) A specific description of how each contribution is to be used;

(3) The date the contribution will be made available and a statement that describes the duration of the contribution;

(4) Any terms or conditions affecting the commitment, other than receipt of a HUD Grant; and

(5) The signature of the appropriate executive officer authorized to commit the funds and/or goods and/or services. Please remember that only items eligible for funding under this program can be counted.

5. Rating Factor 5: Achieving Results and Program Evaluation (10 Points). This factor reflects HUD's goal to embrace high standards of management and accountability. It measures the applicant's commitment to assess their performance to achieve the program's proposed objectives and goals. Applicants are required to develop an effective, quantifiable, outcome oriented evaluation plan for measuring performance and determining that objectives and goals have been achieved.

“Outcomes” are benefits accruing to institutions of higher education and/or communities during or after participation in the AN/NHIAC program. Applicants must clearly identify the outcomes to be measured and achieved. Examples of outcomes include increased community development in the target community by a certain percentage, increased employment opportunities in the target community by a certain percentage, increased incomes/wages or other assets for persons trained, and or enhanced family stability through the creation of affordable housing opportunities.

In addition, applicants must establish interim benchmarks and outputs that lead to the ultimate achievement of outcomes. “Outputs” are the direct products of the program's activities. Examples of outputs are the number of new affordable housing units, the number of homes that have been renovated, the number of facilities that been constructed or rehabilitated. Outputs should produce outcomes for the program. At a minimum, an applicant must address the following activities in the evaluation plan:

a. Measurable objectives to be accomplished (e.g., the number of persons to be trained and employed; houses to be built pursuant to 24 CFR 570.207 or rehabilitated; minority-owned businesses to be started);

b. Measurable impacts the grant will have on the community in general and the target area or population; and

c. The impact the grant will have on assisting the university to obtain additional resources to continue this type of work at the end of the grant performance period.

This information must be placed under this section on a HUD-96010, Program Outcome Logic Model form. (Applicants may use as many copies of this form as required. It will not be included in the page count requirement). A narrative is not required; however, if a narrative is provided, those pages will be included in the page count. Additional information on this form and how to use can be found in the General Section of the SuperNOFA.

B. Review and Selection Process

1. Application Selection Process

Two types of reviews will be conducted:

a. A threshold review to determine an applicant's basic eligibility; and

b. A technical review for all applications that pass the threshold review to rate and rank the application based on the “Factors for Award” listed in Section V.A above. Only those applications that pass the threshold review will receive a technical review and be rated and ranked.

2. Rating Panels

To review and rate applications, HUD may establish panels, which may include experts or consultants not currently employed by HUD. These individuals may be included to obtain certain expertise.

3. Ranking

HUD will fund applications in rank order, until all available program funds are awarded. HUD will fund applications in rank order, until all available program funds are awarded. In order to be funded, an applicant must receive a minimum score of 75 points out of a possible 100 points for Factors 1 through 5. In addition, two bonus points may be awarded for RC/EZ/EC, as described in the General Section of the SuperNOFA. If two or more applications have the same number of points, the application with the most points for Factor 3, Soundness of Approach, shall be selected. If there is still a tie, the application with the most points for Factor 1, Capacity of the Applicant and Relevant Organizational Experience, shall be selected. HUD reserves the right to make selections out of rank order to provide for geographic distribution of grantees. HUD also reserves the right to reduce the amount of funding requested in order to fund as many highly ranked applications as possible. Additionally, if funds remain after funding the highest ranked applications, HUD may fund part of the next highest-ranking application. If an applicant turns down the award offer, HUD will make the same determination for the next highest-ranking application. If funds remain after all selections have been made, the remaining funds will be carried over to the next funding cycle's competition.

4. Correction to Deficient Applications

The General Section of the SuperNOFA provides the procedures for correction to deficient applications.

C. Anticipated Announcement and Award Dates

Announcements of awards are anticipated on or before September 30, 2004.

VI. Award Administration Information

A. Award Notices

After all selections have been made, HUD will notify all winning applicants in writing. HUD may require winning applicants to participate in additional negotiations before receiving an official award. For further discussion on this matter, please refer to the General Section of the SuperNOFA.

B. Administrative and National Policy Requirements

The provisions of the HUD Reform Act of 1989 that apply to this NOFA are explained in the General Section of the SuperNOFA.

1. Debriefing

The General Section of the SuperNOFA provides the procedures for requesting a debriefing. All requests for debriefings must be made in writing and submitted to: Armand Carriere; Office of University Partnerships; Robert C. Weaver Federal Building; 451 Seventh Street, SW., Room 8106; Washington DC 20410. Applicants may also write to Mr. Carriere via email at Armand_W._Carriere@hud.gov.

2. Administrative

Grants awarded under this NOFA will be governed by the provisions of 24 CFR part 84 (Grants and Agreements with Institutions of Higher Education, Hospitals and Other Non-Profit Organizations), A-21 (Cost Principles for Education Institutions) and A-133 (Audits of States, Local Governments, and Non-Profit Organizations). Applicants can access the OMB circulars at the White House Web site at: http://www.whitehouse.gov/omb/circulars/index.html.

3. OMB Circulars and Government-Wide Regulations Applicable to Financial Assistance Programs

The General Section of the SuperNOFA provides discussion of OMB circulars and government wide regulation.

4. Executive Order 13202, Preservation of Open Competition and Government Neutrality Towards, Government Contractor's Labor Relations on Federal and Federally Funded Construction Projects

See the General Section of the SuperNOFA for further discussion.

5. Economic Opportunities for Low- and Very-Low Income Persons (Section 3)

The provisions of Section 3 of the Housing and Urban Development Act of 1968 (12 U.S.C. 1701u) apply to this NOFA. Regulations may be found at 24 CFR part 135.

6. Executive Order 13166, Improving Access to Services for Persons with Limited English Proficiency (LEP)

See the General Section of the SuperNOFA for further discussion.

7. Conflict of Interest

See the General Section of the SuperNOFA for further discussion.

C. Reporting

All grant recipients under this NOFA are required to submit quarterly progress reports. The progress reports shall consist of two components, a narrative that must reflect the activities undertaken during the reporting period and a financial report that reflects costs incurred during the reporting period as well as a cumulative summary.

For each reporting period, as part of the required report to HUD, grant recipients must include a completed Logic Model (Form HUD-96010), which identifies output and outcome achievements.

VII. Agency Contacts

Applicants may contact Sherone Ivey at (202) 708-3061, extension 4200 or Susan Brunson at (202) 708-3061, extension 3852. Persons with speech or hearing impairments may call the Federal Information Relay Service TTY at (800) 877-8339. Except for the “800” number, these numbers are not toll-free. Applicants may also reach Ms. Ivey via email at Sherone_E._Ivey@hud.gov, and/or Ms. Brunson at Susan_S._Brunson@hud.gov.

VIII. Other Information

Paperwork Reduction Act

The information collection requirements contained in this document have been approved by the Office of Management and Budget (OMB) under the Paperwork Reduction Act of 1995 (44 U.S.C. 3501-3520) and assigned OMB control number 2528-0205. In accordance with the Paperwork Reduction Act, HUD may not conduct or sponsor, and a person is not required to respond to, a collection of information unless the collection displays a currently valid OMB control number. Public reporting burden for the collection of information is estimated to average 59 hours per annum per respondent for the application and grant administration. This includes the time for collecting, reviewing, and reporting the data for the application, quarterly, and final reports. The information will be used for grantee selection and monitoring the administration of funds. Response to this request for information is required in order to receive the benefits to be derived.

BILLING CODE 4210-32-P

Tribal Colleges and Universities Program Overview Information

A. Federal Agency Name: Department of Housing and Urban Development, Office of Policy Development and Research, Office of University Partnerships.

B. Funding Opportunity Title: Tribal Colleges and Universities Program (TCUP).

C. Announcement Type: Initial announcement.

D. Funding Opportunity Numbers: The Federal Register Number for this program is FR-4900-N-13. The OMB Approval Number for this program is 2528-0215.

E. Catalog of Federal Domestic Assistance (CFDA) Number: The CFDA Number for this program is 14.519.

F. Dates: The application due date shall be on or before June 25, 2004. Please see the General Section of the SuperNOFA for application submission, delivery, and timely requirements.

G. Additional Overview Content Information:

1. Purpose of the Program: The Tribal Colleges and Universities Program (TCUP) assists Tribal Colleges and Universities (TCU) to build, expand, renovate, and equip their own facilities.

2. Award Information: In Fiscal Year (FY) 2004, approximately $2.98 million has been appropriated for this program by the Consolidated Appropriations Act, 2004 (Pub. L. 108-199, approved January 23, 2004, 118 Stat. 3). The maximum amount a TCUP applicant can request for award is $600,000 for a three-year (36 months) grant performance period.

3. Eligible Applicants: Tribal Colleges and Universities that meet the definition of a TCU established in Title III of the 1998 Amendments to the Higher Education Act of 1965 (Pub. L. 105-244, approved October 7, 1998) are eligible to apply for funding under this program. Institutions must be accredited or provide a statement in their application to verify that the institution is a candidate for accreditation by a regional institutional accrediting association recognized by the U.S. Department of Education.

Full Text of Announcement

I. Funding Opportunity Description

The purpose of this program is to assist Tribal Colleges and Universities (TCU) to build, expand, renovate, and equip their own facilities. Listed below are major modifications from the FY2003 program-funding announcement:

1. This program has a separate NOFA and is no longer a part of the combined Office of Universities Partnerships Program NOFA.

2. All applications must be mailed to: University Partnerships Clearinghouse; c/o Danya International; 8737 Colesville Road, Suite 1200; Silver Spring, MD 20910.

3. Points will no longer be assigned to the budget. However, a budget narrative must be submitted that addresses the total dollar amount reflected on the HUD-424-CB for the entire three-year grant performance period.

4. The maximum amount an applicant can request for award has been increased from $400,000 to $600,000 for a three-year (36 months) grant performance period.

HUD's authority for making funding available under this NOFA is the Consolidated Appropriations Act, 2004 (Pub. L. 108-199, approved January 23, 2004, 118 Stat. 3). This program is being implemented through this NOFA and the policies governing its operation are contained herein.

II. Award Information

In Fiscal Year (FY) 2004, $2.98 million has been appropriated for this program by the Consolidated Appropriations Act, 2004 (Pub. L. 108-199, January 23, 2004, 118 Stat. 3). The maximum amount a TCUP applicant can request for award is $600,000 for a three-year (36 months) grant performance period.

III. Eligibility Information

A. Eligible Applicants

Tribal Colleges and Universities that meet the definition of a TCU established in Title III of the 1998 Amendments to the Higher Education Act of 1965 (Pub. L. 105-244, enacted October 7, 1998) are eligible to apply for funding under this program. Institutions must be accredited or provide a statement in their application that verifies the institution is a candidate for accreditation by a regional institutional accrediting association recognized by the U.S. Department of Education.

B. Cost Sharing or Matching:

None Required

C. Other

1. Eligible Activities

Eligible activities include building, expanding, renovating, and equipping facilities owned by the institution (a long-term lease for five years or more in duration is considered an acceptable form of ownership under this program). Buildings in which an institution undertakes activities that also serve the community are eligible; however, the facilities must be predominantly for the use of the institution (e.g., students, faculty, and staff). Examples of eligible activities include, but are not limited to:

a. Building of a new gymnasium for students, but also offering some physical education classes or other activities in the evening to the larger community;

b. Rehabilitating a student union building that would also serve as a community meeting facility;

c. Equipping the university's computer lab, but involving the larger community in helping the institution identify workshops that would be of interest to the community; and

d. Developing a facility solely for the use of the institution (e.g., a dormitory, classrooms, or administration building).

2. Threshold Requirements Applicable to all Applicants

All applicants must comply with the threshold requirements as defined in the General Section of the SuperNOFA and the requirements listed below to be evaluated, rated, and ranked.

Applications that do not meet these requirements will be considered ineligible for funding and will be disqualified:

a. The applicant must meet the eligibility requirements as defined in Section III.A. Eligible Applicants.

b. The maximum amount a TCUP applicant can request for award is $600,000.

c. Funds awarded under this program may not be used for public services, as defined in 24 CFR part 570, subpart C 570.201(e).

d. Only one application is eligible for funding from an institution or campus. However, an individual campus that is one of several campuses of the same institution may apply separately as long as the applicant's campus has a separate administrative and budget structure.

e. Institutions that received grants in FY2003 are not eligible to apply under this NOFA.

f. Applicants must receive a minimum score of 75 points to be considered for funding.

g. An applicant must have a DUNS number to receive HUD grant funds. (The General Section of the SuperNOFA provides information regarding the DUNS requirement).

3. Program Requirements

In addition to the program requirements listed in the General Section of the SuperNOFA, applicants must meet the following program requirements:

a. All funds awarded under this program must be spent during a three-year (36 months) grant performance period.

b. While community-wide use of a facility (that is purchased, leased, or built) is permissible under this program, the facility must be predominantly for the use of the institution (i.e., it must be used by the staff, faculty, and/or students at least 51 percent of the time).

c. Applicants that claim leveraging from any source (e.g., tribal, Federal and/or State governments, Tribally Designated Housing Entities, foundations, etc.), including their own institution, must provide letters of firm commitment, memoranda of understanding, or agreements evidencing the extent and firmness of the commitment. These documents must be dated no earlier than the date of this published NOFA and follow the outline provided for this program in section V, Application Review Information, “Factor 4 Leveraging Resources” of this NOFA.

d. Each activity proposed for funding must meet one of the following Community Development Block Grant (CDBG) Program national objectives:

(1) Benefit low- and moderate-income persons;

(2) Aid in the prevention or elimination of slums or blight; or

(3) Meet other community development needs having a particular urgency because existing conditions pose a serious and immediate threat to the health and welfare of the community, and other financial resources are not available to meet such needs. Criteria for determining whether an activity addresses one or more objectives are provided at 24 CFR 570.208.

e. If a TCU is a part or instrumentality of a federally recognized tribe, the applicant must comply with the Indian Civil Rights Act (25 U.S.C. 1301 et seq.) and all other applicable civil rights statues and authorities as set forth in 24 CFR 1000.12. If the TCU is not a part or instrumentality of a federally recognized tribe the applicant must comply with the Fair Housing Act (42 U.S.C. 3601-19) and implementing regulations at 24 CFR part 100 et seq., Title VI of the Civil Rights Act of 1964 (42 U.S.C. 2000d-2000d-4) (Nondiscrimination in Federally Assisted Programs) and implementing regulations at 24 CFR part 1, and section 109 of Title One of the Housing and Community Development Act of 1974 (HCDA), as amended, with respect to nondiscrimination on the basis of age, sex, religion, or disability and implementing regulations at 24 CFR part 6.

f. Labor Standards. Institutions and their subgrantees, contractors and subcontractors must comply with the labor standards (Davis-Bacon) requirements referenced in 24 CFR 570.603. However, in accordance with HCDA section 107(e)(2), the Secretary waives the provisions of HCDA section 110 with respect to the TCUP program for grants to a TCU that is part of a tribe, i.e., a TCU that is legally a department or other part of a tribal government, but not a TCU that is established under tribal law as an entity separate from the tribal government. If a TCU is not part of a tribe, the labor standards of HCDA section 110, as referenced in 24 CFR 570.603, apply to activities under the grant to the TCU.

g. Environmental Requirements. Selection for award does not constitute approval of any proposed sites. Following selection for award, HUD will perform an environmental review of activities proposed for assistance in accordance with 24 CFR part 50. The results of the environmental review may require that proposed activities be modified or proposed sites be rejected. Applicants are particularly cautioned not to undertake or commit funds for acquisition or development of proposed properties prior to HUD approval of specific properties or areas. An application constitutes an assurance that the institution will assist HUD to comply with part 50; will supply HUD with all available and relevant information to perform an environmental review for each proposed property; will carry out mitigating measures required by HUD or select alternate property; and will not acquire, rehabilitate, convert, demolish, lease, repair, or construct property and not commit or expend HUD or local funds for these program activities with respect to any eligible property until HUD's written approval of the property is received. In supplying HUD with environmental information, applicants should use the same guidance as provided in the HUD Notice CPD-99-01 entitled “Field Environmental Review Processing for HUD Colonias Initiative (HCI) Grants” issued January 27, 1999.

The General Section of the SuperNOFA provides further discussion of the environmental requirements. Further information and assistance on HUD's environmental requirements is available at: http://www.hud.gov/offices/cpd/energyenviron/environment/index.cfm.

h. Site Control. Where grant funds will be used for acquisition, rehabilitation, or new construction, an applicant must demonstrate site control. If the recipient cannot demonstrate control of a suitable site within one year after initial notification of award of assistance, HUD may recapture or deobligate any remaining grant funds.

IV. Application and Submission Information

A. Addresses to Request Application Package

1. Applicants may request general information, copies of the General Section and Program Sections of the SuperNOFA from the NOFA Information Center (800-HUD-8929 or 800-HUD-2209 (TTY)) between the hours of 9 a.m. and 8 p.m. (eastern time) Monday through Friday, except on Federal holidays. When requesting information, please refer to the Tribal Colleges and Universities Program. Be sure to provide your name, address (including zip code), and telephone number (including area code). To ensure sufficient time to prepare an application, requests for copies of this NOFA can be made immediately following publication of the SuperNOFA. The NOFA Information Center opens for business simultaneously with the publication of HUD's 2004 NOFA. Applicants can also obtain information on the SuperNOFA and download application information for the SuperNOFA through the HUD Web site: http://www.hud.gov.

B. Content and Form of Application Submission

1. A complete application package must include an original signed application, three copies, and one computer disk of the application (in Word 6.0 or higher), and items listed below. (The computer disk should include the narrative portion of the application and all required forms. Forms may be downloaded from http://www.hud.gov.) In order to recycle paper, applications must not be submitted in bound form; binder clips or loose-leaf binders are acceptable. Please do not use colored paper. Applications must be submitted on 8½ by 11-inch paper, double-spaced on one side of the paper, with one-inch margins (from the top, bottom, left and right) and printed in a standard Times New Roman 12-point font. Each page must be numbered and include the applicant's name. Each section must be tabbed sequentially. The application narrative, tables, and maps must not exceed 75 pages (excluding forms, budget narrative, assurances, commitment letters, memoranda of understanding, agreements, and abstract). The double-spacing requirement applies to the application narrative (excluding the abstract, tables, maps, budget narrative, commitment letters, memoranda of understanding, and agreements). Please note that although submitting pages in excess of the page limit will not disqualify an application, HUD will not consider the information on any excess page. This may result in a lower score or failure to meet a threshold requirement. Except where a particular form may direct otherwise, all forms included in an application, as well as the transmittal letter, must be signed by the Chief Executive Officer (this is generally the President or Provost) or an official authorized legally to make a commitment on behalf of the institution. If a designee signs, the application must contain a copy of the official designation of signatory authority.

Please include in your application each item in the order listed below:

1. SF-424, Application for Federal Assistance. Instructions for completing this form are found on the back of the first page of the form. Please remember the following:

a. The full grant amount (entire three-years) should be entered, not the amount for just one year;

b. Include the name, title, address, telephone number, facsimile number, and email address of the designated contact. This is the person who will receive the reviewer comments; therefore, please ensure the accuracy of the information;

c. The Employer Identification/Tax ID number;

d. The DUNS Number;

e. The Catalog of Federal Domestic Assistance Number for this program is 14.519;

f. The project's proposed start and completion date. For the purpose of this application the program start date should be October 1, 2004; and

g. The signature of an authorized official (an individual who has the authority to make a binding commitment on behalf of the institution).

2. Transmittal Letter. The letter should contain a statement that the institution is an eligible applicant because it is a two-or four-year fully accredited institution. This letter should state the name of the accrediting agency, and that the accrediting agency is recognized by the U.S. Department of Education. Applicants who have applied for accreditation by a regional instructional accrediting association recognized by the U.S. Department of Education must also state the name of the accrediting agency. Applicants may also use the transmittal letter as one way to demonstrate the President's commitment to the institutionalization of the program. The Chief Executive Officer (usually the President or Provost) of the institution must sign this letter. If the Chief Executive Officer has delegated this responsibility to another official, that person may sign, but a copy of the delegation of authority must be included or clearly stated in the letter. Applicants must also indicate whether their institution is a department or agency of a tribal government and is thus claiming exemption from Davis-Bacon labor standards and the non-discrimination provision of section 109 of the Housing and Community Development Act of 1974.

3. Application Checklist. Applicants must include the completed checklist in their application. On the checklist, applicants must indicate the page number where each of the items can be found in the application (see Appendix A).

4. Abstract. Applicants must include no more than a two-page summary of the proposed project. Please include the following:

a. A clear description of the proposed project activities, the target population that will be assisted, and the impact this project will have on the institution;

b. The designated contact person, including phone number, facsimile number, and email address (This is the person who will receive the reviewers' comments; therefore, please ensure the accuracy of the information);

c. University's name, mailing address, telephone number, facsimile number and email address; and;

d. The principal investigator, if different from the designated contact person for the project, including phone number, facsimile number, and e-mail address.

5. Narrative statement addressing the Factors for Award. HUD will use the narrative response to the “Factors for Award” to evaluate, rate, and rank applications. The statement and work plan are the main sources of information. Applicants are advised to review each factor carefully for program specific requirements. The response to each factor should be concise and contain only information relevant to the factor, but detailed enough to address the factor fully. Please do not repeat material in response to the five factors; instead focus on how well the proposal responds to each of the factors. In factors where there are subfactors, each subfactor must be presented separately, with the short title of the subfactor presented. Make sure to address each subfactor and provide sufficient information about every element of the subfactor.

6. Budget. The budget submission must be placed behind the narrative statement addressing the “Factors for Award” and include the following form:

a. HUD-424-CB, “Grant Application Detailed Budget.” This budget form shows the total budget by year and by line item for the program activities to be carried out with the proposed HUD grant. Each year of the program should be presented separately. Applicants must also submit this form to reflect the total cost for the entire grant performance period (Grand Total).

Make sure that the amount shown on the SF-424, HUD-424-CB, and all other required program forms is consistent and the totals are correct. Remember to check the addition in totaling the categories on the HUD 424-CB form so that all items are included in the total. All forms must be completed in full. If an application is selected for award, the applicant may be required to provide greater specificity to the budget during grant agreement negotiations.

b. Budget Narrative. A narrative must be submitted that explains how the applicant arrived at the cost estimates, for any line item over $5,000. For example, an applicant proposes to construct an addition to an existing building, which will cost approximately $200,000. The following cost estimate reflects this total: Foundation cost $75,000, electrical work $40,000, plumbing work $40,000, interior finishing work $35,000 and landscaping $10,000. The proposed cost estimates should be reasonable for the work to be performed and consistent with rates established for the level of expertise required to perform the work proposed in the geographical area. When necessary, quotes from various vendors or historical data should be used and included. All direct labor or salaries must be supported with mandated city/state pay scales, Davis-Bacon wage rates, or other documentation. When an applicant proposes to use a consultant, the applicant must indicate whether there is a formal agreement or written procurement policy. For each consultant, please provide the name, if known, hourly or daily fee, and the estimated time on the project. Applicants must submit a cost estimate from a qualified firm (e.g., Architectural or Engineering firm) vendor and/or qualified individual (e.g., independent architect) other than the institution for projects that involve rehabilitation of residential, commercial and/or industrial structures; and/or acquisition, construction, or installation of public facilities and improvements. Such an entity must be involved in the business of housing rehabilitation, construction, and/or management. Equipment and contracts cannot be presented as a total estimated figure. For equipment, applicants must provide a list by type and cost for each item. Applicants using contracts must provide an individual description and cost estimate for each contract.

c. Indirect costs. Indirect costs, if applicable, are allowable based on an established approved indirect cost rate. Applicants should include a copy of their indirect cost rate agreement with their application. Applicants who are selected for funding that do not have an approved indirect cost rate agreement (established by the cognizant Federal agency, Certified Public Account, or auditor) will be required to establish a rate. In such cases, HUD will issue an award with a provisional rate and enter into an agreement to have one established.

d. Audits. Applicants must ensure that their most current A-133 audit is on file at the Federal Audit Clearinghouse. Grantees that expend $500,000 or more in Federal financial assistance in a single year (this can be program year or fiscal year) must be audited in accordance with the OMB requirements as established in 24 CFR parts 84 and 85. Additional information regarding this requirement can be accessed at the following Web site http:// harvester.census.gov/sac.

7. Appendix. Applicants must place the letters of commitment, memoranda of understanding, or agreements for funds/resources in response to Factor 4 in this section. An applicant may not submit general support letters or resumes or other back-up materials (unless an applicant is willing to have the latter count toward the page limit requirement).

C. Submission Dates and Times

A complete application package is due on or before June 25, 2004. Please see the General Section of the SuperNOFA for application submission, delivery, and timely receipt requirements.

D. Intergovernmental Review

This program is excluded for an Intergovernmental Review.

E. Funding Restrictions

1. Ineligible activities for funding under this program include, but are not limited to the following:

a. Renovation of a facility in which the facility is not used at least 51 percent of the time by the institution;

b. Rental space to another entity that operates a small business assistance center; and

c. Building of a new gymnasium, where the activities are for non-students, or the activities are primarily run by an outside entity.

2. Applicants can use up to 20 percent of the grant for payments of reasonable grant administrative costs related to planning and execution of the project (e.g., preparation/submission of HUD reports). A detailed explanation of these costs is provided in the OMB circulars that can be accessed at the White House Web site at: http://www.whitehouse.gov/omb/circulars/index.html.

F. Other Submission Requirements

1. Complete Application Package

This package must be submitted to the following address: University Partnerships Clearinghouse; c/o Danya International, 8737 Colesville Road, Suite 1200, Silver Spring, MD 20910. When submitting an application package, include the following information on the outside of the envelope:

a. Office of University Partnerships;

b. Tribal Colleges and Universities Program; and

c. Applicant's name and mailing address (including ZIP code).

Applicants must refer to the General Section of the SuperNOFA for detailed requirements governing application submission and receipt.

2. Forms, Certifications, and Assurances

The following certifications and assurances must be included in all application packages. These forms must be signed by the Chief Executive Officer (or official designee) of the institution and can be downloaded from http://www.hud.gov.

a. Application for Federal Assistance (SF-424).

b. Applicant Assurances and Certifications (HUD-424-B).

c. Disclosure of Lobbying Activities (SF-LLL).

d. Applicant/Recipient Disclosure/Update Report (HUD-2880).

e. Grant Application Detailed Budget (HUD-424-CB).

f. Program Logic Model (HUD-96010).

g. Survey on Equal Opportunity (HUD-32004).

h. Acknowledgment of Receipt of Application (HUD-2993). To confirm that HUD has received the application package, please complete this form. Applicants are not required to include this form, but it is recommended that an applicant do so.

i. Client Comments and Suggestions (HUD-2994). This form is included to solicit information from the most valuable source, the applicant. The changes that we have instituted this year are designed to make things easier for the applicant. If applicants complete and submit this form, it will help us to assess whether the changes have had the intended results. It will also guide us in our continuing efforts to improve the competitive grant process. Applicants are not required to complete this form.

V. Application Review Information

A. Criteria

1. Rating Factor 1: Capacity of the Applicant and Relevant Organizational Experience (25 Points). This factor addresses the extent to which the applicant has the organizational resources necessary to successfully implement the proposed activities in a timely manner.

a. Knowledge and Experience of the Proposed Staff (15 Points). In rating this subfactor, HUD will consider the extent to which the applicant demonstrates the experience and knowledge of the overall project director and staff, including the day-to-day program manager, consultants, (including technical assistance providers) and contractors in planning and managing the kind of projects for which funding is being requested. Experience will be judged in terms of recent and relevant knowledge and skills of the staff to undertake eligible program activities. HUD will consider experience within the last five years to be recent and experience pertaining to specific activities and producing specific accomplishments to be relevant.

b. Knowledge and Experience of the Institution (10 Points). In rating this subfactor, HUD will consider the knowledge and experience of the institution in managing and overseeing a similar project. Experience will be judged in terms of recent and successful completion of such project. HUD will consider experience within the last five years to be recent.

2. Rating Factor 2: Need/Extent of the Problem (10 Points). This factor addresses the extent to which there is a need for funding the proposed project activities and an indication of the importance of meeting the need(s). The need described must be relevant to activities for which funds are being requested. The proposal will be rated on the extent to which the level of need for the proposed project activities and the importance of meeting the need(s) are documented. Applicants must use statistics and analyses contained in at least one or more current data sources that are sound and reliable. The data provided must be current and specific to the area where the proposed project activities will be carried out. Reliable sources of data may include information that describe the need, such as a building needs to be constructed because it is 50 years old and is deteriorating; a new computer lab has been built, but the computers are obsolete; a library has been expanded, but the books are outdated, etc. In rating this factor, HUD will consider data collected within the last five years to be current.

3. Rating Factor 3: Soundness of Approach (45 Points). This factor addresses the quality and effectiveness of the proposed work plan. There must be a clear relationship between the proposed activities and the need(s) identified in Factor 2 for an applicant to receive points for this factor.

a. Quality of Work Plan (35 Points). (1) Specific Services and/or Activities. The work plan must describe all proposed activities and major tasks required to implement the proposed project. HUD will consider the probability of success of the program, the significance of the tasks identified, the measurable objectives, how realistic are the proposed time frames, and who will be responsible for completing each proposed activity. Specifically, HUD will examine the proposed activities and determine to what extent the project activities are measurable (e.g., the number of classrooms added, the increase in enrollment), result in improvement to the institution as a result of the project activities (e.g., fifty more students will be receiving computer literacy training, etc.) and how well it is demonstrated that these objectives will be achieved/measured by the proposed management plan and team.

(2) Describe clearly how the proposed project activities will address the following:

(a) Alleviate and/or fulfill the needs identified in Factor 2; and

(b) Relate to and not duplicate other activities in the target area.

b. (2 Points) Community Involvement. HUD will consider the extent to which the applicant has involved the community in the proposed project.

c. (5 Points) Involvement of the Faculty and Students. The applicant must describe the extent to which it proposes to integrate the institution's students and faculty into proposed project activities.

d. (3 Points) HUD Policy Priorities. HUD encourages applicants to undertake specific activities that will assist the Department in implementing its policy priorities and help the Department achieve its goals and objectives in FY2005, when the majority of grant recipients will be reporting programmatic results and achievement. In addressing this factor, HUD will evaluate the extent to which a program will further and support HUD priorities. The quality of the responses provided to one or more of HUD's priorities will determine the score an applicant can receive. Applicants must describe how each policy priority will be addressed. Applicants that just list a priority will receive no points. Each policy priority addressed has a point value of one point. The total number of points available to applicants that address policy priorities is 3. It is up to the applicant to determine which of the policy priorities they elect to address to receive the available 3 points. Applicants that address more than three policy priorities will not receive additional points. For the full list and explanation of each policy priority, please refer to the General Section of this SuperNOFA.

4. Rating Factor 4: Leveraging Resources (10 Points). This factor addresses the ability of the applicant to secure resources that can be combined with HUD's grant funds to achieve the project's purpose.

In evaluating this factor, HUD will consider the extent to which the applicant established partnerships with other entities to secure additional resources to increase the effectiveness of the proposed project activities. Resources may include funding or in-kind contributions, such as services or equipment, allocated to the purpose(s) of the grant. Resources may be provided by governmental entities (e.g., tribal, Federal, and/or State governments), public or private nonprofit organizations, for-profit private organizations, or other entities. Overhead and other institutional costs (e.g., salaries, indirect cost) that the institution has waived may be counted.

Examples of potential sources for outside assistance include:

• Tribal, Federal, State, and local governments.

• Tribally Designated Housing Entities.

• Local or national nonprofit organizations.

• Banks and/or private businesses.

• Foundations.

• Faith-based and other community-based organizations.

For each cash or in-kind contribution, a letter of commitment, memorandum of understanding, or agreement must be provided that shows the extent and firmness of the commitments of leveraged funds (including any commitment of resources from the applicant's own institution) in order for these resources to count in determining points under this factor. Resources will not be counted for which there is no commitment letter, memorandum of understanding or agreement, nor quantified level of commitment. Letters, memoranda of understanding, or agreements must be submitted from the provider on the provider's letterhead and be included with the application package (applicants must place all letters, memoranda of understanding, or agreements in the Appendices). The date of the letter, memorandum of understanding, or agreement from the CEO of the provider's organization must be dated no earlier than the date of this published SuperNOFA. Applicants that do not include evidence of leveraging will receive zero (0) points for this Factor.

a. A firm commitment letter, memorandum of understanding or agreement must address the following:

(1) The cash amount contributed or dollar value of the in-kind goods and/or services committed;

(2) A specific description of how each contribution is to be used;

(3) Any terms or conditions affecting the commitment, other than receipt of a HUD grant; and

(4) The signature of the appropriate executive officer authorized to commit the funds and/or goods and/or services.

Please remember that only items eligible for funding under this program can be counted.

5. Rating Factor 5: Achieving Results and Program Evaluation (10 Points). This factor reflects HUD's goal to embrace high standards of management and accountability. The factor measures the applicant's commitment to assess their performance to achieve the project's proposed objectives and goals. Applicants are required to develop an effective, quantifiable, outcome-oriented evaluation plan for measuring performance and determining that objectives and goals have been achieved.

“Outcomes” are benefits accruing to institutions of higher education during or after participation in the TCUP program. Applicants must clearly identify the outcomes to be measured and achieved. Examples of outcomes include an increased number of campus facilities (e.g., newly built or renovated), an increased number of classroom space available, and an increased student enrollment and graduation rate. In addition, applicants must establish interim benchmarks and outputs that lead to the ultimate achievement of outcomes.

“Outputs” are the direct products of the project's activities. Examples of outputs are the number of new facilities renovated, or the number of new dormitories built. Outputs should produce outcomes for the project. At a minimum, an applicant must address the following activities in the evaluation plan:

a. Short and long term objectives to be achieved;

b. Measurable impacts the grant will have on the university or the target population; This information must be placed under this section on a HUD-96010, Program Outcome Logic Model form. (Applicants can use as many copies of this form as required. It will not be included in the page count requirement). A narrative is not required for this factor; however, if a narrative is provided, those pages will be included in the page count. Additional information on this form and how to use it can be found in the General Section of the SuperNOFA.

B. Review and Selection Process

1. Application Selection Process

Two types of reviews will be conducted:

a. A threshold review to determine an applicant's basic eligibility; and

b. A technical review for all applications that pass the threshold review to rate and rank the application based on the “Factors for Award” listed in Section V.A. above. Only those applications that pass the threshold review will receive a technical review and be rated and ranked.

2. Rating Panels

To review and rate applications, HUD may establish panels that may include experts or consultants not currently employed by HUD. These individuals may be included to obtain certain expertise.

3. Ranking

HUD will fund applications in rank order, until all available program funds are awarded. In order to be funded, an applicant must receive a minimum score of 75 points out of a possible 100 points for Factors 1 through 5. The RC/EZ/EC bonus points described in the General Section of the SuperNOFA do not apply to this NOFA. If two or more applications have the same number of points, the application with the most points for Factor 3, Soundness of Approach, shall be selected. If there is still a tie, the application with the most points for Factor 1, Capacity of the Applicant and Relevant Organizational Experience, shall be selected. HUD reserves the right to make selections out of rank order to provide for geographic distribution of grantees. HUD also reserves the right to reduce the amount of funding requested in order to fund as many highly ranked applications as possible. Additionally, if funds remain after funding the highest ranked applications, HUD may fund part of the next highest-ranking application. If an applicant turns down the award offer, HUD will make the same determination for the next highest-ranking application. If funds remain after all selections have been made, the remaining funds will be carried over to the next funding cycle's competition.

4. Corrections to Deficient Applications

The General Section of the SuperNOFA provides the procedures for corrections to deficient applications.

C. Anticipated Announcement and Award Dates

Announcements of awards are anticipated on or before September 30, 2004.

VI. Award Administration Information

A. Award Notice:

After all selections have been made, HUD will notify all winning applications in writing. HUD may require winning applicants to participate in additional negotiations before receiving an official award. For further discussion on this matter, please refer to the General Section of the SuperNOFA.

B. Administrative and National Policy Requirements

The provisions of the HUD Reform Act of 1989 that apply to this NOFA are explained in the General Section of this SuperNOFA.

1. Debriefing

The General Section of the SuperNOFA provides the procedures for requesting a debriefing. All requests for debriefings must be made in writing and submitted to: Armand Carriere; Office of University Partnerships; Robert C. Weaver Federal Building; 451 Seventh Street, SW., Room 8106; Washington, DC 20410-6000. Applicants may also write to Mr. Carriere via e-mail at Armand_W._Carriere@hud.gov.

2. Administrative

Grants awarded under this NOFA will be governed by the provisions of 24 CFR part 84 (Grants and Agreements with Institutions of Higher Education, Hospitals and Other Non-Profit Organizations), A-21 (Cost Principles for Education Institutions) and A-133 (Audits of States, Local Governments, and Non-Profit Organizations). Applicants can access the OMB circulars at the White House website at http://www.whitehouse.gov/omb/circulars/index.html.

3. OMB Circulars and Governmentwide Regulations Applicable to Financial Assistance Programs

The General Section of the SuperNOFA provides discussion of OMB circulars and governmentwide regulations.

4. Conflicts of Interest

See the General Section of the SuperNOFA for further discussion.

5. Executive Order 13202, Preservation of Open Competition and Government Neutrality Toward Government Contractors' Labor Relations of Federal and Federally Funded Construction Projects:

See the General Section of the SuperNOFA for further discussion.

C. Reporting

All grant recipients under this NOFA are required to submit quarterly progress reports. The progress reports shall consist of two components, a narrative that must reflect the activities undertaken during the reporting period and a financial report that reflects costs incurred during the reporting period as well as a cumulative summary.

For each reporting period, as part of the required report to HUD, grant recipients must include a completed Logic Model (form HUD 96010), which identifies output and outcome achievements.

VII. Agency Contacts

Applicants may contact Sherone Ivey at (202) 708-3061, extension 4200, or Susan Brunson at (202) 708-3061, extension 3852. Persons with speech or hearing impairments may call the Federal Information Relay Service TTY at (800) 877-8339. Except for the “800” number, these numbers are not toll-free. Applicants may also reach Ms. Ivey via e-mail at Sherone_E._Ivey@hud.gov, and Ms. Brunson at Susan_S._Brunson@hud.gov.

VIII. Other

Paperwork Reduction Act: The information collection requirements contained in this document have been approved by the Office of Management and Budget (OMB) under the Paperwork Reduction Act of 1995 (44 U.S.C. 3501-3520) and assigned OMB control number 2528-0215. In accordance with the Paperwork Reduction Act, HUD may not conduct or sponsor, and a person is not required to respond to, a collection of information unless the collection displays a currently valid OMB control number. Public reporting burden for the collection of information is estimated to average 68 hours per annum per respondent for the application and grant administration. This includes the time for collecting, reviewing, and reporting the data for the application, quarterly and final report. The information will be used for grantee selection and monitoring the administration of funds. Response to this request for information is required in order to receive the benefits to be derived.

BILLING CODE 4210-32-P

The Community Outreach Partnership Centers (COPC) Program

Overview Information

A. Federal Agency Name: Department of Housing and Urban Development, Office of Policy Development and Research, Office of University Partnerships.

B. Funding Opportunity Title: Community Outreach Partnership Centers (COPC) Program.

C. Announcement Type: Initial announcement.

D. Funding Opportunity Numbers: The Federal Register Number is FR-4900-N-26. The OMB Approval Number for this program is 2506-0180.

E. Catalog of Federal Domestic Assistance (CFDA) Number: The CFDA Number for this program is 14.511.

F. Dates: The application due date shall be on or before July 9, 2004. Please see the General Section of the SuperNOFA for application submission, delivery and timely receipt requirements.

G. Additional Overview Content Information:

1. Purpose of the Program. The Community Outreach Partnership Centers (COPC) Program provides funds to two-year and four-year colleges and universities to establish and operate COPCs to address the problems of urban areas.

2. Award Information. In Fiscal Year (FY) 2004, approximately $6.9 million has been appropriated for this program by the Consolidated Appropriations Act, 2004 (Pub. L. 108-199, approved January 23, 2004, 118 Stat. 3), plus $7,113 in previously unexpended funds. HUD will award two kinds of grants under this program, New Grants and New Directions Grants.

a. New Grants will be awarded to applicants who have never received a COPC grant to undertake eligible work. The maximum amount an applicant can request for award is $400,000 for a three-year (36 months) grant performance period.

b. New Directions Grants will be awarded to applicants who have previously received a COPC grant to undertake new directions in their activities. The maximum amount an applicant can request for award is $200,000 for a two-year (24 months) grant performance period.

HUD will use up to $5.5 million to fund approximately 13 New Grants and up to $1.4 million to fund approximately seven (7) New Directions Grants.

3. Eligible Applicants: Public or private nonprofit institutions of higher education granting two-or four-year degrees that are accredited by a national or regional accrediting agency recognized by the U.S. Department of Education are eligible to apply. Consortia of eligible institutions may also apply for funding under this program, as long as one institution is designated the lead applicant (Note: Institutions that participated in a COPC grant as a member of a consortium are eligible to apply for a New Grant if they received 25 percent or less of the funding from the earlier grant). HUD intends to fund at least two eligible COPC applications (applications that receive a minimum score of 75 points) that serve Colonias, (as defined in the General Section of the SuperNOFA). While it is not necessary for the institution to be located in a Colonia, all program activities must be directed to the Colonia and its residents. If less than two fundable applications are eligible for award these funds will be used to award additional COPC grants.

Full Text of Announcement

I. Funding Opportunity Description

The main purpose of the Community Outreach Partnership Centers (COPC) program is to assist in establishing or carrying out outreach and applied research activities that address problems of urban areas. The program also seeks to encourage structural change, both within an institution of higher education and in the way the institution relates to its neighbors.

A. Funding under this program shall be used to establish and operate local Community Outreach Partnership Centers (COPCs). The five key concepts that a COPC Program should include are:

1. Outreach and technical assistance

2. Empowerment efforts that engage community-based organizations and residents as partners with the institution throughout the life of the project and beyond;

3. Applied research related to the project's outreach activities (Note: Applicants are not required to undertake any research as part of their project and may apply for a project that is totally outreach focused);

4. Assistance to target communities primarily from the faculty, students, and to a limited extent by neighborhood residents and community-based organizations funded by the university; and

5. Support from the university's senior officials to make the program part of the institution's broader effort to meet its urban mission.

B. Listed below are major modifications from the FY2003 program funding announcement:

1. This program has a separate NOFA and is no longer a part of the combined Office of Universities Partnerships Program NOFA;

2. All applications must be mailed to: University Partnerships Clearinghouse, c/o Danya International, 8737 Colesville Road, Suite 1200, Silver Spring, MD 20910;

3. Points will no longer be assigned to the budget. However, a budget narrative must be submitted that addresses the total dollar amount reflected on the HUD-424-CB for the entire grant performance period (three years for New Grant applicants and two years for New Directions grant applicants);

4. New Directions applicants can now request $200,000 for a two-year (24 months) grant performance period; and

5. New Directions Grant applicants must have drawn down at least 75 percent of its grant funds from any previous COPC award three weeks prior (not two weeks as stated previously) to the program's application due date to be eligible to apply for and receive a New Directions Grant. It is the applicant's responsibility to make sure this requirement is met.

C. The COPC program is authorized under the Community Outreach Partnership Act of 1992 (42 U.S.C. 5307 note; the “COPC Act”). The COPC Act is contained in section 851 of the Housing and Community Development Act of 1992 (Pub. L. 102-550, approved October 28, 1992) (HCD Act of 1992). Section 801(c) of the HCD Act of 1992 authorized $7.5 million for each year of the 5-year demonstration to create Community Outreach Partnership Centers as authorized in the COPC Act. The Consolidated Appropriations Act, 2004 (Pub. L. 108-199, approved January 23, 2004, 118 Stat. 3) continues this program beyond the initial five-year demonstration by providing funding for Community Outreach Partnership Centers for FY2004. This program is being implemented through this NOFA and the policies governing its operation are contained herein.

II. Award Information

In FY2004, approximately $6.9 million has been appropriated for this program by the Consolidated Appropriations Act, 2004 (Pub. L. 108-199, approved January 23, 2004, 118 Stat. 3), plus $7,113 in previously unexpended funds. HUD will award two kinds of grants under this program, New Grants and New Directions Grants.

a. New Grants will be awarded to applicants who have never received a COPC grant to undertake eligible work. The maximum amount an applicant can request for award is $400,000 for a three-year (36 months) grant performance period.

b. New Directions Grants will be awarded to applicants who have previously received a COPC grant to undertake new directions in their activities. The maximum amount an applicant can request for award is $200,000 for a two-year (24 months) grant performance period.

HUD will use up to $5.5 million to fund approximately 13 New Grants and up to $1.4 million to fund approximately seven (7) New Directions Grants.

III. Eligibility Information

A. Eligible Applicants

Public or private nonprofit institutions of higher education granting two- or four-year degrees that are accredited by a national or regional accrediting agency recognized by the U.S. Department of Education. Consortia of eligible institutions may also apply, as long as one institution is designated the lead applicant. (Note: Institutions that participated in a COPC grant as a member of a consortium are eligible to apply for a New Grant if they received 25 percent or less of the earlier grant funds.) HUD intends to fund at least two eligible COPC applications (applications that receive a minimum score of 75 points) that serve Colonias (as defined in the General Section of this SuperNOFA). While it is not necessary for the institution to be located in a Colonia, all program activities must be directed to the Colonia and its residents. If less than two fundable applications are eligible for award these funds will be used to award additional COPC grants.

B. Cost Sharing or Matching

Applicants are required to meet the following match requirements:

1. New Grant Applicants Match Requirements

a. Research Activities. 50 percent of the total project costs of establishing and operating research activities.

b. Outreach Activities. 25 percent of the total project costs of establishing and operating outreach activities.

2. New Directions Grant Applicants Match Requirements

a. Research Activities. 60 percent of the total project costs of establishing and operating research activities.

b. Outreach Activities. 35 percent of the total project costs of establishing and operating outreach activities.

For each match, cash or in-kind contribution to the program, applicants must submit a signed letter of commitment (see section V, Application Review Information, Factor 4: Leveraging Resources). Applicants may not count as match any costs that would be ineligible for funding under the program (e.g., housing rehabilitation). In previous competitions, some applicants incorrectly based their match calculations on the federal grant amount only. An applicant's match is evaluated as a percentage of the total cost of establishing and operating research and outreach activities, not just the Federal grant amount.

Assume that the total project cost for a New COPC Grant was $500,000, with $125,000 for research and $375,000 for outreach. Note that this project meets the requirement that no more than one-quarter of the total project costs be allocated for research as defined in section III, Eligibility Information, Other. The total amount of the required match would be $156,250. The research match would be $62,500 ($125,000 × 50 percent) and the outreach match would be $93,750 ($375,000 × 25 percent). The Federal grant requested would be $343,750 ($500,000 minus the match of $156,250). In calculating the match, administrative costs should be applied to the appropriate attributable outreach or research component.

C. Other

1. Eligible Activities

COPC Programs may combine outreach activities with research (if applicable) and work with communities and local governments to address the multidimensional problems that beset urban areas. Examples of urban problems include, but are not limited to housing, economic development, neighborhood revitalization, health care, job training, education, crime prevention, planning, the environment, and community organizing.

a. Outreach, technical assistance, and information exchange activities must be designed to address specific urban problems in designated communities and neighborhoods served by the grant.

b. Research activities (if applicable, research activities are not required) must have a clear near-term potential and practical application for solving specific, significant urban problems in designated communities and neighborhoods, including evaluation of the effectiveness of the outreach activities and how they relate to HUD programs. Applicants must have the capacity to apply the research results directly to the proposed outreach activities outlined in the application's work plan. In addition, applicants must work with communities and local institutions, including neighborhood groups, local governments, and other appropriate community stakeholders, in applying these results to real-life urban problems.

(1) Examples of outreach activities include, but are not limited to:

(a) Assistance to communities to improve consolidated housing and community development plans and eliminate impediments to the design and implementation of such plans;

(b) Innovative use of funds to provide direct technical expertise and assistance to local community groups, residents, and other appropriate community stakeholders to resolve local problems such as homelessness, housing discrimination, and impediments to fair housing choice;

(c) Technical assistance in business start-up activities for low- and moderate-income individuals and organizations, including business start-up training and technical expertise and assistance, mentor programs, assistance in developing small loan funds, business incubators, etc;

(d) Technical assistance to local public housing agencies on welfare-to-work initiatives and physical transformations of public or assisted housing, including development of accessible and visitable housing;

(e) Job training and other training projects, such as workshops, seminars, and one-on-one and on-the-job training; and

(f) Assistance to communities in eliminating or reducing excessive, unnecessary or duplicative regulations, processes or policies that restrict the development or rehabilitation of affordable housing (For further discussion of Regulatory Barriers see the General Section of this SuperNOFA).

c. Funds for faculty development, including paying for course time or summer support, to enable faculty members to work with the COPC.

d. Funds for stipends or salaries for students (but the program cannot cover tuition and fees) while students are working with the COPC.

e. Up to 20 percent of the grant for payments of reasonable grant administrative costs related to planning and execution of the project (e.g., preparation/submission of HUD reports). Detailed explanations of these costs are provided in the Office of Management and Budget (OMB) circulars that can be accessed at the White House Web site at: http://www.whitehouse.gov/omb/circulars/index.html.

f. Activities to carry out the “Program Requirements” as defined in this NOFA. These activities may include leases for office space in which to house the Community Outreach Partnership Center, under the following conditions:

(1) The lease must be for existing facilities not requiring rehabilitation or construction;

(2) No repairs or renovations of the property may be undertaken with Federal funds; and

(3) Properties in the Coastal Barrier Resource System designated under the Coastal Barrier Resources Act (16 U.S.C. 3501) cannot be leased with Federal funds.

g. Components of the program may address metropolitan or regional strategies. Applicants must clearly demonstrate how:

(1) Strategies are directly related to what the targeted neighborhoods and neighborhood-based organizations have decided is needed; and

(2) Neighborhoods and neighborhood organizations are involved in both the development and implementation of the metropolitan or regional strategies.

2. Threshold Requirements Applicable to All Applicants

All applicants must comply with the threshold requirements as defined in the General Section of the SuperNOFA and the requirements listed below to be evaluated, rated, and ranked. Applications that do not meet these requirements will be considered ineligible for funding and will be disqualified: There will be two separate competitions, one for New Grants applicants and one for New Directions Grant applicants. For each type of grant applicants will be rated, ranked, and selected separately.

a. The applicant must meet the eligibility requirements as defined in section III A Eligible Applicants.

b. The maximum amount an applicant applying for a New Grant can request for award is $400,000. The maximum amount an applicant applying for a New Directions Grant can request for award is $200,000.

c. Applicants must meet the program's statutory match requirement (the requirement is defined in section III.B Cost Sharing or Matching).

d. New Grant applications must be multifaceted, address three or more urban problems, and propose at least one distinct activity to address each separate urban problem. Single purpose applications are not eligible.

e. New Directions Grant applications must address two urban problems and undertake at least one activity for each of these problems. Applicants must also demonstrate that the proposed activities either implement new eligible projects in the current target neighborhood(s) or implement eligible projects in a new target neighborhood(s). Single purpose applications are not eligible.

f. New Directions Grant applicants must have drawn down at least 75 percent of the grant funds from any previous COPC award three weeks prior to the program's application due date to be eligible to apply for and receive a New Directions Grant. It is the applicant's responsibility to make sure that this requirement is met.

g. Applicants who were a member of a consortium and received more than 25 percent of the earlier funding are not eligible to apply for a New Grant. However applicants may submit an application for a New Directions Grant (Applicants may submit an application individually or as part of the old consortium).

h. Only one New Grant or New Directions application will be eligible for funding from an institution. However different campuses of the same university system are eligible to apply, even if one campus has already received COPC funding if they have an administrative and budgeting structure independent of other campuses in the system.

i. Applicants may be part of only one consortium or submit only one application, or all applications will be disqualified. HUD will hold the applicant responsible for ensuring that neither the applicant nor any part of their institution, including specific faculty, participates in more than one application.

j. Programs must operate in an urban area. The statute creating COPC is very specific that programs address the problems of urban areas. HUD uses the Census definition of an urban area: a single geographic place (e.g., a city, town, or village, but not a county) with a population of 2,500 or more. Applicants cannot meet this test by aggregating several places smaller than the population threshold in order to meet this requirement. (However, because of the size of the grant and the three-year performance period, HUD encourages applicants to target activities in a minimum number of definable neighborhoods or communities.)

k. In order to ensure that the primary focus of the proposed project is on outreach, there is a limit on the amount of money that can be budgeted for research costs for this program. No more than 25 percent of the total project costs (federal share plus match) can be spent on research activities. However, applicants are not required to undertake any research as part of their project and may apply for a project that is totally outreach focused.

l. Applicants must receive a minimum score of 75 points to be considered for funding.

m. An applicant must have a DUNS number to receive HUD grant funds. (The General Section of the SuperNOFA provides information regarding the DUNS requirement).

3. Program Requirements

In addition to the program requirements listed in the General Section of the SuperNOFA, applicants must meet the following program requirements:

a. All funds awarded under this program to New Grant applicants must be spent during a three-year (36 months) grant performance period. All funds awarded under this NOFA to New Directions grant applicants must be spent during a two-year (24 months) grant performance period.

b. Employ the outreach and research resources of the institution of higher education to solve specific urban problems identified by communities served by the Center;

c. Establish outreach activities in areas identified in the application as the communities to be served;

d. Establish a community advisory committee comprised of representatives of local institutions and residents of the communities to be served to assist in identifying local needs and advise on the development and implementation of strategies to address those issues;

e. Coordinate outreach activities in communities to be served by the Center;

f. Facilitate public service projects in the communities served by the Center;

g. Act as a regional or local clearinghouse for dissemination of information;

h. Develop instructional programs, convene conferences, and provide training for local community leaders, when appropriate;

i. Exchange information with other Centers. The clearinghouse function described in section III Eligibility Information, refers to a local or regional clearinghouse for dissemination of information and is separate and distinct from this function, which relate to the provision of information to the University Partnerships Clearinghouse, which is the national clearinghouse for the program; and

j. Grant funds will pay for activities conducted directly, rather than passing funds to other entities (in order for an application to be competitive, no more than 25 percent of the grant funds should be passed through to other entities).

IV. Application and Submission Information

A. Addresses To Request Application Package

Applicants may request general information, copies of the General Section and Program Sections of the SuperNOFA from the NOFA Information Center 800-HUD-8929 or 800-HUD-2209 (TTY) between the hours of 9 a.m. and 8 p.m. (eastern time) Monday through Friday, except on Federal holidays. When requesting information, please refer to the Community Outreach Partnership Centers Program. Be sure to provide your name, address (including ZIP code), and telephone number (including area code). To ensure sufficient time to prepare an application, requests for copies of the NOFA can be made immediately following publication of the SuperNOFA. The NOFA Information Center opens for business simultaneously with the publication of HUD's 2004 NOFA.

Applicants can also obtain information on the SuperNOFA and download applications through the HUD Web site, http://www.hud.gov.

B. Content and Form of Application Submission

A complete application package must include an original signed application, three copies, and one computer disk of the application (in Word 6.0 or higher) of the items listed below. (The computer disk must include the narrative portion of the application, and all required forms. Forms can be downloaded from the Web site, http://www.hud.gov.) In order to recycle paper, applications must not be submitted in bound form; binder clips or loose-leaf binders are acceptable. Please do not use colored paper. Applications must be submitted on 8½ by 11-inch paper, double-spaced on one side of the paper, with one-inch margins (from top, bottom, left and right) and printed in a standard Times New Roman 12-point font. Each page must include the applicant's name and be numbered. Each section must be tabbed sequentially. The application narrative, including tables, and maps must not exceed 75 pages (excluding forms, budget narrative, assurances, commitment letters, memoranda of understanding, agreements and abstract). The double-spacing requirement applies to the application narrative (excluding the abstract, tables, maps, budget narrative, commitment letters, memoranda of understanding, and agreements). Please note that although submitting pages in excess of the page limit will not disqualify an application, HUD will not consider the information on any excess page. This may result in a lower score or failure to meet a threshold requirement. Except where a particular form may direct otherwise, all forms included in an application, as well as the transmittal letter, must be signed by the Chief Executive Officer (this is generally the President or Provost) or an official authorized legally to make a commitment on behalf of the institution. If a designee signs, the application must contain a copy of the official designation of signatory authority.

Please include in your application each item in the order listed below:

1. SF-424, Application for Federal Assistance. Instructions for completing this form are found on the back of the first page of the form. Please remember the following:

a. The full grant amount (New Grant applicants entire three-years and New Directions applicants entire two-years) should be entered, not the amount for just one year;

b. Include the name, title, address, telephone number, facsimile number, and email address of the designated contact. This is the person who will receive the reviewers' comments; therefore, please ensure the accuracy of the information;

c. The Employer Identification/Tax ID;

d. The DUNS Number;

e. The Catalog of Federal Domestic Assistance Number for this program is 14.511;

f. The project's proposed start date and completion date. For the purpose of this application, the program start date should be October 1, 2004; and

g. The signature of an authorized official (an individual who has the authority to make a binding commitment on behalf of the institution).

2. Transmittal Letter. The letter should contain a statement that the institution is an eligible applicant because it is a two-or four-year fully accredited institution. This letter should state the name of the accrediting agency, and that the accrediting agency is recognized by the U.S. Department of Education. Applicants may also use the transmittal letter as one way to demonstrate the President's commitment to the institutionalization of the program. The Chief Executive Officer (usually the President or Provost) of the institution must sign this letter. If the Chief Executive Officer has delegated this responsibility to another official, that person may sign, but a copy of the delegation must be included or clearly stated in the letter.

3. Application Checklist. Applicants must include the completed checklist in their application. On the checklist, applicants must indicate the page number where each of the items can be found in the application (see Appendix A).

4. Abstract. Applicants must include no more than a two-page summary of the proposed project. Please include the following:

a. A clear description of the proposed project activities, the target population that will be assisted, and the impact this project will have on the institution;

b. The designated contact person, including phone number, facsimile number, and email address (this is the person who will receive the reviewers' comments; therefore, please ensure the accuracy of the information);

c. University's name, department, mailing address, telephone number, facsimile number, and email address; and

d. The principal investigator, if different from the designated contact person, for the project, including phone number, facsimile number, and email address.

5. Narrative statement addressing the Factors for Award. HUD will use the narrative response to the “Factors for Award” to evaluate, rate, and rank applications. The statement and work plan are the main source of information. Applicants are advised to review each factor carefully for program specific requirements. The response to each factor should be concise and contain only information relevant to the factor, but detailed enough to address each factor fully. Please do not repeat material in response to the five factors; instead, focus on how well the proposal responds to each of the factors. In factors where there are subfactors, each subfactor must be presented separately, with the short title of the subfactor presented. Make sure to address each subfactor and provide sufficient information about every element of the subfactor.

6. Budget. The budget submission must be placed behind the narrative statement addressing the Factors for Award and include the flowing form:

a. HUD-424-CB “Grant Application Detailed Budget.” This form shows the total budget by year and by line item for the program activities to be carried out with the proposed HUD grant. Each year of the program should be presented separately. Applicants must also submit this form to reflect the total cost for the entire grant performance period (Grand Total).

Make sure that the amount shown on the SF-424, the budget form HUD-424-CB and all other required program forms is consistent and the budget totals are correct. Remember to check addition in totaling the categories on the HUD-424-CB form so that all items are included in the total. All forms must be completed in full. If an application is selected for award, the applicant may be required to provide greater specificity to the budget during grant agreement negotiations.

b. Budget Narrative. A narrative must be submitted that explains how the applicant arrived at the cost estimates for any line item, including match items, over $5,000. For example, a van rental, $150 per month x 36 months equals $5,400. The proposed cost estimates should be reasonable for the work to be performed and consistent with rates established for the level of expertise required to perform the work proposed in the geographical area. When necessary, quotes from various vendors or historical data should be used and included. When an applicant proposes to use a consultant, the applicant must indicate whether there is a formal agreement or written procurement policy. For each consultant, please provide the name, if known, hourly or daily rate, and the estimated time on the project. For equipment, applicants must provide a list by type and cost for each item and explain how it will be used. Applicants using contracts must provide an individual description and cost estimate for each contract.

c. Indirect costs. Indirect costs, if applicable, are allowable based on an established approved indirect cost rate. Applicants should include a copy of their indirect cost rate agreement with their application. Applicants who are selected for funding that do not have an approved indirect cost rate agreement (established by the cognizant Federal agency, Certified Public Account, or auditor) will be required to establish a rate. In such cases, HUD will issue an award with a provisional rate and enter into an agreement to have one established.

d. Audits. Applicants must ensure that their most current A-133 audit is on file at the Federal Audit Clearinghouse. Grantees that expend $500,000 or more in Federal financial assistance in a single year (this can be program year or fiscal year) must be audited in accordance with the OMB requirements as established in 24 CFR parts 84 and 85. Additional information regarding this requirement at the following Web site: http://harvester.census.gov/sac.

7. Match and Research Compliance. All applicants must include the following forms:

a. HUD-30001, “ Community Outreach Partnership Centers Matching Requirements.” This form should show how the match requirements have been met. Under each category, list the specific project activities. Only the dollar totals for research and outreach activities should be listed; costs by activity do not need to be listed. For the purpose of this form, administrative costs should be allocated between research and outreach activities, as appropriate. Applicants must provide letters, memoranda of understanding or agreements that show the extent and firmness of commitments of leveraged funds (including an applicant's own resources) in order for these resources to count. Any resource for which there is no commitment letter will not be counted, nor will the resource be counted without the proposed level of commitment being quantified. Each letter must include the specific dollar amount and the use of the funds. If a dollar amount and use is not shown, the source cannot be counted toward the match requirement in Factor 4. This form is included in Appendix B.

b. HUD-30002, “Community Outreach Partnership Centers Breakdown of Outreach and Research Activities.” This form is used to demonstrate that the applicant has not allocated more than 25 percent of the total budget (including federal and matching funds) to research activities. This form is included in Appendix B. For purposes of this form, all costs (including administrative costs) must be categorized or apportioned as either research or outreach, as appropriate.

(Note: While indirect costs can count toward meeting the required match, they will not be used to calculate the match percentage above the match requirement. Only direct costs can count in this factor). Letters, memoranda of understanding, and agreements must be signed by an authorized representative of the funding source. If any matching sources are for more than one year, the commitment letter, memorandum of understanding, or agreement must state the number of years, the per year commitment, and the total commitment. Items eligible for program funding can be counted as match. Include matching documentation at the end of the narrative statement addressing the Factors for Award (see below) and note in this section a list of the letters that have been placed there.)

c. HUD-30011 or HUD-30012, “Verification of the Match.” Applicants must include a multiple page worksheet (included in Appendix B) to determine if a sufficient match has been provided. This worksheet must be included in the application. Please note on this form by each commitment listed if the match is an inside or outside match commitment.

8. Appendix. Applicants must place all letters of commitment, memoranda of understanding, and agreements for funds/resources in response to Factor 4 in this section. An applicant may not submit general support letters or resumes or other back-up materials (unless an applicant is willing to have the additional material count toward the page limit requirements).

C. Submission Dates and Times

A complete application package is due on or before July 9, 2004.

D. Intergovernmental Review:

This program is excluded from an Intergovernmental Review.

E. Funding Restrictions

1. Activities such as, but not limited to, the following are ineligible for funding:

a. Research activities that account for more than 25 percent of the total project cost (federal share plus match) and/or that have no clear and immediate practical application for solving urban problems or do not address specific problems in designated communities and neighborhoods or have any specific link to HUD programs.

b. Any type of construction, rehabilitation, or other physical development costs.

c. Costs used for routine operations and day-to-day administration of institutions of higher education, local governments, or neighborhood groups.

2. Funding may only be provided to applicants that meet the standards for eligible applicants in section III.A.

F. Other Submission Requirements

1. Complete Application Package

This package must be submitted to the following address: University Partnerships Clearinghouse, c/o Danya International, 8737 Colesville Road, Suite 1200, Silver Spring, MD 20910. When submitting an application package, also please include the following information on the outside of the envelope:

a. Office of University Partnerships;

b. Community Outreach Partnerships Center Program;

c. Applicant's name and mailing address (including ZIP code).

Applicants must refer to the General Section of this SuperNOFA for detailed requirements governing application submission and receipt.

2. Forms, Certifications, and Assurances

The following certifications and assurances must be included in all application packages. These forms must be signed by the Chief Executive Officer (or official designee) of the institution and can be downloaded from the HUD Web site at http://www.hud.gov.

a. Application for Federal Assistance (SF-424).

b. Applicant Assurances and Certifications (HUD-424-B).

c. Grant Application Detailed Budget (HUD-424-CB).

d. Disclosure of Lobbying Activities (SF-LLL).

e. America's Affordable Communities Initiative Removal of Regulatory Barriers (HUD-27300), if applicable.

f. Applicant/Recipient Disclosure/Update Report (HUD-2880).

g. Certification of Consistency with the Consolidated Plan (HUD-2991).

h. Certification of Consistency with the EZ/EC/RC Strategic Plan (HUD-2990). Must be signed by the certifying official of the EZ/EC/RC. The General Section of the SuperNOFA provides procedures and guidelines required to certify that proposed grant activities are being conducted in the EZ/EC/RC that serve the residents of these areas, and are certified to be consistent with the area's strategic plan.

i. Program Logic Model (HUD-96010).

j. Survey on Equal Opportunity (HUD-32004).

k. Community Outreach Partnership Centers Matching Requirements (HUD-30001).

l. Community Outreach Partnership Centers Breakdown of Outreach and Research Activities (HUD-30002).

m. Verification of the Match (HUD-30011 or HUD-30012).

n. Survey on Ensuring Equal Opportunity for Applicants (SF-424 Supplement)

o. Acknowledgment of Receipt of Application (HUD-2993). To confirm that HUD has received the application package, please complete this form. Applicants are not required to include this form, but it is recommended that an applicant do so.

p. Client Comments and Suggestions (HUD-2994). This form is included to solicit information from the most valuable source, the applicant. The changes that we have instituted this year are designed to make things easier for the applicant. If applicants complete and submit this form, it will help us to assess whether the changes have had the intended results. It will also guide us in our continuing efforts to improve the competitive grant process. Applicants are not required to complete this form.

V. Application Review Information

A. Criteria

1. Rating Factor 1: Capacity of the Applicant and Relevant Organizational Experience (20 Points). This factor addresses the extent to which the institution has the organizational resources necessary to successfully implement the proposed activities in a timely manner. In rating this factor, HUD will consider the extent to which the proposal demonstrates:

a. Knowledge and Experience For New Grant Applicants (20 Points); For New Directions Grant Applicants (10 Points). The knowledge and experience possessed by the proposed overall project director and staff, including the day-to-day program manager, consultants (including technical assistance providers), and contractors for planning and managing this kind of program. Experience will be judged in terms of recent and relevant knowledge and skills of the staff to undertake eligible program activities. HUD will consider experience within the last five years to be recent and experience pertaining to specific activities and producing specific accomplishments to be relevant. The more recent and substantial the experience of the staff, particularly the institution's own staff who will work on the project have in successfully conducting and completing similar activities, the higher the number of points an applicant can receive for this rating factor. The following areas will be evaluated:

(1) Outreach activities in communities to solve or ameliorate significant urban issues;

(2) Projects with community-based organizations or local governments;

(3) Solving community problems that have a direct bearing on the proposed activities and that make a national contribution to solving long-term and immediate urban problems/issues; and

(4) Research activities (if applicable) that have a practical application to significant urban issues.

b. Past Performance (10 points). New Directions Grant Applicants Only. This subfactor will evaluate the extent to which an applicant has performed successfully under a previous COPC grant. Applicants must demonstrate this by providing the following information:

(1) A detailed list outlining the achievement of specific measurable objectives and outcomes consistent with the approved timeline/work plan in the previously awarded grant; and

(2) Comparison of proposed required match funds and resources in a previous grant with what was actually matched.

2. Rating Factor 2: Need/Extent of the Problem (10 Points). This factor addresses the extent to which there is a need for funding the proposed program activities and an indication of the urgency of meeting the need(s) in the target area. The need(s) described must be relevant to the activities for which funds are being requested. The proposal will be evaluated on the extent to which the level of need for the proposed activities and the importance of meeting the need(s) are documented.

Applicants must use statistics or other analyses contained in at least one or more current data sources that are sound and reliable. Sources for localized data can be found at: http://www.ffiec.gov or http://www.econdatata.com. In rating this factor, HUD will consider data collected within the last five years to be current. To the extent that the targeted community's Five Year Consolidated Plan and Analysis of Impediments to Fair Housing Choice (AI) identify the level of the problem and the urgency in meeting the need, applicants should include references to these documents in response to this factor. Other reliable sources of data include, but are not limited to, Census reports, HUD Continuum of Care gap analysis and its E-Map (To find additional information go to HUD's Web site: http://www.hud.gov/emaps), law enforcement agency crime reports, Public Housing Agencies' Comprehensive Plans, community needs analyses such as provided by the United Way, the applicant's institution, and other sound and reliable appropriate sources. Needs in terms of fulfilling court orders or consent decrees, settlements, conciliation agreements, and voluntary compliance agreements may also be addressed.

The data used must be specific to the area where the proposed activities will be carried out. Needs must be documented as they apply to the area where the activities will be targeted (not the entire locality or state). Remember the statute creating COPC is very specific that the program addresses problems of an urban area: a single geographic place (e.g., a city, town, or village, but not a county) with a population of 2,500 or more. (However, because of the size of the grant and the three-year period of performance, HUD encourages applicants to target activities in a minimum number of definable neighborhoods or communities.)

3. Rating Factor 3: Soundness of Approach (40 Points). This factor addresses the quality and effectiveness of the proposed work plan. There must be a clear relationship between proposed activities and community needs for an applicant to receive points for this factor. This factor will be evaluated based on the extent to which the proposed work plan demonstrates the following:

a. Quality of Work Plan (25 Points).

(1) Specific Services and/or Activities. The work plan must describe all proposed activities and major tasks required to successfully implement the proposed project. HUD will consider the probability of success of the program, the significance of the tasks identified, how realistic are the proposed time frames, and who will be responsible for completing each proposed activity. (Note: applicants are not required to undertake research as part of the grant.)

(a) Describe a clear outreach agenda and demonstrate this by providing the following:

(i) Identifiable outreach activities;

(ii) Required tasks to be completed (in sequential order) for each proposed activity;

(iii) Target completion date for each proposed task/activity to be successfully implemented (in six-month intervals); and

(iv) The staff member, as described in Factor 1, who will be responsible and accountable for completing each task.

(b) Describe how the project will:

(i) Involve the institution as a whole (i.e., variety of academic disciplines and administrative offices);

(ii) Provide for on-site or frequent presence in the target area; and

(iii) Ensure proposed activities do not duplicate outreach activities by the institution or others for the target area previously completed or currently underway.

(c) Applicants proposing research activities must describe a clear research agenda that applies the proposed research results directly to the proposed outreach activities and demonstrate this by providing the following:

(i) Identifiable research activities and outcomes (e.g., reports, surveys, etc.);

(ii) Required tasks to be completed (in sequential order) for each proposed activity;

(iii) Time necessary for each proposed task/activity to be successfully implemented (in six-month intervals) and target completion date;

(iv) The staff member, as described in Factor 1, who will be responsible for it and accountable for completing each task;

(v) Ensure that the proposed research is tied to the proposed outreach agenda (e.g., a proposed study of the extent of housing abandonment in a neighborhood is followed by a plan for reusing this housing demonstrates a link between the proposed research and outreach strategies); and

(vi) Describe how the research does not duplicate the research by the institution or others for the target area previously completed or currently underway. If similar research is underway, describe how the proposed research agenda would complement it.

b. (5 Points) Community Involvement. The applicant must describe the extent to which it proposes to integrate the community as partners in the planning and implementation of proposed program activities. In reviewing this subfactor, HUD will look at the extent to which:

(1) One or more Community Advisory Committees have been formed that represent the communities' diversity (including businesses, community groups, residents, and others) and will serve to develop and implement strategies to address the needs identified in Factor 2. In addressing this subfactor, applicants must demonstrate by providing evidence that such a committee(s) has been in place and what groups are represented, or that commitments have been secured from the appropriate persons to serve on a committee(s), rather than just describing generally the types of people whose involvement will be sought.

(2) The committee and partners play an active role in all stages of the project and not serve as merely advisors or monitors.

(3) The outreach agenda includes training projects for local community leaders to increase their capacity to direct their organizations or undertake various kinds of community development projects.

c. (4 Points) Innovative Strategies or Best Practices. This subfactor will be evaluated based on the extent to which an applicant has the potential to yield strategies or best practices that can be replicated and disseminated to other organizations, including nonprofit organizations, and State and local governments. In reviewing this subfactor, HUD will assess the applicant's demonstrated ability to disseminate results of outreach and research activities to other COPCs and communities. In addition, to the scope and quality of the applicant's plan to disseminate information results, strategies, and lessons learned through such means as conferences, cross-site technical assistance, Web sites, publications, etc.

d. (3 Points) Affirmatively Further Fair Housing. This subfactor will be evaluated on the extent to which an applicant describes how they propose to undertake activities designed to affirmatively further fair housing, for example:

(1) Working with other entities in the community to overcome impediments to fair housing, such as discrimination in the sale or rental of housing or in advertising, provision of brokerage services, or lending;

(2) Promoting fair housing choice through the expansion of homeownership opportunities and improved quality of services for minorities, families with children, and persons with disabilities; or

(3) Providing housing mobility counseling services.

e. (3 Points) HUD Policy Priorities. HUD encourages applicants to undertake specific activities that will assist the Department in implementing its policy priorities that will help the Department achieve its goals and objectives in FY2005, when the majority of grant recipients will be reporting programmatic results and achievements. In addressing this subfactor, HUD will evaluate the extent to which a program will further and support HUD's priorities. The quality of the responses provided to one or more of HUD's priorities will determine the score an applicant can receive. Applicants must describe how each policy priority selected will be addressed. Applicants that just list a priority will receive no points.

Each policy priority addressed has a point value of one point with the exception of the policy priority to remove regulatory barriers to affordable housing, which has a point value of up to 2 points. The total number of points available to applicants that address policy priorities is 3. It is up to the applicant to determine which of the policy priorities they elect to address to receive the available 3 points. To receive points for efforts to remove regulatory barriers to affordable housing, an applicant must submit the completed questionnaire found in the General Section. (Form HUD-27300). For the full list and explanation of each policy priority, please refer to the General Section of this SuperNOFA.

4. Rating Factor 4: Matching Resources and Institutionalization of Program (20 Points). This factor addresses the ability of the applicant to secure resources and make the program activities part of the institution's future mission. In evaluating this factor, HUD will consider the extent to which the applicant established partnerships with other entities (other than HUD) to secure additional resources to increase the effectiveness of the proposed program activities.

a. (10 Points) Matching Resources. This subfactor addresses the applicant's ability to secure community resources combined with HUD's grant funds to achieve the program's purpose. Resources may include funding or in-kind contributions, such as services or equipment, allocated to the purpose(s) of the grant being sought. Resources may be provided by governmental entities, public or private nonprofit organizations, for-profit private organizations, or other entities willing to establish partnerships. Applicants may also establish partnerships with funding recipients in other grant programs to coordinate the use of resources in the target area. Please note that the value of the time of individuals serving on an applicant program advisory board cannot be counted as an in-kind contribution. Applicants may count overhead and other institutional costs (e.g., salaries, indirect costs, etc.) that the institution has waived. In evaluating this subfactor, HUD will allocate points as follows:

(1) (5 Points) will be awarded for a match that is 25 percent over the required match, as described in section V, Application Review Information. Fewer points will be assigned depending on the extent of the match overage provided. Matching funds must be provided unconditionally in order to be counted for this subfactor.

HUD is concerned that applicants should be providing hard dollars as part of their matching contributions to enhance the tangible resources going into targeted neighborhoods. Thus, while indirect costs can count toward meeting the required match, they will not be used in calculating match overage. Only direct costs can count in this factor.

(2) (5 Points) will be awarded for the extent to which applicant documents that matching funds are provided from eligible sources other than the institution (e.g., funds from the city, including CDBG, other State or local government agencies, public or private organizations, or foundations). Fewer points will be assigned depending on the amount of the outside match.

For each match, cash or in-kind contribution, a letter of commitment, memorandum of understanding, or agreement must be provided that shows the extent and firmness of the commitment of leveraged funds (including any commitment of resources from the applicant's own institution) in order for the resources to count in determining points under this factor. Resources will not be counted for which there is no commitment letter, memorandum of understanding, or agreement, nor quantified level of commitment. Letters, memoranda of understanding, or agreements must be submitted from the provider on the provider's letterhead and be included with the application package. (Applicants must place all letters, memoranda of understanding, or agreements in the Appendices.) The date of the letter, memorandum of understanding, or agreement from the CEO of the provider organization must be dated no earlier than the date of this published SuperNOFA. Applications that do not include evidence of matching will receive zero (0) points for this Factor and will be disqualified.

a. A firm commitment letter, memorandum of understanding, or agreement must address the following:

(1) The cash amount contributed or dollar value of the in-kind goods and/or services committed (If a dollar amount and use is not shown, the source cannot be counted toward the match requirement);

(2) A specific description of how the match is to be used;

(3) The date the match will be made available and a statement that describes the duration of the contribution. If any of the matching sources are for more than one year, the commitment letter, memorandum of understanding, or agreement must state the number of years, the per year commitment, and the total commitment. Without this statement, HUD will assume that the commitment is for only one year;

(4) Any terms or conditions affecting the commitment, other than receipt of a HUD grant; and

(5) The signature of the appropriate executive officer authorized to commit the funds and/or goods and/or services. Please remember that only items eligible for funding under this program can be considered as a match.

b. (10 Points) Institutionalization. This subfactor looks at how the institution plans to make the COPC function and related activities a part of its urban mission and ensure funding in the future by sources other than HUD.

(1) New Grant Applicants. In reviewing this subfactor for a New Grant, HUD will consider the extent to which the New Grant applicant addresses the institution's capacity and commitment to undertake outreach activities. HUD will evaluate the following:

(a) COPC activities as they relate to the institution's urban mission;

(b) Support and involvement of the institution's executive leadership (e.g., department chairs, deans, etc.) faculty, staff and students from across many disciplines in order to demonstrate the institution's commitment to these kinds of activities;

(c) Commitment of the institution to establish a climate that rewards faculty and staff for work in COPC neighborhoods by including this work in decisions affecting rank, tenure, and promotion;

(d) Benefit to students through the implementation of service learning programs or professional training at the institution that are reflected in the curriculum (rather than just volunteer activities);

(e) Commitment to a formal organizational structure within the university related to outreach and community partnerships as reflected in the university's budget and planning documents of the university.

(2) New Directions Applicants. In reviewing this subfactor for a New Directions Grant, HUD will consider the extent to which the New Directions applicant's proposed project will sustain the institutional capacity and commitment of the institution to undertake outreach activities. HUD will evaluate the following:

(a) Increases in the number of faculty undertaking this kind of work;

(b) Increases in the number of courses linked to outreach activities and the number of students taking these courses; and

(c) Formal changes in institutional policies related to support of outreach.

5. Rating Factor 5: Achieving Results and Program Evaluation (10 Points). This factor reflects HUD's goal to embrace high standards of management and accountability. It measures the applicant's commitment to assess their performance to achieve the program's proposed objectives and goals. Applicants are required to develop an effective, quantifiable, outcome oriented evaluation plan for measuring performance and determining that objectives and goals have been achieved.

“Outcomes” are benefits accruing to institutions of higher education and/or communities during or after participation in the COPC program. Applicants must clearly identify the outcomes to be measured and achieved. Examples of outcomes are increased business start-up in the target community by a certain percentage, or increased family financial stability (e.g., increased assets to families and communities through the development of incubators).

In addition, applicants must establish interim benchmarks and outputs that lead to the ultimate achievement of outcomes. “Outputs” are the direct products of the program's activities. Examples of outputs are the number of new businesses developed, the number of students involved in service learning activities, the number of new courses an institution developed that focus on community outreach activities, the number of newly formed partnerships that aid in community capacity building. Outputs should produce outcomes for the program. At a minimum, an applicant must address the following activities in the evaluation plan:

a. Specific time-phased short and long-term measurable objectives to be accomplished.

b. Measurable impacts the grant will have on the community in general and the target area or population.

c. The impact the grant will have on the long-term commitment of the university to the faculty and students to provide opportunities to continue this type of work.

d. The impact the grant will have on assisting the university to obtain additional resources to continue this type of work at the end of the grant performance period.

This information must be placed under this section on a HUD-96010 Program Outcome Logic Model form. (Applicants may use as many copies of this form as required. It will not be included in the page count requirement). A narrative is not required; however, if a narrative is provided, those pages will be included in the page count. Additional information on this form and how to use it can be found in the General Section of this SuperNOFA.

B. Review and Selection Process

1. Application Selection Process

Two types of reviews will be conducted:

a. A threshold review to determine an applicant's basic eligibility; and

b. A technical review for all applications that pass the threshold review to rate and rank the application based on the “Factors for Award” listed in section V.A above.

Only those applications that pass the threshold review will receive a technical review and be rated and ranked.

2. Rating Panels

To review and rate applications, HUD may establish panels, which may include experts or consultants not currently employed by HUD. These individuals may be included to obtain certain expertise.

3. Ranking

HUD will fund applications in rank order, until all available program funds are awarded. In order to be funded, an applicant must receive a minimum score of 75 points out of a possible 100 points for Factors 1 through 5. In addition, two bonus points may be awarded for RC/EZ/EC, as described in the General Section of the SuperNOFA. If two or more applications have the same number of points, the application with the most points for Factor 3, Soundness of Approach, shall be selected. If there is still a tie, the application with the most points for Factor 1, Capacity of the Applicant and Relevant Organizational Experience, shall be selected. HUD reserves the right to make selections out of rank order to provide for geographic distribution of grantees. In addition, HUD intends to fund at least two eligible COPC applications that serve Colonias (as defined in the General Section of this SuperNOFA). While it is not necessary for the institution to be located in a Colonia, all program activities must be directed to the Colonia and its residents. If less than two fundable applications are eligible for award these funds will be made available to award additional COPC grants. HUD also reserves the right to reduce the amount of funding requested in order to fund as many highly ranked applications as possible. Additionally, if funds remain after funding the highest ranked applications, HUD may fund part of the next highest-ranking application. If an applicant turns down the award offer, HUD will make the same determination for the next highest-ranking application. If funds remain after all selections have been made, the remaining funds will be carried over to the next funding cycle competition.

4. Correction to Deficient Applications

The General Section of the SuperNOFA provides the procedures for correction to deficient applications.

C. Anticipated Announcement and Award Dates

Announcements of awards are anticipated on or before September 30, 2004.

VI. Award Administration Information

A. Award Notice

After all selections have been made, HUD will notify all winning applications in writing. HUD may require winning applicants to participate in additional negotiations before receiving an official award. For further discussion on this matter, please refer to the General Section of the SuperNOFA.

B. Administrative and National Policy Requirements

Applicants are directed to Section III.C of the General Section of the SuperNOFA, which provides the statutory, regulatory, threshold, and public policy requirements applicable to all HUD grantees. The provisions of the HUD Reform Act of 1989 that apply to this NOFA are explained in the General Section of the SuperNOFA.

1. Debriefing

The General Section of the SuperNOFA provides the procedures for requesting a debriefing. All requests for debriefings must be made in writing and submitted to: Armand Carriere; Office of University Partnerships, Robert C. Weaver Federal Building, 451 Seventh Street, SW., Room 8106, Washington, DC 20410-6000. Applicants may also write to Mr. Carriere via e-mail at Armand_W._Carriere@hud.gov.

2. Administrative

Grants awarded under this NOFA will be governed by the provisions of 24 CFR part 84 (Grants and Agreements with Institutions of Higher Education, Hospitals and Other Non-Profit Organizations), A-21 (Cost Principles for Education Institutions) and A-133 (Audits of States, Local Governments, and Non-Profit Organizations). Applicants can access the OMB circulars at the White House Web site at: http://www.whitehouse.gov/omb/circulars/index.html.

3. OMB Circulars and Governmentwide Regulations Applicable to Financial Assistance Programs

The General Section of the SuperNOFA provides further discussion of OMB circulars and governmentwide regulation.

4. Conflicts of Interest

See the General Section of the SuperNOFA for further discussion.

5. Recovered Materials

The General Section of the SuperNOFA provides further discussion of the federal law governing the procurement of recovered materials.

6. Environmental Requirements

In accordance with 24 CFR 50.19(b) of the HUD regulations, activities under the COPC program are categorically excluded from the requirements of the National Environment Policy Act and are not subject to environmental review under related laws and authorities.

C. Reporting

All grant recipients under this NOFA are required to submit semi-annual progress reports. The progress reports shall consist of two components, a narrative that must reflect the activities undertaken during the reporting period and a financial report that reflect costs incurred during the reporting period as well as a cumulative summary.

For each reporting period, as part of the required report to HUD, grant recipients must include a completed Logic Model (Form HUD-96010), which identifies output and outcome achievements.

VII. Agency Contacts

Applicants may contact Kinnard Wright at (202) 708-3061, extension 7495 or Susan Brunson, at (202) 708-3061, extension 3852. Persons with speech or hearing impairments may call the Federal Information Relay Service (TTY) at (800) 877-8339. Except for the “800” number, these numbers are not toll-free. Applicants may also reach Mr. Wright via e-mail at Kinnard_D._Wright@hud.gov, and/or Ms. Brunson at Susan_S._Brunson@hud.gov.

VIII. Other Information

Paperwork Reduction Act: The information collection requirements contained in this document have been approved by the Office of Management and Budget (OMB) under the Paperwork Reduction Act of 1995 (44 U.S.C. 3501-3520) and assigned OMB control number 2506-0180. In accordance with the Paperwork Reduction Act, HUD may not conduct or sponsor, and a person is not required to respond to, a collection of information unless the collection displays a currently valid OMB control number. Public reporting burden for the collection of information is estimated to average 144 hours per annum per respondent for the application and grant administration. This includes the time for collecting, reviewing, and reporting the data for the application, quarterly, semi-annual and final reports. The information will be used for grantee selection and monitoring the administration of funds. Response to this request for information is required in order to receive the benefits to be derived.

BILLING CODE 4210-32-P

The Early Doctoral Student Research Grant Program and Doctoral Dissertation Research Grant Program

Overview Information

A. Federal Agency Name: Department of Housing and Urban Development, Office of Policy Development and Research, Office of University Partnerships.

B. Funding Opportunity Title: The Early Doctoral Student Research Grant (EDSRG) Program and the Doctoral Dissertation Research Grant (DDRG) Program.

C. Announcement Type: Initial announcement.

D. Funding Opportunity Number: The Federal Register number for these programs is FR-4900-N-02. The OMB Approval Numbers for these programs are as follows:

1. Early Doctoral Student Research Grant Program is 2528-0216.

2. Doctoral Dissertation Research Grant Program is 2528-0213.

E. Catalog of Federal Domestic Assistance (CFDA) Number(s): The CFDA Numbers for these programs are as follows:

1. Early Doctoral Student Research Grant Program is 14.517

2. Doctoral Dissertation Research Grant Program is 14.516

F. Dates: The application due date shall be on or before June 16, 2004. Please see the General Section of the SuperNOFA for application submission, delivery and timely receipt requirements.

G. Optional, Additional Overview Content Information:

1. Purpose of the University Partnership Dissertation Programs:

a. Early Doctoral Student Research Grant (EDSRG) Program. The purpose of the EDSRG program is to enable doctoral students enrolled at accredited institutions of higher education recognized by the U.S. Department of Education to cultivate their research skills through the preparation of research manuscripts that focus on policy-relevant housing and urban development issues.

b. Doctoral Dissertation Research Grant (DDRG) Program. The purpose of the DDRG program is to enable Ph.D. candidates enrolled at accredited institutions of higher education recognized by the U.S. Department of Education to complete their research and dissertations on policy-relevant housing and urban development issues.

2. Award Information: Approximately $550,000 in Fiscal Year (FY) 2004 appropriations is available for the following Office of University Partnerships (OUP) dissertation programs.

a. Early Doctoral Student Research Grant Program—Approximately $150,000 is available for funding under this program. The maximum grant period is 12 months. The performance period will commence on the effective date of the grant agreement. The maximum amount that can be requested by a doctoral student for award is $15,000.

b. Doctoral Dissertation Research Grant Program—Approximately $400,000 is available for funding under this program. The maximum grant period is 24 months. The performance period will commence on the effective date of the grant agreements. The maximum amount that can be requested by a doctoral student for award is $25,000.

3. Eligible Applicants:

a. Early Doctoral Student Research Grant Program. Doctoral students applying for funding under this program must meet the following requirements:

(1) Be a U.S. citizen or lawful permanent resident (recipient of an Alien Registration Recipient Card-Form I-551, commonly referred to as a Green Card) currently enrolled, as a full-time student in an accredited doctoral program at an accredited institution of higher education recognized by the U.S. Department of Education;

(2) Have a major or concentration within a field related to housing and urban development;

(3) Have not taken the preliminary/comprehensive examinations;

(4) Completed at least two semesters or three terms of a doctoral studies program (depending on the course structure of the institution);

(5) Have an assigned faculty advisor to supervise the research manuscript (provide the advisor's name, address, phone number, facsimile number, and e-mail address);

(6) Submit support letter from the assigned faculty advisor of the doctoral student's department that confirms the student meets all of the conditions above and that the proposed research manuscript can be completed within the one-year grant period; and

(7) Provide a support letter from the institution that includes in detail the type of support the university is providing. Such support may include tuition waivers, office space, computer time, assumption of indirect costs, or similar items the doctoral student might need in order to complete the required product. This support may not replace support or assistance the institution would otherwise provide to the student.

b. Doctoral Dissertation Research Grant Program. Doctoral students applying for funding under this program must meet the following requirements:

(1) Be a U.S. citizen or lawful permanent resident (recipient of an Alien Registration Recipient Card-Form I-551, commonly referred to as a Green Card) currently enrolled and matriculated who has been accepted into candidacy in an accredited doctoral program at an accredited institution of higher education recognized by the U.S. Department of Education;

(2) Developed an approved dissertation proposal;

(3) Provide documentation from the dissertation committee chairperson that states the feasibility of the likelihood of the following:

(a) By the application due date, the student's dissertation proposal will be accepted by the full dissertation committee;

(b) The student will have an assigned dissertation advisor (provide the advisor's name, address, phone number, facsimile number, and e-mail address);

(c) By September 1, 2004, the student will have satisfactorily completed all other written and oral Ph.D. requirements, including all examinations and defense of the proposal, except the dissertation; and

(d) The proposed dissertation can be prepared and delivered within the two-year grant period.

(4) Provide a support letter from the institution that includes in detail the type of support the university is providing. Such support might include tuition waivers, office space, computer time, assumption of indirect costs, or similar items the student might need in order to complete the required product. This support may not replace support or assistance the institution would otherwise provide to the student.

Full Text of Announcement

I. Funding Opportunity Description

A. Early Doctoral Student Research Grant (EDSRG) Program

The purpose of the EDSRG program is to enable doctoral students enrolled at an accredited institution of higher education recognized by the U.S. Department of Education to cultivate their research skills through the preparation of research manuscripts that focus on policy-relevant housing and urban development issues. The FY2004 EDSRG program seeks to fund research studies that may impact federal problem solving and policymaking and that are relevant to HUD's policy priorities and annual goals and objectives (see the General Section of the SuperNOFA for discussion of these priorities and annual goals and objectives).

B. Doctoral Dissertation Research Grant (DDRG) Program

The purpose of the DDRG program is to enable Ph.D. candidates enrolled at accredited institution of higher education recognized by the U.S. Department of Education to complete their research and dissertations on policy-relevant housing and urban development issues. The FY2004 DDRG program seeks to fund research studies that may impact federal problem solving and policymaking and that are relevant to HUD's policy priorities and annual goals and objectives (see the General Section of the SuperNOFA for discussion of these priorities and annual goals and objectives).

C. Topics

Examples of topics addressing these issues (applicable to both the EDSRG and DDRG programs) include but are not limited to:

1. Increase Homeownership Opportunities

a. Increase Minority Homeownership.

b. Simplify the Home Buying Process (RESPA reform) and Reduce Settlement Costs.

c. Set Appropriate Housing Goals for the GSEs.

d. Counter Predatory Lending.

e. Help Low-Income Homeowners Avoid Default and Foreclosure.

f. Evaluate Housing Counseling.

2. Promote Decent Affordable Housing

a. Reduce Regulatory Barriers to the Development of Affordable Housing, as well as All Forms of Multifamily Housing.

b. Develop Creative Strategies for Expanding the Availability of Affordable Housing.

c. Strengthen the Delivery of HUD-Funded Rental Assistance and Assistance Provided Through the Low-Income Housing Tax Credit.

d. Promote Self-Sufficiency Among Residents of Public and Assisted Housing.

e. Meet the Housing-Related Needs of the Elderly.

f. Meet the Housing-Related Needs of Persons with Disabilities.

g. Improve Housing Quality and Affordability through Technology and Design.

3. Strengthen Communities

a. End Chronic Homelessness.

b. Prevent Homelessness.

c. Strengthen Cities.

d. Meet the Housing and Community and Economic Development Needs of Residents of High-Needs Areas, including the Colonias, Appalachia, the Mississippi Delta, and Indian Country.

4. Ensure Equal Opportunity In Housing

a. Reduce Housing Discrimination.

b. Improve Housing Accessibility for Persons with Disabilities.

5. Embrace High Standards Of Ethics, Management, And Accountability

a. Reduce Fraud, Waste, and Abuse in HUD-Funded Programs.

b. Improve the Effectiveness of HUD Programs Through Program Evaluations.

6. Promote Participation Of Faith-Based And Community Organizations

a. Strengthen the Capacity of Faith-Based and Community Organizations.

D. Authority

HUD's authority for making funding available under this NOFA is the Consolidated Appropriations Act, 2004 (Pub. L. 108-199, January 23, 2004, Stat. 3). These programs are being undertaken under HUD's research authority under Title V of the Housing and Urban Development Act of 1970. They are being implemented through this NOFA and the policies governing their operation are contained herein.

II. Award Information

Approximately $550,000 in FY2004 appropriations is available for the Office of University Partnerships (OUP) dissertation programs as follows:

A. Early Doctoral Student Research Grant Program

Approximately $150,000 will be made available for funding under this program. The maximum grant period is 12 months. The performance period will commence on the effective date of the grant agreement. The maximum amount that can be requested by a doctoral student for award is $15,000.

B. Doctoral Dissertation Research Grant Program

Approximately $400,000 will be made available for funding under this program. The maximum grant period is 24 months. The performance period will commence on the effective date of the grant agreements. The maximum amount that can be requested by a doctoral student for award is $25,000.

III. Eligibility Information

A. Eligible Applicants

1. Early Doctoral Student Research Grant Program. Doctoral students applying for funding under this program must meet the following requirements:

a. Be a U.S. citizen or lawful permanent resident (recipient of an Alien Registration Recipient Card-Form I-551, commonly referred to as a Green Card) currently enrolled, as a full-time student in an accredited doctoral program at an accredited institution of higher education recognized by the U.S. Department of Education;

b. Have not taken the preliminary/comprehensive examinations;

c. Completed at least two semesters or three terms of a doctoral studies program (depending on the course structure of the institution);

d. Have an assigned faculty advisor to supervise the research manuscript (provide the advisor's name, address, phone number, facsimile number, and e-mail address);

e. Submit support letter from the assigned faculty advisor of the doctoral student that confirms the student meets all of the conditions above and that the proposed research manuscript can be completed within the one-year grant period; and

f. Provide a support letter from the institution that includes in detail the type of support the university is providing. Such support might include tuition waivers, office space, computer time, assumption of indirect costs, or similar items the doctoral student might need in order to complete the required product. This support may not replace support or assistance the institution would otherwise provide to the student.

2. Doctoral Dissertation Research Grant Program. Doctoral students applying for funding under this program must meet the following requirements:

a. Be a U.S. citizen or lawful permanent resident (recipient of an Alien Registration Recipient Card-Form I-551, commonly referred to as a Green Card) currently enrolled and matriculated and who has been accepted into candidacy in an accredited doctoral program at an accredited institution of higher education recognized by the U.S. Department of Education;

b. Developed an approved dissertation proposal;

c. Provide letter from the dissertation committee chairperson that confirms the following:

(1) By the application due date, the student's dissertation proposal has been accepted by the full dissertation committee and the student has been assigned a dissertation advisor (provide the advisor's name, address, phone number, facsimile number, and e-mail address);

(2) By September 1, 2004, the student will have satisfactorily completed all other written and oral Ph.D. requirements, including all examinations and defense of the proposal, except the dissertation; and

(3) The proposed dissertation can be prepared and delivered within the two-year grant period.

d. Provide a support letter from the institution that includes in detail the type of support the university is providing. Such support might include tuition waivers, office space, computer time, assumption of indirect costs, or similar items the student might need in order to complete the required product. This support may not replace support or assistance the institution would otherwise provide to the student.

B. Cost Sharing or Matching

None Required

C. Other

1. Eligible Activities

Grant funds awarded for programs in this NOFA must be used to support direct costs incurred in the timely completion of the research product. Eligible costs include stipends, computer software, purchase of data, travel expenses to collect data, transcription services, and compensation for interviews.

2. Threshold Requirements Applicable to All Applicants

All applicants must comply with the applicable threshold requirements as defined in the General Section of the SuperNOFA and the requirements listed below to be evaluated, rated, and ranked. Applications that do not meet these requirements will be considered ineligible for funding and will be disqualified.

a. The doctoral student must meet the eligibility requirement for the program for which they are requesting funding as defined in section III.A, Eligible Applicants;

b. University sponsorship. The university shall enter into a Grant Agreement with HUD that provides for payment of the grant by HUD to the university and from the university to the approved doctoral student, and that further provides all required certifications and assurances. The university shall agree to provide as the Principal Investigator under the Grant Agreement a faculty advisor or chairperson of the doctoral student's dissertation committee who shall supervise the student's work under the Grant Agreement;

c. The student has provided a letter from the faculty advisor or chairperson of the doctoral student's dissertation committee confirming the applicant is eligible as outlined in section III A, Eligible Applicants above;

d. The student's institution has provided a letter agreeing to provide support and outlines the specific type of support they will provide as part of this grant as defined in section III A, Eligible Applicants above;

e. The student has requested no more funding than the grant maximum allocated as outlined in section II, Award Information;

f. Only one application package can be submitted per doctoral student.

g. Applicants must receive a minimum score of 75 points to be considered for funding; and

h. An applicant must have a DUNS number to receive HUD grant funds. (The General Section of the SuperNOFA provides information regarding the DUNS requirement).

IV. Application and Submission Information

A. Addresses to Request Application Package

Applicants may request general information, copies of the General Section and Program Sections of the SuperNOFA from the NOFA Information Center (800-HUD-8929 or 800-HUD-2209 (TTY) between the hours of 9 a.m. and 8 p.m. (eastern time) Monday through Friday, except on Federal holidays. When requesting information, please refer to the OUP Doctoral Programs. Be sure to provide your name, address (including zip code), and telephone number (including area code). To ensure sufficient time to prepare an application, requests for copies of the NOFA can be made immediately following publication of the SuperNOFA. The NOFA Information Center opens for business simultaneously with the publication of HUD's 2004 NOFA. Applicants can also obtain information on the SuperNOFA and download applications through the HUD Web site, http://www.hud.gov or OUP's Web site at http://www.oup.org.

B. Content and Form of Application Submission

A complete application package must include an original signed application, three copies, and one computer disk (in Word 6.0 or higher) of the items listed below. (The computer disk must include the narrative portion of the application, and all required forms. Forms can be downloaded from the following Web site, http://www.hud.gov). In order to recycle paper, doctoral students must not submit applications in bound form; binder clips or loose-leaf binders are acceptable. Please do not use colored paper. The application narrative, bibliographies, and any supporting references must not exceed 20 pages in length (excluding forms, assurances, Table of Contents, Executive Summary, agreements, and letters) and must be submitted on 8½ by 11-inch paper, double-spaced on one side of the paper, with one inch margins (from the top, bottom, left, and right side of the document) and printed in standard Times New Roman 12-point font. Each page must be numbered, section tabbed, and the name of the student and university on each page. The double-spacing requirement applies to all parts of an application, excluding references, bibliographies, agreements, and letters. Please note that although submitting pages in excess of the page limit will not disqualify the application, HUD will not consider the information on any excess pages. Except where a particular form may direct otherwise, all forms included in an application must be signed by the Chief Executive Officer (this is generally the President or Provost) or an official authorized legally to make a binding commitment on behalf of the institution. This may result in a lower score or failure to meet a threshold requirement.

Please include in your application each item in the order listed below:

1. SF-424, Application for Federal Assistance. Instructions for completing this form are found on the back of the first page of the form and/or refer to the General Section of the SuperNOFA. Please remember the following:

a. The name of the applicant for these programs is the University. Please make sure that the University's address is listed on this form (not the students information);

b. Include the name, title, address, telephone number, facsimile number, and e-mail address of the designated contact person. This is the University contact that will receive all information pertinent to this grant;

c. The total grant amount requested;

d. The University's Employer Identification/Tax ID;

e. The DUNS Number;

f. The Catalog of Federal Domestic Assistance Number for the program from which you are requesting funding; and

(1) Early Doctoral Student Research Grant Program is 14.517

(2) Doctoral Dissertation Research Grant Program is 14.516.

Please remember that this form should reflect the University as the applicant and should be signed by an authorized official (an individual who has the authority to make a binding commitment on behalf of the institution).

2. Transmittal Letter. This letter is from the student and must contain the following information:

a. Student's home address, telephone number, and e-mail address;

b. Student's address, telephone number, facsimile number, and e-mail address at the university;

c. University's department, mailing address, telephone and facsimile numbers; and

d. The faculty/chairperson advisor's name, title, department, address, telephone number, facsimile number, and e-mail address. This must be the person who will serve as the Principal Investigator for the grant.

3. Table of Contents.

4. Application Checklist. Students must include the completed checklist in their application. On the checklist, indicate the page number where each of the items listed can be found in the application (see Appendix A).

5. Executive Summary (500 words or less). The Executive Summary should, at a minimum, include a summary of the proposed research project that addresses the following information:

a. Specific purpose of the manuscript/dissertation;

b. Methodology being used; and

c. How the student meets the eligibility criteria for the program from which she/he is requesting funding.

6. Narrative statement responding to the Factors for Award. HUD will use the narrative response to the “Factors for Award” to evaluate, rate, and rank applications. This statement is the main source of information. Therefore, it is very important that the student becomes fully familiar with the rating factors for the program from which he/she is requesting funding. The narrative should be numbered in accordance with each factor and subfactor. Please do not repeat material response to the four factors; instead focus on how well the proposal responds to each of the factors. Make sure to address each factor and subfactor and provide sufficient information about every element.

7. Faculty Advisor/Dissertation Advisor Support Letter. This letter must provide a statement from the doctoral student's department chairperson verifying the doctoral student has met all the eligibility criteria described in section III.A, Eligible Applicant.

8. University Support Letter. This letter must provide a statement from the appropriate official at the university that describes in detail the type of support the University will be providing, as described in section III.A, Eligible Applicant. Please remember that this support may not replace support or assistance that the institution would otherwise provide the student.

9. Budget. The budget submission must be placed behind the narrative statement addressing the “Factors for Award” and include the following form:

a. HUD-424-CB, “Grant Application Detailed Budget.” This budget form shows the total budget by year and by line item for the program activities to be carried out with the proposed HUD grant. Each year of the program should be presented separately.

Make sure that the amount shown on the SF-424, the HUD-424-CB form and on all other required program forms is consistent and the budget totals are correct. Remember to check addition in totaling the categories on the forms and that that all items are included in the total. If this correction puts an application over the grant maximum, the applicant will not be able to correct the amount requested and the application will be disqualified. The budget form must be completed in full. If an application is selected for award, the applicant may be required to provide greater specificity to the budget during grant agreement negotiations.

b. Budget Narrative. A narrative must be submitted that explains how the applicant arrived at the cost estimates. The proposed cost estimates should be reasonable for the work to be performed and consistent with rates established for the level of expertise required to perform the work proposed.

C. Submission Dates and Times

A complete application package is due on or before June 16, 2004. Please see the General Section of the SuperNOFA for application submission, delivery and timely receipt requirements.

D. Intergovernmental Review

This program is excluded from an Intergovernmental Review.

E. Funding Restrictions

1. Grant funds awarded for programs under this NOFA may not be used to pay for tuition, computer hardware, or meals.

2. Early Doctoral Student Research Grant (EDSRG) Program—Three thousand dollars of the grant funds will be held until the doctoral student's research manuscript has been completed and accepted for presentation at a conference or publication in a refereed journal by the end of the grant period, or a committee of three faculty members (including the faculty sponsor, as the principal investigator of the grant) has determined and certified to HUD that the manuscript is of high quality and worthy of submission to conferences or journals and two copies of the research product are submitted to HUD in its final version.

3. Doctoral Dissertation Research Grant (DDRG) Program—Six thousand dollars of the grant funds will be held until the doctoral student's dissertation has been completed, approved by the committee, and two final copies are submitted to HUD in its final version.

4. Institutions that have had previously awarded grants under these programs terminated for non-performance and have outstanding funds owed to HUD resulting from the termination will be excluded from competition until the outstanding funds are repaid. (Applicants must comply with the Delinquent Federal Debt Requirement as defined in the General Section of the SuperNOFA.)

F. Other Submission Requirements

1. Complete Application Package

This package must be submitted to the following address: University Partnerships Clearinghouse, c/o Danya International, 8737 Colesville Road, Suite 1200, Silver Spring, MD 20910. When submitting an application package, indicate the following information on the outside of the envelope:

a. Office of University Partnerships;

b. Name of the program under which funding is being requested; and

c. Applicant's name and mailing address (including zip code).

Applicants must refer to the General Section of the SuperNOFA for application submission, delivery, and timely receipt requirements.

2. Forms, Certifications, and Assurances

The following certifications and assurances must be included in all application packages. These forms must be signed by the Chief Executive Officer (or official designee, not the student) of the institution and can be downloaded from the HUD Web site at http://www.hud.gov.

a. Application for Federal Assistance (SF-424).

b. Grant Application Detailed Budget (HUD-424-CB).

c. Applicant Assurances and Certification (HUD-424B) (if applicable).

d. Disclosure of Lobbying Activities (SF-LLL) (if applicable).

e. Acknowledgment of Receipt of Applications (HUD-2993). To confirm that HUD received the student's application, please complete this form. Applicants are not required to include this form, but it is recommended that an applicant do so.

f. Client Comments and Suggestions (HUD-2994). This form is included so that we can solicit information from the most valuable source-the student, or customers. If the student completes and submits this form, it will help HUD to assess whether the changes made to this document have had the intended results. It will also guide us in our continuing efforts to improve the competitive grant process. This form is optional and can be completed by the student.

V. Application Review Information

A. Criteria

1. Rating Factor 1: Capacity to do the Research (20 Points). In reviewing this factor, HUD will determine the extent to which:

a. The student's skills and experience are relevant to the proposed research manuscript/dissertation (e.g., course work, teaching, research projects, and presentations);

b. The student provides a research outline that identifies the preliminary steps that have been undertaken (e.g., literature review, research hypotheses, questions to be answered) to produce the proposed manuscript/dissertation; and

c. For Early Doctoral Program Applicants only; The proposed research will help to further the student's research skills (i.e., it is relevant to the kind of projects the student will continue to work on as she/he earns his/her Ph.D.).

d. For Doctoral Dissertation Research Applicants only; The doctoral student's previous research experience (e.g., graduate-level research projects, presentations at conferences, publications, etc.) is relevant to and supportive of the proposed dissertation.

2. Rating Factor 2: Need for the Research (35 Points). In reviewing this factor, HUD will determine the extent to which the research manuscript/dissertation will produce policy-relevant information that is directly related to HUD's research priorities and/or annual goals and objectives as defined in the General Section of the SuperNOFA (i.e., the research that will be produced could have an effect on HUD's strategic goals and programs and policies to achieve these goals). The more direct the relationship is between the doctoral student's manuscript/dissertation and one of these topics, the higher number of points awarded. For example a study of minorities' housing choice decisions would have high relevance to HUD's strategic goals; a study of transportation inequities would have medium relevance; and a study of the effects of global warming on urban development would have low relevance.

3. Rating Factor 3: Soundness of Approach (35 Points). This factor addresses the quality and effectiveness of the proposed research and methodology and the actions regarding HUD's policy priorities. This factor will be evaluated based on the extent to which the proposed work plan will demonstrate the following:

a. Quality of Research (33 Points). (1) The research design and methodology proposed is likely to produce data and information that will successfully answer the research hypothesis; and

(2) The methodology proposed is sound and generally accepted by the relevant research community and is in line with research already completed or existing publications in the field as they relate to the scholarly standard for the research questions.

b. (2 Points) HUD Policy Priorities. An important purpose of these programs is to fund research that may impact federal problem solving and policymaking and is relevant to HUD's policy priorities and annual goals and objectives. (See General Section of the SuperNOFA for further discussion.) HUD encourages applicants to undertake research that will assist the Department in implementing its policy priorities and which help the Department achieve its goals and objectives in FY2005. In addressing this factor, HUD will evaluate the extent to which the research will further and support HUD's priorities. The quality of an applicant's response to one or more of HUD's priorities will determine the score an applicant can receive. Applicants must describe how each policy priority selected will be addressed. Applicants that just list a priority will receive no points. Each policy priority addressed has a point value of one point with the exception of the policy priority to remove regulatory barriers to affordable housing, which has a point value of up to 2 points. The total number of points available to applicants that address policy priorities is 2. It is up to the applicant to determine which of the policy priorities they elect to address to receive the available 2 points. To receive points for efforts to remove regulatory barriers to affordable housing, an applicant must submit the completed questionnaire found in the General Section (Form HUD-27300). For the full list and explanation of each policy priority, please refer to the General Section of this SuperNOFA.

4. Rating Factor 4: Issuance of the Research Product (10 Points). In reviewing this factor, HUD will determine the following:

a. For Early Doctoral Program Applicants only. The extent to which the proposed research manuscript will be completed within the grant performance period and be suitable for presentation at a conference or publication in a refereed journal.

b. For Doctoral Dissertation Program Applicant only. The extent to which the proposed research can feasibly be prepared and delivered to HUD by the end of the grant period.

c. Applicants must demonstrate the feasibility of completing their research within the grant performance period by providing the following information:

(1) Major tasks involved in completing the proposed research;

(2) Indicate the sequence in which these tasks will be performed; and

(3) Identify any key individuals responsible for carrying out any proposed activities.

The sequence and duration of this effort should be presented in quarterly (3 month) intervals for the entire life of the grant (use of a milestone chart to present this information is recommended).

(4) Efforts on the part of the doctoral student who proposes extremely complex and time-consuming data collection efforts (e.g., major longitudinal studies or a very large number of site visits within the grant period) will be determined less feasible for completion within the allotted grant period. For example, if the proposed methodology is based on information that may not be publicly available until after the end of the grant period (e.g., Census information), or a data collection plan that will take longer than the allotted grant period, zero points will be awarded for this factor.

(5) HUD will also evaluate the student's plan to disseminate the research through other means (e.g., seminars, university publications, or relevant Internet listserves).

B. Review and Selection Process

1. Application Selection Process

Two types of reviews will be conducted:

a. A threshold review to determine an applicant's basic eligibility; and

b. A technical review for all applications that pass the threshold review to rate and rank the application based on the “Factors for Award” listed in Section V.A above. Only those applications that pass the threshold review will receive a technical review and be rated and ranked.

2. Rating Panels

To review and rate applications, HUD may establish panels which may include experts or consultants not currently employed by HUD. These individuals may be included to obtain certain expertise.

3. Ranking

In order to be funded, an application must receive a minimum score of 75 points. HUD will fund applications under each program in rank order, until all available program funds are awarded. If two or more applications have the same number of points, the application with the higher points for Factor 1, Capacity to do the Research, shall be selected. If there is still a tie, the application with the higher points for Factor 2, Need for the Research, shall be selected. HUD reserves the right to reduce the amount of funding requested in order to fund as many highly ranked applications as possible. Additionally, if funds remain after funding the highest ranked applications, HUD may fund part of the next highest-ranking application. If an applicant turns down the award offer, HUD will make the same determination for the next highest-ranking application. The RC/EZ/EC bonus points described in the General Section of the SuperNOFA do not apply to this NOFA.

C. Anticipated Announcement and Award Dates

Announcements of awards are anticipated on or before September 30, 2004.

VI. Award Administration Information

A. Award Notices

After all selections have been made, HUD will notify all winning applicants in writing. HUD may require winning applicants to participate in additional negotiations before receiving an official award. For further discussion on this matter, please refer to the General Section of the SuperNOFA.

B. Administrative and National Policy Requirements

The provisions of the HUD Reform Act of 1989 that apply to this NOFA are explained in the General Section of the SuperNOFA.

1. Environmental Requirements. The provision of assistance under these programs is categorically excluded from environmental review under the National Environmental Policy Act of 1969 (42 U.S.C. 4321) and not subject to compliance actions for related environmental authorities under 24 CFR 50.19(b)(1) and (b)(9).

2. Administrative. Applicants must comply with the requirements for funding competitions established by the HUD Reform Act of 1989 (42 U.S.C. 3531 et seq.) as defined in the General Section of the SuperNOFA.

3. Debriefing. The General Section of the SuperNOFA provides the procedures for requesting a debriefing. All requests for debriefings must be made in writing and submitted to Armand Carriere, Office of University Partnerships, Robert C. Weaver Federal Building, 451 Seventh Street, SW., Room 8106, Washington, DC 20410. Applicants may also write to Mr. Carriere via e-mail at Armand_W._Carriere@hud.gov.

C. Reporting Requirements

All recipients of grant funds for programs in this NOFA are required to submit a report, halfway through the grant period, on the progress to date that has been made toward completion of the research product and the likelihood that it will be completed on time.

For each reporting period, as part of the required report to HUD, a grant recipient must include a completed Logic Model (Form HUD-96010), which identifies output and outcome achievements.

VII. Agency Contacts

Doctoral students may contact Armand Carriere, Office of University Partnerships at (202) 708-3061, extension 3181 or Susan Brunson at (202) 708-3061, extension 3852. Persons with speech or hearing impairments may call the Federal Information Relay Service TTY at 800-877-8339. Except for the “800” number, these telephone numbers are not toll-free. Students may also reach Mr. Carriere via the Internet at Armand_W._Carriere@hud.gov and/or Ms. Brunson at Susan_S._Brunson@hud.gov.

VIII. Other Paperwork Reduction Act

The information collection requirements contained in this document have been approved by the Office of Management and Budget (OMB) under the Paperwork Reduction Act of 1995 (44 U.S.C. 3501-3520) and assigned OMB control number 2528-0216 (for the Early Doctoral Student Research Grant Program) and 2528-0213 (for the Doctoral Dissertation Research Grant Program). In accordance with the Paperwork Reduction Act, HUD may not conduct or sponsor, and a person is not required to respond to, a collection of information unless the collection displays a currently valid OMB control number. Public reporting burden for the collection of information is estimated to average 44 hours per annum per respondent for the application and grant administration. This includes the time for collecting, reviewing, and reporting the data for the application, semi-annual reports, and final report. The information will be used for grantee selection and monitoring the administration of funds. Response to this request for information is required in order to receive the benefits to be derived.

BILLING CODE 4210-32-P

The Community Development Work Study Program

Overview Information

A. Federal Agency Name: Department of Housing and Urban Development, Office of Policy Development and Research, Office of University Partnerships.

B. Funding Opportunity Title: The Community Development Work Study program (CDWSP).

C. Announcement Type: Initial announcement.

D. Funding Opportunity Number: The Federal Register number is FR-4900-N-03. The OMB approval number for this program is 2528-0175.

E. Catalog of Federal Domestic Assistance (CFDA) Number: The CFDA Number for this program is 14.512.

F. Dates: The application due date is June 16, 2004. Please see the General Section of the SuperNOFA for application submission, delivery, and timely receipt requirements.

G. Additional Overview Content Information:

1. Purpose of the Program: The Community Development Work Study Program (CDWSP) funds two-year grants to accredited institutions of higher education, Area Planning Organizations (APOs), and states applying on behalf of institutions of higher education to provide assistance to economically disadvantaged and minority graduate students who participate in a community development work study program. Students must be U.S. citizens or lawful permanent residents (recipient of an Alien Registration Recipient Card—Form I-551, commonly referred to as a Green Card) and enrolled full-time in a graduate community building academic degree program. Grants will cover the academic period August 2004 through August 2006.

2. Award Information: In Fiscal Year (FY) 2004, approximately $2.98 million has been appropriated by the Consolidated Appropriations Act, 2004 (Pub. L. 108-199, approved January 23, 2004, 118 Stat. 3) for this program. In addition, $378,844 in previously unexpended funds is made available for this program. The grant performance period is two years (24 months). The performance period will commence on the effective date of the grant agreement. Institutions may request no more than $15,000 per year per student for a total of $30,000 for a two-year (24 months) grant performance period. The minimum number of students that can be assisted under this program per participating institution is three. The maximum number of students that can be assisted under this program per participating institution is five. The maximum amount an institution can request for funding is $150,000.

3. Eligible Applicants: Organizations are eligible if they are:

a. An accredited institution of higher education recognized by the U.S. Department of Education that offers a graduate degree in a community development academic program;

b. An APO applying on behalf of two or more eligible accredited institutions of higher education recognized by the U.S. Department of Education that offer a graduate degree in a community development academic program and that are located in the same Standard Metropolitan Statistical Area (SMSA) or non-SMSA as the APO (in accordance with the regulations at 24 CFR 570.415, institutions of higher education are permitted to choose whether to apply independently or through an APO); or

c. A State applying on behalf of two or more eligible accredited institutions of higher education recognized by the U.S. Department of Education that offer a graduate degree in a community development academic program and that are located in the State. If a State is approved for funding, accredited institutions of higher education located in that State may not apply independently.

Full Text of Announcement

I. Funding Opportunity Description

The Community Development Work Study Program (CDWSP) funds two-year grants to accredited institutions of higher education, Area Planning Organizations (APOs), and states applying on behalf of institutions of higher education to provide assistance to economically disadvantaged and minority graduate students who participate in a community development work study program.

A. Listed below are major modifications to the Fiscal Year (FY) 2003 program-funding announcement:

1. This program has a separate NOFA and is no longer a part of the combined Office of Universities Partnership Program NOFA.

2. All institutions are eligible to apply for these funds (including those that have received funding in prior years).

3. Applicants that have graduate degree programs in community organizing are now eligible to apply for funding under this program.

4. Applications must be submitted to: University Partnerships Clearinghouse; c/o Danya International, 8737 Colesville Road, Suite 1200, Silver Spring, MD 20910.

5. An applicant can request less than $90,000 for the two-year grant performance period, as long as three (the minimum number) students are being assisted per participating institution.

B. HUD's authority for making funding available under this NOFA is section 107(c) of the Housing and Community Development Act of 1974 (42 U.S.C. 5301 et seq.). Regulations for the program appear at 24 CFR 570.415.

II. Award Information

In Fiscal Year (FY) 2004, approximately $2.98 million has been appropriated by the Consolidated Appropriations Act, 2004 (Pub. L. 108-199, approved January 23, 2004, 118 Stat. 3). In addition, $378,844 in previously unexpended funds is made available for this program. Institutions may request no more than $15,000 per year per student for a total of $30,000 for a two-year (24 months) grant performance period. The performance period will commence on the effective date of the grant agreement. The minimum number of students that can be assisted per participating institution is three. The maximum number of students that can be assisted under this program is five per participating institution. The maximum amount an institution can request for funding is $150,000.

III. Eligibility Information

A. Eligible Applicants

Organizations are eligible if they are:

1. An accredited institution of higher education recognized by the U.S. Department of Education that offers a graduate degree in a community development academic program;

2. An APO applying on behalf of two or more eligible accredited institutions of higher education recognized by the Department of Education that offer a graduate degree in a community development academic program and that are located in the same Standard Metropolitan Statistical Area (SMSA) or non-SMSA as the APO (in accordance with the regulations at 24 CFR 570.415, institutions of higher education are permitted to choose whether to apply independently or through an APO); or

3. A State applying on behalf of two or more eligible accredited institutions of higher education recognized by the Department of Education that offer a graduate degree in a community development academic program that are located in the State. If a State is approved for funding, accredited institutions of higher education located in that State may not apply independently.

B. Cost Sharing or Matching

None Required

C. Other

1. Threshold Requirements Applicable to all Applicants

All applicants must comply with the threshold requirements as defined in the General Section of the SuperNOFA and the requirements listed below to be evaluated, rated, and ranked. Applications that do not meet these requirements will be considered ineligible for funding and will be disqualified:

a. The applicant must meet the eligible requirement as defined in Section III.A, Eligible Applicants.

b. Applicants must comply with all statutory and regulatory requirements applicable to this program. CDWSP regulations can be found at 24 CFR 570.415. Copies of the regulations are available on request from http://www.HUDUSER.org.

c. An eligible community building academic program includes, but is not limited to, accredited graduate degree programs in community and economic development, community planning, community management, community organizing, public administration, public policy, urban economics, urban management, and urban planning.

d. The minimum number of students that may be assisted per participating institution is three. If an APO or state receives assistance for a program that is conducted by two or more institutions, each participating institution must have a minimum of three students per program. The maximum number of students that can be assisted under this program is five per participating institution. The maximum amount an institution can request for funding is $150,000.

e. Only one application is eligible for funding from an institution.

f. Applicants must receive a minimum score of 75 points to be considered for funding.

g. An applicant must have a DUNS Number to receive HUD grant funds. (The General Section of the SuperNOFA provides information regarding the DUNS requirement.)

2. Program Requirements

In addition to the program requirements listed in the General Section of the SuperNOFA, applicants must meet the following program requirements:

a. All funds awarded under this program must be spent during a two-year (24 months) grant performance period.

b. Applicants must have on file a signed agreement with each student that covers the purpose of the work placement, responsibilities of both parties, including financial support and work components. This agreement should also address the student's responsibilities as described in the program regulations.

c. Applicants must have on file a signed agreement with each work placement agency that covers the purpose of the work placement, and the respective roles of all parties. Among other matters determined to be appropriate, this agreement should address the work placement agency's responsibilities described in the program regulations.

(Note: HUD does not provide a model or sample format for either of these agreements.)

IV. Application and Submission Information

A. Address to Request Application Package

Applicants may request general information, copies of the General Section and Program Sections of the SuperNOFA from the NOFA Information Center by calling 800-HUD-8929 or persons with hearing or speech impairments may call 800-HUD-2209 (TTY) between the hours of 9 a.m. and 8 p.m. (eastern time) Monday through Friday, except on Federal holidays. When requesting information, please refer to the Community Development Work Study Program. Be sure to provide your name, address (including zip code), and telephone number (including area code). To ensure sufficient time to prepare an application, requests for copies of the SuperNOFA can be made immediately following publication of the SuperNOFA. The NOFA Information Center opens for business simultaneously with the publication of HUD's 2004 NOFA. Applicants can also obtain information on the SuperNOFA and download application information for the SuperNOFA through the HUD Web site, http://www.hud.gov.

B. Content and Form of Application Submission

A completed application package must include an original signed application, three copies, and one computer disk of the application (in Word 6.0 or higher) of the items listed below. (The computer disk must include the narrative portion of the application and all required forms. Forms can be downloaded from the HUD Web site, http://www.hud.gov.) In order to recycle paper, applicants must not submit applications in bound form; binder clips or loose-leaf binders are acceptable. Please do not use colored paper. The application narrative must not exceed 50 pages in length (excluding forms and assurances, Executive Summary, agreements and letters) and must be submitted on 8½ by 11-inch paper, double-spaced on one side of the paper, with one inch margins (from the top, bottom, left and right) and printed in standard Times New Roman 12-point font. The double-spacing requirement applies to all parts of the program narrative (the Executive Summary, maps, tables, agreements, letters, photocopies of excerpts from official publications of the educational institution or department are excluded from this requirement). Please do not provide any additional exhibits, appendices, or resumes to support responses. No additional attachments are permitted. Please note that although submitting pages in excess of the page limit will not disqualify an application, HUD will not consider the information on any excess pages. This may result in a lower score or failure to meet a threshold. Please make sure that all items are submitted in the order listed below and that all pages are numbered and the name of the university on each page. Except where a particular form may direct otherwise, all forms included in an application, as well as the transmittal letter, must be signed by the Chief Executive Officer (this is generally the President or Provost) or an official designee legally authorized to make a commitment on behalf of the institution. If a designee signs, the application must contain a copy of the official delegation of signatory authority.

Please include in your application each item listed in the order below:

1. SF-424, Application for Federal Assistance. Applicants can find instructions for completing this form on the back of the first page of the form. Please remember the following:

a. The full grant amount for the entire two years should be entered, not the amount for just one year;

b. Include the name, title, address, telephone number, facsimile number, and e-mail address of the designated contact. This is the person who will receive the reviewers' comments; therefore, please ensure the accuracy of the information;

c. The Employer Identification/Tax ID;

d. The DUNS Number;

e. The Catalog of Federal Domestic Assistance Number for this program is 14.512;

f. The project's proposed start date and completion date. For the purpose of this application, the program start date should be October 1, 2004; and

g. The signature of an authorized official (an individual who has the authority to make a binding commitment on behalf of the institution).

2. Transmittal Letter. This letter should contain a statement that the institution of higher education (not the department or program) that will be receiving funds under this grant is fully accredited. This letter must state not only the name of the accrediting agency but also that the particular accrediting agency is recognized by the U.S. Department of Education. If a state or APO is the applicant, the transmittal letter must set forth this assurance for each institution of higher education with whom they will be working. The Chief Executive Officer (usually the President or Provost) of the institution must sign this letter. If the Chief Executive Officer has delegated this responsibility to another official, that person may sign, but a copy of the delegation must be included or clearly stated in the letter.

3. Application Checklist. Applicants must include the completed checklist in their application. On the checklist, the applicant must indicate the page number where each of the items can be found in the application (See Appendix A).

4. Executive Summary. Applicants must include no more than three pages in length. The Executive Summary must, at a minimum, describe:

a. The academic degree programs for which the students will be selected;

b. The type of work placement agencies (including specific examples) that have committed to participate in the program (students cannot be placed at a federal government agency);

c. The plans and resources/facilities for administering the program and assisting students to pursue post-academic or community building opportunities; and

d. The contact person and the address where correspondence and all other information should be sent. If this is not included, all information will be forwarded to the address and the official named on the Form SF-424.

5. Designation of Applicable Graduate Degree Program(s) Form HUD-30013 (Community Development Work Study Program Designation of Applicable Graduate Academic Degree Program). Review carefully the regulations dealing with eligible types of degree programs before completing this form. If the proposed program is other than one listed as an eligible degree program, please contact Madlyn Wohlman-Rodriguez or Susan Brunson for additional guidance.

6. Narrative statement addressing the Factors for Award. HUD will use the narrative response to the “Factors for Award” to evaluate, rate, and rank applications. This statement and management plan are the main source of information. Applicants are advised to review each factor carefully for program specific requirements. The response to each factor should be concise and contain only information relevant to the factor, but detailed enough to address each factor fully. Please do not repeat material in response to the five factors; instead, focus on how well the proposal responds to each of the factors. In factors where there are subfactors, each subfactor must be presented separately, with the short title of the subfactor presented. Make sure to address each subfactor and provide sufficient information about every element of the subfactor.

7. Budget. Use the budget form HUD-30015 (Community Development Work Study Program Student Budget Sheet) for the August 2004 through August 2006 funding period. An APO and/or state must also complete the HUD-30014 (Community Development Work Study Program State/Area-wide Planning Organization Budget Summary). Please provide any necessary back-up documentation (e.g., pages from course catalogues listing the fees) to demonstrate concisely that the amounts requested are reasonable and customary. Applicants are not required to submit documentation for the administrative allowance amount. Any anticipated increases to these project costs should be included and an explanation for the basis of the increases provided. If documentation is not included, the award amount will be based on current tuition rates, regardless of any subsequent tuition increase. HUD will not increase the amount of the grant once awarded to reflect any tuition or fee increases that have not been set forth in the application. Also, HUD will not cover any costs exceeding the per-student maximum.

8. Audits. Applicants must ensure that their most current A-133 audit is on file at the Federal Audit Clearinghouse. Grantees that expend $500,000 or more in Federal financial assistance in a single year (this can be program year or fiscal year) must be audited in accordance with the OMB requirements as established in 24 CFR parts 84 and 85. Additional information regarding this requirement can be accessed at the following Web site http://harvester.census.gov/sac.

9. Appendix. Applicants must place the letters of support and agreements in this section. An applicant may not submit general support letters or resumes or other back-up materials (unless an applicant is willing to have the latter count toward the page limit requirement).

C. Submission Dates and Times

An application package is due June 16, 2004. Please see the General Section of the SuperNOFA for application submission, delivery, and timely receipt requirements.

D. Intergovernmental Review

This program is excluded from an Intergovernmental Review.

E. Funding Restrictions

Funding may only be provided to applicants that meet the standards for eligible applicants defined in section III.

F. Other Submission Requirements

1. Complete Application Package

This package must be submitted to the following address: University Partnerships Clearinghouse, c/o Danya International 8737 Colesville Road, Suite 1200, Silver Spring, MD 20910. When submitting an application package, also please include the following information on the outside of the envelope:

a. Office of University Partnerships;

b. Community Development Work Study Program; and

c. Applicant's name and mailing address (including ZIP code).

2. Forms, Certifications, and Assurances

The following certifications and assurances must be included in all application packages. These forms must be signed by the Chief Executive Officer (or official designee, not the student) of the institution and can be downloaded from http://www.hud.gov.

a. Application for Federal Assistance (SF-424).

b. Applicant Assurances and Certification (SF-424B).

c. Disclosure of Lobbying Activities (SF-LLL).

d. America's Affordable Communities Initiative Removal of Regulatory Barriers (HUD-27300), if applicable.

e. Applicant/Recipient Disclosure Update Report (HUD-2880).

f. Program Logic Model (HUD-96010).

g. Acknowledgment of Receipt of Applications (HUD-2993). To confirm that HUD received the application package, please complete this form. Applicants are not required to include this form, but it is recommended that an applicant do so.

h. Client Comments and Suggestions (HUD-2994). This form is included to solicit information from the most valuable source, the applicant. The changes that we have instituted this year are designed to make things easier for the applicant. If applicants complete and submit this form, it will help HUD to assess whether the changes made to this document have had the intended results. It will also guide us in our continuing efforts to improve the competitive grant process. Applicants are not required to complete this form.

V. Application Review Information

A. Criteria

1. Rating Factor 1: Capacity of the Academic Program and Relevant Past Experience (25 Points). This factor addresses the extent to which an applicant's academic program has the capacity to prepare students for careers in community building. In evaluating this factor, HUD will consider:

a. Capacity of the Academic Program For Previously Unfunded Applicants (20 Points). For Previously Funded Applicants (15 Points). Applicants must describe the quality of the academic program the institution offers (or in the case of an application from an APO or state, those offered by the institutions included in the application) including, without limitation, the following:

(1) The course offerings in terms of their depth and emphasis on applied coursework;

(2) The necessities of the courses offered to prepare students for professional careers in community building; and

(3) Qualifications of the faculty, such as the number of relevant Ph.D.s, specific accomplishments and the percentage of their time devoted to teaching and research in community building.

As a supplement to the narrative response, applicants can include photocopies of excerpts from official publications of the educational institution or department. Please make sure to place these documents after the narrative and include them in the page count.

b. Rates of Graduation. For Previously Unfunded Applicants (5 Points). For Previously Funded Applicants (10 Points). HUD will evaluate the graduation rates of students previously enrolled in a community building academic degree program, specifically (where applicable) graduation rates from any previously funded CDWSP academic programs or similar programs. This factor measures the rate of graduation for all applicable years and awards points based on the extent to which the applicant exceeds a 50 percent graduation rate each applicable year. Previously funded CDWSP programs should include copies of the final Community Development Work Study Program Student Data Sheet, HUD-30007, for each previously enrolled student who received assistance from the program.

2. Rating Factor 2: Need for the Program (10 Points). This factor addresses the extent to which there is a need for funding the proposed program activities and an indication of the importance of meeting the need. In responding to this factor, HUD will evaluate the applicant's commitment to meeting the needs of economically disadvantaged and minority students as demonstrated by the institution's policies and plans, past efforts and successes recruiting, enrolling, and financially assisting economically disadvantaged and minority students, including the provision of reasonable accommodations for students with disabilities. If the applicant is an APO or State, HUD will consider the demonstrated commitment of each accredited institution of higher education on whose behalf the APO or State is applying.

3. Rating Factor 3: Soundness of Approach (45 Points). This factor addresses the quality and effectiveness of the proposed student work placement assignments.

a. Quality of the Work Placement Assignments (13 Points). HUD will evaluate the extent to which participating students will receive a variety of work placement assignments. (Note: Students cannot be placed with a Federal government agency.) The assignments should provide practical and useful experience to students participating in the program and further the participating students' preparation for professional careers in community building. In rating this subfactor, HUD will consider the variety of work placement agencies, and the variety of projects/experiences at each agency and overall. Applicants must also include a description of the plan for rotating students among work placement agencies. Note: Students engaging in community building projects through an institution of higher education (rather than being directly supervised by local work placement sites) may do so only through a HUD-funded Community Outreach Partnership Center (COPC), which will be considered a work placement agency even if the community building projects are undertaken with or through a separate organization or entity. Accordingly, students engaging in community building through an institution of higher education's outreach center should do so during only part of their academic program and should rotate to other work placement agency responsibilities as well. In order to receive higher points on this subfactor, applicants must propose at least three different work placement experiences for each student (typically, one each school year and one during the summer between the two school years) and include executed agreements with their proposed work study sites, rather than just listing the sites.

b. Effectiveness of Program Administration (15 Points). HUD will evaluate the degree to which the applicant will be able to coordinate and administer the program. HUD will allocate the maximum points available under this criterion equally among the following three considerations, except that the maximum points available under this criterion will be allocated equally only between (a) and (b), if the applicant has not previously administered a CDWSP-funded program. If an applicant received a CDWSP grant in FY2000 or before and has not received one since, the applicant is considered a new applicant, for the purposes of this factor. Applicants must include a Management Work Plan that addresses the following details at a minimum:

(1) The strength and clarity of the plan for placing CDWSP students on rotating work placement assignments and for monitoring CDWSP students' progress both academically and in their work placement assignments. In addition, include plans, procedures, schedules, and preferably a milestone chart that indicates the sequence in which these tasks will be performed, noting areas of work that will be performed simultaneously and continually during the life of the grant, along with the name of the responsible individual. Also, include plans for recruiting and selecting students, monitoring and guidance of students' academic progress, coordinating and monitoring student work placement agencies, and other matters deemed significant;

(2) The key personnel responsible for administering, managing, and evaluating the project, the experience, responsibilities, available time, and authority of the individual who will coordinate and administer the program; and

(3) The effectiveness of prior coordination and administration of a CDWSP-funded program, where applicable. In addressing this factor, applicants should describe the timeliness of report submissions. Applicants should review their prior CDWSP grant agreements and reports and compare when reports were due with when the reports actually were submitted. Applicants should also describe their timeliness in expending grant funds. Applicants are encouraged to provide a chart that outlines report submissions for each grant by the submission date and the pattern of drawing down of funds.

c. Likelihood of Fostering Students' Permanent Employment in Community Building (15 Points). HUD will evaluate the extent to which the proposed program will lead participating students directly and immediately to permanent employment in community building. Include a statement that describes, at a minimum, the following:

(1) Past success (in the last four years) in placing graduates (particularly CDWSP-funded and similar program graduates, where applicable) in permanent employment in community building; and

(2) How the institution will assist students (particularly students in CDWSP-funded and similar programs, where applicable) in finding permanent employment in community building. Include the amount/type of faculty/staff time and resources that will be devoted to assisting students.

d. HUD Policy Priorities (2 Points). HUD encourages applicants to undertake specific activities that will assist the Department in implementing its policy priorities and which will help the Department achieve its goals and objectives in FY2005, when the majority of grant recipients will be reporting programmatic results and achievements. In addressing this factor, HUD will evaluate the extent to which an applicant will provide students with work place assignments that undertake specific activities that will further and support HUD's policy priorities and FY2005 goals. In rating this factor, HUD will evaluate the quality of the responses provided to one or more of HUD's priorities to determine the score an applicant can receive. Applicants must describe how each policy priority selected will be addressed. Applicants that just list a priority will receive no points. Each policy priority addressed has a point value of one point with the exception of the policy priority to remove regulatory barriers to affordable housing, which has a point value of up to 2 points. The total number of points available to applicants that address policy priorities is 2. It is up to the applicant to determine which of the policy priorities they elect to address to receive the available 2 points. To receive points for efforts to remove regulatory barriers to affordable housing, an applicant must submit the completed questionnaire found in the General Section. (Form HUD-27300). For the full list and explanation of each policy priority, please refer to the General Section of this SuperNOFA.

4. Rating Factor 4: Leveraging Resources (10 points). HUD will evaluate the applicant's commitment and ability to assure that CDWSP students will receive sufficient financial assistance above and beyond the CDWSP funding to complete their academic program in a timely manner and without working in excess of 20 hours a week during the school year. When addressing this issue, delineate the full costs budgeted annually per student (including living expenses, fees, etc), explain the basis for the budget and how the financial assistance package offered to each CDWSP student will meet that budget. Applicants must explain how variations in the budget needs and emergency financial needs will be addressed among students. Loans are less preferred than grants because of the burden placed on the student to repay them. Therefore, higher points will be given to applicants that provide assistance in the form of grants rather than loans.

5. Rating Factor 5: Achieving Results and Program Evaluation (10 Points). This factor reflects HUD's goal to embrace high standards of management and accountability. The factor measures the applicant's commitment to assess their performance to achieve the project's proposed objectives and goals. Applicants are required to develop an effective, quantifiable, outcome-oriented evaluation plan for measuring performance and determining that objectives and goals have been achieved. All performance indicators should be objectively quantifiable and measure actual achievements against anticipated achievements. Applicants must also describe the steps that will be taken to make adjustments to the work plan if performance targets are not met within the established time frame associated with each activity. At a minimum, the evaluation plan should address the following activities:

a. Student recruitment;

b. Student completion of degree program; and

c. Long-term placement after graduation (1 year after graduation).

This information must be placed under this section on a HUD-96010, Program Outcome Logic Model form. (Applicants can use as many copies of this form as required. It will not be included in the page count requirement.) A narrative is not required for this factor; however, if a narrative is provided, those pages will be included in the page count. Additional information on how to use this form can be found in the General Section of the SuperNOFA.

B. Review and Selection Process

1. Application Selection Process

Two types of reviews will be conducted.

a. A threshold review to determine an applicant's basic eligibility; and

b. A technical review based on the “Factors for Award” listed above.

Only those applications that pass the threshold review will receive a technical review and be rated and ranked.

2. Rating Panels

To review and rate applications, HUD may establish panels which may include persons not currently employed by HUD. These individuals may be included to obtain certain expertise.

3. Ranking

HUD will fund applications in rank order, until all available program funds are awarded. In order to be funded, an application must receive a minimum score of 75 points. The maximum number of points available for this program is 100. The RC/EZ/EC points described in the General Section of the SuperNOFA do not apply to this program. HUD may make awards out of rank order to achieve geographic diversity, and may provide assistance to support a number of students that is less than the number requested under an application or a lower funding level per student, in order to provide assistance to as many highly ranked applications as possible. If there is a tie in the point scores of two applications, the rank order will be determined by the scores on Rating Factor 3 entitled “Soundness of Approach.” The application with the higher points on this factor will be given the higher rank. If there is still a tie, the rank order will be determined by the applicants' scores on Rating Factor 1 entitled “Capacity of the Applicant's Academic Program and Relevant Past Experience.” The application with the higher points for this selection factor will be given the higher rank.

4. Correction to Deficient Applications

The General Section of the SuperNOFA provides the procedures for correction to deficient applications.

C. Anticipated Announcement and Award Dates

Announcements of awards are anticipated on or before September 30, 2004.

VI. Award Administration Information

A. Award Notice

After all selections have been made, HUD will notify all winning applicants in writing. HUD may require winning applicants to participate in additional negotiations before receiving an official award. For further discussion on this matter, please refer to the General Section of the SuperNOFA.

B. Administrative and National Policy Requirements

The provisions of the HUD Reform Act of 1989 that apply to this NOFA are explained in the General Section of this SuperNOFA.

1. Debriefing

The General Section of the SuperNOFA provides the procedures for requesting a debriefing. All requests for a debriefing must be made in writing and submitted to Armand Carriere, Office of University Partnerships, Robert C. Weaver Federal Building, 451 7th Street, SW., Room 8106, Washington, DC 20410.

2. Environmental Requirements

In accordance with 24 CFR 50.19 (b) (3) and (b) (9) of the HUD regulations, activities assisted under this program are categorically excluded from the requirements of the National Environmental Policy Act of 1969 (42 U.S.C. 4321) and are not subject to environmental review under the related laws and authorities.

C. Reporting

All grant recipients under this NOFA are required to submit semi-annual progress reports. The progress reports shall consist of two components, a narrative (including forms) that must reflect the activities undertaken during the reporting period and a financial report that reflects costs incurred during the reporting period, as well as a cumulative summary.

For each reporting period, as part of the required report to HUD, a grant recipient must include a completed Logic Model (Form HUD-96010), which identifies output and outcome achievements.

VII. Agency Contacts

Applicants may contact Madlyn Wohlman-Rodriguez at (202) 708-3061, extension 5939 or Susan Brunson, at (202) 708-3061, extension 3852. Person with speech or hearing impairments may call the Federal Information Relay Service TTY at (800) 877-8339. Except for the “800” number, these numbers are not toll-free. Applicants may also reach Ms. Rodriguez via e-mail at Madlyn_S._Wohlman-Rodriguez@hud.gov, and/or Ms. Brunson at Susan_S._Brunson@hud.gov.

VIII. Other Information

1. Paperwork Reduction Act: The information collection requirements contained in this document have been approved by the Office of Management and Budget (OMB) under the Paperwork Reduction Act of 1995 (44 U.S.C. 3501-3520) and assigned OMB control number 2528-0175. In accordance with the Paperwork Reduction Act, HUD may not conduct or sponsor, and a person is not required to respond to, a collection of information unless the collection displays a currently valid OMB control number. Public reporting burden for the collection of information is estimated to average 60 hours per annum per respondent for the application and grant administration. This includes the time for collecting, reviewing, and reporting the data for the application, semi-annual reports, and final report. The information will be used for grantee selection and monitoring the administration of funds. Response to this request for information is required in order to receive the benefits to be derived.

BILLING CODE 4210-32-P

Fair Housing Initiatives Program

Overview Information

A. Federal Agency Name: Department of Housing and Urban Development, Office of Fair Housing and Equal Opportunity.

B. Funding Opportunity Title: Fair Housing Initiatives Program (FHIP).

C. Announcement Type: Initial announcement.

D. Funding Opportunity Number: The Federal Register number for this NOFA is FR-4900-N-22. The OMB Approval Number is: 2539-0033.

E. Catalog of Federal Domestic Assistance (CFDA) Number(s): Private Enforcement Initiative (PEI) 14.410; Fair Housing Organizations Initiative (FHOI) 14.413; Education and Outreach Initiative (EOI) 14.409.

F. Dates: The application due date shall be on or before June 29, 2004. Please see the General Section for information on submission and timeliness requirements.

G. Optional, Additional Overview Content Information:

1. FHIP funds are used to increase compliance with the Fair Housing Act (the Act) and with substantially equivalent State and local fair housing laws.

2. Approximately $17,730,525 in FY2004 funds and any potential recapture is allocated to three (3) initiatives as follows:

a. Private Enforcement Initiative (PEI) $11,850,000.

b. Education and Outreach Initiative (EOI) $ 3,780,525.

c. Fair Housing Organizations Initiative (FHOI) $2,100,000.

3. HUD expects to award a cost reimbursable cooperative agreement or grant agreement to each applicant selected for award. Upon completion of negotiations, HUD reserves the right to use the funding instrument it determines is most appropriate. Eligible applicants are Qualified Fair Housing Enforcement Organizations (QFHOs) and Fair Housing Enforcement Organizations (FHOs); see 24 CFR 125.103; public or private, for-profit or not-for-profit organizations or institutions, and other public or private entities that are formulating or carrying out programs to prevent or eliminate discriminatory housing practices (including entities that will be established as a result of receiving an award under this FHIP NOFA); agencies of state or local governments; and agencies that participate in the Fair Housing Assistance Program. Except for applicants under FHOI, applicants may not submit multiple applications under this NOFA;

If you are interested in applying for funding under the Fair Housing Initiatives Program (FHIP), please review carefully the General Section of the SuperNOFA (hereafter, the General Section), the FHIP Authorizing Statute (sec. 561 of the Housing and Community Development Act of 1987, as amended), the FHIP Regulations (24 CFR 125.103-501),

For planning purposes, assume a start date no later than September 30, 2004.

Full Text of Announcement

I. Funding Opportunity Description

For Fiscal Year 2004, $20,130,525 is appropriated for the Fair Housing Initiatives Program. Of this amount, $17,730,525 is being made available on a competitive basis to eligible organizations responding to this FHIP program section of the SuperNOFA.

Authority. Section 561 of the Housing and Community Development Act of 1987, as amended, (42 U.S.C. 3616) established the Fair Housing Initiatives Program (FHIP)) and the implementing regulations are found at 24 CFR part 125.

A. FHIP Initiatives and Components

The Fair Housing Initiatives Program (FHIP) and its regulations at 24 CFR part 125, assists fair housing activities that increase compliance with the Fair Housing Act (the Act) and with substantially equivalent fair housing laws administered by state and local government agencies under the Fair Housing Assistance Program (FHAP).

1. Private Enforcement Initiative (PEI)

This Initiative assists private, tax-exempt fair housing enforcement organizations in the investigation and enforcement of alleged violations of the Act and substantially equivalent state and local fair housing laws.

2. Education and Outreach Initiative (EOI)

This Initiative assists projects that inform the public about the rights and obligations under the Act and substantially equivalent state and local fair housing laws. Under this Initiative, you must develop a complaint referral process so that activities funded under this Initiative will result in referrals to HUD of fair housing complaints and other information regarding possible discriminatory housing practices. Applications are solicited for this Initiative under the EOI-Regional/Local/Community-Based Program (R/L/C-B)—in which activities are conducted on a regional/local/community-based level, or under a National Program in which activities are conducted on a national level. Applicants who apply under EOI R/L/C/B may apply under one of four components, as follows: EOI General Component; EOI Disability Component; EOI Hispanic Fair Housing Awareness Component; or the EOI Fair Housing and Minority Homeownership Component. Applicants applying under the EOI National Program only apply for one component, the Media Campaign Component. Applications submitted under EOI are required to describe a complaint referral process that should result in referrals to HUD of fair housing complaints and other information regarding discriminatory housing practices.

3. Fair Housing Organizations Initiative (FHOI)

This Initiative provides assistance to projects (sponsoring organizations) that establish or build the capacity of organizations to become viable fair housing enforcement organizations that conduct fair housing activities in underserved areas (as defined in section III Program Definitions) or in rural areas and areas with new immigrants (especially racial and ethnic minorities who are not English-speaking or have limited English proficiency). This is accomplished with the assistance of a sponsoring organization. The sponsoring organization must submit the application and must certify that the sponsored organization has the ability to become a QFHO or FHO. The period of performance for the award of funds to assist in capacity building activities is renewable for a period of up to three years, based upon successful performance of the sponsored organization. Funds are distributed to the sponsored organization by the sponsoring organization. All fund distributions are based on the performance of both the sponsoring and the sponsored organization. The sponsoring organization may expend FHIP funds for administrative costs as described below. HUD has targeted for funding under this Initiative projects that will provide fair housing enforcement services to rural areas, to underserved areas, and to immigrants (especially racial and ethnic minorities who are not English speaking or have limited English proficiency).

B. Program Definitions

The definitions that apply to this FHIP section of the NOFA are as follows:

1. Broad-based proposals are those that include activities that are not limited to a single fair housing issue; instead, they cover multiple issues related to housing discrimination covered under the Act, such as: rental, sales and financing of housing. (See also Full Service Projects below).

2. Complaint means the person, including the Assistant Secretary for Fair Housing and Equal Opportunity at HUD, who files a complaint under section 810 of the Fair Housing Act.

3. Disability Advocacy Groups means organizations that traditionally have provided for the civil rights of persons with disabilities. This would include organizations such as Independent Living Centers and cross-disability legal services groups. Such organizations must be experienced in providing services to persons with a broad range of disabilities, including physical, cognitive, and psychiatric/mental disabilities. Such organizations must demonstrate actual involvement of persons with disabilities throughout their activities, including on staff and board levels.

4. Enforcement proposals are potential complaints under the Act that are timely, jurisdictional, and well-developed, that could reasonably be expected to become enforcement actions if an impartial investigation finds evidence supporting the allegations and the cases proceeded to a resolution with HUD or FHAP Agency involvement.

5. Fair Housing Act means Title VIII of the Civil Rights Act of 1968 as amended by the Fair Housing Amendments Act of 1988 (42 U.S.C. 3600-3620).

6. Fair Housing Assistance Program (FHAP) Agencies mean State and local fair housing enforcement government agencies that receive FHAP funds because they administer laws deemed substantially equivalent to the Act, as described in 24 CFR part 115.

7. Fair Housing Enforcement Organization (FHO) means an organization engaged in fair housing activities as defined in 24 CFR 125.103.

8. Full-service projects must include the following enforcement-related activities in your project application: Interviewing potential victims of discrimination; analyzing housing-related issues; taking complaints; testing; evaluating testing results; conducting preliminary investigations; conducting mediation; enforcing meritorious claims through litigation or referral to administrative enforcement agencies; and disseminating information about fair housing laws.

9. Grassroots organizations. See General Section.

10. Jurisdiction means that the complaint must be timely filed; the complainant must have standing; the respondent and the dwelling involved (where the complaint involves a provision or denial of a dwelling) must be covered by the Act; and the subject matter or issue, and the basis of the alleged discrimination, must constitute illegal practices as defined by the Act.

11. Meritorious claims means enforcement activities by an organization that resulted in lawsuits, consent decrees, legal settlements, HUD and/or substantial equivalent agency (under 25 CFR 115.6) conciliations and organization initiated settlements with the outcome of monetary awards for compensatory and/or punitive damages to plaintiffs or complaining parties, or other affirmative relief, including the provision of housing (24 CFR 125.103).

12. Minority Serving Institutions (See General Section).

13. Operating budget means your organization's total planned budget expenditures from all sources, including the value of in-kind and monetary contributions, in the period for which funding is requested.

14. Qualified Fair Housing Enforcement Organization (QFHO) means an organization engaged in fair housing activities as defined in 24 CFR 125.103.

15. Regional/Local/Community-Based Activities are defined at 24 CFR 125.301(a) and (d).

16. Rural Areas, according to the Rural Housing and Economic Development Program of Community Planning and Development (CPD), may be defined in one of the following five ways:

a. A place having fewer than 2,500 inhabitants (within or outside of metropolitan areas);

b. A county with no urban population (i.e., city) of 20,000 inhabitants or more; territory, persons and housing units in the rural portions of ‘extended cities;'

c. The rural portions of extended cities in the United States as identified by the U.S. Census Bureau;

d. Open country that is not part of or associated with an urban area. The United States Department of Agriculture (USDA) describes open country as a site separated by open space from any adjacent densely populated urban area. Open space includes undeveloped land, agricultural land, or sparsely settled areas, but does not include physical barriers (such as rivers or canals), public parks, commercial and industrial developments, small areas reserved for recreational purposes, and open space set aside for future development; or

e. Any place with a population not in excess of 20,000 and that is not located in a Metropolitan Statistical Area.

17. Traditional Civil Rights Organizations mean non-profit organizations or institutions and/or private entities with a history and primary mission of securing Federal civil rights protection for groups and individuals protected under the Act or substantially equivalent state or local laws and that are engaged in programs to prevent or eliminate discriminatory housing practices.

18. Underserved Areas mean jurisdictions where there are no Fair Housing Initiatives Program or Fair Housing Assistance Program agencies and where either no public or private fair housing enforcement organizations exist or the jurisdiction is not sufficiently served by one or more public or private enforcement fair housing organizations and there is a need for service.

19. Underserved Populations mean groups of individuals who fall within one or more of the categories protected under the Act and who are also:

a. Of an immigrant population (especially racial and ethnic minorities who are not English-speaking or with limited English proficiency);

b. In rural populations;

c. The homeless;

d. Persons with disabilities who can be historically documented to have been subject to discriminatory practices not having been the focus of federal, state or local fair housing enforcement efforts; and

e. Areas that are heavily impacted with minorities and there is inadequate protection and ability to provide service from the state or local government or private fair housing organizations.

II. Award Information

The amount available for each initiative or component and the maximum amount of funds that can be awarded for each award are specified as follows:

A. Private Enforcement Initiative (PEI). Approximately $11,850,000 is allocated; maximum award is $275,000 per grant; project duration is 12-18 months. For PEI, the estimated number of awards is 43.

B. Education and Outreach Initiative (EOI). Approximately $3,780,525 is allocated to five components under this initiative for EOI, the estimated number of awards is 33. The maximum award is $100,000 for the R/L/CB Program and the project duration is 12-18 months. These components are as follows:

1. EOI-General Component. Approximately $1,980,525 is allocated.

2. EOI-Disability Component. Approximately $500,000 is allocated.

3. Hispanic Fair Housing Awareness Component. Approximately $400,000 is allocated.

4. Fair Housing and Minority Homeownership Component. Approximately $400,000 is allocated.

The fifth Component falls under the EOI-National Program:

5. Media Campaign Component. Approximately $500,000 is allocated. The maximum award for the EOI National Program “ Media Campaign Component is $500,000 and the project duration is 12 months.

C. Fair Housing Organizations Initiative (FHOI). Approximately $2,100,000 is allocated; project duration is three years. Maximum award is $1,050,000 allocated over a three-year period at up to $350,000 per year. For FHOI the estimated number of awards is two.

D. Award Instrument. The type of funding instrument HUD may offer a successful applicant which sets forth the relationship between HUD and the grantee will be a grant or cooperative agreement, where the principal purpose is the transfer of funds, property, services, or anything of value to the applicant to accomplish a public purpose. Upon completion of negotiations, HUD reserves the right to use the funding instrument it determines is most appropriate. The agreement will identify the eligible activities to be undertaken, financial controls, and special conditions, including sanctions for violations of the agreement. HUD will determine the type of instrument under which your award will be made and monitor your progress to ensure that you have achieved the objectives set out in your agreement. Failure to meet such objectives may be the basis for HUD determining your agreement to be in default and exercising available sanctions, including suspension, termination, and/or the recapture of your funds. Also HUD may refer violations or suspected violations to enforcement offices within HUD, the Department of Justice, or other enforcement authorities.

If awarded as a Cooperative Agreement, HUD will also exercise the right to have substantial involvement by conducting quarterly reviews and approval of all proposed deliverables documented in the applicant's Work Plan or Statement of Work (SOW), and determining whether the agency meets all certification and assurance requirements under the grants, cooperative agreement, etc. This assessment will also be carried out by using the information supplied by the agency in its proposed Logic Model (Rating Factor 5). If upon completion of this assessment by your Government Technical Representative (GTR) a determination is made that your quarterly requirements have not been met, you, the grantee, will be obligated to provide additional information or make modifications, as necessary, in a time frame to be established by your GTR.

E. Project Starting Period. For planning purposes, assume a start date no later than September 30, 2004.

III. Eligibility Information

A. Eligible Applicants

1. Private Enforcement Initiative (PEI)

a. Eligible Applicants. Eligible applicants are fair housing enforcement organizations (FHOs) with at least one year of experience in complaint intake, complaint investigation, testing for fair housing violations, and meritorious claims in the two years prior to the filing of this application (24 CFR 125.401(b)(2)) and Qualified Fair Housing Enforcement Organizations (QFHOs) with at least two years of enforcement-related experience, as noted above, and meritorious claims in the three years prior to filing this application, (24 CFR 125.103). All applicants claiming QFHO and FHO status are required to be a 501(c)(3) tax-exempt organization and also to submit with their application a copy of its Letter of Determination from the Internal Revenue Service (IRS) in support of its 501(c)(3) tax-exempt status.

b. Eligible Activities include:

(1) Complaint intake of allegations of housing discrimination, testing, evaluating testing results, or providing other investigative and complaint support for administrative and judicial enforcement of fair housing laws. As a condition of funding, you will be required to refer to HUD all cases arising from FHIP-funded enforcement activities (see Mandatory Referrals, section V. “In addition”).

(2) Investigations of individual complaints and systemic housing discrimination for further enforcement processing by HUD, through testing and other investigative methods;

(3) Mediated agreements or other voluntary resolution of allegations of fair housing discrimination after a complaint has been filed; and

(4) Litigating fair housing cases including procuring expert witnesses.

c. Eligibility of Successor Organization. HUD recognizes that QFHOs and FHOs may merge with each other or other organizations. The merger of a QFHO or an FHO with a new organization, that has a separate Employer Identification Number (EIN), does not confer QFHO or FHO status upon the successor. To determine whether the successor organization meets the eligibility requirements for this Initiative, HUD will look at the enforcement-related experience of the successor organization (based upon the successor organization's EIN). The successor organization is not eligible to apply under this Initiative unless it establishes it its application that it is a private, tax-exempt organization with the requisite two years of enforcement related experience for a QFHO or one year experience for an FHO.

2. Education and Outreach Initiative

a. Eligible Applicants. Eligible applicants are QFHOs; FHOs; public or private, for-profit or not-for-profit organizations, or institutions or other public or private entities, that are formulating or carrying out programs to prevent or eliminate discriminatory housing practices, agencies of State, or local governments; and agencies that participate in the FHAP. If you are a disability advocacy group, or an organization that partners with or substantially provides activities for grassroots faith-based or other community-based organizations, minority universities or institutions, or traditional civil rights organizations, you are encouraged to apply under this Initiative.

b. Eligible Activities. The following are eligible activities for the Components under EOI: Conducting educational symposia or other training; developing new and innovative fair housing activities or materials into languages applicable to your community throughout your project area; providing outreach and information on fair housing through printed and electronic media; developing fair housing curricula; providing outreach to persons with disabilities and their support organizations and service housing providers; and working with homeless activists or persons to determine if fair housing plays a part in the homeless situation, and the general public regarding the rights of persons with disabilities under the Act. When conducting your outreach activities, we also encourage the use of existing, fair housing materials, except that we require that you translate these existing materials in languages applicable to your community. Organizations applying under the EOI National Media Campaign Component must conduct the above activities on a national level.

c. Eligibility of Successor Organization. HUD recognizes that organizations may merge with each other or other organizations. The merger of an eligible organization with a new organization that has a separate Employee Identification Number (EIN) or DUNS does not confer eligibility status upon the successor. HUD will make the determination of whether the successor organization meets the eligibility requirements for this Initiative on a case-by case basis.

(1) Disability Component. Applicants that emphasize the fair housing needs of person with disabilities, so that persons with disabilities, housing providers and the general public better understand the rights and obligations under the Act and fully appreciate the forms of housing discrimination that persons with disabilities may encounter, should submit their applications to the EOI-Disability Component. Although the Component has a disability focus the funded activities must provide education and outreach to all persons protected under the Act.

(2) Hispanic Fair Housing Awareness Component. Applicants must be able to provide bilingual materials and services to Hispanics so that they are aware of and educated about their fair housing rights and responsibilities under the Fair Housing Act. In addition, applicant and staff must have demonstrated bilingual experience, which is defined as 3 years of proven experience in providing social services to persons of Hispanic origin; or must have established a partnership with an established grass-roots, faith-based or other community-based organization to carry out the objectives of this component. Although the component has a focus in providing education and outreach to Hispanic communities, the funded activities must provide education and outreach in a non-discriminatory manner. Grantees may not deny services to any protected class.

(3) Fair Housing and Minority Homeownership Component. Under the Fair Housing and Minority Homeownership Component, applicants must demonstrate the ability to conduct community outreach activities to educate people about their rights under the Fair Housing Act and to prepare them for homeownership. The goal of this Component is to improve access to homeownership by racial and ethnic minorities by educating them about fair housing and how to recognize discriminatory housing practices in sales and financing of housing. Applicants must demonstrate the ability to educate participants about unlawful discrimination including discrimination in the sale of dwellings, discrimination in the financing of dwellings and unlawful segregation resulting from steering and other activities. Please ensure that all activities are tied to the protections outlined in the Fair Housing Act.

(4) General Component. Applications for all other fair housing education and outreach activities should be submitted to the EOI-General Component.

(5) National Media-Component. Applicants who submit applications under the EOI National Program Media Campaign must provide a centralized coordination effort for the development, implementation, and distribution of a fair housing media campaign designed for FY2005's Fair Housing Month.

3. Fair Housing Organization Initiative

This Initiative provides assistance to projects (sponsoring organizations) that establish or build the capacity of organizations to become viable fair housing enforcement organizations, as referenced in 24 CFR part 125.103, that conduct fair housing enforcement activities in underserved areas (as defined in section V.) in rural areas and areas with new immigrants (especially racial and ethnic minorities who are not English-speaking or have limited English proficiency). It is the sponsoring organization that submits the application under this Initiative and certifies the sponsored organization's ability to become a QFHO or FHO. (Note: The sponsoring organization is ineligible if they received a grant under this Initiative in 2001 or 2002.) The sponsored organization whose enforcement capacity is established or enhanced by funding under this Initiative, will be allowed to participate in this Initiative for three years contingent upon acceptable annual performance reviews. Funds are allocated under this NOFA for this Initiative for three years and distributed to the sponsored organization by the sponsoring organization

a. Eligible Applicants. Only the sponsoring organization is eligible to apply under this Initiative. The sponsoring organization must be a qualified fair housing enforcement organization (QFHO). You must certify in this application that your organization is a QFHO. Sponsored agencies that cannot formulate as private, tax exempt non-profit charitable organizations cannot qualify as a QFHO or an FHO.

b. Eligible Activities. The proposed activities must build the enforcement capacity of the sponsored organization so that it can undertake all of the following activities by the conclusion of year 3 of the grant cycle:

(1) Complaint intake of allegations of housing discrimination, testing, evaluating testing results or providing other investigative and complaint support for administrative and judicial enforcement of fair housing laws;

(2) Investigations of individual complaints and systemic housing discrimination for further enforcement processing by HUD, through testing and other investigative methods;

(3) Mediation or other voluntary resolution of allegations of fair housing discrimination after a complaint has been filed; and

(4) Litigating fair housing cases including procuring expert witnesses.

c. Eligibility of Successor Organization. HUD recognizes that QFHOs and FHOs may merge with each other or other organizations. The merger of a QFHO or an FHO with a new organization, that has a separate Employer Identification Number (EIN), does not confer QFHO or FHO status upon the successor. To determine whether the successor organization meets the eligibility requirements for this Initiative, HUD will look at the enforcement-related experience of the successor organization (based upon the successor organization's EIN). The successor organization is not eligible to apply under this Initiative unless it establishes it its application that it is a private, tax-exempt organization with the requisite two years of enforcement related experience for a QFHO or one year experience for an FHO.

The following is a chart that summarizes the FHIP Components and Funding Available and Eligible Applicants:

Initiative/component | Allocation amount available | Applicant eligibility | Project period | Award caps
Private Enforcement Initiative (PEI): Assists private, tax-exempt fair housing enforcement organizations in the investigation and enforcement of alleged violations of the Fair Housing Act and substantially equivalent state and local fair housing laws | $11,850,000 | QFHOs and FHO (with at least one year of enforcement related experience). See Section III of the FHIP NOFA-Eligibility Information | 12-18 months | $275,000
See Section I of the FHIP NOFA-Funding Opportunity Description.
Fair Housing Organization Initiative: Assistance to projects (sponsoring organizations) that establish or build the capacity of organizations to become viable fair housing enforcement organizations that conduct fair housing activities in underserved areas (as defined in Section III “Program Definitions”) or in rural areas with new immigrants especially immigrants with limited English proficiency. The sponsoring organization must submit the application and must certify that the sponsored organization has the ability to become a QFHO or FHO | 2,100,000 | Only QFHOs are eligible to apply under this Initiative to serve as a sponsoring organization. See Section III of the FHIP NOFA-Eligibility Information | 36 months | 1,050,000
See Section I of the FHIP NOFA-Funding Opportunity Description.
Education and Outreach Initiative (EOI): EOI Regional, Local and Community Based Program: Assists projects that inform the public about rights and obligations under the Fair Housing Act and substantially equivalent state and local fair housing laws. Applicants must develop a complaint referral process so that funded activities will result in referrals to HUD of fair housing complaints and other possible discriminatory housing practices | 3,780,525 | QFHOs, FHOs, public or private for profit or not for profit organizations or institutions, or other public or private entities that carry out programs to prevent or eliminate discriminatory housing practices. This includes agencies of state or local governments and agencies that participate in the Fair Housing Assistance Program (FHAP). See Section III of the FHIP NOFA-Eligibility Information | 12-18 months | 100,000
See Section I of the FHIP NOFA-Funding Opportunity Description.
EOI-General Component: Open to applicants for all other fair housing education and outreach activities | 1,980,525 | Same as EOI above. See Section III of the FHIP NOFA-Eligibility Information | 12-18 months | 100,000
See Section I of the FHIP NOFA-Funding Opportunity Description.
EOI-Disability Component: Applicants must emphasize the fair housing needs of persons with disabilities, so that persons with disabilities, housing providers and the general public better understand the rights and obligations under the Fair Housing Act and fully appreciate housing discrimination that persons with disabilities may encounter. The funded activities must provide education and outreach to all persons protected under the Fair Housing Act | 500,000 | Same as EOI above. See Section III of the FHIP NOFA-Eligibility Information | 12-18 months | 100,000
EOI-Hispanic Fair Housing Awareness Component: Applicants must be able to provide bilingual materials and services to Hispanics so that they are educated about their fair housing rights and responsibilities under the Fair Housing Act. Funded activities must provide education and outreach in a nondiscriminatory manner. Grantees may not deny services to a client who is not Hispanic | 400,000 | Same as EOI above. See Section III of the FHIP NOFA-Eligibility Information. | 12-18 months | 100,000
See Section I of the FHIP NOFA-Funding Opportunity Description
EOI-Minority Homeownership Component: Under the Fair Housing and Minority Homeownership Component, applicants must demonstrate the ability to conduct community outreach activities to educate people about their rights under the Fair Housing Act and to prepare them for homeownership. The goal of this Component is to improve access to homeownership by racial and ethnic minorities by educating them about fair housing and how to recognize discriminatory housing practices in sales and financing of housing | 400,000 | Same as EOI above. See Section III of the FHIP NOFA-Eligibility Information | 12-18 months | 100,000
See Section I of the FHIP NOFA-Funding Opportunity Description.
EOI-National Program-National Media Component: Applicants who submit applications under the EOI National Program Media Campaign must provide a centralized coordination effort for the development, implementation, and distribution of a fair housing media campaign designed for FY 2005's Fair Housing Month | 500,000 | Same as EOI above. See Section III of the FHIP NOFA-Eligibility Information | 12-18 months | 500,000
See Section I of the FHIP NOFA-Funding Opportunity Description.

B. Cost Sharing or Matching

No matching funds are required for the Education and Outreach or Private Enforcement Initiatives. Federal funds can be used as matching funds if the statutes governing the Federal funds consider the funds to be local resources.

C. Other

1. Threshold Requirements

a. Tax Exempt Status. Applicants for the PEI and FHOI Initiatives are ineligible for funding if they are not a 501(c)(3) tax-exempt organization as determined by the Internal Revenue Service (IRS) at the deadline date for application submission.

b. Name Check Review. See the General Section

c. Poor Performance. Applicants are ineligible for funding if they are a previous FHIP grantee that has received a “Poor” performance rating for its most recent performance rating from its Government Technical Representative. HUD will assess performance ratings for applicants who have received FHIP funding in 2001 or 2002. If the applicant has received a “poor” performance rating for its most recent performance rating from its Government Technical Representative, its application is ineligible for FY 2004 competition. An applicant that does not agree with its determination of ineligibility for the FY2004 competition because of “poor” performance must address to HUD's satisfaction the factors resulting in the “poor” performance rating before the FHIP application deadline. If the “poor” performance rating is not resolved to the Department's satisfaction before the application deadline, the application is ineligible for funding. HUD is interested in increasing the performance level of all grantees; therefore, applicants who are deemed ineligible because of a “poor” performance rating have the right and are encouraged to seek technical assistance from HUD to correct their performance in order to be eligible for future NOFA competition.

d. Suits Against the United States. Your application is ineligible for funding if, as a current or past recipient of FHIP funds, your organization used any funds provided by HUD for the payment of expenses in connection with litigation against the United States (24 CFR 125.104(f)).

e. Other Litigation. Your application is ineligible for funding if you used funds provided by HUD under this program to settle a claim, satisfy a judgment, or fulfill a court order in any defensive litigation (24 CFR 125.104).

f. Hispanic Fair Housing Awareness Component. Applicants are ineligible for funding if current bilingual staff has not worked with the organization for three years and if the organization does not have three years of proven experience providing bilingual services. You must list all bilingual employees and provide proof of employment. Grantees may not deny services to any protected classes under the Fair Housing Act.

g. FHOI. Applicants for FHOI only are ineligible if their organization received previous FHOI awards in FY2002 or FY2003.

h. Media-based Applications. Applicants who submit applications under the EOI National Program Media Campaign must have as their primary responsibility advertisement and media and have at least five years of experience as an advertisement/media organization, or if the applicant is not a media organization, it must include as part of its proposal a subcontract with an established media/advertising or public relations organization that has experience in conducting national media campaigns. Applicants that fail to meet this requirement or include such subcontract arrangements in their proposals will be ineligible for funding.

i. Maximum award. Applicants are ineligible for funding if they request funding in excess of the maximum allowed under the initiative or component for which they are applying. Any amount over the maximum award, even if less than one dollar, will be considered a request in excess of the maximum award. In addition, inconsistencies in the amount requested and/or miscalculations that result in amounts over the maximum award will be considered excessive; therefore the application is ineligible.

j. Dun and Bradstreet Numbering System (DUNS) Numbering Requirement. Refer to General Section of SuperNOFA for information regarding the DUNS requirement. You will need to obtain a DUNS number to receive an award from HUD.

k. Majority of Activities. If a majority (51 percent or more) of the activities and costs within your application, Statement of Work (SOW) and budget are not fair housing related activities, your application will be deemed ineligible.

l. Applicants must receive a minimum of 75 rating points to be considered for funding.

2. Program Requirements for All Initiatives. In addition to the Threshold Requirements in section III.C. of the General Section of the SuperNOFA, your FHIP-funded program application must also meet the following requirements:

a. Protected Classes. All FHIP-funded projects must address housing discrimination based upon race, color, religion, sex, disability, familial status, or national origin.

b. Tester Requirements for PEI and FHOI applicants.

(1) Testers in your FHIP-funded testing activities must not have prior felony convictions or convictions of crimes involving fraud or perjury. All testers must receive training acceptable to HUD or be experienced in testing procedures and techniques. Testers and the organizations conducting tests, and the employees and agents of these organizations may not:

(a) Have an economic interest in the outcome of the test, except to the extent that they could recover damages as provided by law;

(b) Be a relative related by adoption, blood, or marriage to any party in a case;

(c) Have had any employment or other affiliation, within the past year, with the person or organization to be tested; or

(d) Be a licensed competitor of the person or organization to be tested in the listing, rental, sale, or financing of real estate.

(2) Review and Approval of Testing Methodology. If your SOW proposes testing, other than rental housing testing, HUD may require copies of the following documents to be reviewed and approved by HUD prior to your carrying out the testing activities.

(a) The testing methodology to be used,

(b) The training materials to be provided to testing, and

(c) Other forms, protocols, cover letters, etc., used in the conduct of testing and reporting of results.

The testing methodology and training materials that you submit to HUD for review and approval are for enforcement purposes and will remain confidential.

(3) Tester Training. You must provide sufficient information in the application to show how testers are trained by our organization and how the materials will be used.

(4) Retainer Fees. If you are a recipient of FHIP funds, you cannot require any complaint to whom you are providing assistance using FHIP funds, to sign a retainer agreement of other contract for legal fees as part of the filing, commencement, or maintenance of a Fair Housing Act complaint. If the FHIP recipient has a successful settlement or a verdict, then the FHIP is able to include its reasonable fees as a part of the settlement, though the complainant shall be under no obligation to accept such an agreement. If reasonable legal fees are recovered, the FHIP agency must return a portion of its recovery to HUD, in proportion to the amount of FHIP funds spent on the prosecution of the case.

(a) Agencies that are the recipients of FHIP funds agree to provide HUD with information regarding the recovery of fees and applicable reimbursement of FHIP funds to HUD on a yearly basis;

(b) All settlements and verdicts involving cases processed using FHIP funds are a matter of public record. An agency cannot claim attorney-client or other privilege against the release of data concerning the case.

(c) This restriction on withholding of information must be communicated to the complainant.

(d) The complainant must agree to such a restriction before the case can be processed using FHIP funds.

(5) Performance Measures and Products. For all Initiatives:

(a) Your Logic Model must demonstrate how your project activities will support HUD goals; and

(b) Identify performance measures/outcomes in support of those goals, describe your proposed record keeping and evaluation systems, and identify current (baseline) conditions and target levels of the performance measures that you plan to achieve.

(i) For PEI, your application also must contain a strategy for generating enforcement related project products, with related timelines and milestones.

(ii) For FHOI, if the sponsoring organization is enhancing an existing organization, then the sponsoring organization must submit a statement outlining: what is expected of the sponsored organization, and that the sponsored organization will be part of the program. If the sponsoring organization is being created, then the sponsored organization must submit a mission statement for the sponsoring organization and a timeline for creation and independence. If selected for funding, your final performance measures will be negotiated between you and HUD as part of your executed grant agreement.

Applicants must submit a Logic Model (Form HUD-96010) in their application and report against planned actions on a quarterly basis as specified in the award agreement, refer to the Logic Model (Form HUD-96010) provided in the forms appended to the General Section.

(6) Single Applications. Except for applicants under FHOI, all applicants may submit only one application under the FHIP. FHOI applicants may apply under FHOI and one other Initiative. Applicants must determine which Initiative/Component to which they want to apply and submit a completed application to only that Initiative/Component. Multiple applications applying to more than one, Initiative/Component, except FHOI, will be treated as a technical deficiency and the applicant will be asked to identify the application they want reviewed.

(7) Independence of Awards. HUD will review each eligible application separately and without reference to other applications submitted by you or others. However, the application you submit must be independent and capable of being implemented without reliance on the selection of other applications submitted by you or other applicants.

(8) Training funds. Your proposed budget must set aside funds to participate in HUD mandatory sponsored or approved training, $3000 for 12-18 month projects (EOI and PEI); and $6000 annually for 36 month projects (FHOI). For FHOI, there must be attendance from the sponsoring and sponsored organization.

Requests to attend HUD approved training must be submitted to the GTR for approval in advance of the requested training. Do not include amounts over the $3000 or $6000 (as appropriate) for the training set aside in this category. If applicants do not include these funds in the budget and you are selected for an award, HUD will modify your budget, reallocating the appropriate amount for training. If awardees' key personnel do not attend mandatory HUD approved or HUD sponsored training, training funds must be returned to HUD and it will be reflected on your performance assessment.

(9) Accessibility Requirements. All activities, facilities, and materials funded by this Program must be accessible to persons with disabilities (24 CFR 8.2, 8.4, 8.6, and 8.54).

(10) Fair Housing Act. HUD expects applicants to address housing discrimination covered under the Fair Housing Act. HUD has determined there is a need to ensure equal opportunity and access to housing in communities across the nation.

(11) Research Activities. Applicants are ineligible for funding if 100 percent of their project is aimed at research.

(12) Tax Exempt Status. Your application must include a copy of your Letter of Determination from the Internal Revenue Service dated prior to the deadline date of this FHIP Program Section of the SuperNOFA, establishing your 501(c)(3) tax-exempt status. Failure to submit this with your application is a technical deficiency.

(13) Limited English Proficiency (LEP). Applicants obtaining an award from HUD must seek to provide access to program benefits and information to LEP individuals through translation and interpretive services in accordance to the HUD's published LEP Recipient Guidance.

(14) For-profit awardees are not allowed to earn a profit and must adhere to OMB Circular A-122.

(15) Single Audit Requirement. All applicants who have expended $500,000 or more in federal financial assistance in a single year (this can be a program or fiscal year must be audited in accordance with the OMB-A133 requirements as established in 24 CFR Part 84 and 85.

IV. Application and Submission Information

A. Addresses to Submit Application Package

Your application consists of an original signed application form (SF-424) and all items listed in the Checklist (see section for all submission requirements). Mail your completed application (one original and three copies) to:

FHIP SuperNOFA 2004 [Specify the Initiative/Component to which you apply], FHIP/FHAP Support Division, Office of Fair Housing and Equal Opportunity, U.S. Department of Housing and Urban Development, 451 Seventh Street, SW., Room 5224, Washington, DC 20410.

B. Content and Form of Application Submission

Please ensure that your application contains all of the following elements in the order described:

• SF-424* (Place a copy of the SF-424 on top of application package.)

• SF-424 Supplement*—Survey on Ensuring Equal Opportunity for Applicants.

• HUD-424—Assurances and Certifications*.

• Transmittal Letter.

• Checklist for Completion of Applications.

• Project Abstract Outlining Project Activities.

• Factor No. 1 Narrative.

• Factor No. 1 Attachments: Tester Experience, Letter of Determination from IRS on 501(c)(3), if applicable.

• Factor No. 2 Narrative.

• Factor No. 3 Narrative.

• Factor No. 3 Attachments: Statement of Work (SOW) with activities listed in priority order, Budget Forms HUD-424-CB* and HUD-424 CBW reflecting the order of the statement of work and prioritized activities,* Budget Narrative.

(For EOI General only, separate Budget, Logic Model and SOW at 100 and 80% each.)

• Factor No. 4 Narrative.

• Factor No. 4 Attachments: Letter(s) of Firm Commitment.

• Factor No. 5 Narrative.

• Responses to Additional Requirements for Specific Initiative/Project.

• HUD-2880 (Applicant Recipient Disclosure Update Report (General Section)*.

• OMB SF-LLL Disclosure of Lobbying Activities (General Section)*.

• HUD-2990 Certification of Consistency with the RC/EZ/EC Strategic Plan (General Section)*.

• HUD-2993 Acknowledgment of Application Receipt (General Section)*.

• HUD-2994 Client Comments and Suggestions (General Section)*.

*Forms that reflect an asterisk are in the General Section of the NOFA.

This Checklist reflects all forms that must be included in your application submission. In addition to the above, all applicants must read and adhere to Initiative specific information. Applicants are encouraged to review the chart entitled “Summary of Initiatives/Components” to assist in identifying the Initiative and component to which you wish to apply.

C. Submission Dates and Times

You must submit a completed application (one original and three copies) for the specific initiative and component for which you are applying on or before on June 29, 2004 to the HUD Headquarters building. Applicants missing the deadline will have their applications returned without further review by the Technical Evaluation Panel.

What to submit | Required content | Required form or format | When to submit it
Application:
Cover sheet | (per required form) | Form SF-424, available from (General Section)
Survey for Ensuring Equal Opportunity for Applicants |  | SF-424 Supplement | Application due date.
Budget information | (per required form) | Form SF-424-CBW, available from (General Section)
Narrative | Described in Section IV.2 of this announcement | Format described in Section IV.B of this announcement
Assurances | (per required form) | Form SF-424B, available from (General Section)
Letters from third parties contributing to cost sharing | Third parties' affirmation of amounts of their commitments | No specific form or format

D. Intergovernmental Review

Intergovernmental Review is not applicable to this program.

E. Funding Restrictions

1. Administrative Costs for the Sponsoring Organization. The sponsoring organization may use no more than 15 percent of the annually awarded funds to cover its costs to administer the grant.

2. Enforcement Education & Outreach. “There is a 5 percent limit on the amount of education-related activities that can be funded in an enforcement award. If you exceed the limit, points will be deducted in the rating process and funds will be adjusted to maintain the required limitation.

F. Other Submission Requirements

1. For All Applicants. The maximum narrative page requirement is ten pages per factor. All pages in your application must be numbered consecutively from beginning to end. The narrative pages must be double-spaced (no more than three lines per vertical inch). This includes all narrative text, titles, and headings. (However, you may single space footnotes, quotations, references, captions, charts, forms, tables, figures, and graphs). You are required to use 12-point type size. A page is 8.5 × 11 inch, on one side only, with one-inch margins top, bottom, right, and left. You must respond fully to each factor to obtain maximum points. Failure to provide narrative responses to all factors or omitting requested information will result in less than the maximum points available for the given rating factor or sub-factors. Failure to provide double-spaced, 12-point font type size narrative responses will result in five points being deducted from your overall score (one point per factor). Failure to consecutively number pages within your application will result in one point being deducted from your overall score.

2. EOI-General Component. Organizations applying under the EOI-General Component must submit a budget at 100 percent of proposed costs and activities.

Additionally, applicants must identify costs and activities in priority order so if HUD funds at an 80 percent level approved awards will reflect the priorities of the applicant. The activities and line item costs above the 80 percent should be reflected as optional activities in the applicant's SOW, Logic Model and Budget.

For example, if an applicant proposes 10 workshops, the applicant can designate two workshops as optional to reduce their funding by 20 percent. By providing the information in this manner if there are no further changes during negotiations the applicant does not have to submit another budget.

3. Application Submission and Timeliness Procedures. See the General Section of the SuperNOFA for specific procedures governing the submission and receipt of applications. HUD will acknowledge receipt of an application by letter to the applicant within 15 working days of receipt. Acknowledgement letters will be mailed via the U.S Postal Service to all applicants meeting the timeliness of application requirement.

V. Application Review Information

A. Criteria for Regional/Community-Based Applications

1. Rating Factor 1: Capacity of Applicant and Relevant Organizational Experience (25 Points). You must describe staff expertise and your organization's ability to complete the proposed activities within the grant period.

In General, HUD recognizes that, in carrying out the proposed activities, you may have persons already on staff, plan to hire additional staff, or rely on subcontractors or consultants to perform specific tasks. You must describe your staffing plan and the extent to which you plan to add staff (employees) or contractors. If your application proposes using subcontractors and these subcontractor activities amount to more than 10 percent of your total activities, you must submit a separate budget for each subcontractor. Failure to include a separate budget will result in lower points being assessed to your application.

a. Number and expertise of staff (this includes subcontractors and consultants. (5) Points for current FHIP grantees; (10) Points for New Applicants. You must show that you will have sufficient, qualified staff that will be available to complete the proposed activities. Provide the following information for all staff assigned to or hired for this project, not just key personnel (those persons identified in attachments to Rating Factor 3: Soundness of Approach). Applicants applying to the Hispanic Awareness Component must list all bilingual employees and provide proof of employment and the requisites below:

(1) Identify, by name and/or title and hours, all persons that will be assigned to the project. You must describe the knowledge and experience of the proposed overall project director or day-to-day program manager (whose duties and responsibilities include managing all program and administrative activities as outlined in the SOW and ensuring that all timelines are met), in planning and managing projects similar in scope and complex interdisciplinary programs. To receive maximum points, your day-to-day program manager must devote a minimum of 75 percent of his/her time to the project. For day-to-day managers who do not have at least 75 percent of their time devoted to the project, no points will be awarded under this sub-factor. For example, if the Executive Director is responsible for managing the overall program administrative activities, the application should reflect the Executive Director's time as 75 percent. However, if a staff person will be assigned this responsibility, the 75 percent time should be reflected as such. You may demonstrate capacity by thoroughly describing your prior experience in fair housing. You should indicate how this prior experience is to be used in carrying out your proposed activities. Your application must clearly identify those persons that are on staff at the time this application is filed, and those persons who will be assigned at a later date; describe each person's duties and responsibilities and their expertise (including years of experience) to perform project tasks; indicate whether the staff person is assigned to work full-time or part-time (if part-time, indicate the percentage of time each person is assigned to the project).

(2) Attach resumes for all key personnel or position descriptions for newly created positions. (Resumes or position descriptions do not count against the ten-page limit.)

b. Organizational experience. (10) Points for current FHIP grantees, (10) Points for New Applicants. In responding to this sub-factor, you must show that your organization has: (1) conducted a past project or projects similar in scope and complexity to the project proposed in this application (whether FHIP-funded or not), or (2) engaged in activities that, although not similar, are readily transferable to the proposed project. Experience will be judged in terms of recent, relevant and successful experience of your staff to undertake eligible activities. In rating this factor, HUD will consider experience within the last three years to be recent, experience pertaining to the specific activities to be relevant, and experience producing measurable accomplishments to be successful. The more recent the experience and the more experience your own staff members who work on the project have in successfully conducting and completing similar activities, the greater the number of points you will receive for this rating factor.

(1) In addition. If you are applying for funding under the EOI-Hispanic Fair Housing Awareness Component, provide the following information when responding to this sub-factor:

(a) A list of all bilingual materials developed and distributed.

(b) A description of specific instances where projects similar to the scope and activities proposed in this application had an impact in a Hispanic community.

(c) A description of recent relevant experience. Recent experience is experience within the past three years.

(2) In addition. If you are applying for funding under the EOI-Fair Housing and Minority Homeownership Component, provide the following information when responding to this sub-factor:

(a) A description of staff's experience in providing fair housing and homeownership advice with the objective of increasing awareness of homeownership opportunities and

(b) A description of staff's experience and accomplishments in advocating with the real estate industry, the mortgage lending industry, appraisers, and developers to increase awareness of homeownership opportunities.

(3) In addition. If you are applying for funding under PEI or FHOI, provide the following information when responding to this sub-factor:

(a) Describe the procedure you will use to ensure that testers comply with the requirements in section IV.B. of this NOFA.

(b) If you propose to conduct testing (other than rental or accessibility testing), projects proposing testing in the specific areas should document that, at a minimum, you have conducted successful testing in those areas. Provide a general description of when and where the tests occurred, the entities tested, and the overall results of the tests, including complaints filed and the settlements or remedies secured (for example, if testing is for sales of housing, your application should outline your sales testing experience).

(4) FHOI. Provide a statement of organizational capacity and experience of the sponsored organization and a list of persons who will work on the project along with their experience. c. Performance on past project(s). (10) Points for current FHIP grantees, (0) Points for new applicants. You must describe your organization's past performance in conducting activities relevant to your proposal, in the past two years (FY 2001 and 2002 FHIP grants), demonstrating good financial management and documenting timely use of funds, timely reporting and submissions of tasks and deliverables. HUD may supplement information you provide with relevant information on-hand or available from public sources such as newspapers, Inspector General or General Accounting Office Reports or Findings, hotline complaints that have been proven to have merit, or other such sources of information. In evaluating past performance, the following points will be deducted from your score under this rating sub-factor:

10 points out of 10 will be deducted if you received a “fair performance” assessment;

5 points out of 10 will be deducted if you received a “good performance” assessment; and

0 points out of 10 will be deducted if you received an “excellent performance” assessment.

(1) In addition. If you have received an FHOI or a PEI award under the FY2000, 2001, or 2002 FHIP Program, you must:

(a) Discuss your compliance with the mandatory referral requirement of all cases arising from FHIP-funded activities in FY2000, 2001, and 2002. Five points will be deducted for this sub-factor if you do not show in your application compliance with the requirement. The compliance discussion should provide an explanation if discrepancies exist. For example, your application notes receipt of 100 complaints. It also notes that only 25 complaints were referred. There should be an explanation for the difference of 75 complaints.

(b) Discuss your compliance with the requirement to reimburse the Federal government for compensation received from FHIP-funded enforcement activities. If you have not reimbursed the Federal government for such compensation, explain why you have not. Also, state whether you reported to HUD any likely compensation that may result in such reimbursement. Two points will be deducted for this sub-factor if you have not complied with the requirement.

2. Rating Factor 2: Need/Distress/Extent of the Problem (20 Points). This factor addresses the extent to which there is a need for funding the proposed activities to address a documented fair housing problem(s) in the target area(s). You will be evaluated on the information that you submit that describes the fair housing need in the geographic area you propose to serve, its urgency and how your project is responsive to that need.

a. Documentation of Need. To justify the need for your project, PEI and EOI applicants must describe the following:

(1) The fair housing need, including:

(i) Geographic area to be served;

(ii) Populations that will be served—your project must serve all persons protected by the Act; and

(iii) The presence of housing discrimination, segregation and/or other indices of discrimination in the project area based upon race, color, religion, sex, national origin, familial status, or disability.

(2) The urgency of the identified need. For example:

(i) The potential consequences to persons if your application is not selected for funding;

(ii) The extent to which the organizations provides the services identified in your application;

(iii) Other sources that support the need and urgency for this project. For example, make reference to reports, statistics, or other data sources that you used that are sound and reliable, including but not limited to, HUD or other Federal, state, or local government reports analyses, relevant economic and/or demographic data, including those that show segregation, foundation reports and studies, news articles, and other information that relate to the identified need. Chapter V of the Fair Housing Planning Guide, Vol. 1 has other suggestions for supporting documentation. You may access the Guide from the HUD Web site at: www.hud.gov.

(3) To receive maximum points under this sub-factor, applicants must submit data and studies that support (i), (ii), and (iii) above. Those that address each category and submit supporting data will receive higher points than those that do not.

For FHOI: to justify the need for a sponsored organization under FHOI, the sponsoring organization must describe the following:

(i) Populations that will be served: HUD has targeted for funding under this Initiative projects that will provide fair housing enforcement services to underserved areas, rural areas, and areas serving individuals who are immigrants (especially racial and ethnic minorities who are not English-speaking or have limited English proficiency):

(ii) The presence of housing discrimination, segregation and/or other indices of discrimination in the project area based upon race, color, religion, sex, national origin, familial status, or disability, and submit data and studies that support your claim; and

(iii) Why the project area is underserved and why the proposed sponsored organization is needed. Your proposal must serve all persons protected by the Act.

For example, make reference to reports, statistics, or other data sources that you used that are sound and reliable, including but not limited to, HUD or other Federal, State or local government reports analyses, relevant economic and/or demographic data, including those that show segregation, foundation reports and studies, news articles, and other information that relate to the identified need.

For all applicants: If the fair housing needs you have identified are not covered under the Consolidated Plan and Analysis of Impediments to Fair Housing Choice (AI) or if your locality does not have a CP or AI, you should so indicate, and use other sound data sources to identify the level of need and the urgency in meeting the need. For you to receive maximum points for this factor, there must be a direct relationship between your proposed activities, community needs, and the purpose of the program funding.

(4) To the extent possible, the data you use should be specific to the area where the proposed activity will be carried out. You should document needs as they apply to the area where activities will be targeted, rather than the entire locality or State. If the data presented does not specifically represent your target area, you should discuss why the target areas were proposed. The link between the need and your proposed activities:

(a) How the proposed activities augment or improve upon on-going efforts by public and private agencies, organizations and institutions in the target area, and/or

(b) Why, in light of other on-going efforts, the additional funding you are requesting is necessary.

(5) In addition, with respect to Documentation of Need, the following apply to specific FHIP initiatives or components:

(a) EOI-Disability Component. Your project must focus on individuals who are disabled and must serve all persons protected by the Act.

(b) EOI-Hispanic Fair Housing Awareness Component. Your project must focus on serving Hispanics and must serve all persons protected by the Act. Therefore, provide specific demographics on Hispanic neighborhoods to be served and the relationship of the area served to the objectives of the project. The need in these neighborhoods must be clearly stated and supported with documentation such as beneficiary information.

(c) EOI-Fair Housing and Minority Homeownership Component. Your project must document under-representation of homeownership by protected classes or a critical level of need for fair housing and homeownership activities in the area where activities will be carried out.

3. Rating Factor 3: Soundness of Approach (40 Points). You must describe your project in detail, demonstrate how your project activities will support HUD goals, propose suggested performance measures/outcomes in support of these goals, and identify current baseline conditions and target levels of the performance measures that you plan to achieve. Also attach a Statement of Work (SOW) and budget. Your proposed activities must support HUD's policy priorities as referenced in the General Section.

a. (8 Points) Support of HUD Goals. Describe how your proposed project will further and support HUD's policy priorities. For FY2004, FHIP applications, address the following:(1) All EOI-General, EOI-Disability, EOI-Hispanic Fair Housing Awareness, and EOI-Fair Housing and Minority Homeownership Component:

Applicants who:

(1) Relate HUD's policy priorities to:

(a) The project's purpose,

(b) Persons to be served,

(c) Geographic area to be served,

(d) Proposed activities and who will conduct these activities, e.g., you or a subcontractor(s) or consultant(s); and

(2) Provide a methodology for carrying out these activities that includes items (i) through (iv) above will be assessed as follows:

(a) Four points under this sub-factor if you are a grassroots faith-based or other community-based organizations, propose to partner or sub-contract with grassroots faith-based or other community-based organizations

(b) Up to two points under this sub-factor if your application specifically addresses regulatory barriers to affordable housing.

(c) One point under this sub-factor if your application specifically addresses the elimination of housing discrimination to improve our nation's communities; and

(d) One point under this sub-factor if your application specifically addresses housing discrimination to persons who are homeless because of housing discrimination in violation of the Fair Housing Act.

(3) PEI and FHOI. Applicants should discuss their project purpose and proposed activities, persons to be served, geographic areas and methodology and their relation to HUD's policy priorities (see General Section). Include specific information on how you will address the need(s) identified under Rating Factor 2. The quality of the response you provide to one or more of the policy priorities will determine the score you receive. You may receive points for each policy priority you address up to a total of eight points.

b. (17 Points) Proposed Statement of Work (SOW) and Information Requirements. The SOW and budget are attachments that will not count toward the 10-page limit on the narrative response to this factor. However, points will be assigned based on the relevance of proposed activities to stated needs, attention to implementation steps, proposed activities consistent with organizational expertise and capacity and accuracy of the SOW and budget.

(1) Statement of Work—Submit a proposed SOW that comprehensively outlines in chronological order the administrative and program activities and tasks to be performed during the grant period. Your outline should identify all activities and tasks to be performed and by whom (e.g., you, a subcontractor, or partner), and the products that will be provided to HUD and when. You should also include a schedule of your activities and products (with interim implementation steps), staff allocation over the term of the project; staff acquisition and training; and activities of partners and/or subcontractors.

EOI-General Applicants Only—You must identify optional activities (to achieve an 80 percent budget) in order to receive full points under this sub-factor.

(2) Information Requirements. For PEI and FHOI, your application must include a description of the enforcement proposals to be referred to HUD. Your description must explain the information (see 24 CFR 121.2) you intend to collect and analyze, the type of complaints you anticipate referring to HUD for enforcement purposes, and describe the procedure you will implement for referring such complaints. If you propose a testing program, you must explain how you plan to structure the tests, train investigators, conduct investigations, etc. This description should make clear the safeguards to be used to ensure that complaints referred to HUD are fully jurisdictional under the Act and supported by credible and legitimate evidence that the Act has been violated. Describe the procedures you will put in place to ensure that referrals of all complaints are sent to HUD.

(3) In addition. For EOI Hispanic Fair Housing Awareness Component include:

(a) All bilingual key personnel and their capacity to communicate and disseminate information in projected Hispanic neighborhoods.

(b) A plan that reflects an understanding of the characteristics and needs of the neighborhoods selected and outlines a plan of action pertaining to the scope and detail of how the work outlined will be accomplished.

c. (15 Points) The Budget Form and the Budget Information—HUD will also assess the soundness of your approach by evaluating the quality, thoroughness, and reasonableness of the budget and financial controls of your organization, including information on your proposed program cost categories. As part of your response you must prepare a budget that is:

(1) Reasonable in achieving the goals identified in your proposed SOW;

(2) Relate tasks in the SOW to the proposed budget costs;

(3) Cost-effectiveness,

(4) Quantifiable based on the need identified in Factor 2, and

(5) Documents and justify all cost categories in accordance with the cost categories indicated in the HUD-424 CB (see General Section Grant Application Detailed Budget). Include your approved Indirect Cost rate in your budget submission, as well as the agency contact name and telephone number. If you do not have a federally approved indirect cost rate, please provide your proposed rate and submit an indirect cost rate proposal with your application. If HUD is the cognizant agency, it will establish a rate or contact the appropriate federal agency to establish a rate. For information on Indirect Cost rates, you can review HUD's training on http://www.hud./gov.

(6) Cost Effectiveness of Program. Discuss and provide supportive facts concerning the extent to which your proposed program is cost effective in achieving the anticipated results of the proposed activities. Also, indicate how the proposed project is quantifiable based on the needs identified in Rating Factor 2.

(7) Financial Management Capacity. Describe and provide documentation to support your organization's financial management system. In addition, provide documentation about your capabilities in handling financial resources and maintenance of an adequate accounting and internal control procedures.

(8) In addition: FHOI provide a statement of transfer of programmatic and management responsibilities from the sponsoring to sponsored organization by the end of grant year three. Also provide budgetary information on the viability of the sponsoring organization to maintain the sponsored organization for the duration of the grant.

Your Grant Application Detailed Budget HUD-424-CBW must show the total cost of the project and indicate other sources of funds that will be used for the project. While the costs are based only on estimates, the budget narrative work plan may include information obtained from various vendors, or you may rely on historical data. Applicants must round all budget items to the nearest dollar.

A written budget narrative must accompany the proposed budget explaining each budget category listed. Failure to provide a written budget narrative will result in two points being deducted from your application. It must explain each cost category you list. Generally, estimated costs for high-cost items or subcontractors/consultants should be supported by bids from at least three sources. Where there are travel costs for subcontractors/consultants, you must show that the combined travel costs (per diem rates) are consistent with Federal Travel Regulations (41 CFR 301.11) and travel costs for the applicant's subcontractors and/or consultants do not exceed the rates and fees charged by local subcontractors and consultants. The narrative (which does not count toward the 10 page limit) and supporting documentation (which does not count toward the 10 page limit) must address the Grant Application Detailed Budget as referenced in the General Section.

(9) Enforcement Education & Outreach—Also, there is a 5 percent limit on the amount of education-related activities that can be funded in an enforcement grant. If you exceed this limit, points will be deducted from this sub-factor.

4. Rating Factor 4: Leveraging Resources (5 Points). This factor addresses your ability to secure additional resources to support your project. Points will be awarded on the basis of the percentage of non-FHIP resources you have identified and how firm the commitment is for those resources.

a. Firm Commitment of Leveraging. HUD requires you to secure resources from sources other than what is requested under this FHIP Program Section of the SuperNOFA. Community resources may include funding or in-kind contributions, such as workspace or services or equipment, allocated to the purpose(s) of your proposal. Contributions from affiliates or employees of the applicant do not qualify as in-kind contributions. Resources may be provided by governmental entities (including other HUD programs if such costs are allowed by statute), public or private non-profit organizations, faith-based organizations, for-profit or civic private organizations, or other entities willing to work with you. In order to secure points you must establish leveraging of resources by providing letters of firm commitment from the organizations and/or individuals who will support your project. Each letter of firm commitment must:

(1) Identify the organization and/or individual committing resources to the project,

(2) Identify the sources and amounts of the leveraged resources (the total FHIP and non-FHIP amounts must match those in your proposed budget submitted under Factor 3), and

(3) Describe how these resources will be used under your SOW. The letter must be signed by the individual or organization official legally able to make commitments for the organization. If the resources are in-kind or donated goods, the commitment letter must indicate the fair market value of those resources and describe how this fair market value was determined. (Do not include indirect costs within your in-kind resources). In-kind and matching contributions and Program Income must be in accordance with 24 CFR 84.23 and 84.24. FHIP funds cannot be used for in-kind or donated services (for example, a current staff person on a FHIP-funded project). No points will be awarded for general letters of support endorsing the project from organizations, including elected officials on the local, state, or national levels, and/or individuals in your community. For PEI and EOI, if your project will not be supported by non-FHIP resources, then you will not receive any points under this factor. Points will be assigned for PEI and EOI based on the following scale:

One point will be awarded if less than 5 percent of the projects total costs come from non-FHIP resources.

Two points will be awarded if between 5 percent and 10 percent of the project's total costs are from non-FHIP resources.

Three points will be awarded if between 11 percent and 20 percent of the project's total costs are from non-FHIP resources.

Four points will be awarded if between 21 percent and 30 percent of the project's total costs are from non-FHIP resources.

Five points will be awarded if at least 31 percent of the project's total costs are from non-FHIP resources.

For FHOI, two points will be awarded if between 5 percent and 10 percent of the project's total cost are from non-FHIP resources.

Three points will be awarded if between 11 percent and 20 percent of the project's total costs are from non-FHIP resources.

Four points will be awarded if between 21 percent and 30 percent of the project's total costs are from non-FHIP resources.

Five points will be awarded if at least 31 percent of the project's total costs are from non-FHIP resources.

5. Rating Factor 5: Achieving Results and Program Evaluation (10 Points). In evaluating this factor, HUD will assess the extent to which you demonstrate how you will measure your success or results to be achieved that represent the work of your organization as set out in your budget. Applicants must describe their specific methods and measures to assess progress, evaluate program effectiveness, and identify program changes necessary to improve performance, to ensure commitments made will be kept and results to be achieved can be accounted for and independently assessed, to ensure performance measures are met. Applicants who have identified inputs and outcome measurement and include means for assessing these measures, tracking and monitoring performance goals and achievements against these commitments made in the application, will receive higher points than those that do not. To meet this requirement, you should:

a. First, identify the outcome. You should refer to the Logic Model provided in the forms appended to the General Section. Applicants should also review the Logic Model training which can be found at: http://www.hud.gov/offices/adm/grants/training/training.cfm.

b. Second, identify the indicator. An indicator should be explained using numerical measures that can determine the extent to which the outcome was or is expected to be achieved and/or utilized to assess your performance. You should also track or monitor how your projected outcomes will be successfully achieved. Specify what form of measurement tool(s) will be utilized to quantify the overall results of your project's performance.

In formulating how you attain your end results, estimate the types and amounts of clients you expect to be served with the amount allocated as it relates to your proposed budget. Estimate approximately how many of those served will benefit from your project's activities and tasks and estimate the timeframe for this to be accomplished.

Accomplishments can be achieved using specific measurements tools to assess the impact of your solutions. Examples include: Intake Assessment Instrument; Pre/Post Tests; Customer/Client Satisfaction Survey; Follow-up Survey; Observational Survey; Functioning scale; or Self-sufficiency scale. You should describe what kind of fair housing activities you propose to accomplish and the success of your project, as identified in Rating Factor 2, for these activities. Finally you should consider this need, what you plan to accomplish, your proposed methodology and work plan to assess the benefits that will be derived from your project.

You should demonstrate the extent to which your application proposes solutions that result in creating linkages and using specific measurement tools to assess the impact of your project and a process to establish a clear relationship between all parties impacted. For the EOI-Disability Component, you should demonstrate how the activities will assist the Department in implementing the Olmstead Supreme Court decision. As your project ends, you must report meaningful data derived from client feedback on how they benefited from your project's activities.

B. Criteria for National Program Applications

Factors for Award Used to Evaluate and Rate Applications for the National Education and Outreach Initiative Program. The factors for rating and ranking applicants and the maximum points for each factor are provided below. The maximum number of points awarded any application is 100. Bonus points are not available for this category of funding.

1. Rating Factor 1: Capacity of the Applicant and Relevant Organizational Experience (25 Points)

This factor addresses the extent to which the applicant has the organizational resources necessary to successfully implement the proposed activities in a timely manner, and the applicant's ability to develop and implement large information campaign projects as appropriate, on a national scale. The rating of the “applicant” or the “applicant's organization and staff” for technical merit or threshold compliance, unless otherwise specified, will include any sub-contractors, consultants, sub-recipients, and members of consortia that are firmly committed to the project.

You must describe staff expertise and your organization's ability to complete the proposed activities within the grant period.

In General. HUD recognizes that, in carrying out the proposed activities, you may have persons already on staff, plan to hire additional staff, or rely on subcontractors or consultants to perform specific tasks. You must describe your staffing plan and the extent to which you plan to add staff (employees) or contractors. If your application proposes using subcontractors and these subcontractor activities amount to more than 10 percent of your total activities, you must submit a separate budget for each subcontractor. Failure to include a separate budget will result in lower points being assessed to your application.

a. Number and expertise of staff (this includes subcontractors and consultants). (5) Points current FHIP grantees; (10) Points for new applicants You must show that you will have sufficient, qualified staff that will be available to complete the proposed activities. Provide the following information for all staff assigned to or hired for this project, not just key personnel (those persons identified in attachments to Rating Factor 3: Soundness of Approach):

(1) Identify by name and/or title and hours, all persons that will be assigned to the project. You must describe the knowledge and experience of the proposed overall project director or day-to-day program manager (whose duties and responsibilities include managing all program and administrative activities as outlined in the SOW and ensuring that all timelines are met), in planning and managing national projects similar in scope and complex interdisciplinary programs. To receive maximum points, your day-to-day program manager must devote a minimum of 75 percent of his/her time to the project. For day-to-day managers who do not have at least 75 percent of their time devoted to the project, no points will be awarded under this sub-factor. For example, if the Executive Director is responsible for managing the overall program administrative activities, the application should reflect the Executive Director's time as 75 percent. However, if a staff person will be assigned this responsibility, the 75 percent time should be reflected as such. You may demonstrate capacity by thoroughly describing your prior experience in fair housing. You should indicate how this prior experience is to be used in carrying out your proposed activities. Your application must clearly identify those persons that are on staff at the time this application is filed, and those persons who will be assigned at a later date; describe each person's duties and responsibilities and their expertise (including years of experience) to perform project tasks; indicate whether the staff person is assigned to work full-time or part-time (if part-time, indicate the percentage of time each person is assigned to the project).

(2) Attach resumes for all key personnel or position descriptions for newly created positions. (Resumes or position descriptions do not count against the ten-page limit.)

b. Organizational experience. (10) Points for current FHIP grantees; (15) Points for new applicants. In responding to this sub-factor, you must show that your organization has the ability to effectively develop, implement, and manage a media campaign on a national scale. (Applicants must be or include as part of their proposal a subcontract with an established media/advertisement organization that has experience in conducting national media campaigns.) Applicants for FHIP program funding must specifically describe their experience in developing or carrying out programs to prevent or eliminate discriminatory housing practices. Applicants must discuss their and/or subcontractor's ability to implement a coordinated national marketing awareness campaign, especially in the areas of fair housing, discrimination, public health, and housing. In responding to this sub-factor, the applicant must describe the extent to which its and/or subcontractor's past activities have resulted in successful national media campaigns as appropriate, especially with respect to developing and implementing innovative strategies resulting in positive public response. Experience will be judged in terms of recent, relevant, and successful experience of your staff to undertake eligible activities.

In rating this factor, HUD will consider experience within the last three years to be recent, experience pertaining to the specific activities to be relevant, and experience producing measurable accomplishments to be successful. The more recent the experience and the more experience your own staff members who work on the project have in successfully conducting and completing similar activities, the greater the number of points you will receive for this rating factor.

c. Performance on past project(s). (10) Points for current FHIP grantees; (0) Points for new applicants. You must describe your organization's past performance in conducting activities relevant to your proposal, in the past two years (FY2001-2002 FHIP grants), demonstrating good financial management and documenting timely use of funds, timely reporting and submissions of tasks and deliverables. HUD may supplement information you provide with relevant information on-hand or available from public sources such as newspapers, Inspector General or General Accounting Office Reports or Findings, hotline complaints that have been proven to have merit, or other such sources of information. In evaluating past performance, the following points will be deducted from your score under this rating sub-factor:

10 points out of 10 possible points will be deducted if you received a “fair performance” assessment;

5 points out of 10 possible points will be deducted if you received a “good performance” assessment; and

0 points out of 10 will be deducted if you received an “excellent performance” assessment.

2. Rating Factor 2: Need/Approach to the Problem (20 Points)

This factor addresses the extent to which the applicant documents and defines the national need that its proposed activities and methods are intended to address, and how its proposal offers the most effective approach for dealing with that national need. In responding to this factor, an applicant will be evaluated on the following:

a. The extent to which the applicant defines, describes, and documents the national need the application intends to address, which demonstrates a grasp of the elements of the problem, its pervasiveness at the national level, and an understanding of the necessary mass media vehicles. The applicant's description of the national need will be used to evaluate the depth of the applicant's understanding of the problem as an indication of ability to address the problem; and

b. If the applicant has experienced staff or if the applicant proposes to use a contractor sub-grantee, the extent to which the applicant provides a rationale for how it will utilize its staff or a contractor or sub-grantee to incorporate its proposed activities, methods, and media techniques will most effectively deal with the national need described by the applicant in response to sub-factor (1), immediately above. To the extent possible, applicants should demonstrate effectiveness in terms of scope and cost.

3. Rating Factor 3: Soundness of Approach (40 Points)

This factor addresses the quality and cost-effectiveness of the applicant's proposed Statement of Work (SOW). The SOW must address the strategy, quality and time frames needed to carry out the project and all activities as proposed.

a. (8 Points) Support of HUD Goals. Describe how your proposed project will further and support HUD's policy priorities. For FY2004 FHIP applications, address the following:

(1) The project's purpose,

(2) Persons to be served,

(3) Geographic area to be served,

(4) Proposed activities and who will conduct these activities, e.g., you or a subcontractor(s) or consultant(s).

Applicants who provide a methodology for carrying out these activities that includes items (1) through (4) above will be assessed as follows:

(a) Four points under this sub-factor if you are a grassroots faith-based or other community-based organizations, or propose to partner or sub-contract with grassroots faith-based or other community-based organizations

(b) Up to two points under this sub-factor if your application specifically addresses regulatory barriers to affordable housing.

(c) One point under this sub-factor if your application specifically addresses the elimination of housing discrimination to improve our Nation's Communities; and

(d) One point under this sub-factor if your application specifically addresses housing discrimination to persons who are homeless because of housing discrimination in violation of the Fair Housing Act.

b. (17 Points) Statement of Work. Submit a proposed SOW that comprehensively outlines in chronological order the administrative and program activities and tasks to be performed during the grant period. Your outline should also include a schedule of proposed activities and products (with interim implementation steps), staff allocation over the term of the project, staff acquisitions and training, and activities of partners and subcontractors.

For this Component, HUD anticipates that products will be available in at least 3 languages plus English. Deliverables may include Public Service Announcements (PSAs) for radio and television in both majority and minority markets, and posters and other graphic materials. Graphic materials may include, but are not limited to, enlarged reproductions of several print PSAs, separately produced and printed posters for national public dissemination, and the development of ad slicks to market in newspapers and magazines nationwide. The applicant should plan on using a clipping service or other appropriate means to collect information on frequency and scope of the placement of ads. Applicant's SOW should:

(1) Clearly describe the specific activities and tasks to be performed, the sequence in which the tasks are to be performed, noting areas of work which must be performed simultaneously, estimated completion dates, and the work and program deliverables to be completed within the grant period, including specific numbers of quantifiable end products and program improvements the applicant aims to deliver by the end of the award agreement period as a result of the work performed;

(2) Provide national media market coverage, specific protected class focus, as well as focus on persons underserved (ethnic and racial minorities, especially those who are non-English speaking or who are not proficient in English); and

(3) Describe their methods for distribution of finished materials. Applicants must describe the methods they will use to distribute and gauge the effectiveness of their national marketing strategies.

c. (15 Points) Budget Form and Budget Information. A written budget narrative must accompany the proposed budget. The narrative (counted toward the 10-page limit) and supporting documentation (not counted toward the 10-page limit) must address the following for maximum points:

(1) Cost estimates of salary levels, staff assignments, number of staff hours, and all other budget items are reasonable, allowable, and appropriate for the proposed activities;

(2) The proposed program is cost effective in achieving its anticipated results, as well as in achieving significant impact; and

(3) The proposed program is effective by explaining and attaching back-up documentation for each cost category. Where there are travel costs for subcontractors/consultants, you must show that local subcontractors/consultants are not available and that the combined travel costs (per diem rates should be consistent with Federal Travel Regulations) and rates and fees of the out-of-town subcontractors/consultants do not exceed the rates and fees charged by local subcontractors and consultants.

(4) In addition, the proposed activities will be conducted in a manner (e.g., languages, formats, locations, distribution, use of majority and minority media) that will reach and benefit all members of the public, especially members of target groups identified in Factor 2;

(5) How proposed activities will yield long-term results and innovative strategies or “best practices” that can be readily disseminated to other organizations and state and local governments; and

(6) The proposed Media Campaign Component will make available activities, training and meeting sites, and information services and materials in places and formats that are accessible to all persons including persons with disabilities.

4. Rating Factor 4: Leveraging Resources (5 Points Maximum)

This factor addresses your ability to secure additional resources to support your project. Points will be awarded on the basis of the percentage of non-FHIP resources you have identified and how firm the commitment is for those resources.

a. Firm Commitment of Leveraging. HUD requires you to secure resources from sources other than what is requested under this FHIP Program Section of the SuperNOFA. National resources may include funding or in-kind contributions, such as workspace or services or equipment, allocated to the purpose(s) of your proposal. Contributions from affiliates or employees of the applicant do not qualify as in-kind contributions. Resources may be provided by governmental entities (including other HUD programs if such costs are allowed by statute), public or private non-profit organizations, faith-based organizations, for-profit or civic private organizations, or other entities willing to work with you. If your project will not be supported by non-FHIP resources you cannot claim in-kind and donation of resources and you will not receive any points under this factor. Points will be assigned based on the following scale: One point will be awarded if less than 5 percent of the projects total costs come from non-FHIP resources.

Two points will be awarded if between 5 percent and 10 percent of the project's total costs are from non-FHIP resources.

Three points will be awarded if between 11 percent and 20 percent of the project's total costs are from non-FHIP resources.

Four points will be awarded if between 21 percent and 30 percent of the project's total costs are from non-FHIP resources.

Five points will be awarded if at least 31 percent of the project's total costs are from non-FHIP resources. In order to secure points you must establish leveraging of resources by providing letters of firm commitment from the organizations and/or individuals who will support your project. Each letter of firm commitment must:

(1) Identify the organization and/or individual committing resources to the project,

(2) Identify the sources and amounts of the leveraged resources (the total FHIP and non-FHIP amounts must match those in your proposed budget submitted under Factor 3; and

(3) Describe how these resources will be used under your SOW. The letter must be signed by the individual or organization official legally able to make commitments for the organization. If the resources are in-kind or donated goods, the commitment letter must indicate the fair market value of those resources and describe how this fair market value was determined. (Do not include indirect costs within your in-kind resources.) In-kind and matching contributions and Program Income must be in accordance with 24 CFR 84.23 and 84.24. FHIP funds cannot be used as in kind or donated services (for example, a current staff person on a FHIP-funded project). No points will be awarded for general letters of support endorsing the project from organizations, including elected officials on the local, state, or national levels, and/or individuals in your community.

5. Rating Factor 5: Achieving Results and Program Evaluation (10 Points)

In evaluating this factor, HUD will assess the extent to which you demonstrate how you will measure your success or results to be achieved that represent the work of your organization as set out in your budget and SOW. Applicants must describe their specific methods and measures to assess progress, evaluate program effectiveness, and identify program changes necessary to improve performance, to ensure commitments made will be kept and results to be achieved can be accounted for and independently assessed to ensure performance measures are met. Applicants who have identified inputs and outcome measurement and include means for assessing these measures, tracking and monitoring performance goals and achievements against these commitments made in the application, will receive higher points than those that do not. To meet this requirement, you should:

a. First, identify the outcome. You should refer to the Logic Model provided in the forms appended to the General Section. Applicants should review the training for the Logic Model on HUD's Web site. The URL where the training can be found is: http://www.hud.gov/offices/grants/training/training.cfm.

b. Second, identify the indicator. An indicator should be explained using numerical measures that can determine the extent to which the outcome was or is expected to be achieved and/or utilized to assess your performance. You should also track or monitor how your projected outcomes will be successfully achieved. Specify what form of measurement tool(s) will be utilized to quantify the overall results of your project's performance.

In formulating how you attain your end results, estimate the types and amounts of clients you expect to be served with the amount allocated as it relates to your proposed budget. Estimate approximately how many of those served will benefit from your project's activities and tasks and estimate the timeframe for this to be accomplished.

Accomplishments can be achieved using specific measurements tools to assess the impact of your solutions. Examples include: Intake Assessment Instrument; Pre/Post Tests; Customer/Client Satisfaction Survey; Follow-up Survey; Observational Survey, Functioning scale, or Self-sufficiency scale. You should describe what kind of fair housing activities you propose to accomplish and how successful you project them to be given the national need, as identified in Factor 2, for these activities. Finally, you should consider this need, what you plan to accomplish, your proposed methodology and work plan to assess the benefits that will be derived from your project.

You should demonstrate the extent to which your application proposes solutions that result in creating linkages and using specific measurement tools to assess the impact of your project and a process to establish a clear relationship among all parties impacted. As your project ends, you must report meaningful data derived from client feedback on how they benefited from your project's activities.

B. Reviews and Selection Process

1. Rating and Ranking. Although all rating factors are organized the same way for all FHIP initiatives, there are differences in application requirements and rating criteria, which are indicated throughout the Rating Factor instructions. Your application for funding will be evaluated competitively against all other applications submitted under one of the following initiatives or components:

a. Private Enforcement Initiative (PEI);

b. Education and Outreach Initiative (EOI)—

(1) Regional/Local/Community-Based Program's:

(a) General Component (EOI-GC);

(b) Disability Component (EOI-DC);

(c) Hispanic Fair Housing Awareness Component (EOI-HA);

(d) Fair Housing and Minority Homeownership Component (EOI-HC);

(2) National Program: Media Component, or the Fair Housing Organizations Initiative (FHOI).

3. Fair Housing Organizations Initiative.

For all initiatives, all eligible applications will be reviewed and points awarded based upon your narrative responses to the Factors for Award and accompanying materials (e.g., resumes) and EC/EZ bonus points, as applicable. Ineligible applications will not be ranked. The maximum number of points to be awarded for the Rating Factors is 100. See section of the General Section for information on Bonus Points.

Applications with a score of 75 points or more will be considered of sufficient quality for funding. The Selecting Official will not select for award any application with a score below 75 points. Generally, applications of sufficient quality for funding will be selected in rank order under each initiative or component. HUD reserves the right to select applicants out of rank order to achieve greater geographic distribution of awards under each initiative or component, as described below. Selections under each initiative or component will continue to be made until either all allocated funds have been obligated or until no applications of sufficient quality remain.

c. Tie Breaking. When two or more applications have the same total overall score, the application with the higher score under Rating Factor 3: Soundness of Approach will be ranked higher. If this does not break the tie, the application with the higher score under Rating Factor 1: Capacity of the Applicant and Relevant Organizational Experience will be ranked higher. If this does not break the tie, the application requesting the lower amount of FHIP funding will be ranked higher. Finally, if this does not break the tie, the application with the higher score under Rating Factor 2 will be rated higher.

d. Achieving Geographic Diversity of Awards. (1) PEI and EOI. HUD reserves the right to select applications out of rank order under geographic diversity, to ensure that, to the extent possible, applications from more states for each initiative or component are selected for funding. If the Selecting Official exercises this discretion, there will be two determinants used: (a) Geography and (b) score. Geographic diversity shall be applied to all qualified applications (applications of sufficient quality for funding—applications that received a score of 75 or more points) in each Initiative or Component in which the Selecting Official applies geographic diversity. The geographic diversity provision will be applied as follows: when there are two or more applications of sufficient quality from the same state, the application(s) with the lower score(s) will be moved to the end of the qualified queue. The applications moved to the end of the qualified queue will retain their geographic rank order. If sufficient funds remain, it is possible that applications moved to the end of the queue may be selected for award.

(2) FHOI. Under FHOI, the geographic diversity provision does not apply.

e. Adjustments to Funding. As provided in the General Section, HUD may approve an application for an amount lower than the amount requested, fund only portions of your application, withhold funds after approval, reallocate funds among activities and/or require that special conditions be added to your grant agreement, in accordance with 24 CFR 84.14, the requirements of the SuperNOFA the SuperNOFA, or where:

(1) HUD determines the amount requested for one or more eligible activities is unreasonable or unnecessary;

(2) An ineligible activity is proposed in an otherwise eligible project;

(3) Insufficient amounts remain to fund the full amount requested in the application, and HUD determines that partial funding is a viable option;

(4) The past record of key personnel warrants special conditions; or,

(5) Training funds are not reserved for FHIP training.

f. Reallocation of Funds. If after all applications within funding range have been selected or obligations are completed in an Initiative and funds remain available, the selecting official or designee will have the discretion to reallocate leftover funds in rank order among initiatives as follows:

(1) For EOI, any remaining funds from any component will be reallocated first within the initiative; if after reallocating funds within the initiative left over funds remain, they shall be reallocated to PEI then to FHOI;

(2) For PEI, any remaining funds will be reallocated to EOI then to FHOI;

(3) For FHOI, left over funds will be reallocated to PEI then to EOI.

Reallocated funds will be awarded within initiatives as described in this Program Section of the SuperNOFA.

C. Anticipated Announcement and Award Dates

For planning purposes, anticipate an announcement date of August 17, 2004, and an award date of September 17, 2004.

VI. Award Administration Information

A. Award Notices

1. Applicant Notification and Award Procedures. a. Notification. No information about the review and award process will be available to you during the period of HUD evaluation, which begins on the closing date for applications under this NOFA and lasts approximately 90 days thereafter, except to advise you, in writing or by telephone, if HUD determines that your application is ineligible or has technical deficiencies which may be corrected as described in the General Section of the SuperNOFA and Section of this NOFA. HUD will communicate only with persons specifically identified in the application. HUD will not provide information about the application to third parties such as subcontractors.

b. Negotiations. If you are selected, HUD will require you to participate in negotiations to determine the specific terms of your cooperative or grant agreement. HUD will follow the negotiation procedures described in the General Section. The selection is conditional and does not become final until the negotiations between the applicant and the Department are successfully concluded and the grant or cooperative agreement is signed and executed. HUD will negotiate only with the person identified in the application as the Director of the organization or if specifically identified in the application, the Project Director. HUD will not negotiate with any third party (i.e., a subcontractor, etc.).

c. Applicant Debriefing. After awards are announced, applicants may receive a debriefing on their application as described in the General Section. Materials provided during the debriefing will be the applicant's final scores for each rating factor, final evaluator comments for each rating factor, and the final assessment indicating the basis upon which assistance was provided or denied. Applicants requesting a debriefing must send a written request to Annette Corley, Grant Officer; U.S. Department of Housing and Urban Development, FHIP/FHAP Support Division, 451 7th Street, SW., Room 5224, Washington, DC 20410. HUD will not release the names of applicants or their scores to third parties. Selections do not become final until final negotiations with HUD are successfully concluded.

B. Administrative and National Policy Requirements

1. Accessibility Requirements. All activities, facilities, and materials funded by this Program must be accessible to persons with disabilities (24 CFR 8.2, 8.4, 8.6, and 8.54).

2. Protected Classes. All FHIP-funded projects must address housing discrimination based upon race, color, religion, sex, disability, familial status, or national origin.

3. Environmental Requirements. In accordance with 24 CFR 50.19(b)(3), (4), (9), (12), and (13) of HUD regulations, activities assisted under this program are categorically excluded from the requirements of the National Environmental Policy Act and are not subject to environmental review under related laws and authorities.

4. Product Information. Press releases and any other product intended to be disseminated to the public must be submitted to the Government Technical Representative (GTR) two weeks before release for approval and acceptance.

5. Ensuring the Participation of Small Businesses, Small Disadvantaged Businesses, and Woman-Owned Businesses. (See General Section.)

6. Payment Contingent on Completion. Payment of FHIP funds is made on a reimbursement basis. Payments are contingent on the satisfactory and timely completion of your project activities and products as reflected in your grant or cooperative agreement. Requests for funds must be accompanied by financial and progress reports.

7. Copyright Materials. You may copyright any work that is eligible for copyright protection subject to HUD's right to reproduce, publish, or otherwise use your work for Federal purposes, and to authorize others to do so as required in 24 CFR 84.36.9.

8. Complaints Against Awardees. Each FHIP award is overseen by a HUD Grant Officer (see Appendix B for list of Grant Officers per region). Complaints from the public against FHIP grantees should be forwarded to the Grant Officer. The Grant Officer's name and contact information is provided in the grant agreement. If, after notice and consideration of relevant information, the Grant Officer concludes that there has been inappropriate conduct, such as a violation of FHIP program requirements, terms or conditions of the grant, or any other applicable statute, regulation or other requirement, HUD will take appropriate action in accordance with 24 CFR 84.62. Such action may include: Written reprimand; consideration of past performance in awarding future FHIP applications; repayment to HUD of funds received under the grant; or temporary or permanent denial of participation in the FHIP in accordance with 24 CFR part 24.

9. Double Payments. If you are awarded funds under this NOFA, you (and any subcontractor or consultant) may not charge or claim credit for the activities performed under this project under any other Federal project.

10. Performance Sanctions. A grantee or subcontractor failing to comply with the requirements set forth in its grant agreement will be liable for such sanctions as may be authorized by law, including repayment of improperly used funds, termination of further participation in the FHIP, and denial of further participation in programs of HUD or any federal agency.

C. Reporting

1. HUD requires that funded recipients collect racial and ethnic beneficiary data. It has adopted the Office of Management and Budget's Standards for the Collection of Racial and Ethnic Data. In view of these requirements, you should use Form HUD-27061, Racial and Ethnic Data Reporting Form (and instructions for its use), found on http://www.HUDclips.org, a comparable program form, or a comparable electronic data system for this purpose.

2. Listed below is a sample reporting document of activities and tasks to be performed by a FHIP Grantee.

BILLING CODE 4210-32-P

BILLING CODE 4210-32-C

3. Funded recipients must use the Logic Model to report outcomes and outputs.

VII. Agency Contact(s)

You may contact Myron P. Newry or Denise L. Brooks of the FHIP/FHAP Support Division, at 202-708-0800 (this is not a toll-free number). Persons with hearing or speech impairments may contact the Division by calling 800-290-1617 (this is a toll-free number).

VIII. Other Information

A. Paperwork Reduction Act. The information collection requirements contained in this document have been approved by the Office of Management and Budget (OMB) under the Paperwork Reduction Act of 1995 (44 U.S.C. 3501-3520) and assigned OMB control number 2529-0033. In accordance with the Paperwork Reduction Act, HUD may not conduct or sponsor, and a person is not required to respond to a collection of information unless the collection displays a currently valid OMB control number. Public reporting burdens for the collection of information is estimated to average 100 hours per annum per respondent for the application and grant administration. This includes the time for collecting, reviewing, and reporting the data for the application, semi-annual reports and final report. The information will be used for grantee selection and monitoring the administration of funds. Response to this request for information is required in order to receive the benefits to be derived.

B. Frequently Asked Questions.

Q. If data, tables, exhibits, reports, and studies are submitted with the application, will they be counted toward the 10-page limit requirement?

A. The attachments do not count toward the 10-page limit. However, you are encouraged to summarize the points that support your Factor responses. Do not attach data tables, exhibits, and studies and expect the evaluator to read them and discern the points that should be considered. If you summarize information from studies, reports, etc, simply include a bibliography or other reference at the end of Factor.

Q. In previous years, FHIP applicants were not required to submit the Certification of Consistency with the Consolidated Plan. Is the Certification required this year?

A. For FY2004, the Certification of Consistency with the Consolidated Plan is not required.

Q. Where can I find a copy of the Application Kit?

A. There is no Application Kit for the FY2004 FHIP SuperNOFA. The NOFA clearly describes the requirements for completing a successful application and all forms and certifications needed to complete the application are included in the General and FHIP Sections of the SuperNOFA.

Q. What is the maximum number of narrative pages that can be submitted for each Rating Factor?

A. The maximum number is 10 pages per Rating Factor. This does not include any attachments that may be required under each factor (for example, the proposed statement of work and budget required under Factor 3, Resumes as required by Factor 1, or any reports or documents you attach to support your Factor information). The narrative pages must be double-spaced and you are required to use 12-point type size (font). However, all pages in the application must be consecutively numbered starting with number one through the end of your application. For example, Factor 1 has 10 pages of narrative and 10 pages of attachments. Each attachment page must be numbered. When you get to Factor 2, the first page of the Factor will be numbered 21, and so on. If you do not number each page in your entire application, points will be deducted from your application if this criterion is not met.

Q. The FHIP SuperNOFA refers to QFHOs and FHOs. What is the difference between them?

A. These terms are defined in the FHIP regulations. Both organizations must be private, tax-exempt, charitable organizations that have engaged in enforcement-related activities. The amount of enforcement-related experience is an eligibility requirement for PEI, least one year for and FHOI, at least two years. (See 24 CFR 125.103 for QFHO and 24 CFR 125.401(b)(2) for FHO.) For PEI and FHOI, applicants must self-identify as a QFHO or an FHO AND provide information, including dates of enforcement-related activities. The information you provide should enable HUD to determine if your organization meets at least the one or two year enforcement-related experience requirement.

Q. May an applicant subcontract out a percentage of its activities to subcontractors, partner, or consultants, if it is selected for a FHIP award?

A. Yes. However, when the expenditures to a particular subcontractor, partner, or consultant exceed 10 percent of the grant amount, an itemized budget is required.

Q. Is an organization “engaged in testing for fair housing violations” if it hires a qualified organization to carry out its testing program?

A. Yes, so long as the applicant maintains decision making authority, analyzes the test results, and maintains oversight or selection of testing operations.

Q. Does the SuperNOFA identify what makes an application ineligible?

A. Yes. For FHIP, see the eligibility requirements for each Initiative, and the Threshold Criteria. For threshold requirement information under the SuperNOFA, see the General Section.

Q. Can an applicant propose to do an Analysis of Impediments (AI)?

A. No. The applicant can identify activities to be carved out of the AI but not to do planning to develop AI.

Q. Are there major differences between this year's SuperNOFA and last year's?

A. Yes, those differences are explained in Section of the FHIP NOFA and Section of the General Section of the SuperNOFA. Please note the major differences in eligibility requirements. Some requirements that were technical deficiencies in previous years are ineligible under this NOFA.

Q. At what point may a FHOI “sponsored organization” apply under any FHIP Initiative?

A. A sponsored organization is eligible after three years to apply for funds under other initiatives or components.

Q. What are maximum awards?

A. Maximum award is the maximum amount that will be awarded under the Initiative for which you are applying. If you request an amount over this maximum amount, your application will be declared ineligible.

Q. Where do you send completed applications?

A. All completed applications must be received by the FHIP/FHAP Support Division Office in Washington, DC. These applications should be mailed or sent by an express service to the address stated in the SuperNOFA under the Section Addresses and Application Submission Procedures. Please note that applications incorrectly addressed may not be forwarded to this Division at all or it may be forwarded late. If that happens, your application will be deemed ineligible.

Q. What is the best method of knowing that the appropriate person has received my application? Should I follow up with a call?

A. Include with your completed application a complete copy of the Acknowledgment of Application Receipt. Be sure to include your correct mailing address and the person to whom the Acknowledgment should be sent. The Acknowledgement will be returned to the address indicated. HUD will not acknowledge the receipt of applications over the telephone (see General Section for return receipt requirements).

Q. What is the Web site address?

A. Http//www.hud.gov/grants.

Q. What is the due date?

A. The due date is outlined in this NOFA under Section IV. Application and Submission Information.

Q. If I have a technical question, can I call HUD?

A. Yes, technical questions should be directed to Myron P. Newry, or Denise L. Brooks of the FHIP/FHAP Support Division at (202) 708-0800 (this is not a toll-free number). Persons with hearing or speech impairments may call 800-290-1617 (this is a toll-free number). Technical assistance does not include assisting you in determining your eligibility to apply for funds. Applicants must make their own determination, based upon the requirements identified in the FHIP component under the section labeled Eligible Applicants. Technical Assistance cannot be provided to help you write any part of your application or develop responses to the application requirements. Rather, technical assistance, outside of the training broadcasts, will only clarify general application and program requirements published in the NOFA.

Q. What is meant by geographic diversity?

A. See information under section V.B.

Q. As an FHOI applicant, are education and outreach expenses required to come out of my 15 percent administrative costs?

A. No.

Fair Housing Initiatives Program, Education and Outreach Initiative-Partnership With Historically Black Colleges and Universities

Overview Information

A. Federal Agency Name: Department of Housing and Urban Development, Office of Fair Housing and Equal Opportunity.

B. Funding Opportunity Title: Fair Housing Initiatives Program (FHIP).

C. Announcement Type: Initial announcement.

D. Funding Opportunity Number: The Federal Register number for this NOFA is FR-4894-N-01. The OMB approval number for this program is 2539-0033.

E. Catalog of Federal Domestic Assistance (CFDA) Number(s): Education and Outreach Initiative 14.409.

F. Dates: The application due is June 18, 2004.

G. Additional Overview Content Information:

General description. The Education and Outreach Initiative (EOI) assists projects that educate and inform the public about the rights and obligations under the Fair Housing Act (Act) and substantially equivalent state and local fair housing laws. Applications are solicited for this initiative under the EOI-College and University Component to organize and operate a fair housing legal-clinical education program that will benefit the public by producing well-trained clinicians and lawyers who are capable of educating and informing the public on fair housing rights and obligations. This fair housing legal-clinical education program will also serve as a national model that can be replicated at any ABA-accredited law school.

FHIP funds are used to increase compliance with the Fair Housing Act (the Act) and with substantially equivalent state and local fair housing laws. This NOFA furthers this goal by seeking to provide funding to Historically Black Colleges and Universities (HBCUs) with Law schools accredited by the American Bar Association (ABA) to develop fair housing curricula and a clinical fair housing law program for law students. While this effort was announced in the April 25, 2003, Federal Register, in the NOFA for the FHIP (at 68 FR 21197), no applications were solicited at that time. This NOFA solicits applications for this effort only.

1. HUD intends to award cost reimbursable Cooperative Agreements.

2. Eligible applicants are HBCUs with American Bar Association (ABA) accredited law schools.

3. If you are interested in applying for funding under the FHIP please review the FHIP Authorizing Statute (sec. 561 of the Housing and Community Development Act of 1987, as amended), and the FHIP Regulations (24 CFR 125.103-501), the FHIP Authorizing Statute (sec. 561 of the Housing and Community Development Act of 1987, as amended), and the FHIP Regulations (24 CFR 125.103-501).

Full Text of Announcement`

I. Funding Opportunity Description

$20,118,375 was appropriated for the FHIP in FY2003. Of this amount, $1 million is being made available on a competitive basis to eligible organizations responding to this FHIP NOFA. The term for this Cooperative Agreement will be one year. HUD may exercise the option to extend this Cooperative Agreement for two additional one-year terms, based on satisfactory performance of the awardee in the first year and the availability of FHIP funds. Rolling out the model Fair Housing Law-Clinical Program to other accredited law schools will be the focus of subsequent years.

HUD is seeking to establish a national model for a Fair Housing Law-Clinical Program at an accredited HBCU law school. Pursuant to Executive Order 13256, HUD is strongly committed to broadening the participation of HBCUs in federal programs. Establishing a Fair Housing Law-Clinical Program will serve to better inform and educate the public about the rights and obligations under the Act and substantially equivalent State and local fair housing laws, and will also enhance the HBCU's ability to serve its students and the public by providing Fair Housing Law as another field of study and career option.

Authority. Section 561 of the Housing and Community Development Act of 1987, as amended, (42 U.S.C. 3616) established the FHIP (FHIP)) and the implementing regulations are found at 24 CFR part 125.

A. Program Definitions. The definitions that apply to this FHIP NOFA are as follows:

1. Fair Housing Act (the Act) means Title VIII of the Civil Rights Act of 1968 as amended by the Fair Housing Amendments Act of 1988 (42 U.S.C. 3600-3620).

2. Fair Housing Assistance Program (FHAP) Agencies mean State and local fair housing enforcement government agencies that receive FHAP funds because they administer laws deemed substantially equivalent to the Act, as described in 24 CFR part 115.

3. Fair Housing Enforcement Organization (FHO) means an organization engaged in fair housing activities as defined in 24 CFR 125.103.

4. Minority-Serving Institutions (MSI) (see General Section).

5. Qualified Fair Housing Enforcement Organization (QFHO) means an organization engaged in fair housing activities as defined in 24 CFR 125.103.

6. Regional/Local/Community-Based Activities are defined at 24 CFR 125.301(a) & (d).

II. Award Information

A. Approximately $1 million will be awarded under the EOI Minority Serving Institutions Component of the Fair Housing Initiatives Program (FHIP-EOI).

B. Anticipated Number of Awards. The estimated number of awards is one.

C. Maximum Award Amount. The maximum award amount is $1 million under this NOFA.

D. Anticipated Start Date and Period of Performance. For planning purposes, assume a start date of no later than September 1, 2004. The period of performance shall be for one year, however, HUD may exercise the option to extend the agreement for two additional one-year terms.

E. Funding Instrument. Funds will be awarded as a Cooperative Agreement. HUD expects to have substantial involvement in the development of the awardee's academic approach in establishing the law clinic and services made available and allow for direct input into the development of a national model for replication at any ABA-accredited law school. The agreement will identify the eligible activities to be undertaken, financial controls, the awardees' proposed performance measures, and special conditions, including sanctions for violation of the agreement. HUD will use the Cooperative Agreement to monitor your progress to ensure that you have achieved the objectives set out in your agreement. Failure to meet such objectives may be the basis for HUD determining your agreement in default and exercising available sanctions, including suspension, termination, and/or the recapture of your funds. Also HUD may refer violations or suspected violations to enforcement offices within HUD, the U.S. Department of Justice or other enforcement authorities.

III. Eligibility Information

A. Eligible Applicants

1. To qualify as an applicant under this Component, an institution must:

a. Be recognized by the American Bar Association as having an accredited law school;

b. Be legally authorized by the State in which it is located to provide a bachelor's degree program and a law degree program;

c. Be designated by the Secretary of the U.S. Department of Education as a Historically Black College or University; and

d. Have a high enrollment of needy students defined by 34 CFR 607.3. Applicants must submit documentation from the U.S. Department of Education establishing eligibility (except for item a. above).

2. Consortium Requirements. Two or more eligible applicants may file a joint application as a consortium. When filing jointly, you must designate one entity to be the lead applicant. The lead applicant will be the awardee if HUD funds your application. The lead applicant must include a Memorandum of Understanding (MOU) for each consortium member. Each MOU must provide a detailed description of the work to be performed by the consortium member(s) and the costs associated with the work. A draft MOU may be acceptable provided you include a detailed explanation of why a fully ratified MOU is not being presented in your application. A fully ratified MOU is contingent upon HUD funding the application. In addition, written commitment from the proposed consortium member(s) must be included in your application. If a draft MOU is submitted in the application, the finalized fully ratified MOU for each consortium member must be submitted to HUD within 15 calendar days after announcement of the award. Each MOU must commit the consortium member to actively supporting the development and implementation of the Fair Housing Legal-Clinical Program. Each MOU must also describe the skills and resources each consortium member brings to assist in implementation of your specific action plan activities. Each MOU will be considered in reviewing and rating your application, so you should strive to be as specific as possible in each MOU document.

B. Cost Sharing or Matching

No matching funds are required for the Education and Outreach Initiative.

C. Other

1. Threshold Requirements.

a. Ineligible Applicants. HUD will not consider an application from an ineligible applicant.

b. Compliance with Fair Housing and Civil Rights Laws. See General Section.

c. Debarment and Suspension. Applicants are ineligible for funding if they are debarred and suspended.

d. Poor Performance. Applicants are ineligible for funding if they are a previous FHIP awardee that has received a “Poor” performance rating for its most recent performance rating from its Government Technical Representative (GTR). HUD will assess performance ratings for applicants who have received FHIP funding in 2001 or 2002. If the applicant has received a “poor” performance rating for its most recent performance rating from its GTR, its application is ineligible for FY2004 competition. An applicant that does not agree with its determination of ineligibility for the FY2004 competition because of “poor” performance must address to HUD's satisfaction the factors resulting in the “poor” performance rating before the FHIP application deadline. If the “poor” performance rating is not resolved to the Department's satisfaction before the application deadline, the application is ineligible for funding. HUD is interested in increasing the performance level of all funded recipients; therefore, applicants who are deemed ineligible because of a “poor” performance rating have the right and are encouraged to seek technical assistance from HUD to correct their performance in order to be eligible for future NOFA competition.

e. Suits Against the United States. Your application is ineligible for funding if as a current or past awardee of FHIP funds, your organization used any funds provided by HUD for the payment of expenses in connection with litigation against the United States (24 CFR 125.104(f)).

f. Other Litigation. Your application is ineligible for funding if you used funds under this Program provided by HUD to settle a claim, satisfy a judgment or fulfill a court order in any defensive litigation (24 CFR 125.104).

g. Delinquent Federal Debt. See General Section.

h. Name Check Review. See General Section.

i. False Statements. See General Section.

j. DUN and Bradstreet Universal Numbering System (DUNS) Number Requirement. Refer to the General Section of the SuperNOFA for information regarding the DUNS requirement. You will need to obtain a DUNS number to receive an award from HUD.

2. Requirements under this NOFA. In addition to the Threshold Requirements, your application for FHIP-program funding must also meet the following requirements:

a. Protected Basis. All FHIP-funded projects must address housing discrimination based upon race, color, religion, sex, disability, familial status, or national origin.

b. Performance Measures and Products. Your application must demonstrate how your project activities will support HUD's goals to increase compliance with the Act and with substantially equivalent state and local fair housing laws, identify performance measures/outcomes in support of those goals, and describe your proposed record-keeping and evaluation systems. If selected for funding, your final performance measures will be negotiated between you and HUD as part of your executed Cooperative Agreement.

c. Reports and Meetings on Performance Measures and Products. Applicants must use the Logic Model, Form HUD-96010.

d. Discrimination Covered Under the Act. The applicant must describe how it will address all housing discrimination covered under the Act.

e. Screening/Threshold Review. Only applications that satisfy all of the applicable requirements under this FHIP NOFA will be considered for funding. The rating of the “applicant” or the “applicant's organization and staff” for technical merit or threshold compliance, unless otherwise specified, will include any sub-contractors, consultants, subrecipient, and members of consortia that are firmly committed to the project.

3. Specific activities. An application under this NOFA must address how the applicant proposes to undertake each of the activities listed below:

a. Development of a comprehensive concept and design of an Action Plan for the Fair Housing Legal-Clinical Program that can serve as a national model for replication at any accredited law school. The Action Plan must include a design concept and academic structural approach that will be used in developing and operating the Fair Housing Legal-Clinical Program.

b. Design of a course curriculum that will:

(1) Review and identify all of the prohibitions contained in the Act;

(2) Explain how, and in what manner, the prohibitions apply to each protected class identified in the law;

(3) Provide examples of the contexts and the numerous factual circumstances that can be presented in establishing applicability;

(4) Implement the curriculum design at an HBCU with an ABA-accredited law school;

(5) Develop training that will be provided to faculty and, as appropriate, other key support staff and establishment of a training schedule;

(6) Develop procedures that will be used to recruit law students to participate in the program and the procedures for such students to receive credit for their participation;

(7) Project the number of students expected to participate in the program;

(8) Develop the procedures that will be used to assure that law students enrolled in the legal-clinical program are adequately supervised in processing fair housing cases;

(9) Develop a comprehensive concept and design for a legal-clinical program that can serve as a national model for replication at any ABA-accredited law school; and

(10) Develop a plan to promote the replication of the fair housing curriculum and clinical law program at other accredited law schools.

(11) An applicant may propose other activities, but the application must consist of items (1)-(10) above to be considered eligible for funding.

4. Statutory and Regulatory Requirements. To be eligible for funding under this NOFA, you, the applicant, must meet all statutory and regulatory requirements applicable to the FHIP. If you need copies of the FHIP regulations, they are available through the HUD Web site http://www.hud.gov.

IV. Application and Submission Information

A. Addresses To Request Application Package

1. Copies of the published FHIP NOFA and application forms can be secured by calling HUD at 202-708-0800 or for the hearing impaired, 800-290-1617.

2. Before the application due date, HUD staff will be available to provide you with general guidance and technical assistance about this NOFA. However, HUD staff is not permitted to assist you in preparing your application. Following selection of applicants, but before the announcement of awards is made, HUD staff is available to assist in clarifying or confirming information that is a prerequisite to the offer of an award.

B. Content and Form of Application Submission

The maximum narrative page requirement is 10 pages per Factor. All pages in your application must be numbered consecutively from beginning to end. The narrative pages must be double-spaced (no more than three lines per vertical inch). This includes all narrative text, titles and headings. (However, you may single space footnotes, quotations, references, captions, charts, forms, tables, figures and graphs). You are required to use 12-point type size. A page is 8.5 × 11 inch, on one side only, with one inch margins on the top, bottom, right and left. You must respond fully to each factor to obtain maximum points. Failure to provide narrative responses to all factors or omitting requested information will result in less than the maximum points available for the given rating factor or sub-factors. Failure to provide double-spaced, 12-point type size narrative responses will result in five points being deducted from your overall score (one point per factor). Failure to consecutively number pages within your application will result in one point being deducted from your overall score.

1. Please ensure that your application contains all of the following:

• Copy of SF-424 (Place a copy of the SF-424 on top of application package).

• Transmittal Letter.

• Checklist for Completion of Applications.

• Project Abstract Outlining Project Activities.

• Factor No. 1 Narrative.

• Factor No. 2 Narrative.

• Factor No. 3 Narrative.

• Factor No. 3 Attachments: Statement of Work, Budget Form, Budget Narrative.

• Factor No. 4 Narrative.

• Factor No. 4 Attachments: Letter(s) of Firm Commitment.

• Factor No. 5 Narrative.

• Responses to Additional Requirements for Specific Initiative/Project.

Application Forms and Certifications

• SF-424 Application for Federal Assistance.

• SF-424B Applicant Assurances and Certifications.

• SF-424CB Grant Application Detailed Budget.

• SF-424CBW Grant Application Detailed Budget Worksheet.

• HUD-2880 (Applicant Recipient Disclosure Update Report.

• OMB SF-LLL Disclosure of Lobbying Activities.

• HUD 2993 Acknowledgment of Application Receipt.

This Checklist reflects all forms that must be included in your application submission.

2. Attachments. All applicants must submit resumes or position descriptions for newly created positions. If you received HUD funding in the past, please submit the most recent Financial Status Report, Standard Form (SF) 269.

3. Within 30 days after the due date for this NOFA applicants are invited, on a voluntary basis, to submit applications via the use of http://www.Grants.gov. For your fiscal year 2004 application, use of grants.gov/APPLY is strictly voluntary and intended to help HUD test the system to ensure that future applications can be received at HUD without problems and also, to help you, the applicant, become familiar with the use of the system. It is HUD's intent to move to electronic submissions in Federal Fiscal Year 2005 and beyond and you can help us in our planning by submitting your application electronically within 30 days after you have submitted your paper copies by the due date and time per the mailing instructions in this program section and general Section of this SuperNOFA.

C. Submission Dates and Times

You must submit a completed application (one original and three copies) for the specific initiative and component for which you are applying on or before June 14, 2004 to the HUD Headquarters building. Applicants missing the deadline will have their applications returned without further review by the Technical Evaluation Panel.

What to submit | Required content | Required form or format | When to submit it
Application:
Cover sheet | (Per required form) | Form SF-424
Budget information | (Per required form) | Form SF-424CBW
Narrative | Described in Section IV.B of this announcement | Format described in Section IV.B of this announcement
Assurances | (Per required form) | Form SF-424B, available from
Letters from third parties contributing to cost sharing | Third parties' affirmations of amounts of their commitments | No specific form or format | By June 14, 2004.

D. Intergovernmental Review

Executive Order 12372 was issued to foster intergovernmental partnership and strengthen federalism by relying on State and local processes for the coordination and review of Federal financial assistance and direct Federal development. HUD implementing regulations are published in 24 CFR part 52. The Order allows each state to designate an entity to perform a state review function. The official listing of State Points of Contact (SPOC) for this review process can be found at http://www.whitehouse.gov/omb/grants/spoc.html. States not listed on the website have chosen not to participate in the intergovernmental review process and, therefore, do not have a SPOC. If your state has a SPOC, you should contact them to see if they are interested in reviewing your application prior to submission to HUD. Please make sure that you allow ample time for this review process when developing and submitting your applications. If your state does not have a SPOC, you may send applications directly to HUD.

E. Funding Restrictions

1. Applicants are ineligible for funding if they request funding in excess of the maximum allowed under the initiative or component for which they are applying. Any amount over the maximum award, even if less than one dollar, will be considered a request in excess of the maximum award. In addition, inconsistencies in the amount requested and/or miscalculations that result in amounts over the maximum award will be considered excessive; therefore the application is ineligible.

2. Ineligible Activities. Fair Housing and Free Speech. None of the amounts made available under this FHIP Program Section of the NOFA may be used to investigate or prosecute under the Act any activity engaged in by one or more persons, including the filing or maintaining of a non-frivolous legal action that is protected by the First Amendment to the U.S. Constitution. This includes activities engaged in for the purpose of achieving or preventing action by a government official or entity.

F. Other Submission Requirements

Your application consists of an original signed application form (SF-424) and all items listed in the Checklist (above). Mail your completed application (one original and three copies) to: FHIP SuperNOFA 2004 Attn: EOI-Fair Housing Legal-Clinical Component, FHIP/FHAP Support Division, Office of Fair Housing and Equal Opportunity, U.S. Department of Housing and Urban Development, 451 Seventh Street, SW., Room 5224, Washington, DC 20410-2000.

See the General Section of the SuperNOFA for additional information regarding the mailing and receipt procedures that apply to all HUD NOFAs.

V. Application Review Information

A. Criteria

Factors for Award Used to Evaluate and Rate Applications. Applications for funding will be evaluated competitively against all applications submitted under this NOFA. The maximum number of points to be awarded for the Rating Factors is 100. Applications with a score of 75 points or more will be selected in rank order except as provided below:

The factors for rating and ranking applications and the maximum points for each Rating Factor are described below. Failure to provide the required information under the appropriate Factor will result in a lower score for that Factor. Please respond fully to the criteria in each Rating Factor and sub-factor and, when directed, provide other information in support of your response. Your responses to each Rating Factor must not exceed the 10-page Rating Factor requirement. The Factors for Award are set below:

1. Rating Factor 1. Capacity of Applicant and Relevant Organizational Experience (40 Points Maximum)

You must describe staff expertise and your organization's ability to complete the proposed activities within the Cooperative Agreement period. Your staff must discuss their experience in implementing and maintaining a legal-clinical program and in Civil Rights law.

In carrying out the proposed activities, you must identify persons already on staff who will be assigned to carry out the tasks of this Cooperative Agreement. If you plan to hire additional staff or rely on subcontractors or consultants to perform specific tasks, you must describe your staffing plan and the extent to which you plan to add staff (employees) or contractors. If your application proposes using a consortium, each member of the consortium must have staff assigned to carry out the tasks of this Cooperative Agreement. In addition, consortium proposals must specify a lead member who will be responsible for ensuring that all tasks and activities are being carried out.

a. Number and expertise of staff (this includes subcontractors and consultants). (20 Points Maximum)

(1) You must show that you will have sufficient, qualified staff or faculty who will be available to:

(2) Develop an academic structural approach and comprehensive concept and design for a fair housing legal-clinical program that can serve as a national model for replication at any ABA-accredited law school (submit a draft curriculum with the application); and

(3) Implement the curriculum design at an HBCU with an ABA-accredited law school.

(a) You must also:

(b) Identify all of the administrators of the clinical program and describe their function, qualifications, and experience;

(c) Identify persons who will constitute the faculty for the program and describe their functions, qualifications, and experience; and

(d) Identify and describe the functions and qualifications of any other program staff.

(e) For consortium applicants, identify and describe:

(f) The qualifications of each consortium member;

(g) The faculty and staff to be assigned for each member and

(h) The ability of each member to develop an overall design concept, curriculum; and academic structural approach that will be used in developing and operating the Fair Housing Legal-Clinical Component.

(i) You must describe the knowledge and experience of the proposed overall Faculty Administrator and day-to-day program manager (whose duties and responsibilities include managing all program and administrative activities as outlined in the SOW and ensuring that all timelines are met), in planning and managing a fair housing legal-clinical program. Indicate the percentage of time that key personnel will devote to your project. To receive maximum points, your day-to-day program manager must devote a minimum of 75 percent of his/her time to the project. For day-to-day managers who do not have at least 75 percent of their time devoted to the project, no points will be awarded under this sub-factor. You must indicate how your prior experience will be used in carrying out your proposed activities. All applicants must clearly identify those persons that are on staff at the time this application is filed for each member and those persons who will be assigned at a later date. Each consortium member must describe each person's duties and responsibilities and their expertise (including years of experience) to perform project tasks; indicate whether the staff person is assigned to work full-time or part-time. For part-time staff, indicate the percentage of time each person is assigned to the project. In addition, provide information on the training that will be provided to each clinical staff person.

(j) Attach resumes or curriculum vitae for all key personnel or position descriptions for newly created positions. (Resumes, curriculum vitae or position descriptions do not count against the 10-page limit.)

b. Organizational experience. (20 Points Maximum)

(1) In responding to this sub-factor, you must show that your organization is:

(2) Designated by the Secretary of the U.S. Department of Education as a Historically Black College or University;

(3) Accredited by the ABA as a law school; and

(4) You must also show that you have conducted a past clinical project or projects similar in scope and complexity to the clinical project proposed in this application (whether FHIP-funded or not) or that you have engaged in activities that, although not similar, are readily transferable to the proposed project. Experience will be judged in terms of recent, relevant and successful experience of your staff and institution to undertake eligible activities.

(5) In rating this factor, HUD will consider experience within the last three years to be recent, experience pertaining to the specific activities to be relevant, and experience producing measurable accomplishments to be successful. The more recent the experience and the more experience your own staff members who work on the project have in successfully conducting and completing similar activities, the greater the number of points you will receive for this rating factor.

2. Rating Factor 2. Soundness of Approach (40 Points Maximum)

You must describe your project in detail, demonstrate how your project activities will support HUD goals, propose suggested performance measures/outcomes in support of these goals, and identify current baseline conditions and target levels of the performance measures that you plan to achieve. A Statement of Work (SOW) and budget must be included. Your proposed activities must support HUD's policy priorities as referenced in the General Section.

a. Proposed SOW. (25 Points Maximum)

The SOW and budget are attachments that will not count toward the 10-page limit on the narrative response to this factor. However, points will be assigned based on the relevance of proposed activities to stated needs, attention to implementation steps, proposed activities consistent with organizational expertise and capacity and accuracy of the SOW and budget.

Submit a proposed SOW that comprehensively outlines in chronological order the administrative, program activities, and tasks to be performed during the one-year Cooperative Agreement period. Your outline should identify all activities and tasks to be performed in developing a fair housing curriculum and clinical law program. You must also describe how you will promote the replication of the fair housing curriculum and clinical law program at other accredited law schools. This description must provide a timeline, identify any subcontractors or partners involved with promoting the replication process, and describe products that will be provided to HUD. You must also include a schedule of your activities and products, staff allocation over the term of the project; staff acquisition and training; and activities of partners and/or subcontractors.

Applicants must develop a curriculum that includes an analysis of judicial or administrative decisions or settlements; an examination and discussion of documents used in the preparation for trial, hearings and settlements; and discussion of any procedures used in the investigation of these matters.

b. The Budget Form and the Budget Information. (15 Points Maximum)

(1) Your Grant Application Detailed Budget SF-424-CBW must show the total cost of the project and indicate other sources of funds that will be used for the project. While the costs are based only on estimates, the budget narrative work plan may include information obtained from various vendors or you may rely on historical data. Applicants must round all budget items to the nearest dollar.

If you have a federally negotiated indirect rate, you should use that rate and the appropriate base in this section. In all other instances, you should include your current overhead rate, if any, which has been tailored to your organization's operating budget. The rate and base used here is illustrative only and you must use your organization's rate.

A written budget narrative must accompany the proposed budget explaining each budget category listed. Failure to provide a written budget narrative will result in two points being deducted from your application. It must explain each cost category you list. Generally, estimated costs for high-cost items or subcontractors/consultants should be supported by bids from at least three sources. Where there are travel costs for subcontractors/consultants, you must show that the combined travel costs (per diem rates) are consistent with Federal Travel Regulations (41 CFR 301.11) and travel costs for the applicant's subcontractors and/or consultants do not exceed the rates and fees charged by local subcontractors and consultants. The narrative (which counts toward the 10-page limit) and supporting documentation (which does not count toward the 10-page limit) must address the Grant Application Detailed Budget as referenced in the General Section.

(2) HUD will also assess the soundness of your approach by evaluating the quality, thoroughness, and reasonableness of the budget and financial controls of your organization, including information on your proposed program cost categories. As part of your response you must prepare a budget that:

(a) Is reasonable in achieving the goals identified in your proposed SOW;

(b) Relates tasks in the SOW to the proposed budget costs;

(c) Is cost-effective;

(d) Is quantifiable; and

(e) Documents and justifies all cost categories in accordance with the cost categories indicated in the SF-424 CBW. In addition, if you already have an approved indirect cost rate, please provide the necessary contact information (i.e., name, address, and telephone number of the cognizant agency). If you do not have an approved indirect cost rate, HUD will contact the cognizant agency or if HUD is the cognizant agency, we will determine the indirect cost rate.

(f) Financial Management Capacity. Describe and provide documentation to support your organization's financial management system. In addition, provide documentation about your capabilities in handling financial resources and maintenance of adequate accounting and internal control procedures.

3. Rating Factor 3. Leveraging Resources (10 Points Maximum)

This factor addresses your ability to secure additional resources to support your project. Points will be awarded on the basis of the percentage of non-FHIP resources you have identified and how firm the commitment is for those resources. HUD requires you to secure resources from sources other than what is requested under this FHIP NOFA. Describe the steps that will be taken to obtain additional funding from sponsors, program partners or available grants or Cooperative Agreements for the initial and sustained operation of the program; Community resources may include funding or in-kind contributions, such as workspace or services or equipment, allocated to the purpose(s) of your proposal. Resources may be provided by governmental entities (including other federal funds if such costs are allowed by statute), public or private non-profit organizations, faith-based organizations, for-profit or civic private organizations or other entities willing to work with you. In order to secure points you must establish leveraging of resources by providing letters of firm commitment from the organizations and/or individuals who will support your project. Each letter of firm commitment must:

a. Identify the organization and/or individual committing resources to the project,

b. Identify the sources and amounts of the leveraged resources (the total FHIP and non-FHIP amounts must match those in your proposed budget submitted under Factor 2), and

c. Describe how these resources will be used under your SOW. The letter must be signed by the individual or organization official legally able to make commitments for the organization. If the resources are in-kind or donated goods, the commitment letter must indicate the fair market value of those resources and describe how this fair market value was determined. (Do not include indirect costs within your in kind resources.) In-kind and matching contributions and program income must be in accordance with 24 CFR 84.23 and 84.24. If the applicant has no funding source other than the FHIP, it cannot propose in-kind or donated resources. No points will be awarded for general letters of support endorsing the project from organizations, including elected officials on the local, State or national levels, and/or individuals in your community. If non-FHIP resources will not support your project, then you will not receive any points under this factor.

4. Rating Factor 4. Achieving Results and Program Evaluation (10 Points Maximum)

In evaluating this factor, HUD will assess the extent to which you demonstrate how you will measure your future success or anticipated results to be achieved and how the project will be replicated based upon the work of your organization as set out in your budget.

Applicants must use the Logic Model, Form HUD-96010. Please refer to the Logic Model Training that is archived on the HUD Web site at: http://www.hud.gov/offices/adm/grants/training/training.cfm, to describe their specific methods and measures to assess progress, evaluate program effectiveness, and identify program changes necessary to improve performance. The Logic Model should also be used to ensure commitments made will be kept, results to be achieved can be accounted for and independently assessed, and to ensure performance measures are met. Columns 5, Output Results and 7, End Results should be left blank initially and used later for reporting purposes.

a. Applicants who have identified inputs and outcome measurement and include means for assessing these measures, tracking and monitoring performance goals and achievements against these commitments made in the application, will receive higher points than those that do not. To meet this requirement, you must:

(1) First, specify what form of measurement tool(s) will be utilized to quantify the overall results of your project's performance.

(2) Second, identify the indicator. An indicator should be explained using numerical measures that can determine the extent to which the outcome was or is expected to be achieved and/or utilized to assess your performance. You should also track or monitor how your projected outcomes will be successfully achieved.

(3) Third, identify the outcome. You should use the Logic Model to specify what form of measurement tool(s) will be utilized to quantify the overall results of your project's performance. You may also access the Logic Model that is archived on the HUD Web site at: http://www.hud.gov/offices/adm/grants/training/training.cfm.

b. In formulating how you attain your end results, estimate the types and amounts of clients you expect to be served with the amount allocated as it relates to your proposed budget. Estimate approximately how many of those served will benefit from your project's activities and tasks and estimate the timeframe for this to be accomplished.

This can be done using real numbers and reasonable estimates. If you are proposing a new program, and numbers have never been assessed, indicate that actual numbers will be reported as you submit your required quarterly reports, should you receive funding.

B. Review and Selection Process

1. Independence of Awards. HUD will review each application separately and without reference to other applications submitted by you or others. Therefore, the application you submit must be independent and capable of being implemented without reliance on the selection of other applications submitted by you or other applicants. An application from a consortium will be considered as a single application.

2. Tie Breaking. When two or more applications have the same total overall score, the application with the higher score under Rating Factor 2: Soundness of Approach, will be ranked higher. If this does not break the tie, the application with the higher score under Rating Factor 1: Capacity of the Applicant and Relevant Organizational Experience, will be ranked higher. If this does not break the tie, the application requesting the lower amount of FHIP funding will be ranked higher. Finally, if this does not break the tie, the application with the higher score under Rating Factor 3 will be rated higher.

3. Adjustments to Funding. HUD may approve an application for an amount lower than the amount requested, fund only portions of your application, withhold funds after approval, reallocate funds among activities and/or require that special conditions be added to your Cooperative Agreement, in accordance with 24 CFR 84.14, the requirements of this NOFA or where:

a. HUD determines the amount requested for one or more eligible activities is unreasonable or unnecessary;

b. An ineligible activity is proposed in an otherwise eligible project;

c. Insufficient amounts remain to fund the full amount requested in the application, and HUD determines that partial funding is a viable option;

d. The past record of key personnel warrants special conditions; or

e. Training funds are not reserved for FHIP training.

4. Reallocation of Funds. If after all applications within funding range have been selected or obligations are completed and funds remain available, any remaining funds from this Component will be reallocated within the Education and Outreach Initiative.

VI. Award Administration Information

A. Award Notices

1. Applicant Notification and Award Procedures

a. Notification. No information about the review and award process will be available to you during the period of HUD's evaluation, which begins on the closing date for applications under this NOFA and lasts approximately 90 days thereafter, except to advise you, in writing or by telephone, if HUD determines that your application is ineligible or has technical deficiencies which may be corrected as described in the General Section. HUD will communicate only with persons specifically identified in the application. HUD will not provide information about the application to third parties such as subcontractors.

b. Negotiations. If you are selected, HUD will require you to participate in negotiations to determine the specific terms of your cooperative agreement. After HUD has rated and ranked all applications and made selections, HUD may require, depending upon the program, that all selected applicants participate in negotiations to determine the specific terms of the funding agreement and budget. In cases where HUD cannot successfully conclude negotiations with a selected applicant or a selected applicant fails to provide HUD with requested information, an award will not be made to that applicant. In this instance, HUD may offer an award, and proceed with negotiations with the next highest-ranking applicant. The selection(s) is/are conditional and does not become final until the negotiations between the applicant and the Department are successfully concluded and the cooperative agreement is signed and executed. HUD will negotiate only with the person identified in the application as the Director of the organization or if specifically identified in the application, the Project Director. HUD will not negotiate with any third party (i.e., a subcontractor, etc.).

c. Applicant Debriefing. Debriefing. Beginning 30 days after the awards for assistance are publicly announced and for at least 120 days after awards for assistance are publicly announced, HUD will provide a debriefing to any applicant requesting one on their application. All debriefing requests must be made in writing or by e-mail by the authorized official whose signature appears on the SF-424 or his or her successor in office, and submitted to the person or organization identified as the Contact under the section entitled “Further Information and Technical Assistance” in the Program Section of the NOFA under which you applied for assistance. Information provided during a debriefing will include, at a minimum, the final score you received for each rating factor, final evaluator comments for each rating factor, and the final assessment indicating the basis upon which assistance was provided or denied.

Applicants requesting a debriefing must send a written request to Annette Corley, Grant Officer; U.S. Department of Housing and Urban Development; FHIP/FHAP Support Division; 451 Seventh Street, SW., Room 5224; Washington, DC 20410. HUD will not release the names of applicants or their scores to third parties. Selections do not become final until final negotiations with HUD are successfully concluded.

d. Award Instrument. The type of funding instrument that HUD may offer a successful applicant which sets forth the relationships between HUD and the recipient will be a Cooperative Agreement, where the principal purpose is the transfer of funds, property, services or anything of value to the applicant to accomplish a public purpose, and substantial direct involvement is expected between HUD and the awardee when carrying out the activities in the agreement. The agreement will identify the eligible activities to be undertaken, financial controls, the awardees proposed performance measures, and special conditions, including sanctions for violations of the agreement. HUD will use the Cooperative Agreement to monitor your progress to ensure that you have achieved the objectives set out in your agreement. Failure to meet such objectives may be the basis for HUD determining your agreement in default and exercising available sanctions, including suspension, termination, and/or the recapture of your funds. Also HUD may refer violations or suspected violations to enforcement offices within HUD, the U.S. Department of Justice or other enforcement authorities.

e. Product Information. Press releases and any other product intended for dissemination to the public must be submitted to the (GTR) two weeks before release for approval and acceptance.

B. Administrative and National Policy Requirements

1. Training funds. Your proposed budget must set-aside $6,000 per applicant per year to participate in HUD mandatory sponsored or approved training. If the application is from a consortium consisting of four members or more, the training budget cannot exceed $24,000 for a 12-month Cooperative Agreement administration period. Requests to attend HUD-approved training must be submitted to the (GTR) for approval in advance of the requested training. Do not include amounts over the maximum (as appropriate) for the training set-aside in this category. If applicants do not include these funds in the budget and you are selected for an award, HUD may modify your budget, reallocating the appropriate amount for training. If awardees do not attend mandatory HUD-approved or HUD-sponsored training, the approved budget will be reduced by the amount allocated for the specific training that was not attended and the amount of funds allocated for the training must be returned to HUD. In addition, your failure to attend mandatory training will adversely impact your performance assessment.

2. Payment Contingent on Completion. Payment of FHIP funds is made on a reimbursement basis. Payments are contingent on the satisfactory and timely completion of your project activities and products as reflected in your Cooperative Agreement. Requests for funds must be accompanied by financial progress reports and deliverables, if applicable.

3. Accessibility Requirements. All activities, facilities, and materials funded by this NOFA must be accessible to persons with disabilities (24 CFR 8.2, 8.4, 8.6, and 8.54).

4. Copyright Materials. You may copyright any work that is eligible for copyright protection subject to HUD's right to reproduce, publish or otherwise use your work for federal purposes, and to authorize others to do so as required in 24 CFR 84.36.

5. Complaints Against Awardees. A HUD Grant Officer oversees each FHIP award. Complaints from the public against FHIP recipients should be forwarded to the Grant Officer. The Grant Officer's name and contact information is provided in the Cooperative Agreement. If, after notice and consideration of relevant information, the Cooperative Agreement Officer concludes that there has been inappropriate conduct, such as a violation of FHIP program requirements, terms or conditions of the Cooperative Agreement or any other applicable statute, regulation or other requirement, HUD will take appropriate action in accordance with 24 CFR 84.62. Such action may include: Written reprimand; consideration of past performance in awarding future FHIP applications; repayment to HUD of funds received under the Cooperative Agreement; or temporary or permanent denial of participation in the FHIP in accordance with 24 CFR part 24.

6. Double Payments. If you are awarded funds under this NOFA, you (and any subcontractor or consultant) may not charge or claim credit for the activities performed under this project under any other federal project.

7. Performance Sanctions. A fund recipient or subcontractor failing to comply with the requirements set forth in its Cooperative Agreement will be liable for such sanctions as may be authorized by law, including repayment of improperly used funds, termination of further participation in the FHIP, and denial of further participation in programs of HUD or any federal agency.

C. Reporting

Reports. You must provide reports in a format (which may be computer-generated), at a frequency and with contents specified by HUD. At a minimum, the report must include the number and basis of complaints filed with HUD as well achieved. You must submit monthly activity reports describing the administrative and program task completed and/or underway, and a corresponding financial report showing how the funds were disbursed during the reporting period. This narrative must also give qualitative and quantitative data relative to the success of the program or service, based on the performance measures in the Cooperative Agreement. You will also provide a narrative report within 90 days after all Cooperative Agreement activities have ended or at the end of each 12-month period of the Cooperative Agreement, whichever comes first. This narrative report must identify and describe the program or services provided and give qualitative and quantitative data relative to the success of the program or service based on the performance measures in the Cooperative Agreement.

Listed below are sample reporting documents of activities and tasks to be performed by a FHIP Grantee.

BILLING CODE 4210-32-P

BILLING CODE 4210-32-P

VII. Agency Contacts

You may contact Myron P. Newry or Walter Ayers of the FHIP/FHAP Support Division, at 202-708-0800 (this is not a toll-free number). Persons with hearing or speech impairments may contact the Division via TTY by calling 800-290-1617 (this is a toll-free number).

VIII. Other Information

A. Accessibility Requirements. All activities, facilities, and materials funded by this Program must be accessible to persons with disabilities (24 CFR 8.2, 8.4, 8.6, and 8.54).

B. Protected Basis. All FHIP-funded projects must address housing discrimination based upon race, color, religion, sex, disability, familial status or national origin.

C. Environmental Requirements. In accordance with 24 CFR 50.19(b)(3), (4), (9), (12), and (13) of HUD regulations, activities assisted under this program are categorically excluded from the requirements of the National Environmental Policy Act and are not subject to environmental review under related laws and authorities.

D. Paperwork Reduction Act. The information collection requirements contained in this document have been approved by the Office of Management and Budget (OMB) under the Paperwork Reduction Act of 1995 (44 U.S.C. 3501-3520) and assigned OMB control number 2539-0033. In accordance with the Paperwork Reduction Act, HUD may not conduct or sponsor, and a person is not required to respond to, a collection of information unless the collection displays a currently valid OMB control number. Public reporting burden for the collection of information is estimated to average 100 hours per annum per respondent for the application and grant administration. This includes the time for collecting, reviewing, and reporting the data for the application, semi-annual reports and final report. The information will be used for grantee selection and monitoring the administration of funds. Response to this request for information is required in order to receive the benefits to be derived.

E. Frequently Asked Questions.

Q. If data, tables, exhibits, reports, and studies are submitted with the application, will they be counted toward the 10-page limit requirement?

A. The attachments do not count toward the 10-page limit. However, you are encouraged to summarize the points that support your Factor responses. Do not attach data tables, exhibits, and studies and expect the evaluator to read them and discern the points that should be considered. If you summarize information from studies, reports, etc, simply include a bibliography or other reference at the end of Factor.

Q. Where can I find a copy of the Application Kit?

A. There is no Application Kit for this FHIP NOFA. The NOFA clearly describes the requirements for completing a successful application and all forms and certifications needed to complete the application are included in the General and FHIP NOFA.

Q. What is the maximum number of narrative pages that can be submitted for each Rating Factor?

A. The maximum number is 10 pages per Rating Factor. This does not include any attachments that may be required under each factor (e.g., the proposed SOW and budget required under Factor 2, Resumes as required by Factor 1 or any reports or documents you attach to support your Factor information). The narrative pages must be double-spaced and you are required to use 12-point type size. However, all pages in the application must be consecutively numbered starting with number one (1) through the end of your application. For example, Factor 1 has 10 pages of narrative and 10 pages of attachments.

Each attachment page must be numbered. When you get to Factor 2, the first page of the Factor will be numbered 21, and so on. If you do not number each page in your entire application, points will be deducted from your application if this criterion is not met.

Q. May an applicant subcontract out a percentage of its activities to subcontractors, partner or consultants, if it is selected for a FHIP award?

A. Yes. However, when the expenditures to a particular subcontractor, partner or consultant exceed 10 percent of the Cooperative Agreement amount, an itemized budget is required.

Q. Does the NOFA identify what makes an application ineligible?

A. Yes. For FHIP, see the eligibility requirements and the Threshold Criteria in Requirements and Procedures, Section B.

Q. What are maximum awards?

A. Maximum award is the maximum amount that will be awarded under the Initiative for which you are applying. If you request an amount over this maximum amount, your application will be declared ineligible.

Q. Where do you send completed applications?

A. All completed applications must be received by the FHIP/FHAP Support Division Office in Washington, DC. These applications should be mailed or sent by an express service to the address stated in the NOFA under the Section Addresses and Application Submission Procedures. Please note that applications incorrectly addressed may not be forwarded to this Division at all or it may be forwarded late. If that happens, your application will be deemed ineligible.

Q. What is the best method of knowing that the appropriate person has received my application? Should I follow up with a call?

A. Include with your completed application a complete copy of the Acknowledgment of Application Receipt. Be sure to include your correct mailing address and the person to whom the Acknowledgment should be sent. The Acknowledgement will be returned to the address indicated. HUD will not acknowledge the receipt of applications over the telephone. Within 10 working days after the deadline date, acknowledgement letters will be mailed via the U.S. Post Office to all applicants meeting the timeliness of applications requirement.

Q. What is the Web site address?

A. Http//www.hud.gov/grants.

Q. What is the due date?

A. The due date is outlined in this NOFA under Section I, Application Due Date.

Q. If I have a technical question, can I call HUD?

A. Yes, technical questions should be directed to Myron P. Newry, Walter Ayers or Denise L. Brooks of the FHIP/FHAP Support Division at (202) 708-0800 (this is not a toll-free number). Persons with hearing or speech impairments may call 800-290-1617 (this is a toll-free number). Technical assistance does not include assisting you in determining your eligibility to apply for funds. Applicants must make their own determination, based upon the requirements identified in section III.(C) labeled Eligible Applicants. Technical Assistance cannot be provided to help you write any part of your application or develop responses to the application requirements. Rather, technical assistance, outside of the training broadcasts, will only clarify general application and program requirements published in the NOFA.

Q. What is meant by geographic diversity?

A. See comments above in Section V.

BILLING CODE 4210-32-P

Housing Counseling Program

Overview Information

A. Federal Agency Name: Department of Housing and Urban Development, Office of Single Family Housing.

B. Funding Opportunity Title: Housing Counseling Program.

C. Announcement Type: Initial announcement.

D. Funding Opportunity Number: The Federal Register number is: FR-4900-N-09. The OMB Approval number is: 2502-0261.

E. Catalog of Federal Domestic Assistance (CFDA) Number: 14.169 Housing Counseling Assistance Program.

F. Dates: The application due date is June 23, 2004. Please see the General Section of the SuperNOFA for application submission, delivery, and timely receipt requirements.

G. Available Funds: Up to $36.014 million is made available for eligible applicants under this program NOFA.

Full Text of Announcement

I. Funding Opportunity Description

A. Program Description

This program supports the delivery of a wide variety of housing counseling services to homebuyers, homeowners, low- to moderate-income renters, and the homeless. The primary objectives of the program are to expand homeownership opportunities and improve access to affordable housing. Counselors provide guidance and advice to help families and individuals improve their housing conditions and meet the responsibilities of tenancy and homeownership. Counselors also help borrowers avoid inflated appraisals, unreasonably high interest rates, unaffordable repayment terms, and other conditions that can result in a loss of equity, increased debt, default, and eventually foreclosure.

Applicants funded through this program may also provide Home Equity Conversion Mortgage (HECM) counseling to elderly homeowners who are looking to convert equity in their homes into income that can be used to pay for home improvements, medical costs, living expenses, or other expenses.

This grant program also supports the delivery of housing counseling services to potential homebuyers and homeowners utilizing Section 8 Homeownership Vouchers (hereafter referred to as Homeownership Vouchers) under HUD's Homeownership Voucher Program. The primary objectives of counseling in conjunction with the Homeownership Voucher program are to: (1) help Homeownership Voucher Program participants make the transition from renting to homeownership; (2) assist them in evaluating their readiness and in making informed decisions; (3) help them meet the responsibilities of homeownership; and (4) encourage increased participation by Public Housing Agencies (PHAs) in HUD's Homeownership Voucher Program.

B. Grant Categories

HUD will award a single grant to qualified applicants through one of three grant categories: (1) Local Housing Counseling Agencies (LHCAs); (2) National and Regional Intermediaries; and (3) State Housing Finance Agencies (SHFAs).

1. Comprehensive Counseling

All awards through the 3 categories will consist of a specified sum for comprehensive counseling.

2. Supplemental Funding

Comprehensive counseling awards through the 3 grant categories can also be augmented with supplemental funding for the following specific activities and assistance to targeted communities:

a. Predatory Lending. Supplemental funding is available for counseling and educational activities designed to combat predatory lending, including helping borrowers avoid inflated appraisals, unreasonably high interest rates, unaffordable repayment terms, and other conditions which can result in a loss of equity, increased debt, default, and even foreclosure.

b. Homeownership Voucher Counseling. Supplemental funding is available for counseling and educational activities in conjunction with HUD's Homeownership Voucher Program.

c. Colonias. Supplemental funding is available for the counseling and educational activities targeted at Colonias. Colonias means any identifiable, rural community that is located in Arizona, California, New Mexico, or Texas; is within 150 miles of the border between the United States of America and the United Mexican States; and is determined to be a Colonia on the basis of objective need criteria, including lack of potable water supply, lack of adequate sewage systems, and lack of decent, safe, sanitary, and accessible housing.

C. Authority

HUD's Housing Counseling Program is authorized by section 106 of the Housing and Urban Development Act of 1968 (12 U.S.C. 1701x), and is generally governed by HUD Handbook 7610.1, REV-4, CHG-1, dated October 27, 1997.

The Homeownership Voucher Program refers to the homeownership option in the Housing Choice Voucher Program. The homeownership option is authorized by section 8(y) of the United States Housing Act of 1937, as amended by section 555 of the Quality Housing and Work Responsibility Act of 1998. The implementing regulations are found at 24 CFR 982.625 through 982.643.

II. Award Information

A. Amount Allocated

Of the $39,764,000 appropriated for housing counseling in FY2004, up to $36.014 million is made available for eligible applicants under this NOFA. Specifically, $2 million is available for counseling in conjunction with HUD's Homeownership Voucher Program, $350,000 is available for counseling services that specifically target Colonias, $2.7 million is available for counseling services addressing predatory lending, and $30.964 million is available for comprehensive counseling.

B. Specific Allocations

Funding is allocated to each Homeownership Center (HOC), regional HUD offices that oversee the Housing Counseling Program in their jurisdiction, by a formula that incorporates first-time homebuyer rates, default rates, HECM endorsements, and minority homebuyers.

1. Category 1—Local Housing Counseling Agencies (LHCAs). $14.351 million is available from HUD to directly fund HUD-approved LHCAs, including $12.201 million for comprehensive counseling, $1.2 million in supplemental funding for predatory lending, $850,000 in supplemental funding for counseling in conjunction with HUD's Homeownership Voucher Program, and $100,000 for counseling targeting Colonias.

Allocations for Category 1 by HOC are as follows:

| Comprehensive counseling | Predatory lending | Homeownership voucher counseling | Colonias | Total
Philadelphia HOC | $3,462,921 | $340,587 | $241,249 |  | $4,044,757
Atlanta HOC | 3,340,830 | 328,579 | 232,744 |  | 3,902,153
Denver HOC | 3,147,082 | 309,524 | 219,246 | 50,000 | 3,725,852
Santa Ana HOC | 2,250,167 | 221,310 | 156,761 | 50,000 | 2,678,238
Total | 12,201,000 | 1,200,000 | 850,000 | 100,000 | 14,351,000

2. Category 2—National and Regional Intermediaries. $19.263 million is available from HUD to directly fund HUD-approved National and Regional Intermediaries, including $16.763 million for comprehensive counseling, $1.3 million in supplemental funding for predatory lending, $1 million in supplemental funding for counseling in conjunction with HUD's Homeownership Voucher Program, and $200,000 for counseling targeting Colonias.

3. Category 3—State Housing Finance Agencies (SHFA). $2.4 million is available to fund SHFAs that provide housing counseling services directly or serve as intermediaries to Affiliates who offer housing counseling services, including $2 million for comprehensive counseling, $200,000 in supplemental funding for predatory lending, $150,000 in supplemental funding for counseling in conjunction with HUD's Homeownership Voucher Program, and $50,000 for counseling targeting Colonias.

Allocations for Category 3 by HOC are as follows:

| Comprehensive counseling | Predatory lending | Homeownership voucher program | Colonias | Total
Philadelphia HOC | $567,645 | $56,765 | $42,573 |  | $666,983
Atlanta HOC | 547,632 | 54,763 | 41,073 |  | 643,468
Denver HOC | 515,873 | 51,587 | 38,690 | 25,000 | 631,150
Santa Ana HOC | 368,850 | 36,885 | 27,664 | 25,000 | 458,399
Total | 2,000,000 | 200,000 | 150,000 | 50,000 | 2,400,000

C. Individual Awards

1. Category 1. No individual LHCA may be awarded more than $260,000. Specifically, the limit for Comprehensive Counseling is $150,000. If applicable, the limit for supplemental funding for predatory lending is $40,000, the limit for supplemental funding for Homeownership Voucher Counseling is $30,000, and the limit for supplemental funding for Colonias is $40,000. HUD anticipates that the average award will be approximately $40,000.

2. Category 2. Awards for individual HUD-approved National and Regional intermediaries may not exceed $3.4 million. The limit for Comprehensive Counseling is $2.5 million. If applicable, the limit for supplemental funding for predatory lending is $325,000, the limit for supplemental funding for Homeownership Voucher Counseling is $275,000, and the limit for supplemental funding for Colonias is $300,000. HUD anticipates that the average award for Intermediaries will be $1.1 million.

3. Category 3. No individual SHFA may be awarded more than $450,000. Specifically, the limit for Comprehensive Counseling is $300,000. If applicable, the limit for supplemental funding for predatory lending is $63,000, the limit for supplemental funding for Homeownership Voucher Counseling is $47,000, and the limit for supplemental funding for Colonias is $40,000. HUD anticipates that the average award for SHFAs will be approximately $140,000.

D. Grant Period

Funds awarded shall be available for a period of 12 calendar months.

E. Award Instrument

HUD will use a Grant Agreement. All Housing Counseling Program awards shall be made on a cost reimbursement basis in accordance with the requirements in OMB Circular A-87, Cost Principles for state and local governments and Indian tribal governments; or OMB Circular A-122, Cost Principles for Non-Profit Organizations, as applicable to your organization; and the administrative requirements established in OMB Circular A-102, which was implemented by 24 CFR part 85 (Administrative Requirements for Grants and Cooperative Agreements to state, local, and federally recognized Indian tribal governments); OMB Circular A-110, which was implemented by 24 CFR part 84 (Grants and Agreements with Institutions of Higher Education, Hospitals and Other Non-Profit Organizations); and OMB Circular A-133 which was implemented by 24 CFR parts 84 and 85. Grantees must ensure that any Sub-grantees and/or Branches also comply with the above requirements. OMB circulars can be found at http://www.whitehouse.gov/omb/.

III. Eligibility Information

A. Eligible Applicants

Eligible applicants include (1) HUD-approved Local Housing Counseling Agencies (LHCAs); (2) HUD-approved national and regional intermediaries; and (3) State Housing Finance Agencies (SHFAs).

1. Definitions

a. Applicant. Applicant means a HUD-approved housing counseling agency or SHFA applying for a Housing Counseling grant from HUD through this NOFA. In the case of an LHCA, the term Applicant includes the agency's branch offices, if applicable. In the case of an intermediary, the term Applicant includes the branch offices the Applicant proposes to fund through this NOFA.

b. Grantee. Grantee means the HUD-approved housing counseling agency or SHFA that receives housing counseling funds from HUD through this NOFA. In the case of an LHCA, the term Grantee includes the agency's branch offices, if applicable. In the case of an intermediary, Grantee includes the branch offices the applicant proposes to fund through this NOFA.

c. LHCA. LHCA means a HUD-approved Local Housing Counseling Agency. LHCAs must be approved by one of HUD's four HOCs. Affiliates of HUD-approved Housing Counseling intermediaries are not HUD-approved LHCAs by virtue of their affiliation with the intermediary. They are, however, eligible to individually apply for HUD approval as an LHCA. An LHCA may have only one location or a main office with one or more branch offices within the same state or no more than two contiguous states.

d. Intermediary. Intermediary means a HUD-approved national or regional organization that provides housing counseling services through its branches or affiliates. As used in this NOFA, the term Intermediary refers to any of the following entities:

(1) National Intermediary. A National Intermediary provides housing counseling services through its branches or affiliates in a number of states as determined by HUD.

(2) Regional Intermediary. A Regional Intermediary provides housing counseling services through its branches or affiliates in a generally recognized region or group of regions within the United States of America, such as the Southwest, Mid-Atlantic, and New England.

e. SHFA. For the purpose of this NOFA, a State Housing Finance Agency (SHFA) is the unique public body, agency, or instrumentality created by a specific act of a state legislature and empowered to finance activities designed to provide housing and related facilities and services, for example through land acquisition, construction or rehabilitation, throughout a state. The term state includes the several states, Puerto Rico, the District of Columbia, Guam, the Commonwealth of the Northern Mariana Islands, American Samoa, and the U.S. Virgin Islands.

f. Sub-grantee. Sub-grantee means an organization to which the grantee awards a sub-grant, and which is accountable to the grantee for the use of the funds provided. A Sub-grantee may be separately incorporated or organized, but connected with an intermediary or SHFA for purposes of this NOFA.

In the case of an intermediary or SHFA, all Sub-grantees are identified in the grantee's application. Under certain conditions, grantees may amend their Sub-grantee list after awards are made.

g. Branch. Branch or Branch Office means an organizational and subordinate unit of an LHCA or Intermediary not separately incorporated or organized. A Branch or Branch Office must be in good standing under the laws of the state where it is authorized to do business and where it proposes to provide housing counseling services. A Branch or Brach Office cannot be an affiliate or sub-grantee.

h. Affiliate. Affiliate means a separately incorporated or organized housing counseling agency that is connected with a national or regional intermediary for the purposes of its housing counseling program. Affiliates can be sub-grantees.

2. Eligibility Criteria

Grant categories | Who is eligible | Total amount available
Category 1—LHCAs | HUD-approved LHCAs | $14.351 million.
Category 2—Regional and National Intermediaries | HUD-approved Regional and National Intermediaries | $19.263 million.
Category 3—SHFAs | SHFAs | $2.4 million.

a. Eligible LHCAs and Intermediaries are private or public nonprofit organizations, including grassroots faith-based and other community-based organizations, that secure HUD approval as an LHCA, or as a national or regional intermediary, as of the publication date of the SuperNOFA, and retain such approval through the term of any grant awarded. For information on securing HUD approval visit HUD's Web site at http://www.hud.gov/offices/hsg/sfh/hcc/hccprof13.cfm.

Additionally, to be eligible to receive a grant directly from HUD under this Housing Counseling NOFA, all applicants (except SHFAs) must be (1) duly organized and existing as a nonprofit, (2) in good standing under the laws of the state of its organization, and (3) authorized to do business in the states where it proposes to provide housing counseling services. For example, applicable state licensing, corporate filing, and registering requirements must be satisfied.

(1) HUD-approved LHCAs. HUD-approved LHCAs may apply for and receive: (1) One grant under Category 1; or (2) one sub-grant from an intermediary or SHFA under Category 2 or 3, but not both. The only exception to this rule is that HUD-approved LHCAs that have one or more HECM Network Counselors that receive a grant or sub-grant under Categories 1-3, may also receive a sub-grant, or otherwise be reimbursed, exclusively for HECM counseling activities, from a HUD-approved intermediary that exclusively provides HECM counseling.

HUD-approved LHCAs applying under Category 1 are also eligible for supplemental funding to combat predatory lending, for homeownership voucher counseling, and for Colonias.

Funded LHCAs may not make sub-grants to other HUD-approved LHCAs or non-HUD-approved entities.

(2) HUD-approved National and Regional Intermediaries may only apply for a grant under Category 2. HUD-approved intermediaries are also eligible for supplemental funding to combat predatory lending, for homeownership voucher counseling, and for Colonias.

b. Eligible SHFAs. A SHFA does not need HUD approval in order to apply for a grant through this NOFA. SHFAs may only apply for grants under Category 3. SHFAs are also eligible for supplemental funding to combat predatory lending, for homeownership voucher counseling, and for Colonias.

c. Eligible Sub-grantees of Intermediaries and SHFAs. Eligible sub-grantees of intermediaries and SHFAs are not required to be HUD-approved, although HUD-approved LHCAs may apply to an intermediary or SHFA as a sub-grantee. Intermediaries and SHFAs that award sub-grants to counseling agencies that are not HUD-approved must assure that said organizations meet or exceed the approval standards specified in paragraph 2-1 of HUD Handbook 7610.1, Rev-4, CHG-1. Intermediaries that do not ensure their sub-grantee's compliance with HUD standards could be prohibited from participating in the Housing Counseling Program. These organizations will be monitored by HUD.

Additionally, to be eligible for a sub-grant, a sub-grantee must be (1) duly organized and existing as a nonprofit, (2) in good standing under the laws of the state of its organization, and (3) authorized to do business in the states where it proposes to provide housing counseling services. For example, applicable state licensing, corporate filing, and registering requirements must be satisfied. Additionally, eligible sub-grantees may have only one location or a main office with one or more branch offices within the same state or no more than two adjacent states.

Eligible sub-grantees under Categories 2 or 3 must not have directly applied for or received a grant under Category 1 of this NOFA, or another sub-grant from an intermediary or SHFA under Category 2 or 3 of this NOFA. Sub-grantees may apply for and receive only one sub-grant from an intermediary or SHFA under Category 2 or 3, but not both. The only exception to this rule is that sub-grantees that have one or more HECM Network Counselors that receive a sub-grant from an intermediary or SHFA under Category 2 or 3 may also receive a sub-grant, or otherwise be reimbursed, exclusively for HECM counseling activities, from a HUD-approved intermediary that exclusively provides HECM counseling.

3. Eligibility/Supplemental Funding. No separate application is needed to be eligible for supplemental funding. However, to be eligible, applicants must meet the following requirements.

a. Predatory Lending. To be eligible for the supplemental predatory lending funding, an applicant must: (1) Request the supplemental funding by specifically and separately identifying “Predatory Lending” and providing the specific amount of predatory lending supplemental funding it is requesting in its response to Section V.A.4.c.(1) of this NOFA and by completing an additional copy of page 1 of Form HUD-424 CB, Grant Application Detailed Budget, for the supplemental predatory lending funding the applicant is requesting. Identify “Predatory Lending” in the field entitled “Name of Project/Activity'; (2) identify predatory lending related needs in the target community in their response to Rating Factor 2, (3) include predatory lending related activities in the proposed activities listed in response to Rating Factor 3; (4) indicate in Factor 3 how many individuals will be served with the requested supplemental funding for predatory lending, and (5) respond to all predatory lending related requests for information throughout the NOFA.

b. Homeownership Voucher Counseling. To be eligible for the supplemental funding available for counseling and education in conjunction with HUD's Homeownership Voucher Program, applicants must: (1) Request the supplemental funding by specifically and separately identifying “Homeownership Voucher Counseling” and providing the specific amount of Homeownership Voucher Counseling supplemental funding it is requesting in its response to Section V.A.4.c.(1) of this NOFA and by completing an additional copy of page 1 of Form HUD-424 CB, Grant Application Detailed Budget, for the supplemental Homeownership Voucher Counseling funding the applicant is requesting. Identify “Homeownership Voucher Counseling” in the field entitled “Name of Project/Activity'; (2) respond to all Homeownership Voucher Counseling related requests for information throughout the NOFA; (3) include counseling and other related activities in conjunction with the Homeownership Voucher Program in the proposed activities listed in response to rating Factor 3; (4) indicate in Factor 3 how many individuals will be served with the requested supplemental funding for Homeownership Voucher Counseling; and (5) provide a written commitment to partner from one or more Public Housing Authorities (PHAs) with whom the applicant has an agreement to provide housing counseling to participants of the PHA's Homeownership Voucher Program. Intermediaries and SHFAs proposing to make sub-grants must provide a separate written commitment to partner from a PHA for each proposed sub-grantee. There is no requirement that the PHA commit to partner with the applicant for the provision of all housing counseling services related to its Homeownership Voucher Program, although this would be acceptable.

Written commitments to partner from PHAs do not have to be ratified by the PHA Board, although a formal document, such as a Memorandum of Understanding (MOU) between the PHA and the applicant, is acceptable. The written commitment to partner must be on PHA letterhead, specifically mention the housing counseling agency applicant and proposed sub-grantee, if applicable; and be signed by an authorized PHA official. Moreover, the written commitment to partner must indicate that the PHA is exercising its option to implement the Homeownership Voucher Program and agrees to refer Homeownership Voucher participants to the applicant to fulfill the housing counseling requirement specified in the Homeownership Voucher Program regulations. The written commitment to partner must clearly outline: (1) The broad roles and responsibilities of the PHA and the housing counseling agency applying for funding under this NOFA; (2) the estimated number of Homeownership Voucher Program participants, both pre-purchase and ongoing, to be referred by the PHA to the applicant during the grant period October 1, 2004, to September 30, 2005; (3) the specific PHA requirements for ongoing counseling; and (4) outcome goals.

While no written commitment to partner is required from PHAs approved by HUD as housing counseling agencies, the PHA must estimate the number of voucher participants to be counseled in connection with the Homeownership Voucher Program, and describe the outcome goals to be achieved.

c. Colonias. To be eligible for the supplemental funding available for counseling and education targeted at Colonias, applicants must: (1) Request the supplemental funding by specifically and separately identifying “Colonias” and providing the specific amount of Colonias supplemental funding it is requesting in its response to Section V.A.4.c.(1) of this NOFA and by completing an additional copy of page 1 of Form HUD-424 CB, Grant Application Detailed Budget, for the supplemental Colonias funding the applicant is requesting. Identify “Colonias” in the field entitled “Name of Project/Activity'; (2) identify Colonias-related needs in the target community in their response to Rating Factor 2; (3) respond to all Colonias-related requests for information throughout the NOFA; (4) include counseling and other related activities targeted at Colonias in the proposed activities listed in response to Rating Factor 3; (5) indicate in Factor 3 how many individuals will be served with the requested supplemental funding for Colonias; and (6) demonstrate that the communities that the applicant will target with these funds meet the definition of Colonias provided in Section I.B.1.c. of this NOFA.

B. Cost Sharing or Matching

No specific ratio is required. However, in order to receive points under Rating Factor 4, applicants are required to demonstrate the commitment of other private and public sources of funding to supplement HUD funding for the applicant's counseling program. HUD does not intend for the Housing Counseling grants to cover all costs incurred by an applicant.

C. Other

1. Eligible Activities for Categories (1), (2) and (3) Awards

Grantees and sub-grantees will only be reimbursed for the eligible activities outlined in this Section. Grantees and sub-grantees providing housing counseling services under Categories 1 through 3 may use their HUD housing counseling funds for one or more of the following 8 eligible activities.

a. Pre-Purchase Homebuyer Counseling. This includes the following types of one-on-one counseling: Pre-purchase; evaluating mortgagor readiness; search assistance/mobility; fair housing; budgeting for mortgage payments; money management (does not include debt management plan programs); selecting a real estate agent, and home inspection. This also may include guidance on: Alternative sources of mortgage credit; how to apply for housing assistance; how to identify and avoid predatory lending practices; locating housing which provides universal design and visitability; and referrals to community services and regulatory agencies.

b. Homebuyer Education Programs. These programs are homeownership preparation related education programs in which educational materials, including HUD's Homebuyer Education and Learning Program (HELP) guide, are used in training sessions for multiple participants, and not tailored to the unique circumstances of an individual. This activity also includes financial literacy workshops that are geared toward potential homebuyers, and group sessions that assist potential homebuyers with identifying and avoiding predatory lending practices, such as loans with unreasonable and inappropriate terms and conditions, and other unscrupulous practices intended to defraud or take advantage of homebuyers and borrowers. Applicants that provide homebuyer education must also offer individual counseling that complements the group sessions.

c. Counseling to Resolve or Prevent Mortgage Delinquency or Default. This includes counseling on how to: restructure debt, obtain re-certification for mortgage subsidy, establish reinstatement plans, seek loan forbearance, and manage household finances. This counseling can also include helping clients affected by predatory lending, foreclosure prevention strategies, explaining the foreclosure process, providing referrals to other sources, and assisting clients with locating alternative housing, or pursuing loss mitigation strategies.

d. Non-Delinquency Post-Purchase Counseling on Improving Mortgage Terms, Home Equity Conversion, and Home Improvement. This includes information and advice on finding favorable mortgage loan terms, personal money management, and relations with lenders. It also includes help in converting home equity into cash, such as counseling on HUD's HECM Program. HECM counseling assists clients who are 62 years or older with the opportunity to convert the equity in their homes into income to pay living, medical, or other expenses. This counseling also includes counseling the client about: home improvement and rehabilitation; property maintenance; loan and grant options; the loan or grant application processes; what housing codes and housing enforcement procedures apply for the intended activity; accessibility codes and how to design features to provide accessibility for persons with disabilities; non-discriminatory lending and funding for persons who modify their dwellings to accommodate disabilities; visitability and universal design; how to specify and bid construction work; how to enter into construction contracts; and how to manage construction contracts, including actions to address the non-performance of contractors.

e. Post-Purchase Education Programs. These are post-purchase oriented group sessions in which educational materials are used in training sessions for multiple participants. Topics can include resolving or preventing mortgage delinquency and default, converting home equity into cash, seeking favorable mortgage loan terms, budgeting and financial management, real estate taxes and insurance, and home maintenance. Agencies that provide this service must also offer individual counseling to complement group sessions.

f. Counseling and Education on Locating, Securing, or Maintaining Residence in Rental Housing. This refers to one-on-one counseling and group education sessions regarding renter-related topics, including: helping clients obtain and utilize rent subsidies; pre-rental search assistance/mobility counseling; budgeting for rent payments; educating clients on landlords' and renters' rights; explaining the eviction process; ensuring clients understand their rights when faced with displacement; explaining the responsibility of the entity causing displacement; and providing assistance with locating alternate housing.

g. Counseling on Shelter or Services for the Homeless. Includes referrals to social, community, and homeless services such as emergency shelter or transitional housing.

h. Marketing and Outreach Initiatives. This includes providing general information and materials about housing opportunities and issues, conducting informational campaigns, advocating with lenders for non-traditional lending standards, and raising awareness about critical housing topics, such as predatory lending or fair housing issues. (Note: Affirmative fair housing outreach should be directed at those populations least likely to seek counseling services. To do so, it may be necessary to broaden the target areas or provide translation and interpretive services in languages other than English in order to reach a greater variety of racial and ethnic minorities.)

2. Eligible Activities—Supplemental Funding

a. Predatory Lending. Recipients of supplemental funding for Predatory Lending must use the supplemental funds for any of the marketing and outreach initiatives, group sessions, or one-on-one counseling activities outlined in Section I.C. of this NOFA, in a manner that clearly and directly assists clients affected by predatory lending or helps to prevent predatory lending.

b. Homeownership Voucher Counseling. Recipients of supplemental funding for counseling in conjunction with HUD's Homeownership Voucher Program must use the supplemental funds for any of the group sessions or one-on-one counseling activities outlined in Section I.C. of this NOFA, in a manner that clearly and directly assists recipients of Homeownership Vouchers to utilize those vouchers toward the purchase and maintenance of a home.

According to the Final Rule on the Homeownership Voucher Program (FR-4427-F-02), suggested topics for the HUD-required pre-assistance counseling program include: How to negotiate the purchase price of a home; how to obtain homeownership financing and loan pre-approvals, including a description of types of financing that may be available, and the pros and cons of different types of financing; alternative sources of mortgage credit; how to find a home, including information about homeownership opportunities, schools, and transportation in the PHA jurisdiction; mobility counseling, including purchasing a home outside the PHA's jurisdiction; advantages of purchasing a home in an area that does not have a high concentration of low-income families and how to locate homes in such areas; how to design features to provide accessibility for persons with disabilities; how to obtain funding for modifications that will make housing accessible and available to clients and their family members with disabilities; information on fair housing, including fair housing lending and local fair housing enforcement agencies; information about the Real Estate Settlement Procedures Act (12 U.S.C. 2601 et seq.) (RESPA), state and federal truth-in-lending laws, and how to identify and avoid loans with oppressive terms and conditions; home maintenance; budgeting and money management; and credit counseling.

Counseling services in conjunction with HUD's Homeownership Voucher Program can be adapted to reflect local circumstances, fit the pre- and ongoing post-purchase needs of the individual families, and fulfill specific requirements established by the PHA. The PHA has the discretion to require ongoing counseling for all or select participants in the homeownership option.

For example, agencies may provide on-going counseling on issues such as home improvement and rehabilitation. This could include educating the client about their loan and grant options; the loan or grant application processes; what housing codes and housing enforcement procedures apply for the intended activity; accessibility codes; visitability and universal design; non-discriminatory lending for persons who modify their dwellings to accommodate disabilities; how to identify and hire a construction contractor; how to specify and bid construction work; how to enter into construction contracts; and how to manage construction contracts, including actions to address the non-performance of contractors.

Additional ongoing counseling needs may include default counseling and loss mitigation strategies such as debt restructuring, establishing reinstatement plans, seeking loan forbearance, and managing household finances. Counselors can also help program participants that are affected by predatory lending, provide referrals to emergency and social service providers, and assist clients with locating alternative housing.

c. Colonias. Recipients of this supplemental funding may provide any of the eligible activities outlined in Section I.C., so long as they serve communities that meet the definition of a Colonia provided in Section I.B.1.c. of this NOFA.

3. Threshold Requirements

Applications that do not meet all of the following Threshold Requirements are not eligible to receive an award from HUD.

a. Applicants, and if applicable sub-grantees, must meet the Threshold Requirements in the General Section of the SuperNOFA.

b. Applicants must be currently approved by HUD as an LHCA or as a national or regional housing counseling intermediary, and have secured HUD approval as a housing counseling agency by the publication date of this NOFA. SHFAs must meet the eligibility requirements listed in this NOFA.

c. Applicants that received a HUD Housing Counseling grant or grants through the FY2002 HUD Housing Counseling NOFA, and did not receive an extension approved by HUD, must have drawn-down at least 80 percent of award monies by September 30, 2003, the end of the relevant grant period.

d. Applicants that were for any reason required to submit Form HUD-9902, covering the period October 1, 2002, through September 30, 2003, must have submitted the form to HUD by the extension deadline of January 31, 2004. Applicants that were required to submit the Form HUD-9902 and failed to do so, must submit a copy of the required report with their application, or the application will not be rated and ranked.

e. Code of Conduct. Awardees are required to submit a written code of conduct. For information on this subject, refer to the General Section of the SuperNOFA.

f. Financial Management Systems. Consistent with the requirements of the Single Audit Act Amendments of 1996 (31 U.S.C. 7501-07), if the applicant expended $500,000 or more in Federal awards in its most recent fiscal year, and is selected for funding through this NOFA, the applicant must provide documentation demonstrating that the applicant's financial management systems satisfy the requirements in the applicable regulations at 24 CFR 84.21(b) and 85.20. Such documentation must include a certification from, or most recent audit by, the applicant's Independent Public Accountant that the applicant maintains internal controls over Federal awards; complies with applicable laws, regulations, and contract or grant provisions; and prepares appropriate financial statements. The applicant will have at least 30 calendar days to respond to this requirement. If an applicant does not respond within the prescribed time or responds with insufficient documentation, then HUD may determine that the applicant has not met this requirement and may withdraw the grant offer.

If the applicant has not received a Federal award before and is therefore not subject to the A-133 Audit Requirements, HUD may conduct an accounting system review to ensure that the applicant has an accounting system that meets Federal requirements. If the applicant system does not meet Federal requirements, the applicant may be required to make arrangements for the management of the funds awarded or HUD may make a determination not to award funds due to poor financial management capability.

g. DUNS Requirement. All applicants must have a DUN and Bradstreet Data Universal Numbering Systems number to receive an award of funds from HUD. Please refer to the General Section and HUD's regulation in 24 CFR Part 5 concerning requirements for a DUNS number.

h. Name Check Review. HUD may elect to conduct a name check review for applicants selected for funding. See the General Section of the SuperNOFA for more information on this topic.

4. Program Requirements

Program requirements are outlined in detail in HUD Handbook 7610.1, REV-4, CHG-1, dated October 27, 1997, which can be viewed on HUD's Web site at http://www.hud.gov/offices/hsg/sfh/hcc/hccprof7.cfm.

Additionally, the following also apply:

a. List of HUD-approved Housing Counseling Agencies. Pursuant to section 106(C)(5) of the Housing and Urban Development Act of 1968, HUD maintains a list of all HUD-approved and HUD-funded counseling agencies, including contact information, which interested persons can access. All HUD-approved LHCAs and their branches, and all sub-grantees and their branches under Categories 2 and 3 of this NOFA will be placed on this list and must accept subsequent referrals, or when they do not provide the services sought, refer the person to another organization in the area that does provide the services.

b. Accessibility. All Grantees and sub-grantees must make counseling offices and services accessible to persons with a wide range of disabilities and help persons locate suitable housing in locations throughout the applicant's community, target area, or metropolitan area, as defined by the applicant.

For each of the eight general activities proposed, grantees must be prepared to meet the needs of all individuals requesting services, including persons with disabilities, regardless of the complexity of the services involved. Additionally, services must be affirmatively marketed to persons with disabilities, including visual and hearing disabilities, as they would be to any other segment of the population not likely to apply for such services.

c. Religious Discrimination. Grant recipients and sub-grantees are prohibited from discriminating on behalf of or against any segment of the population in the provision of services or in outreach, including those of other religious affiliations.

Additionally, organizations funded under this program may not engage in inherently religious activities, such as worship, religious instruction, or proselytization, as part of the programs or services funded under this program. If an organization conducts such activities, these activities must be offered separately, in time or location, from the programs or services funded under this part, and participation must be voluntary for the HUD-funded programs or services.

d. Indirect Cost Rate. Grantees must also submit documentation establishing the organization's indirect cost rate. Such documentation may consist of a certification from most recent audit by, or indirect cost rate agreement by, the cognizant federal agency or an Independent Public Accountant. If the grantee does not have an established indirect cost rate, it will be required to develop and submit an indirect cost proposal to HUD, or the cognizant federal agency as applicable, for determination of an indirect cost rate that will govern the award. Applicants that do not have a previously established indirect cost rate with a federal agency shall submit an initial indirect cost rate proposal immediately after the applicant is advised that it will be offered a grant and, in no event, later than three months after the start date of the grant. OMB Circular A-122 established the requirements to determine allowable direct and indirect costs and the preparation of indirect cost proposals, and can be found at http://www.whitehouse.omb.gov. Applicants can review Indirect Cost Training on http://www.hud.gov at: http://www.hud.gov/offices/adm/grants/training/training.cfm

e. Economic Opportunities for Low- and Very Low-Income Persons (Section 3). See General Section.

f. Ensuring the Participation of Small Businesses, Small Disadvantaged Businesses, and Woman-Owned Businesses. See General Section.

g. Sub-grant Agreements. Intermediaries and SHFAs that make sub-grants must execute sub-grant agreements with sub-grantees that clearly delineate the mutual responsibilities for program management, including appropriate time frames for reporting results to HUD. Intermediaries and SHFAs have wide discretion to decide how to allocate their HUD Housing Counseling funding among sub-grantees, with the understanding that a written record must be kept documenting and justifying funding decisions. This record must be made available to sub-grantees and to HUD.

h. Limited English Proficiency. Applicants obtaining an award from HUD must seek to provide access to program benefits and information to persons with limited English proficiency (LEP) through translation and interpretive services in accordance with HUD's published LEP Recipient Guidance.

i. Subcontracting. Grantees and sub-grantees must deliver all of the counseling activities set forth in the applicant's work plan provided in Factor 3 of this NOFA. Subcontracting with other entities is permitted only in geographical areas where no HUD-approved housing counseling agency exists; however, the subcontractor must meet the HUD approval eligibility standards in HUD Handbook 7610.1. In addition, a grantee or sub-grantee that is using grant funds to pay a subcontractor for housing counseling services pursuant to a housing counseling sub-agreement is prohibited from having a controlling interest in that subcontractor or vice versa. In other words, a grantee or sub-grantee cannot use grant funds to pay for housing counseling services by a subcontractor, if the subcontractor is partially or fully-controlled by the grantee or sub-grantee, or affiliate or vice versa.

j. Subsidiaries. A board member, employee/staff or contractor of an organization applying for a housing counseling grant from HUD, or receiving a sub-grant, under this NOFA, shall not be a board member, employee/staff or contractor of any other organization applying for a housing counseling grant from HUD, or receiving a sub-grant, under this NOFA.

IV. Application and Submission Information

A. Addresses To Request Application Package

Applicants may request general information, and copies of the General Section and Program Sections of the SuperNOFA, from the SuperNOFA Information Center (800-HUD-8929 or 800-877-8339 (TTY)) between the hours of 9 a.m. and 8 p.m. (eastern time) Monday through Friday, except on Federal holidays. When requesting information, please refer to the name of the program in which you are interested. Be sure to provide your name, address (including zip code), and telephone number (including area code). To ensure sufficient time to prepare your application, requests for copies of this NOFA can be made immediately following publication of the SuperNOFA. The SuperNOFA Information Center opens for business simultaneously with the publication of the SuperNOFA. You can also obtain information on this NOFA through the Web site www.grants.gov.

There is no application kit. Specific application submission requirements are outlined in this section.

B. Content and Form of Application Submission

In addition to reviewing the instructions below, all applicants should consult the General Section of the SuperNOFA and review the procedures that affect application submission.

1. Packaging

Because applications will be handled by various readers, they must be secured in a binder.

2. Size Limitations

Please be as specific and direct as possible. For LHCAs, responses to each factor must be limited to 10 double-spaced, size 12 font, single-sided pages. Additional submissions by LHCAs will not be read. National and regional intermediaries, and SHFAs, are limited to 20 double-spaced, size 12 font, single-sided pages in response to each factor, and no more than two 4-inch binders in total.

3. Application Checklist

Use the checklist below to organize the application. Include a table of contents and tabs. All pages must be numbered. Unless indicated below, all applicants must submit the following:

a. Standard forms, certifications, and assurances. Submit the following forms with the application. If a form is not applicable, indicate this on the form and submit it anyway. These forms are available at: http://www.hud.gov/offices/adm/grants/fundsavail.cfm.

▪ SF-424, Application for Federal Assistance.

▪ The figure identified by the Applicant in Section 15a. of the Form SF-424 represents the total award being requested by the applicant. This total award should include the amount the applicant is requesting for comprehensive counseling, as well as the amounts of supplemental funding being requested, if applicable. Applicants must specify in Section V.A.4.c.(1), and distinguish between the separate amounts they are requesting for comprehensive counseling and the applicable supplemental funding areas.

▪ SF-424 Supplement—Survey on Ensuring Equal Opportunity for Applicants.

▪ SF-424B, Assurances Non-Construction Programs.

▪ HUD-424CB, Grant Application Detailed Budget.

▪ While the form is designed for multiple year grants, applicants to this NOFA should assume a one-year grant period. Applicants requesting supplemental funding must complete an additional copy of page 1 of Form HUD-424 CB, Grant Application Detailed Budget, for each type of supplemental funding the applicant is requesting. Identify the type of supplemental funding in the field entitled “Name of Project/Activity.”

▪ HUD-9902, Housing Counseling Agency Fiscal Year Activity Report.

▪ SF-LLL, Disclosure of Lobbying Activities (if applicable).

▪ HUD-2880, Applicant/Recipient Disclosure/Update Report (if applicable).

▪ HUD-2990, Certification of Consistency with the RC/EZ/EC Strategic Plan (if applicable).

▪ HUD-2991, Certification of Consistency with the Consolidated Plan (if Applicable).

▪ HUD-96010, Program Outcome Logic Model.

▪ HUD-2994, Client Comments and Suggestions (optional).

▪ HUD-2993, Acknowledgement of Application Receipt.

▪ HUD-27300, Questionnaire for HUD's Initiative on Removal of Regulatory Barriers (see Appendix A to General Section).

b. Statutory Authority / SHFAs. SHFAs must submit evidence of their statutory authority to operate as a SHFA, as defined in this NOFA, and apply for and use, any funds awarded.

c. Form HUD-9902, Housing Counseling Agency Fiscal Year Activity Report, for Fiscal Year October 1, 2002, through September 30, 2003. If applicable, in the space provided on the form, indicate the amount of the FY2002 HUD grant(s) or sub-grant(s) the applicant received that corresponds with this data. If the applicant did not participate in HUD's Housing Counseling Program during the period October 1, 2002, through September 30, 2003, this report should be completed to reflect the applicant's counseling workload and budget during that period. A copy of this form is included in Appendix A of this NOFA.

d. Written Commitment to Partner. For applicants applying for Supplemental Funding for Homeownership Voucher Counseling, and for applicants proposing to counsel clients in conjunction with HUD's Homeownership Voucher Program with comprehensive counseling funds, provide a copy of a written commitment to partner from each PHA with which the applicant, and if applicable proposed sub-grantees and branches, have entered into an agreement, as described in Section III of this NOFA.

e. National and Regional Intermediaries must provide a list of the states in which they maintain offices, including the central office and all affiliates or branch offices. Provide this information for all affiliates and branch offices, not just the ones the applicant proposes to fund through this grant.

f. Organization Description. Provide a brief description, no more than 225 words, of the applicant's history and activities as it would like it to appear in the press release issued by HUD in the event that the applicant is funded through this NOFA.

g. Narrative statements addressing the Rating Factors in Section V below.

C. Submission Dates and Times

1. Application Due Date

The application due date is June 23, 2004. Please see the General Section of the SuperNOFA for application submission, delivery, and timely receipt requirements.

2. Proof of Timely Submission

See the General Section of the SuperNOFA for more information on this topic.

D. Intergovernmental Review

The Housing Counseling Program is not subject to Intergovernmental Review. See the General Section of the SuperNOFA for more information on this topic.

E. Funding Restrictions

1. Funding is limited to the eligible activities described in Section III.C. of this NOFA.

2. Pre-award Costs. Applicants selected for award must receive prior HUD approval to incur costs prior to the date of the grant agreement. Grantees may incur pre-award costs 90 calendar days prior to the effective date of the grant agreement. All pre-award costs are incurred at the applicant's risk and HUD has no obligation to reimburse such costs if the award is inadequate to cover such costs or the award offer is withdrawn because of the applicant's failure to satisfy the requirements of this NOFA.

F. Other Submission Requirements

1. Application Submission Procedures. See the General Section of the SuperNOFA for mailing instructions and procedures and acceptance of hand-carried submissions.

2. Category 1 and Category 3. LHCAs applying under Category 1 and SHFAs applying under Category 3 must submit an original and two copies of a complete application to the contact person listed for the HOC whose jurisdiction includes the geographic area in which the applicant is proposing to provide services (see Section VII.A. of this NOFA.) The envelope should be clearly marked “FY 2004 Housing Counseling Grant Application (indicate Category 1 or 3.)”

3. Category 2. National and regional intermediaries applying under Category 2 must submit an original and two copies of a complete application to: Director, Program Support Division; Office of Single Family Housing; Robert C. Weaver Federal Building; 451 Seventh Street, SW., Room 9274; Washington, DC 20410. The envelope should be clearly marked, “FY 2004 Housing Counseling Intermediary Application.”

V. Application Review Information

A. Criteria

The Factors for Award, and maximum points for each factor, are outlined below. These factors will be used to evaluate applications under Categories 1-3, and the maximum number of points for each applicant is 102 points for LHCAs and 100 for all other applicants.

1. Bonus Points

LHCAs are eligible for 2 bonus points. Section V(A)(1)(a) of the General Section of the SuperNOFA, entitled “RC/EZ/EC,” contains additional information regarding these bonus points.

2. Additional Information

HUD may rely on information from performance reports, financial status information, monitoring reports, audit reports, and other information available to HUD in making score determinations under any Rating Factor.

3. Responses to Factors for Award

Responses to the following rating factors should provide HUD with detailed quantitative and qualitative information and relevant examples regarding the housing counseling work of the organization.

Applicants applying for supplemental funding must describe the relevant Predatory Lending, Homeownership Voucher Counseling, and/or Colonias-related needs and corresponding activities. The Rating Factors below contain requests for additional information from applicants interested in this supplemental funding.

In responding to the various factors and sub-factors, intermediaries and SHFAs should not submit a separate response for each proposed sub-grantee and branch, but should provide a summary response for their entire network, highlighting individual activities, partnerships, needs or results when appropriate.

4. Rating Factors Used To Evaluate and Rate Applications

a. Rating Factor 1: Capacity of the Applicant and Relevant Organizational Staff (35 Points). HUD uses responses to this Rating Factor to evaluate the readiness and ability of an applicant, and if applicable proposed sub-grantees and branches, to immediately begin, and cost-effectively and successfully implement, the proposed work plan.

(1) Applicants must provide the following information. Applicants may use the following outline as a convenient format:

(a) Number of full-time (35 hours + per week) housing counselors working for the applicant, or if applicable, proposed sub-grantees or branches;

(b) Number of part-time housing counselors working for the applicant, or if applicable, proposed sub-grantees or branches;

(c) Number of bilingual housing counselors working for the applicant, or if applicable, proposed sub-grantees or branches;

(d) Average years of housing counseling experience for counselors working for the applicant, or if applicable, proposed sub-grantees or branches;

(e) Average years of housing counseling program management experience for the project director(s) for the applicant, or if applicable, proposed sub-grantees or branches;

(f) Average hourly labor rate for housing counselors working for the applicant, or if applicable, proposed sub-grantees or branches;

(g) Average hours of housing counseling per client, for the period October 1, 2002, through September 30, 2003, for each of the following applicable service types, including follow-up:

(i) Pre-purchase Counseling.

(ii) Homebuyer Education.

(iii) Delinquency/Default Counseling.

(iv) Non-Delinquency Post-Purchase Counseling.

(v) Home Equity Conversion Mortgage (HECM) Counseling.

(vi) Post-Purchase Education.

(vii) Rental Counseling.

(viii) Homeless/Displacement Counseling.

(ix) Predatory Lending Counseling.

(x) Homeownership Voucher Counseling and Education.

(xi) Other (describe).

(h) FY2002 HUD housing counseling grant(s) or sub-grant(s), if applicable. If the applicant received one or more FY2002 HUD housing counseling grants or sub-grants covering the period October 1, 2002-September 30, 2003, indicate the grant amounts and make sure that these grants are properly recorded in section 8 of the Form HUD-9902 submitted with this application.

(i) FY2002 total housing counseling budget, covering the period October 1, 2002-September 30, 2003, including HUD housing counseling grant(s) or sub-grants, if applicable, as well as other resources leveraged specifically for housing counseling. Do not include funds for down payment or closing cost assistance, Individual Development Accounts, emergency services, or other resources not used for the direct provision of housing counseling.

(j) Total number of clients served under the “HUD Grant Activities” column, if applicable, on the Form HUD-9902 submitted with this application, covering the grant period October 1, 2002, through September 30, 2003. This figure should represent individuals served entirely with HUD housing counseling grant or sub-grant funding. If it does not, the applicant must prorate their response to reflect a figure representing services provided with only funding from a HUD housing counseling grant(s).

(k) Total number of clients served under the “All Counseling Activities” column on the Form HUD-9902 submitted with this application, covering the grant period October 1, 2002 through September 30, 2003. This total should reflect all the counseling activities performed by the applicant, and if applicable Affiliates and Branches, during the grant period, both with HUD Housing Counseling grant or sub-grant funds, if applicable, and with other leveraged resources.

(l) The number of clients recorded on the Form HUD-9902 submitted with this application, covering the period October 1, 2002, through September 30, 2003, that participated only in Homebuyer Education Workshops or other types of classes offered as group sessions:

(i) Under the “HUD Grant Activities” column, if applicable;.

(ii) Under the “All Counseling Activities” column.

(m) The number of clients recorded on the Form HUD-9902 submitted with this application, covering the period October 1, 2002, through September 30, 2003, that participated in one-on-one counseling only:

(i) Under the “HUD Grant Activities” column, if applicable;

(ii) Under the “All Counseling Activities” column.

(n) The number of clients recorded on the Form HUD-9902 submitted with this application, covering the period October 1, 2002, through September 30, 2003, that participated in group sessions and also received one-on-one counseling:

(i) Under the “HUD Grant Activities” column, if applicable;

(ii) Under the “All Counseling Activities” column;

(o) If applicable, for the grant period October 1, 2002, through September 30, 2003, indicate:

(i) The number of individuals and families counseled by the applicant that participated in HUD's Homeownership Voucher Program;

(ii) The number of clients that received one-on-one counseling from the applicant related to predatory lending, or if applicable, from sub-grantees and branches;

(iii) The results of one-on-one counseling pertaining to predatory lending, including the number of clients for whom loans have been successfully restructured, credit fixed, and the success of other loss mitigation strategies;

(iv) The number of clients that participated in group educational sessions related to predatory lending.

(p) For intermediaries and SHFAs, the number of sub-grantees and branches that received funding from the applicant through an FY2002 HUD housing counseling grant(s), if applicable, covering the period October 1, 2002-September 30, 2003.

(q) For intermediaries and SHFAs, the total number of sub-grantees and branches that received funding, specifically for housing counseling, from the applicant, both through an FY 2002 HUD housing counseling grant(s), if applicable, or other sources of funds, during the grant period October 1, 2002, to September 30, 2003.

(2) (7 points) Knowledge and Experience. Demonstrate that the applicant, including if applicable proposed sub-grantees and branches, has sufficient personnel with the relevant knowledge and experience to implement the proposed activities in a timely and effective manner, and bilingual language skills, if appropriate.

Specifically, for LHCAs, scoring will be based on the number of years of recent and relevant experience of Housing Counseling Program project directors and recent housing counseling and relevant experience of housing counselors.

For national and regional intermediaries and SHFAs, scoring will be based on: the number of years of recent and relevant experience of project directors of proposed sub-grantees and branches; the number of years of recent housing counseling and relevant experience of counselors in proposed sub-grantees and branches; and the number of years, for key intermediary or SHFA personnel, of recent experience running a housing counseling program consisting of a network of multiple housing counseling agencies.

Related experience, such as experience in mortgage lending will also be considered, but will not be weighted as heavily as direct housing counseling or housing counseling program management experience. HUD will also factor in other information that demonstrates the capacity of the applicant, such as relevant trainings and competency exams and certifications.

(a) Submit the names and titles of employees, including subcontractors and consultants, performing the activities proposed in Rating Factor 3. Clerical staff should not be listed. Describe each employee's, subcontractor's, or consultant's relevant professional background and experience, and bilingual language skills, if applicable. Experience is relevant if it corresponds directly to projects of a similar scale and purpose. Individual descriptions should be limited to one page, and do not count toward narrative page limitations. Provide the number of years of experience for each position listed, and indicate when each position was held. Indicate whether the position is full-time or part-time, and in the case of part-time positions, provide the number of hours per week.

National and regional intermediaries and SHFAs should summarize in a single chart listing, each applicable employee, subcontractor, and consultant of your proposed sub-grantees or branches, the number of years of direct counseling or counseling program management experience, and the number of years or relevant experience. Please total each column.

(b) All applicants must indicate whether counselors in their agency, or if applicable, proposed sub-grantees and branches are required to take and pass an exam evaluating housing counseling competency. Describe the test and testing process and the implications of the exam.

(c) Indicate for each counselor listed the specific counseling activities with which they have experience, distinguishing between group sessions and one-on-one counseling, and the relevant number of years of experience for each counseling type. In scoring this section, HUD will evaluate whether the applicant has experience providing the proposed services.

Applicants for supplemental funding for Homeownership Voucher Counseling must provide detailed information regarding the Homeownership Voucher Program-related experience of the applicant and each PHA with whom the applicant, or its proposed sub-grantees and branch offices have a written commitment to partner, including the number of years of experience that the applicant and partnering PHA(s) have working with HUD's Homeownership Voucher Program. If different from the applicant, explain what counseling agency or other organization provided the housing counseling related to the PHA's program.

Similarly, applicants for supplemental funding for predatory lending and Colonias must specify the predatory lending or Colonias-specific experience of project directors and counselors and the organization. Applicants for Colonias supplemental funding must also highlight the bilingual capacity of relevant counselors.

(d) Indicate for all housing counselors and project directors the specialized trainings and certifications received relevant to the proposed activities. Indicate when the training was received and who provided it.

Applicants for supplemental funding must also indicate whether or not relevant staff has received recent and relevant specialized training. For example, applicants for supplemental funding for predatory lending must indicate if relevant personnel received FHA loss mitigation training or other training relevant to predatory lending.

(3) (9 points) Quality and Complexity of Services. In scoring this Section, HUD will evaluate the quality of, the variety of, and the level of effort and time associated with the housing counseling services provided by the applicant during the period October 1, 2002, to September 30, 2003, both with HUD housing counseling grant funds, if applicable, and with other resources leveraged for housing counseling. For applicants that did not receive an FY2002 HUD housing counseling grant, the analysis will be based on services provided with other sources of funding.

(a) Applicants must carefully document the various types of housing counseling and education services provided during the period October 1, 2002, through September 30, 2003, both with FY2002 HUD grant funds, if applicable, and other resources leveraged for housing counseling. Also describe follow-up activities, if applicable.

If applying for supplemental funding for predatory lending, describe the applicant's activities for the grant period October 1, 2002, to September 30, 2003, in assisting individuals, through outreach and group education, in identifying and avoiding predatory lending. For example, describe group workshops, community meetings, mass media, or material distribution (provide copies of relevant letters, brochures, etc.) Also describe the applicant's outreach strategy, including the various types of individuals targeted (e.g., sub-prime borrowers, elderly homeowners with substantial equity in their homes, etc.), explain the rationale for targeting specific areas, types of community forums that are effective, methods through which ideas and materials are disseminated, and all other relevant information.

Also, if applicable, describe efforts through one-on-one counseling for the period October 1, 2002, to September 30, 2003, to assist individuals in identifying and avoiding predatory lending, and describe efforts through one-on-one counseling to assist clients affected by predatory lending.

If applying for supplemental Homeownership Voucher Counseling funds, describe counseling and education activities during the period October 1, 2002, to September 30, 2003, performed in conjunction with HUD's Homeownership Voucher Program.

If applying for supplemental funding for Colonias, describe the applicant's activities for the grant period October 1, 2002, to September 30, 2003, in assisting individuals in Colonias.

(b) Describe the level of effort and time required to provide the housing counseling services described in part (a) and to meet the needs of clients. Explain the average counseling time per client figures provided in Section V.A.4.a.(1). Scoring will be based on the degree to which the applicant demonstrates that, as compared to similar applicants, sufficient time, and resources were devoted to ensure that clients received quality counseling.

(c) Explain the figures provided in Section V.A.4.a.(1) regarding group session participation and one-on-one counseling. Describe how clients come to participate in one or the other, the relationship between the two, and the role that each plays in the applicant's overall service provision.

Applicants for supplemental funds should also provide this information for the activities relevant to the specific supplemental funding for which they are applying.

Scorers will evaluate the extent to which, as compared to similar applicants, an agency encouraged and provided one-on-one counseling, which HUD considers the most effective form of housing counseling, instead of over-relying on homebuyer education workshops and other forms of group sessions.

(d) Indicate whether the applicant, and if applicable, affiliates and branches, utilized an on-line Client Management System during the grant period October 1, 2002, to September 30, 2003. If a system was used, identify which system.

(4) (9 points) Impact/Outcomes. In scoring this Section, HUD will evaluate the applicant's, and if applicable, affiliates' and branches', clients served numbers for the grant period October 1, 2002, to September 30, 2003. The quantity of clients the applicant was able to serve will be compared to similar applicants providing similar services. Clients served numbers will also be analyzed in the context of the total housing counseling budget, which applicants must provide, FY2002 HUD housing counseling grant(s), if applicable, costs; spending decisions; the types of services provided; level of effort expended; and the performance of similar applicants providing similar services. HUD will also consider the degree to which the services provided are time and resource intensive.

Additionally, HUD will evaluate the geographic coverage of the applicant's activities for the grant period October 1, 2002, through September 30, 2003. For national and regional intermediaries and SHFAs, the number of sub-grantees under an FY2002 HUD housing counseling grant(s), if applicable, and the overall size of the housing counseling network during that period will be factors in the scoring.

(a) To evaluate the applicant's program results, provide a context for, or qualify, the number of clients indicated, on the Form HUD-9902 submitted with this application, and in SectionV.A.4.a.(1), were served under the column “All Counseling Activities.” This total should reflect all the counseling activities performed by the applicant during the period 10/1/02 through 9/30/03, both with HUD housing counseling grant funds, if applicable, and with other leveraged resources. Indicate how location, counseling and client type, and expenses may have affected client volume.

If the applicant received one or more FY2002 HUD housing counseling grants, indicate differences in how the HUD grants were spent compared to other leveraged resources. Justify expenses and explain why they were reasonable, strategic, and appropriate for the counseling activities identified above.

If applying for supplemental funding, quantify the applicant's relevant predatory lending, Homeownership Voucher Counseling, and Colonias results during the period 10/1/02 through 9/30/03 and provide the total budget for each. For example, if applying for supplemental funding for Homeownership Voucher Counseling, provide the number of families that participated in the applicant's Homeownership Voucher Program in the past complete fiscal year, and the number of current homeowners receiving voucher assistance to date, and other notable outcomes and information demonstrating the effectiveness of the existing program. Provide the same information for PHAs with whom the applicant, and if applicable, proposed sub-grantees and branches have written commitments to partner.

(b) National and regional intermediaries and SHFAs that received one or more FY2002 HUD housing counseling award(s) for the grant period October 1, 2002, to September 30, 2003, must also indicate what percentage of their award(s) was passed through directly to sub-grantees or branches, and explain how funds not passed through were spent.

LHCAs applying under Category 1 that received one or more FY2002 HUD housing counseling award(s) for the grant period October 1, 2002, to September 30, 2003, must indicate what percentage of their award(s) was spent on the salaries and benefits of housing counselors and project director. Explain how other funds were spent.

Applicants that did not receive a FY2002 HUD housing counseling grant should characterize their performance through other housing counseling funding sources.

(c) LHCAs must list all branch offices for the grant period October 1, 2002, through September 30, 2003. Also describe the applicant's geographic coverage for that period. For example, indicate the percentage of a metropolitan area covered by the grantee, and indicate if the applicant operated in more than one state.

National and Regional Intermediaries and State Housing Finance Agencies must identify the sub-grantees, affiliates and branches, and corresponding states, the applicant provided housing counseling funding, for the period October 1, 2002, through September 30, 2003, through:

(i) FY2002 HUD housing counseling grant funds, if applicable;

(ii) All housing counseling resources.

(5) (6 points) Performance. In scoring this section, HUD will evaluate the applicants performance in relation to pre-established performance goals. Additionally, results of HUD monitoring will be factored into the scoring.

(a) So HUD can evaluate the applicant's performance at meeting goals, indicate prior goals for the outcome categories listed below that correspond to the results shown on the Form HUD-9902 submitted with this application, covering the grant period, October 1, 2002, to September 30, 2003, under the “All Grant Activities” column, and the “HUD Grant activities” column:

(i) The number of individuals receiving pre-purchase counseling that purchased a home;

(ii) The number of individuals receiving pre-purchase counseling that are working toward becoming mortgage ready;

(iii) The number of individuals receiving pre-purchase counseling that, after evaluating their unique financial situation and the costs of homeownership, elected not to purchase a home;

(iv) The number of individuals receiving default counseling that successfully avoided foreclosure;

(v) The number of individuals seeking help in locating or securing residence in rental housing that found alternative rental housing.

For applicants applying for the predatory lending supplemental funding, the number of clients affected by predatory lending counseled that were able to have their mortgage modified, refinanced, or otherwise assisted to avoid foreclosure. Compare these outcome goals with the applicant's actual performance outcomes for these categories, reported in the Form HUD-9902 submitted with this application, covering the grant period October 1, 2002, to September 30, 2003. Characterize the applicant's performance at meeting its goals regarding activities for that time period. Explain any differences between goals and results. Describe relevant market conditions and other circumstances that affected reported outcome numbers.

If the applicant did not establish outcome projections/goals for these specific categories prior to the grant period October 1, 2002, to September 30, 2003, indicate the specific quantitative goals that it did make, if any, and explain any difference between goals and results.

[Note: Starting with the FY2003 HUD Housing Counseling NOFA, applicants were asked to provide projections in Factor 5 for the specific categories listed above. Form HUD-9902 data submitted with the FY2005 NOFA will be compared to those projections. In other words, in that NOFA and in ensuing NOFAs, HUD will evaluate the degree to which actual performance on a grant, as reported through the Form HUD-9902, compares to the corresponding outcome projection made by applicants when applying for those funds.]

(b) If the applicant received a FY2002 HUD housing counseling grant covering the period October 1, 2002-September 30, 2003, indicate the number of clients that it proposed to serve with its HUD grant in Factor 3 of the FY2002 Housing Counseling NOFA application (submitted May 17, 2002), and compare it with the number attributed to the HUD grant appearing on the Form HUD-9902 form submitted with this application, covering October 1, 2002-September 30, 2003, which corresponds to the FY2002 application and resulting award. Explain any differences between goals and results, including differences in proposed and actual grant amounts.

Applicants that did not apply for or receive a FY2002 HUD housing counseling grant(s) should characterize their performance at meeting performance goals proposed in applying for and implementing other housing counseling funding sources.

(c) Significant findings on biennial reviews conducted by HUD staff will be taken into consideration when scoring this Section. Explain how the applicant has taken steps to address and correct any significant findings, if applicable.

(6) (4 points) Grant Requirements / Compliance. In scoring this Section, HUD will evaluate how well the applicant satisfied the requirements, including reporting and grant document execution, of its FY2002 HUD housing counseling grant, for the grant period October 1, 2002, to September 30, 2003, and its ability to spend all grant funds allotted to them. If the applicant did not receive an FY2002 HUD grant, base the response on activities and requirements under other sources of funding, such as other federal, state, or local grant awards.

(a) Characterize the applicant's performance with regards to the timeliness and completeness with which they satisfied grant document execution and reporting requirements, such as Form HUD-9902 submission, and quarterly (if applicable), mid-term and final reports.

(b) Also, indicate whether or not the applicant fully expended grant awards during the grant period October 1, 2002, to September 30, 2003. If not fully expended, indicate the percentage of funds that went unspent, and provide an explanation as to the reason why the funds were not fully expended and the steps the applicant has taken to ensure that future funding will be expended in a timely manner. To receive full credit, 100 percent of grant funds must have been expended in a timely manner.

b. Rating Factor 2: Need/Extent of the Problem (10 Points). This factor addresses the extent to which there is a need for funding the proposed activities described in the applicant's response to Rating Factor 3, and the degree to which the applicant's work plan substantively addresses departmental policy priorities.

(1) (5 points) Needs Data. Provide current or recent economic and demographic data, and any other evidence, that demonstrates housing counseling need relevant to the target area. All proposed activities must have corresponding need-related data. Sources for all data provided must be clearly cited. Do not submit copies of reports or tables.

To the extent that the community the applicant serves has documented need in its Consolidated Plan, Analysis of Impediments to Fair Housing Choice (AI), or other planning documents, reference these in the response. Economic and demographic data must include persons with disabilities located in the target area. The U.S. Census Bureau, for example, maintains disability data by state, county, and metropolitan statistical area (MSA) at the following Web site address: http:www.census.gov/hhes/www/disability.html. Additionally, the HUD USER Research Information Service and Clearinghouse, available at http://www.huduser.org/, allows users to search over 800 HUD publications by subjects and keywords.

Applicants applying for predatory lending supplemental funding must provide current or recent economic and demographic data, and any other evidence, that demonstrates the prevalence and impact of predatory lending within the target area.

Applicants proposing counseling in conjunction with HUD's Homeownership Voucher Program must demonstrate that the local market will support affordable homeownership. For example, describe the income and wealth characteristics of Homeownership Voucher Program participants, such as average income as a percent of area median income, and average savings available for downpayment, and then demonstrate the availability in the local market of homes that are affordable to these participants. National and regional intermediaries and SHFAs must provide this information for each sub-grantee or branch included in their application that they propose to provide this activity.

In scoring this Section, HUD will evaluate the degree to which the applicant is able to provide current or recent economic and demographic data, and any other evidence, that demonstrates housing counseling need relevant to the target area and the activities proposed in Rating Factor 3. Applicants that fail to identify current or recent objective data will receive no points for this factor.

(2) (5 points) Departmental Policy Priorities. The Departmental policy priorities are described in detail in the General Section of the SuperNOFA. Of those listed, the following four apply to the Housing Counseling Program for the purpose of this NOFA. Indicate if and describe how the applicant's work plan substantively addresses each of these departmental policy priorities.

In scoring this section, the applicant will receive one point for each of the departmental policy priorities (a)-(c) that its work plan substantively addresses. Up to 2 points are available for priority (d). See the General Section of the SuperNOFA for more information on each priority. If the activities are not part of the applicant's work plan in Factor 3 of this NOFA, the applicant will not get any points for the policy priority.

(a) Providing Increased Homeownership and Rental Opportunities for Low- and Moderate-Income Persons, Persons with Disabilities, the Elderly, Minorities, and Families with Limited English Proficiency.

(b) Providing Full and Equal Access to Grassroots Faith-Based and Other Community-Based Organizations in HUD Program Implementation.

(c) Participation of Minority-Serving Institutions in HUD Programs.

(d) Removal of Regulatory Barriers to Affordable Housing. See the General Section of the SuperNOFA for more information on the criteria involved with this priority. All applicants must submit Form HUD-27300, Questionnaire for HUD's Initiative on Removal of Regulatory Barriers (see Appendix of General Section).

c. Rating Factor 3: Soundness of Approach / Scope of Housing Counseling Services (40 Points). This factor addresses the quality and effectiveness of the applicant's proposed housing counseling activities. If the response to any of the sub-factors in Factor 3 is identical to the response in Factor 1 and will not change, for example for proposed activities, staff allocation, hours per client for each counseling, etc., it is sufficient to simply indicate this and not repeat the same language provided previously. Any changes should be highlighted without repeating text from Factor 1.

(1) Applicants must provide the following information. Applicants may use the following outline as a convenient format.

(a) The amount of funding being requested for Comprehensive Counseling, and for supplemental funding, if applicable.

(i) To distinguish the Comprehensive Counseling portion of the award the applicant is requesting from requested supplemental funding, the amount must be labeled “Comprehensive Counseling.”

(ii) Also, indicate the separate amounts, if applicable, the applicant is requesting for supplemental funding. To distinguish between the types of supplemental funding, and the “Comprehensive Counseling” portion of the requested award, the amounts must be labeled “Predatory Lending,” “Homeownership Voucher Counseling,” and “Colonias.” The following sample is suggested as a convenient format. Amounts provided are simply examples:

Funding type | Amount
Comprehensive Counseling | $40,000
Predatory Lending | $20,000
Homeownership Voucher Counseling | N/A
Colonias | $25,000

(b) Projected Clients Served. Provide the following figures. Do not provide ranges or percentages, but a specific numbers of clients. These amounts should represent individuals to be served entirely with HUD housing counseling funding. If, in reality, various funding sources will contribute to the services provided each individual, the applicant must prorate their response to reflect a figure representing services provided with only funding from the proposed grant.

(i) The total number of clients the applicant projects it, and if applicable, sub-grantees, will serve under the total proposed HUD grant, including all requested supplemental funding.

(ii) If requesting supplemental funding, indicate the specific number of clients the applicant projects it, or if applicable, sub-grantees, will serve under the comprehensive counseling portion of the requested award.

(iii) If requesting supplemental funding, separately indicate for each specific type of supplemental funding being requested, the number of clients the applicant projects it, or if applicable, sub-grantees, will serve under the proposed supplemental funding.

(c) Average hours of housing counseling the applicant estimates per client, for each of the following activities the applicant proposes, including follow-up:

(i) Pre-purchase Counseling;

(ii) Homebuyer Education;

(iii) Delinquency/Default Counseling;

(iv) Non-Delinquency Post-Purchase Counseling;

(v) Home Equity Conversion Mortgage (HECM) Counseling;

(vi) Post-Purchase Education;

(vii) Rental Counseling;

(viii) Homeless/Displacement Counseling;

(ix) Predatory Lending Counseling;

(x) Homeownership Voucher Counseling and Education;

(xi) Other (describe).

(c) The total number of clients that will receive only Homebuyer Education Workshops or other types of classes offered as group sessions with the proposed award in general, and under each of the applicable supplemental funding types.

(d) The number of clients that will participate in one-on-one counseling only, with the proposed award in general, and under each of the applicable supplemental funding types.

(e) The number of clients that will participate in group sessions and also receive one-on-one counseling, with the proposed award in general, and under each of the applicable supplemental funding types.

(f) The proposed average hourly labor-rate for housing counselors working for the applicant, affiliate, or branch network, if applicable, including benefits.

(g) For national and regional intermediaries and SHFAs, the total number of sub-grantees and branches, and corresponding number of states, that the applicant estimates will receive funding through the proposed FY2004 HUD Housing Counseling Grant. If applying for supplemental funding, indicate the number of sub-grantees and branches the applicant estimates for comprehensive counseling, and for each type of supplemental funding requested.

(h) For intermediaries and SHFAs, the total number of sub-grantees and branches that the applicant estimates will receive funding, specifically for housing counseling, from the applicant, both through the proposed FY2004 HUD Housing Counseling Grant, and other sources of funds, during the grant period October 1, 2004, to September 30, 2005.

(2) (16 points) Work Plan/Quality and Complexity of Services. In scoring this Section, HUD will consider the types and variety of housing counseling and education services being offered, and other activities occurring in support of the applicant's housing counseling program.

In scoring this section, HUD will also evaluate the quality of the applicant's proposed housing counseling services, and level of effort and time associated with providing the proposed counseling services to the number of clients it estimates it will serve. Scoring will be based on the degree to which the applicant demonstrates that, for each type of counseling service delivered, and compared to other applicants, sufficient time and resources will be devoted to ensure that clients receive quality counseling.

Additionally, scorers will evaluate the extent to which, as compared to similar applicants, an applicant will encourage and provide one-on-one counseling, which HUD considers the most effective form of housing counseling, instead of over-relying on homebuyer education workshops and other forms of group sessions. HUD will also factor in other information that increases the likelihood that quality counseling will occur, such as the use of Client Management Systems.

(a) Describe the various types of housing counseling and education services, and if applicable intermediary activities, including training, the applicant proposes to undertake, and identify the geographic area the services will cover. Also, describe planned follow-up activities, if applicable. Applicants must also identify housing counselors in their agency, and if applicable proposed sub-grantees and branches, that are AARP tested and certified HECM Network Counselors.

To receive full credit in this section, applicant work plans must include both pre-purchase counseling and post-purchase counseling, including default counseling, and a broad array of counseling services in general. Additionally, proposed housing counseling staff must include one or more, depending on the size of the Applicant, AARP tested and certified HECM Network Counselors.

Intermediaries and SHFAs must also:

(i) Describe the housing counseling and education activities to be provided by proposed sub-grantees and branches, explicitly stating the types of services to be offered, preferably in a chart;

(ii) Describe the applicant's legal relationship with sub-grantees (i.e. membership organization, field, or branch office, subsidiary organization, etc.);

(iii) Explain the process that will be used to determine sub-grantee funding levels and distribute funds. If applicable, indicate how sub-grantee funding levels are adjusted on an on-going basis based on performance.

(b) Describe the level of effort and time the applicant anticipates is required to provide the proposed counseling services to, and meet the needs of, the number of clients it indicates in Section V.A.4.c.(1) that it will serve with the proposed grant. Explain and describe the activities corresponding to the average counseling time figures for each counseling type provided in Section V.A.4.c.(1).

(c) Explain the figures provided in Section V.A.4.c.(1) regarding proposed group session participation and one-on-one counseling. Describe how clients are selected for one or the other, the relationship between the two, and the role that each will play in the overall service provision.

(d) Indicate the names and titles of employees, including subcontractors and consultants, allocated to each proposed activity, as well as the corresponding staff hours for each task, and demonstrate that the applicant has the human resources to accomplish the proposed activities and serve the number of individuals the applicant proposes to serve.

(e) Indicate whether the applicant, or if applicable, proposed sub-grantees and branches, will utilize an on-line Client Management System in administering the proposed grant. If a system or systems will be used, identify which system(s).

(3) (6 points) Coordination. In scoring this Section, HUD will consider the extent to which, as compared to similar applicants, the applicant can demonstrate it will coordinate proposed activities with other organizations, and if applicable with other services and products offered by the applicant's organization, in a manner that benefits their clients. Scoring will also be based on the degree to which the applicant takes steps to avoid conflicts of interest, and discloses to clients that they have a choice in matters such as the loan product they choose and the house that they purchase.

(a) Describe partnerships and efforts to coordinate proposed activities with other organizations, including, but not limited to, emergency and social services providers, lending organizations, homeowner insurance providers, down payment and closing cost assistance programs, and nonprofit housing providers. For example, describe agreements with lenders regarding non-traditional lending standards. Any written agreements or memoranda of understanding in place should be described and copies provided.

National and regional intermediaries, and LHCAs if applicable, should also highlight internal products and functions, such as loan products available to clients, downpayment and closing cost assistance programs, as well as internal affordable housing programs that can be a resource for clients.

Applicants requesting supplemental funding should highlight the partnerships or internal products that are relevant to the proposed predatory lending, Homeownership voucher counseling, or Colonias activities. For example, applicants for supplemental funding for predatory lending should also describe relevant partnerships and relationships with other organizations, including state and local government regulatory agencies, Legal Aid groups, and other organizations with whom the applicant collaborates on predatory lending cases and issues, or to whom the applicant refers clients affected by predatory lending.

(b) Describe plans to avoid conflicts of interest, such as methods for disclosing to participants that they are free to choose lenders, lending products, and homes, regardless of the recommendations made by counselors. To receive full credit in this Section, the applicant must provide copies of the disclosure forms and materials used by the applicant to communicate to clients that, while affordable homes, lending products and other forms of assistance might be available through the applicant, and partnerships in which the applicant has entered, the client is under no obligation to utilize these services.

(4) (18 points) Impact/Efficient Use of Resources—Proposed HUD Grant. In scoring this Section, HUD will evaluate the number of clients that the applicant estimates will be served under the proposed HUD grant, by the applicant and sub-grantees, if applicable, for the grant period October 1, 2004, to September 30, 2005. Scoring will be based on the quantity of clients the applicant proposes to serve, compared to similar applicants providing similar services. Proposed clients served numbers will also be analyzed in the context of budget, costs, spending decisions, the types of services provided, level of effort expended, etc. HUD will also factor in other information that demonstrates that resources are being used efficiently; for example, the percentage of grant funds intermediaries and SHFAs pass through to sub-grantees. Additionally, HUD will evaluate the geographic coverage of the applicant's proposed activities.

In the case of intermediaries and SHFAs, the number of proposed sub-grantees and branches, the overall size and scope of the counseling network will be a factor in the scoring.

(a) Provide a context for, or qualify the number of clients the applicant projects to serve with the proposed HUD grant. Indicate how location, counseling and client types, and expenses may affect client volume, and whether the impact will be short-term or long-term. Justify proposed expenses and explain why they are reasonable, strategic, and appropriate for the counseling activities identified above.

Explain and justify significant changes, relative to past performance and grant/budget size described in Rating Factor 1, in the number of clients the applicant proposes to serve. For example, describe changes in the types of counseling being delivered, costs, etc.

(b) National and regional intermediaries and SHFAs must also indicate what percentage of their proposed award will be passed through directly to sub-grantees and branches, and explain how funds not passed through will be spent.

LHCAs applying under Category 1 must indicate what percentage of their proposed award will be spent on the salaries and benefits of housing counselors and project directors. Explain in detail how other proposed funds will be spent.

(c) LHCAs must list all branch offices, if applicable, and indicate if they will be funded through the proposed award. Also, describe the applicant's geographic coverage. For example, indicate the percentage of a metropolitan area covered by the grantee, and indicate if the applicant operates in more than one state.

National and regional intermediaries and SHFAs must also identify the sub-grantees and branches, and corresponding states, the applicant proposes will receive funding through this grant award. In the event that different sub-grantees or branches will be selected for comprehensive counseling and/or the three supplemental funding types, separately list proposed sub-grantees and branches for each. Applicants unable to precisely identify proposed sub-grantees and branches to receive funding through the proposed grant must identify the most likely sub-grantees and branches, based on past experience, and explain what process will be used to select actual sub-grantees and branches. Pursuant to the applicable regulations at 24 CFR 84.82(d)(3)(iii) and 85.30(d)(4), grantees must receive HUD's prior written approval for sub-grants.

d. Rating Factor 4: Leveraging Resources (10 Points). HUD housing counseling funding is not intended to fully fund an applicant's housing counseling program, or that of its sub-grantees, if applicable. All organizations that use housing counseling grant funds are expected to seek other private and public sources of funding for housing counseling to supplement HUD funding. Any agency that does not have other resources available will receive no points for this factor.

Applicants will be evaluated based on their ability to provide evidence that they have obtained additional resources for their housing counseling activities, including: Direct financial assistance; in-kind contributions, such as services, equipment, office space, labor; etc. Resources may be provided by governmental entities, public or private nonprofit organizations, for-profit private organizations, or other entities committed to providing assistance.

(1) All applicants must provide a comprehensive list of all leveraged funds and in-kind contributions being claimed. Include the amount and the source. All contributions, including cash and third party in-kind, shall be accepted as part of the recipient's cost sharing or matching when such contributions meet all of the criteria set forth in 24 CFR 84.23.

(2) Additionally, in order to obtain points under this factor, the applicant must demonstrate leveraging by providing letters and, if applicable, copies of relevant grant agreements from entities or individuals, or both, committing resources to the project that include:

(a) The identity of the entity or individual committing resources to the project.

(b) Dollar value of the resources to be committed. For in-kind resources with no clear total dollar value indicated, applicants should estimate their value and describe in detail how the estimate was determined. Values for recipient contributions of services and property shall be established in accordance with the applicable cost principles.

(c) The type of resources to be committed.

(d) An indication that the resources will be available during the grant period pertaining to this NOFA, October 1, 2004-September 30, 2005.

(e) An indication that the award, or a specific portion of it, is intended for housing counseling.

(f) The signature of an official of the entity legally able to make commitments on behalf of the entity.

(g) No conditions that would nullify the commitment. (It is, however, acceptable for the commitment to be conditional on HUD funding.)

(3) Additionally, resources provided by the applicant, (recorded as “Applicant” and “Program Income” on the Form SF-424) will count as leveraged resources.

These are the only circumstances under which applicants are permitted to self-certify to leveraged resources. These amounts must only include funds that will directly result in the provision of housing counseling services, but not resources for activities such as down payment and closing cost assistance, IDA programs, and emergency services.

(4) National and regional intermediaries and SHFAs should include evidence of leveraged resources for their entire counseling network and program, not simply anticipated sub-grantees to be funded through this application.

(5) Points for this factor will be awarded based on the satisfactory provision of evidence of leveraging and financial sustainability, as described above, and the percentage of the applicant's total housing counseling budget that the requested HUD housing counseling funds would represent. Depending on organization type, the following scales will be used to determine scores for this factor:

LHCAs and SHFAs
Percentage | Points
01-25 | 10
26-40 | 9
41-48 | 8
49-55 | 7
56-65 | 6
66-75 | 5
76-85 | 4
86-91 | 3
92-95 | 2
96-99 | 1

National and Regional Intermediaries
Percentage | Points
01-15 | 10
16-23 | 9
24-29 | 8
30-35 | 7
36-41 | 6
42-47 | 5
48-53 | 4
54-59 | 3
60-65 | 2
66-99 | 1

e. Rating Factor 5: Achieving Results and Program Evaluation (5 Points). This factor emphasizes HUD's determination to ensure that applicants meet commitments made in their applications and grant agreements and assess their performance to realize performance goals, and reflects HUD's goal to embrace high standards of ethics, management and accountability.

The purpose of this factor is for the applicant to identify program outputs and outcomes that will allow it and HUD to measure actual achievements against anticipated achievements. Outputs and outcomes must be objectively quantifiable.

In scoring this section, HUD will consider the thoroughness of the response, as well as the appropriateness of the proposed outcomes given the proposed HUD award and past performance, as compared to similar applicants.

(1) Submission Requirements for Factor 5. Applicants must submit an effective, quantifiable, outcome-oriented evaluation plan for measuring performance and determining that output and outcome goals have been met. Applicants must submit a program evaluation plan, consisting of a completed Form HUD-96010, Program Outcome Logic Model, and corresponding narrative, that identifies what will be measured, how it will be measured, and the steps the applicant has in place to make adjustments to the work plan if performance targets are not met within established timeframes. Specifically, the plan must identify:

(a) Outputs. Outputs are the direct products of the applicant's activities that lead to the ultimate achievement of outcomes. Examples of outputs include, but are not limited to, the number of individual counseling sessions, the number of group sessions to be provided, the number of materials to be distributed, and outreach activities. Identify interim and full grant term outputs, and time frames for accomplishing these goals. The plan must show how the applicant will measure actual accomplishments against anticipated achievements.

(b) Work Plan Adjustments. Describe steps in place to make adjustments to the work plan if outputs are not met within established time frames or if the applicant begins to fall short of established outputs and time frames. National and regional intermediaries and SHFAs should indicate if and how the performance of sub-grantees and branch offices, affects current and future sub-grants and allocations.

(c) Outcomes. Outcomes are benefits accruing to the families as a result of participation in the program. Outcomes are performance indicators the applicant expects to achieve or goals it hopes to meet over the term of the proposed grant. For the period October 1, 2004-September 30, 2005, provide the following anticipated outcomes for clients as a result of the proposed grant. In other words, provide the figure that the applicant estimates for that outcome category under the HUD grant activities column on the Form HUD-9902.

• The number of individuals receiving pre-purchase counseling that will purchase a home;

• The number of individuals receiving pre-purchase counseling that are working toward becoming mortgage ready;

• The number of individuals receiving pre-purchase counseling that, after evaluating their unique financial situation and the costs of homeownership, will elect not to purchase a home;

• The number of individuals receiving default counseling that will successfully avoid foreclosure;

• The number of individuals seeking help in locating or securing residence in rental housing that found alternative rental housing;

• Applicants proposing to address predatory lending should indicate the number of clients affected by predatory lending counseled that will have their mortgage modified, refinanced, or otherwise assisted to avoid foreclosure.

These specific outcomes correspond to the Form HUD-9902. The proposed outcomes the applicant provides will be compared with the results captured in the HUD-9902 the applicant submits in the FY2006 Housing Counseling NOFA, if applicable, to evaluate the impact the applicant was able to achieve with this proposed award, if applicable, and the degree to which the applicant was able to meet or exceed proposed outcomes. Not all outcome categories will be relevant to every organization, depending upon the services provided.

(d) Information Collection. Describe the applicant's strategy for following-up with clients and collecting outcome information.

B. Reviews and Selection Process

Two types of reviews will be conducted.

1. Technical Review

First, each application will be reviewed for technical sufficiency, in other words, whether the application meets the threshold requirements set out in this NOFA and the General Section of the SuperNOFA, and whether all required forms have been submitted. The General Section of the SuperNOFA provides the procedures for corrections to deficient applications.

2. General Review

The second review considers the responses to the rating factors outlined above and other relevant information. Applications will be evaluated competitively, and ranked against all other applicants that applied in the same funding category.

3. Rating Panels

Detailed information on the rating review panels appears in the General Section of the SuperNOFA.

4. Minimum Score for Fundable Applications

The minimum score for fundable applications is 75 points.

5. Funding Methodology

a. Comprehensive Counseling. The following funding formula will be used to calculate the comprehensive counseling portion of the awards under Categories 1-3. Only applicants who receive a score of 75 points or above will be considered eligible for funding. All eligible applicants will then be funded in proportion to the score they receive. Regarding the comprehensive counseling portion of an award, all grantees will receive the lower of either the comprehensive award amount determined with the formula, or the amount actually requested by the applicant, as indicated in the applicant's response to Section V.A.4.c.(1) of this NOFA. This amount must be labeled “Comprehensive Counseling” to distinguish it from requested supplemental funds, if applicable.

The formula will work as follows for each category:

(1) Funding Round 1. Every applicant that scores 75 points or above will receive a base award ($15,000 for LHCAs; $50,000 for SHFAs; and $200,000 for intermediaries). The total number of applicants receiving the base award will be multiplied by the relevant base amount, and that amount will be subtracted from the total amount available under the Category, or in the cases of Categories 1 and 3, available to the HOC.

(2) Funding Round 2. Then, the remaining balance after funding the Round 1 base awards will be divided by the total number of points all applicants in that Category, and HOC in the cases of Categories 1 and 3, score that are above the 75-point cutoff. The calculation will result in a dollar value for each point. The number of points that all applicants in a Category, and in a HOC in the cases of Categories 1 and 3, score above the 75 point base will be multiplied by that dollar value. The result of that calculation will be added to the base award. Any remaining funds after this calculation will carry over into the next funding round.

(3) This same methodology will be used for each subsequent round of funding until all available funds are awarded, or until all eligible applicants are funded to the maximum dollar amount allowed. Subsequent rounds of calculations, if needed, will distribute remaining funds to applicants that scored above 95 points, 91-95 points, 86-90 points, and 80-85 points, respectively.

b. Supplemental Funding. The same methodology described above in section a. will be used to distribute the available supplemental funds for Predatory Lending, Homeownership Voucher Counseling, and Colonias to eligible applicants.

Regarding supplemental funding, all grantees will receive the lower of either the supplemental award amount determined with the formula, or the specific amount of supplemental funding actually requested by the applicant, as indicated in the applicant's response in Section V.A.4.c.(1).(b). of this NOFA.

Each applicant will only submit one application and receive a score based on the application for the comprehensive counseling grant. Comprehensive counseling funds will be allocated based on this score. Subsequently, for each supplemental funding category requested, responses to each rating factor will be evaluated on a yes/no, adequate/inadequate basis. An adequate response will result in a score for the supplemental funding identical to the comprehensive score on each respective rating factor. An inadequate supplemental response will result in a 1-point deduction from the comprehensive score. After all five rating factors have been evaluated, the adjusted ratings will result in a distinct score for the supplemental funds. This method will result in scores for supplemental funding that may be equal to the comprehensive score, or up to five points less than the comprehensive score. In no case can an applicant receive a higher score on an application for supplemental funding that it received on its comprehensive application. This process will be repeated for each supplemental funding allocation. An applicant will receive a separate score for its application for comprehensive counseling, and each supplemental funding category for which it applies.

The base awards for all three supplemental funding categories will be $2,000 for LHCAs, $10,000 for SHFAs, and $40,000 for intermediaries. Only applicants scoring 75 points or above are eligible for supplemental funding. However, because of the limited amount of funds available, all applicants scoring 75 points or above are not guaranteed supplemental funding.

(1) For National and regional intermediaries, up to the top 5 scoring applicants (scoring 75 points or above) for supplemental funding for predatory lending and Homeownership Voucher Counseling that are eligible for supplemental funds, and have not already been fully funded in accordance with the funding methodology described in this section, will receive supplemental funding. For supplemental funding for Colonias, up to the top 3 scoring intermediary applicants (scoring 75 points or above) that are eligible for supplemental funds, and have not already been fully funded in accordance with the funding methodology described in this section, will receive supplemental funding.

(2) For SHFAs, up to the top 2 scoring applicants (scoring 75 points or above) in each HOC for each supplemental category that are eligible for the supplemental funds, and have not already been fully funded, will receive supplemental funding.

(3) For LHCAs, up to the top 10 scoring applicants (scoring 75 points or above) in each HOC for each supplemental category that are eligible for the supplemental funds, and have not already been fully funded, will receive supplemental funding.

6. Reallocation of Unspent Funds. If funds designated for a specific grant Category, HOC, or for supplemental funding remain unspent after the formulas have been run and award recommendations are determined, HUD may, at its discretion, reallocate those funds to any other funding Category or supplemental funding area under this NOFA. Additionally, HUD may reallocate unspent funds to any HOC jurisdiction or to HUD Headquarters for awards under this NOFA. HUD may also reallocate unspent funds for housing counseling support activities.

VI. Award Administration Information

A. Award Notices

Following selection, applicants will receive from HUD notification regarding their application.

1. Publication of Recipients of HUD Funding

HUD's regulations at 24 CFR part 4 provide that HUD will publish a notice in the Federal Register to notify the public of all decisions made by the Department to provide:

a. Assistance subject to Section 102(a) of the HUD Reform Act; and/or

b. Assistance provided through grants or cooperative agreements on a discretionary (non-formula, non-demand) basis, but that is not provided on the basis of a competition.

2. Debriefing

Beginning 30 days after the awards for assistance are publicly announced and for at least 120 days after awards for assistance are announced publicly, HUD will provide a debriefing to any applicant requesting one. All debriefing requests must be made in writing or by e-mail by the authorized official whose signature appears on the SF-424, or his or her successor in office, and submitted to the person or organization identified as the contact in Section VII.A. of this NOFA. Information provided during a debriefing will include, at a minimum, the final score received for each rating factor, final evaluator comments for each rating factor, and the final assessment indicating the basis upon which assistance was provided or denied.

For more information on debriefings, consult the General Section of the SuperNOFA.

B. Administrative and National Policy Requirements

1. Environmental Requirements

In accordance with 24 CFR 50.19(b)(9) and (12) of the HUD regulations, activities assisted under this program are categorically excluded from the requirements of the National Environmental Policy Act and are not subject to environmental review under the related laws and authorities.

2. Other Matters

a. Requirements for Funding Competitions. See General Section.

b. Relocation. See General Section.

c. OMB Circulars and Government-wide Regulations Applicable to Financial Assistance Programs. See General Section.

d. Conflicts of Interest. See General Section.

e. Prohibition Against Lobbying Activities. See General Section.

f. Accessible Technology. See General Section.

g. Procurement of Recovered Materials. See General Section.

h. Participation in HUD Sponsored Program Evaluation. See General Section.

i. Executive Order 13202, Preservation of Open Competition and Government Neutrality Towards Government Contractors' Labor Relations on Federal and Federally Funded Construction Projects. See General Section.

j. Executive Order 13166, Improving Access to Persons With Limited English Proficiency (LEP). See General Section.

k. Executive Order 13279 Equal Protection of the Laws for Faith-Based and Community Organizations. See General Section.

l. Salary Limitation for Consultants. See General Section.

m. Executive Order 13132, Federalism. See General Section.

n. Sense of Congress. See General Section.

C. Reporting

Grantees are required to complete and submit a Form HUD-9902, Fiscal Year Activity Report (APPENDIX A). The information compiled from this report provides HUD with its primary means of measuring program performance.

VII. Agency Contact(s)

A. For Technical Assistance

LHCAs and SHFAs should contact the HOC serving their area, as indicated below. Hearing and speech challenged persons may access the telephone numbers listed below by calling the Federal Information Relay Service at 800-877-8339.

Homeownership center | States
Philadelphia Homeownership Center: Mr. Adam Deveney, Acting Director, Program Support Division, Wannamaker Building, 100 Penn Square East, 12th Fl, Philadelphia, PA 19107-3389. For technical questions contact: Robert Wright (215) 656-0527 x3406 | Connecticut, Delaware, District of Columbia, Maine, Maryland, Massachusetts, Michigan, New Hampshire, New Jersey, New York, Ohio, Pennsylvania, Rhode Island, Vermont, Virginia, West Virginia.
Atlanta Homeownership Center: Ms. Gayle Knowlson, 40 Marietta Street, 8th Floor, Atlanta, GA 30303-2806. For technical questions contact: E. Carolyn Hogans (404) 331-5001, x2129 | Alabama, Puerto Rico, Florida, Georgia, Illinois, Indiana, Kentucky, Mississippi, North Carolina, South Carolina, Tennessee.
Denver Homeownership Center: Ms. Irma Devich, Director, Program Support Division, 1670 Broadway, Denver, CO 80202-4801. For technical questions contact: 303-672-5200 Vic Karels X1995, Jonna Munson X1987 | Arkansas, Colorado, Iowa, Kansas, Louisiana, Minnesota, Missouri, Montana, Nebraska, New Mexico, North Dakota, Oklahoma, South Dakota, Texas, Utah, Wisconsin, Wyoming.
Santa Ana Homeownership Center: Mr. Jerrold Mayer, 1600 N. Broadway, Suite 100, Santa Ana, CA 92706-3927. For technical questions contact: Rhonda J. Rivera, Chief, rhonda_j._rivera@hud.gov 1-888-827-5605 x 3210 | Alaska, Arizona, California, Hawaii, Oregon, Idaho, Nevada, Washington.

National and regional intermediaries should contact HUD Headquarters, Program Support Division at (202) 708-0317 (this is not a toll-free number). Persons with hearing or speech impairments may access any of these numbers via TTY by calling the toll-free federal Information Relay Service at 800-877-8339.

VIII. Other Information

A. Satellite Broadcast. HUD will hold an informational broadcast via satellite for potential applicants to learn more about the program and the application. For more information about the date and time of the broadcast, consult the HUD Web site at http://www.hud.gov/grants.

B. Federal E-Grants Information. See the General Section of the SuperNOFA for more information on this topic.

C. Public Access, Documentation, and Disclosure. See the General Section of the SuperNOFA for more information on this topic.

Appendix A—Form HUD-9902, Fiscal Year Activity Report

BILLING CODE 4210-32-P

Lead-Based Paint Hazard Control Grant Program

Overview Information

A. Federal Agency Name: Department of Housing and Urban Development, Office of Healthy Homes and Lead Hazard Control.

B. Funding Opportunity Title: Lead-Based Paint Hazard Control Grant Program.

C. Announcement Type: Initial announcement.

D. Funding Opportunity Number: The Federal Register number for this NOFA is FR-4900-05. The OMB approval number is 2539-0015.

E. Catalog of Federal Domestic Assistance (CFDA) Number(s): 14.900 Lead-Based Paint Hazard Control in Privately Owned Housing

F. Dates: Application Deadline. The application due date is July 13, 2004. Please see the General Section of the SuperNOFA for application submission, delivery, and timely receipt requirements.

G. Optional, Additional Overview Content Information:

1. Purpose of the Program. The purpose of the Lead-Based Paint Hazard Control Grant Program is to assist states, Native American Tribes, and local governments in undertaking comprehensive programs to identify and control lead-based paint hazards in eligible privately owned housing for rental or owner-occupants in partnership with nonprofit organizations including grassroots faith-based or other community-based organizations.

2. Available Funds. Approximately $96 million in Fiscal Year 2004 and approximately $710,000 in previous years recaptured funds.

3. Eligible Applicants. To be eligible to apply for funding under this program, the applicant must be a state, city, county, or similar unit of local government. Multiple units of a local government (or multiple local governments) may apply as part of a consortium; however, you must identify a lead applicant that will be responsible for ensuring compliance with all requirements specified in this NOFA. If you are a state or Tribal applicant, you must have a Lead-Based Paint Contractor Certification and Accreditation Program authorized by the Environmental Protection Agency (EPA). Grantees funded under the Fiscal Year 2003 Lead-Based Paint Hazard Control NOFA published in the Federal Register April 25, 2003, are not eligible to apply.

4. Match. A statutory minimum of 10 percent match in local funds.

Full Text of Announcement

I. Funding Opportunity Description

A. Program Description. The Lead-Based Paint Hazard Control Program is authorized by Section 1011 of the Residential Lead-Based Paint Hazard Reduction Act of 1992 (Title X of the Housing and Community Development Act of 1992, Pub. L. 102-550). HUD's authority for making funding available under this NOFA is the Consolidated Appropriations Act for Fiscal Year 2004. The Lead-Based Paint Hazard Control Grant Program assists states, Native American Tribes, and local governments in undertaking programs for the identification and control of lead-based paint hazards in eligible privately owned rental and owner-occupied housing units. Refer to Section IV.E.3 of this NOFA for “Eligibility of HUD Assisted Housing” that lists the HUD-associated housing programs that meet the definition of eligible housing under this program. HUD is interested in promoting lead hazard control approaches that result in the reduction of elevated blood lead levels in children for the maximum number of low-income families with children under six years of age, for the longest period of time, and that demonstrate techniques which are cost-effective, efficient, and replicable elsewhere. Copies of HUD's Lead-Safe Housing Regulation, and the companion publication “Interpretive Guidance: The HUD Regulation on Controlling Lead-Based Paint Hazards in Housing Receiving Federal Assistance and Federally Owned Housing Being Sold,” are available from the National Lead Information Clearinghouse at 800-424-LEAD (this is a toll-free number). If you are a hearing-or speech-impaired person, you may reach the telephone number via TTY by calling the toll-free Federal Information Relay Service at 800-877-8339. Copies are also available from the Office of Healthy Homes and Lead Hazard Control Web site at: http//www.hud. gov/offices/lead.

1. Because lead-based paint is a national problem, these funds will be awarded to programs which:

a. Maximize the combination of children protected from lead poisoning and housing units where lead-hazards are controlled;

b. Target lead hazard control efforts at housing in which children are at greatest risk of lead poisoning;

c. Stimulate cost-effective approaches that can be replicated;

d. Emphasize lower cost methods of hazard control;

e. Build local capacity to safely and effectively address lead hazards during lead hazard control, renovation, remodeling, and maintenance activities; and

f. Affirmatively further fair housing and environmental justice.

2. The objectives of this program include:

a. Implementation of a national strategy, as defined in Title X of the Housing and Community Development Act of 1992 (42 U.S.C. 4851 et seq.) (Title X), to build the community's capacity necessary to eliminate lead-based paint hazards in housing, as widely and quickly as possible by establishing a workable framework for lead-based paint hazard identification and control;

b. Mobilization of public and private resources, involving cooperation among all levels of government, the private sector, and grassroots faith-based or other community-based organizations to develop cost-effective methods for identifying and controlling lead-based paint hazards;

c. Development of comprehensive community approaches which result in integration of all community resources (governmental, grassroots, faith-based, or other community-based organizations, and private businesses) to address lead hazards in housing;

d. Integration of lead-safe work practices into housing maintenance, repair, weatherization, rehabilitation, and other programs that will continue after the grant period ends;

e. Establishment of a public registry (listing) of lead-safe housing or inclusion of the lead-safe status of properties in another publicly accessible address-based property information system and affirmatively marketed to families with young children; and

f. To the greatest extent feasible, promotion of job training, employment, and other economic opportunities for low-income and minority residents and businesses that are owned by and/or employ minorities and low-income persons as defined in 24 CFR 135.5 (see 59 FR 33881, June 30, 1994).

3. Changes in FY2004 Competitive NOFA.

a. The page limit for the narrative response to the rating factors has been reduced from 25 to 15 pages.

b. Applicants are to complete and submit the Rating Factor Tables included in Section IV. of this NOFA.

c. The minimum percentage of the federal funds requested identified for direct lead hazard control activities has been increased from 60 to 65 percent with temporary relocation now included as a direct lead hazard control activity. Direct lead hazard control activities consist of dust testing, combined lead paint inspection and risk assessments, interim controls, abatement of lead hazards, temporary relocation, and clearance examinations. Direct hazard control activities do not include blood lead testing of residents or workers, housing rehabilitation, training, community education and outreach, applied research, purchase of supplies or equipment, or administrative costs.

II. Award Information

A. Funding Available. Approximately $95 million in Fiscal Year 2004 and approximately $710,000 in previous years recaptured funds will be available for the Lead-Based Paint Hazard Control Grant Program. Grant award amounts shall be approximately $1-3 million per grant. Approximately 30 to 40 grants will be awarded. New applicants, grantees receiving a renewal grant under the Fiscal Year 2002 NOFA published in the Federal Register (FR) on March 26, 2002, or those previously funded lead-based paint hazard control grantee applicants whose period of performance ended prior to the application deadline date will be evaluated and scored as a separate group and will not be in direct competition with applications from current grantee applicants that are eligible for a Competitive Performance-Based Renewal to their existing grant. A maximum of 35 percent of the funds will be made available to applicants eligible for a Competitive Performance-Based Renewal grant. The project duration shall be 42 months for new grant recipients and 36 months for Competitive Performance-Based Renewal grantees. HUD reserves the right to approve no-cost time extensions for a period not to exceed 24 months. Current grantees with active grants at the application deadline date must meet specific performance criteria in their current grant to be eligible for a Competitive Performance-Based Renewal. Current grantees eligible for a Competitive Performance-Based Renewal must meet or exceed the specific work plan performance benchmark goals and objectives outlined in Section III.A.4. for the period ending March 31, 2004, to be eligible to receive $1-3 million to continue grant program activities for an additional 36 months after their current period of performance ends. Current grantees that do not meet the performance criteria in Section III.A.2. are not eligible to submit an application under this NOFA.

B. Contracts or other formal arrangements with nonprofit grassroots faith-based or other community-based organizations. If selected for funding, local, and state applicants are encouraged to enter into formal arrangements with grassroots, faith-based, or other community-based organizations. These formal arrangements could be a contract, a Memorandum of Understanding (MOU), a Memorandum of Agreement (MOA), or a letter of commitment. Such relationships should be established prior to the actual execution of an award or within 120 days of the effective start date of the grant agreement. This requirement does not apply to Native American Tribes.

III. Eligibility Information

See the General Section of the SuperNOFA for additional eligibility requirements applicable to HUD Programs.

A. Eligible Applicants

1. To be eligible to apply for funding under this program, the applicant must be a state, city, county, or similar unit of local government. Multiple units of a local government (or multiple local governments) may apply as part of a consortium; however, you must identify a lead applicant that will be responsible for ensuring compliance with all requirements specified in this NOFA. State government and Native American tribal applicants must have an EPA approved state program for certification of lead-based paint contractors, inspectors, and risk assessors in accordance with 40 CFR 745. Current grantees (except for those grantees receiving a Renewal Grant under the FY2002 competition and those grantees that are not eligible to submit an application for a Competitive-Based Renewal grant) with active grants at the application deadline date and Grantees funded under the Fiscal Year 2003 Lead-Based Paint Hazard Control NOFA published in the Federal Register on April 25, 2003, are not eligible to apply.

2. Eligible Applicants for Competitive Performance-Based Renewal Grants. Current grantees with active grants at the application deadline date must meet specific competitive performance criteria in their most recent grant to be eligible for a Performance-Based Renewal Grant. Current grantees that received a Renewal Grant under the FY2002 (Round 10) Lead-Based Paint Hazard Control Program NOFA published in the Federal Register on March 26, 2002, are not eligible to receive a Competitive Performance-Based Renewal Grant under this competition, but are eligible to apply as a new or prior grantee under this NOFA. Current grantees that do not meet the performance criteria outlined below (Section III.A.4) for the period ending March 31, 2004, are not eligible for a Competitive Performance-Based Renewal grant.

3. Eligible applicants may submit only one application. In the event that multiple applications are submitted, this will be considered a technical deficiency and the application review process delayed until you notify HUD in writing which application should be reviewed. Your other applications will be returned without being rated or ranked.

4. Eligibility Criteria for Competitive Performance-Based Renewal Grants

Eligibility Criteria
[For period ending March 31, 2004]*
FY | Round | Calendar year quarter grant start date | % of units completed and cleared | % of Federal funds reimbursed through the Line of Credit Control System (LOCCS)
2000 | 8 | Jan-Mar 2001 | 80 | 55
2000 | 8 | Apr-Sep 2001 | 75 | 50
2001 | 9 | Oct-Dec 2001 | 65 | 45
2001 | 9 | Jan-Mar 2002 | 65 | 45
2001 | 9 | Apr-Jun 2002 | 60 | 40
2001 | 9 | Jul-Dec 2002 | 55 | 35
2002 | 10 | Jan-Mar 2003 | 50 | 35
2002 | 10 | Apr-Jun 2003 | 45 | 30
* Based on Quarterly Progress Reporting Data submitted to HUD for the period ending March 31, 2004.

By achieving the above-referenced level of performance, current grantees have successfully competed for eligibility in receiving additional funds.

Active grantees eligible to submit a Competitive Performance-Based Renewal grant application will be required to submit a Total Budget (Federal Share and Matching), a work plan strategy with specific, measurable, and realistic benchmark performance objectives and any supporting materials prescribed in the NOFA for the additional 36-month competitive performance-based renewal period. In addition, grantees awarded grant funds under this category will be required to meet the terms and conditions of their current grant agreement and any additional applicable requirements under this NOFA and subsequent grant agreement modification. HUD may terminate awards to grantees that fail to meet established milestones or benchmark performance standards established by this NOFA or the Award Agreement.

B. Cost Sharing or Matching

You must provide a matching contribution of at least 10 percent of the requested grant sum. This may be in the form of cash, including private sector funding, or in-kind (non-cash) contributions or a combination of these sources. With the exception of Community Development Block Grant (CDBG) funds, Federal Revenue Sharing programs, or other programs which by statute allow their funds to be considered local funds and therefore eligible to be used as matching funds, federal funds may not be used to satisfy the statutorily required 10 percent matching requirement. Federal funds may be used, however, for contributions above the statutory requirement. If an applicant does not include the minimum 10 percent match in the application, it will be considered a curable (correctable) deficiency. Refer to Section IV in the General Section of the SuperNOFA for the specific details on how to correct this deficiency. You must support each source of contributions, cash or in-kind, both for the required minimum and additional amounts, by a letter of commitment from the contributing entity, whether a public or private source. The letter must describe the contributed resources that you will use in the program and their designated purpose. The signature of the authorized official on the Form SF-424 commits matching or other contributed resources of the applicant organization. A separate letter from the applicant organization is not required.

C. Other

1. Eligible Activities

All lead hazard control activities must be conducted in compliance with the applicable requirements of HUD's Lead-Safe Housing Regulation, 24 CFR Part 35, and as clarified in HUD's Interpretive Guidance about the rule located at http://www.hud.gov/offices/lead/guidelines/leadsaferule/index.cfm. Activities must also comply with any additional requirements in effect under a state or Tribal Lead-Based Paint Training and Certification Program that has been authorized by the EPA pursuant to 40 CFR 745.320.

a. Direct Lead Hazard Identification and Control Activities. The proposed budget must show a minimum of 65 percent of the total federal amount requested identified for direct lead hazard control activities. Direct lead hazard control activities consist of dust testing, combined lead paint inspection and risk assessments, interim controls, abatement of lead hazards, temporary relocation of occupants when lead hazard control intervention work is conducted in a unit, and clearance examinations. Direct hazard control activities do not include blood lead testing of residents or workers, housing rehabilitation, training, community education and outreach, applied research, purchase of supplies or equipment, or administrative costs. The remaining 35 percent of the funds are to be used for other direct or indirect costs.

b. Direct Project Elements that you may undertake directly or through subrecipients, include:

(1) Performing dust testing, combined lead-based paint inspections and risk assessments, and engineering and architectural activities that are required for, and in direct support of, interim control and lead hazard abatement work, of eligible housing units constructed prior to 1978 to determine the presence of lead-based paint and/or lead hazards from paint, dust, or soil through the use of acceptable testing procedures. The purchase or lease of a maximum of two X-ray fluorescence analyzers used by the grant program, if not already available, are eligible costs. All test results must be provided to the owner of the unit, together with a notice describing the owner's legal duty to disclose the results to tenants and buyers.

(2) Conducting lead hazard control activities that may include any combination of the following:

(a) Interim controls of lead-based paint hazards including lead-contaminated soil in housing (that must include specialized cleaning techniques to address lead dust, according to the HUD Guidelines, located at: http://www.hud.gov/offices/lead/guidelines/hudguidelines/index.cfm).

(b) Abatement. The complete abatement of all lead-based paint hazards in a unit or structure is acceptable if it is cost-effective. Abatement of lead-contaminated soil should be limited to areas with bare soil in the immediate vicinity of the structure, i.e., dripline or foundation of the unit being treated, and children's play areas. All lead hazards identified in a housing unit enrolled in this grant program must be controlled or eliminated by any combination of these strategies.

(3) Carrying out temporary relocation of families and individuals during the period in which hazard control is conducted and until the time the affected unit receives clearance for reoccupancy. If families or individuals are temporarily relocated in a project which utilizes Community Development Block Grant funds, the guidance and requirements of 24 CFR 570.606(b)(2)(i)D(1)-(3) must be met. HUD recommends you review these regulations when preparing your proposal.

(4) Undertaking minimal housing rehabilitation activities that are specifically required to carry out effective hazard control, and without which the hazard control could not be completed and maintained. These grant funds may be used for lead hazard control work done in conjunction with other housing rehabilitation programs. HUD encourages integration of this grant program with housing rehabilitation, maintenance, weatherization, and other energy conservation activities.

(5) Conducting clearance dust-wipe testing and laboratory analysis (the laboratory must be recognized by the National Lead Laboratory Accreditation Program (NLLAP) as being capable of performing lead analyses of samples of paint, dust-wipes, and/or soil).

(6) Conducting targeted community awareness, affirmative marketing, education, or outreach programs on lead hazard control and lead poisoning prevention designed to increase the ability of the program to deliver lead hazard control services including educating owners of rental properties, tenants, and others on the Residential Lead-Based Paint Hazard Reduction Act, Lead-Safe Housing Regulation, and applicable provisions of the Fair Housing Act especially as it pertains to familial status (i.e., families with children) and disability discrimination, and offering educational materials in languages other than English that are common in the community, consistent with HUD's published LEP Recipient Guidance, 68 FR 70968 and providing training on lead-safe maintenance and renovation practices and management. Upon request, this also would include making all materials available in alternative formats to persons with disabilities (e.g., Braille, audio, and large type).

(7) Procuring liability insurance for lead-hazard control activities.

(8) Supporting data collection, analysis, and evaluation of grant program activities. This includes compiling and delivering such information and data as may be required by HUD. This activity is separate from administrative costs.

(9) Purchasing or leasing equipment having a per-unit cost under $5,000.

(10) Preparing a final report at the conclusion of grant activities.

(11) Conducting required pre-hazard control blood lead testing of children under the age of six years of age residing in units undergoing lead paint inspection/risk assessment, or hazard control, unless reimbursable from Medicaid or another source.

(12) Performing blood lead testing and air sampling to protect the health of the hazard control workers, supervisors, and contractors.

(13) Providing resources to build capacity for lead-safe housing and lead hazard control, including free delivery of HUD-approved lead-safe work practices training courses for housing rehabilitation contractors, rehabilitation workers, homeowners, renters, painters, remodelers, maintenance staff, and others conducting renovation, rehabilitation, maintenance or other work in private housing; free delivery of lead sampling technician training, lead-based paint worker or contractor certification training; and subsidies for licensing or certification fees to low-income persons seeking credentials as lead-based paint workers or contractors or lead sampling technicians.

(14) Providing instruction, training, and material supplies for dust control activities to grassroots faith-based or other community-based organizations, parent organizations, homeowners, and renters in low-income private housing.

(15) Conducting planning, coordination, and training activities to comply with HUD's Lead-Safe Housing Regulation (24 CFR Part 35) that became effective on September 15, 2000. These activities should support the expansion of a workforce properly trained in lead-safe work practices which is available to conduct interim controls on HUD assisted housing covered by these regulations. The regulation and interpretive guidance about the rule are available from the National Lead Information Center at 800-424-LEAD (this is a toll-free number). If you are a hearing- or speech-impaired person, you may reach the telephone number via TTY by calling the toll-free Federal Information Relay Service at 800-877-8339. Copies are also available from the HUD Web site at: http://www.hud.gov.

(16) Participating in applied research, studies, or developing information systems to enhance the delivery, analysis, or conduct of lead hazard control activities, or to facilitate targeting and consolidating resources to further childhood lead poisoning prevention efforts.

(17) Purchasing or leasing no more than two (2) X-ray fluorescence analyzers for use by the Lead-Based Paint Hazard Control Grant Program, if not already available.

2. Threshold Requirements. As an eligible applicant, you must meet all of the threshold requirements in Section III. C of the General Section of the SuperNOFA as well as any specific threshold requirements listed in this subsection. Applications will not be funded if they do not meet the threshold requirements.

a. Applicants must provide a minimum of 10 percent of the grant funds requested as a matching contribution.

b. EPA Authorization. If you are a state government or Indian (Native American) Tribal government, you must have an EPA-authorized Lead-Based Paint Training and Certification Program in effect on the application deadline date to be eligible to apply for Lead Hazard Reduction Demonstration Grant funds. The approval date in the Federal Register notice published by the EPA will be used in determining the Training and Certification status of the applicant state or Indian (Native American) Tribal government. If you do not have an EPA authorized program, the application will not be rated and ranked.

c. DUNS Requirement. Refer to the General Section of the SuperNOFA for information regarding the DUNS requirement. You will need to obtain a DUNS number to receive an award from HUD.

3. Program Requirements

a. Environmental Requirements.

(1) Environmental Requirements. Recipients of lead-based paint hazard control grants must comply with 24 CFR Part 58—“Environmental Review Procedures for Entities Assuming HUD Environmental Responsibilities.” Recipients and other participants in the project are prohibited from committing or expending HUD and non-HUD funds on the project until HUD approves the recipient's Request for the Release of Funds (form HUD 7015.15) or the recipient has determined that the activity is either Categorically Excluded, not subject to the related federal laws and authorities pursuant to 24 CFR 58.35(b) or Exempt pursuant to 24 CFR 58.34. For Part 58 procedures, see http://www.hud.gov/offices/cpd/energyenviron/environment/index.cfm. For assistance, contact Karen Choi, the Office of Healthy Homes and Lead Hazard Control Environmental Officer at (213) 894-8000, extension 3015 (this is not a toll-free number) or the HUD Environmental Review Officer in the HUD field office serving your area. If you are a hearing- or speech-impaired person, you may reach the telephone number via TTY by calling the toll-free Federal Information Relay Service at 800-877-8339. Recipients of a grant under this funded program will be given additional guidance in these responsibilities.

b. Administrative Requirements.

(1) Lead-Based Paint Hazard Reduction Act (Title X of the Housing and Community Development Act of 1992). Section 1011 of Title X Section 217 of Pub. L. 104-134 (the Omnibus Consolidated Rescissions and Appropriations Act of 1996, 110 Stat. 1321, approved April 26, 1996) amended Section 1011(a) of the Residential Lead-Based Paint Hazard Reduction Act of 1992 (Title X) to read as follows: Sec.1011. Grants for Lead-Based Paint Hazard Reduction in Target Housing.

(a) General Authority. The Secretary is authorized to provide grants to eligible applicants to evaluate and reduce lead-based paint hazards in housing that is not federally assisted housing, federally owned housing, or public housing, in accordance with the provisions of this section. Grants shall only be made under this section to provide assistance for housing which meets the following criteria—

(b) for grants made to assist rental housing, at least 50 percent of the units must be occupied by or made available to families with incomes at or below 50 percent of the area median income level and the remaining units shall be occupied or made available to families with incomes at or below 80 percent of the area median income level, and in all cases the landlord shall give priority in renting units assisted under this section, for not less than three years following the completion of lead abatement activities, to families with a child under the age of six years, except that buildings with five or more units may have 20 percent of the units occupied by families with incomes above 80 percent of area median income level;

(c) for grants made to assist housing owned by owner-occupants, all units assisted with grants under this section shall be the principal residence of families with income at or below 80 percent of the area median income level, and not less than 90 percent of the units assisted with grants under this section shall be occupied by a child under the age of six years or shall be units where a child under the age of six years spends a significant amount of time visiting.

For the purposes of complying with Section 1011, a unit occupied by a pregnant woman meets the Congressional intent of promoting primary prevention and maybe assisted by this program.

(2) Certified and Trained Performers. Funded activities must be conducted by persons qualified for the activities according to 24 CFR Part 35 (possessing certification as abatement contractors, risk assessors, inspectors, abatement workers, or sampling technicians, or others having been trained in a HUD-approved course in lead-safe work practices).

(3) Consolidated Plans. (This requirement does not apply to Native American Tribes.) If your jurisdiction has a current HUD-approved Consolidated Plan, you must submit, as an appendix, a copy of the lead-based paint element included in the approved Consolidated Plan. If the Analysis of Impediments (AI) includes references to lead-based paint as an impediment to fair housing, this should be included in your application as well. If your jurisdiction does not have a currently approved Consolidated Plan, but it is otherwise eligible for this grant program, you must include your jurisdiction's abbreviated Consolidated Plan, which includes a lead-based paint hazard control strategy developed in accordance with 24 CFR 91.235.

(4) Lead Hazard Control work must be conducted in compliance with HUD's Lead-Safe Housing Regulation, 24 CFR Part 35.

(5) Sixty-five percent of the total federal funds requested must be used for direct lead hazard control activities. The remaining 35 percent of the funds can be used for other direct or indirect costs.

(6) Prohibited Practices. You must not engage in the following prohibited practices:

(a) Open flame burning or torching;

(b) Machine sanding or grinding without a high-efficiency particulate air (HEPA) exhaust control;

(c) Uncontained hydro blasting or high-pressure wash;

(d) Abrasive blasting or sandblasting without HEPA exhaust control;

(e) Heat guns operating above 1,100 degrees Fahrenheit;

(f) Chemical paint strippers containing methylene chloride or other volatile hazardous chemicals in a poorly ventilated space; and

(g) Dry scraping or dry sanding, except scraping in conjunction with heat guns or around electrical outlets or when treating no more than two square feet in any one interior room or space, or totaling no more than 20 square feet on exterior surfaces.

(7) Written Policies and Procedures. You must have clearly established, written policies and procedures for eligibility, program marketing, unit selection, expediting work on homes occupied by children with elevated blood lead levels, and all phases of lead hazard control, including risk assessment, inspection, development of specifications, pre-hazard control blood lead testing, financing, temporary relocation, and clearance testing. Grantees, subcontractors, sub-grantees, subrecipients, and their contractors must adhere to these policies and procedures.

(8) Continued Availability of Lead-Safe Housing to Low-Income Families. Units in which lead hazards have been controlled under this program shall be occupied by and/or continue to be available to low-income residents as required by Title X (Section 1011). You must maintain a publicly available registry (listing) of units in which lead hazards have been controlled and ensure that these units are affirmatively marketed to agencies and families as suitable housing for families with children under six years of age. The grantee must also notify the owner of the information that is collected so that the owner will comply with disclosure requirements under 24 CFR part 35, Subpart A.

(9) Testing. In developing your application budget, include costs for lead paint inspection, risk assessment, and clearance testing for each dwelling that will receive lead hazard control, as follows:

(a) General. All testing and sampling shall conform to the current HUD Guidelines and federal, state, or tribal regulations developed as part of the appropriate contractor certification program whichever is more stringent. It is particularly important to provide this full cycle of testing for lead hazard control, including interim controls. Testing must be conducted according to the HUD Guidelines, located at: http://www.hud.gov/offices/lead/guidelines/hudguidelines/index.cfm, and the EPA lead hazard standards rule at 40 CFR part 745. All test results must be provided to the owner in a timely fashion, together with a notice describing the owner's legal duty to disclose the results to tenants and buyers under 24 CFR part 35, Subpart A.

(i) Lead-Based Paint and Lead-Based Paint Hazard Identification. A combined lead-based paint inspection and risk assessment is required. You should ensure that lead paint inspection and risk assessment reports are conducted in accordance with established protocols and sufficient to support hazard control decisions.

(ii) Clearance Testing. Clearance testing shall be completed in accordance with Chapter 15 of the HUD Guidelines and the EPA lead hazards standards rule at 40 CFR part 745 for abatement projects and the Lead-Safe Housing Regulation (24 CFR part 35) for lead hazard control activities or other abatement. The clearance standards shall be the more restrictive of those set by the local jurisdiction or by EPA or HUD.

(iii) Blood lead testing. Before lead hazard control work begins, each occupant who is under six years of age should be tested for lead poisoning within the six months preceding the housing intervention. Any child with an elevated blood lead level must be referred for appropriate medical follow-up. The standards for such testing are described in the Centers for Disease Control and Prevention (CDC) publications Preventing Lead Poisoning in Young Children (1991), and Screening Young Children for Lead Poisoning: Guidance for State and Local Public Health Officials (1997).

(10) Cooperation With Related Research and Evaluation. You shall cooperate fully with any research or evaluation sponsored by HUD, CDC, EPA, or other government agency and associated with this grant program, including preservation of project data and records and compiling requested information in formats provided by the researchers, evaluators or HUD. This also may include the compiling of certain relevant local demographic, dwelling unit, and participant data not contemplated in your original proposal. Participant data shall be subject to Privacy Act protection.

(11) Data collection. You will be required to collect and maintain the data necessary to document the various lead hazard control methods used and the cost of these methods.

(12) Section 3 Employment Opportunities. Please refer to Section III.C.4.c. of the General Section of the SuperNOFA. The requirements of Section 3 of the Housing and Urban Development Act of 1968 are applicable to this program.

(13) Replacing Existing Resources. Funds received under this grant program shall not be used to replace existing community resources dedicated to any ongoing project.

(14) Certifications and Assurances. You must include the certifications and assurances listed in the General Section of the SuperNOFA with your application.

(15) Conducting Business in Accordance with HUD Core Values and Ethical Standards. Refer to the General Section of the SuperNOFA for information about conducting business in accordance with HUD's core values and ethical standards.

(16) Lead-Safe Work Practice Training Activities. Applicants are encouraged to provide resources to promote the expansion of a workforce properly trained in lead-safe work practices and which is available to conduct interim controls and/or lead hazard abatement as well as follow lead-safe work practices while performing work on HUD assisted housing units per the provisions of the HUD Lead-Safe Housing Regulation 24 CFR Part 35(1330 (a) (4) (iii)(v), and to safely repair, rehabilitate, and maintain other privately-owned residential property.

(17) By September 30, 2005, applicants eligible for a Competitive Performance-Based Renewal grant are to participate in an established statewide or jurisdiction-wide strategic plan to eliminate childhood lead poisoning as a major public health problem by 2010 or are to assist in the development of such a plan (further guidance will be provided to grantees on developing the elimination plan). Prior grantee and new applicants are encouraged to include an outline of the steps that they will take to participate in or develop a statewide or jurisdiction-wide strategic plan. Applicants are encouraged to collaborate with Centers for Disease Control and Prevention (CDC) Childhood Lead Poisoning Prevention grantees, which are now required to develop such plans. At a minimum, the plan must include the following elements:

(a) Mission Statement;

(b) Purpose and Background on Lead Poisoning Prevalence;

(c) Goals, Objectives, and Activities; and

(d) Evaluation Plan.

(18) Work Plan. The work plan shall consist of the goals and specific time-phased objectives established for each of the major activities and tasks required to implement the program. These major activities and tasks are outlined in the Quarterly Progress Reporting System (Form HUD-96006) and include: Program Management and Capacity Building including data collection and program evaluation; Community Education, Outreach and Training; and Lead Hazard Activities including testing, interventions conducted, and temporary relocation.

(a) The work plan narrative shall include:

(i) The management plan that describes how the project will be managed, and the timeline for staffing the program, establishing a lead-based paint contractor pool, and obtaining HUD approval for the Release of Funds Request (HUD Form 7015.15);

(ii) A detailed description of how assistance and funding will flow from the grantee to the actual performers of the hazard reduction work;

(iii) The selection process for sub-grantees, sub-contractors and/or subrecipients;

(iv) The identification, selection, and prioritization process for the particular properties where lead hazard control interventions are to be conducted;

(v) A description of the financing mechanism used to support lead hazard control work in units (name of administering agency, eligibility requirements, type of financing (grant, forgivable or deferred loans, private sector financing, etc.), any owner contribution requirement, and the terms, conditions and amounts of assistance available (include affordability terms and forgiveness and recapture of funds provisions);

(vi) The inspection/risk assessment testing procedures using EPA standards to identify lead hazards and to conduct clearance testing. (Dust wipe samples, soil samples and any paint samples to be analyzed by a laboratory must be analyzed by a laboratory recognized by the EPA National Lead Laboratory Accreditation Program (NLAPP));

(vii) The process for developing work specifications and bids on properties selected for lead hazard control;

(viii) The levels of intervention and clearance testing procedures to be conducted for units enrolled;

(ix) The number of rental-occupied, vacant, and owner-occupied units proposed for each intervention level;

(x) The relocation plan that will be carried out for residents required to be out of their homes during hazard control activities;

(xi) The education, outreach, and training activities to be undertaken by the program;

(xii) The blood lead testing and other health measures to be undertaken to protect children and other occupants of units undergoing lead hazard control work; and

(xiii) The evaluation process used to measure program performance.

(b) Objectives and Milestones. Measurable quarterly performance objectives include:

(i) The overall objectives for lead hazard control activities including the total number of lead hazard evaluations, units projected to be completed and cleared, and the expenditure of federal grant funds (HUD Agreement HUD-1044). Quarterly performance milestones are to be developed to achieve the overall objectives for these activities;

(ii) The overall objectives for community education, outreach, and training activities. Quarterly performance milestones are to be developed to achieve the overall objectives for these activities;

(iii) Quarterly performance benchmarks for 36-, and 42-month grants have been developed. These benchmarks included in this NOFA can also be found on the HUD Web site at: http://www.hud.gov/offices/lead/grantfrm/hudgrantee.cfm.

Development of your work plan should include and reflect these benchmark standards.

(19) If your program includes conducting research involving human subjects in a manner which requires Institutional Review Board (IRB) approval and periodic monitoring, address how you will obtain such approval and your monitoring plan (before you can receive funds from HUD for activities that require IRB approval, you must provide an assurance that your study has been reviewed and approved by an IRB and evidence of your organization's institutional assurance). Describe how you will provide informed consent (e.g., from the subjects, their parents, or their guardians, as applicable) to help ensure their understanding of, and consent to, the elements of informed consent, such as the purposes, benefits, and risks of the research. Describe how this information will be provided and how the consent will be collected. For example, describe your use of “plain language” forms, flyers, and verbal scripts, and how you plan to work with families with limited English proficiency or primary languages other than English, and with families which include persons with disabilities.

IV. Application and Submission Procedures

A. Address To Request Application Package

See the General Section of the SuperNOFA for specific procedures concerning the form of application submission (e.g., mailed applications, express mail overnight delivery). Be advised that there is no Application Kit for this Lead Hazard Control Grant Program. All the information required to submit an application is contained in this Notice of Funding Availability (NOFA).

1. Guidebook and Further Information. You may request general information, copies of the General Section and Program Sections of the SuperNOFA from the SuperNOFA Information Center (800-HUD-8929 or 800-HUD-2209 (TTY)) between the hours of 9 a.m. and 8 p.m. (eastern time) Monday through Friday, except on federal holidays. When requesting information, please refer to the name of the program you are interested in. Be sure to provide your name, address (including zip code), and telephone number (including area code). To ensure sufficient time to prepare your application, requests for copies of the SuperNOFA or this NOFA can be made immediately following publication of the SuperNOFA. The SuperNOFA Information Center opens for business simultaneously with the publication of the SuperNOFA. You can also obtain information on this SuperNOFA and download application information for this SuperNOFA through the Web site, http://www.grants.gov.

B. Content and Form of Application Submission

1. Application Submission Requirements for New and Prior Grantee Applicants (Including Grantees Receiving a Renewal Grant Under the FY2002 Competition)

Applicants under this category of the NOFA are to follow the submission requirements described in Section IV.B.1.a. below.

Grantee applicants eligible to submit a Performance-Based Renewal application are to follow the submission requirements described in Section IV. B.2. below.

a. Applicant Information.

(1) Application Format. The application narrative response from new and eligible prior grantees to the Rating Factors is limited to a maximum of 15 pages (excluding appendices and worksheets). Your response must be typewritten on one side only on 8½ by 11 inch paper using a 12-point standard font with not less than “ inch margins on all sides. Appendices should be referenced and discussed in the narrative response. Materials provided in the appendices should directly apply to the specific rating factor narrative. Information that is not referenced or does not directly apply to a specific narrative response may not be rated or ranked by reviewers.

(2) Application Checklist (Voluntary). Your application must contain all of the required information noted in this Program Section and the General Section of this SuperNOFA. These items include the standard forms, certifications, and assurances listed in the General Section of this SuperNOFA that are applicable to this funding (collectively referred to as the “standard forms”). The standard forms can be found in the General Section of this SuperNOFA. The “Checklist and Submission Table of Contents” below includes a listing of the required items needed for submitting a complete application and receiving consideration for funding. You are to assemble the application in the order shown in the Checklist and Submission Table of Contents and note the corresponding page number where the response is located. Inclusion of this Checklist and Submission Table of Contents with your proposal is recommended but not required.

BILLING CODE 4210-32-P

BILLING CODE 4210-32-C

(3) The following are the items to be included in an application:

(a) Transmittal Letter. The applicant (or applicants) submitting the application, the dollar amount requested, the number of units to receive lead hazard control work, what the program funds are requested for, the nature of involvement with grassroots faith-based and other community-based organizations, and the name, mailing address, telephone number, and principal contact person of “the applicant.”

(b) Checklist and Submission Table of Contents (Voluntary)

(c) Abstract Summary. An abstract summary describing the goals and objectives of your proposed program (two-page maximum). The abstract should briefly highlight the major goals and objectives established for the program.

(d) Forms. All forms as required by Section IV.(B) of the General Section of the SuperNOFA.

(e) Budget. A detailed budget (total budget is the federal share and matching contribution (Form HUD-424-CBW) with supporting narrative and cost justifications for all budget categories of your grant request. You must provide a separate estimate for the overall grant management element (Administrative Costs), which is more fully defined in Section IV. of this NOFA. The budget shall include not more than 10 percent for administrative costs and not less than 90 percent for direct project elements. A minimum of 65 percent of the total federal amount requested must be dedicated to direct lead hazard control activities (Applicants are to identify the direct lead hazard control costs that meet this requirement). In the event of a discrepancy between grant amounts requested in various sections of the application, the amount you indicate on the Form SF-424 will govern as the correct value.

(f) Matching Contribution. An itemized breakout of your required matching contribution, including:

(i) Values placed on donated in-kind services;

(ii) Letters or other evidence of commitment from donors; and

(iii) The amounts and sources of contributed resources.

(g) Application Forms. Standard Forms SF-LLL and Forms HUD-27300, 2880, 2990, 2991, 2993, and 2994.

(h) Grant Partners. Contracts, Memoranda of Understanding or Agreement, letters of commitment or other documentation describing the proposed roles of agencies, local broad-based task forces, participating grassroots faith-based and other community or neighborhood-based groups or organizations, local businesses, and others working with the program.

(i) Consolidated Plan Element. A copy of the lead hazard control element included in your current program year's Consolidated Plan. (This does not apply to Native American Tribes) You should include the discussion of any lead-based paint issues in your jurisdiction's Analysis of Impediments, particularly as it addresses your target areas.

(j) Rating Factor Response. Narrative responses to the five rating factors. b. Proposed Activities. Unless otherwise noted in this NOFA, all applicants must, at a minimum, describe the proposed activities in the narrative responses to the rating factors. Your narrative statement must be numbered in accordance with each factor for award (Rating Factors 1 through 5). Please refer to the General Section for additional requirements and submittal procedures.

2. Application Submission Requirements for Competitive Performance-Based Renewal Applicants

a. General Instructions and Guidelines. Current lead hazard control grantees that meet the eligibility requirements described in Section III A.2. and 4. are eligible to submit an application for a Competitive Performance-Based Renewal grant. If a current lead hazard control grantee does not meet these threshold requirements, they are not eligible to submit a Competitive Performance-Based Renewal application.

b. Preparing Your Application.

(1) Application Checklist (Voluntary). Your application must contain all of the required information noted in this Program Section and the General Section of this SuperNOFA. These items include the standard forms, certifications, and assurances listed in the General Section of this SuperNOFA that are applicable to this funding (collectively referred to as the “standard forms”). The standard forms can be found in the General Section of this SuperNOFA. The “Checklist and Submission Table of Contents” below includes a listing of the required items needed for submitting a complete application and receiving consideration for funding. You are to assemble the application in the order shown in the Checklist and Submission Table of Contents and note the corresponding page number where the response is located. Inclusion of this Checklist and Submission Table of Contents with your proposal is recommended but not required.

BILLING CODE 4210-32-P

(2) Transmittal Letter. Prepare a brief letter applying for the Performance-Based Renewal and signed by the Chief Executive or other authorized official. The transmittal letter should indicate the applicant agency, the amount of the grant requested for a Performance-Based Renewal, the amount of cash or in-kind matching contributions and the number of housing units in which lead hazard control will be conducted. Also include the name, telephone number, facsimile number, and e-mail address of the individual to contact for further information pertaining to the application.

(3) Abstract Summary. Prepare a brief (two-page maximum) abstract summary describing your jurisdiction, and the proposed lead-based paint hazard control project. Include the following items (be specific and concise):

• The total amount of the federal request and the amount of the matching contribution for the entire period of performance (including your current grant period and up to 36 months additional period);

• the number of units in which lead hazard control activities will be conducted (include your current grant agreement and those to be treated during the 36 month modification period);

• the organization(s) that will participate in the program, either conducting lead hazard control activities or in other roles;

• demographic, socio-economic and housing characteristics of neighborhood(s) selected for hazard control activities;

• your prior activities, experience and achievements in residential lead-based paint hazard control work or related work, including testing and treatment methods, and collaboration with other agencies;

• the scope and magnitude of the proposed lead hazard control project that details the area selected, number of housing units, intended beneficiaries, and the projected impact on the neighborhood/jurisdiction; how the work will be accomplished;

• Any changes proposed in your work plan strategy for the 36-month proposed extension period.

(4) Work Plan. Applicants should develop a work plan that includes specific, measurable and time-phased objectives for each major program activity. The applicant's work plan should reflect the benchmark standards for production, expenditures and other activities that have been developed by the Office of Healthy Homes and Lead Hazard Control. These benchmark standards, as well as policy guidance on developing work plans, have been included in this Section of the NOFA and are available at the HUD Web site at: http://www.hud.gov/offices/lead/lhc/pgi/index.cfm. Applicants should describe the proposed activities and provide HUD with measurable outcome results to be achieved with the requested funds. Measurable outcome results should be stated in terms relevant to the purpose of the program funds as a direct result of the work performed within the performance period of the grant (e.g., estimated number of units to be made lead-safe, estimated number of children living in units made lead-safe, estimated number of persons to be trained to perform lead hazard control activities, estimated number of educational programs to be presented and/or the number of persons to be served by such programs, and the basis for these estimates). Each proposed activity must be eligible as described in the NOFA and meet statutory requirements for assistance to low- and very low-income persons. Applicants are to complete the Factor 3 Table-Soundness of Approach to support the work plan narrative.

3. Forms, Certifications, Assurances, and Other Related Grant Application Information.

The forms, certifications, assurances and other related grant application resource information that will assist you in preparing your application in response to this NOFA can be found in the General Section of the SuperNOFA and in this NOFA. These forms are also available for this SuperNOFA through the HUD Web site at: http://www.hud.gov.

In addition, applicants submitting FY2004 grant applications under any other Office of Healthy Homes and Lead Hazard Control (OHHLHC) program NOFAs must provide assurances that all funded applications will be managed and implemented concurrently. In addition, the applicant must describe how program costs will be allocated among the different grant programs for which the applicant is seeking funding.

a. Standard Forms. Refer to the General Section of the SuperNOFA for the standard forms to be included in the application including the use of the SF-424 and Form HUD-424. Refer to the Checklist and Submission Table of Contents for the complete list of forms applicable to eligible new, prior grantee or renewal applicants for this NOFA.

b. Forms for Rating Factor Responses. The following forms are to be completed and included in the application.

(1) Rating Factor 1 Table-Capacity of the Applicant and Relevant Organizational Experience (For Lead Hazard Control (LHC) and Competitive Performance Based Renewal (CPBR) Applicants).

(2) Rating Factor 2 Table-Need/Extent of the Problem (For LHC Program only).

(3) Rating Factor 3 Table-Soundness of Approach (LHC and CPBR Program applicants); and Work Plan Development Worksheet with Minimum Benchmark Standards for 42 Months—Form HUD-96009 (LHC) or for 36 Months—Form HUD-96008 (CPBR applicants).

(4) Rating Factor 4 Table-Leveraging Resources (LHC Program only).

(5) Rating Factor 5-Form HUD-96010 Logic Model—Achieving Results and Program Evaluation (LHC Program only).

BILLING CODE 4120-32-P

BILLING CODE 4120-32-P

C. Submission Dates and Times

1. Application Due Dates: The application is due July 13, 2004. Refer to the General Section of the SuperNOFA for additional submission requirements including acceptable submission methods, acceptable proof of delivery and other information to assist the applicant.

D. Intergovernmental Review: Not required

E. Funding Restrictions

1. Ineligible Activities. You may not use grant funds for:

a. Purchase of real property.

b. Purchase or lease of equipment having a per unit cost in excess of $5,000, except for the purchase of X-ray fluorescence analyzers.

c. Chelation or other medical treatment costs related to children with elevated blood lead levels. Non-federal funds used to cover these costs may be counted as part of the required matching contribution.

d. Lead hazard control activities in publicly owned housing, or project-based Section 8 housing (This housing stock is not eligible under Section 1011 of the Lead-Based Paint Hazard Reduction Act).

2. Administrative Costs. There is a 10 percent maximum for administrative costs as specified in Section 1011(j) of the Residential Lead-Based Paint Hazard Reduction Act of 1992 (Title X of the Housing and Community Development Act of 1992, Pub. L. 102-550). Additional information about allowable administrative costs is provided below.

a. Purpose. The intent of this HUD grant program is to allow the Grantee to be reimbursed for the reasonable direct and indirect costs, for the overall management of the grant. In most instances the grantee, whether a state or a local government, principally serves as a conduit to pass funding to sub-grantees, which are to be responsible for conducting lead-hazard reduction work. Program planning and management costs of sub-grantees and other subrecipients are not included in the 10 percent maximum for grantee administrative costs. Congress set a maximum of 10 percent of the total grant sum for the grantee to perform the function of overall management of the grant program, including passing on funding to sub-grantees. The cost of that function, for the purpose of this grant, is defined as the “administrative cost” of the grant, and is limited to 10 percent of the total grant amount. The balance of 90 percent or more of the total grant sum is reserved for sub-grantees or other direct-performers of lead hazard identification and reduction work including relocation. For purposes of the Lead-Based Paint Hazard Control Grant Program, lead hazard identification and reduction includes lead paint inspection/risk assessments, interim controls, abatement of lead hazards, clearance testing, and relocation.

b. Administrative Costs: What They Are Not. For the purposes of this HUD grant program for states and local governments to provide support for the evaluation and reduction of lead hazards in low- and moderate-income, private target housing, the term “administrative costs” should not be confused with the terms “general and administrative cost,” “indirect costs,” “overhead,” and “burden rate.” These are accounting terms usually represented by a government-accepted standard percentage rate. The percentage rate allocates a fair share of an organization's costs that cannot be attributed to a particular project or department (such as the chief executive's salary or the costs of the organization's headquarters building) to all projects and operating departments (such as the Fire Department, the Police Department, the Community Development Department, the Health Department or this program). Such allocated costs are added to those projects' or departments' direct costs to determine their total costs to the organization.

c. Administrative Costs: What They Are: For the purposes of this HUD grant program, “Administrative Costs” are the grantee's allowable direct costs for the overall management of the grant program plus the allocable indirect costs. The allowable limit of such costs that can be reimbursed under this program is 10 percent of the total grant sum. Should the grantee's actual costs for overall management of the grant program exceed 10 percent of the total grant sum, those excess costs shall be paid for by the grantee. However, excess costs paid for by the grantee may be shown as part of the requirement for cost-sharing funds to support the grant.

d. Administrative Costs Definition:

(1) General: Administrative costs are the allowable, reasonable, and allocable direct and indirect costs related to the overall management of the HUD grant for lead-hazard reduction activities. Those costs shall be segregated in a separate cost center within the grantee's accounting system, and they are eligible costs for reimbursement as part of the grant, subject to the 10 percent limit. Such administrative costs do not include any of the staff and overhead costs directly arising from specific sub-grantee program activities eligible under this NOFA, because those costs are eligible for reimbursement under a separate cost center as a direct part of project activities.

The grantee may elect to serve solely as a conduit to sub-grantees, who will in turn perform the direct program activities eligible under this NOFA, or the grantee may elect to perform all or a part of the direct program activities in other parts of its own organization, which shall have their own segregated, cost centers for those direct program activities. In either case, not more than 10 percent of the total HUD grant sum may be devoted to administrative costs, and not less than 90 percent of the total grant sum shall be devoted to direct program activities. The grantee shall take care not to mix or attribute administrative costs to the direct project cost centers.

(2) Specific. Reasonable costs for the grantee's overall grant management, coordination, monitoring, and evaluation are eligible administrative costs. Subject to the 10 percent limit, such costs include, but are not limited to, necessary expenditures for the following goods, activities and services:

(a) Salaries, wages, and related costs of the grantee's staff, the staff of affiliated public agencies, or other staff engaged in grantee's overall grant management activities. In charging costs to this category the recipient may either include the entire salary, wages, and related costs allocable to the program for each person whose primary responsibilities (more than 65 percent of their time) with regard to the grant program involve direct overall grant management assignments, or the pro rata share of the salary, wages, and related costs of each person whose job includes any overall grant management assignments. The grantee may use only one of these two methods during this program. Overall grant management includes the following types of activities:

(i) Preparing grantee program budgets and schedules, and amendments thereto;

(ii) Developing systems for the selection and award of funding to sub-grantees and other sub-recipients;

(iii) Developing suitable agreements for use with sub-grantees and other sub-recipients to carry out grant activities;

(iv) Developing systems for assuring compliance with program requirements;

(v) Monitoring sub-grantee and sub-recipient activities for progress and compliance with program requirements;

(vi) Preparing presentations, reports, and other documents related to the program for submission to HUD;

(vii) Evaluating program results against stated objectives;

(viii) Providing local officials and citizens with information about the overall grant program; however, a more general education program, helping the public understand the nature of lead hazards, lead hazard reduction, blood-lead screening, and the health consequences of lead poisoning is a direct project support activity);

(ix) Coordinating the resolution of overall grant audit and monitoring findings; and

(x) Managing or supervising persons whose responsibilities with regard to the program include such assignments as those described in paragraphs (a) through (i).

(b) Travel costs incurred for official business in carrying out the overall grant management;

(c) Administrative services performed under third party contracts or agreements, for services directly allocable to grant management such as: legal services, accounting services, and audit services;

(d) Other costs for goods and services required for and directly related to the overall management of the grant program; and including such goods and services as telephone, postage, rental of equipment, renter's insurance for the program management space, utilities, office supplies, and rental and maintenance (but not purchase) of office space for the program.

(e) The fair and allocable share of grantee's general costs that are not directly attributable to specific projects or operating departments such as salaries, office expenses and other related costs for local officials (e.g., mayor and city council members, etc.), and expenses for a city's legal or accounting department which are not charged back to particular projects or other operating departments. If a grantee has an established burden rate, it should be used; if not, the grantee shall be assigned a negotiated provisional burden rate, subject to final audit.

3. Eligibility of HUD-Assisted Housing. The chart “Eligibility of HUD-Assisted Housing” lists the housing units that may participate under the Lead Hazard Control Grant Program. Only those HUD-assisted units on the list are eligible to participate and receive Lead Hazard Control Grant funds.

BILLING CODE 4210-32-P

BILLING CODE 4210-32-C

F. Other Submission Requirements: Refer to the General Section of the SuperNOFA for other application submission requirements.

1. Addresses and Number of Copies. The applicant, must submit an original and 3 copies of a complete application to: Department of Housing and Urban Development, Office of Healthy Homes and Lead Hazard Control, ATTN: Lead Hazard Control Grant Program, 451 Seventh Street, SW., Room P3206, Washington, DC 20410.

V. Application Review Information

A. Criteria

1. New and Prior Grantee Applicants (including eligible FY2002 (Round 10) Renewal Grantees)

a. Rating Factor 1: Capacity of the Applicant and Relevant Organizational Experience (20 points Maximum). This factor addresses your organizational capacity necessary to successfully implement the proposed activities in a timely manner. The rating of the “applicant” or the “applicant's staff” for technical merit or threshold compliance, unless otherwise specified, includes any grassroots faith-based and other community-based organizations, sub-contractors, consultants, subrecipients, and members of consortia that are firmly committed to your project. In rating this factor, HUD will consider:

(1) The applicant's recent, relevant and successful demonstrated experience (including working with governmental, parent groups, and grassroots faith-based or other community-based partners) to undertake eligible program activities. Applicants are to identify the organizations or entities that will assist the applicant in implementing the program. The applicant must describe the knowledge and experience of the current or proposed overall project director and day-to-day program manager in planning and managing large and complex interdisciplinary programs, especially involving housing rehabilitation, public health, or environmental programs. The applicant must demonstrate that it has sufficient personnel or will be able to retain qualified experts or professionals, and be prepared to perform lead hazard evaluation, lead hazard control intervention work, and other proposed activities within 120 days of the effective date of the grant award. HUD reserves the right to terminate the grant if sufficient personnel or qualified experts are not retained within these 120 days. In the narrative response for this factor, you should include information on your program staff, their experience, their commitment to the program, salary information, and position titles. Resumes (for up to three key personnel) or position descriptions for those key personnel to be hired, and a clearly identified organizational chart for the lead hazard control grant program effort (and for the overall organization) must be included in an appendix. Indicate the percentage of time that key personnel will devote to all lead hazard control projects (see Factor 1 Table—Key Personnel and Partners). The applicant's day-to-day program manager must be experienced in the management of housing rehabilitation or lead hazard control, childhood lead poisoning prevention, or similar work involving project management, and must be dedicated to the proposed program for a minimum of 75 percent of the time. Ideally, the program manager should be available at the inception of the program in order to implement this comprehensive program within the 120-day period after the effective date of the grant award. The applicant should provide a description of any previous experience in enrolling units and in completing lead hazard control work, housing rehabilitation or other work in a timely and effective manner. Describe how any other principal components of your agency, other public entities, or other organizations will participate in implementing or otherwise supporting or participating in the grant program. You may demonstrate capacity by thoroughly describing your prior experience in initiating and implementing lead hazard control efforts and/or related environmental, health, or housing projects. You should indicate how this prior experience will be used in carrying out your proposed comprehensive Lead-Based Paint Hazard Control Grant Program.

(2) If the applicant received previous HUD Lead-Based Paint Hazard Control Grant funding, this past experience will be evaluated in terms of cumulative progress and achievements under the previous grant(s). If the applicant has received multiple HUD Lead Hazard Control Grants, performance under the most recent grant award will be primarily evaluated. The applicant must provide a description of its progress and performance implementing the most recent grant award including the total number of housing units enrolled, assessed, and completed and cleared as a result of program efforts. The applicant must also describe outcomes, capacity building efforts and impediments experienced during a previous Lead Hazard Control Grant program. Other work plan activities and tasks associated with implementing HUD's Lead-Safe Housing Regulation, integrating lead-safe work practices into the private market, and promoting effective education, outreach, and other training activities should be described. The applicant should also describe specific instances where the program has contributed positive impacts in the community, and indicate what activities were undertaken to develop, enhance or expand the local infrastructure through collaboration.

HUD's evaluation process will consider an applicant's past performance record as reported to HUD in effectively organizing and managing their grant operations, in meeting performance and work plan benchmarks and goals, and in managing funds, including their ability to account for funds appropriately, the timely use of funds received either from HUD or other federal, state, or local programs, and meeting performance milestones. HUD may also use other information relating to these items from sources at hand, including public sources such as newspapers, Inspector General or Government Accounting Office Reports or Findings, hotline complaints, or other sources of information that have been proven to have merit.

(3) Applicants are to complete the Factor 1 Table to support the narrative information submitted.

b. Rating Factor 2: Needs/Extent of the Problem (20 points maximum). This factor addresses the extent to which there is a need for the proposed program to address a documented problem related to lead-based paint and lead-based paint hazards in your identified target area(s). An applicant will be scored in this rating factor based on their documented need as evidenced by thorough, credible, and appropriate data and information. The evaluation will be based only on the applicant's documentation of the data submitted. The data submitted in response to this rating factor will be verified using data available from the Census, HUDuser, other data available to HUD and/or in cooperation with the Centers for Disease Control and Prevention. The applicant is to complete the Factor 2 Table—Need/Extent of the Problem in Section IV. of this NOFA.

A maximum of 20 Points will be awarded in this rating factor based on the information documenting the number of children with an elevated blood lead level, the number of pre-1978 housing units, and the number and percentage of families with incomes at or below 80 percent of the Area Median Income (AMI) as determined by HUD within your jurisdiction and/or target areas.

(1) Documented Number of Children with an Elevated Blood Lead Levels (EBLL) (10 Points Maximum).

Provide the actual number of children documented as having an elevated blood lead level (EBLL) residing within the applicant's jurisdiction for the most recent complete calendar year and identify the source of the data. Data prior to calendar year 2001 will not be accepted. States must report the number in the city, county, or other area where funds will actually be used. Consortia of local governments must report the number in the cities or counties making up the consortium. For the purposes of this application, the “documented number of children” with an EBLL is based on the Centers for Disease Control and Prevention (CDC) level of concern. A child under six years of age with a blood lead level test result equal to or greater than 10 micrograms of lead per deciliter of blood, which was performed by a medical health care provider is considered to have an EBLL. The actual number of children with an EBLL (not an estimate) must be reported to HUD in order to receive points for this subfactor. Do not send the children's names or addresses or other identifiers. Failure to provide this number in the application means that no points will be awarded for this subfactor. For you to receive maximum points for this rating factor there must be a direct relationship between your proposed lead hazard control activities and the documented community needs. Since an objective of the program is to prevent at-risk children from being poisoned, specific attention must be paid to documenting the identified need as it applies to any selected targeted area(s). Applicants are to use the Factor 2 Table to document the target area(s) need:

Points based on the documented number of children with an EBLL will be awarded based on the chart below.

Points awarded | Number of documented children with EBLL (≥10μg/dL)
2 | <100
4 | 100-250
6 | 251-500
8 | 501-799
10 | ≥800

(2) Housing market data relevant to the specified target area(s) Housing Age for the following sub-categories: Pre-1940, 1940-1949, 1950-1959, 1960-1969, 1970-1979 and 1980 or newer (Census information includes 1970-1979 category). (5 Points Maximum);

Points awarded | Pre-1980 owner-occupied and renter occupied units
1 | ≤3500
2 | >3500-10,000
3 | >10,000-20,000
4 | >20,000-35,000
5 | >35,000

(3) The number and percentage of very-low (income less than 50% of the area median) and low- (income less than 80% of the area median) income families, as determined by HUD (www.huduser.org), with adjustments for smaller and larger families (Very-Low and Low-Income Population) (5 Points Maximum); Points will be awarded for the percentage of the population at or below (80%) of the Area Median Income for the jurisdiction.

Points awarded | Very low and low-income percentages of families <80% in jurisdiction
1 | ≤15%
2 | >15-20%
3 | >20-25%
4 | >25-30%
5 | >30%

c. Rating Factor 3: Soundness of Approach (40 points). This factor addresses the quality and cost-effectiveness of your proposed work plan. Applicants should develop a work plan that includes specific, measurable and time-phased objectives for each major program activity. The applicant's work plan should reflect benchmark standards for production, expenditures and other activities that have been developed by the Office of Healthy Homes and Lead Hazard Control. These benchmark standards, as well as policy guidance on developing work plans have been included in this NOFA and are available at the HUD Web site at: www.hud.gov/offices/lead/lhc/pgi/index.cfm. This policy guidance provides a sample format and outline for developing the Lead Hazard Control Grant Program Work Plan.

Applicants should describe the proposed activities and provide HUD with measurable outcome results to be achieved with the requested funds. Measurable outcome results should be stated in terms relevant to the purpose of the program funds as a direct result of the work performed within the performance period of the grant (e.g., estimated number of units to be made lead-safe, estimated number of children living in units made lead-safe, estimated number of persons to be trained to perform lead hazard control activities, estimated number of educational programs to be presented and/or the number of persons to be served by such programs, and the basis for these estimates). Each proposed activity must be eligible as described in the NOFA and meet statutory requirements for assistance to low- and very low-income persons.

Your response to this factor must include the elements described below:

Lead Hazard Control Work Plan Strategy (32 points). Describe your work plan goals and specific time-phased strategy to complete work under the grant within the 42-month or less period of performance for your lead hazard control grant program. You should provide the information described in paragraphs (a) through (c) of this factor.

(1) Implementing a Lead Hazard Control Program (13 of 32 points). Describe how you will implement the strategy for your proposed lead hazard control program. The description must include information on:

(a) How the project will be organized, managed, and staffed. You must also identify the specific steps that will be taken to train and ensure the availability of enough lead-based paint contractors and workers to conduct lead hazard control interventions, and to perform other program activities. In addition, you must provide a detailed description of the selection process for sub-grantees, subcontractors or subrecipients, and how assistance and funding will flow from the grantee to those who will actually perform the work under the grant.

(b) The overall number of eligible privately owned housing units scheduled for lead hazard control intervention work and the strategy for their identification, selection, prioritization, and enrollment in the selected target area(s). Discuss the eligibility criteria for unit selection and how the program will identify units that meet these criteria. Explain how you would target resources to maximize the return on investment from grant funding. As funding is a constraint for this program, it is imperative to maximize the impact of grant dollars. Include in this discussion your proposed technical approach and how this choice addresses local conditions and needs as well as attempting to maximize the number of children protected from lead hazards. As there are a variety of reduction techniques that grantees can apply to lead hazards, it is important that HUD be able to assess the effectiveness of a grantee's choice of a technical strategy. Explain how referrals of eligible units will be obtained from childhood lead poisoning prevention programs, other health care or housing agencies or health providers that serve children. Also discuss how referrals from the Section 8/Housing Choice Voucher programs and other agencies that provide housing assistance to low-income households with children including CDBG, HOME Investment Partnerships Program-funded housing programs or other sources. (Include as attachments any referral agreements, commitment letters or other documents from other entities that describe their participation recruiting eligible units in the lead hazard control grant program; see Rating Factor 4 Leveraging Resources for additional information regarding referral agreements. Applicants are to complete the Factor 3 Table).

(c) The degree to which the work plan focuses on eligible privately owned housing units occupied or to be occupied by low-income families with children under six years of age. Describe your planned approaches to control lead hazards in vacant and/or occupied units before children are poisoned and your plans to ensure that the program will continue to affirmatively market and match these units made lead-safe with low-income families with children under six years of age in the future. Discuss strategies to control lead hazards in units where children have already been identified with an elevated blood lead level (EBL), including your process for referring and tracking children with EBLs for medical case management, and your capacity to rapidly complete lead hazard control work in their units. Provide estimates of the number of low-income children you will assist through this program. You should describe how the program will respond to the needs of children with elevated blood lead levels (EBLs) located outside the target area(s).

(d) Discuss the lead hazard control financing strategy, including eligibility requirements, terms, conditions, dollar limits, and amounts available for lead hazard control work. Applicants must also describe how grant funds will be recaptured by the program in the event that a recipient of grant funds fails to comply with any terms and conditions of the financing arrangement (e.g., affordability, sale of property, etc.). You must discuss the way assistance from the grant funds will be administered to or on behalf of property owners (e.g., use of grants, deferred loans and/or forgivable loans, and the basis and schedule for forgiveness), and the role of other resources, such as private sector financing. You should identify the entity that will administer the financing process and describe how coordination and payment between the program and contractors performing the work will be accomplished. Describe matching requirements, if any, proposed for assistance to rental property owners.

(e) Statewide or jurisdiction-wide strategic plan to eliminate childhood lead poisoning as a major public health problem by 2010. Prior grantee and new applicants are encouraged to include an outline of the steps that they will take to participate in or develop a statewide or jurisdiction-wide strategic plan. Applicants are encouraged to collaborate with Centers for Disease Control and Prevention (CDC) Childhood Lead Poisoning Prevention grantees, who are now required to develop such plans. At a minimum, the plan must include the following elements:

(i) Mission Statement;

(ii) Purpose and Background on Lead Poisoning Prevention Prevalence;

(iii) Goals, Objectives, and Activities; and

(iv) Evaluation Plan.

(f) Consolidated Plan and Analysis of Impediments to Fair Housing Choice. You also must provide documentation of the priority that the community's Consolidated Plan and Analysis of Impediments to Fair Housing Choice has placed on addressing the needs you described. (This section does not apply to Native American Tribes. However, a Native American Tribe applicant may use the Indian Housing Plan to document how the Indian Housing Plan addresses the need for lead hazard control grant activities.) You should describe how your proposed program will satisfy the stated needs in the Consolidated Plan or Indian Housing Plan, and eliminate impediments identified in the Analysis of Impediments (AI). Also describe how your proposed program will further and support the policy priorities of the Department: including promoting healthy homes and the quality of housing. The applicant should describe its activities that remove barriers to affordable housing within their communities or support such efforts at the state and local level. This priority relates to HUD's Strategic Goal for Increasing Homeownership Opportunities and Promoting Decent Affordable Housing. In addition, applicants should describe how your strategy will provide long-term benefits to families with children under six years of age, and whether any of the proposed activities will occur in an Enterprise Zones/Enterprise Community/Renewal Communities (EZ/EC/RC) and how they will benefit the residents of those zones or communities. A list of EZ/EC/RC communities is available at: http://www.hud.gov.

If your application addresses needs that are in the Consolidated Plan, Analysis of Impediments to Fair Housing Choice, or the result of court orders or consent decrees, settlements, conciliation agreements, voluntary compliance agreements, Childhood Lead Poisoning Prevention Programs or other relevant local initiatives you will receive a higher score in this rating factor than applicants that do not relate their program to identified needs.

(2) Technical Approach/Performance (15 of 32 points). New and prior grantee and FY2002 (Round 10) renewal grantee applicants are to respond to the items below (see Factor 3 Table of this NOFA).

(a) Describe your process for the conduct of a combined paint inspection and risk assessment lead hazard evaluation in units of eligible privately owned housing to confirm that there are lead-based paint hazards in the housing units where lead hazard control is undertaken.

(b) Describe your testing methods, schedule, and costs for performing blood lead testing, combined paint inspections and risk assessments and clearance examinations to be used. If you propose to use a more restrictive standard than the HUD/EPA thresholds (e.g., less than 0.5 percent or 1.0 mg/ square centimeter for lead in paint, or less than 40, 250, 400 μg/square foot for lead in dust on floors, sills and troughs, respectively; or 400 ppm in bare soil in children's play areas and 1200 ppm for bare soil in the rest of the yard), identify the standard(s) that will be used. All testing shall be performed in accordance with applicable regulations.

(c) Describe the lead hazard control methods and strategies you will undertake and the number of units you will treat for each method selected (interim controls or hazard abatement). Complete abatement of all lead painted surfaces in all units is generally not acceptable as a strategy. In cases where only a few surfaces have lead hazards in a specific unit and abatement is cost-effective, the applicant must provide a detailed rationale for selecting complete abatement as a strategy. Provide an estimate of the per unit costs (and a basis for those estimates) for each lead hazard control method proposed and a schedule for initiating and completing lead hazard control work in the selected units. Discuss efforts to incorporate cost-effective lead hazard control methods. Explain your cost estimates, providing detail on how the estimates were developed, with particular references to cost effectiveness.

(d) Schedule. Provide a realistic schedule for completing key activities, by quarter, so that all activities can be completed before or within the period of performance of the grant. Key production activities include enrollment of units, paint inspections/risk assessments, and completion/clearance of units. When developing the schedule, the applicant shall take into consideration their previous experience and performance in administering similar lead hazard control or rehabilitation programs.

(e) Time frames. Describe the estimated elapsed timeframe for treating a typical unit that will receive lead hazard control, including referral/intake, enrollment (qualification of the unit as eligible), combined paint inspection/risk assessments, preparation of specifications or work write-up, selection of the contractor, lead hazard control intervention work activities, quality control and monitoring of work activities, and clearance. The time frame should include an estimate of the staff and contractor time required to treat a typical unit that will receive lead hazard control. Describe the schedule for emergency referrals (e.g., unit occupied by a child under six years of age with an elevated blood lead level). List the type of unit (e.g., owner-occupied, rental, or vacant) and the number of units projected in each of the following categories: lead-based paint inspections/risk assessments; interim controls; hazard abatement and clearance inspections.

(f) Workflow and Production Control. Provide guidelines and/or flowcharts showing agency/partner responsibilities for each step in the process (from intake to clearance) and describe/show how coordination and hand-offs will be handled. Discuss how the actual production status of units, from intake to final clearance, will be monitored, and how and when production bottlenecks will be identified, remedied and monitored.

(g) Describe how you will integrate proposed lead hazard control activities with rehabilitation activities, including providing the training needed to create a workforce properly trained in lead-safe work practices for units assisted or rehabilitated under other HUD programs, and any collaboration with local housing or health departments, rehabilitation programs or community development corporations to stage lead hazard control and rehabilitation in the same units.

(h) Describe your contracting process, including development of specifications or adoption of existing specifications for selected lead hazard control methods. Describe the management processes you will use to ensure the cost-effectiveness of your lead hazard control methods. Your application must include a discussion of the contracting process for the conduct of lead hazard control activities in the selected units, and requirements for coordination among lead hazard control, rehabilitation, weatherization, and other contractors.

(i) Describe your plan for occupant protection or the temporary relocation of the occupants of units selected and undergoing lead hazard control work. Describe any plan to avoid overnight relocation in small scale projects consistent with 24 CFR 35.1345(a)(2) and HUD's Interpretive Guidance of 24 CFR part 35, including J24, R18, and R19. Your work plan should address the use of safe houses and other temporary housing arrangements, storage of household goods, stipends, incentives, etc.

(3) Economic Opportunity (4 points).

(a) Describe the ways you will train individuals and contractors in housing related trades, such as painters, remodelers, renovators, maintenance personnel, rehabilitation specialists, and others in lead-safe work practices.

(b) Describe how you will help to integrate lead-safety into other housing activities, such as meeting the requirements of the HUD Lead-Safe Housing Regulation in housing units rehabilitated or assisted with federal funds.

(c) Describe the methods to be used to provide economic opportunities for residents and businesses throughout the community within the target area. This discussion should include information on how you will promote training, employment, business development, and contract opportunities as part of your lead hazard control program. Grantees must comply with Section 3 of the Housing and Urban Development Act of 1968 (12 U.S.C. 1701u) and HUD's implementing rules at 24 CFR Part 135. Describe how you will accomplish the requirement by (1) providing training and employment opportunities for low- and very low-income persons living within the grantee's jurisdiction, and by (2) providing business opportunities to businesses owned by low and very low-income persons living within the grantees jurisdiction. Applicants that provide training, employment or business opportunities for low- and very low-income persons will receive one point in this sub factor.

(4) Lead Hazard Control Outreach and Community Private Sector Involvement (6 points). Applicants are encouraged to solicit participation of grassroots faith-based and other community-based and private sector organizations to accomplish outreach and community involvement activities and to build long-term capacity to sustain accomplishments in the target area. Applicants that partner, fund, or subcontract with grassroots faith-based and other community-based organizations will receive one point in this-sub factor. Your application must describe:

(a) Proposed methods of community education. These may include community awareness, education, training, and outreach programs in support of the work plan and objectives. This description should include general and/or targeted efforts undertaken to assist your program in reducing lead exposure. Programs should be culturally sensitive, targeted, and linguistically appropriate. Upon request, this would include making materials available in alternative formats to persons with disabilities (e.g., Braille, audio, large type), and in other languages common to the community to the extent possible.

(b) Strategy for involving neighborhood or grassroots faith-based and other community based organizations in your proposed activities. Your activities may include training (including training residents to screen houses through visual assessment and sampling), outreach, community education, marketing, inspection (including dust lead testing), and the conduct of lead hazard control activities. HUD will evaluate the proposed level of substantive involvement of such organizations during the review process.

(c) Strategies and methodologies that affirmatively further fair housing and increase access to lead-safe housing for all segments of the population: homeowners, owners of rental properties, and tenants. This outreach should address ways to avoid housing discrimination against families with young children, and ways to ensure that all families will have adequate, lead-safe housing choices in the future. These strategies could include your plans to develop and implement a registry (listing) of lead-safe housing that is available to the public, or to incorporate the inclusion of the lead-safe status of properties in another publicly accessible address-based property information system. The strategy could also include affirmatively marketing your services to those populations least likely to apply and who may not be served by any of the partner organizations working with you.

(5) Data Collection and other Program Support Activities (2 points).

(a) Identify and discuss the specific methods you will use (in addition to HUD reporting requirements) to document activities, progress, program effectiveness, and how changes necessary to improve performance will be implemented. Describe how you will obtain, document, and report on information collected.

(b) Provide a detailed description of any proposed participation in research activities, studies, or development of information systems designed to enhance the delivery, analysis, or conduct of lead hazard control activities, or that will facilitate the targeting and pooling of resources to further childhood lead poisoning prevention efforts.

If you are proposing to participate in research activities, describe the objectives, methodology and impact at the local level of the proposed research activities.

d. Rating Factor 4: Leveraging Resources (10 points). This factor addresses your ability to obtain other community and private sector resources that can be combined with HUD's program resources to achieve program objectives. In evaluating this factor, HUD will consider the extent to which you have established working partnerships with other entities to get additional resources or commitments to increase the effectiveness of the proposed program activities. Resources may include cash or in-kind contributions of services, equipment, or supplies allocated to the proposed program. Resources may be provided by governmental entities, public or private organizations, and other entities partnering with you. Leveraging arrangements with rental property owners may have the benefits of increasing the efficiency of public lead hazard identification and control expenditures and creating a financial stake for rental property owners in the quality of lead hazard control work. Contractual or other formal relationships with grassroots faith-based and other community-based organizations are a requirement for state and local government applicants. Documentation of relationships with grassroots faith-based and community-based organizations must be provided in this application either in the form of signed agreements or commitment letters. This requirement does not apply to Native American Tribe applicants. You also may partner with other program funding recipients to coordinate the use of resources in your target area(s).

(1) You should detail any activities to increase the understanding of lead poisoning prevention in your community. This could include partnerships with childhood lead screening programs, collaboration with ongoing health, housing, or environmental research efforts which could result in a greater availability of resources, and efforts to build capacity for lead-safe housing.

(2) Matching funds must be shown to be specifically dedicated to and integrated into supporting the lead-based paint hazard control program. Refer to Section III. B. Cost Sharing or Matching Requirements for additional information. You may not include funding from any federally funded program (except the CDBG program) as part of your required 10 percent match. Other resources from the private sector or other sources committed to the program that exceed the required 10 percent match will provide points for this rating factor. Contributions above the first 10 percent may include funds from other federally funded programs, and/or state, local, charity, nonprofit or for-profit entities. You must support each source of contributions, cash or in-kind, both for the required minimum and additional amounts, by a letter of commitment from the contributing entity, whether a public or private source. The letter must describe the contributed resources that you will use in the program and their designated purpose. The signature of the authorized official on the Form SF-424 commits matching or other contributed resources of the applicant organization. A separate letter from the applicant organization is not required. Staff in-kind contributions should be given a monetary value based on the local market value of the staff skills. If you do not provide letters from contributors specifying details and the amount of the actual contributions, those contributions will not be counted. Contributions required of rental property owners may be included as part of your match. You should document and estimate the amount of the match from each resource.

Applicants will not receive full points under this rating factor if they do not submit evidence of a firm commitment and the appropriate use of leveraged resources under the grant program. Such evidence must be provided in the form of letters of firm commitment, memoranda of understanding, or other signed agreements to participate from those entities identified as partners in your application. Each letter of commitment, memorandum of understanding, or agreement to participate should include the organization's name, the proposed level of commitment and the responsibilities as they relate to your proposed program. The commitment must be signed by an official of the organization legally able to make commitments on behalf of the organization. Describe the role of grassroots faith-based and other community-based organizations in specific program activities, such as: hazard evaluation and control; monitoring; and awareness, education, and outreach within the community. Describe how you will ensure that commitments to sub-grantees specified in your proposal will be honored and executed, contingent upon an award from HUD.

e. Rating Factor 5: Achieving Results and Program Evaluation. (10 Points). This factor emphasizes HUD's commitment to ensuring that applicants achieve the goals outlined in their work plan and other benchmark standards and assess their performance to ensure performance goals are met. Achieving results means you, the applicant, have clearly identified the benefits, or outcomes of your program. Outcomes are ultimate goals. Benchmarks or outputs are interim activities or products that lead to the ultimate achievement of your goals.

Program evaluation requires that you, the applicant, identify program outcomes, interim products or benchmarks, and performance indicators that will allow you to measure your performance. Performance indicators should be objectively quantifiable and measure actual achievements against anticipated achievements. Your Evaluation Plan should identify what you are going to measure, how you are going measure it and the steps you have in place to make adjustments to your work plan if performance targets are not met within established timeframes. The degree to which benefits are maximized relative to cost is important. In particular, different technical approaches vary widely in cost, but also produce different levels of benefits. Evaluation should explore how well the technical strategy meets the conditions and needs found in the grantee's jurisdiction.

This rating factor reflects HUD's goal to embrace high standards of ethics, management and accountability. Applicants are required to complete the HUD 96010 Logic Form included in the General Section of this SuperNOFA.

(1) An applicant is to identify and describe specific methods, measures, and tools that you will use (in addition to HUD reporting requirements) to measure progress, evaluate program effectiveness, and identify program changes necessary to improve performance. Describe how you will obtain, document and report the information. In evaluating this factor, HUD will consider how you have described outcome measures and benefits of your program including:

(a) The degree to which lead hazard control work will be done in conjunction with other housing-related activities (i.e., rehabilitation, weatherization, correction of code violations, and other similar work), or your plan for the integration and coordination of lead hazard control activities into those activities in the future.

(b) Plans to develop public/private lending partnerships to finance lead hazard control as part of acquisition and rehabilitation financing such as the use of Community Reinvestment Act “credits” by lending institutions or other financing strategies.

(c) Results of any specific plans and objectives established to implement and/or maintain a registry (listing) of lead-safe housing that is available to the public, or to incorporate the inclusion of the lead-safe status of properties in another publicly accessible address-based property information system. Results could include how the information would be managed and affirmatively marketed to the public so that families (particularly low-income families with children under six years of age) can make informed decisions regarding their housing options. Prior grantee applicants must address any registry (listing) of lead-safe housing developed during the prior grant period by specifically discussing the availability, amount of information contained, and its maintenance.

(d) The extent to which affirmatively furthering fair housing for all segments of the population is advanced by the proposed activities. (This section does not apply to Native American Tribes.) Detail how your proposed work plan will support the community's efforts to affirmatively further affordable housing and discuss the impact of prior activities that have contributed to enhanced lead-safe housing opportunities.

(e) The resulting impact of plans to adopt or amend statutes, regulations, or policies that will more fully integrate lead hazard control into community policies and priorities.

(f) Results of activities to coordinate and cooperate with other organizations that will lead to a reduction in lead risks to community residents. This could include documenting such activities as: free training to create a workforce properly trained in lead safe work practices; lead-safe repainting and remodeling; promotion of essential maintenance practices; and provision of lead dust testing to low-income, privately-owned homes which may not receive lead hazard control assistance under this grant program.

(g) How your program will be held accountable for meeting program goals, objectives, and the actions undertaken in implementing the grant program. Applicants should provide a description of the mechanism to assess progress and track performance in meeting the goals and objectives outlined in the work plan. Applicants should provide assurances that work plans and performance measures developed for the program will assist intended beneficiaries, and that work will be conducted in a timely and cost-effective manner.

f. Bonus Points (2 Points). Applicants may also meet the requirements listed in the General Section of this SuperNOFA for a possible award of two bonus points.

g. Competitive Performance-Based Renewal applications will be rated and ranked based on the criteria below:

(1) The maximum number of points to be awarded will be 40.

(a) Production (10 points). The number of units completed and cleared. Grantees whose percentage of units completed and cleared in their current agreement meets or exceeds the performance criteria below will be awarded points based on the chart below.

% Units completed and cleared | Round 8 FY 2000 | Round 9 FY 2001 | Round 10 FY 2002
>45-55 |  |  | 3
>55-60 |  |  | 4
>60-65 |  |  | 5
>65-70 |  | 6 | 6
>70-80 |  | 7 | 7
>80-85 | 8 | 8 | 8
>85-90 | 9 | 9 | 9
>90-100 | 10 | 10 | 10

(b) Cumulative LOCCS Drawdowns (10 Points). The cumulative drawdowns from LOCCS as a percentage of the federal funds awarded in their current agreement. Grantees whose percentage of cumulative LOCCS drawdowns in their current agreement meet or exceed the performance criteria below will be awarded points based on the chart below.

% Cumulative LOCCS drawdowns to date | Round 8 FY 2000 | Round 9 FY 2001 | Round 10 FY 2002
>30-40 |  |  | 3
>40-45 |  |  | 4
>45-50 |  | 5 | 5
>50-55 |  | 6 | 6
>55-60 | 7 | 7 | 7
>60-70 | 8 | 8 | 8
>70-75 | 9 | 9 | 9
>75-100 | 10 | 10 | 10

(c) Other Work Plan Achievements. (5 Points). A grantee will be awarded points for meeting or exceeding their community education, outreach, and training objectives that were outlined in their most recent approved work plan and reported to HUD.

(d) Work Plan and Budget. (15 Points) The work plan and budget submitted by a grantee will be evaluated to ensure that there are specific and measurable performance objectives with benchmark milestones developed for the 36-month additional period of performance.

B. Reviews and Selection Process

1. Rating and Ranking. Please refer to the General Section of the SuperNOFA. Only those applications that meet the threshold review requirements will be rated and ranked. With the exception of applicants eligible for a Competitive Performance-Based Renewal grant, HUD intends to fund the highest ranked applications receiving a minimum score of 75 within the limits of funding.

A current grantee eligible to receive a Competitive Performance-Based Renewal Grant will be rated and ranked based on its demonstrated performance in terms of the number of housing units completed and cleared (as a percentage of units in current grant agreement), the cumulative Line of Credit Control System (LOCCS) drawdowns to date, and other work plan benchmarks or milestones achieved. Performance will be evaluated based upon the quarterly progress data submitted to HUD for the period ending March 31, 2004, and other data available to HUD.

In addition, the work plan and budget (including budget narrative) submitted in response to this NOFA will be evaluated as part of the rating and ranking process. Current grantees that are eligible to submit a Performance-Based Renewal application and are successful applicants, will have their current grant agreement modified to allow for an additional 36-months grant. Eligible current grantee applicants are not to respond to the Factors for Award in this NOFA, but must submit the required budget forms included in this NOFA and develop a work plan strategy with benchmark standards for conducting lead hazard control program activities. A work plan and budget should be developed for the 36-month period. The submission requirements for the Performance-Based Renewal grant can be found in Section IV of this Program Section of the NOFA.

a. Remaining Funds. Refer to the General Section of this SuperNOFA for HUD's procedures if funds remain after all selections have been made within a category of the Lead Hazard Control Grant Program.

2. Factors for Award Used To Rate and Rank Applications.

a. Implementing HUD's Strategic Framework and Demonstrating Results. HUD is committed to ensuring that programs result in the achievement of HUD's strategic mission. To support this effort, grant applications submitted for HUD programs will be rated on how well they tie proposed outcomes to HUD's policy priorities and Annual Goals and Objectives, and the quality of proposed Evaluation and Monitoring Plans.

HUD is encouraging applicants to undertake specific activities that will assist the Department in implementing its policy priorities. HUD's Strategic Goals and Policy Priorities are outlined in the General Section of this SuperNOFA. For Lead Hazard Control Grant Program applicants, activities that promote economic opportunities for low-income persons support HUD's policy priority for Improving the Quality of Life in Our Nation's Communities. A new applicant will be awarded one point under Rating Factor 3: Economic Opportunities for activities that are undertaken to specifically address this policy priority. Activities that promote the participation of grassroots faith-based or community and parent organizations support HUD's policy priority for: Providing Full and Equal Access to Grassroots Faith-Based and Other Community-Based Organizations. An applicant will be awarded one point under Rating Factor 3: Lead Hazard Control Outreach and Community Private Sector Involvement for activities undertaken that specifically addresses this policy priority. For initiatives that break down regulatory barriers that impede the production of affordable housing, an applicant will be awarded up to two (2) points under Rating Factor 1 for activities that remove barriers to affordable housing within their communities or support such efforts at the state and local level. This priority relates to HUD's Strategic Goal for Increasing Homeownership Opportunities and Promoting Decent Affordable Housing. Refer to the General Section of the SuperNOFA for additional details pertaining to this policy priority. Applicants addressing this policy priority are to complete Form HUD-27300—Questionnaire for HUD's Initiative on Removal of Regulatory Barriers.

b. The maximum number of points to be awarded is 102. This maximum includes two bonus points as described in the General Section of this SuperNOFA. With the exception of applicants eligible for a Competitive Performance-Based Renewal grant, a minimum score of 75 is required for fundable applications.

c. The factors for rating and ranking eligible new applicants and prior grantees, and the maximum points for each factor are stated below:

Rating factor | Maximum points
1. Capacity of the Applicant and Relevant Organizational Experience | 20
2. Needs/Extent of the Problem | 20
3. Soundness of Approach | 40
4. Leveraging Resources | 10
5. Achieving Results and Program Evaluation | 10
Empowerment Zone and Enterprise Community Bonus Points | 2
Total | 102

d. The factors for rating and ranking Competitive Performance-Based Renewal applications are stated below:

Rating factor | Maximum points
1. Production | 10
2. Cumulative LOCCS Drawdowns | 10
3. Other Work Plan Achievements | 5
4. Work Plan and Budget | 15
Total | 40

VI. Award Administration Information

Refer to the General Section for additional details on award administration

A. Award Notices

1. Successful applicants will receive a letter from the Office of Healthy Homes and Lead Hazard Control Grant Officer indicating that they have been selected for an award. This letter will provide additional details regarding the effective start date of the grant and any additional data and information to be submitted to execute a grant agreement. This letter is not an authorization to begin work or incur costs under the grant. A fully executed grant agreement is the authorizing document. Unsuccessful applicants will also be notified that their application was not selected for an award and will be afforded an opportunity to request a debriefing on the unsuccessful application according to the procedures outlined in the SuperNOFA.

2. Negotiation. Refer to the General Section of the SuperNOFA for additional details.

3. Adjustments to Funding. Refer to the General Section of the SuperNOFA for additional details.

4. Performance and Compliance Actions of Funding Recipients. HUD will measure and address the performance and compliance actions of funding recipients in accordance with the applicable standards and sanctions of their respective programs.

B. Administrative and National Policy Requirements

Refer to the General Section of the SuperNOFA for additional details regarding the Administrative and National Policy Requirements applicable to HUD Programs.

1. Coastal Barrier Resources Act. Pursuant to the Coastal Barrier Resources Act (16 U.S.C. 3501), you may not use these grant funds for properties located in the Coastal Barrier Resources System.

2. Flood Disaster Protection Act. Under the Flood Disaster Protection Act of 1973 (42 U.S.C. 4001-4128), you may not use these grant funds for lead-based paint hazard control of a building or manufactured home that is located in an area identified by the Federal Emergency Management Agency (FEMA) as having special flood hazards unless:

a. The community in which the area is situated is participating in the National Flood Insurance Program in accordance with the applicable regulations (44 CFR parts 59-79), or less than a year has passed since FEMA notification regarding these hazards; and

b. Where the community is participating in the National Flood Insurance Program, flood insurance on the property is obtained in accordance with section 102(a) of the Flood Disaster Protection Act (42 U.S.C. 4012a(a)). You are responsible for assuring that flood insurance is obtained and maintained for the appropriate amount and term.

3. National Historic Preservation Act. The National Historic Preservation Act of 1966 (16 U.S.C. 470) and the regulations at 36 CFR part 800 apply to the lead-based paint hazard control activities that are undertaken pursuant to this program. HUD and the Advisory Council for Historic Preservation have developed an optional Model Agreement for use by grantees and State Historic Preservation Officers in carrying out activities under this program. The Model Agreement may be obtained from the HUD Web site at: http://www.hud.gov/utilities/intercept.cfm?/offices/lead/grantfrm/pgi/95_06.pdf.

4. Waste Disposal. You must handle waste disposal according to the requirements of the appropriate local, state and federal regulatory agencies. You must handle disposal of wastes from hazard control activities that contain lead-based paint, but are not classified as hazardous in accordance with State or local law or the HUD Guidelines for the Evaluation and Control of Lead-Based Hazards in Housing (HUD Guidelines). The Guidelines are available from the HUD Web site at: http://www.hud.gov/offices /lead/guidelines/hudguidelines /index.cfm.

5. Worker Protection Procedures. You must observe the procedures for worker protection established in the HUD Guidelines, as well as the requirements of the Occupational Health and Safety Administration (OSHA) (29 CFR 1926.62, Lead Exposure in Construction), or the state or local occupational safety and health regulations, whichever are most protective. If other applicable requirements contain more stringent requirements than the HUD Guidelines, the more rigorous standards shall be followed.

6. Davis-Bacon Act. The Davis-Bacon Act does not apply to this program. However, if you use grant funds in conjunction with other federal programs in which Davis-Bacon prevailing wage rates apply, then Davis-Bacon provisions would apply to the extent required under the other federal programs.

C. Reporting. Successful applicants will be required to submit quarterly, annual, and final program and financial reports according the requirements of the Office of Healthy Homes and Lead Hazard Control. Specific guidance and additional details will be provided to successful applicants. For each reporting period, as part of the required report to HUD, a grant recipient must include a completed Logic Model (form HUD 96010), which identifies output and outcome achievements.

VII. Agency Contact(s)

For Further Information and Technical Assistance: You may contact Linda J. Ciancio, Acting Director; Program Management and Assurance Division; Office of Healthy Homes and Lead Hazard Control; 451 7th Street, SW., Washington, DC 20410, or by telephone, FAX, or e-mail: Telephone: (202) 755-1785, extension 112 (this is not a toll-free number). If you are a hearing- or speech-impaired person, you may reach the above telephone number via TTY by calling the toll-free Federal Information Relay Service at 800-877-8339. Fax: (202) 755-1000; or E-mail: Linda_J._Ciancio@hud.gov (use underscores)

VIII. Other Information

Refer to the General Section of the SuperNOFA for details regarding other information on submitting a complete application that meets HUD requirements.

A. Paperwork Reduction Act: The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 80 hours per application and 16 hours per grant award. This includes the time for collecting, reviewing, and reporting the data. The information will be used for grantee selection and monitoring the administration of funds. Response to this request for information is required in order to receive the benefits to be derived.

B. Other Office of Healthy Homes and Lead Hazard Control Information: For additional general, technical, and grant program information pertaining to the Office of Healthy Homes and Lead Hazard Control at: http://www.hud.gov/offices/lead.

BILLING CODE 4210-32-P

Healthy Homes Technical Studies Program

Overview Information

A. Federal Agency Name: Department of Housing and Urban Development, Office of Healthy Homes and Lead Hazard Control.

B. Funding Opportunity Title: Healthy Homes Technical Studies Program.

C. Announcement Type: Initial announcement.

D. Funding Opportunity Number: The Federal Register number is: FR-4900-N-06. The OMB Paperwork Approval number is: 2539-0015.

E. Catalog of Federal Domestic Assistance (CFDA) Number(s): 14.906, Healthy Homes Technical Studies Grant Program.

F. Dates: An original and three copies of your application must be submitted on or before July 13, 2004. See the General Section of the SuperNOFA Section IV, Application and Submission Information, regarding application submission procedures and timely filing requirements.

G. Additional Overview Content Information

a. To fund technical studies to improve methods for detecting and controlling housing-related health and safety hazards. The purpose of the Healthy Homes Technical Studies program is to improve our knowledge of housing-related health hazards, and to improve or develop new hazard assessment and control methods.

b. The total amount to be awarded is approximately $2.0 million.

c. The anticipated amounts and/or numbers of individual awards will be approximately 3-6 awards, ranging from approximately $200,000 to approximately $1 million.

d. The type of award instruments that will be used are grants or cooperative agreements, with substantial involvement of the government in the case of cooperative agreements.

e. Academic, not-for-profit and for-profit institutions located in the U.S., state, and local governments, and federally recognized Native American tribes are eligible to apply. For-profit institutions are not allowed to earn a profit.

f. Cost sharing is not required, but is encouraged.

g. There are no limitations on the number of applications that each applicant may submit.

h. You can obtain application materials from the sources described below.

I. Funding Opportunity Description

A. Purpose of the Program

The overall goal of the Healthy Homes Technical Studies program is to gain knowledge to improve the efficacy and cost-effectiveness of methods for evaluation and control of housing-related health and safety hazards.

B. Program Description

HUD is funding studies to improve our knowledge of housing-related health hazards, and to improve or develop new hazard assessment and control methods, with a focus on the key hazards. Key hazards are described in Appendix A of this NOFA. HUD encourages you to consider using the “community based participatory research” approach, where applicable, in the design and implementation of your healthy homes technical studies application (see e.g., http://www.niehs.nih.gov/translat/cbpr/cbpr.htm).

A description of current and recently completed Healthy Homes Technical Studies projects and grantee contact information can be found on the HUD Web site at: http://www.hud.gov/offices/lead/hhi/hhigranteeinfo.cfm.

The Healthy Homes Initiative (HHI), which includes the Healthy Homes Technical Studies Program and the Healthy Homes Demonstration Grant Program (see the separate funding announcement for this program), departs from the more traditional approach of attempting to correct one hazard at a time. In April 1999, HUD submitted to Congress a preliminary plan containing a full description of the HHI. The preliminary plan (Summary and Full Report) and a description of the HHI are available on the HUD Web site at: http://www.hud.gov/offices/lead/hhi/index.cfm.

In addition to deficiencies in basic housing facilities that may impact health, changes in the U.S. housing stock, and more sophisticated epidemiological methods and biomedical research have led to the identification of new and often more subtle health hazards in the residential environment (e.g., asthma triggers). While such hazards will tend to be found disproportionately in housing that is substandard (e.g., structural problems, lack of adequate heat, etc.), such housing-related environmental hazards may also exist in housing that is otherwise of good quality. Appendix A of this NOFA briefly describes the housing-associated health and injury hazards HUD considers key targets for intervention. Appendix B of this NOFA lists the references that serve as the basis for the information provided in this NOFA. HUD has also developed resource papers on a number of topic areas of importance under the Healthy Homes Initiative, including mold, environmental aspects of asthma, carbon monoxide, and unintentional injuries. These papers can be downloaded from the HUD website at: http://www.hud.gov/offices/lead/hhi.

HUD is interested in promoting approaches that are cost-effective and efficient, and that result in the reduction of health threats for the maximum number of residents for the long run, and, in particular, low-income children. The overall goals and objectives of the HHI are:

1. Goals of the Healthy Homes Initiative

a. Mobilize public and private resources, involving cooperation among all levels of government, the private sector, grassroots organizations, particularly including faith-based, and other community-based, non-profit organizations to develop the most promising, cost-effective methods for identifying and controlling housing-based hazards; and

b. Build local capacity to operate sustainable programs that will continue to prevent and, where they occur, minimize and control housing-based hazards in low- and very low-income residences when HUD funding is exhausted.

2. Objectives of the Healthy Homes Technical Studies Program

With this NOFA, HUD hopes to advance the recognition and control of residential health and safety hazards and more closely examine the link between housing and health. The overall objectives of Healthy Homes Technical studies projects to be funded through this NOFA include, but are not limited to:

a. Investigation of the epidemiology of housing-related hazards and illness and injury;

b. Development and assessment of low-cost test methods and protocols for identification and assessment of housing-related hazards;

c. Development and assessment of cost-effective methods for reducing or eliminating housing-related hazards;

d. Evaluation of the effectiveness of housing interventions and public education campaigns, and barriers and incentives affecting future use of the most cost-effective strategies; and

e. Investigation of the health effects on children living in deteriorated housing and the impact on their development and productivity.

f. Evaluation of residential health and safety hazard assessment and control methodologies and approaches (including both existing methods and the evaluation of improved or novel approaches). Areas of particular interest to HUD include:

(1) Improving indoor air quality, such as through cost-effective approaches to upgrading residential ventilation or improving control/management of combustion appliances. Applicants should discuss how proposed approaches might affect residential energy costs (e.g., increasing air exchange rates resulting in an increase in heating costs);

(2) Improving or assessing the efficacy of current methods for residential Integrated Pest Management (IPM). IPM approaches focus on the use of economical means for managing pests, which incorporate information on the life cycles of pests and their interaction with the environment, while minimizing hazards to people, property, and the environment. HUD is particularly interested in IPM methods for reducing cockroach and/or rodent populations in multifamily housing;

(3) Controlling excess moisture by reducing migration through the building envelope and condensation of water vapor on interior surfaces, with an emphasis on low cost interventions for low-income housing;

(4) Dust control measures (e.g., preventing track-in of exterior dust and soil, improved methods for interior dust cleaning) have been identified as key areas in the HHI Preliminary Plan;

(5) Evaluating the effectiveness of education and outreach methods designed to provide at-risk families with the knowledge to adopt self-protective behaviors with respect to housing-related health hazards; and

(6) Additional ideas will be considered with an open mind toward novel techniques and applications.

g. Analysis of existing data or generation of new data to improve knowledge regarding the prevalence and severity of specific hazards in various classes of housing, with a focus on low-income housing. Specific examples include:

(1) The prevalence of carbon monoxide and other indoor air quality hazards;

(2) The prevalence and patterns of moisture problems and biological contaminants associated with excess moisture (e.g., fungi, bacteria, dust mites);

(3) The prevalence of specific childhood injury hazards in housing; and

(4) Improved understanding of the relationship between a residential exposure and childhood illness or injury.

h. Low-cost analytical techniques for the rapid, on- and off-site determination of environmental contaminants of concern (e.g., bioaerosols, pesticides, allergens). HUD's primary interest is in the improvement of existing instruments or methods, and not in the development of new technologies or instruments.

(1) Establish and validate any necessary procedures (e.g., such as extraction and/or digestion) that would work well with the field device/procedure;

(2) Improve old technology (e.g., colorimetric tests, titrimetric procedures) as well as examine and improve newer techniques; and

(3) Consider the safety, environmental impacts, and cost of the procedure, particularly as used in the field.

i. In proposing to conduct a study on a particular topic, applicants should consider:

(1) The “fit” of the proposed hazard assessment and/or control methods within the overall goal of addressing “priority” health and safety hazards in a cost-effective manner;

(2) The efficacy of the proposed methods for hazard control and risk reduction (e.g., how long is effective hazard reduction maintained?);

(3) Consider where and how these methods would be applied and tested, and/or perform demonstration activities; and

(4) The degree to which your study will help develop practical, widely applicable methods and protocols or improve our understanding of a residential health hazard.

Although HUD is soliciting proposals for technical studies on these broad topics, HUD will also consider funding applications for technical studies on topics that are relevant under the overall goals and objectives of this program, as described above. In such instances, the applicant should describe how the proposed project activity addresses these overall goals and objectives.

Applicants should consider the efficiencies that might be gained by working cooperatively with some of the recipients of HUD's Healthy Homes Demonstration and Lead Hazard Control grants, which are widely distributed throughout the U.S. Information on current grantees is available at: http://www.hud.gov/offices/lead.

You may address one or more of the technical studies topic areas within your proposal, or submit separate applications for different topic areas.

C. Authority

These grants are authorized under sections 501 and 502 of the Housing and Urban Development Act of 1970 (12 U.S.C. 1701z-1 and 1701z-2); and the Consolidated Appropriations Resolution of 2004, Pub. L. 108-199.

II. Award Information

A. Funding Available

Approximately $2 million in Fiscal Year 2004 will be available for the Healthy Homes Technical Studies Program. Awards will be made on a competitive basis following evaluation of all proposals according to the rating factors described in Section V. of this NOFA. HUD anticipates awarding three to six grants or cooperative agreements ranging from approximately $200,000 to approximately $1 million each.

Applications for supplementation of existing projects are eligible to compete with applications for new awards (i.e., for work outside of the scope of the original agreement).

B. Anticipated Start Date and Period of Performance for New Grants

The start date for new awards is expected to be October 1, 2004. The period of performance cannot exceed 36 months from the time of award. Applicants are encouraged to plan studies with shorter performance periods, however when developing your schedule you should also consider the possibility that issues may arise that would delay project completion. For example, it is the Department's experience that projects requiring Institutional Review Board (IRB) approval and oversight (i.e., in conformance with HUD's regulation (24 CFR 60), which incorporates the Department of Health and Human Services' regulation of studies involving human subjects), or which involve the development of new instrumentation, are prone to delays. HUD reserves the right to approve no cost time extensions for any award under this program for a total period not to exceed 12 months.

C. Type of Award Instrument

All awards in response to this solicitation will be made as grants or cooperative agreements. Anticipated substantial involvement by HUD on cooperative agreements may include, but will not be limited to, review and comment on the study design, including:

1. Study objectives;

2. Data collection;

3. Sample and data analysis;

4. Review and provide technical recommendations in response to quarterly progress reports (e.g., possible amendments to study design based on preliminary results);

5. Review and provide technical recommendations on the final study report.

III. Eligibility Information

A. Eligible Applicants

Eligible Applicants. Academic and not-for-profit institutions located in the U.S., state and local governments, and federally recognized Native American tribes are eligible under all existing authorizations. For-profit firms also are eligible; however, they are not allowed to earn a fee (i.e., no profit can be made from the project). Applications for supplementation of existing projects are eligible to compete with applications for new awards. Federal agencies and federal employees are not eligible to submit applications. The General Section of this SuperNOFA provides additional eligibility requirements.

B. Cost Sharing or Matching

Cost sharing or matching is not required. In rating your application, however, you will receive a higher score under Rating Factor 5 if you provide evidence of significant cost sharing.

C. Other

1. Threshold Requirements Applicable to All Applicants Under the SuperNOFA

As an applicant, you must meet all of the threshold requirements described in the General Section of the SuperNOFA. Threshold requirements include Eligibility, Compliance with Fair Housing and Civil Rights Laws, Conducting Business in Accordance with Core Values and Ethical Standards, Delinquent Federal Debts and Pre-Award Accounting System Surveys. Information about threshold requirements is provided in the General Section of the SuperNOFA. Applicants that meet all of the threshold requirements will be eligible to receive funds from HUD.

2. Program Requirements

a. You must comply with all relevant state and federal regulations regarding exposure to and proper disposal of hazardous materials; and

b. Agree that any blood lead testing, blood lead level test results, and medical referral and follow-up for children under six years of age will be conducted according to the recommendations of the Centers for Disease Control and Prevention (CDC), Preventing Lead Poisoning in Young Children (see Appendix B of this program section of the NOFA).

c. HUD Healthy Homes Technical Studies grant funds will not replace existing resources dedicated to any ongoing project;

d. Laboratory analysis covered by the National Lead Laboratory Accreditation Program (NLLAP) will be conducted by a laboratory recognized under the program;

e. Standardized Dust Sampling Protocol and Quality Control Requirements. Grantees collecting samples of settled dust from participant homes for environmental allergen analyses (e.g., cockroach, dust mite) will be required to use a standard dust sampling protocol, unless there is a strong justification to use an alternate protocol. The HUD protocol will be posted on the OHHLHC Web site at: http://www.hud.gov/offices/lead/hhi/hhiresources.cfm. Grantees conducting these analyses will also be required to include quality control dust samples, provided by OHHLHC at no cost to the grantee, with the samples that are submitted for laboratory analyses. For the purpose of budgeting laboratory costs, you should assume that five percent of your total allergen dust samples will consist of QC samples.

f. Human research subjects will be protected from research risks in conformance with Federal Policy for the Protection of Human Subjects, codified by HUD at 24 CFR part 60; and

g. The requirements of OSHA (e.g., 29 CFR part 1910 and/or 1926, as applicable) or the state or local occupational safety and health regulations, whichever are most stringent, will be met;

h. If an individual researcher or a research team submits the application, the institution administering the grant will meet the civil rights threshold in the General Section of this NOFA.

3. DUNS Requirement

Refer to the General Section of the SuperNOFA for information regarding the DUNS requirement. A DUNS number must be provided for the institution that is submitting an application.

IV. Application and Submission Information

If you are interested in applying for funding under this program, please review carefully the General Section of the SuperNOFA and the following additional information.

A. Addresses to Request Application Package

There is no Application Kit. All the information required to submit an application is contained in this program NOFA and the General Section of the SuperNOFA. Forms can be downloaded from the Web at: http://www.grants.gov.

B. Content and Form of Application Submission

1. Applicant Data. Your application must contain the items listed in this Section. These items include the standard forms, certifications, and assurances listed in the General Section of the SuperNOFA that are applicable to this funding (collectively referred to as the “standard forms”). The standard forms can be found in the General Section of the SuperNOFA. The required items are:

a. A transmittal letter, signed by the chief executive or other authorized official, that identifies what the technical study program funds are requested for, the dollar amount requested, and the applicant(s) submitting the application. The name, mailing address, telephone number, and principal contact person of the prime applicant. If you have consortium associates, sub-grantees, partners, major subcontractors, joint venture participants, or others contributing resources to your project, similar information must be provided for each of these entities. If two or more organizations are working together on the project, a primary applicant must be designated.

b. Application Abstract Summary. An abstract describing the project title, the names and affiliations of all investigators, and a summary of the objectives, expected results, and study design (two-page maximum) must be included in the proposal.

c. Checklist and Submission Table of Contents (see Appendix C of this program NOFA; inclusion of this checklist is voluntary).

d. All forms as required by the General Section of this SuperNOFA (necessary forms are also identified in the Checklist Submission Table of Contents in Appendix C). A Certification of Consistency with the Consolidated Plan is not required for this application. Form HUD-27061 (Race and Ethnicity Data) is not required with the application, however, if race and ethnicity data are collected and reported, you must follow the instructions in this form.

e. A project description/narrative statement addressing the rating factors for award of funding under this program section of the NOFA. The narrative statement must be numbered in accordance with each factor for award (Rating Factors 1 through 5). The project description can either be included in the responses to the rating factors or provided separately. The response to the rating factors should not exceed a total of 25 pages (10-12-point font with at least ¾ inch margins on 8½ by 11 inch pages). Any pages in excess of this limit will not be read.

f. You should provide evidence of leveraging/partnerships by attaching to your application the following: letters of firm commitment; memoranda of understanding; or agreements to participate from those entities identified as partners in the project efforts. Each letter of commitment, memorandum of understanding, or agreement to participate must include the organization's name, proposed level of commitment (with monetary value) and responsibilities as they relate to specific activities or tasks of your proposed program. The commitment must also be signed by an official of the organization legally able to make commitments on behalf of the organization.

g. In conformance with the Common Rule (Federal Policy for the Protection of Human Subjects, (required by HUD at 24 CFR Part 60), if your research involves human subjects, your organization must provide an assurance (e.g., a letter signed by an appropriate official) that the research has been reviewed and approved by an IRB before you can initiate activities that require IRB approval. Before receiving such funds, you must also provide the number for your organization's assurance (i.e., an “institutional assurance”) that has been approved by the Department of Health and Human Service's Office of Human Research Protections (OHRP). For additional information on what constitutes human subject research or how to obtain an institutional assurance, see the OHRP Web site at: http://ohrp.osophs.dhhs.gov/.

h. Within Appendix 1of your application, include materials that are required in support of your application (e.g., resumes of the principal investigator and other key personnel, letters of commitment). Resumes shall not exceed three pages each, and are limited to information that is relevant in assessing the qualifications of key personnel to conduct and/or manage the proposed technical studies. This information will not be counted towards the page limit. Also include Form HUD-96010 Logic Model in Appendix 1.

i. Within Appendix 2 of your application, include any optional materials (e.g., figures, data, letters of support) to support your application. These additional optional materials must not exceed 20 pages for the entire application. Any pages in excess of this limit will not be read.

j. Within Appendix 3 of your application, include the required forms and a detailed total budget with supporting cost justification for all budget categories of the federal grant request. Use the budget format discussed in Section V.(A), Rating Factor 3(4), below. In completing the budget forms and justification, you should address the following elements:

(1) Direct Labor costs should include all full- and part-time staff required for the planning and implementation phases of the project. These costs should be based on FTE (full time equivalent) or hours per year (hours/year) (i.e., one FTE equals 2,080 hours/year);

(2) You should budget for three trips to HUD Headquarters in Washington, DC, planning each trip for two people, with the first trip occurring shortly after award, for a stay of two or three days, depending on your location, and the remaining trips having a stay of one or two days, depending on your location;

(3) A separate budget proposal should be provided for any subrecipients receiving more than 10 percent of the total federal budget request;

(4) You should be prepared to provide supporting documentation for salaries and prices of materials and equipment upon request;

(5) Organizations that have a federally negotiated indirect rate should use that rate and the appropriate base. Other organizations, not having a federally negotiated rate schedule, must obtain a rate from their cognizant federal agency, otherwise the organization will be required to obtain a negotiated rate through HUD; and

(6) You should submit the negotiated rate agreements for fringe benefits and indirect costs, if applicable, as an attachment to the budget sheets.

C. Submission Dates and Times

You must submit an original and three copies of your application on or before July 13, 2004. Refer to the General Section of the SuperNOFA for additional submission requirements including acceptable submission methods, acceptable proof of delivery and other information regarding application submission.

D. Intergovernmental Review

Funding received through this NOFA is not subject to Executive Order (EO) 12372, “Intergovernmental Review of Federal Programs.”

E. Funding Restrictions

1. Administrative Costs. There is a 10 percent maximum allowance for administrative costs. Additional information about allowable administrative costs is provided in Appendix D of this NOFA.

2. Purchase of Real Property.

3. Purchase or lease of equipment having a per unit cost in excess of $5,000, unless prior written approval is obtained from HUD.

4. Medical treatment costs.

F. Other Submission Requirements

1. Address for Submitting Applications. Submit an original and three copies of your completed application to:

U.S. Department of Housing and Urban Development; Office of Healthy Homes and Lead Hazard Control; ATTN: Healthy Homes Technical Studies Program; 451 Seventh Street, SW., Room P3206; Washington, DC 20410-3000.

2. Application Submission. See the General Section of this SuperNOFA for specific procedures concerning the form of application submission (e.g., mailed applications, express mail, or overnight delivery).

V. Application Review Information

A. Criteria

1. Threshold Requirements. Applications that meet all of the threshold requirements will be eligible to be scored and ranked, based on the total number of points allocated for each of the rating factors described in Section V.4. of this NOFA. Your application must receive a total score of at least 75 points to remain in consideration for funding.

2. Rating and Ranking. Applications will be reviewed by an Application Review Panel (ARP) which will assign each application a score based on the rating factors presented below. The ARP chairperson selects and provides at least one application to panel members to score during a calibration round to ensure that all panel members are consistent in their application of the rating factors. When the calibration round is completed, each application is reviewed and scored by at least two panel members. If significant scoring discrepancies are identified among the reviewers of an application, the reviewers discuss their differences and are then given an opportunity to rescore the application among themselves and, if needed, with the full ARP. An average score is then computed for each application. The ARP chair may call upon an advisor (generally a scientist with another federal agency) to the ARP to review and comment on a proposal; however, the advisor does not score the application. At a final meeting, the ARP identifies the top-ranking applications to be recommended for funding.

The factors for rating and ranking applicants, and maximum points for each factor, are provided below. Each factor is weighted as indicated by the number of points that are attainable for it. The maximum score that can be assigned to an application is 102 points. Applicants should be certain that these factors are adequately addressed in the project description and accompanying materials. The five rating factors are listed below:

Rating Factor 1: Capacity of the Applicant and Relevant Organizational Experience (22 points);

Rating Factor 2: Need/Extent of the Problem (15 points);

Rating Factor 3: Soundness of Approach (45 points);

Rating Factor 4: Leveraging Resources (8 points);

Rating Factor 5: Achieving Results and Program Evaluation (10 points); RC/EZ/EC Bonus Points (2 points);

Total: 102 points

Applicants are eligible to receive two bonus points for projects located within federally designated Renewable Communities (RC)/Employment Zones (EZ)/Enterprise Communities (EC) (RC/EZ/ECs) and which will serve the residents of these communities (see the General Section of the SuperNOFA).

You will receive one point under Rating Factor 3.c(2) for each of the applicable FY2004 policy priorities that are adequately addressed in your application with the exception of “Removal of Barriers to Affordable Housing,” for which you can receive up to two points (see the General Section of the SuperNOFA). Policy priorities that are applicable to the Healthy Homes Technical Studies NOFA are: (1) Improving our Nation's Communities (focus on distressed communities); (2) Providing Full and Equal Access to Grass-Roots Faith-based and other Community-based Organizations in HUD Program Implementation; (3) Participation of Minority-Serving Institutions in HUD Programs, and (4) Removal of Barriers to Affordable Housing.

3. Rating Factors.

a. Rating Factor 1: Capacity of the Applicant and Relevant Organizational Experience (22 Points). This factor addresses the extent to which you have the ability and organizational resources necessary to successfully implement your proposed activities in a timely manner. The rating of you, the “applicant,” will include any sub-grantees, consultants, subrecipients, and members of consortia that are firmly committed to the project (generally, “subordinate organizations”). In rating this factor, HUD will consider the extent to which your application demonstrates:

(1) The capability and qualifications of the principal investigator and key personnel (14 points). Qualifications to carry out the proposed study as evidenced by academic background, relevant publications, and recent (within the past 10 years) relevant research experience. Publications and research experience are considered relevant if they required the acquisition and use of knowledge and skills that can be applied in the planning and execution of the technical study that is proposed under this program NOFA; and

(2) Past performance of the study team in managing similar projects (8 points). Demonstrated ability to successfully manage various aspects of a complex technical study in such areas as logistics, study personnel management, data management, quality control, community study involvement (if applicable), and report writing, as well as overall success in project completion (i.e., projects completed on time and within budget). You should also demonstrate that your project would have adequate administrative support, including clerical and specialized support in areas such as accounting and equipment maintenance.

If applicable, describe the past performance of your organization in implementing a previously awarded Healthy Homes or Lead Hazard Control (OHHLHC) grant, or grants that your organization received from other sources to support research on relevant, related topics. Provide details about the nature of the project, the funding agency, and your performance (e.g., timely completion, achievement of desired outcomes). If your organization has an active OHHLHC grant or cooperative agreement, provide a description of the progress and outcomes achieved under that grant.

b. Rating Factor 2: Need/Extent of the Problem (15 Points). This factor addresses the extent to which there is a need for your proposed technical study. In responding to this factor, you should document in detail how your project would make a significant contribution towards achieving some or all of HUD's stated goals and objectives for the Healthy Homes Technical Studies Program. You should demonstrate how your proposed study addresses a need associated with an important housing-related health hazard, with an emphasis on children's health. Specific topics to be addressed for this factor include:

(1) Provide a concise review of the health hazard that is addressed in your study and why you consider it a “high priority” hazard. If available, include documented rates of illness or injury associated with the hazard, including local, regional, and national data;

(2) Discuss how your proposed project would significantly advance the current state of knowledge for your focus area, especially with respect to the development of practical solutions; and,

(3) Discuss how you anticipate your study findings will be used to improve current methods for assessing or mitigating the hazard that your study addresses. Indicate why the method/protocol that would be improved through your study would be widely adopted (e.g., low cost, easily replicated, lack of other options).

c. Rating Factor 3: Soundness of Approach (45 Points). This factor addresses the quality of your proposed technical study plan. Specific components include:

(1) Soundness of the study design (20 points). The project description/study design must be thorough and feasible, and reflect your knowledge of the relevant scientific literature. You should clearly describe how your study builds upon the current state of knowledge for your focus area. If possible, your study should be designed to address testable hypotheses, which are clearly stated. Your study design should be statistically based, with adequate power to test your stated hypotheses. The study design should be presented as a logical sequence of steps or phases, with individual tasks described for each phase. You should identify any important “decision points” in your study plan and you should discuss plans for data management, analysis, and archiving.

(2) Policy Priorities (5 points). Indicate if your proposed study will address any of the FY2004 policy priorities that are applicable to this program that were described previously in Section V.A.2 of this program NOFA (see the General Section of the SuperNOFA for additional details regarding these policy priorities). You will receive one point for each of the applicable policy priorities that are addressed in your application, with the exception of “Removal Of Barriers to Affordable Housing,” for which you can receive a maximum of 2 points.

(3) Quality assurance mechanisms (8 points). You must describe the quality assurance mechanisms that will be integrated into your project design to ensure the accuracy and reliability of the results.

(a) Areas to be addressed include acceptance criteria for data quality, procedures for selection of samples/sample sites, sample handling, measurement and analysis, and any standard/nonstandard quality assurance/control procedures to be followed. Documents (e.g., government reports, peer-reviewed academic literature) that provide the basis for your quality assurance mechanisms should be cited.

(b) For the collection of data using instruments such as surveys and visual assessment tools, describe the procedures that you will follow to ensure accurate data capture and transfer. Also, indicate whether research was done (or is planned) to validate the instrument.

(c) If your project involves human subjects in a manner which requires Institutional Review Board (IRB) approval and periodic monitoring, address how you will obtain such approval and your monitoring plan (before you can initiate activities that require IRB approval, you must provide an assurance that your study has been reviewed and approved by an IRB and evidence of your organization's “institutional assurance;” see Section IV.B.1.f. Describe how you will provide informed consent (e.g., from the subjects, their parents or their guardians, as applicable) to help ensure their understanding of, and consent to, the elements of informed consent, such as the purposes, benefits and risks of the research. Describe how this information will be provided and how the consent will be collected. For example, describe your use of ‘plain language’ forms, flyers and verbal scripts, and how you plan to work with families with limited English proficiency or primary languages other than English, and with families including persons with disabilities.

(4) Project management plan (8 points). The proposal should include a management plan that provides a schedule for the completion of major activities, tasks and deliverables, with an indication that there will be appropriate resources (e.g., personnel, financial) to successfully meet the proposed schedule. The management plan should clearly identify the specific responsibilities for each member of the project team. You should include preparation of one or more articles for peer-reviewed academic journals and submission of the draft(s) to the journal(s) after HUD acceptance during the period of performance of your grant or cooperative agreement.

(5) Budget Proposal (4 points).

(a) Your budget proposal should thoroughly estimate all applicable direct and indirect costs, and be presented in a clear and coherent format in accordance with the requirements listed in the General Section of this NOFA. HUD is not required to approve or fund all proposed activities. Your detailed budget should be submitted using Form HUD-424-CBW. You must thoroughly document and justify all budget categories and costs (see Form HUD-424-CB for the major budget categories) and all major tasks, for yourself, subrecipients, partners, major subcontractors, joint venture participants, or others contributing resources to the project. A separate detailed budget (i.e., Form HUD-424-CBW) is required for subrecipients who will receive more than 10 percent of the federal budget request. Your budget proposal should be activity- and task-related.

(b) Your narrative justification associated with these budgeted costs should be included as an attachment to the Total Budget (Federal Share and Matching), but does not count in the 25-page limit for this submission.

(c) The application will not be rated on the proposed cost; however, cost will be considered in addition to the rated factors to determine the proposal most advantageous to the federal government. Cost will be the deciding factor when proposals ranked under the listed factors are considered acceptable and are substantially equal.

d. Rating Factor 4: Leveraging Resources (8 Points).

Your proposal should demonstrate that the effectiveness of HUD's Healthy Homes Technical Studies award is being increased by securing other public and/or private resources or by structuring the project in a cost-effective manner, such as integrating the project into an existing study. Resources may include funding or in-kind contributions (such as services, facilities or equipment) allocated to the purpose(s) of your project. Staff and in-kind contributions should be given a monetary value.

You should provide evidence of leveraging/partnerships by attaching to your application the following: letters of firm commitment; memoranda of understanding; or agreements to participate from those entities identified as partners in the project efforts. Each letter of commitment, memorandum of understanding, or agreement to participate must include the organization's name, proposed level of commitment (with monetary value) and responsibilities as they relate to specific activities or tasks of your proposed program. The commitment must also be signed by an official of the organization legally able to make commitments on behalf of the organization.

e. Rating Factor 5: Achieving Results and Program Evaluation (10 Points).

This factor emphasizes HUD's commitment to ensuring that applicants keep promises made in their applications and assess their performance to ensure performance goals are met. Achieving results means you, the applicant, have clearly identified the benefits or outcomes of your program. Outcomes are ultimate goals. Benchmarks or outputs are interim activities or products that lead to the ultimate achievement of your goals.

Program evaluation requires that you, the applicant, identify program outcomes, interim products or benchmarks, and performance indicators that will allow you to measure your performance. Performance indicators should be objectively quantifiable and measure actual achievements against anticipated achievements. Your evaluation plan should identify what you are going to measure, how you are going to measure it, and the steps you have in place to make adjustments to your work plan if performance targets are not met within established timeframes.

In your response to this Rating Factor you are to discuss the performance goals for your project and identify specific outcome measures. You are also to describe how the outcome information will be obtained, documented, and reported. You must complete and return the Logic Model Form included in the General Section of the SuperNOFA showing your proposed project long-term, mid-term, short-term, and final results, and how they support HUD's departmental goals and objectives. Information about developing a Logic Model is available at: http://www.hud.gov.

Also, in responding to this factor, you should:

(1) Identify benchmarks that you will use to track the progress of your study;

(2) Identify milestones that are critical for achieving study objectives (e.g., recruitment of study participants, developing a new analytical protocol), potential obstacles in meeting these objectives, and how you would respond to these obstacles. These milestones should be clearly indicated in your study timeline.

This rating factor reflects HUD's goal to embrace high standards of ethics, management and accountability.

B. Review and Selection Process

1. Corrections To Deficient Applications. The General Section of this SuperNOFA provides the procedures for corrections to deficient applications.

2. Partial Funding. In the selection process, HUD reserves the right to offer partial funding to any or all applicants. If you are offered a reduced award amount, you will have a maximum of 14 calendar days to accept such a reduced award. If you fail to respond within the 14-day limit, you shall be considered to have declined the award.

3. Remaining Funds. See the General Section of this NOFA for HUD's procedures if funds remain after all selections have been made within the Healthy Homes Technical Studies Program.

C. Anticipated Announcement and Award Dates

The anticipated date for the announcement of awards under the Lead Technical Studies Program is September 30, 2004.

VI. Award Administration Information

A. Award Notices

1. Notice of Award. Applicants who have been selected for award will be notified by letter from the Grant Officer. The letter will state the program for which the application has been selected, the amount the grantee is eligible to receive, and the name of the Government Technical Representative (GTR). This letter is not an authorization to begin work or incur costs under the grant. An executed grant agreement is the authorizing document.

HUD may require that all the selected applicants participate in negotiations to determine the specific terms of the grant budget. In cases where HUD cannot successfully conclude negotiations with a selected applicant or a selected applicant fails to provide HUD with requested information, an award will not be made to that applicant. In this instance, HUD may offer an award, and proceed with negotiations with the next highest-ranking applicant. If you accept the terms and conditions of the award, you must return your signed grant agreement by the date specified during negotiation.

After receiving the letter, additional instructions on how to have the grant account entered into HUD's Line of Credit Control System (LOCCS) payment system will be provided. Other forms and program requirements will also be provided.

In accordance with OMB Circular A-133 (Audits of States, Local Governments and Non-Profit Organizations), grantees will have to submit their completed audit-reporting package along with the Data Collection Form (SF-SAC) to the Single Audit Clearinghouse. The address can be obtained from their Web site. The SF-SAC can be downloaded at: http://harvester.census.gov/sac/.

2. Debriefing. The General Section of the SuperNOFA provides the procedures for requesting a debriefing.

B. Administrative and National Policy Requirements

1. Program Performance. Awardees shall take all reasonable steps to accomplish all HUD-funded activities within the approved period of performance. HUD reserves the right to terminate the grant or cooperative agreement prior to the expiration of the period of performance if the awardee fails to make reasonable progress in implementing the approved program of activities.

2. Conducting Business in Accordance with HUD Core Values and Ethical Standards. If awarded assistance under this NOFA, prior to entering into a grant agreement with HUD, you will be required to submit a copy of your code of conduct and describe the methods you will use to ensure that all officers, employees, and agents of your organization are aware of your code of conduct. See the General Section of the SuperNOFA for information about conducting business in accordance with HUD's core values and ethical standards.

3. Participation in HUD-Sponsored Program Evaluation. As a condition of the receipt of financial assistance under this NOFA, you will be required to cooperate with all HUD staff or contractors performing HUD-funded research and evaluation studies pertaining to the subject of the grant or cooperative agreement.

4. Environmental Requirements. In accordance with 24 CFR 50.19(b)(1) and (b)(5), activities assisted under this program are categorically excluded from the requirements of the National Environmental Policy Act of 1969 (42 U.S.C. 4321) and are not subject to environmental review under the related laws and authorities.

C. Reporting

1. Post Award Reporting Requirements. Final budget and work plans are due 60 days after the start date.

2. Quality Assurance Plan (QAP). Successful applicants will be required to submit a Quality Assurance Plan to HUD prior to initiating work under the award. This is a streamlined version of the format used by some other federal agencies, and is intended to help ensure the accuracy and validity of the data that you will collect under the agreement. You should plan for this and include it in your study work plan. (See the QAP template for this program at: http://www.hud.gov.)

3. Progress reporting. Progress reporting is done on a quarterly basis. For specific reporting requirements, see policy guidance: http://www.hud.gov/offices/lead.

4. Final report. The award agreement will specify the requirements for final reporting (e.g., scientific manuscript, report).

5. Racial and Ethnic Beneficiary Data. HUD does not require grantees to collect racial and ethnic beneficiary data for this program. If, however, racial and ethnic data are collected and reported as part of a study funded under this program NOFA, you must use the Office of Management and Budget's Standards for the Collection of Racial and Ethnic Data as presented on Form HUD-27061, Racial and Ethnic Data Reporting Form (and instructions for its use), found at: http://www.grants.gov.

VII. Agency Contact(s)

For technical or programmatic questions, you may contact Dr. Peter Ashley, Office of Healthy Homes and Lead Hazard Control, at the address above; telephone (202) 755-1785, extension 115 (this is not a toll-free number) or via e-mail at Peter_J._Ashley@hud.gov. For administrative questions on grants or cooperative agreements, you may contact Ms. Curtissa L. Coleman, Office of Healthy Homes and Lead Hazard Control, at the address above; telephone (202) 755-1785, extension 119 (this is not a toll-free number) or via e-mail at Curtissa_L._Coleman@hud.gov. If you are a hearing- or speech-impaired person, you may reach the above telephone numbers via TTY by calling the toll-free Federal Information Relay Service at 800-877-8339.

VIII. Other Information

A. HUD Reform Act of 1989

The provisions of the HUD Reform Act of 1989 that apply to this NOFA are explained in the General Section of the SuperNOFA.

B. Paperwork Reduction Act

The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 80 hours per application and 16 hours per grant award. This includes the time for collecting, reviewing, and reporting the data. The information will be used for grantee selection and monitoring the administration of funds. Response to this request for information is required in order to receive the benefits to be derived.

Appendix A—Key Residential Health and Injury Hazards

The following briefly describes the residential health and injury hazards HUD considers key targets for intervention:

Allergens and asthma: Experts estimate that 14 million Americans have asthma, with an associated annual cost of $14 billion. Asthma is now recognized as the leading cause of school and work absences, emergency room visits, and hospitalizations. For sensitized children, exposure to antigens from dust mites, certain pets, and cockroaches has been associated with more severe asthma. There is a preponderance of evidence showing a dose-response relationship between exposure and prevalence of asthma and allergies; some evidence also indicates that exposure to antigens early in life may predispose or hasten the onset of allergies and asthma. Dust mites have been identified as the largest trigger for asthma and allergies. Cockroach allergens appear to be excessive in 30-50 percent of inner-city housing and affect 5-15 percent of the population, whereas dust mites appear to be the dominant allergen in other environments.

Interventions known to have beneficial effects include the installation of impervious mattress and pillow covers, which can reduce allergen exposure by 90 percent. Other dust mite control measures include dehumidification, laundering bedding, and removal of carpets and other materials that accumulate dust and are difficult to clean (e.g., dust sinks). Cleaning carpets with tannic acid solution has also been demonstrated to greatly reduce dust mites. Asthma prevention program costs have been estimated at about $500 per unit, which includes about $150 for educational interventions.

Asbestos: Asbestos is a mineral fiber that has been used commonly in a variety of building construction materials and household products for insulation and as a fire-retardant. The Environmental Protection Agency (EPA) and the Consumer Product Safety Commission (CPSC) have banned most asbestos products. Manufacturers have also voluntarily limited uses of asbestos. Today, asbestos is most commonly found in older homes in pipe and furnace insulation materials, asbestos shingles, millboard, textured paints, and other coating materials, and floor tiles. Elevated concentrations of airborne asbestos can occur when asbestos-containing materials (ACMs) are disturbed by cutting, sanding, or other remodeling activities. Improper attempts to remove these materials can release asbestos fibers into the air in homes, increasing asbestos levels and endangering the people living in those homes. The most dangerous asbestos fibers are too small to be visible. After they are inhaled, they can remain and accumulate in the lungs. Asbestos can cause lung cancer, mesothelioma (a cancer of the chest and abdominal linings), and asbestosis (irreversible lung scarring that can be fatal). Most people with asbestos-related diseases were exposed to elevated concentrations on the job; some developed disease from exposure to clothing and equipment brought home from job sites. As with radon, dose-response extrapolations suggest that lower level exposures, as may occur when asbestos-containing building materials deteriorate or are disturbed, may also cause cancer.

Intact asbestos-containing materials are not a hazard; they should be monitored for damage or deterioration and isolated if possible. Repair of damaged or deteriorating ACMs usually involves either sealing (encapsulation) or covering (enclosure) it. Repair is usually cheaper than removal, but it may make later removal of asbestos more difficult and costly. Repairs should be done only by a professional, trained and certified to handle asbestos safely and can cost from a few hundred to a few thousand dollars; removal can be more expensive.

Combustion products of heating and cooking appliances: Burning of oil, natural gas, kerosene, and wood for heating or cooking purposes can release a variety of combustion products of health concern. Depending upon the fuel, these may include carbon monoxide (a chemical asphyxiant), oxides of nitrogen (respiratory irritants), polycyclic aromatic hydrocarbons (e.g., the carcinogen benzo[a]pyrene), and airborne particulate matter (respiratory irritants). Carbon monoxide, an odorless gas, can be fatal. Nitrogen dioxide can damage the respiratory tract, and sulfur dioxide can irritate the eyes, nose and respiratory tract. Smoke and other particulates irritate the eyes, nose and throat, and can cause lung cancer.

Improper venting and poor maintenance of heating systems and cooking appliances can dramatically increase exposure to combustion products. Experts recommend having combustion heating systems inspected by a trained professional every year to identify blocked openings to flues and chimneys, cracked or disconnected flue pipes, dirty filters, rust or cracks in the heat exchanger, soot or creosote build-up, and exhaust or gas odors. Installing a carbon monoxide detector is also recommended; however, such a detector will not detect other combustion by-products.

Insect and Rodent pests: The observed association between exposure to cockroach antigen and asthma severity has already been noted above. In addition, cockroaches may act as vehicles to contaminate environmental surfaces with certain pathogenic organisms. Rodents can transmit a number of communicable diseases to humans, either through bites, arthropod vectors, or exposure to aerosolized excreta. In addition, humans can become sensitized to proteins in rodent urine, dander and saliva. Such sensitization may contribute to asthma severity among children. Insect and rodent infestation is frequently associated with substandard housing that makes it difficult to eliminate. Treatment of rodent and insect infestations often includes the use of toxic pesticides that may present hazards to occupants (see below). Integrated pest management (IPM) for rodents and cockroaches, which reduces the use of pesticides, is estimated to cost approximately $150 per unit. IPM control measures include sealing holes and cracks, removing food sources and use of traps.

Lead: Exposure to lead, especially from deteriorating lead-based paint, remains one of the most important and best-studied of the household environmental hazards to children. Although blood lead levels have fallen nationally, a large reservoir of lead remains in housing. The most recent national survey, conducted from 1991-94, showed that nearly one million U.S. preschoolers still have elevated blood lead levels. Overall, the prevalence rate among all children under six years of age is 4.4 percent. Among low-income children living in older housing where lead-based paint is most prevalent, the rate climbs to 16 percent; and for African-American children living in such housing, it reaches 21 percent.

HUD estimates that 38 million dwellings have some lead-based paint, and that 26 million have significant lead-based paint hazards. Of those, about 5.7 million have young children and of those, about 1.6 million have household incomes under $30,000 per year. Lead hazard control (LHC) costs can range anywhere from $500 to $15,000 per unit. Corrective measures include paint stabilization, enclosure and removal of certain building components coated with lead paint, and cleanup and “clearance testing,” which ensures the unit is safe for young children.

Mold and moisture: An analysis of several pulmonary disease studies estimates that 25 percent of airways disease, and 60 percent of interstitial lung disease may be associated with moisture in the home or work environment. Moisture is a precursor to the growth of mold and other biological agents, which is also associated with respiratory symptoms. An investigation of a cluster of pulmonary hemosiderosis (PH) cases in infants showed PH was associated with a history of recent water damage to homes and with levels of the mold Stachybotrys atra (SA) in air and cultured surface samples. Associations between exposure to SA and “sick building” symptoms in adults have also been observed. Other related toxigenic fungi have been found in association with SA-associated illness and could play a role. For sensitive individuals, exposure to a wide variety of common molds may also aggravate asthma. Addressing mold problems in housing requires coordination among the medical, public health, microbiological, housing, and building science communities.

The cost of mold/moisture-related intervention work (e.g., IPM, clean and tune furnace, remove debris, vent clothes dryer, cover dirt floor with impermeable vapor barrier) is a few hundred dollars, unless major modification of the ventilation system is needed. For example, in Cleveland, mold interventions, including repairs to ventilation systems and basement flooring, in the most heavily contaminated homes range from $500-$5,000, with some costs also being dedicated to LHC simultaneously through its lead and asthma program.

Pesticide residues: According to the EPA, 75 percent of U.S. households used at least one pesticide product indoors during the past year. Products used most often are insecticides and disinfectants. Another study suggests that 80 percent of most people's exposure to pesticides occurs indoors and that measurable levels of up to a dozen pesticides have been found in the air inside homes. The amount of pesticides found in homes appears to be greater than can be explained by recent pesticide use in those households; other possible sources include contaminated soil or dust that migrates in from outside, stored pesticide containers, and household surfaces that collect and then release the pesticides. Pesticides used in and around the home include products to control insects (insecticides), termites (termiticides), rodents (rodenticides), molds and fungi (fungicides), and microbes (disinfectants). In 1990, the American Association of Poison Control Centers reported that some 79,000 children were involved in common household pesticide poisonings or exposures. In households with children under five years of age, almost half stored at least one pesticide product within the reach of children. Exposure to chlorpyriphos (CP), a commonly used organophosphate insecticide, in the prenatal and early postnatal period may impair neurological development. While CP is a biodegradable pesticide, substantial persistence of CP in house dust has been demonstrated. Exposure to high levels of cyclodiene pesticides, commonly associated with misapplication, has produced various symptoms, including headaches, dizziness, muscle twitching, weakness, tingling sensations, and nausea. In addition, the EPA is concerned that cyclodienes might cause long-term damage to the liver and the central nervous system, as well as an increased risk of cancer.

There are available data on hazard evaluation methods and remediation effectiveness regarding pesticide residues in the home environment.

Radon progeny: The National Academy of Sciences estimates that approximately 15,000 cases of lung cancer per year are related to radon exposure. Epidemiologic studies of miners exposed to high levels of radon in inhaled air have defined the dose response relation for radon-induced lung cancer at high exposure levels. Extrapolation of these data has been used to estimate the excess risk of lung cancer attributable to exposure to radon gas at the lower levels found in homes. These estimates indicate that radon gas is an important cause of lung cancer deaths in the U.S. Excessive exposures are typically related to home ventilation, structural integrity and location.

Radon measurement and remediation methods are well developed, and the Environmental Protection Agency (EPA) recommends that every home be measured for radon. EPA estimates that materials and labor costs for radon reduction in an existing home are $800-$2,500. Including radon resistant techniques in new home construction costs $350-$500, and can save up to $65 annually in energy costs, according to the EPA.

Take-home hazards from work/hobbies and work at home: When the clothing, hair, skin, or shoes of workers become contaminated with hazardous materials in the workplace, such contaminants may inadvertently be carried to the home environment and/or an automobile. Such “take-home” exposures have been demonstrated, for example, in homes of lead-exposed workers. In addition, certain hobbies or workplaces located in the home may provide an especially great risk of household contamination.

Control methods include storing and laundering work clothes separately, and showering and changing clothes before leaving work or immediately after arriving home. Once a home becomes contaminated, cleaning floors and contact surfaces and replacing furnishings may be necessary to reduce exposures.

Unintentional injuries/fire: Unintentional injury is now the leading cause of death and disability among children younger than 15 years of age. In 1997, nearly 7 million persons in the U.S. were disabled for at least one full day by unintentional injuries received at home. During the same year, 28,400 deaths were attributable to unintentional home injuries, of which 1800 occurred among children 0-4 years of age. Among young children, three types of events accounted for more than 75 percent of deaths: fires/ burns; drowning; and mechanical suffocation. Falls and poisoning are the next most common causes of death.

Home visitation protocols have been shown to be effective in reducing exposure to such hazards. The “add-on” cost of injury prevention measures, when combined with other housing interventions are estimated at about $100 per unit. This includes the cost of some injury prevention devices (e.g., smoke alarms, electrical socket covers, etc.).

Appendix B—Relevant Publications and Guidelines

To secure any of the documents listed, call the telephone number provided. If you are a hearing- or speech-impaired person, you may reach the telephone numbers through TTY by calling the toll-free Federal Information Relay Service at 800-877-8339. A number of these references are provided on HUD's CD, “Residential Lead Desktop Reference, 3rd Edition.” This CD can be obtained at no charge by calling the National Lead Information Clearinghouse's (NLIC's) toll free number, 800-424-LEAD. Several of these references can be downloaded from the Internet without charge from the HUD Office of Healthy Homes and Lead Hazard Control's Internet site at: http://www.hud.gov/offices/lead.

Regulations

1. Worker Protection: Occupational and Safety Administration (OSHA) publications listed below can be purchased by calling either OSHA Regulations at 202-693-1888 (OSHA Regulations) (this is not a toll free number) or the Government Printing Office (GPO) at 202-512-1800 (this is not a toll-free number). If you are a hearing- or speech-impaired person, you may reach these telephone numbers through TTY by calling the toll-free Federal Information Relay Service at 800-877-8339. OSHA standards and other publications can be downloaded or purchased (as applicable) from OSHA's publication Web page, http://www.osha.gov/pls/publications/pubindex.list. A broad range of information on construction and other worker protection requirements and guidelines is available from OSHA's home page at: http://www.osha.gov/.

2. Waste Disposal. A copy of the EPA regulations at 40 CFR parts 260-268 can be purchased by calling 800-424-9346, or, from the Washington, DC, metropolitan area, 703-412-9810 (this is not a toll-free number). If you are a hearing- or speech-impaired person, you may reach this telephone number via TTY by calling the toll-free Federal Information Relay Service at 800-877-8339. The regulations can also be downloaded without charge from the EPA Web site at: http://www.epa.gov/docs/epacfr40/chapt-I.info/subch-I/htm.

3. Lead.

(a) Requirements for Lead-Based Paint Activities in Target Housing and Child-Occupied Facilities; Final Rule: 40 CFR part 745 (EPA) (Lead Hazard Standards, Work Practice Standards, EPA and State Certification and Accreditation Programs for those engaged in lead-based paint activities) can be purchased by calling the Toxic Substances Control Act (TSCA) Hotline at 202-554-1404 (this is not a toll-free number). If you are a hearing- or speech-impaired person, you may reach this telephone number through TTY by calling the toll-free Federal Information Relay Service at 800-877-8339. The rule and guidance can be downloaded from the Internet without charge at: http://www.epa.gov/lead/.

(b) Requirements for Notification, Evaluation and Reduction of Lead-Based Paint Hazards in Federally Owned Residential Property and Housing Receiving Federal Assistance; Final Rule: 24 CFR part 35, subparts B through R, published September 15, 1999 (64 FR 50201) (HUD) can be purchased by calling NLIC's toll-free number (800-424-LEAD) or downloaded without charge from the HUD Web site at: http://www.hud.gov/offices/lead.

(c) Requirements for Disclosure of Information Concerning Lead-Based Paint in Housing, 24 CFR Part 35, Subpart A (HUD, Lead-Based Paint Disclosure Rule) by calling the NLIC's toll free number (800-424-LEAD). If you are a hearing- or speech-impaired person, you may reach this telephone number through TTY by calling the toll-free Federal Information Relay Service at 800-877-8339. The rule, guidance, pamphlet and disclosure formats can be downloaded from the HUD Web site at: http://www.hud.gov/offices/lead.

(d) U.S. Environmental Protection Agency. Lead; Identification of Dangerous Levels of Lead; Final Rule at 66 FR 1205-1240 (January 5, 2001). This rule and guidance can be obtained without charge by calling the NLIC's toll free number (800-424-LEAD) or by calling the TSCA at: 202-554-1404 (this is not a toll-free number). The rule and guidance can be downloaded from the EPA Web site at: http://www.epa.gov/lead/leadhaz.htm.

Guidelines

1. Guidelines for the Evaluation and Control of Lead-Based Paint Hazards in Housing; HUD, June 1995, and amended September 1997. These guidelines can be purchased by calling 800-245-2691 toll-free. If you are a hearing- or speech-impaired person, you may reach this telephone number via TTY by calling the toll-free Federal Information Relay Service at 800-877-8339. The Guidelines can be downloaded from the HUD Web site without charge at http://www.hud.gov/offices/lead.

Reports and Articles

1. The Healthy Homes Initiative: A Preliminary Plan (Summary and Full Report); HUD, July 1995. A copy of this summary and report can be downloaded from the HUD Web site without charge at: http://www.hud.gov/offices/lead.

2. Institute of Medicine. Indoor Allergens. Assessing and Controlling Adverse Health Effects. National Academy Press. Washington, DC 1993.

3. Mott L., Our Children at Risk. Natural Resources Defense Council. Washington, DC 1997. Can be ordered from the Internet from at: http://www.nrdc.org.

4. Rom W.N., Ed. Environmental and Occupational Medicine. Little, Brown and Co., Boston. 1992.

5. President's Task Force on Environmental Health Risks and Safety Risks to Children. Asthma and The Environment: An Action Plan to Protect Children. Washington, DC 1999.

6. Eliminating Childhood Lead Poisoning: A Federal Strategy Targeting Lead Paint Hazards. Washington, DC 2000. Can be downloaded from the Internet without charge from www.epa.gov/children.

7. Jacobs, D.E., R.P. Clickner, J.Y. Zhou, et al., 2002. Prevalence of Lead-Based Paint in U.S. Housing. Env. Health Persp. 110(10): A599-A606.

8. Galke, W., S. Clark, J. Wilson, et al., 2001. Evaluation of the HUD lead hazard control grant program: Early overall findings. Env. Res. 86, 149-156.

BILLING CODE 4210-32-P

BILLING CODE 4210-32-C

Appendix D—Administrative Costs

I. Purpose

The intent of this HUD grant program is to allow the Grantee to be reimbursed for the reasonable direct and indirect costs, subject to a top limit, for overall management of the grant. In most instances the grantee, whether a state or a local government, principally serves as a conduit to pass funding to sub-grantees, which are to be responsible for the conducting lead-hazard reduction work. Congress set a top limit of ten percent of the total grant sum for the grantee to perform the function of overall management of the grant program, including passing on funding to sub-grantees. The cost of that function, for the purpose of this grant, is defined as the “administrative cost” of the grant, and is limited to ten percent of the total grant amount. The balance of ninety percent or more of the total grant sum is reserved for project implementation activities.

II. Administrative Costs: What They Are Not

For the purposes of this HUD grant program, “administrative costs” should not be confused with the terms “general and administrative cost,” “indirect costs,” “overhead,” and “burden rate.” These are accounting terms usually represented by a government-accepted standard percentage rate. The percentage rate allocates a fair share of an organization's costs that cannot be attributed to a particular project or department (such as the chief executive's salary or the costs of the organization's headquarters building) to all projects and operating departments (such as the Fire Department, the Police Department, the Community Development Department, the Health Department or this program). Such allocated costs are added to those projects' or departments' direct costs to determine their total costs to the organization.

III. Administrative Costs: What They Are

For the purposes of this HUD grant program, “Administrative Costs” are the grantee's allowable direct costs for the overall management of the grant program plus the allocable indirect costs. The allowable limit of such costs that can be reimbursed under this program is 10 percent of the total grant sum. Should the grantee's actual costs for overall management of the grant program exceed 10 percent of the total grant sum, those excess costs shall be paid for by the grantee. However, excess costs paid for by the grantee may be shown as part of the requirement for cost-sharing funds to support the grant.

IV. Administrative Costs: Definition

A. General

Administrative costs are the allowable, reasonable, and allocable direct and indirect costs related to the overall management of the project activities that are supported by the HUD grant. Those costs shall be segregated in a separate cost center within the grantee's accounting system, and they are eligible costs for reimbursement as part of the grant, subject to the 10 percent limit. Such administrative costs do not include any of the staff and overhead costs directly arising from specific sub-grantee program activities eligible under this NOFA, because those costs are eligible for reimbursement under a separate cost center as a direct part of project activities.

The grantee may elect to serve solely as a conduit to sub-grantees, who will in turn perform the direct program activities eligible under this NOFA, or the grantee may elect to perform all or a part of the direct program activities in other parts of its own organization, which shall have their own segregated, cost centers for those direct program activities. In either case, not more than 10 percent of the total HUD grant sum may be devoted to administrative costs, and not less than 90 percent of the total grant sum shall be devoted to direct program activities. The grantee shall take care not to mix or attribute administrative costs to the direct project cost centers.

B. Specific

Reasonable costs for the grantee's overall grant management, coordination, monitoring, and evaluation are eligible administrative costs. Subject to the 10 percent limit, such costs include, but are not limited to, necessary expenditures for the following goods, activities and services:

(1) Salaries, wages, and related costs of the grantee's staff, the staff of affiliated public agencies, or other staff engaged in grantee's overall grant management activities. In charging costs to this category the recipient may either include the entire salary, wages, and related costs allocable to the program for each person whose primary responsibilities (more than 65 percent of their time) with regard to the grant program involve direct overall grant management assignments, or the pro rata share of the salary, wages, and related costs of each person whose job includes any overall grant management assignments. The grantee may use only one of these two methods during this program. Overall grant management includes the following types of activities:

(a) Preparing grantee program budgets and schedules, and amendments thereto;

(b) Developing systems for the selection and award of funding to sub-grantees and other sub-recipients;

(c) Developing suitable agreements for use with sub-grantees and other subrecipients to carry out grant activities;

(d) Developing systems for assuring compliance with program requirements;

(e) Monitoring sub-grantee and subrecipient activities for progress and compliance with program requirements;

(f) Preparing presentations, reports, and other documents related to the program for submission to HUD;

(g) Evaluating program results against stated objectives;

(h) Providing local officials and citizens with information about the overall grant program; however, a more general education program, helping the public understand the nature of lead hazards, lead hazard reduction, blood-lead screening, and the health consequences of lead poisoning is a direct project support activity;

(i) Coordinating the resolution of overall grant audit and monitoring findings; and

(j) Managing or supervising persons whose responsibilities with regard to the program include such assignments as those described in paragraphs (a) through (i).

(2) Travel costs incurred for official business in carrying out the overall grant management;

(3) Administrative services performed under third party contracts or agreements, for services directly allocable to grant management such as: legal services, accounting services, and audit services;

(4) Other costs for goods and services required for and directly related to the overall management of the grant program; and including such goods and services as telephone, postage, rental of equipment, renter's insurance for the program management space, utilities, office supplies, and rental and maintenance (but not purchase) of office space for the program.

(5) The fair and allocable share of grantee's general costs that are not directly attributable to specific projects or operating departments such as salaries, office expenses and other related costs for local officials (e.g., mayor and city council members, etc.), and expenses for a city's legal or accounting department which are not charged back to particular projects or other operating departments. If a grantee has an established burden rate, it should be used; if not, the grantee shall be assigned a negotiated provisional burden rate, subject to final audit.

BILLING CODE 4210-32-P

Lead Technical Studies Program Overview Information

A. Federal Agency Name: Department of Housing and Urban Development, Office of Healthy Homes and Lead Hazard Control.

B. Funding Opportunity Title: Lead Technical Studies Program.

C. Announcement Type: Initial announcement.

D. Funding Opportunity Number: The Federal Register number is: FR-4900-N-10. The OMB Paperwork Approval number is: 2539-0015.

E. Catalog of Federal Domestic Assistance (CFDA) Number: 14.902, Lead Technical Studies Grant Program.

F. Dates: An original and three copies of your application must be submitted on or before July 13, 2004. See the General Section of the SuperNOFA Section IV, Application and Submission Information, regarding application submission procedures and timely filing requirements.

G. Additional Overview Content Information:

1. The funding opportunity is for technical studies to improve methods for detecting and controlling residential lead-based paint health and safety hazards.

2. The total amount to be awarded is approximately $3 million, of which $1 million is a set-aside for Historically Black Colleges and Universities (HBCUs).

3. The anticipated amounts and/or numbers of individual awards will be approximately six to ten awards, ranging from approximately $200,000 to approximately $750,000.

4. The types of instruments awarded will be grants or cooperative agreements, with substantial involvement of the government for cooperative agreements.

5. Academic, not-for-profit and for-profit institutions located in the U.S., state and local governments, and federally recognized Native American tribes are eligible to apply. For-profit institutions are not allowed to earn a fee. HBCUs are also eligible to apply under the set-aside.

6. Cost sharing is not required, but is encouraged.

7. There are no limitations on the numbers of applications that each applicant may submit, and,

8. One can get application materials from the sources described below.

Full Text of Announcement

I. Funding Opportunity Description

Purpose of the Program. The purpose of the Lead Technical Studies program is to improve methods for detecting and controlling residential lead-based paint hazards.

A. Program Description

1. General Goals and Objectives. The overall goal of the Lead Technical Studies grant program is to gain knowledge to improve the efficacy and cost-effectiveness of methods for evaluation and control of residential lead-based paint hazards.

Through the Lead Technical Studies Program, HUD is helping “develop the capacity of eligible applicants * * * to carry out activities under” lead hazard control grant programs, by advancing the technology and increasing the effectiveness of workers on lead hazard control (LHC) projects, in fulfillment of the requirements of section 1011(g)(1) of Title X of the Residential Lead-Based Paint Hazard Reduction Act of 1992 (42 U.S.C. 4852(g)(1)) and is “conduct[ing] research to develop improved methods for evaluating [and] reducing lead-based paint hazards in housing,” and related topics, in fulfillment of the requirements of sections 1051 and 1052 of Title X.

HUD encourages applicants to consider using the “community based participatory research” approach, where applicable, in the design and implementation of lead technical studies (see e.g., http://www.niehs.nih.gov/translat/cbpr/cbpr.htm).

Brief descriptions of active and previously funded lead technical studies projects can be found on HUD's Web site at: http://www.hud.gov/offices/lead/techstudies/index.cfm. Where it is appropriate, as an applicant, you are strongly encouraged to ensure that your proposed study builds upon HUD-sponsored work that has been completed previously, in addition to other relevant research (i.e., that contained in government reports and in the published literature).

2. Background. HUD has been actively engaged in a number of activities relating to lead-based paint hazard control as a result of the Lead-Based Paint Poisoning Prevention Act of 1971, as amended, 42 U.S.C. 4801-4856. Sections 1051 and 1052 of the Residential Lead-Based Paint Hazard Reduction Act of 1992 (Title X) (42 U.S.C. 4854 and 4854a) state that the Secretary of HUD, in cooperation with other federal agencies, shall conduct technical studies on specific topics related to the evaluation and mitigation of residential lead hazards. Section 1053 of Title X authorized HUD to spend funds to conduct these studies, under the Lead Hazard Control Grant Program's funding authorization in section 1011(o). The HUD-sponsored technical studies program also responds to recommendations by the Task Force on Lead-Based Paint Hazard Reduction and Financing, which was established pursuant to section 1015 of Title X. (42 U.S.C. 4852a). The Task Force presented its final report to HUD and the Environmental Protection Agency (EPA) in July 1995. The Task Force Report, entitled “Putting the Pieces Together: Controlling Lead Hazards in the Nation's Housing” (see Appendix A of this program section of this NOFA), recommended that research be conducted on a number of key topics to address significant gaps in our knowledge of lead exposure and hazard control.

The findings of technical studies will be used in part to update HUD's Guidelines for the Evaluation and Control of Lead-Based Paint Hazards in Housing (Guidelines), which were published in June 1995 and partly amended in September 1997 (Chapter 7, Lead-Based Paint Inspection). For availability of the Guidelines, see Appendix A.

B. Eligible Activities

HUD is especially interested in the following lead technical studies topics:

1. Use of novel or dry cleaning techniques. Current methods for cleaning lead-contaminated dust from hard surfaces consist of a combination of HEPA vacuuming and wet cleaning. Research sponsored by both the U.S. Environmental Protection Agency and HUD has shown that trisodium phosphate (TSP) is not more effective than other detergents in cleaning lead contaminated dust (USEPA 1998, Rich et al. 2002). Additional HUD-sponsored research showed that use of household vacuums without HEPA filtration for cleaning as an interim control method (i.e., not following lead abatement or other interim control activities) did not produce detectable airborne lead emissions (Public Health Institute/California Dept. of Health Services, unpublished data). The same study also found that wet washing was considerably more effective than vacuuming in removing dust-lead from smooth floors.

There are other cleaning techniques that might be effective in cleaning hard surfaces, but which have not been studied. The other cleaning techniques include the use of disposable cloths or towelettes (either used directly or at the end of a wand) or dry cleaning methods using disposable wipes that collect dust electrostatically. Important considerations include both efficacy in the removal of lead-contaminated dust and cost.

The use of a disposable wet cleaning medium, a technique that can be referred to as “wet wipe and toss” consists of the use of a disposable rag or non-woven cellulosic material that can be dipped in cleaning solution, used once to clean a surface, and then discarded. Conceptually, this may benefit cleaning since a fresh wipe material is always used and there is no return to the rinse solution (i.e., as with a mopping technique), a practice that may contaminate the cleaning water (a disadvantage is the potential for creating a large amount of solid waste). This technique may be most appropriate for cleaning small surfaces, such as windowsills or troughs, but could also be used for floors if the wipe medium is secured on a holder at the end of a handle. Commercially available products include pre-moistened cleaning pads (resembling large size baby wipes) and integrated spray and wipe assemblies with disposable cleaning pads.

Disposable dry cleaning media for dust control was introduced into the commercial market relatively recently. This cleaning technique makes use of a disposable dust collector, made of cloth or paper with an electrostatic charge. Some unpublished reports indicate that they can be effective in dust removal, including cleanup of lead-contaminated dust. Without focusing on any specific commercial product, it would be of interest to establish the usefulness of some of these products to clean a variety of surfaces prior to clearance, or to remove lead-contaminated dust on specific surface types as an interim control procedure.

Additional ideas would be welcome, along with novel approaches to evaluate the effectiveness of the cleaning techniques.

2. Reducing exterior soil and dust-lead hazards. Studies have shown that lead in exterior dust and soil can be an important source of lead exposure to young children, both through direct contact and indirectly when tracked or blown into the home. HUD has funded several studies that have assessed approaches to reducing the risk posed by this large environmental lead reservoir. Examples of these studies have focused on the following topics: reducing the bioavailability (as determined using in vitro testing) of lead in soil through the addition of composted biosolids; reducing soil hazards in urban yards through targeted landscaping (e.g., raised beds, improving ground cover); reducing exterior dust-lead levels through exterior building treatments and street and sidewalk cleaning; and, reducing surface soil-lead hazards by overlaying clean soil with grass cover.

Additional study is needed to assess the long-term effectiveness of interim controls to reduce soil and exterior dust-lead hazards. Research is also needed to develop interim controls and strategies for exterior dust and soil that are reasonable in cost, feasible to implement, and which do not require frequent maintenance to maintain their effectiveness.

3. Potential exposure and contamination from floor sanding of lead-containing floor varnish. A HUD-funded pilot study by the Wisconsin Division of Public Health, “Potential Lead Exposures from Sanding Floors Containing Leaded Varnish,” found that although no floor varnish was identified as lead-based paint using X-ray fluorescence (XRF), 52% of varnish samples exceeded the definition of lead-based paint based on laboratory analysis. Also, more than 70% of the settled dust samples (not dust wipe samples) exceeded the floor dust clearance level of 40 μg/ft ² after floor sanding. Use of low-cost dust controls significantly reduced the amount of lead-contaminated dust on the floors. Hand-scraping of varnished stairs was also shown to be a high risk operation for occupational (personal) lead exposure.

HUD is interested in expanding this study to include a larger number of homes and floor refinishing contractors, and to include additional regions of the country. HUD is also interested in the ease of achieving clearance (using dust wipes) after floor sanding of varnishes that contain lead followed by cleaning, and in the development of procedures for minimizing the spread of lead-contaminated dust during sanding (i.e., considering the large amount of dust produced during sanding).

4. Approaches to streamlining performance of interim controls, abatement, and clearance in multi-family housing where repeat operations occur. The performance of abatement or interim control of lead-based paint hazards in multi-family housing may result in repetitive operations (for example in common areas such as hallways and stairwells) that hinder the movement, access, and exit of residents. For some of these areas, such as a hallway on each floor, or a stairwell or entranceways to buildings, repetitive operations such as interim controls may require relocation of residents until work can be completed, clean-up accomplished, and clearance attained.

There may be ways to show, with statistical significance, and through the use of existing, previous, or historical data that repeat operations may be defined with sufficient specificity to allow accelerated clean-up and clearance. HUD is interested in studies to determine whether repeat operations in multi-family housing can be sufficiently safe to allow return of residents to their units based on considered professional judgment and data collected from similar operations. This approach may be analogous to the approach taken to prove a negative exposure assessment for OSHA exposure determinations.

5. Effectiveness of Ongoing Maintenance Program Activities in Controlling Lead-Based Paint Hazards. While a variety of lead abatement and interim control techniques have been evaluated for their effectiveness in controlling lead-based paint hazards, there are few studies directly assessing the effectiveness of ongoing lead-based paint maintenance programs. HUD is interested in evaluating the effectiveness and feasibility of ongoing lead-based paint maintenance programs, identifying program components for which particular implementation difficulties exist, and evaluating proposed measures for overcoming those difficulties. Such an evaluation of program components could address whether and how technically-acceptable and cost-effective work practices are selected and implemented, how effectively supervisors monitor work activities to ensure that lead-based paint hazards are controlled and that dust and debris are contained and cleaned up during and after work, and how well clearance procedures (including necessary re-cleaning) are integrated into the maintenance program, among other factors.

6. Use of Available Databases to Improve the Efficacy of Lead Hazard Control Activities. Public databases can be used to help target and assess the effectiveness of lead hazard control activities. Examples of this include the use of census data to identify neighborhoods that are at high risk for lead poisoning (e.g., age and value of housing used in combination with indicators of socioeconomic status); the use of blood-lead screening data to target dwellings that have been associated with repeated identification of resident children with elevated blood-lead levels. At a broader level, serial blood-lead screening data could be used to assess the effectiveness of lead hazard control activities or laws that require lead hazard control treatments in high risk housing (e.g., by comparing community screening levels before and laws were enacted while accounting for the overall downward trend in blood lead levels). HUD is interested in studies that assess novel uses of public databases to improve the efficacy of lead hazard control programs (e.g., targeting neighborhoods), assess the effectiveness of enforcement and lead hazard control activities and regulations, and other, novel uses of these data.

7. Other Focus Areas that are Consistent with the Overall Goals of HUD's Lead Technical Studies Program. Additional ideas will be considered with an open mind if proposed with novel techniques and applications. HUD will also consider funding applications for technical studies on topics which are relevant under the overall goals and objectives of the lead technical studies program, as described above. In such instances, the applicant should describe how the proposed activity addresses these overall goals and objectives.

C. Ineligible Activities

1. Purchase or lease of equipment having a per-unit cost in excess of $5,000, unless prior written approval is obtained from HUD.

2. Medical treatment costs.

D. Authority

These grants are authorized under sections 1011(g)(1), 1011(o), 1051-1053 of the Residential Lead Based Paint Hazard Reduction Act of 1992 (Title X of the Housing and Community Development Act of 1992, 42 U.S.C. 4851 et seq.); and the Consolidated Appropriations Resolution of 2004, Pub. L. 108-199.

II. Award Information

A. Funding Available

Approximately $3 million in Fiscal Year 2004 for Lead Technical Studies. Of this amount, $1 million is set-aside for Historically Black Colleges and Universities (HBCUs). Cooperative agreements will be awarded on a competitive basis following evaluation of all proposals according to the rating factors described in this program NOFA. HUD anticipates that approximately six to ten grants will be awarded, ranging from approximately $200,000 to approximately $750,000 each. In FY2003, HUD awarded six grants averaging $272,000.

Applications for supplementation of existing projects are eligible to compete with applications for new awards (i.e., for work outside of the scope of the original agreement).

B. Anticipated Start Date and Period of Performance for New Grants

The start date for new awards is expected to be October 1, 2004. The period of performance cannot exceed 36 months from the time of award. Applicants are encouraged to plan studies with shorter performance periods, however when developing your schedule you should also consider the possibility that issues may arise that would delay project completion. For example, it is HUD's experience that projects requiring Institutional Review Board approval and oversight (i.e., in conformance with HUD's regulation (24 CFR 60) incorporating the Department of Health and Human Services' regulation of studies involving human subjects) or which involve the development of new instrumentation, are prone to delays. HUD reserves the right to approve no cost time extensions for a total period not to exceed 12 months.

C. Type of Award Instrument

Awards in response to this solicitation will be made as grants or cooperative agreements. Anticipated substantial involvement for cooperative agreements may include, but will not be limited to:

1. Review and possibly suggest amendments to the study design, including: study objectives; field sampling plan; sample handling and preparation; and sample and data analysis.

2. Review and provide technical recommendations in response to quarterly progress reports (e.g., amendments to study design based on preliminary results).

3. Review and provide technical recommendations on the final study report.

III. Eligibility Information

A. Eligible Applicants

Academic and not-for-profit institutions located in the U.S., state and local governments, and federally recognized Native American tribes are eligible under all existing authorizations. For-profit firms also are eligible; however, they are not allowed to earn a fee (i.e., no profit can be made from the project). HBCUs, that is, educational institutions that satisfy the requirements of 34 CFR 608.2, are also eligible to apply under the set-aside. Applications for supplementation of existing projects are eligible to compete with applications for new awards. Federal agencies and federal employees are not eligible to submit applications. The General Section of the SuperNOFA provides additional eligibility requirements.

B. Cost Sharing or Matching

Cost sharing or matching is not required. In rating your application, however, you will receive a higher score under Rating Factor 4 if you provide evidence of significant cost sharing.

C. Other

1. Threshold Requirements Applicable to All Applicants Under the SuperNOFA. As an applicant, you must meet all of the threshold requirements described in the General Section of the SuperNOFA. Threshold requirements include Eligibility, Compliance with Fair Housing and Civil Rights Laws, Conducting Business in Accordance with Core Values and Ethical Standards, Delinquent Federal Debts and Pre-Award Accounting System Surveys. Information about threshold requirements is provided in the General Section of the SuperNOFA. Applicants that meet all of the threshold requirements will be eligible to receive funds from HUD.

2. Program Requirements.

a. Program Performance. Grantees shall take all reasonable steps to accomplish all grant-funded activities within the approved period of performance. HUD reserves the right to terminate the grant prior to the expiration of the period of performance if the grantee fails to make reasonable progress in implementing the approved program of activities.

b. Compliance with all relevant state and federal regulations regarding exposure to and proper disposal of hazardous materials;

c. Any blood lead testing, blood lead level test results, and medical referral and follow-up for children under six years of age will be conducted according to the recommendations of the Centers for Disease Control and Prevention (CDC), Preventing Lead Poisoning in Young Children (see Appendix A of this program section of the NOFA);

d. HUD technical studies grant funds will not replace existing resources dedicated to any ongoing project;

e. Laboratory analysis covered by the National Lead Laboratory Accreditation Program (NLLAP) will be conducted by a laboratory recognized under the program;

f. Human research subjects will be protected from research risks in conformance with Federal Policy for the Protection of Human Subjects, required by HUD at 24 CFR part 60;

g. The requirements of the Occupational Safety and Health Administration (OSHA) (e.g., 29 CFR part 1910 and/or 1926, as applicable) or the state or local occupational safety and health regulations, whichever are most stringent, will be met;

h. If an individual researcher or a research team submits the application, the institution administering the grant will meet the civil rights threshold in the General Section of this NOFA.

3. DUNS Requirement. Refer to the General Section of the SuperNOFA for information regarding the DUNS requirement. A DUNS number must be provided for the institution that is submitting an application.

IV. Application and Submission Information

If you are interested in applying for funding under this program, please review carefully the General Section of the SuperNOFA and the following additional information.

A. Addresses to Request Application Package

There is no Application Kit. All the information required to submit an application is contained in the program section of this NOFA and the General Section of the SuperNOFA. Forms can be downloaded from the web at: http://www.grants.gov.

B. Content and Form of Application Submission

1. Applicant Data. Your application must contain the items listed in this section. These items include the standard forms, certifications, and assurances listed in the General Section of the SuperNOFA that are applicable to this funding (collectively referred to as the “standard forms”). The standard forms can be found in the General Section of the SuperNOFA. The remaining application item that is recommended for inclusion with your application is a non-standard form (i.e., excluding such items as narratives) that can be found as Appendix B to this program NOFA. The required items are:

a. A transmittal letter, signed by the chief executive or other authorized official, that provides the title of your proposed project, the dollar amount requested, and identifies the applicant(s) submitting the application. If you are applying under the HBCU set-aside, indicate this in the letter. Include the name, mailing address, telephone number, and principal contact person of the prime applicant. If two or more organizations are working together on the project, a primary applicant must be designated.

b. Application Abstract Summary. An abstract with the project title, the names and affiliations of all investigators, and a summary of the objectives, expected results, and study design (two-page maximum) must be included in the proposal.

c. Checklist and Submission Table of Contents (see Appendix B of this program NOFA; inclusion of this checklist is voluntary).

d. All forms as required by the General Section of this SuperNOFA. A Certification of Consistency with the Consolidated Plan is not required for this application.

e. A project description/narrative statement addressing the rating factors for award of funding under this program section of the NOFA. The narrative statement must be numbered in accordance with each factor for award (Rating Factors 1 through 5). The project description can either be included in the responses to the rating factors or provided separately. The response to the rating factors should not exceed a total of 25 pages (10- to 12-point font with at least ¾ inch margins on 8½ by 11 inch pages) for each technical study topic area. Any pages in excess of this limit will not be read.

f. In conformance with the Common Rule (Federal Policy for the Protection of Human Subjects, codified by HUD at 24 CFR part 60), if your research involves human subjects, your organization must provide an assurance (e.g., a letter signed by an appropriate official) that the research has been reviewed and approved by an Institutional Review Board (IRB) before you can initiate activities that require IRB approval. Before initiating such activities you must also provide the number for your organization's assurance (i.e., an “institutional assurance”) that has been approved by the Department of Health and Human Service's Office of Human Research Protections (OHRP). For additional information on what constitutes human subject research or how to obtain an institutional assurance see the OHRP web site at: http://ohrp.osophs.dhhs.gov/.

g. Within Appendix 1 of your application, include the resumes of the principal investigator and other key personnel and other materials that are needed in your response to the rating factors (e.g., organizational chart, letters of commitment). Resumes shall not exceed three pages each, and are limited to information that is relevant in assessing the qualifications of key personnel to conduct and/or manage the proposed technical studies. This information will not be counted towards the page limit. Also include Form HUD-96010 Logic Model in Appendix 1 (needed for response to rating factor 5).

h. Within Appendix 2 of your application, include attachments, appendices, or other relevant information may accompany the project description, but must not exceed 20 pages for the entire application, although mandatory materials (organizational chart, resumes, job descriptions, letters of commitment and memoranda of agreement from participating organizations) are not included in this page limit. Any pages in excess of this limit will not be read.

i. Within Appendix 3 of your application, include the required forms and a detailed total budget with supporting cost justification for all budget categories of the federal grant request. Use the budget format discussed in Rating Factor 3, Section V.(A.)c. below. In completing the budget forms and justification, you should address the following elements:

(1) Direct Labor costs should include all full- and part-time staff required for the planning and implementation phases of the project. These costs should be based on FTE (full time equivalent) or hours per year (hours/year) (i.e., one FTE equals 2,080 hours/year);

(2) You should budget for three trips to HUD Headquarters in Washington, DC, planning each trip for two people, with the first trip occurring shortly after grant award for a stay of two or three days, depending on your location, and the remaining trips having a stay of one or two days, depending on your location;

(3) A separate budget proposal should be provided for any subrecipients receiving more than 10 percent of the total federal budget request;

(4) You should be prepared to provide supporting documentation for salaries and prices of materials and equipment upon request;

(5) Organizations that have a federally negotiated indirect rate should use that rate and the appropriate base. Other organizations, not having a federally negotiated rate schedule, must obtain a rate from their cognizant federal agency, otherwise the organization will be required to obtain a negotiated rate through HUD; and

(6) You should submit the negotiated rate agreements for fringe benefits and indirect costs, if applicable, as an attachment to the budget sheets.

C. Submission Dates and Times

You must submit an original and three copies of your application on or before July 13, 2004. Refer to the General Section of the SuperNOFA for additional requirements such as delivery times, acceptable submission methods, acceptable proof of delivery, the timing of hand-delivered submissions and postmarks, and other information regarding application submission.

D. Intergovernmental Review

Funding received through this NOFA is not subject to Executive Order (EO) 12372, “Intergovernmental Review of Federal Programs.”

E. Funding Restrictions

1. Administrative Costs. There is a 10 percent maximum allowance for administrative costs. Additional information about allowable administrative costs is provided in Appendix C of this NOFA.

2. Purchase of Real Property is not an allowable cost under this program.

3. Purchase or lease of equipment having a per-unit cost in excess of $5,000 is not an allowable cost, unless prior written approval is obtained from HUD.

4. Medical treatment costs are not allowable under this program.

F. Other Submission Requirements

1. Address for Submitting Applications. Submit an original and three copies of your application to: U.S. Department of Housing and Urban Development; Office of Healthy Homes and Lead Hazard Control; ATTN: Lead Technical Studies Program; 451 Seventh Street, SW, Room P3206; Washington, DC 20410-3000.

2. Application Submission. See the General Section of the SuperNOFA for specific procedures concerning the form of application submission (e.g., mailed applications, express mail, or overnight delivery).

V. Application Review Information

A. Criteria

1. Threshold Requirements. Applications that meet all of the threshold requirements will be eligible to be scored and ranked, based on the total number of points allocated for each of the rating factors described in this program NOFA. Your application must receive a total score of at least 75 points to remain in consideration for funding.

2. Rating and Ranking. Applications will be reviewed by an Application Review Panel (ARP) which will assign each application a score based on the rating factors presented below. The ARP chairperson selects and provides at least one application to panel members to score during a calibration round to ensure that all panel members are consistent in their application of the rating factors. When the calibration round is completed, each application is reviewed and scored by at least two panel members. If significant scoring discrepancies are identified among the reviewers of an application, the reviewers discuss their differences and are then given an opportunity to rescore the application among themselves and, if needed, with the full ARP. An average score is then computed for each application. The ARP chair may call upon an advisor (generally a scientist with another federal agency) to the ARP to review and comment on a proposal; however, the advisor does not score the application. At a final meeting, the ARP identifies the top-ranking applications to be recommended for funding.

3. Award Factors. The factors for rating and ranking applicants, and maximum points for each factor, are provided below. Each factor is weighted as indicated by the number of points that are attainable for it. The maximum score that can be assigned to an application is 102 points. Applicants should be certain that these factors are adequately addressed in the project description and accompanying materials. The five rating factors are listed below (a more detailed description follows);

Rating Factor 1: Capacity of the Applicant and Relevant Organizational Experience (22 points);

Rating Factor 2: Need/Extent of the Problem (15 points);

Rating Factor 3: Soundness of Approach (45 points);

Rating Factor 4: Leveraging Resources (8 points);

Rating Factor 5: Achieving Results and Program Evaluation (10 points);

RC/EZ/EC Bonus Points (2 points);

TOTAL: 102 points

Applicants are eligible to receive two bonus points for projects located within federally designated Renewable Communities (RC)/Employment Zones (EZ)/Enterprise Communities (EC) (RC/EZ/ECs) and which will serve the residents of these communities (see the General Section of the SuperNOFA).

You will receive one point under Rating Factor 3.c(2) for each of the applicable FY 2004 policy priorities that are adequately addressed in your application with the exception of “Removal of Barriers to Affordable Housing,” for which you can receive up to two points (see the General Section of the SuperNOFA). Policy priorities that are applicable to the Lead Technical Studies Program NOFA are: (1) Improving our Nation's Communities (focus on distressed communities); (2) Providing Full and Equal Access to Grass-Roots Faith-based and other Community-based Organizations in HUD Program Implementation; (3) Participation of Minority-Serving Institutions in HUD Programs, and (4) Removal of Barriers to Affordable Housing.

Within the program areas, you may address more than one of the technical study topic areas within your proposal or submit separate applications for different topic areas. You are encouraged to plan projects that can be completed over a short time period (e.g., 18 to 24 months from the date of award, so useful information generated from the technical studies can be available for policy or program decisions and disseminated to the public as quickly as possible.

The following is a description of the five award factors and their associated subfactors.

a. Rating Factor 1. Capacity of the Applicant and Relevant Organizational Experience (22 Points). This factor addresses the extent to which you have the ability and organizational resources necessary to successfully implement your proposed activities in a timely manner. The rating of you, the “applicant,” will include any sub-grantees, consultants, subrecipients, and members of consortia that are firmly committed to the project (generally, “subordinate organizations”). In rating this factor, HUD will consider the extent to which your application demonstrates:

(1) The capability and qualifications of the principal investigator and key personnel (14 points). Qualifications to carry out the proposed study as evidenced by academic background, relevant publications, and recent (within the past 10 years) relevant research experience. Publications and research experience are considered relevant if they required the acquisition and use of knowledge and skills that can be applied in the planning and execution of the technical study that is proposed under this NOFA; and

(2) Past performance of the study team in managing similar projects (8 points). Demonstrated ability to successfully manage various aspects of a complex technical study in such areas as logistics, study personnel management, data management, quality control, community study involvement (if applicable), and report writing, as well as overall success in project completion (i.e., projects completed on time and within budget). You should also demonstrate that your project would have adequate administrative support, including clerical and specialized support in areas such as accounting and equipment maintenance.

If applicable, provide the past performance of the organization (applicant or partners) in another Healthy Homes or Lead Hazard Control grant, another grant related to environmental health and safety issues, or other experience in a similar program. Provide details about the nature of the project, the funding agency, and your performance.

If your organization is an existing Lead Technical Studies grantee, provide a description of the progress and outcomes achieved in that grant. If you received previous Lead Technical Studies funding, this experience will be evaluated in terms of cumulative progress and achievements under the previous grant.

b. Rating Factor 2. Need/Extent of the Problem (15 Points). This factor addresses the extent to which there is a need for your proposed technical study. In responding to this factor, you should document in detail how your project would make a significant contribution towards achieving some or all of HUD's stated goals and objectives for one or more of the topic areas described in Section I.B. You should demonstrate how your proposed study addresses a need with respect to the development of improved methods for the assessment and control of residential lead-based paint hazards. Specific topics to be addressed for this factor include:

(1) Provide a concise review of the research need that is addressed in your study and why it is high priority with respect to improving methods for lead hazard detection and control;

(2) Discuss how your proposed project would significantly advance the current state of knowledge for your focus area, especially with respect to the development of practical solutions; and,

(3) Discuss how you anticipate your study findings will be used to improve current methods for assessing or mitigating the lead hazard that your study addresses. Indicate why the method/protocol that would be improved through your study would likely be widely adopted (e.g., low cost, easily replicated, lack of other options).

c. Rating Factor 3. Soundness of Approach (45 Points). This factor addresses the quality of your proposed technical study plan. Specific components include:

(1) Soundness of the study design (20 points). The project description/study design must be thorough and feasible, and reflect your knowledge of the relevant scientific literature. You should clearly describe how your study builds upon the current state of knowledge for your focus area. If possible, your study should be designed to address testable hypotheses, which are clearly stated. Your study design should be statistically based, with adequate power to test your stated hypotheses. The study design should be presented as a logical sequence of steps or phases, with individual tasks described for each phase. You should identify any important “decision points” in your study plan and you should discuss plans for data management, analysis and archiving.

(2) Policy Priorities (5 points). Indicate if your proposed study will address any of the FY2004 policy priorities that are applicable to this program as identified in Section V.A.3 (see the General Section of the SuperNOFA for additional details regarding these policy priorities). You will receive one point for each of the applicable policy priorities that are addressed in your application, with the exception of “Removal Of Barriers to Affordable Housing,” for which you can receive a maximum of 2 points.

(3) Quality assurance mechanisms (8 points). You must describe the quality assurance mechanisms that will be integrated into your project design to ensure the validity and quality of the results.

(a) Areas to be addressed include acceptance criteria for data quality, procedures for selection of samples/sample sites, sample handling, measurement and analysis, pre-testing and validation of questionnaires or surveys, measures to ensure accuracy during data management, and any standard/nonstandard quality assurance/control procedures to be followed. Documents (e.g., government reports, peer-reviewed academic literature) that provide the basis for your quality assurance mechanisms should be cited.

(b) If your project involves human subjects in a manner which requires Institutional Review Board (IRB) approval and periodic monitoring, address how you will obtain such approval. Before you can receive funds from HUD for activities that require IRB approval, you must provide an assurance that your study has been reviewed and approved by an IRB and evidence of your organization's “institutional assurance.” Describe how you will provide informed consent (e.g., from the subjects, their parents or their guardians, as applicable) to help ensure their understanding of, and consent to, the elements of informed consent, such as the purposes, benefits and risks of the research. Describe how this information will be provided and how the consent will be collected. For example, describe your use of “plain language” forms, flyers and verbal scripts, and how you plan to work with families with limited English proficiency or primary languages other than English, and with families including persons with disabilities.

(4) Project management plan (8 points). The proposal should include a management plan that provides a schedule for the completion of major activities, tasks and deliverables, with an indication that there will be adequate resources (e.g., personnel, financial) to successfully meet the proposed schedule. You are encouraged to plan a project with a duration of 24 months or less (36 months maximum). You should include preparation of one or more articles for peer-reviewed academic journals and submission of the draft(s) to the journal(s) after HUD acceptance during the period of performance of your grant.

(5) Budget Proposal (4 points).

(a) Your budget proposal should thoroughly estimate all applicable direct and indirect costs, and be presented in a clear and coherent format in accordance with the requirements listed in the General Section of this NOFA. HUD is not required to approve or fund all proposed activities. You must thoroughly document and justify all budget categories and costs (Form HUD-424-CBW) and all major tasks, for yourself, sub-recipients, partners, major subcontractors, joint venture participants, or others contributing resources to the project. A separate budget must be provided for partners who are proposed to receive more than 10 percent of the federal budget request.

(b) Your narrative justification associated with these budgeted costs should be included as an attachment to the Total Budget (Federal Share and Matching), but does not count in the 25-page limit for this submission.

(c) The application will not be rated on the proposed cost; however, cost will be considered in addition to the rated factors to determine the proposal most advantageous to the federal government. Cost will be the deciding factor when proposals ranked under the listed factors are considered acceptable and are substantially equal.

d. Rating Factor 4. Leveraging Resources (8 Points). Your proposal should demonstrate that the effectiveness of HUD's Lead Technical Studies grant funds is being increased by securing other public and/or private resources or by structuring the project in a cost-effective manner, such as integrating the project into an existing study. Resources may include funding or in-kind contributions (such as services, facilities or equipment) allocated to the purpose(s) of your project. Staff and in-kind contributions should be assigned a monetary value.

You should provide evidence of leveraging/partnerships by attaching to your application the following: letters of firm commitment; memoranda of understanding; or agreements to participate from those entities identified as partners in the project efforts. Each letter of commitment, memorandum of understanding, or agreement to participate must include the organization's name, proposed level of commitment (with monetary value) and responsibilities as they relate to specific activities or tasks of your proposed program. The commitment must also be signed by an official of the organization legally able to make commitments on behalf of the organization.

e. Rating Factor 5. Achieving Results and Program Evaluation (10 Points). This factor emphasizes HUD's commitment to ensuring that applicants keep promises made in their applications and assess their performance to ensure performance goals are met. Achieving results means you, the applicant, have clearly identified the benefits or outcomes of your program. Outcomes are ultimate goals. Benchmarks or outputs are interim activities or products that lead to the ultimate achievement of your goals.

Program evaluation requires that you, the applicant, identify program outcomes, interim products or benchmarks, and performance indicators that will allow you to measure your performance. Performance indicators should be objectively quantifiable and measure actual achievements against anticipated achievements. Your evaluation plan should identify what you are going to measure, how you are going to measure it, and the steps you have in place to make adjustments to your work plan if performance targets are not met within established timeframes.

This rating factor reflects HUD's goal to embrace high standards of ethics, management and accountability. In evaluating this factor, HUD will consider how you have described outcome measures and benefits of your program.

In your response to this Rating Factor you are to discuss the performance goals for your project and identify specific outcome measures. You are also to describe how the outcome information will be obtained, documented, and reported. You must complete and return the Logic Model Form included in Appendix A of the General Section of the SuperNOFA showing your proposed project long-term, mid-term, short-term and final results. Information about developing a Logic Model is available at: http://www.hud.gov.

Also, in responding to this factor, you should:

(1) Identify benchmarks that you will use to track the progress of your study;

(2) Identify important study milestones (e.g., the end of specific phases in a multiphase study which should also be clearly indicated in your study timeline;

(3) Identify milestones that are critical for achieving study objectives (e.g., recruitment of study participants, developing a new analytical protocol), potential obstacles in meeting these objectives, and how you would respond to these obstacles;

(4) Identify how your program will be held accountable for meeting program goals, objectives, and the actions undertaken in implementing the grant program.

B. Review and Selection Process

1. Corrections To Deficient Applications. The General Section of this SuperNOFA provides the procedures for correcting deficient applications.

2. Rating and Ranking. Awards will be made separately in rank order for Lead Technical Studies applications, within the limits of funding availability for the program.

a. Partial Funding. In the selection process, HUD reserves the right to offer partial funding to any or all applicants. If you are offered a reduced grant amount, you will have a maximum of 14 calendar days to accept such a reduced award. If you fail to respond within the 14-day limit, you shall be considered to have declined the award.

b. Remaining Funds. See the General Section of this NOFA for HUD's procedures if funds remain after all selections have been made within a category of the Lead Technical Studies Program.

C. Anticipated Announcement and Award Dates

The anticipated date for the announcement of awards under the Lead technical Studies Program is September 30, 2004.

VI. Award Administration Information

A. Award Notices

1. Notice of Award. Applicants who have been selected for award will be notified by letter from the Grant Officer. The letter will state the program for which the application has been selected, the amount the applicant is eligible to receive, and the name of the Government Technical Representative (GTR).

HUD may require that all the selected applicants participate in negotiations to determine the specific terms of the grant agreement and budget. In cases where HUD cannot successfully conclude negotiations with a selected applicant or a selected applicant fails to provide HUD with requested information, an award will not be made to that applicant. In this instance, HUD may offer an award, and proceed with negotiations with the next highest-ranking applicant. If you accept the terms and conditions of the grant, you must return your signed grant agreement by the date specified during negotiation.

After receiving the letter, additional instructions on how to have the grant account entered into HUD's Line of Credit Control System (LOCCS) payment system will be provided. Other forms and program requirements will also be provided.

In accordance with OMB Circular A-133 (Audits of States, Local Governments and Non-Profit Organizations), grantees will have to submit their completed audit-reporting package along with the Data Collection Form (SF-SAC) to the Single Audit Clearinghouse, the address can be obtained from their Web site. The SF-SAC can be downloaded at: http://harvester.census.gov/sac/.

2. Debriefing. The General Section of the SuperNOFA provides the procedures that applicants should follow for requesting a debriefing.

B. Administrative and National Policy Requirements

1. Environmental Requirements. In accordance with 24 CFR 50.19(b)(1) and (b)(5), activities assisted under this program are categorically excluded from the requirements of the National Environmental Policy Act of 1969 (42 U.S.C. 4321) and are not subject to environmental review under the related laws and authorities.

2. Conducting Business in Accordance with HUD Core Values and Ethical Standards. If awarded assistance under this NOFA, prior to entering into a grant agreement with HUD, you will be required to submit a copy of your code of conduct and describe the methods you will use to ensure that all officers, employees, and agents of your organization are aware of your code of conduct. See the General Section of the SuperNOFA for information about conducting business in accordance with HUD's core values and ethical standards.

3. Participation in HUD-Sponsored Program Evaluation. See the General Section of the SuperNOFA.

4. Removal of Barriers to Affordable Housing. See the General Section of the SuperNOFA.

5. HUD Reform Act of 1989. The provisions of the HUD Reform Act of 1989 that apply to this NOFA are explained in the General Section of the SuperNOFA.

C. Reporting

1. Post Award Reporting Requirements. Final budget and work plans are due 60 days after the start date.

2. Quality Assurance Plan (QAP). Successful applicants will be required to submit a Quality Assurance Plan to HUD prior to initiating work under the grant. This is a streamlined version of the format used by some other federal agencies, and is intended to help ensure the accuracy and validity of the data that you will collect under the grant. You should plan for this and include it in your study work plan. (See the HUD Office of Healthy Homes and Lead Hazard Control's Internet site at: http://www.hud.gov/offices/lead.)

3. Progress Reporting. Progress reporting is required on a quarterly basis.

4. Racial and Ethnic Beneficiary Data. HUD does not require grantees to collect racial and ethnic beneficiary data for this program. If, however, racial and ethnic data are collected and reported as part of a study funded under this program NOFA, you must use the Office of Management and Budget's Standards for the Collection of Racial and Ethnic Data as presented on Form HUD-27061, Racial and Ethnic Data Reporting Form (and instructions for its use), found at: http://www.grants.gov.

5. Final Report. The grant agreement will specify the requirements for final reporting (e.g., scientific manuscript, report).

VII. Agency Contacts

For technical or programmatic questions, you may contact Dr. Peter Ashley, Office of Healthy Homes and Lead Hazard Control, at the address above; telephone (202) 755-1785, extension 115 (this is not a toll-free number) or via e-mail at Peter_J._Ashley@hud.gov. For grants administrative questions, you may contact Ms. Curtissa L. Coleman, Office of Healthy Homes and Lead Hazard Control, at the address above; telephone (202) 755-1785, extension 119 (this is not a toll-free number) or via e-mail at Curtissa_L._Coleman@hud.gov. If you are a hearing- or speech-impaired person, you may reach the above telephone numbers through TTY by calling the toll-free Federal Information Relay Service at 800-877-8339.

VIII. Other Information

A. Paperwork Reduction Act

The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 80 hours per application and 16 hours per grant award. This includes the time for collecting, reviewing, and reporting the data. The information will be used for grantee selection & monitoring the administration of funds. Response to this request for information is required in order to receive the benefits to be derived.

Appendix A—Relevant Publications and Guidelines

To secure any of the documents listed, call the telephone number provided. If you are a hearing- or speech-impaired person, you may reach the telephone numbers via TTY by calling the toll-free Federal Information Relay Service at 800-877-8339. A number of these references are provided on HUD's CD, “Residential Lead Desktop Reference, 3rd Edition.” This CD can be obtained at no charge by calling the National Lead Information Clearinghouse's (NLIC's) toll free number, 800-424-LEAD. Several of these references can be downloaded from the Internet without charge from the HUD Office of Healthy Homes and Lead Hazard Control's Internet site at: http://www.hud.gov/offices/lead.

1. Regulations:

a. Worker Protection: The two Occupational and Safety Administration (OSHA) publications listed below can be purchased by calling either OSHA Regulations at 202-693-1888 (OSHA Regulations) (this is not a toll free number) or the Government Printing Office (GPO) at 202-512-1800 (this is not a toll-free number). If you are a hearing- or speech-impaired person, you may reach these telephone numbers through TTY by calling the toll-free Federal Information Relay Service at 800-877-8339.

(1) General Industry Lead Standard, 29 CFR 1910.1025 (Document Number 869022001124). This document can be downloaded without charge from the OSHA Web site at: http://www.osha-slc.gov/OshStd_data/1910_1025.html;

(2) Lead in Construction, 29 CFR 1926.62, and appendices A, B, C, and D (Document Number 869022001141). This document can be downloaded without charge from the OSHA Web site at: http://www.osha-slc.gov/OshStd_data/1926_0062.html.

b. Waste Disposal. A copy of the EPA regulations at 40 CFR parts 260-268 can be purchased by calling 800-424-9346, or, from the Washington, DC, metropolitan area, by calling 703-412-9810 (this is not a toll-free number). If you are a hearing- or speech-impaired person, you may reach this telephone number through TTY by calling the toll-free Federal Information Relay Service at 800-877-8339. The regulations can also be downloaded without charge from the EPA Web site at: http://www.epa.gov/docs/epacfr40/chapt-I.info/subch-I/htm.

c. Lead.

(1) Requirements for Lead-Based Paint Activities in Target Housing and Child-Occupied Facilities; Final Rule: 40 CFR part 745 (EPA) (Lead Hazard Standards, Work Practice Standards, EPA and State Certification and Accreditation Programs for those engaged in lead-based paint activities) can be purchased by calling the Toxic Substances Control Act (TSCA) Hotline at 202-554-1404 (this is not a toll-free number). If you are a hearing- or speech-impaired person, you may reach this telephone number through TTY by calling the toll-free Federal Information Relay Service at 800-877-8339. The rule and guidance can be downloaded from the Internet without charge at: http://www.epa.gov/lead/.

(2) Requirements for Notification, Evaluation and Reduction of Lead-Based Paint Hazards in Federally Owned Residential Property and Housing Receiving Federal Assistance; Final Rule: 24 CFR part 35, subparts B through R, published September 15, 1999 (64 FR 50201) (HUD) can be purchased by calling NLIC's toll-free number (800-424-LEAD) or downloaded without charge from the HUD Web site at: http://www.hud.gov/offices/lead.

(3) Requirements for Disclosure of Information Concerning Lead-Based Paint in Housing, 24 CFR part 35, Subpart A (HUD, Lead-Based Paint Disclosure Rule) by calling the NLIC's toll free number (800-424-LEAD). If you are a hearing- or speech-impaired person, you may reach this telephone number through TTY by calling the toll-free Federal Information Relay Service at 800-877-8339. The rule, guidance, pamphlet and disclosure formats can be downloaded from the HUD Web site at: http://www.hud.gov/offices/lead.

(4) U.S. Environmental Protection Agency. Lead; Identification of Dangerous Levels of Lead; Final Rule at 66 FR 1205-1240 (January 5, 2001). This rule and guidance can be obtained without charge by calling the NLIC's toll free number (800-424-LEAD) or by calling the TSCA at 202-554-1404 (this is not a toll-free number). The rule and guidance can be downloaded from the EPA Web site at: http://www.epa.gov/lead/leadhaz.htm.

2. Guidelines:

a. Guidelines for the Evaluation and Control of Lead-Based Paint Hazards in Housing; HUD, June 1995, and amended September 1997. These guidelines can be purchased by calling 800-245-2691 toll-free. If you are a hearing- or speech-impaired person, you may reach this telephone number through TTY by calling the toll-free Federal Information Relay Service at 800-877-8339. The Guidelines can be downloaded from the HUD Web site without charge at: http://www.hud.gov/offices/lead.

b. Preventing Lead Poisoning in Young Children; Centers for Disease Control, October 1991. These guidelines can be obtained without charge by calling the CDC toll free number at 888-232-6789. If you are a hearing- or speech-impaired person, you may reach this telephone number through TTY by calling the toll-free Federal Information Relay Service at 800-877-8339. The guidelines can also be downloaded from the HUD Web site without charge at: http://www.hud.gov/offices/lead.

c. Screening Young Children for Lead Poisoning: Guidance for State and Local Public Health Officials, November 1997; Centers for Disease Control and Prevention (CDC). These guidelines can be obtained without charge by calling the CDC toll-free number at 888-232-6789 or they can be downloaded from the HUD Web site at: http://www.hud.gov/offices/lead.

3. Reports and Articles:

a. Putting the Pieces Together: Controlling Lead Hazards in the Nation's Housing, (Summary and Full Report); HUD, July 1995. A copy of this summary and report can be purchased by calling 800-245-2691 toll-free or downloaded from the HUD Web site without charge at: http://www.hud.gov/offices/lead.

b. The Healthy Homes Initiative: A Preliminary Plan (Summary and Full Report); HUD, July 1995. A copy of this summary and report can be downloaded from the HUD Web site without charge at: http://www.hud.gov/offices/lead.

c. Rom W.N., Ed. Environmental and Occupational Medicine. Little, Brown and Co., Boston. 1992.

d. Morbidity and Mortality Weekly Report (MMWR). Update: Blood Lead Level-United States, 1991-1994. U.S. Department of Health and Human Services, Centers for Disease Control and Prevention. February 21, 1997. Vol. 46, No 7.

e. Jacobs, D.E., R.P. Clickner, J.Y. Zhou, et al., 2002. Prevalence of Lead-Based Paint in U.S. Housing. Env. Health Persp. 110(10): A599-A606.

f. Galke, W., S. Clark, J. Wilson, et al., 2001. Evaluation of the HUD lead hazard control grant program: Early overall findings. Env. Res. 86, 149-156.

BILLING CODE 4210-32-P

BILLING CODE 4210-32-C

Appendix C—Administrative Costs

I. Purpose

The intent of this HUD grant program is to allow the Grantee to be reimbursed for the reasonable direct and indirect costs, subject to a top limit, for overall management of the grant. In most instances the grantee, whether a state or a local government, principally serves as a conduit to pass funding to sub-grantees, which are to be responsible for the conducting lead-hazard reduction work. Congress set a top limit of 10 percent of the total grant sum for the grantee to perform the function of overall management of the grant program, including passing on funding to sub-grantees. The cost of that function, for the purpose of this grant, is defined as the “administrative cost” of the grant, and is limited to 10 percent of the total grant amount. The balance of 90 percent or more of the total grant sum is reserved for project implementation activities.

II. Administrative Costs: What They Are Not

For the purposes of this HUD grant program, “administrative costs” should not be confused with the terms “general and administrative cost,” “indirect costs,” “overhead,” and “burden rate.” These are accounting terms usually represented by a government-accepted standard percentage rate. The percentage rate allocates a fair share of an organization's costs that cannot be attributed to a particular project or department (such as the chief executive's salary or the costs of the organization's headquarters building) to all projects and operating departments (such as the Fire Department, the Police Department, the Community Development Department, the Health Department or this program). Such allocated costs are added to those projects' or departments' direct costs to determine their total costs to the organization.

III. Administrative Costs: What They Are

For the purposes of this HUD grant program, “Administrative Costs” are the grantee's allowable direct costs for the overall management of the grant program plus the allocable indirect costs. The allowable limit of such costs that can be reimbursed under this program is 10 percent of the total grant sum. Should the grantee's actual costs for overall management of the grant program exceed 10 percent of the total grant sum, those excess costs shall be paid for by the grantee. However, excess costs paid for by the grantee may be shown as part of the requirement for cost-sharing funds to support the grant.

IV. Administrative Costs: Definition

A. General

Administrative costs are the allowable, reasonable, and allocable direct and indirect costs related to the overall management of the project activities that are supported by the HUD grant. Those costs shall be segregated in a separate cost center within the grantee's accounting system, and they are eligible costs for reimbursement as part of the grant, subject to the 10 percent limit. Such administrative costs do not include any of the staff and overhead costs directly arising from specific sub-grantee program activities eligible under this NOFA, because those costs are eligible for reimbursement under a separate cost center as a direct part of project activities.

The grantee may elect to serve solely as a conduit to sub-grantees, who will in turn perform the direct program activities eligible under this NOFA, or the grantee may elect to perform all or a part of the direct program activities in other parts of its own organization, which shall have their own segregated, cost centers for those direct program activities. In either case, not more than 10 percent of the total HUD grant sum may be devoted to administrative costs, and not less than 90 percent of the total grant sum shall be devoted to direct program activities. The grantee shall take care not to mix or attribute administrative costs to the direct project cost centers.

B. Specific

Reasonable costs for the grantee's overall grant management, coordination, monitoring, and evaluation are eligible administrative costs. Subject to the 10 percent limit, such costs include, but are not limited to, necessary expenditures for the following goods, activities and services:

(1) Salaries, wages, and related costs of the grantee's staff, the staff of affiliated public agencies, or other staff engaged in grantee's overall grant management activities. In charging costs to this category the recipient may either include the entire salary, wages, and related costs allocable to the program for each person whose primary responsibilities (more than 65 percent of their time) with regard to the grant program involve direct overall grant management assignments, or the pro rata share of the salary, wages, and related costs of each person whose job includes any overall grant management assignments. The grantee may use only one of these two methods during this program. Overall grant management includes the following types of activities:

(a) Preparing grantee program budgets and schedules, and amendments thereto;

(b) Developing systems for the selection and award of funding to sub-grantees and other subrecipients;

(c) Developing suitable agreements for use with sub-grantees and other subrecipients to carry out grant activities;

(d) Developing systems for assuring compliance with program requirements;

(e) Monitoring sub-grantee and subrecipient activities for progress and compliance with program requirements;

(f) Preparing presentations, reports, and other documents related to the program for submission to HUD;

(g) Evaluating program results against stated objectives;

(h) Providing local officials and citizens with information about the overall grant program; however, a more general education program, helping the public understand the nature of lead hazards, lead hazard reduction, blood-lead screening, and the health consequences of lead poisoning is a direct project support activity);

(i) Coordinating the resolution of overall grant audit and monitoring findings; and

(j) Managing or supervising persons whose responsibilities with regard to the program include such assignments as those described in paragraphs (a) through (i).

(2) Travel costs incurred for official business in carrying out the overall grant management;

(3) Administrative services performed under third party contracts or agreements, for services directly allocable to grant management such as: legal services, accounting services, and audit services;

(4) Other costs for goods and services required for and directly related to the overall management of the grant program; and including such goods and services as telephone, postage, rental of equipment, renter's insurance for the program management space, utilities, office supplies, and rental and maintenance (but not purchase) of office space for the program.

(5) The fair and allocable share of grantee's general costs that are not directly attributable to specific projects or operating departments such as salaries, office expenses and other related costs for local officials (e.g., mayor and city council members, etc.), and expenses for a city's legal or accounting department which are not charged back to particular projects or other operating departments. If a grantee has an established burden rate, it should be used; if not, the grantee shall be assigned a negotiated provisional burden rate, subject to final audit.

BILLING CODE 4210-32-P

BILLING CODE 4210-32-C

Lead Outreach Grant Program

Overview Information

A. Federal Agency Name: Department of Housing and Urban Development, Office of Healthy Homes and Lead Hazard Control.

B. Funding Opportunity Title: Lead Outreach Grant Program.

C. Announcement Type: Initial announcement.

D. Funding Opportunity Number: The Federal Register Number is: FR-4900-N-08. The OMB Approval Number is 2539-0015.

E. Catalog of Federal Domestic Assistance (CFDA) Number(s): 14.904, Lead Outreach Grant Program.

F. Dates: An original and three copies of your application must be submitted on or before July 13, 2004. See the General Section of the SuperNOFA Section IV., Application and Submission Information, regarding application submission procedures and timely filing requirements.

G. Additional Overview Content Information:

1. Purpose. This funding opportunity is for community-based organizations, faith-based organizations, states, Tribes, and units of general local government to increase enrollment of low-income housing units for treatment via the HUD lead hazard control grant program or another lead hazard treatment program, to develop and distribute outreach and educational materials, and to encourage occupants to identify potential lead-based paint hazards and report them to property owners and managers, and public health and/or housing officials as appropriate.

2. Available Funds. Approximately $2,000,000.

3. Number of Awards. Between approximately 4 and approximately 10 grants may be awarded, ranging between approximately $200,000 and approximately $500,000.

4. Type of Awards. The awards will be made as grants.

5. Eligible Applicants. Community-based and faith-based organizations, states, Tribes, and units of general local government are eligible. Partnerships are encouraged, including partnerships with educational institutions and other entities such as groups of parents of lead-poisoned children, although the application must be made by a single entity. Forty percent of the available funding will be reserved for States, Tribes, and units of local governments, with the balance available for community-based and faith-based organizations. Applicants must identify whether they are applying as a community-based organization or as a unit of a state, Tribal, or local government.

6. Matching Funds. No match or cost sharing is required. However, leveraging is encouraged. See Section V., Rating Factor 4.

7. Limitations on Applications. There are no limitations on the numbers of applications that each applicant may submit.

Full Text of Announcement

I. Funding Opportunity Description

A. Purpose of the Program

The purpose of this lead outreach grant program is to:

1. Increase enrollment of low-income housing units for treatment via the HUD lead hazard control grant program or another lead hazard treatment program;

2. Develop and distribute outreach and educational materials in order to raise public awareness of childhood lead poisoning, its prevention and proper lead hazard identification and control methods for at-risk communities, at-risk populations of children and workers in the housing maintenance or rehabilitation fields; and

3. Encourage occupants to identify potential lead-based paint hazards and report them to property owners and managers, and public health and/or housing officials as appropriate.

B. Background

Lead toxicity in children has been well established, yet childhood lead poisoning is the primary childhood environmental health problem in the United States today. The Centers for Disease Control and Prevention has found, for example, for children under age 6, that about 434,000 have elevated blood lead levels, and that those who are non-Hispanic blacks or Hispanic are more likely to have elevated blood lead levels than those who are non-Hispanic whites. The February 2000 report of the President's Task Force on Environmental Health Risks and Safety Risks to Children, titled “Eliminating Childhood Lead Poisoning: A Federal Strategy Targeting Lead Paint Hazards,” sets forth what action needs to be taken to prevent such poisoning. In addition to contributing to the elimination of lead hazards in housing occupied by low-income families with children, the federal government's public education and outreach activities should measurably increase the public's awareness of lead hazards and how to address them.

In keeping with the mandate of section 1011(g)(1) of Title X, the Residential Lead-Base Paint Hazard Reduction Act of 1992, Public Law 102-550, 106 Stat. 3672, October 28, 1992, for HUD “develop the capacity of eligible applicants * * * to carry out activities under” lead hazard control grant programs, HUD has conducted outreach and public education initiatives through the Lead Hazard Control Grant program, the National Lead Information Center, and other education and outreach initiatives.

Lead Hazard Control grants are awarded competitively to eligible states, tribes, or units of local government to perform lead hazard reduction in low-income privately owned pre-1978 housing. Lead outreach activities contribute to building the capacity of jurisdictions to submit successful applications for lead hazard control grants, because they have the effect of inducing local businesses to enter into the lead hazard control field before jurisdictions apply for the grants and, thus, increase jurisdictions' ability to demonstrate their capacity to meet the grant's requirements. These inducements can be expressed by the market directly, and/or through the efforts of the jurisdictions.

HUD's lead awareness supplement to the Current Population Survey has determined that only a fraction of citizens are well-educated about how lead-based paint hazards threaten young children and are more common in older housing. One consequence of this low level of awareness is that few housing construction and maintenance business owners are aware of the extent of lead-based paint hazards.

Lead outreach activities have the effect of encouraging residents of older low-income housing to prompt their state, tribal or local governments to control lead-based paint hazards. In turn, these governments are induced to consider obtaining funding under the HUD Lead Hazard Control Grant Program, or perform lead hazard reduction in conjunction with other housing, health or environmental activities. In practice, this can be done only if housing owners and occupants are aware of and apply for enrollment in lead hazard treatment programs. Potential applicant agencies are, thereby, induced to promote lead hazard control activities locally, by working with private-sector stakeholders (e.g., grassroots organizations, including faith-based and community-based non-profit organizations, community colleges, etc.). As described above, HUD's outreach efforts contribute to the timely performance of successful lead hazard control work and associated capacity building.

II. Award Information

A. Available Funding

Approximately $2,000,000 in Fiscal Year 2004 funds from the lead technical assistance set aside under the lead hazard reduction appropriation will be available for the Lead Outreach Program. Grants will be awarded on a competitive basis following evaluation of all proposals according to the Rating Factors described in Section V. of this program section. The amounts included in this program are subject to change based on fund availability.

B. Match

No match or cost sharing is required. However, leveraging is encouraged. See Section V., Rating Factor 4.

C. Anticipated Awards

Between 4 and 10 community-based or faith-based organizations, states, Tribes, or units of general local government could receive grant awards ranging between approximately $200,000 and $500,000.

D. Award Instrument

1. Grants. Awards will be made as grants.

2. Award Adjustments. No award adjustments are anticipated.

3. Award Period. Grants will be awarded for 24-month periods of performance.

4. Renewal Options. No renewal options are planned at this time. At the completion of a grant, the grantee may competitively apply for a new grant, assuming that this program will continue to be funded. Applications for renewal or supplementation of existing projects are eligible to compete with applications for new awards.

5. Start Date. The anticipated start dates for new awards is October 1, 2004.

E. Period of Performance

The period of performance cannot exceed 24 months from the date of the award, except that HUD reserves the right to approve no cost time extensions for a total period not to exceed 12 months.

III. Eligibility Information

A. Eligible Applicants

Community-based and faith-based organizations, states, Tribes, and units of general local government are eligible. Partnerships are encouraged, including partnerships with educational institutions and other entities such as groups of parents of lead-poisoned children, although the application must be made by a single entity. Forty percent of the available funding will be reserved for states, Tribes, and units of local governments, with the balance available for community-based and faith-based organizations. Applicants must identify whether they are applying as a community-based organization or as a unit of a state, Tribal, or local government.

Nonprofit organizations, such as groups of parents of lead poisoned children, grassroots organizations including faith-based and community-based nonprofit organizations, educational institutions and Fair Housing Organizations, and advocates for various minority and ethnic groups and for persons with a variety of disabilities can also be sub-grantees or sub-contractors.

B. Cost Sharing or Matching Requirements

None required. In rating your application, however, you will receive a higher score under Rating Factor 4 if you provide evidence of significant cost sharing.

C. Other

1. Eligible Activities

a. Eligible activities to be funded under this program include, but are not limited to, developing and conducting education and outreach campaigns in high-risk communities to:

—Increase lead awareness.

—Encourage owners and low-income occupants to enroll their housing units in programs conducting lead hazard control activities.

—Encourage owners and low-income occupants to identify potential lead-based paint hazards and report them to property owners and managers, and public health and/or housing officials as appropriate.

HUD is interested in promoting effective approaches that result in the reduction of lead poisoning for the maximum number of children, and, in particular, low-income children. Section II of the General Section of the SuperNOFA presents HUD's FY2004 Policy Priorities.

Outreach can take various forms, depending on the intended audience(s). Activities may include publicizing and/or conducting events, developing and distributing publications in, for example, stores, schools, churches, community centers, or other neighborhood locations, making presentations, and/or forging partnerships to disseminate information to populations identified as being at-risk. Regardless of the form of outreach you choose to implement, all eligible activities must identify at-risk populations (or areas), propose an outreach program to meet those populations' information needs, and evaluate the program's performance.

Eligible activities include:

(1) Establishing partnerships with non-profit organizations and associations, such as grassroots organizations, including faith-based, parent, and community-based non-profit organizations, or corporations, retailers, construction organizations, and unions or for the purpose of coordinating or conducting joint activities;

(2) Preparing publications, graphics, public service announcements, posters and entries for newspapers and magazines with local and/or regional distribution. These activities could include training local residents and businesses on identifying potential lead-based paint hazards, and lead-safe maintenance and renovation practices, etc.;

(3) Making materials available in alternative formats for persons with disabilities (e.g., Braille, audio, large type) upon request, and providing materials in languages other than English that are common in the community, consistent with HUD's published LEP language. Applicants are encouraged to utilize minority media in an effort to achieve diversity in outreach and educational efforts. Applications that include development and distribution of media products in languages other than English must include a discussion of the applicant's (or subcontractor's) expertise in those languages and in meeting the informational needs of non-English-speaking, underserved populations.

(4) Program planning and management costs of sub-grantees and other subrecipients are eligible activities.

2. Ineligible Activities

a. Purchase of real property.

b. Purchase or lease of equipment having a per-unit cost in excess of $5,000, unless prior written approval is obtained from HUD.

c. Hazard abatement, hazard reduction, rehabilitation, remodeling, repair, or other construction work.

3. Threshold Requirements

a. Threshold Requirements Applicable to all Applicants Under the SuperNOFA. As an applicant, you must meet all of the threshold requirements described in the General Section of the SuperNOFA. Threshold requirements include Ineligible Applicants, Compliance with Fair Housing and Civil Rights Laws, Conducting Business in Accordance with Core Values and Ethical Standards, Delinquent Federal Debts, and Pre-Award Accounting System Surveys. Information about threshold requirements is provided in the General Section of the SuperNOFA. Applications that meet all of the threshold requirements will be eligible to be scored and ranked based on the total number of points allocated for each of the rating factors described below. Your application must receive a total score of at least 75 points to be considered for funding. Applications will not be rated or ranked if they do not meet the threshold requirements of the General Section of the SuperNOFA.

b. DUNS Requirement. Refer to the General Section of the SuperNOFA for information regarding the DUNS requirement.

4. Start of Work

All awardees are expected to commence activity immediately upon completion of budget and work plan negotiations, and execution of the grant agreement.

IV. Application and Submission Information

If you are interested in applying for funding under this program, please carefully read the General Section of the SuperNOFA and the following additional information.

A. Addresses To Request Application Package

1. There is no Application Kit. All the information required to submit an application is contained in the program section of this NOFA and the General Section of the SuperNOFA. Forms can be downloaded from the Web at: http://www.grants.gov.

2. Satellite Broadcast. HUD will hold an information broadcast via satellite for potential applicants to learn more about the program and the preparation of the application. For more information about the date and time of the broadcast, you should consult the HUD Web site at: http://www.hud.gov/.

B. Content and Form of Application Submission

1. Address for Submitting Applications. You, the applicant, must submit a complete application to: HUD Headquarters, Robert C. Weaver Building, 451 Seventh Street, SW., Room P3206; Washington, DC 20410; Attn: Lead Outreach Program.

2. Application Information.

a. Application Format. The application narrative response is limited to a maximum of 25 pages (excluding appendices and worksheets). Your response must be typewritten on one side only on 8½ × 11 inch paper using a standard 12-point font with not less than ¾ inch margins on all sides. Appendices should be referenced and discussed in the narrative response. Materials provided in the appendices should directly apply to the rating factor narrative.

b. Applicant Data. Your application must contain all of the required information as noted in this Section of this NOFA and the General Section of the SuperNOFA. These items include the standard forms, certifications, and assurances listed in the General Section of the SuperNOFA that are applicable to this funding (collectively referred to as the “standard forms”). The standard forms can be found in the General Section of the SuperNOFA. The application items are as follows:

(1) Transmittal letter (one-page only) that summarizes your proposed project, provides the dollar amount requested, and identifies you and your partners in the application. Provide the name, mailing address, and telephone number of the principal contact person. If you are a consortium of associates, sub-recipients, partners, major subcontractors, joint venture participants, or others contributing resources to the project, similar information shall also be provided for each of these entities and you must specify the primary entity.

(2) Checklist and Submission Table of Contents. (voluntary) Inclusion of the checklist in your application is voluntary.

(3) Application Abstract Summary. An abstract describing the goals and objectives of your proposed program (two-page maximum) must be included in the proposal.

(4) All application forms found in the General Section of the SuperNOFA.

(5) A narrative statement addressing the rating factors for award. The narrative statement must be numbered in accordance with each factor for award (Rating Factors 1 through 5). The response to the rating factors must not exceed a total of 25 pages. Any pages in excess of this limit will not be read. Number pages consecutively. (The 25-page limit does not apply to the two-page abstract.) Key points to consider in preparing your application are provided in the General Section of this NOFA.

(6) Within Appendix 1, provide the resumes and position descriptions of your project director, project manager and up to three additional key personnel (in accordance with Rating Factor 1). These should not exceed three pages each. This information will not be counted towards the page limit.

(7) Any attachments, appendices, references, or other relevant information that directly support the narrative may accompany it in Appendix 2, but must not exceed 20 pages for your entire application. Any pages in excess of this limit will not be read. Number pages consecutively. Specific criteria for the content of the appendices for the Lead Outreach Grant Program application are listed in the Checklist and Submission Table of Contents.

(8) Within Appendix 3, provide a detailed budget with supporting cost justification for all budget categories of your funding request, in accordance with Rating Factor 3. This information will not be counted towards the page limits. A detailed budget must also be provided for any subcontractors, subgrantees, or subrecipients receiving greater than 10 percent of the federal budget request. Use the budget format discussed in Section V.(A) Rating Factor 3(2)(b), below. In completing the budget forms and justification, you should address the following elements:

(a) Direct Labor costs should include all full- and part-time staff required for the planning and implementation phases of the project. These costs should be based on FTE (full time equivalent) or hours per year (hours/year) (i.e., one FTE equals 2,080 hours/year);

(b) You should budget for three trips to HUD Headquarters in Washington, DC, planning each trip for two people, assuming the first trip occurring shortly after grant award for a stay of three or four days, depending on your location, and the remaining trips having a stay of one or two days, depending on your location;

(c) A separate budget proposal should be provided for any subrecipients receiving more than 10 percent of the total federal budget request;

(d) You should be prepared to provide supporting documentation for salaries and prices of materials and equipment upon request;

(e) Organizations that have a federally negotiated indirect rate should use that rate and the appropriate base. Other organizations not having a federally negotiated rate schedule, must obtain a rate from their cognizant federal agency, or the organization will be required to obtain a negotiated rate through HUD.

(f) You should submit the negotiated rate agreements for fringe benefits and indirect costs, if applicable, as an attachment to the budget sheets.

(9) Any information or materials that are not listed above will not be reviewed.

C. Submission Dates and Times

1. Application Deadline. A completed original and 3 copies of your application must be submitted to HUD on or before the application due date, to the address shown above. The application due date is July 13, 2004. Please see the General Section of the SuperNOFA for application submission, delivery, and timely receipt requirements.

2. Application Submission Procedures. HUD has implemented security procedures that impact application submission. Please review the requirements for mailing and receipt of applications in the General Section of the SuperNOFA to ensure that your application is timely filed.

3. Application Submission. See the General Section of the Super Notice of Funding Availability (SuperNOFA) for specific procedures concerning the form of application submission and requirements for receipt (e.g., mailed applications, express mail, or overnight delivery). Please note that the requirements for submission have been revised this year. Be advised that there is no Application Kit for this year's Lead Outreach Grant Program. This program NOFA clearly describes the requirements for completing a successful application and all forms and certifications needed to complete a successful application are included in the General Section and Lead Outreach Grant Program sections of the SuperNOFA.

4. Number of Copies You, the applicant, must submit one original and three copies of your complete application to the Office of Healthy Homes and Lead Hazard Control, on or before the application due date.

D. Intergovernmental Review

Not applicable to this program. See 24 CFR Part 52.

E. Funding Restrictions

There is a 10 percent maximum for administrative costs for successful applicants. Additional information about allowable administrative costs is provided in Appendix D of this program section of the NOFA. Construction is not an allowable activity.

F. Other Submission Requirements

1. Statement Regarding Other Grants and Applications. You need to disclose all grants that you are currently receiving from OHHLHC, and a list of the applications you have submitted or plan to submit for FY2004 for other OHHLHC grants.

V. Application Review Information

A. Application Selection Criteria

1. Applications will be reviewed by an Application Review Panel (ARP) which will assign each application a score based on the rating factors presented below.

2. Factors for Award Used to Evaluate and Rate Applications. The factors for rating and ranking applicants, and maximum points for each factor, are provided below. The factors or their assigned points differ somewhat from those used for most program areas included in the SuperNOFA because they have been amended for rating the unique aspects of lead outreach grant applications. The maximum number of points to be awarded is 102, including the potential for two RC/EZ/EC bonus points, as described in the General Section of the SuperNOFA.

3. Award Factors. Applications will be reviewed by a Source Evaluation Board which will assign each application a numerical score based on the rating factors presented below (see also Section V.(B) of the NOFA). Each factor is weighted as indicated by the number of points that are attainable for it. Applicants should be certain that these factors are adequately addressed in the project description and accompanying materials. The five rating factors are listed below.

Rating Factor 1: Capacity of the Applicant and Relevant Organizational Experience (20 points)

Rating Factor 2: Need/Extent of the Problem (15 points)

Rating Factor 3: Soundness of Approach (40 points)

Rating Factor 4: Leveraging Resources (10 points)

Rating Factor 5: Achieving Results and Program Evaluation (15 points)

RC/EZ/EC Bonus Points (2 points)

TOTAL: 102 points

Applicants are eligible to receive two bonus points for projects located within federally designated Renewable Communities (RC)/Employment Zones (EZ)/Enterprise Communities (EC) (RC/EZ/ECs) and which will serve the residents of these communities (see the General Section of this NOFA).

You will receive points under Rating Factor 3(1) for each of the applicable FY2004 policy priorities that are adequately addressed in your application, up to a maximum of four points (see the General Section of this NOFA). Policy priorities that are applicable to the lead outreach grant NOFA and eligible for one point each are: (1) Improving our Nation's Communities (focus on distressed communities); and (2) Providing full and equal access to grass-roots faith-based and other community-based organizations in HUD program implementation. Removal of barriers to affordable housing is eligible for up to 2 points.

You are encouraged to plan projects that can be completed over a short time period (e.g., 18 to 24 months from the date of award) so useful information generated from the outreach activities can be available for policy or program decisions and disseminated to the public as quickly as possible.

a. Rating Factor 1: Capacity of the Applicant and Relevant Organizational Experience (20 Points). This factor addresses your organizational capacity necessary to successfully implement your proposed activities in a timely manner. The rating of you or your staff includes any grassroots organizations, including faith-based and other community-based non-profit organizations, sub-contractors, consultants, subrecipients, and members of consortia that are firmly committed to your project. For all of the descriptions of personnel and organizational qualifications and experience in this factor, more points will be given for more recent relevant experience of high quality with this type of work, as documented below. Applicants who are funding or sub-contracting with grassroots organizations, including faith-based, and other community-based nonprofit organizations, in conducting their outreach programs should include the qualifications and experience of these organizations in responding to this rating factor. In rating this factor HUD will consider:

(1) Your recent, relevant and successful demonstrated experience in undertaking eligible program activities. You must describe the knowledge and experience of the proposed overall project director and day-to-day project manager in planning and managing large and complex interdisciplinary outreach programs, especially those involving housing, public health, or environmental programs. In your narrative response for this factor, you should include information on your project staff, their experience, percentage commitment to the project, and position titles. You must provide resumes (or position descriptions and copies of job announcements including salary range, for vacant positions) of up to three pages each for the project director, project manager, and up to three key personnel, and a clearly delineated organizational chart for the Lead Outreach project in Appendix 1 of your application. Indicate the name and the position of key personnel, the percentage of time that proposed staff will devote to your project and any salary costs to be paid by funds from this program. Include descriptions of the experience and qualifications of subcontractors and consultants. You may find it useful to include a table indicating the name, position and percentage contribution of staff members, specifying organizational affiliation.

(2) Your qualifications to carry out the proposed activities as evidenced by experience, training, and/or relevant publications of project staff, and whether you have sufficient personnel, or will be able to quickly retain qualified experts or professionals to begin your proposed project immediately, and to perform your proposed activities in a timely and effective fashion. Describe how principal components of your organization will participate in, or support, your project. You should thoroughly describe capacity, as demonstrated by experience in initiating and implementing and evaluating related health education, outreach and recruitment projects.

(3) Your past performance in previous projects with an emphasis on health education, outreach and recruitment. Provide details about the nature of the project, the funding agency, and your performance, relative to performance measures or the achievement of desired health outcomes. If a subgrantee or subcontractor is an existing HUD lead outreach grantee, provide a description of the progress and outcomes achieved in that grant.

HUD's evaluation process will consider an applicant's past performance in effectively organizing and managing their grant operations, in meeting performance and work plan benchmarks and goals, and in managing funds, including their ability to account for funds appropriately, timely use of funds received either from HUD or other federal, state, Tribal, or local programs, and meeting performance milestones. HUD may use other information relating to these items from sources at hand, public sources such as newspapers, Inspector General or Government Accounting Office Reports or Findings, hotline complaints, or other sources of information that have been proven to have merit.

b. Rating Factor 2: Need/Extent of the Problem (15 Points) This factor addresses the extent to which there is a need for your proposed project activities to address documented problems, target area(s) and target populations. Applications that demonstrate a greater need for lead outreach beyond existing levels as a mechanism for increasing enrollment in lead hazard treatment programs, or more thoroughly document this need will earn higher numbers of points.

(1) Your application should document a critical level of need for your proposed outreach activities in the area(s) where activities will be carried out. You should pay specific attention to documenting the need for outreach to increase enrollment of low-income housing units with children under six in lead hazard treatment programs as it applies to your target area(s) and target populations, rather than a larger geographic area or general population. Examples of information that might be used to demonstrate need, include:

(2) Economic or sociological information relevant to your target area(s). If this information is applied locally, the neighborhoods or type of neighborhoods to be targeted should be characterized with regard to age of housing and populations that the outreach activities are attempting to reach.

(3) Data documenting targeted populations that are traditionally underserved or have special needs. For a maximum score in this Rating Factor, data provided should specifically represent the target area. If the data presented in your response do not specifically represent your target area, you should discuss why the target areas are being proposed. If your application addresses needs that are in the Consolidated Plan or Analysis of Impediments (AI) to Fair Housing Choice (see the General Section of the SuperNOFA), court orders or consent decrees, settlements, conciliation agreements, or voluntary compliance agreements, you will receive more points than applicants that do not relate their project to an identified need.

(4) Information from the local (or State or Tribe, if applicable) health department, if available, on rates of elevated blood lead levels among children residing in your target area(s).

(5) Readily available information on the presence of existing outreach and educational resources in your target area(s).

c. Rating Factor 3: Soundness of Approach (40 Points) This factor addresses the quality and cost-effectiveness of your proposed work plan. You should present information on your proposed approach for increasing the public's awareness and knowledge about lead poisoning and lead-based paint hazards, and for encouraging owners and low-income family occupants to identify potential lead-based paint hazards and enroll their housing units in lead hazard control treatment programs. Applications containing approaches with clear activities and sub-activities that will result in increasing the enrollment in lead hazard treatment programs, that include a range of approaches that address the needs of populations with limited English proficiency, persons with disabilities, persons with low literacy, etc., that demonstrate a logical progression of implementation steps, that include more appropriate mechanisms for reaching audiences, and that provide better documentation of the methodology of the proposed approach will receive higher numbers of points. Applicants will receive higher rating points for approaches that include higher percentages of funding or sub-contracting for substantive work by grassroots organizations, including faith-based and other community-based non-profit organizations, Fair Housing Organizations and advocates for various minority and ethnic groups and for persons with a variety of disabilities.

You should describe how proposed activities would help HUD achieve its goals for this program area. You should demonstrate your knowledge of the outreach methodology relevant to your approach. You should develop a work plan that includes specific, measurable and time-phased objectives for each major program activity, accompanied by a complementary schedule indicating proposed date(s) of completion.

There must be a direct relationship between the proposed activities, community needs, the purpose of the project, and the number of low-income housing units enrolled in lead hazard treatment programs. Your response to this factor should include the following elements:

(1) Approach for Developing the Project. (30 points) Describe your overall approach for your proposed project. The description must include a discussion of specific planned project activities:

(a) Provide the estimated total number of low-income housing units that you expect to be enrolled in lead hazard treatment programs. Describe in detail how you will identify and track participants receiving outreach under your project, especially participants in high-risk groups and communities, vulnerable populations and persons traditionally underserved. (6 points)

(b) Describe your process for developing outreach materials, or using existing materials. (3 points)

(c) Describe your management processes to be used to ensure the cost-effectiveness of expenditures of funds. (2 points)

(d) Describe any measurement tools you would employ to evaluate the effectiveness of your outreach and educational activities for occupants of housing units enrolled in lead hazard treatment programs before and after treatment. (2 points)

(e) Describe the methods of community education you would use including community awareness, education, training, and outreach programs in support of your work plan and objectives that are culturally sensitive, targeted, and linguistically appropriate. (3 points)

(f) Proposed involvement of grassroots organizations, including faith-based and other community-based non-profit organizations in the proposed activities. HUD strongly encourages you to substantively use grassroots organizations, including faith-based, and other community-based non-profit organizations. (10 points)

(g) Indicate if, and describe how, you will address any of HUD's departmental policy priorities. (See the General Section of this NOFA for a fuller explanation of HUD's policy priorities.) Policy priorities that are potentially applicable to this NOFA include: (i) Improving the Quality of Public and Assisted Housing and Providing More Choices for its Residents, (ii) Increasing the Participation of Faith-based and other Community-based Organizations in HUD Program Implementation, and (iii) Removal of Regulatory Barriers to Affordable Housing. You will receive one point for each of the applicable policy priorities that are adequately addressed in your application, and up to two points for Removal of Regulatory Barriers to Affordable Housing, up to a maximum of four points. If your application addresses all three policy priorities, you could get up to four points. (4 points)

(2) Approach for Implementing the Project. (10 points) Describe your project goals and objectives and the strategy you will use in executing the project. You should provide information on the general approach and overall plan employed.

(a) Baseline Plan for Project Management. (5 points) Include a management plan that:

(i) Lists the outreach project objectives, major tasks and activities. All specific activities necessary to complete the proposed project must be included in the task listing.

(ii) Incorporates appropriate performance goals with projected outputs and outcomes of the outreach program's activities.

(iii) Identifies major milestones and provides a schedule for the assignment, tracking and completion of major tasks and activities, and a timeframe for delivery, including reports and other proposed deliverables of the outreach activity.

(iv) Designates resources and identifies responsible entities for performing work.

(b) Budget Justification. (5 points) Your proposed budget will be evaluated for the extent to which it is reasonable, clearly justified, and consistent with the outreach project management plan and intended use of program funds. HUD is not required to approve or fund all proposed activities. An electronic spreadsheet and other budgetary forms are available on http://www.grants.gov. You must thoroughly document and justify all budget categories and costs (Form HUD-424-CB) and all major tasks, for yourself, subrecipients (especially grassroots organizations, including faith-based, and other community-based non-profit organizations), partners, major subcontractors, joint venture participants, or others contributing resources to the project, especially those proposed to receive greater than 10 percent of the federal budget request. Describe clearly and in detail your budgeted costs for each required program element (major task) included in your overall plan.

d. Rating Factor 4: Leveraging Resources (10 Points) This factor addresses your ability to secure other community and/or private sector resources (such as financing, supplies, or services) that can be combined with HUD's resources to achieve project purposes. These community resources may be contributions from organizations such as the applicant, subrecipients, partners, or other organizations not directly involved in the project.

(1) In evaluating this factor, HUD will consider the extent to which you have developed partnerships to secure additional resources to increase the effectiveness of your proposed project. Describe how other organizations will participate in or support your project. Resources may include funding or in-kind contributions (such as labor, fringe benefits, services, supplies, or equipment) budgeted for your proposed project. Resources may be provided by state, Tribal, and local governmental entities, public or private organizations, or other partners.

(2) Each source of contributions (financial or in-kind) must be supported by a letter of commitment from the contributing entity, whether the applicant, a partner organization, or a public or private source. The letter must describe the contributed resources that will be used in your project and the dollar value of that contribution. Staff in-kind contributions should be given a market-based monetary value. If you fail to provide letters of commitment with specific details including the amount of the actual contributions, you will not get points for this factor. Each letter of commitment, memorandum of understanding, or agreement to participate shall include the organization's name and the proposed level of commitment and responsibilities as they relate to the proposed project. The commitment must be signed by an official legally able to make commitments on behalf of the organization. Letters of support (letters that indicate support but do not specify a monetary commitment to the project) will not be considered in the scoring of this Rating Factor. Include information to address the following elements:

(a) The extent to which you have coordinated your activities with other known organizations that are not directly participating in your proposed work activities, but with which you share common goals and objectives.

(b) The extent to which your project exhibits the potential to be financially self-sustaining by decreasing dependence on federal funding and relying more on state, Tribal, local, and private funding to continue educational and outreach activities after the grant period is completed.

e. Rating Factor 5: Achieving Results and Program Evaluation (15 points) This factor emphasizes HUD's commitment to ensuring that applicants keep promises made in their application and assessing their performance to ensure performance goals are met. Achieving results means you, the applicant, have clearly identified the benefits, or outcomes of your program. Outcomes are ultimate goals; for this lead outreach grant program, the major outcome is increasing the number of low-income housing units housing young children enrolled in lead hazard treatment programs as a result of the grant activity. Benchmarks or outputs are interim activities or products that lead to the ultimate achievement of your goals.

Program evaluation requires that you, the applicant, identify program outcomes, interim products or benchmarks, and performance indicators that will allow you to measure your performance. Performance indicators should be objectively quantifiable and measure actual achievements against anticipated achievements. Your Evaluation Plan should identify what you are going to measure, how you are going to measure it, and the steps you have in place to make adjustments to your work plan if performance targets are not met within established timeframes.

This new rating factor reflects HUD's goal to embrace high standards of ethics, management, and accountability. In evaluating this factor, HUD will consider how you have described outcome measures and benefits of your program.

In your response to this Rating Factor you are to discuss the performance goals for your project and identify specific outcome measures. You are also to describe how the outcome information will be obtained, documented, and reported. You must complete and return the Logic Model Form included in Appendix A of the General Section of this NOFA showing your proposed project long-term, mid-term, short-term, and final results, and how they support HUD's departmental goals and objectives. Information about developing a Logic Model is available at: http://www.hud.gov.

In evaluating this factor, HUD will consider how you have:

(1) Described the degree to which you have identified and characterized the information needs of your intended audience or targeted populations.

(2) Refined your outreach message.

(3) Specified how you will deliver your message to the audience.

(4) Described anticipated results of specific plans and objectives and listed projected products or outputs. Outputs are actions, attendance numbers, materials, publications, inquiries, or other products of the process.

(5) Demonstrated ability to measure outcomes. The major outcome is increasing the number of low-income housing units enrolled in lead hazard treatment programs that result from the grant activity.

(6) Developed a proposed organization with the capacity to begin work immediately and incorporating adequate management planning and financial controls.

(7) Demonstrated how you have identified potential obstacles in meeting your objectives, and how you will respond to these obstacles.

(8) Described efforts to coordinate and cooperate with other organizations that will result in a reduction in lead risks to community residents.

(9) Described how your program will be held accountable for meeting program goals, objectives, and the actions undertaken in implementing the grant program. You should provide a description of the mechanism to assess progress and track performance in meeting the goals and objectives outlined in the work plan.

f. Bonus Points for Federally Designated Zones and Communities. (2 points) This Section of the NOFA provides for the award of two bonus points for eligible activities/projects that the applicant proposes to be located in federally designated Empowerment Zones (EZs), Enterprise Communities (ECs), Urban Enhanced Enterprise Communities (EECs), or Renewal Communities (RCs), serve the residents of these areas, and are certified to be consistent with the area's strategic plan. For ease of reference in this NOFA, all these federally designated areas are collectively referred to as “RC/EZ/ECs” and residents of any of these federally designated areas as “RC/EZ/EC residents.” This NOFA contains a certification that must be completed for the applicant to be considered for RC/EZ/EC bonus points. A list of RCs, EZs, ECs, and EECs is available from HUD's Web site at: http://www.hud.gov. See also the General Section of the SuperNOFA.

B. Reviews and Selection Process

1. Rating and Ranking. Awards will be made in rank order for Lead Outreach applications.

2. Partial Funding. In the selection process, HUD reserves the right to offer partial funding to any or all applicants. If you are offered a reduced grant amount, you will have a maximum of 14 calendar days to accept such a reduced award. If you fail to respond within the 14-day limit, you shall be considered to have declined the award. Please see the General Section of the SuperNOFA for a discussion of adjustments to funding that may be made by HUD during the selection process.

3. Remaining Funds. See the General Section of this NOFA for HUD's procedures if funds remain after all selections have been made.

C. Anticipated Announcement and Award Dates

HUD anticipates announcing awards under this program on or about September 30, 2004.

VI. Award Administration Information

A. Award Notices

1. Notice of Award. Applicants who have been selected for award will be notified by letter from the Grant Officer. The letter will state the program for which the application has been selected, the amount the grantee is eligible to receive, and the name of the Government Technical Representative (GTR). This letter is not an authorization to begin work or incur costs under the grant.

2. Negotiations. HUD may require that selected applicants participate in negotiations to determine the specific terms of the grant agreement and budget. In cases where HUD cannot successfully conclude negotiations with a selected applicant or a selected applicant fails to provide HUD with requested information, an award will not be made to that applicant. In this instance, HUD may offer an award, and proceed with negotiations with the next highest-ranking applicant. If you accept the terms and conditions of the grant, you must return your signed grant agreement by the date specified during negotiation.

3. LOCCS Payment System. After receiving the letter, additional instructions on how to have the grant account entered into HUD's Line of Credit Control System (LOCCS) payment system will be provided. Other forms and program requirements will also be provided.

4. Audit Reporting Package. In accordance with OMB Circular A-133 (Audits of States, Local Governments and Non-Profit Organizations), grantees will have to submit their completed audit-reporting package along with the Data Collection Form (SF-SAC) to the Single Audit Clearinghouse, at the address obtained from their Web site. The SF-SAC can be downloaded at: http://harvester.census.gov/sac/.

B. Applicant Debriefing

See the General Section of the SuperNOFA for information regarding applicant debriefing.

C. Administrative and National Policy Requirements

1. Environmental Review. In accordance with 24 CFR 50.19(b)(2) and (b)(3) of the HUD regulations, activities assisted under this program are categorically excluded from the requirements of the National Environmental Policy Act of 1969 (42 U.S.C. 4321) and are not subject to environmental review under the related laws and authorities.

2. HUD Reform Act of 1989. Applicants must comply with the requirements for funding competitions established by the HUD Reform Act of 1989 (42 U.S.C. 3531 et seq.) as defined in the General Section of the SuperNOFA.

D. Corrections to Deficient Applications

See the General Section of the SuperNOFA for information about corrections to deficient applications.

E. Timely Hiring of Staff

HUD reserves the right to terminate grant awards made to applicants that fail to timely hire (within 90 days of award) staff to fill key positions identified in the applicant's proposal as vacant.

F. Reporting

The following items are Post Award Reporting Requirements.

1. Final Budget and Work Plan

Final budget and work plans are due 60 days after the effective date of the grant (start date).

2. Progress reporting.

Progress reporting is done on a quarterly basis. For specific reporting requirements, see policy guidance at: http://www.hud.gov/offices/lead.

3. Final Report.

An overall final grant report, due at the completion of the grant, will detail activities (e.g., the number of low-income housing units enrolled in lead hazard treatment programs as a result of activities performed under this grant, number and type of materials produced, activities conducted, evaluation of the various outreach and educational methods used, findings, and recommended future actions at the conclusion of grant activities).

4. Racial and Ethnic Beneficiary Data.

For the Lead Outreach Program, HUD requires grantees to collect and report racial and ethnic beneficiary data. You must use the Office of Management and Budget's Standards for the Collection of Racial and Ethnic Data as presented on Form HUD-27061, Racial and Ethnic Data Reporting Form (and instructions for its use), found on http://www.grants.gov. You must include the collection and reporting of racial and ethnic beneficiary data in your work plan (see Section IV.F.1 above) and provide these reports at least annually.

G. Paperwork Reduction Act.

The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. The public reporting burden for the collection of information is estimated to average 80 hours per application and 16 hours per grant award. This includes the time for collecting, reviewing, and reporting the data. The information will be used for grantee selection and monitoring the administration of funds. Response to this request for information is required in order to receive the benefits to be derived.

VII. Agency Contacts

For programmatic questions, you may contact Linda Ciancio, Office of Healthy Homes and Lead Hazard Control, at the address above; telephone (202) 755-1785, extension 112 (this is not a toll-free number) or via e-mail at Linda_J._Ciancio@hud.gov. For grants administrative questions, you may contact Ms. Curtissa L. Coleman, Office of Healthy Homes and Lead Hazard Control, at the address above; telephone (202) 755-1785, extension 119 (this is not a toll-free number) or via e-mail at Curtissa_L._Coleman@hud.gov. If neither of these individuals is available, you may contact the Office's General Lead Regulations hotline, at (202) 755-1785, extension 104, for which your call will be forwarded in one business day for subsequent response by the appropriate staff. If you are a hearing- or speech-impaired person, you may reach the above telephone numbers through TTY by calling the toll-free Federal Information Relay Service at 800-877-8339.

VIII. Other Information

A. Authority

The authority for this program is section 1011(e)(8) and (g)(1) of the Residential Lead-Based Paint Hazard Reduction Act of 1992 (Title X of the Housing and Community Development Act of 1992), and the Consolidated Appropriations Resolution of 2004, Pub. L. 108-199.

B. Appendix A

Lead: Exposure to lead, especially from deteriorating lead-based paint, remains one of the most important and best studied of the household environmental hazards to children. Although blood lead levels have fallen nationally, a large reservoir of lead remains in housing. The Centers for Disease Control and Prevention has found, for example, for children under age 6, that about 434,000 have elevated blood lead levels. Overall, the prevalence rate among all children under six years of age was 2.2 percent. Among low-income children living in older housing where lead-based paint is most prevalent, the rate climbed to 16 percent; and for African-American children living in such housing, it reached 21 percent.

HUD estimates that 38 million dwellings have some lead-based paint, and that 26 million have significant lead-based paint hazards. Of those, about 5.7 million have young children and of those, about 1.6 million have household incomes under $30,000 per year. Costs for lead hazard control can range anywhere from $500 to $15,000 per unit, depending on the extent of the hazard and the type of hazard control measures. Corrective measures include paint stabilization, encapsulation, paint removal, enclosure and removal of certain building components coated with lead paint, and cleanup and clearance testing, which ensures the unit is safe for young children.

Educating the public and individuals living in “at-risk communities” about lead poisoning, symptoms, treatment and lead hazard prevention and control, and encouraging occupants to identify potential lead-based paint hazards, report them to property owners and managers, and public health and/or housing officials as appropriate, and enroll their housing units in lead hazard treatment programs, are key components in an overall plan to reduce the prevalence rate of lead poisoned children.

C. Appendix B

1. References

To secure any of the documents listed below, call the telephone number provided. Several of these references are provided on HUD's CD, “Residential Lead Desktop Reference, 3rd Edition.” This CD can be obtained at no charge by calling the National Lead Information Clearinghouse's toll-free number, 800-424-LEAD. If you are a hearing- or speech-impaired person, you may reach the telephone numbers via TTY by calling the toll-free Federal Information Relay Service at 800-877-8339. Several of these references can be downloaded from the Internet without charge from the HUD Office of Healthy Homes and Lead Hazard Control's Internet site at: http://www.hud.gov/offices/lead.

a. Regulations

(1) Requirements for Notification, Evaluation and Reduction of Lead-Based Paint Hazards in Federally Owned Residential Property and Housing Receiving Federal Assistance, 24 CFR Part 35 (HUD, Lead Safe Housing Rule). A free copy of this rule and guidance can be obtained by calling 800-424-LEAD (this is a toll-free number). If you are a hearing- or speech-impaired person, you may reach this telephone number through TTY by calling the toll-free Federal Information Relay Service at 800-877-8339. ) or through the HUD Web site at: http://www.hud.gov/offices/lead.

(2) Lead: Requirements for Disclosure of Information Concerning Lead-Based Paint in Housing, 24 CFR Part 35, Subpart A (HUD, Lead-Based Paint Disclosure Rule). A free copy of the rule, guidance, pamphlet and disclosure formats can be obtained by calling 800-424-LEAD (this is a toll-free number) or through the HUD Web site at: http://www.hud.gov/offices/lead.

(3) Lead: Requirements for Lead-Based Paint Activities in Target Housing and Child-Occupied Facilities; Final Rule: 40 CFR Part 745, (EPA Lead Hazard Standards, Work Practice Standards, EPA and State Certification and Accreditation programs for those engaged in lead-based paint activities). A free copy of the rule and guidance can be obtained by calling the Toxic Substances Control Act Hotline at 202-554-1404 (this is not a toll-free number) or through the EPA Web site at: http://www.epa.gov/lead. If you are a hearing-or speech-impaired person, you may reach this telephone number through TTY by calling the toll-free Federal Information Relay Service at 800-877-8339.

(4) Lead: Requirements for Hazard Education Before Renovation of Target Housing, 40 CFR Part 745 (EPA, Pre-Renovation Education Rule). A free copy of the rule, guidance and pamphlet can be obtained by calling 800-424-LEAD (this is a toll-free number) or through the EPA Web site at: http://www.epa.gov/lead.

b. Guidelines

1. Guidelines for the Evaluation and Control of Lead-Based Paint Hazards in Housing; HUD, June 1995, and amended September 1997. A copy of the guidelines can be purchased by calling 800-245-2691 (this is a toll-free number) or downloaded without charge from the HUD Web site at: http://www.hud.gov/offices/lead. If you are a hearing- or speech-impaired person, you may reach this telephone number via TTY by calling the toll-free Federal Information Relay Service at 800-877-8339.

2. Preventing Lead Poisoning in Young Children; Centers for Disease Control, October 1991. A free copy of this document can be obtained by calling 888-232-6789 (this is a toll-free number) or through the HUD Web site at: http://www.hud.gov/offices/lead. If you are a hearing- or speech-impaired person, you may reach this telephone number through TTY by calling the toll-free Federal Information Relay Service at 800-877-8339.

3. Screening Young Children for Lead Poisoning: Guidance for State and Local Public Health Officials, November 1997. Centers for Disease Control and Prevention (CDC). A free copy of this document can be obtained by calling 888-232-6789 (this is a toll-free number) or through the HUD Web site at: http://www.hud.gov/offices/lead.

c. Reports

1. Putting the Pieces Together: Controlling Lead Hazards in the Nation's Housing (Summary and Full Report); HUD, July 1995. A copy of this summary and report can be purchased by calling 800-245-2691 (this is a toll-free number) or downloaded without charge from the HUD Web site at: http://www.hud.gov/offices/lead.

2. President's Task Force on Environmental Health Risks and Safety Risks to Children. Eliminating Childhood Lead Poisoning: A Federal Strategy Targeting Lead Paint Hazards. Washington, DC, 2000. These documents can be downloaded without charge from the HUD Web site at: http://www.hud.gov/offices/lead.

D. Appendix C

1. Existing Outreach Materials

To secure any of the documents listed below, call the telephone number provided. All of these documents are provided on HUD's Web site and the CD, “Residential Lead Desktop Reference, 3rd Edition.” This CD can be obtained by calling the National Lead Information Clearinghouse's toll-free number, 800-424-LEAD.

a. HUD/EPA Informational Pamphlet: “Protect Your Family from Lead in Your Home” (available in English and Spanish versions). A free copy of this document can be obtained by calling 800-424-LEAD (this is a toll-free number) or through the HUD Web site at: http://www.hud.gov/offices/lead/outreach/communityoutreach.cfm.

b. “Reducing Lead Hazards When Remodeling Your Home” (available in English and Spanish versions). A free copy of this document can be obtained by calling 800-424-LEAD (this is a toll-free number) or through the HUD Web site at: http://www.hud.gov/offices/lead/outreach/communityoutreach.cfm.

c. “Lead Paint Safety Field Guide” (available in English and Spanish versions). A free copy of this guide can be obtained by calling 800-424-LEAD (this is a toll-free number) or through the HUD Web site at: http://www.hud.gov/offices/lead/outreach/communityoutreach.cfm.

d. “A Parent's Reference Guide” EPA Document Number 747-B-98-002. A free copy of this guide can be obtained by calling 800-424-LEAD (this is a toll-free number) or through the HUD Web site at: http://www.hud.gov/offices/lead/outreach/communityoutreach.cfm.

2. Articles

a. McLaughlin, T., Humphries, O., Jr., Nguyen, T., Maljanian, R., and McCormack, K., “ ‘Getting the Lead Out’ in Hartford, Connecticut: A Multifaceted Lead-Poisoning Awareness Campaign,” Environ. Health Perspect. 112:1-5 (2004).

E. Appendix D

This appendix to this NOFA lists the standard forms, certifications and assurances used by the programs that are part of this NOFA. Listed forms are located in Appendix A of the General Section of the SuperNOFA.

1. Administrative Costs. Administrative costs that may be applicable to the programs included in this NOFA are discussed below:

a. Purpose: The intent of this HUD grant program is to allow the grantee to be reimbursed for the reasonable direct and indirect costs, subject to a top limit, for overall management of the grant. In most instances the grantee, whether a State, Tribal, or a local government, principally serves as a conduit to pass funding to sub-grantees, which are to be responsible for conducting the lead-hazard reduction work. Congress set a top limit of ten percent of the total grant sum for the grantee to perform the function of overall management of the grant program, including passing on funding to sub-grantees. The cost of that function, for the purpose of this grant, is defined as the “administrative cost” of the grant, and is limited to ten percent of the total grant amount. The balance of ninety percent or more of the total grant sum is reserved for sub-grantees or other direct-performers of lead-hazard identification and reduction work. Lead hazard identification and reduction includes, but is not necessarily limited to, outreach, training, enrollment, lead paint inspection/risk assessments, interim controls, hazard abatement, clearance documentation, blood lead testing, and public education.

b. Administrative Costs: What They are Not: For the purposes of this HUD grant program for states, Tribes, and local governments to provide support for outreach to increase the enrollment of low-income, private target housing in lead hazard treatment programs, the term “administrative costs” should not be confused with the terms “general and administrative cost,” “indirect costs,” “overhead,” and “burden rate.” These are accounting terms usually represented by a government-accepted standard percentage rate. The percentage rate allocates a fair share of an organization's costs that cannot be attributed to a particular project or department (such as the chief executive's salary or the costs of the organization's headquarters building) to all projects and operating departments (such as the Fire Department, the Police Department, the Community Development Department, the Health Department or this program). Such allocated costs are added to those projects' or departments' direct costs to determine their total costs to the organization.

c. Administrative Costs: What They Are: For the purposes of this HUD grant program, “Administrative Costs” are the grantee's allowable direct costs for the overall management of the grant program plus the allocable indirect costs. The allowable limit of such costs that can be reimbursed under this program is 10 percent of the total grant sum. Should the grantee's actual costs for overall management of the grant program exceed 10 percent of the total grant sum, those excess costs shall be paid for by the grantee. However, excess costs paid for by the grantee may be shown as part of the requirement for cost-sharing funds to support the grant.

d. Administrative Costs: Definition:

(1) General. Administrative costs are the allowable, reasonable, and allocable direct and indirect costs related to the overall management of the HUD grant for lead outreach activities. Those costs shall be segregated in a separate cost center within the grantee's accounting system, and they are eligible costs for reimbursement as part of the grant, subject to the 10 percent limit. Such administrative costs do not include any of the staff and overhead costs directly arising from specific sub-grantee program activities eligible under Section III. (C) of this NOFA, because those costs are eligible for reimbursement under a separate cost center as a direct part of project activities.

The grantee may elect to serve solely as a conduit to sub-grantees, who will in turn perform the direct program activities eligible under Section III. (C) of this NOFA, or the grantee may elect to perform all or a part of the direct program activities in other parts of its own organization, which shall have their own segregated, cost centers for those direct program activities. In either case, not more than 10 percent of the total HUD grant sum may be devoted to administrative costs, and not less than 90 percent of the total grant sum shall be devoted to direct program activities. The grantee shall take care not to mix or attribute administrative costs to the direct project cost centers.

(2) Specific. Reasonable costs for the grantee's overall grant management, coordination, monitoring, and evaluation are eligible administrative costs. Subject to the 10 percent limit, such costs include, but are not limited to, necessary expenditures for the following goods, activities and services:

(a) Salaries, wages, and related costs of the grantee's staff, the staff of affiliated public agencies, or other staff engaged in grantee's overall grant management activities. In charging costs to this category the recipient may either include the entire salary, wages, and related costs allocable to the program for each person whose primary responsibilities (more than 65 percent of their time) with regard to the grant program involve direct overall grant management assignments, or the pro rata share of the salary, wages, and related costs of each person whose job includes any overall grant management assignments. The grantee may use only one of these two methods during this program. Overall grant management includes the following types of activities:

(i) Preparing grantee program budgets and schedules, and amendments thereto;

(ii) Developing systems for the selection and award of funding to sub-grantees and other subrecipients;

(iii) Developing suitable agreements for use with sub-grantees and other subrecipients to carry out grant activities;

(iv) Developing systems for assuring compliance with program requirements;

(v) Monitoring sub-grantee and subrecipient activities for progress and compliance with program requirements;

(vi) Preparing presentations, reports, and other documents related to the program for submission to HUD;

(vii) Evaluating program results against stated objectives;

(viii) Providing local officials and citizens with information about the overall grant program (however, a more general education program, helping the public understand the nature of lead hazards, lead hazard reduction, blood-lead screening, and the health consequences of lead poisoning is a direct project support activity);

(ix) Coordinating the resolution of overall grant audit and monitoring findings; and

(x) Managing or supervising persons whose responsibilities with regard to the program include such assignments as those described in paragraphs (a) through (i).

(b) Travel costs incurred for official business in carrying out the overall grant management;

(c) Administrative services performed under third party contracts or agreements, for services directly allocable to grant management such as: legal services, accounting services, and audit services;

(d) Other costs for goods and services required for and directly related to the overall management of the grant program; and including such goods and services as telephone, postage, rental of equipment, renter's insurance for the program management space, utilities, office supplies, and rental and maintenance (but not purchase) of office space for the program.

(e) The fair and allocable share of grantee's general costs that are not directly attributable to specific projects or operating departments such as salaries, office expenses and other related costs for local officials (e.g., mayor and city council members, etc.), and expenses for a city's legal or accounting department which are not charged back to particular projects or other operating departments. If a grantee has an established burden rate, it should be used; if not, the grantee shall be assigned a negotiated provisional burden rate, subject to final audit.

F. Appendix E Checklist and Submission Table of Contents

BILLING CODE 4210-32-P

Lead-Based Paint Hazard Reduction Demonstration Grant Program

Overview Information

A. Federal Agency Name: Department of Housing and Urban Development, Office of Healthy Homes and Lead Hazard Control.

B. Funding Opportunity Title: Lead-Based Paint Hazard Reduction Demonstration Grant Program.

C. Announcement Type: Initial announcement.

D. Funding Opportunity Number: The Federal Register number is: FR-4900-N-11. The OMB approval number is 2539-0015.

E. Catalog of Federal Domestic Assistance (CFDA) Number(s): 14.905; Lead Hazard Reduction Demonstration Grant Program.

F. Dates: Application Deadline. A completed original and three copies of your application must be submitted to HUD on or before the application due date. The application due date is July 13, 2004. Please see the General Section of the SuperNOFA for application submission, delivery, and timely receipt requirements.

G. Additional Overview Content Information: 1. Purpose of the Program. The purpose of the Lead Hazard Reduction Demonstration Grant Program is to assist areas with the highest lead paint abatement needs in undertaking programs for abatement, inspections, risk assessments, temporary relocations, and interim control of lead-based paint hazards in eligible privately owned, single family housing units, and multifamily buildings that are occupied by low-income families.

2. Available Funds. Approximately $50 million in Fiscal Year 2004 funds.

3. Eligible Applicants. To be eligible to apply for funding under this program, the applicant must be a city, county, or similar unit of local government. States and Indian Tribes may apply on behalf of units of local government within their jurisdiction, if the local government designates the state or the Indian Tribe as their applicant. Multiple units of a local government (or multiple local governments) may apply as part of a consortium; however, you must identify a lead applicant that will be responsible for ensuring compliance with all requirements specified in this NOFA. If you are a state or Tribal applicant, you must have a Lead-Based Paint Contractor Certification and Accreditation Program authorized by the Environmental Protection Agency (EPA).

4. Match. A statutory minimum of 25 percent match in local funds.

Full Text of Announcement

I. Funding Opportunity Description

A. Program Description

The Lead Hazard Reduction Demonstration Grant Program is authorized by Section 1011 of the Residential Lead-Based Paint Hazard Reduction Act of 1992 (Title X of the Housing and Community Development Act of 1992, Pub. L. 102-550). HUD's authority for making funding available under this NOFA is the Consolidated Appropriations Act for 2004, Public Law 108-199. The Lead Hazard Reduction Demonstration Grant Program assists States, Native American Tribes and local governments in undertaking programs for the identification and control of lead-based paint hazards in eligible privately owned rental and owner-occupied housing units. Refer to Section IV.E.3. of this NOFA for “Eligibility of HUD Assisted Housing” that lists the HUD-associated housing programs that meet the definition of eligible housing under this program.

1. Because lead-based paint is a national problem, these funds will be awarded to programs which:

a. Maximize the combination of children protected from lead poisoning and housing units where lead-hazards are controlled;

b. Target lead hazard control efforts at housing in which children are at greatest risk of lead poisoning;

c. Stimulate cost-effective approaches that can be replicated;

d. Emphasize lower cost methods of hazard control;

e. Build local capacity to safely and effectively address lead hazards during lead hazard control, renovation, remodeling, and maintenance activities; and

f. Affirmatively further fair housing and environmental justice.

2. The objectives of this program include:

a. Implementation of a national strategy, as defined in Title X of the Housing and Community Development Act of 1992 (42 U.S.C. 4851 et seq.) (Title X), to build the community's capacity necessary to eliminate lead-based paint hazards in housing, as widely and quickly as possible by establishing a workable framework for lead-based paint hazard identification and control;

b. Mobilization of public and private resources, involving cooperation among all levels of government, the private sector, and grassroots faith-based or other community-based organizations including fair housing organizations and advocates for Fair Housing Act protected classes to develop cost-effective methods for identifying and controlling lead-based paint hazards;

c. Development of comprehensive community approaches which result in integration of all community resources (governmental, grassroots faith-based, or other community-based organizations, and private businesses) to address lead hazards in housing;

d. Integration of lead-safe work practices into housing maintenance, repair, weatherization, rehabilitation, and other programs that will continue after the grant period ends;

e. Establishment of a public registry (listing) of lead-safe housing or inclusion of the lead-safe status of properties in another publicly accessible address-based property information system and affirmatively marketed to families with young children; and

f. To the greatest extent feasible, promotion of job training, employment, and other economic opportunities for low-income and minority residents and businesses that are owned by and/or employ minorities and low-income persons as defined in 24 CFR 135.5 (see 59 FR 33881, June 30, 1994).

3. Changes in FY2004 Competitive NOFA:

a. Applicants must have at least 7,000 pre-1940 occupied rental housing units in order to apply under this NOFA. The threshold requirement was increased from 3200 under the FY2003 Lead Hazard Reduction Demonstration Grant Program NOFA and reflects the intent of Congress to provide funds to areas with the greatest need.

b. Engineering and architectural activities that are required for, and in direct support of, lead hazard control work are direct costs that can be reimbursed from the 90 percent of the funds available that are to be used exclusively for lead-based paint abatement, interim controls, combined lead-based paint inspection and risk assessment, clearance testing, and relocation. These activities were eligible support costs that could be reimbursed through matching, leveraged or other available funds in FY2003.

c. The purchase or lease of a maximum of two X-ray fluorescence analyzers for use by this program, if not already available, can be reimbursed from the 90 percent of the funds available that are to be used exclusively for lead-based paint abatement, interim controls, combined lead-based paint inspection and risk assessment, clearance testing, and relocation. These activities were eligible support costs that could be reimbursed through matching, leveraged or other available funds in FY2003.

d. Applicants are to complete and submit the Rating Factor Tables included in Section IV. of this NOFA.

II. Award Information

Funding Available. Approximately $50 million in Fiscal Year 2004 funds is available. The minimum award amount shall be $2 million per grant. The maximum award amount shall be $4 million per grant. Approximately 12-25 grants will be awarded. The period of performance is 42 months. HUD reserves the right to approve no cost time extensions for a period not to exceed 12 months.

III. Eligibility Information

See the General Section of the SuperNOFA for additional eligibility requirements applicable to HUD Programs.

A. Eligible Applicants

1. To be eligible to apply for funding under this program, the applicant must be a city, county, or similar unit of local government. States and Indian Tribes may apply on behalf of units of local government within their jurisdiction, if the local government designates the state or the Indian Tribe as their applicant. Multiple units of a local government (or multiple local governments) may apply as part of a consortium; however, you must identify a lead applicant that will be responsible for ensuring compliance with all requirements specified in this NOFA. State government and Native American tribal applicants must have an EPA approved state program for certification of lead-based paint contractors, inspectors, and risk assessors in accordance with 40 CFR 745.

2. Eligible applicants may submit only one application. In the event that multiple applications are submitted, this will be considered a technical deficiency and the application review process delayed until you notify HUD in writing which application should be reviewed. Your other applications will be returned without being rated or ranked.

3. If you or any member of your consortium also applied for funding under the Fiscal Year 2004 Lead Hazard Control Grant Program Notice of Funding Availability or received funds under the Fiscal Year 2003 Lead Hazard Reduction Demonstration NOFA, you must discuss how both programs will operate concurrently and how program activities will be combined to achieve maximum benefits. If you achieve a score of 75 or higher in this competition and in the FY2004 Lead Hazard Control Grant Program competition and fall within the fundable range in both competitions, HUD will evaluate your responses to Rating Factor 1—Capacity of the Applicant and Relevant Organization Experience and Rating Factor 3—Soundness of Approach (Work Plan/Budget) and determine whether you have the ability and capacity to successfully implement both grant programs concurrently. If you cannot demonstrate to HUD that you have the capacity to successfully implement both grant programs, HUD reserves the right to fund only one application. In addition, grantees funded under the Fiscal Year 2003 Lead Hazard Reduction Demonstration Grant Program NOFA and receive a score of 75 or higher in the Fiscal Year 2004 competition must also demonstrate to HUD that they have the capacity to successfully implement both grant programs concurrently. If you cannot demonstrate to HUD that you have the capacity to successfully implement both grant programs, HUD reserves the right not to fund your application.

B. Cost Sharing or Matching

Matching Contribution. You must provide a matching contribution of at least 25 percent of the requested grant sum. This may be in the form of cash, including private sector funding, or in-kind (non-cash) contributions or a combination of these sources. With the exception of Community Development Block Grant (CDBG) funds, Federal Revenue Sharing programs, or other programs which by statute allow their funds to be considered local funds and therefore eligible to be used as matching funds, federal funds may not be used to satisfy the statutorily required 25 percent matching requirement. Federal funds may be used, however, for contributions above the statutory requirement. You must support each source of contributions, cash or in-kind, both for the required minimum and additional amounts, by a letter of commitment from the contributing entity, whether a public or private source. The letter must describe the contributed resources that you will use in the program and their designated purpose. The signature of the authorized official on the Form SF-424 commits matching or other contributed resources of the applicant organization. A separate letter from the applicant organization is not required.

C. Other

1. Threshold Requirements. As an eligible applicant, you must also meet all of the threshold requirements in Section III.C. of the General Section of the SuperNOFA as well as the specific threshold requirements listed in this subsection. Applications will not be funded if they do not meet the threshold requirements.

a. Applicants must provide a minimum of 25 percent of the grant funds requested as a matching contribution.

b. Applicants must have at least 7,000 pre-1940 occupied rental housing units in order to apply under this NOFA. See Factor 2 Table-Need/Extent of the Problem for details on how to obtain this information. Applicants must report the total number of pre-1940 occupied rental units within the jurisdiction(s) where funds will be used (data from the 2000 U.S. Census is required). Failure to provide the number of pre-1940 occupied rental units in the Factor 2 Table will result in the application not being rated or ranked.

c. EPA Authorization. If you are a state government or Indian (Native American) Tribal government, you must have an EPA-authorized Lead-Based Paint Training and Certification Program in effect on the application deadline date to be eligible to apply for Lead Hazard Reduction Demonstration Grant funds. The approval date in the Federal Register notice published by the EPA will be used in determining the Training and Certification status of the applicant state or Indian (Native American) Tribal government. If you do not have an EPA authorized program, the application will not be rated and ranked.

2. Program Requirements. a. Environmental Requirements. Recipients of lead-based paint hazard reduction demonstration grants must comply with 24 CFR Part 58-“Environmental Review Procedures for Entities Assuming HUD Environmental Responsibilities.” Recipients and other participants in the project are prohibited from committing or expending HUD and non-HUD funds on the project until HUD approves the recipient's Request for the Release of Funds (Form HUD-7015.15) or the recipient has determined that the activity is either Categorically Excluded, not subject to the related federal laws and authorities pursuant to 24 CFR 58.35(b) or exempt pursuant to 24 CFR 58.34. For Part 58 procedures, see http://www.hud.gov/offices/cpd/energyenviron/environment/index.cfm.

For assistance, contact Karen Choi, the Office of Healthy Homes and Lead Hazard Control Environmental Officer at (213) 894-8000, extension 3015 (this is not a toll-free number) or the HUD Environmental Review Officer in the HUD field office serving your area. If you are a hearing-or speech-impaired person, you may reach the telephone number via TTY by calling the toll-free Federal Information Relay Service at 800-877-8339. Recipients of a grant under this funded program will be given additional guidance in these responsibilities.

b. Provide the actual number of children with documented elevated blood lead levels residing within the applicant's jurisdiction(s) for the most recent complete calendar year and identify the source of the data. Data prior to calendar year 2001 will not be accepted. States and Indian Tribes must report the number in the city, county, or other area where funds will actually be used. Consortia of local governments must report the number in the cities or counties making up the consortium. For the purposes of this application, the “documented number of children” with an EBLL is based on the Centers for Disease Control and Prevention (CDC) level of concern. A child under six years of age with a blood lead level test result equal to or greater than 10 micrograms of lead per deciliter of blood, which was performed by a medical health care provider is considered to have an EBLL. The actual number of documented cases (not an estimate) must be reported to HUD in order to be eligible for this grant program. Do not send the children's names, addresses, or other identifiers. Failure to provide this number in the application means that the application will not be rated or ranked.

c. Consolidated Plans. (This requirement does not apply to Native American Tribes.) If your jurisdiction has a current HUD-approved Consolidated Plan, you must submit, as an appendix, a copy of the lead-based paint element included in the approved Consolidated Plan. If the Analysis of Impediments (AI) includes references to lead-based paint as an impediment to fair housing, this should be included in your application as well. If the same applicant agency also submitted an application as an eligible applicant for the Fiscal Year 2004 Lead Hazard Control Grant Program Notice of Funding Availability, you may refer to this material for proof of documentation if the applicant agencies are the same. You are not required to resubmit this material for this NOFA. If your jurisdiction does not have a currently approved Consolidated Plan, but it is otherwise eligible for this grant program, you must include your jurisdiction's abbreviated Consolidated Plan, which includes a lead-based paint hazard control strategy developed in accordance with 24 CFR 91.235.

d. Lead Hazard Control work must be conducted in compliance with HUD's Lead-Safe Housing Regulation, 24 CFR Part 35.

e. Prohibited Practices. You must not engage in the following prohibited practices:

(1) Open flame burning or torching;

(2) Machine sanding or grinding without a high-efficiency particulate air (HEPA) exhaust control;

(3) Uncontained hydro blasting or high-pressure wash;

(4) Abrasive blasting or sandblasting without HEPA exhaust control;

(5) Heat guns operating above 1,100 degrees Fahrenheit;

(6) Chemical paint strippers containing methylene chloride or other volatile hazardous chemicals in a poorly ventilated space; and

(7) Dry scraping or dry sanding, except scraping in conjunction with heat guns or around electrical outlets or when treating no more than two square feet in any one interior room or space, or totaling no more than 20 square feet on exterior surfaces.

f. Written Policies and Procedures. You must have clearly established written policies and procedures for eligibility, program marketing, unit selection, expediting work on homes occupied by children with elevated blood lead levels, and all phases of lead hazard control, including risk assessment, inspection, development of specifications, pre-hazard control blood lead testing, financing, relocation, and clearance testing. Grantees, subcontractors, sub-grantees, sub-recipients, and their contractors must adhere to these policies and procedures.

g. Continued Availability of Lead-Safe Housing to Low-Income Families. Units in which lead hazards have been controlled under this program shall be occupied by and/or continue to be available to low-income families for at least three years as required by Title X (Section 1011). You must maintain a publicly available registry (listing) of units in which lead hazards have been controlled and ensure that these units are affirmatively marketed to agencies and families as suitable housing for families with children under six years of age. The grantee must also notify the owner of the information that is collected so that the owner will comply with disclosure requirements under 24 CFR part 35, Subpart A.

h. Testing. In developing your application budget, include costs for lead paint inspection, risk assessment, and clearance testing for each dwelling that will receive lead hazard control, as follows:

(1) General. All testing and sampling shall conform to the current HUD Guidelines and federal, state, or tribal regulations developed as part of the appropriate contractor certification program whichever is more stringent. It is particularly important to provide this full cycle of testing for lead hazard control, including interim controls. Testing must be conducted according to the HUD Guidelines, located at: http://www.hud.gov/offices/lead/guidelines/hudguidelines/index.cfm, and the EPA lead hazard standards rule at 40 CFR, part 745. All test results must be provided to the owner in a timely fashion, together with a notice describing the owner's legal duty to disclose the results to tenants and buyers under 24 CFR part 35, Subpart A.

(a) Lead-Based Paint and Lead-Based Paint Hazard Identification. A combined lead-based paint inspection and risk assessment is required. You should ensure that lead paint inspection and risk assessment reports are conducted in accordance with established protocols and sufficient to support hazard control decisions.

(b) Clearance Testing. Clearance testing shall be completed in accordance with Chapter 15 of the HUD Guidelines and the EPA lead hazards standards rule at 40 CFR, part 745 for abatement projects and the Lead-Safe Housing Regulation (24 CFR, part 35) for lead hazard control activities or other abatement. The clearance standards shall be the more restrictive of those set by the local jurisdiction or by EPA or HUD.

(c) Blood lead testing. Before lead hazard control work begins, each occupant who is under six years of age should be tested for lead poisoning within the six months preceding the housing intervention. Any child with an elevated blood lead level must be referred for appropriate medical follow-up. The standards for such testing are described in the Centers for Disease Control and Prevention (CDC) publications Preventing Lead Poisoning in Young Children (1991), and Screening Young Children for Lead Poisoning: Guidance for State and Local Public Health Officials (1997).

i. Cooperation with Related Research and Evaluation.

(1) You shall cooperate fully with any research or evaluation sponsored by HUD, CDC, EPA or other government agency and associated with this grant program, including preservation of project data and records and compiling requested information in formats provided by the researchers, evaluators, or HUD. This may also include the compiling of certain relevant local demographic, dwelling unit, and participant data not contemplated in your original proposal. Participant data shall be subject to Privacy Act protection.

(2) If your program includes conducting research involving human subjects in a manner which requires Institutional Review Board (IRB) approval and periodic monitoring, address how you will obtain such approval and your monitoring plan (before you can receive funds from HUD for activities that require IRB approval, you must provide an assurance that your study has been reviewed and approved by an IRB and evidence of your organization's institutional assurance). Describe how you will provide informed consent (e.g., from the subjects, their parents, or their guardians, as applicable) to help ensure their understanding of, and consent to, the elements of informed consent, such as the purposes, benefits, and risks of the research. Describe how this information will be provided and how the consent will be collected. For example, describe your use of “plain language” forms, flyers, and verbal scripts, and how you plan to work with families with limited English proficiency or primary languages other than English, and with families which include persons with disabilities.

j. Data collection. You will be required to collect and maintain the data necessary to document the various lead hazard control methods used and the cost of these methods.

k. Section 3 Employment Opportunities. Please refer to Section III.C.4.c. of the General Section of the SuperNOFA. The requirements of Section 3 of the Housing and Urban Development Act of 1968 are applicable to this program.

l. Replacing Existing Resources. Funds received under this grant program shall not be used to replace existing community resources dedicated to any ongoing project.

m. Certifications and Assurances. You must include the certifications and assurances listed in the General Section of the SuperNOFA with your application.

n. Conducting Business in Accordance with HUD Core Values and Ethical Standards Refer to the General Section of the SuperNOFA for information about conducting business in accordance with HUD's core values and ethical standards.

3. DUNS Requirement. Refer to the General Section of the SuperNOFA for information regarding the DUNS requirement. You will need to obtain a DUNS number to receive an award from HUD.

IV. Application and Submission Information

A. Addresses to Request Application Package

1. Application Submission. See the General Section of the SuperNOFA for specific procedures concerning the form of application submission (e.g., mailed applications, express mail or overnight delivery). Be advised that there is no Application Kit for this Lead Hazard Reduction Demonstration Grant Program. All the information required to submit an application is contained in this Notice of Funding Availability (NOFA).

a. Guidebook and Further Information. You may request general information, copies of the General Section and Program Sections of the SuperNOFA from the SuperNOFA Information Center (800-HUD-8929 or 800-HUD-2209 (TTY)) between the hours of 9 am and 8 pm (Eastern Time) Monday through Friday, except on federal holidays. When requesting information, please refer to the name of the program you are interested in. Be sure to provide your name, address (including zip code), and telephone number (including area code). To ensure sufficient time to prepare your application, requests for copies of the SuperNOFA or this NOFA can be made immediately following publication of the SuperNOFA. The SuperNOFA Information Center opens for business simultaneously with the publication of HUD's 2004 NOFAs. You can also obtain information on this SuperNOFA and download application information for this SuperNOFA through the Web site, www.grants.gov.

B. Content and Form of Application Submission

1. Application Submission Requirements for the Lead Hazard Reduction Demonstration Grant Program. Applicants under this category of the NOFA are to follow the submission requirements described below.

a. Applicant Information. (1) Application Format. The application narrative response to the Rating Factors is limited to a maximum of 15 pages (excluding appendices and tables). Your response must be typewritten on one side only on 8½ × 11 inch paper using a 12-point standard font with not less than ¾ inch margins on all sides. Appendices should be referenced and discussed in the narrative response. Materials provided in the appendices should directly apply to the specific rating factor narrative. Information that is not referenced or does not directly apply to a specific narrative response may not be rated or ranked by reviewers.

(2) Application Checklist (voluntary). Your application must contain all of the required information noted in this Program Section and the General Section of the SuperNOFA. These items include the standard forms, certifications, and assurances listed in the General Section of this SuperNOFA that are applicable to this funding (collectively referred to as the “standard forms”). The standard forms can be found in the General Section of the SuperNOFA. The “Checklist and Submission Table of Contents” below includes a listing of the required items needed for submitting a complete application and receiving consideration for funding. You are to assemble the application in the order shown in the Checklist and Submission Table of Contents and note the corresponding page number where the response is located. Inclusion of this Checklist and Submission Table of Contents with your proposal is recommended but not required.

BILLING CODE 4210-32-P

BILLING CODE 4210-32-C

The following are the items to be included in an application:

(a) Transmittal Letter. The applicant (or applicants) submitting the application, the dollar amount requested, the number of units to receive lead hazard control work, what the program funds are requested for, the nature of involvement with grassroots faith-based and other community-based organizations, and the name, mailing address, telephone number, and principal contact person of “the applicant.”

(b) Checklist and Submission Table of Contents (voluntary).

(c) Abstract Summary. An abstract summary describing the goals and objectives of your proposed program (two-page maximum). The abstract should briefly highlight the major goals and objectives established for the program.

(d) Forms. All forms as required by the General Section of the SuperNOFA.

(e) Budget. A detailed budget (total budget is the federal share and matching contribution (Form HUD-424-CBW) with supporting narrative and cost justifications for all budget categories of your grant request. You must provide a separate estimate for the overall grant management element (Administrative Costs), which is more fully defined in Section IV.E. 2. of this NOFA. The budget shall include not more than 10 percent for administrative costs and not less than 90 percent for direct project elements. Applicants are to identify the direct lead hazard control costs that meet this requirement. In the event of a discrepancy between grant amounts requested in various sections of the application, the amount you indicate on the SF-424 will govern as the correct value.

(f) Matching Contribution. An itemized breakout (using the Form HUD-424-CBW) of your required matching contribution, including:

(i) Values placed on donated in-kind services;

(ii) Letters or other evidence of commitment from donors; and

(iii) The amounts and sources of contributed resources.

(g) Application Forms. Standard Forms SF-LLL and Forms HUD-27300, 2880, 2990, 2991, 2993, and 2994.

(h) Grant Partners. Contracts, Memoranda of Understanding or Agreement, letters of commitment or other documentation describing the proposed roles of agencies, local broad-based task forces, participating grassroots faith-based and other community or neighborhood-based groups or organizations, local businesses, and others working with the program.

(i) Consolidated Plan Element. A copy of the lead hazard control element included in your current program year's Consolidated Plan. (This does not apply to Native American Tribes) You should include the discussion of any lead-based paint issues in your jurisdiction's Analysis of Impediments, particularly as it addresses your target areas.

(j) Rating Factor Response. Narrative responses to the three rating factors.

2. Proposed Activities. Unless otherwise noted in this NOFA, all applicants must, at a minimum, describe the proposed activities in the narrative responses to the rating factors. Your narrative statement must be numbered in accordance with each factor for award (Rating Factors 1 through 3). Please see the General Section of the SuperNOFA for additional requirements and submittal procedures.

a. Forms, Certifications, Assurances, and Other Related Grant Application Information. The forms, certifications, assurances and other related grant application resource information that will assist you in preparing your application in response to this NOFA can be found in the General Section of the SuperNOFA and in this NOFA. These forms are also available for this SuperNOFA through the Web site at: http://www.grants.gov.

b. Forms and Tables for Rating Factor Responses. The following forms and/or tables are to be completed and included in the application in support of the narrative response to the rating factors.

(1) Rating Factor 1 Table—Capacity of the Applicant and Relevant Organizational Experience

(2) Rating Factor 2 Table—Need/Extent of the Problem

(3) Rating Factor 3 Table—Soundness of Approach; and Work Plan Development Worksheet with Minimum Benchmark Standards for 42 Months—Form HUD-96009

(4) Rating Factor 4 Table—Leveraging Resources (include with response to Rating Factor 3)

(5) Form HUD-96010 Logic Model—Achieving Results and Program Evaluation (include with response to Rating Factor 3)

BILLING CODE 4210-32-P

BILLING CODE 4210-32-C

1. Application Due Dates: The application due date shall be on or before July 13, 2004. Refer to the General Section of the SuperNOFA for additional submission requirements including acceptable submission methods, acceptable proof of delivery, and other information to assist the applicant.

D. Intergovernmental Review

Not required.

E. Funding Restrictions

1. Eligible Activities. HUD is interested in promoting lead hazard control approaches that result in the reduction of elevated blood lead levels in children for the maximum number of low-income families with children under six years of age, for the longest period of time, and that demonstrate techniques which are cost-effective, efficient, and replicable elsewhere. Copies of HUD's Lead-Safe Housing Regulation, and the companion publication “Interpretive Guidance: The HUD Regulation on Controlling Lead-Based Paint Hazards in Housing Receiving Federal Assistance and Federally Owned Housing Being Sold,” are available from the National Lead Information Clearinghouse at 800-424-LEAD (this is a toll-free number). If you are a hearing- or speech-impaired person, you may reach the telephone number via TTY by calling the toll-free Federal Information Relay Service at 800-877-8339. Copies are also available from the Office of Healthy Homes and Lead Hazard Control Web site at: www.hud.gov/offices/lead.

a. Not less than 90 percent of the funds made available shall be used exclusively for abatement and/or interim controls (with clearance testing), inspections, risk assessments, and temporary relocations. These include Direct Project Elements (1)-(5) listed below and undertaken directly or through subrecipients:

(1) Performing dust testing, combined lead-based paint inspections and risk assessments, and engineering and architectural activities that are required for, and in direct support of, interim control and lead hazard abatement work, of eligible housing units constructed prior to 1978 to determine the presence of lead-based paint and/or lead hazards from paint, dust, or soil through the use of acceptable testing procedures. The purchase or lease of a maximum of two X-ray fluorescence analyzers used by the grant program, if not already available, are eligible costs. All test results must be provided to the owner of the unit, together with a notice describing the owner's legal duty to disclose the results to tenants and buyers.

(2) Conducting lead hazard control activities that may include any combination of the following:

(a) Interim controls of lead-based paint hazards including lead-contaminated soil in housing (that must include specialized cleaning techniques to address lead dust, according to the HUD Guidelines, located at http://www.hud.gov/offices/lead/guidelines/hudguidelines/index.cfm.

(b) Abatement. The complete abatement of all lead-based paint hazards in a unit or structure is acceptable if it is cost-effective. Abatement of lead-contaminated soil should be limited to areas with bare soil in the immediate vicinity of the structure, i.e., dripline or foundation of the unit being treated, and children's play areas. All lead hazards identified in a housing unit enrolled in this grant program must be controlled or eliminated by any combination of these strategies.

(3) Carrying out temporary relocation of families and individuals during the period in which hazard control is conducted and until the time the affected unit receives clearance for reoccupancy. If families or individuals are temporarily relocated in a project which utilizes Community Development Block Grant funds, the guidance and requirements of 24 CFR 570.606(b)(2)(i)D(1)-(3) must be met. HUD recommends you review these regulations when preparing your proposal.

(4) Undertaking minimal housing rehabilitation activities that are specifically required to carry out effective hazard control, and without which the hazard control could not be completed and maintained. These grant funds may be used for lead hazard control work done in conjunction with other housing rehabilitation programs. HUD encourages integration of this grant program with housing rehabilitation, maintenance, weatherization, and other energy conservation activities.

(5) Conducting clearance dust-wipe testing and laboratory analysis (the laboratory must be recognized by the National Lead Laboratory Accreditation Program (NLLAP) as being capable of performing lead analyses of samples of paint, dust-wipes, and/or soil).

b. The following are supporting Project Elements that may be undertaken through matching or other available funds only:

(1) Conducting targeted community awareness, affirmative marketing, education or outreach programs on lead hazard control and lead poisoning prevention designed to increase the ability of the program to deliver lead hazard control services including educating owners of rental properties, tenants, and others on the Residential Lead-Based Paint Hazard Reduction Act, Lead-Safe Housing Regulation, and applicable provisions of the Fair Housing Act especially as it pertains to familial status (i.e., families with children) and disability discrimination, and offering educational materials in languages other than English that are common in the community, consistent with HUD's published LEP Recipient Guidance, 68 FR 70968 and providing training on lead-safe maintenance and renovation practices and management. Upon request, this also would include making all materials available in alternative formats to persons with disabilities (e.g., Braille, audio, and large type).

(2) Procuring liability insurance for lead-hazard control activities.

(3) Supporting data collection, analysis, and evaluation of grant program activities. This includes compiling and delivering such information and data as may be required by HUD. This activity is separate from administrative costs.

(4) Purchasing or leasing equipment having a per-unit cost under $5,000.

(5) Preparing a final report at the conclusion of grant activities.

c. Support Elements.

(1) Administrative costs. There is a 10 percent maximum for administrative costs as specified in Section 1011(j) of the Residential Lead-Based Paint Hazard Reduction Act of 1992 (Title X of the Housing and Community Development Act of 1992, Public Law 102-550). Additional information about allowable administrative costs is provided below.

(2) Program planning and management costs of sub-grantees and other subrecipients.

d. Ineligible Activities. You may not use grant funds for:

(1) Purchase of real property.

(2) Purchase or lease of equipment having a per-unit cost in excess of $5,000, except for the purchase of X-ray fluorescence analyzers.

(3) Chelation or other medical treatment costs related to children with elevated blood lead levels. Non-federal funds used to cover these costs may be counted as part of the required matching contribution.

(4) Lead hazard control activities in publicly owned housing, or project-based Section 8 housing (This housing stock is not eligible under Section 1011 of the Lead-Based Paint Hazard Reduction Act).

e. Program Specific Requirements. (1) Work Activities. All lead hazard control activities must be conducted in compliance with the applicable requirements of HUD's Lead-Safe Housing Regulation, 24 CFR Part 35, and as clarified in HUD's Interpretive Guidance about the rule located at: http://www.hud.gov/offices/lead/guidelines/leadsaferule/index.cfm. Activities must also comply with any additional requirements in effect under a state or Tribal Lead-Based Paint Training and Certification Program that has been authorized by the EPA pursuant to 40 CFR 745.320.

(2) Direct Lead Hazard Identification and Control Activities. Not less than 90 percent of the funds made available shall be used exclusively for abatement, inspections, risk assessments, temporary relocations, and interim control of lead-based hazards.

(3) By September 30, 2005, applicants that received a Lead Hazard Reduction Demonstration grant under the FY2003 competition are to participate in an established statewide or jurisdiction-wide strategic plan to eliminate childhood lead poisoning as a major public health problem by 2010, or are to assist in the development of such a plan (further guidance will be provided to grantees on developing the elimination plan). New applicants are encouraged to include an outline of the steps that they will take to participate in or develop a statewide or jurisdiction-wide strategic plan. Applicants are encouraged to collaborate with Centers for Disease Control and Prevention (CDC) Childhood Lead Poisoning Prevention grantees, which are now required to develop such plans. At a minimum, the plan must include the following elements:

(a) Mission Statement;

(b) Purpose and Background on Lead Poisoning Prevalence;

(c) Goals, Objectives, and Activities; and

(d) Evaluation Plan.

2. Administrative Costs. There is a 10 percent maximum for administrative costs as specified in Section 1011(j) of the Residential Lead-Based Paint Hazard Reduction Act of 1992 (Title X of the Housing and Community Development Act of 1992, Public Law 102-550). Additional information about allowable administrative costs is provided below.

a. Purpose. The intent of this HUD grant program is to allow the Grantee to be reimbursed for the reasonable direct and indirect costs, for the overall management of the grant. In most instances the grantee, whether a state or a local government, principally serves as a conduit to pass funding to sub-grantees, which are to be responsible for conducting lead-hazard reduction work. Congress set a maximum of 10 percent of the total grant sum for the grantee to perform the function of overall management of the grant program, including passing on funding to sub-grantees. The cost of that function, for the purpose of this grant, is defined as the “administrative cost” of the grant, and is limited to 10 percent of the total grant amount. The balance of 90 percent or more of the total grant sum is reserved for sub-grantees or other direct-performers of lead-hazard identification and reduction work including relocation. For purposes of the Lead-Based Paint Hazard Reduction Demonstration Grant Program, lead hazard identification and reduction includes lead paint inspection/risk assessments, interim controls, abatement of lead hazards, clearance testing, and relocation.

b. Administrative Costs: What They Are Not. For the purposes of this HUD grant program for states and local governments to provide support for the evaluation and reduction of lead-hazards in low- and moderate-income, private target housing, the term “administrative costs” should not be confused with the terms “general and administrative cost,” “indirect costs,” “overhead,” and “burden rate.” These are accounting terms usually represented by a government-accepted standard percentage rate. The percentage rate allocates a fair share of an organization's costs that cannot be attributed to a particular project or department (such as the chief executive's salary or the costs of the organization's headquarters building) to all projects and operating departments (such as the Fire Department, the Police Department, the Community Development Department, the Health Department or this program). Such allocated costs are added to those projects' or departments' direct costs to determine their total costs to the organization.

c. Administrative Costs: What They Are: For the purposes of this HUD grant program, “Administrative Costs” are the grantee's allowable direct costs for the overall management of the grant program plus the allocable indirect costs. The allowable limit of such costs that can be reimbursed under this program is 10 percent of the total grant sum. Should the grantee's actual costs for overall management of the grant program exceed 10 percent of the total grant sum, those excess costs shall be paid for by the grantee. However, excess costs paid for by the grantee may be shown as part of the requirement for cost-sharing funds to support the grant.

d. Administrative Costs Definition (1) General: Administrative costs are the allowable, reasonable, and allocable direct and indirect costs related to the overall management of the HUD grant for lead-hazard reduction activities. Those costs shall be segregated in a separate cost center within the grantee's accounting system, and they are eligible costs for reimbursement as part of the grant, subject to the ten percent limit. Such administrative costs do not include any of the staff and overhead costs directly arising from specific sub-grantee program activities eligible under this NOFA, because those costs are eligible for reimbursement under a separate cost center as a direct part of project activities.

The grantee may elect to serve solely as a conduit to sub-grantees, who will in turn perform the direct program activities eligible under this NOFA, or the grantee may elect to perform all or a part of the direct program activities in other parts of its own organization, which shall have their own segregated, cost centers for those direct program activities. In either case, not more than 10 percent of the total HUD grant sum may be devoted to administrative costs, and not less than 90 percent of the total grant sum shall be devoted to direct program activities. The grantee shall take care not to mix or attribute administrative costs to the direct project cost centers.

(2) Specific. Reasonable costs for the grantee's overall grant management, coordination, monitoring, and evaluation are eligible administrative costs. Subject to the ten percent limit, such costs include, but are not limited to, necessary expenditures for the following goods, activities and services:

(a) Salaries, wages, and related costs of the grantee's staff, the staff of affiliated public agencies, or other staff engaged in grantee's overall grant management activities. In charging costs to this category the recipient may either include the entire salary, wages, and related costs allocable to the program for each person whose primary responsibilities (more than 65 percent of their time) with regard to the grant program involve direct overall grant management assignments, or the pro rata share of the salary, wages, and related costs of each person whose job includes any overall grant management assignments. The grantee may use only one of these two methods during this program. Overall grant management includes the following types of activities:

(i) Preparing grantee program budgets and schedules, and amendments thereto;

(ii) Developing systems for the selection and award of funding to sub-grantees and other subrecipients;

(iii) Developing suitable agreements for use with sub-grantees and other subrecipients to carry out grant activities;

(iv) Developing systems for assuring compliance with program requirements;

(v) Monitoring sub-grantee and subrecipient activities for progress and compliance with program requirements;

(vi) Preparing presentations, reports, and other documents related to the program for submission to HUD;

(vii) Evaluating program results against stated objectives;

(viii) Providing local officials and citizens with information about the overall grant program; however, a more general education program, helping the public understand the nature of lead hazards, lead hazard reduction, blood-lead screening, and the health consequences of lead poisoning is a direct project support activity);

(ix) Coordinating the resolution of overall grant audit and monitoring findings; and

(x) Managing or supervising persons whose responsibilities with regard to the program include such assignments as those described in paragraphs (a) through (i).

(b) Travel costs incurred for official business in carrying out the overall grant management;

(c) Administrative services performed under third party contracts or agreements, for services directly allocable to grant management such as: legal services, accounting services, and audit services;

(d) Other costs for goods and services required for and directly related to the overall management of the grant program; and including such goods and services as telephone, postage, rental of equipment, renter's insurance for the program management space, utilities, office supplies, and rental and maintenance (but not purchase) of office space for the program.

(e) The fair and allocable share of grantee's general costs that are not directly attributable to specific projects or operating departments such as salaries, office expenses and other related costs for local officials (e.g., mayor and city council members, etc.), and expenses for a city's legal or accounting department which are not charged back to particular projects or other operating departments. If a grantee has an established burden rate, it should be used; if not, the grantee shall be assigned a negotiated provisional burden rate, subject to final audit.

3. Eligibility of HUD-Assisted Housing. Eligibility of HUD-associated “eligible” housing units that may participate under the Lead Hazard Reduction Demonstration Grant Program is reflected in the following chart.

BILLING CODE 4210-32-P

BILLING CODE 4210-32-C

F. Other Submission Requirements

Refer to the General Section of the SuperNOFA for other application submission requirements.

1. Addresses and Number of Copies. The applicant, must submit an original and three copies of a complete application to: HUD Headquarters; Robert C. Weaver Federal Building; 451 Seventh Street, SW., Room P3206; Washington, DC 20410; Attn: Lead Hazard Reduction.

V. Application Review Information

A. Criteria

1. Rating Factor 1: Capacity of the Applicant and Relevant Organizational Experience (30 Points)

This factor addresses your organizational capacity necessary to successfully implement the proposed activities in a timely manner. The rating of the “applicant” or the “applicant's staff” for technical merit or threshold compliance, unless otherwise specified, includes any grassroots faith-based and other community-based organizations, sub-contractors, consultants, subrecipients, and members of consortia that are firmly committed to your project. In rating this factor, HUD will consider:

a. The applicant's recent, relevant and successful demonstrated experience (including working with governmental, parent groups, and grassroots faith-based, and other community-based partners) to undertake eligible program activities. Applicants are to identify the organizations or entities that will assist the applicant in implementing the program. The applicant must describe the knowledge and experience of the current or proposed overall project director and day-to-day program manager in planning and managing large and complex interdisciplinary programs, especially involving housing rehabilitation, public health, or environmental programs. The applicant must demonstrate that it has sufficient personnel or will be able to retain qualified experts or professionals, and be prepared to perform lead hazard evaluation, lead hazard control intervention work, and other proposed activities within 120 days of the effective date of the grant award. HUD reserves the right to terminate the grant if sufficient personnel or qualified experts are not retained within these 120 days. In the narrative response for this factor, you should include information on your program staff, their experience, their commitment to the program, salary information, and position titles. Resumes (for up to three key personnel) or position descriptions for those key personnel to be hired, and a clearly identified organizational chart for the lead hazard control grant program effort (and for the overall organization) must be included in an appendix. Indicate the percentage of time that key personnel will devote to your project (see Factor 1 Table—Key Personnel and Partners). The applicant's day-to-day program manager must be experienced in the management of housing rehabilitation or lead hazard control, childhood lead poisoning prevention, or similar work involving project management. Ideally, the program manager should be available at the inception of the program in order to implement this comprehensive program within the 120-day period after the effective date of the grant award. The applicant should provide a description of any previous experience in enrolling units and in completing lead hazard control work, housing rehabilitation or other work in a timely and effective manner. Describe how any other principal components of your agency, other public entities, or other organizations will participate in implementing or otherwise supporting or participating in the grant program. You may demonstrate capacity by thoroughly describing your prior experience in initiating and implementing lead hazard control efforts and/or related environmental, health, or housing projects. You should indicate how this prior experience will be used in carrying out your proposed comprehensive Lead-Based Paint Hazard Reduction Demonstration Grant Program.

b. The applicant should discuss their plans to participate in or develop a statewide or jurisdiction-wide strategic plan to eliminate childhood lead poisoning as a major public health problem by 2010. All applicants are encouraged to include an outline of the steps that they have taken or will take to participate in or develop a statewide or jurisdiction-wide strategic plan. By September 30, 2005, applicants receiving a grant under the FY2003 Lead Hazard Reduction Demonstration Grant Program are expected to participate in an established statewide or jurisdiction-wide strategic plan to eliminate childhood lead poisoning as a major public health problem by 2010 or are to assist in the development of such a plan (further guidance will be provided to grantees on developing the elimination plan). Applicants are encouraged to collaborate with grantees of the Centers for Disease Control and Prevention (CDC), which are also required to develop such local plans. At a minimum, the plan must include the following elements:

(1) Mission Statement.

(2) Purpose and Background on Lead Poisoning Prevalence.

(3) Goals, Objectives, and Activities.

(4) Evaluation Plan.

c. If the applicant received any previous HUD Lead-Based Paint Hazard Control Grant funding, this past experience will be evaluated in terms of cumulative progress and achievements under the previous grant(s). Where the applicant has received multiple HUD Lead Hazard Control Grants, performance under the most recent grant award will be primarily evaluated. If you are a current or prior grantee, you must provide the detail necessary to assure HUD that you will implement the proposed work immediately and perform it concurrently with existing lead hazard control grant work. The applicant must provide a description of its progress and performance implementing the most recent grant award including the total number enrolled, assessed, and completed and cleared as a result of program efforts. The applicant must also describe outcomes, capacity building efforts and impediments experienced during a previous Lead Hazard Control Grant program. Other work plan activities and tasks associated with implementing HUD's Lead-Safe Housing Regulation, integrating lead-safe work practices into the private market, and promoting effective education, outreach, and other training activities should be described. The applicant should also describe specific instances where the program has contributed positive impacts in the community, and indicate what activities were undertaken to develop, enhance or expand the local infrastructure through collaboration.

HUD's evaluation process will consider an applicant's past performance record as reported to HUD in effectively organizing and managing their grant operations, in meeting performance and work plan benchmarks and goals, and in managing funds, including their ability to account for funds appropriately, the timely use of funds received either from HUD or other federal, state or local programs, and meeting performance milestones. HUD may also use other information relating to these items from sources at hand, including public sources such as newspapers, Inspector General or Government Accounting Office Reports or Findings, hotline complaints, or other sources of information that have been proven to have merit. Applicants are to complete the Factor 1 Table to support the narrative information submitted.

2. Rating Factor 2: Need/Extent of the Problem (15 Points)

This factor addresses the extent to which there is a need for the proposed program to address a documented problem related to lead-based paint and lead-based paint hazards in your identified target area(s). An applicant will be scored in this rating factor based on their documented need as evidenced by thorough, credible, and appropriate data and information. The evaluation will be based only on the applicant's documentation of the data requested. The data submitted in response to this rating factor will be verified using data available from the Census, HUDuser, other data available to HUD and/or in cooperation with the Centers for Disease Control and Prevention. The applicant is to complete the Factor 2 Table—Need/Extent of the Problem in Section IV. of this NOFA. A maximum of 15 Points will be awarded in this rating factor based on the information documenting the number of children with an elevated blood lead level (EBLL) and the number of pre-1940 occupied rental housing units in the applicant's jurisdiction.

a. Documented Number of Children with an Elevated Blood Lead Level (EBLL) (10 Points). Provide the actual number of children with an elevated blood lead level residing within the applicant's jurisdiction(s) for the most recent complete calendar year and identify the source of the data. Data prior to calendar year 2001 will not be accepted. States must report the number in the city, county, or other area where funds will actually be used. Consortia of local governments must report the number in the cities or counties making up the consortium. For the purposes of this application, a “documented case” of childhood lead poisoning is a child under six years of age with a blood lead level test result equal to or greater than 10 micrograms of lead per deciliter of blood, which was performed by a medical health care provider. The actual number of children with an elevated blood lead level (not an estimate) in the applicant's jurisdiction must be reported to HUD in order to be eligible for this grant program. Do not send the children's names or addresses or other identifiers. Failure to provide this number in the application means that the application will not be rated or ranked.

(1) Applicants are to complete the Factor 2 Table to document the number of children with an elevated blood lead level.

Points will be awarded based on the documented number of children with an elevated blood lead level according to the chart below.

Points awarded | Number of children with an elevated blood lead level (EBL ≥10 μg/dL)
2 | < 100
4 | 100-249
6 | 250-499
8 | 500-999
10 | > 1,000

b. Housing market data relevant to the applicant's jurisdiction. Housing Age. (5 Points)

(1) Housing Age for the following sub-categories: Pre-1940, 1940-1949, 1950-1959, 1960-1969, 1970-1979 and 1980 or newer are to be provided using the Factor 2 Rating Factor Table in Section IV. of this NOFA; Points will be awarded for the number of pre-1940 occupied rental units in the applicant's jurisdiction according to the chart below.

Points awarded | Pre-1940 occupied rental housing units
1 | ≥7,000 < 8,000
2 | 8,000-15,000
3 | 15,001-25,000
4 | 25,001-35,000
5 | > 35,001

3. Rating Factor 3: Soundness of Approach/Work Plan/Budget (55 Points)

This factor addresses the quality and cost-effectiveness of your proposed work plan. Applicants should develop a work plan that includes specific, measurable, and time-phased objectives for each major program activity. The applicant's work plan should reflect benchmark standards for production, expenditures, and other activities that have been developed by the Office of Healthy Homes and Lead Hazard Control. These benchmark standards, as well as policy guidance on developing work plans have been included in the Section IV. of this NOFA and are available at the HUD website at: http://www.hud.gov/offices/lead/lhc/pgi/index.cfm. This policy guidance provides a sample format and outline for developing a Lead Hazard Reduction Demonstration Grant Program Work Plan. In addition, applicants are also required to complete the HUD Program Outcome Logic Model (HUD-96010) referenced in Section IV. of this NOFA. The Logic Model is to be used by grantees to assess their own performance.

a. An applicant is to identify and describe specific methods, measures, and tools that you will use (in addition to HUD reporting requirements) to measure progress, evaluate program effectiveness, and identify program changes necessary to improve performance. Describe how you will obtain, document, and report the information. In evaluating this, HUD will consider how you have described outcome measures and benefits of your program including:

b. How your program will be held accountable for meeting program goals, objectives, and the actions undertaken in implementing the grant program. Applicants should provide a description of the mechanism to assess progress and track performance in meeting the goals and objectives outlined in the work plan. Applicants should provide assurances that work plans and performance measures developed for the program will assist intended beneficiaries, and that work will be conducted in a timely and cost-effective manner.

c. Applicants should describe the proposed activities and provide HUD with measurable outcome results to be achieved with the requested funds. Measurable outcome results should be stated in terms relevant to the purpose of the program funds as a direct result of the work performed within the performance period of the grant (e.g., estimated number of units to be made lead-safe, estimated number of children living in units made lead-safe, and the basis for these estimates).

Each proposed activity must be eligible as described in the NOFA and meet statutory requirements for assistance to low- and very low-income persons.

(1) Lead Hazard Control Work Plan Strategy (40 points). Describe your work plan goals and specific time-phased strategy to complete work under the grant within the 42-month period of performance for your lead hazard control grant program. You should provide information on:

(a) Implementing a Lead Hazard Control Program. Describe how you will implement the strategy for your proposed lead hazard control program. The description must include information on:

(i) How the project will be organized, managed, and staffed. You must also identify the specific steps that will be taken to train and ensure the availability of enough lead-based paint contractors and workers to conduct lead hazard control interventions, and to perform other program activities. In addition, a detailed description of the selection process for sub-grantees, subcontractors or subrecipients, and how assistance and funding will flow from the grantee to those who will actually perform the work under the grant.

(ii) The overall number of eligible privately owned housing units scheduled for lead hazard control intervention work and the strategy for their identification, selection, prioritization, and enrollment in the selected target area(s). Discuss the eligibility criteria for unit selection and how the program will identify units that meet these criteria. Explain how you would target resources to maximize the return on investment from grant funding. As funding is a constraint for this program, it is imperative to maximize the impact of grant dollars. Include in this discussion your proposed technical approach and how this choice addresses local conditions and needs as well as attempting to maximize the number of children protected from lead hazards. As there are a variety of reduction techniques that grantees can apply to lead hazards, it is important to that HUD be able to assess the effectiveness of a grantee's choice of a technical strategy.

Explain how referrals of eligible units will be obtained from childhood lead poisoning prevention programs, other health care or housing agencies, or health providers that serve children. Explain how you would target resources to maximize the return on investment from grant funding. As funding is a constraint for this program, it is imperative to maximize the impact of grant dollars. Include in this discussion your proposed technical approach and how this choice addresses local conditions and needs as well as attempting to maximize the number of children protected from lead hazards. As there are a variety of reduction techniques that grantees can apply to lead hazards, it is important that HUD be able to assess the effectiveness of grantees' choice of technical strategy. Also discuss how referrals are made from the Section 8/Housing Choice Voucher programs and other agencies that provide housing assistance to low-income households with children including CDBG, HOME Investment Partnerships Program-funded housing programs, or other sources. (Include as attachments any referral agreements, commitment letters or other documents from other entities that describe their participation recruiting eligible units in your program.)

(iii) The degree to which the work plan focuses on eligible privately owned housing units occupied by low-income families with children under six years of age. Describe your planned approaches to control lead hazards in vacant and/or occupied units before children are poisoned and your plans to ensure that the program will continue to affirmatively market and match these units made lead-safe with low-income families with children under six years of age in the future. Discuss strategies to control lead hazards in units where children have already been identified with an elevated blood lead level (EBL), including your process for referring and tracking children with EBLs, and your capacity to rapidly complete lead hazard control work in their units. Provide estimates of the number of low-income children you will assist through this program.

(iv) Discuss the lead hazard control financing strategy, including eligibility requirements, terms, conditions, dollar limits, and amounts available for lead hazard control work. Applicants must also describe how the program will recapture grant funds in the event that a recipient of grant funds fails to comply with any terms and conditions of the financing arrangement (e.g. affordability, sale of property, etc.). You must discuss the way assistance from the grant funds will be administered to or on behalf of property owners (e.g. use of grants, deferred loans and/or forgivable loans and the basis and schedule for forgiveness, and the role of other resources, such as private sector financing). You should identify the entity that will administer the financing process and describe how coordination and payment between the program and contractors performing the work will be accomplished. Describe matching requirements, if any, proposed for assistance to rental property owners.

(v) Describe how your proposed program will satisfy the stated needs in the Consolidated Plan or Indian Housing Plan and eliminate impediments identified in the Analysis of Impediments (AI). Also describe how your proposed program will further and support the policy priorities of the Department: Including promoting healthy homes and the quality of housing. Applicants should describe activities undertaken that remove barriers to affordable housing within their communities or support such efforts at the state and local level.

d. Technical Approach/Performance. Describe your process for the conduct of lead hazard evaluation (risk assessments and/or inspections) in units of eligible privately owned housing to confirm that there are lead-based paint hazards in the housing units where lead hazard control is undertaken.

(1) Describe your testing methods, schedule, and costs for risk assessments, paint inspections, and clearance examinations to be used. If you propose to use a more restrictive standard than the HUD/EPA thresholds (e.g., less than 0.5 percent or 1.0 mg/square centimeter for lead in paint, or less than 40, 250, 400 μg/square foot for lead in dust on floors, sills and troughs, respectively); or 400 ppm in bare soil in children's play areas and 1200 ppm for bare soil in the rest of the yard), identify the standard(s) that will be used. All testing shall be performed in accordance with applicable regulations.

(2) Describe the lead hazard control methods and strategies you will undertake and the number of units you will treat. In cases where only a few surfaces have lead hazards in a specific unit and complete abatement of all lead paint is cost-effective, the applicant must provide a detailed rationale for selecting complete abatement as a strategy. Provide an estimate of the per-unit costs (and a basis for those estimates) and a schedule for initiating and completing lead hazard control work in the selected units. Discuss efforts to incorporate cost-effective lead hazard control methods. Explain your cost estimates, providing detail on how the estimates were developed, with particular references to cost effectiveness.

(3) Schedule. Provide a realistic schedule for completing key activities, by quarter, so that all activities can be completed within the period of performance of the grant. Key production activities include enrollment of units, paint inspections/risk assessments, and completion/clearance of units. When developing the application, the applicant shall take into consideration previous experience and performance in administering similar kinds of lead hazard control or rehabilitation programs.

(4) Time frames. Describe the estimated elapsed time frame for treating a typical unit that will receive lead hazard control, including referral/intake, enrollment (qualification of the unit as eligible), combined paint inspection/risk assessments, preparation of specifications or work write-up, selection of the contractor, lead hazard control intervention work activities, quality control and monitoring of work activities, and clearance. The time frame should include an estimate of the staff and contractor time required to treat a typical unit that will receive lead hazard control. Describe the schedule for emergency referrals (e.g. unit occupied by a child under six years of age with an elevated blood lead level). List the number of units projected in each of the following categories: lead-based paint inspections/risk assessments, hazard control, and clearance inspections.

(5) Workflow and Production Control. Provide guidelines and/or flowcharts showing agency/partner responsibilities for each step in the process (from intake to clearance) and describe/show how coordination and hand-offs will be handled. Discuss how the actual production status of units, from intake to final clearance, will be monitored, and how and when production bottlenecks will be identified, remedied, and monitored.

(6) Describe your contracting process, including development of specifications or adoption of existing specifications for selected lead hazard control methods. Describe the management processes you will use to ensure the cost-effectiveness of your lead hazard control methods. Your application must include a discussion of the contracting process for the conduct of lead hazard control activities in the selected units, and requirements for coordination among lead hazard control, rehabilitation, weatherization, and other contractors.

(7) Describe your plan for occupant protection or the temporary relocation of the occupants of units selected for lead hazard control work. Describe any plan to avoid overnight relocation in small-scale projects consistent with 24 CFR Part 35.1345 (a)(2) and HUD's Interpretive Guidance of 24 CFR part 35, including J24, R18, and R19 (see http://www.hud.gov/offices/lead/guidelines/leadsaferule/index.cfm). Your work plan should address the use of safe houses and other temporary housing arrangements, storage of household goods, stipends, incentives, etc. If families or individuals are temporarily relocated in a project which utilizes Community Development Block Grant funds, the guidance and requirements of 24 CFR 570.606(b)(2)(i)D(1)-(3) must be met. HUD recommends you review these regulations when preparing your proposal.

(8) Describe your strategy for involving neighborhood or grassroots faith-based or other community-based organizations in your proposed activities. Priority activities should include increasing the enrollment of eligible privately owned housing units to receive lead treatments, but may also include inspection (including dust lead testing) and the conduct of lead hazard control activities. HUD will evaluate the proposed level of substantive involvement of such organizations during the review process.

(9) Identify and discuss the specific methods you will use (in addition to HUD reporting requirements) to document activities, progress, program effectiveness, and how changes necessary to improve performance will be implemented. Describe how you will obtain, document, and report on information collected.

(10) If you are a current or prior grantee or you have also applied to the Fiscal Year 2004 Lead Hazard Control Grant Program Notice of Funding Availability, you must describe the actions you will take to ensure that your proposed lead hazard control work will occur concurrently with other ongoing HUD lead hazard control grant work. Your application must provide the detail necessary to assure HUD that you will implement the proposed work immediately and perform it concurrently with other ongoing lead hazard control grant work.

e. Budget. (15 points) Describe your budget within the 42-month (or less) period of performance for your lead hazard control grant program. You should provide information on:

(1) Allocation of Funds. (5 points) You should describe your detailed total budget (total budget is the federal share and matching contribution) with supporting narrative and cost justifications for all budget categories of your grant request. The budget shall include not more than 10 percent for administrative costs and not less than 90 percent for direct project elements. The applicant is to provide adequate details on the 90 percent of the federal funds that are required for abatement, combined lead-based paint inspections and risk assessments, temporary relocations, and interim control of lead-based paint hazards. In addition, the applicant is to provide details on the activities that will be conducted with the remaining 10 percent of federal funds.

(2) Source/Use of Match Funds. (10 points) Specify the amount, sources, and proposed use of the 25 percent matching contribution, any additional leveraged resources, and how they will be provided (i.e., by cash, by in-kind services, or personnel). If in-kind contributions are used, attribute a monetary value, provide the basis for the value of the contribution, and explain how the contributions will be used in the project. Each source of contributions should be made in a letter of commitment from the contributing entity, describing the contributed resources and the monetary value. Resources directly contributed by the applicant are considered to be committed and do not require letters. Evidence of firm commitments and the appropriate use of match resources is necessary for receiving maximum points in this rating factor. Leveraged contributions greater than the required 25 percent matching contribution will receive a higher rating for this subfactor.

B. Reviews and Selection Process

1. Rating and Ranking. Please refer to the General Section of this SuperNOFA for details. Only those applications that meet the threshold review requirements will be rated and ranked. HUD intends to fund the highest ranked applications receiving a minimum score of 75 within the limits of funding.

a. Remaining Funds. Refer to the General Section of this SuperNOFA for HUD's procedures if funds remain after all selections have been made within a category of the NOFA.

2. Factors for Award Used to Rate and Rank Applications. The factors for rating and ranking applicants, and maximum points for each factor, are stated below:

Implementing HUD's Strategic Framework and Demonstrating Results. HUD is committed to ensuring that programs result in the achievement of HUD's strategic mission. To support this effort, grant applications submitted for HUD programs will be rated on how well they tie proposed outcomes to HUD's policy priorities and Annual Goals and Objectives, and the quality of proposed Evaluation and Monitoring Plans.

HUD is encouraging applicants to undertake specific activities that will assist the Department in implementing its policy priorities. Activities that promote the participation of grassroots faith-based and community organizations support HUD's policy priority for: Providing Full and Equal Access to Grassroots Faith-Based and Other Community-Based Organizations. An applicant will be awarded one point under Rating Factor 3 d. (8) for activities undertaken that specifically address this policy priority. For initiatives that break down regulatory barriers that impede the production of affordable housing, an applicant will be awarded up to two points under Rating Factor 3c.(1)(a)(v) for activities that remove barriers to affordable housing within their communities or support such efforts at the state and local level. Refer to the General Section of the SuperNOFA for additional details pertaining to this policy priority. Applicants addressing this policy priority are to complete Form HUD-27300—Questionnaire for HUD's Initiative on Removal of Regulatory Barriers.

This priority relates to HUD's Strategic Goal for Increasing Homeownership Opportunities and Promoting Decent Affordable Housing. The maximum number of points to be awarded is 100. A minimum score of 75 is required for fundable applications.

Rating factor | Maximum points
1. Capacity of the Applicant and Relevant Organizational Experience | 30
2. Demonstrated Need/Extent of the Problem | 15
3. Soundness of Approach/Work Plan (40 Points), Budget (15 Points) | 55
Total | 100

VI. Award Administration Information: Refer to the General Section of the SuperNOFA for Additional Details on Award Administration

A. Award Notices

1. Successful applicants will receive a letter from the Office of Healthy Homes and Lead Hazard Control Grant Officer indicating that they have been selected for an award. This letter will provide additional details regarding the effective start date of the grant and any additional data and information to be submitted to execute a grant agreement. This letter is not an authorization to begin work or incur costs under the grant. A fully executed grant agreement is the authorizing document. Unsuccessful applicants will also be notified that their application was not selected for an award and will be afforded an opportunity to request a debriefing on the unsuccessful application according to the procedures outlined in the SuperNOFA.

2. Negotiation. Refer to the General Section of the SuperNOFA for additional details.

3. Adjustments to Funding.

Refer to the General Section of the SuperNOFA for additional details.

4. Performance and Compliance Actions of Funding Recipients. HUD will measure and address the performance and compliance actions of funding recipients in accordance with the applicable standards and sanctions of their respective programs.

B. Administrative and National Policy Requirements

Refer to the General Section of the SuperNOFA for additional details regarding the Administrative and National Policy Requirements applicable to HUD Programs.

1. Administrative Requirements. a. Lead-Based Paint Hazard Reduction Act (Title X of the Housing and Community Development Act of 1992). Section 1011 of Title X Section 217 of Pub. L. 104-134 (the Omnibus Consolidated Rescissions and Appropriations Act of 1996, 110 Stat. 1321, approved April 26, 1996) amended Section 1011(a) of the Residential Lead-Based Paint Hazard Reduction Act of 1992 (Title X) to read as follows:

Section 1011. Grants for Lead-Based Paint Hazard Reduction in Target Housing

(1) General Authority. The Secretary is authorized to provide grants to eligible applicants to evaluate and reduce lead-based paint hazards in housing that is not federally assisted housing, federally owned housing, or public housing, in accordance with the provisions of this section. Grants shall only be made under this section to provide assistance for housing which meets the following criteria—

(a) For grants made to assist rental housing, at least 50 percent of the units must be occupied by or made available to families with incomes at or below 50 percent of the area median income level and the remaining units shall be occupied or made available to families with incomes at or below 80 percent of the area median income level, and in all cases the landlord shall give priority in renting units assisted under this section, for not less than three years following the completion of lead abatement activities, to families with a child under the age of six years, except that buildings with five or more units may have 20 percent of the units occupied by families with incomes above 80 percent of area median income level:

(b) For grants made to assist housing owned by owner-occupants, all units assisted with grants under this section shall be the principal residence of families with income at or below 80 percent of the area median income level, and not less than 90 percent of the units assisted with grants under this section shall be occupied by a child under the age of six years or shall be units where a child under the age of six years spends a significant amount of time visiting; For the purposes of complying with Section 1011 (1)(b) above, a unit occupied by a pregnant woman meets the Congressional intent of promoting primary prevention and may be assisted under this program.

b. Certified and Trained Performers. Funded activities must be conducted by persons qualified for the activities according to 24 CFR Part 35 (possessing certification as abatement contractors, risk assessors, inspectors, abatement workers, or sampling technicians, or others having been trained in a HUD-approved course in lead-safe work practices).

c. Coastal Barrier Resources Act. Pursuant to the Coastal Barrier Resources Act (16 U.S.C. 3501), you may not use these grant funds for properties located in the Coastal Barrier Resources System.

d. Flood Disaster Protection Act. Under the Flood Disaster Protection Act of 1973 (42 U.S.C. 4001-4128), you may not use these grant funds for lead-based paint hazard control of a building or manufactured home that is located in an area identified by the Federal Emergency Management Agency (FEMA) as having special flood hazards unless:

(1) The community in which the area is situated is participating in the National Flood Insurance Program in accordance with the applicable regulations (44 CFR parts 59-79), or less than a year has passed since FEMA notification regarding these hazards; and

(2) Where the community is participating in the National Flood Insurance Program, flood insurance on the property must be obtained in accordance with section 102(a) of the Flood Disaster Protection Act (42 U.S.C. 4012a(a)). You are responsible for assuring that flood insurance is obtained and maintained for the appropriate amount and term.

e. National Historic Preservation Act. The National Historic Preservation Act of 1966 (16 U.S.C. 470) and the regulations at 36 CFR Part 800 apply to the lead-based paint hazard control activities that are undertaken pursuant to this program. HUD and the Advisory Council for Historic Preservation have developed an optional Model Agreement for use by grantees and State Historic Preservation Officers in carrying out activities under this program. The Model Agreement may be obtained from the HUD Web site at: www.hud.gov, or the Office of Healthy Homes and Lead Hazard Control Web site at: www.hud.gov/offices/lead/grantfrm/pgi/95_06.pdf.

f. Waste Disposal. You must handle waste disposal according to the requirements of the appropriate local, state, and federal regulatory agencies. You must handle disposal of wastes from hazard control activities that contain lead-based paint, but are not classified as hazardous in accordance with state or local law or the HUD Guidelines for the Evaluation and Control of Lead-Based Hazards in Housing (HUD Guidelines). The Guidelines are available from the HUD Web site at: http://www.hud.gov/offices/lead/guidelines/hudguidelines/index.cfm.

g. Worker Protection Procedures. You must observe the procedures for worker protection established in the HUD Guidelines, as well as the requirements of the Occupational Safety and Health Administration (OSHA) (29 CFR 1926.62, Lead Exposure in Construction), or applicable state or local occupational safety and health regulations, whichever are most protective. If other applicable requirements contain more stringent requirements than the HUD Guidelines, the more rigorous standards shall be followed.

h. Davis-Bacon Act. The Davis-Bacon Act does not apply to this program. However, if you use grant funds in conjunction with other federal programs in which Davis-Bacon prevailing wage rates apply, then Davis-Bacon provisions would apply to the extent required under the other federal programs.

i. Work Plan. The work plan shall consist of the goals and specific time-phased objectives established for each of the major activities and tasks required to implement the program. These major activities and tasks are outlined in the Quarterly Progress Reporting System (Form-HUD-96006) and include: (1) Program Management and Capacity Building including data collection and program evaluation; (2) Community Education, Outreach and Training; and (3) Lead Hazard Activities including testing, interventions conducted, and relocation.

(1) The work plan narrative shall include:

(a) The management plan that describes how the project will be managed, and the timeline for staffing the program, establishing a lead-based paint contractor pool, and obtaining HUD approval for the Release of Funds Request (Form HUD-7015.15);

(b) A detailed description of how assistance and funding will flow from the grantee to the actual performers of the hazard reduction work;

(c) The selection process for sub-grantees, sub-contractors and/or subrecipients;

(d) The identification, selection, and prioritization process for the particular properties where lead hazard control interventions are to be conducted;

(e) A description of the financing mechanism used to support lead hazard control work in units (name of administering agency, eligibility requirements, type of financing (grant, forgivable or deferred loans, private sector financing, etc.), any owner contribution requirement, and the terms, conditions, and amounts of assistance available (include affordability terms and forgiveness and recapture of funds provisions);

(f) The inspection/risk assessment testing procedures using EPA standards to identify lead hazards and to conduct clearance testing. (Dust wipe samples, soil samples and any paint samples to be analyzed by a laboratory must be analyzed by a laboratory recognized by the EPA National Lead Laboratory Accreditation Program (NLAPP));

(g) The process for developing work specifications and bids on properties selected for lead hazard control;

(h) The levels of intervention and clearance procedures to be conducted for units enrolled;

(i) The number of rental-occupied, vacant, and owner-occupied units proposed for each intervention level;

(j) The relocation plan that will be carried out for residents required to be out of their homes during hazard control activities;

(k) The evaluation process used to measure program performance.

(2) Objectives and Milestones Specific and measurable performance objectives and milestones to be developed in support of the work plan narrative include:

(a) The overall objectives for lead hazard control activities including the total number of lead hazard evaluations, units projected to be completed and cleared, and the expenditure of federal grant funds (HUD Agreement HUD-1044). Quarterly performance milestones are to be developed to achieve the overall objectives for these activities;

(b) Performance benchmarks for the 42-month grants have been developed. These benchmarks included in this NOFA can also be found on the HUD Web site at: http://www.hud.gov/offices/lead/grantfrm/hudgrantee.cfm.

Development of your work plan must include and reflect these benchmark standards.

C. Reporting

Successful applicants will be required to submit quarterly, annual, and final program and financial reports according to the requirements of the Office of Healthy Homes and Lead Hazard Control. Specific guidance and additional details will be provided to successful applicants.

VII. Agency Contact(s)

For Further Information and Technical Assistance: You may contact Linda J. Ciancio, Acting Director; Program Management and Assurance Division; Office of Healthy Homes and Lead Hazard Control; 451 7th Street SW., Washington, DC 20410, or by telephone, FAX, or email: Telephone: (202) 755-1785, extension 112 (this is not a toll-free number). If you are a hearing- or speech-impaired person, you may reach the above telephone number via TTY by calling the toll-free Federal Information Relay Service at 800-877-8339; FAX: (202) 755-1000; or Email: Linda_J._Ciancio@hud.gov (use underscores)

VIII. Other Information

Refer to the General Section of the SuperNOFA for details regarding other information on submitting a complete application that meets HUD requirements.

A. Paperwork Reduction Act

The information collection requirements contained in this document have been approved by the Office of Management and Budget (OMB) under the Paperwork Reduction Act of 1995 (44 U.S.C. 3501-3520) and assigned OMB control number 2539-0015. In accordance with the Paperwork Reduction Act, HUD may not conduct or sponsor, and a person is not required to respond to, a collection of information unless the collection displays a currently valid OMB control number. Public reporting burden for the collection of information is estimated to average 80 hours per application and 16 hours per grant award. This includes the time for collecting, reviewing, and reporting the data. The information will be used for grantee selection and monitoring the administration of funds. Response to this request for information is required in order to receive the benefits to be derived.

B. Other Office of Healthy Homes and Lead Hazard Control Information

For additional general, technical, and grant program information pertaining to the Office of Healthy Homes and Lead Hazard Control visit their website at: http://www.hud.gov/offices/lead.

BILLING CODE 4210-32-P